DEPARTMENT OF HOMELAND SECURITY

Federal Emergency Management Agency

Compendium of Flood Map Changes

AGENCY: Federal Emergency Management Agency (FEMA), Emergency Preparedness and Response Directorate, Department of Homeland Security.

ACTION: Notice.

SUMMARY: This notice provides listings of changes made to National Flood Insurance Program (NFIP) maps effective during the last 6 months of 2002.

DATES: The listings include changes to NFIP maps that became effective July 1, 2002, through December 31, 2002.

FOR FURTHER INFORMATION CONTACT: Frederick H. Sharrocks, Jr., FEMA, 500 C Street S.W., Washington, DC 20472, (202) 646-2796.

SUPPLEMENTARY INFORMATION: In accordance with Section 1360(i) of the National Flood Insurance Reform Act of 1994, this notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: April 30, 2003.
Anthony S. Lowe,
Mitigation Division Director, Emergency Preparedness and Response Directorate.

Two listings are provided below. The first listing includes all Letters of Map Change issued by FEMA from July 1 through December 31, 2002. The following types of letters are included in the listing:

Type | Description
01 | Letter of Map Revision Based on Fill
02 | Letter of Map Amendment
05 | Letter of Map Revision With Base Flood Elevation Changes
06 | Letter of Map Revision Without Base Flood Elevation Changes
08 | Denial
12 | Floodway Revision
17 | Letter of Map Revision-Inadvertent Inclusion in Floodway
18 | Letter of Map Revision-Inadvertent Inclusion in V Zone
19 | Letter of Map Change Revalidation

The second listing includes map panels that FEMA physically revised and republished from July 1 through December 31, 2002. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk is shown to the right of each county name that appears in the ”Community” column. This asterisk indicates the area covered is the unincorporated areas of that county.

Region | State | Community | Map panel | Determination date | Case No. | Type
01 | CT | BEACON FALLS, TOWN OF | 0900720001B | 06-SEP-2002 | 02-01-1364A | 02
01 | CT | BERLIN, TOWN OF | 0900220010D | 23-AUG-2002 | 02-01-1550A | 17
01 | CT | BETHEL, TOWN OF | 0900010005B | 23-OCT-2002 | 02-01-1694A | 01
01 | CT | BETHEL, TOWN OF | 0900010005B | 13-DEC-2002 | 03-01-0244A | 01
01 | CT | BETHEL, TOWN OF | 0900010005B | 18-DEC-2002 | 03-01-0246A | 01
01 | CT | BRANFORD, TOWN OF | 0900730010C | 26-JUL-2002 | 02-01-1228A | 02
01 | CT | BRANFORD, TOWN OF | 0900730003D | 20-AUG-2002 | 02-01-047P | 05
01 | CT | BROOKLYN, TOWN OF | 0901640004A | 06-SEP-2002 | 02-01-1576A | 02
01 | CT | BURLINGTON, TOWN OF | 0901450020B | 24-JUL-2002 | 02-01-1222A | 02
01 | CT | CANTERBURY, TOWN OF | 0901830025A | 13-NOV-2002 | 02-01-1108A | 02
01 | CT | CANTON, TOWN OF | 0901350004C | 04-SEP-2002 | 02-01-0866A | 02
01 | CT | CHESHIRE, TOWN OF | 0900740013E | 20-SEP-2002 | 02-01-1532A | 02
01 | CT | CHESHIRE, TOWN OF | 0900740009E | 27-NOV-2002 | 03-01-0014A | 02
01 | CT | CLINTON, TOWN OF | 0900610006E | 18-OCT-2002 | 03-01-0034A | 02
01 | CT | CROMWELL, TOWN OF | 0901230005E | 18-OCT-2002 | 02-01-1384A | 02
01 | CT | DANBURY, CITY OF | 0900040005B | 12-SEP-2002 | 02-01-009P | 05
01 | CT | DANBURY, CITY OF | 0900040010B | 12-SEP-2002 | 02-01-009P | 05
01 | CT | DANBURY, CITY OF | 0900040005B | 25-SEP-2002 | 02-01-1182A | 02
01 | CT | DARIEN, TOWN OF | 0900050004D | 16-AUG-2002 | 02-01-1528A | 02
01 | CT | EASTON, TOWN OF | 0900060010B | 16-OCT-2002 | 02-01-1734A | 02
01 | CT | ENFIELD, TOWN OF | 0900280010C | 18-JUL-2002 | 02-01-1256V | 19
01 | CT | ENFIELD, TOWN OF | 0900280005C | 13-NOV-2002 | 03-01-0096A | 02
01 | CT | GRANBY, TOWN OF | 0901250010C | 14-AUG-2002 | 02-01-0826A | 02
01 | CT | GREENWICH, TOWN OF | 0900080018C | 13-SEP-2002 | 02-01-1662A | 02
01 | CT | GRISWOLD, TOWN OF | 0901730016A | 09-OCT-2002 | 02-01-1668A | 17
01 | CT | GRISWOLD, TOWN OF | 0901730016A | 11-OCT-2002 | 02-01-1670A | 02
01 | CT | GUILFORD, TOWN OF | 0900770015B | 06-SEP-2002 | 02-01-1300A | 02
01 | CT | GUILFORD, TOWN OF | 0900770010B | 18-OCT-2002 | 02-01-1770A | 02
01 | CT | HAMDEN, TOWN OF | 0900780005B | 24-JUL-2002 | 02-01-1250A | 02
01 | CT | KENT, TOWN OF | 0901860007B | 25-SEP-2002 | 02-01-1070A | 02
01 | CT | LITCHFIELD, TOWN OF | 0900470004B | 09-AUG-2002 | 02-01-1502A | 02
01 | CT | MARLBOROUGH, TOWN OF | 0901480011D | 21-OCT-2002 | 02-01-063P | 05
01 | CT | MIDDLETOWN, CITY OF | 0900680002C | 09-OCT-2002 | 02-01-1744A | 02
01 | CT | MIDDLETOWN, CITY OF | 0900680011C | 17-DEC-2002 | 02-01-045P | 05
01 | CT | MILFORD, CITY OF | 0900820003D | 21-AUG-2002 | 02-01-1560A | 02
01 | CT | MILFORD, CITY OF | 0900820006G | 06-NOV-2002 | 02-01-1684A | 02
01 | CT | NEW BRITAIN, CITY OF | 0900320005D | 17-JUL-2002 | 02-01-1336A | 02
01 | CT | NEW BRITAIN, CITY OF | 0900320005D | 16-OCT-2002 | 02-01-1740A | 02
01 | CT | NEW HAVEN, CITY OF | 0900840005D | 09-OCT-2002 | 02-01-1590A | 02
01 | CT | NEWINGTON, TOWN OF | 0900330003C | 24-JUL-2002 | 02-01-1388A | 02
01 | CT | OLD SAYBROOK, TOWN OF | 0900690004D | 23-OCT-2002 | 02-01-1610A | 02
01 | CT | OLD SAYBROOK, TOWN OF | 0900690004D | 15-NOV-2002 | 03-01-0138A | 02
01 | CT | ROCKY HILL, TOWN OF | 0901420005B | 16-OCT-2002 | 02-01-1354A | 02
01 | CT | ROCKY HILL, TOWN OF | 0901420005B | 23-OCT-2002 | 03-01-0040A | 02
01 | CT | ROXBURY, TOWN OF | 0900510005B | 16-AUG-2002 | 02-01-1552A | 02
01 | CT | ROXBURY, TOWN OF | 0900510010B | 16-AUG-2002 | 02-01-1552A | 02
01 | CT | SOMERS, TOWN OF | 0901120006B | 23-OCT-2002 | 02-01-1602A | 02
01 | CT | SOUTHINGTON, TOWN OF | 0900370011E | 03-JUL-2002 | 02-01-1276A | 02
01 | CT | SOUTHINGTON, TOWN OF | 0900370007E | 23-AUG-2002 | 02-01-1286A | 02
01 | CT | SOUTHINGTON, TOWN OF | 0900370012E | 13-SEP-2002 | 02-01-1524A | 02
01 | CT | SOUTHINGTON, TOWN OF | 0900370003E | 16-OCT-2002 | 02-01-1572A | 02
01 | CT | SOUTHINGTON, TOWN OF | 0900370003E | 16-OCT-2002 | 02-01-1586A | 02
01 | CT | SOUTHINGTON, TOWN OF | 0900370007E | 18-OCT-2002 | 02-01-1768A | 02
01 | CT | SOUTHINGTON, TOWN OF | 0900370003E | 18-DEC-2002 | 03-01-0232A | 02
01 | CT | STAMFORD, CITY OF | 0900150004C | 06-SEP-2002 | 02-01-1526A | 02
01 | CT | STAMFORD, CITY OF | 0900150007D | 04-OCT-2002 | 02-01-1342A | 02
01 | CT | STAMFORD, CITY OF | 0900150007D | 04-OCT-2002 | 02-01-1720A | 02
01 | CT | STAMFORD, CITY OF | 0900150007D | 25-OCT-2002 | 02-01-1692A | 02
01 | CT | STONINGTON, TOWN OF | 0901060016F | 04-SEP-2002 | 02-01-1386A | 02
01 | CT | STONINGTON, TOWN OF | 0901060014E | 26-DEC-2002 | 03-01-0340A | 02
01 | CT | STRATFORD, TOWN OF | 0900160002C | 04-SEP-2002 | 02-01-1580A | 02
01 | CT | TORRINGTON, CITY OF | 0950810002B | 18-OCT-2002 | 02-01-1756A | 02
01 | CT | TORRINGTON, CITY OF | 0950810003B | 18-OCT-2002 | 02-01-1756A | 02
01 | CT | VERNON, TOWN OF | 0901310005C | 26-DEC-2002 | 03-01-0038AD | 02
01 | CT | WALLINGFORD, TOWN OF | 0900900021C | 08-NOV-2002 | 03-01-0056A | 17
01 | CT | WEST HAVEN, CITY OF | 0900920001B | 10-JUL-2002 | 02-01-1180A | 02
01 | CT | WEST HAVEN, CITY OF | 0900920002C | 10-JUL-2002 | 02-01-1180A | 02
01 | CT | WEST HAVEN, CITY OF | 0900920002C | 07-AUG-2002 | 02-01-1480A | 02
01 | CT | WEST HAVEN, CITY OF | 0900920002C | 11-DEC-2002 | 03-01-0112A | 02
01 | CT | WESTPORT, TOWN OF | 0900190001C | 31-JUL-2002 | 02-01-1438A | 02
01 | CT | WESTPORT, TOWN OF | 0900190002B | 04-DEC-2002 | 02-01-1582A | 02
01 | MA | AGAWAM, TOWN OF | 2501330002A | 26-DEC-2002 | 03-01-0090A | 02
01 | MA | AMESBURY, TOWN OF | 2500750004C | 10-JUL-2002 | 02-01-1296A | 02
01 | MA | AMESBURY, TOWN OF | 2500750004C | 31-JUL-2002 | 02-01-0520A | 02
01 | MA | ARLINGTON, TOWN OF | 2501770002B | 23-OCT-2002 | 03-01-0008A | 02
01 | MA | ATTLEBORO, CITY OF | 2500490005C | 17-JUL-2002 | 02-01-1008A | 17
01 | MA | ATTLEBORO, CITY OF | 2500490005C | 04-OCT-2002 | 02-01-1600A | 17
01 | MA | ATTLEBORO, CITY OF | 2500490005C | 13-NOV-2002 | 03-01-0162A | 02
01 | MA | AUBURN, TOWN OF | 2502920005C | 30-OCT-2002 | 02-01-1680A | 02
01 | MA | AVON, TOWN OF | 2502310001C | 13-DEC-2002 | 02-01-1764A | 02
01 | MA | BERKLEY, TOWN OF | 2500500001B | 21-AUG-2002 | 02-01-1568A | 02
01 | MA | BLACKSTONE, TOWN OF | 2502950001A | 09-AUG-2002 | 02-01-1226A | 17
01 | MA | BRAINTREE, TOWN OF | 2502330004D | 03-JUL-2002 | 02-01-1106A | 02
01 | MA | BRAINTREE, TOWN OF | 2502330004D | 13-SEP-2002 | 02-01-1664A | 02
01 | MA | BRAINTREE, TOWN OF | 2502330005D | 13-SEP-2002 | 02-01-1664A | 02
01 | MA | BRAINTREE, TOWN OF | 2502330002D | 18-SEP-2002 | 02-01-1594A | 02
01 | MA | BRAINTREE, TOWN OF | 2502330004D | 20-SEP-2002 | 02-01-1504A | 02
01 | MA | BRIDGEWATER, TOWN OF | 2502600002C | 08-NOV-2002 | 03-01-0098A | 02
01 | MA | BROCKTON, CITY OF | 2502610005C | 13-SEP-2002 | 02-01-1492A | 02
01 | MA | CHELMSFORD, TOWN OF | 2501880005B | 16-OCT-2002 | 02-01-1798A | 02
01 | MA | CHELMSFORD, TOWN OF | 2501880010B | 06-DEC-2002 | 03-01-0060A | 02
01 | MA | CHESTER, TOWN OF | 2501360015B | 16-OCT-2002 | 02-01-1716A | 02
01 | MA | CONCORD, TOWN OF | 2501890005B | 22-NOV-2002 | 02-01-067P | 05
01 | MA | DARTMOUTH, TOWN OF | 2500510020C | 14-AUG-2002 | 02-01-1422A | 02
01 | MA | DENNIS, TOWN OF | 2500050006C | 20-SEP-2002 | 02-01-1658A | 02
01 | MA | EVERETT, CITY OF | 2501920001B | 18-DEC-2002 | 03-01-0174A | 02
01 | MA | FALMOUTH, TOWN OF | 2552110008G | 21-AUG-2002 | 02-01-1494A | 02
01 | MA | FOXBOROUGH, TOWN OF | 2502390003B | 20-SEP-2002 | 02-01-0498A | 01
01 | MA | HANOVER, TOWN OF | 2502660003B | 04-OCT-2002 | 02-01-1622A | 02
01 | MA | HANOVER, TOWN OF | 2502660001B | 18-DEC-2002 | 03-01-0048A | 02
01 | MA | HOLBROOK, TOWN OF | 2552120001D | 13-NOV-2002 | 02-01-1714A | 02
01 | MA | HOLLAND, TOWN OF | 2501410005B | 18-SEP-2002 | 02-01-1358A | 02
01 | MA | LEOMINSTER, CITY OF | 2503140007B | 06-SEP-2002 | 02-01-1458A | 02
01 | MA | LOWELL, CITY OF | 2502010003D | 12-JUL-2002 | 02-01-1096A | 02
01 | MA | LOWELL, CITY OF | 2502010006D | 11-DEC-2002 | 03-01-0332A | 02
01 | MA | LYNNFIELD, TOWN OF | 2500890005C | 16-AUG-2002 | 02-01-1490A | 02
01 | MA | MALDEN, CITY OF | 2502020003C | 21-AUG-2002 | 02-01-1392V | 19
01 | MA | MALDEN, CITY OF | 2502020005C | 21-AUG-2002 | 02-01-1392V | 19
01 | MA | MALDEN, CITY OF | 2502020006C | 21-AUG-2002 | 02-01-1392V | 19
01 | MA | MALDEN, CITY OF | 2502020006C | 20-DEC-2002 | 03-01-0260A | 02
01 | MA | MANSFIELD, TOWN OF | 250057—02A | 11-OCT-2002 | 02-01-1758A | 02
01 | MA | MANSFIELD, TOWN OF | 250057—03A | 27-NOV-2002 | 03-01-0234A | 02
01 | MA | MASHPEE, TOWN OF | 2500090008F | 04-OCT-2002 | 02-01-1712A | 02
01 | MA | MAYNARD, TOWN OF | 2502040005B | 02-AUG-2002 | 02-01-0850A | 02
01 | MA | MELROSE , CITY OF | 2502060001B | 18-SEP-2002 | 02-01-1570A | 02
01 | MA | METHUEN, CITY OF | 2500930010C | 04-DEC-2002 | 02-01-1396A | 02
01 | MA | METHUEN, CITY OF | 2500930005C | 20-DEC-2002 | 03-01-0200A | 02
01 | MA | NEWTON, CITY OF | 2502080004D | 06-NOV-2002 | 03-01-0010A | 02
01 | MA | NORTH ANDOVER, TOWN OF | 2500980012C | 20-DEC-2002 | 03-01-0220A | 02
01 | MA | NORTON, TOWN OF | 2500600006C | 11-OCT-2002 | 02-01-1004A | 02
01 | MA | NORTON, TOWN OF | 2500600005C | 16-OCT-2002 | 02-01-1696A | 02
01 | MA | NORWOOD, TOWN OF | 2502480005B | 20-DEC-2002 | 03-01-0080A | 02
01 | MA | ORLEANS, TOWN OF | 2500100003E | 02-AUG-2002 | 02-01-1060A | 02
01 | MA | PEMBROKE, TOWN OF | 2502770010C | 12-JUL-2002 | 02-01-1352A | 02
01 | MA | QUINCY, CITY OF | 2552190002C | 24-JUL-2002 | 02-01-1204A | 02
01 | MA | QUINCY, CITY OF | 2552190004C | 24-JUL-2002 | 02-01-1204A | 02
01 | MA | QUINCY, CITY OF | 2552190016B | 07-AUG-2002 | 02-01-0027A | 02
01 | MA | QUINCY, CITY OF | 2552190004C | 07-AUG-2002 | 02-01-1290A | 02
01 | MA | QUINCY, CITY OF | 2552190004C | 23-AUG-2002 | 02-01-1456A | 02
01 | MA | QUINCY, CITY OF | 2552190002C | 16-OCT-2002 | 03-01-0004A | 02
01 | MA | REVERE, CITY OF | 2502880008C | 21-AUG-2002 | 02-01-1616V | 19
01 | MA | REVERE, CITY OF | 2502880008C | 19-DEC-2002 | 03-01-0202A | 02
01 | MA | SALEM, CITY OF | 2501020002B | 10-JUL-2002 | 02-01-0666A | 02
01 | MA | SOMERSET, TOWN OF | 2552200002B | 18-DEC-2002 | 03-01-0204A | 02
01 | MA | SOUTHWICK, TOWN OF | 2501490010B | 14-AUG-2002 | 02-01-1412A | 02
01 | MA | STOUGHTON, TOWN OF | 2502530001B | 20-SEP-2002 | 02-01-1632A | 02
01 | MA | SWAMPSCOTT, TOWN OF | 2501050001C | 01-NOV-2002 | 02-01-1190A | 02
01 | MA | TAUNTON, CITY OF | 2500660008C | 13-SEP-2002 | 02-01-1362A | 02
01 | MA | TAUNTON, CITY OF | 2500660003C | 06-DEC-2002 | 03-01-0142A | 02
01 | MA | TEWKSBURY, TOWN OF | 2502180005B | 07-AUG-2002 | 02-01-1114A | 02
01 | MA | TOPSFIELD, TOWN OF | 2501060001D | 12-JUL-2002 | 02-01-1208A | 02
01 | MA | TYNGSBOROUGH, TOWN OF | 2502200005B | 26-JUL-2002 | 02-01-1170A | 02
01 | MA | UPTON, TOWN OF | 2503400006B | 18-SEP-2002 | 02-01-1460A | 02
01 | MA | UPTON, TOWN OF | 2503400015B | 06-NOV-2002 | 02-01-1630A | 02
01 | MA | WAREHAM, TOWN OF | 2552230004C | 16-AUG-2002 | 02-01-1546A | 02
01 | MA | WELLESLEY, TOWN OF | 2502550005B | 04-DEC-2002 | 02-01-1674A | 02
01 | MA | WELLFLEET, TOWN OF | 2500140008B | 18-DEC-2002 | 03-01-0248A | 02
01 | MA | WEST BRIDGEWATER, TOWN OF | 2502840005B | 18-DEC-2002 | 03-01-0252A | 02
01 | MA | WEST NEWBURY, TOWN OF | 2501080005A | 16-AUG-2002 | 02-01-1496A | 02
01 | MA | WESTBOROUGH, TOWN OF | 2503440004B | 18-SEP-2002 | 02-01-1176A | 01
01 | MA | WESTBOROUGH, TOWN OF | 2503440001B | 23-OCT-2002 | 03-01-0020A | 02
01 | MA | WESTFIELD, CITY OF | 2501530020B | 08-NOV-2002 | 03-01-0124A | 02
01 | MA | WESTFORD, TOWN OF | 2502250007B | 07-AUG-2002 | 02-01-1444A | 02
01 | MA | WESTON, TOWN OF | 2502260005B | 03-JUL-2002 | 02-01-1236A | 02
01 | MA | WESTWOOD, TOWN OF | 2552250009D | 16-OCT-2002 | 02-01-1784A | 02
01 | MA | WEYMOUTH, TOWN OF | 2502570002B | 14-AUG-2002 | 02-01-0035A | 02
01 | MA | WEYMOUTH, TOWN OF | 2502570007C | 09-OCT-2002 | 02-01-1614A | 02
01 | MA | WILMINGTON, TOWN OF | 2502270002C | 14-AUG-2002 | 02-01-1472A | 02
01 | MA | WRENTHAM, TOWN OF | 2502580001B | 13-DEC-2002 | 03-01-0192A | 02
01 | MA | YARMOUTH, TOWN OF | 2500150006D | 08-NOV-2002 | 03-01-0166A | 02
01 | ME | ADDISON, TOWN OF | 2301320015B | 20-NOV-2002 | 02-01-1574A | 02
01 | ME | ADDISON, TOWN OF | 2301320020B | 20-NOV-2002 | 02-01-1574A | 02
01 | ME | AUBURN, CITY OF | 2300010007C | 19-JUL-2002 | 02-01-1102A | 02
01 | ME | BAR HARBOR, TOWN OF | 2300640005B | 28-AUG-2002 | 02-01-1540A | 02
01 | ME | BAR HARBOR, TOWN OF | 2300640005B | 11-OCT-2002 | 02-01-1730A | 02
01 | ME | BAR HARBOR, TOWN OF | 2300640015B | 11-DEC-2002 | 03-01-0250A | 18
01 | ME | BELGRADE, TOWN OF | 2302320010B | 26-JUL-2002 | 02-01-1184A | 02
01 | ME | BELGRADE, TOWN OF | 2302320005B | 30-OCT-2002 | 02-01-1792A | 02
01 | ME | BLUE HILL, TOWN OF | 2302740015A | 02-AUG-2002 | 02-01-1416A | 02
01 | ME | BLUE HILL, TOWN OF | 2302740025A | 02-AUG-2002 | 02-01-1416A | 02
01 | ME | BLUE HILL, TOWN OF | 2302740015A | 13-SEP-2002 | 02-01-1470A | 02
01 | ME | BLUE HILL, TOWN OF | 2302740025A | 13-SEP-2002 | 02-01-1470A | 02
01 | ME | BLUE HILL, TOWN OF | 2302740025A | 23-DEC-2002 | 02-01-055P | 05
01 | ME | BOOTHBAY, TOWN OF | 2302120011B | 24-JUL-2002 | 02-01-1284A | 02
01 | ME | BOOTHBAY, TOWN OF | 2302120013B | 25-SEP-2002 | 02-01-1666A | 02
01 | ME | BREWER, CITY OF | 2301040005B | 10-SEP-2002 | 02-01-011P | 05
01 | ME | BREWER, CITY OF | 2301040005B | 11-DEC-2002 | 03-01-0216A | 02
01 | ME | CAMDEN, TOWN OF | 2300740014B | 17-JUL-2002 | 02-01-025P | 05
01 | ME | CAMDEN, TOWN OF | 2300740015B | 16-OCT-2002 | 02-01-1710A | 02
01 | ME | CARRABASSETT VALLEY, TOWN OF | 2300560015C | 13-SEP-2002 | 02-01-1564A | 02
01 | ME | CASCO, TOWN OF | 2300440020B | 10-JUL-2002 | 02-01-1098A | 02
01 | ME | CASCO, TOWN OF | 2300440026B | 11-DEC-2002 | 02-01-1708A | 02
01 | ME | CASCO, TOWN OF | 2300440012B | 13-DEC-2002 | 03-01-0258A | 02
01 | ME | CASTINE, TOWN OF | 2302770005B | 26-JUL-2002 | 02-01-1274A | 18
01 | ME | CHINA, TOWN OF | 2302350010B | 04-DEC-2002 | 03-01-0178A | 02
01 | ME | DEDHAM, TOWN OF | 230279—04 | 16-OCT-2002 | 02-01-1688A | 02
01 | ME | DEDHAM, TOWN OF | 230279 —04 | 13-NOV-2002 | 03-01-0018A | 02
01 | ME | DEER ISLE, TOWN OF | 2302800020B | 08-NOV-2002 | 03-01-0068A | 18
01 | ME | DIXFIELD, TOWN OF | 2300920004C | 15-NOV-2002 | 02-01-1566A | 02
01 | ME | ELLSWORTH, CITY OF | 2300660025B | 13-NOV-2002 | 03-01-0078A | 02
01 | ME | FRANKFORT, TOWN OF | 2302540005A | 01-NOV-2002 | 02-01-1686A | 02
01 | ME | GLENBURN, TOWN OF | 2301060005C | 21-AUG-2002 | 02-01-1462A | 02
01 | ME | GORHAM, TOWN OF | 2300470015B | 27-SEP-2002 | 02-01-1534A | 02
01 | ME | GOULDSBORO,TOWN OF | 2302830020B | 26-JUL-2002 | 02-01-1306A | 18
01 | ME | GOULDSBORO,TOWN OF | 2302830020B | 14-AUG-2002 | 02-01-1292A | 18
01 | ME | GRAY, TOWN OF | 2300480010A | 19-JUL-2002 | 02-01-1318A | 02
01 | ME | GRAY, TOWN OF | 2300480010A | 28-AUG-2002 | 02-01-1536A | 02
01 | ME | GREENWOOD, TOWN OF | 230332—01 A | 17-JUL-2002 | 02-01-1012A | 02
01 | ME | GREENWOOD, TOWN OF | 230332—01A | 16-OCT-2002 | 02-01-1706A | 02
01 | ME | HANCOCK, TOWN OF | 2302840005A | 24-JUL-2002 | 02-01-1356A | 02
01 | ME | HANCOCK, TOWN OF | 2302840005A | 14-AUG-2002 | 02-01-1482A | 02
01 | ME | HARMONY, TOWN OF | 230360 B | 26-AUG-2002 | 02-01-043P | 05
01 | ME | HARPSWELL, TOWN OF | 2301690010B | 24-JUL-2002 | 02-01-1246A | 02
01 | ME | HARPSWELL, TOWN OF | 2301690011B | 02-AUG-2002 | 02-01-1406A | 02
01 | ME | HARPSWELL, TOWN OF | 2301690003B | 28-AUG-2002 | 02-01-1382A | 02
01 | ME | HARPSWELL, TOWN OF | 2301690006B | 18-OCT-2002 | 02-01-1678A | 02
01 | ME | HARPSWELL, TOWN OF | 2301690010B | 06-NOV-2002 | 02-01-1704A | 18
01 | ME | HARPSWELL, TOWN OF | 2301690010B | 06-NOV-2002 | 02-01-1738A | 18
01 | ME | HARPSWELL, TOWN OF | 2301690006B | 22-NOV-2002 | 03-01-0024A | 02
01 | ME | HARPSWELL, TOWN OF | 2301690010B | 04-DEC-2002 | 02-01-1702A | 18
01 | ME | HOPE, CITY OF | 230226—02 A | 25-OCT-2002 | 03-01-0012A | 02
01 | ME | ISLESBORO, TOWN OF | 2302560010C | 04-OCT-2002 | 02-01-1698A | 02
01 | ME | ISLESBORO, TOWN OF | 2302560015D | 06-DEC-2002 | 03-01-0222A | 02
01 | ME | KENNEBUNK, TOWN OF | 2301510015C | 27-NOV-2002 | 03-01-0076A | 02
01 | ME | KENNEBUNKPORT, TOWN OF | 2301700005B | 25-SEP-2002 | 02-01-1112A | 02
01 | ME | KITTERY, TOWN OF | 2301710005D | 08-NOV-2002 | 02-01-1786A | 02
01 | ME | LAMOINE, TOWN OF | 2302850010A | 14-AUG-2002 | 02-01-1446A | 02
01 | ME | LEBANON, TOWN OF | 2301930013A | 04-JUL-2002 | 02-01-1264V | 19
01 | ME | LEBANON, TOWN OF | 2301930040A | 04-JUL-2002 | 02-01-1264V | 19
01 | ME | LEBANON, TOWN OF | 2301930058A | 04-JUL-2002 | 02-01-1264V | 19
01 | ME | LEBANON, TOWN OF | 2301930004A | 27-SEP-2002 | 02-01-1418A | 17
01 | ME | LIMINGTON, TOWN OF | 2301520005C | 21-AUG-2002 | 02-01-1104A | 02
01 | ME | LINCOLN, TOWN OF | 2301090015B | 21-AUG-2002 | 02-01-1510A | 02
01 | ME | LINCOLNVILLE, TOWN OF | 2301720019A | 11-OCT-2002 | 02-01-1672A | 02
01 | ME | LINNEUS, TOWN OF | 230427—01 A | 06-NOV-2002 | 02-01-1762A | 02
01 | ME | LITCHFIELD, TOWN OF | 2302380005B | 21-AUG-2002 | 02-01-1210A | 02
01 | ME | LITCHFIELD, TOWN OF | 2302380010B | 27-NOV-2002 | 03-01-0158A | 02
01 | ME | LIVERMORE, TOWN OF | 2301730005B | 02-AUG-2002 | 02-01-1326A | 02
01 | ME | LOWELL, TOWN OF | 230395—03A | 02-AUG-2002 | 02-01-1278A | 02
01 | ME | MACHIAS, TOWN OF | 2301400005B | 13-NOV-2002 | 03-01-0030A | 02
01 | ME | MADRID, TOWN OF | 230350—09A | 13-SEP-2002 | 02-01-1618A | 02
01 | ME | MONMOUTH, TOWN OF | 2302400010A | 31-JUL-2002 | 02-01-1330A | 02
01 | ME | NEW LIMERICK, TOWN OF | 230432—01 A | 11-DEC-2002 | 03-01-0208A | 02
01 | ME | NEWPORT, TOWN OF | 230398—08 B | 20-DEC-2002 | 03-01-0304A | 02
01 | ME | NORTHFIELD, TOWN OF | 230318—02 | 06-NOV-2002 | 02-01-1640A | 02
01 | ME | OLD TOWN, CITY OF | 2301120001A | 24-JUL-2002 | 02-01-1120A | 02
01 | ME | OLD TOWN, CITY OF | 2301120004A | 28-AUG-2002 | 02-01-1538A | 02
01 | ME | ORLAND,TOWN OF | 230288—08A | 18-SEP-2002 | 02-01-1634A | 02
01 | ME | ORLAND,TOWN OF | 230288—08 A | 30-OCT-2002 | 02-01-1796A | 02
01 | ME | ORRINGTON, TOWN OF | 2301800018A | 18-JUL-2002 | 02-01-1390V | 19
01 | ME | ORRINGTON, TOWN OF | 2301800032A | 18-JUL-2002 | 02-01-1390V | 19
01 | ME | ORRINGTON, TOWN OF | 2301800035A | 18-JUL-2002 | 02-01-1390V | 19
01 | ME | ORRINGTON, TOWN OF | 2301800032A | 27-NOV-2002 | 03-01-0066A | 02
01 | ME | ORRINGTON, TOWN OF | 2301800032A | 04-DEC-2002 | 02-01-1584A | 02
01 | ME | PALMYRA, TOWN OF | 230366—05 B | 16-OCT-2002 | 02-01-1648A | 02
01 | ME | PASSADUMKEAG, TOWN OF | 2301140005A | 21-AUG-2002 | 02-01-1172A | 02
01 | ME | PENOBSCOT, TOWN OF | 2302900005A | 23-OCT-2002 | 02-01-1748A | 02
01 | ME | PHIPPSBURG, TOWN OF | 2301200002C | 18-OCT-2002 | 02-01-1724A | 02
01 | ME | PITTSFIELD, TOWN OF | 2301270005C | 02-OCT-2002 | 02-01-1558A | 02
01 | ME | PORTLAND, CITY OF | 2300510008B | 04-OCT-2002 | 02-01-1450A | 02
01 | ME | PORTLAND, CITY OF | 2300510007C | 27-NOV-2002 | 03-01-0160A | 02
01 | ME | RANGELEY, TOWN OF | 2303520006B | 13-NOV-2002 | 03-01-0054A | 02
01 | ME | ROME, TOWN OF | 2302460010B | 19-JUL-2002 | 02-01-1304A | 02
01 | ME | ROME, TOWN OF | 2302460005B | 20-DEC-2002 | 03-01-0330A | 02
01 | ME | RUMFORD, TOWN OF | 2300990016B | 13-SEP-2002 | 02-01-1608A | 02
01 | ME | SANFORD, TOWN OF | 2301560005E | 04-DEC-2002 | 03-01-0106A | 01
01 | ME | SCARBOROUGH, TOWN OF | 2300520021D | 30-OCT-2002 | 02-01-1794A | 02
01 | ME | SCARBOROUGH, TOWN OF | 2300520021D | 20-DEC-2002 | 03-01-0300A | 02
01 | ME | SEBAGO, TOWN OF | 2302060018B | 25-OCT-2002 | 02-01-1726A | 02
01 | ME | SOUTH BERWICK, TOWN OF | 2301570015C | 06-NOV-2002 | 02-01-1464A | 02
01 | ME | SOUTHWEST HARBOR, TOWN OF | 2302930015B | 25-OCT-2002 | 02-01-1746A | 01
01 | ME | ST. ALBANS, TOWN OF | 230369—02A | 13-SEP-2002 | 02-01-1598A | 02
01 | ME | ST. ALBANS, TOWN OF | 230369—03 A | 11-DEC-2002 | 03-01-0240A | 02
01 | ME | ST. GEORGE, TOWN OF | 2302290010C | 08-NOV-2002 | 03-01-0028A | 02
01 | ME | SULLIVAN, TOWN OF | 230295—01 A | 15-NOV-2002 | 03-01-0108A | 02
01 | ME | SURRY, TOWN OF | 2302960005B | 21-AUG-2002 | 02-01-1340A | 02
01 | ME | SURRY, TOWN OF | 2302960005B | 25-OCT-2002 | 02-01-1732A | 02
01 | ME | SURRY, TOWN OF | 2302960015B | 26-DEC-2002 | 02-01-1760A | 18
01 | ME | SWANS ISLAND,TOWN OF | 230297—08A | 24-JUL-2002 | 02-01-1338A | 02
01 | ME | TRENTON, TOWN OF | 2302990010A | 14-AUG-2002 | 02-01-1466A | 02
01 | ME | TRENTON, TOWN OF | 2302990010A | 13-SEP-2002 | 02-01-1372A | 02
01 | ME | TURNER, TOWN OF | 2300100003B | 26-DEC-2002 | 03-01-0298A | 02
01 | ME | VINALHAVEN, TOWN OF | 230230—01 A | 27-NOV-2002 | 03-01-0052A | 02
01 | ME | WASHINGTON, TOWN OF | 230082—10 A | 27-NOV-2002 | 03-01-0146A | 02
01 | ME | WATERBORO, TOWN OF | 2301990009C | 23-OCT-2002 | 02-01-0932A | 01
01 | ME | WINDHAM, TOWN OF | 2301890015B | 14-AUG-2002 | 02-01-1370A | 02
01 | ME | WINDHAM, TOWN OF | 2301890030B | 23-AUG-2002 | 02-01-1468A | 02
01 | ME | WINDHAM, TOWN OF | 2301890030B | 15-NOV-2002 | 02-01-0380A | 02
01 | ME | WINDHAM, TOWN OF | 2301890035B | 04-DEC-2002 | 03-01-0180A | 02
01 | ME | YORK, TOWN OF | 2301590024D | 02-AUG-2002 | 02-01-1054A | 02
01 | ME | YORK, TOWN OF | 2301590022D | 01-NOV-2002 | 02-01-1728A | 02
01 | ME | YORK, TOWN OF | 2301590024D | 11-DEC-2002 | 03-01-0104A | 02
01 | NH | ALTON, TOWN OF | 3300010020B | 25-SEP-2002 | 02-01-1650A | 02
01 | NH | AMHERST, TOWN OF | 3300810010B | 06-SEP-2002 | 02-01-1442A | 02
01 | NH | AMHERST, TOWN OF | 3300810010B | 13-SEP-2002 | 02-01-1308A | 02
01 | NH | BARTLETT, TOWN OF | 3300100010C | 20-NOV-2002 | 03-01-0218A | 02
01 | NH | CONWAY, TOWN OF | 3300110020C | 25-SEP-2002 | 02-01-1424A | 02
01 | NH | CONWAY, TOWN OF | 3300010035C | 06-NOV-2002 | 03-01-0088A | 02
01 | NH | CONWAY, TOWN OF | 3300110020C | 04-DEC-2002 | 03-01-0092A | 02
01 | NH | CONWAY, TOWN OF | 3300110040C | 06-DEC-2002 | 03-01-0214A | 02
01 | NH | CONWAY, TOWN OF | 3300110040C | 06-DEC-2002 | 03-01-0288A | 02
01 | NH | CONWAY, TOWN OF | 3300110040C | 26-DEC-2002 | 03-01-0344A | 02
01 | NH | DEERFIELD, TOWN OF | 3301120005B | 23-OCT-2002 | 03-01-0042A | 02
01 | NH | DEERFIELD, TOWN OF | 330217—01 | 23-OCT-2002 | 03-01-0042A | 02
01 | NH | DOVER, CITY OF | 3301450009B | 12-JUL-2002 | 02-01-1146A | 02
01 | NH | EPSOM, TOWN OF | 3301120005B | 23-OCT-2002 | 03-01-0042AD | 02
01 | NH | EXETER, TOWN OF | 3301300003B | 19-JUL-2002 | 02-01-1294A | 02
01 | NH | FREMONT, TOWN OF | 3301310005C | 09-AUG-2002 | 02-01-1348A | 02
01 | NH | FREMONT, TOWN OF | 3301310005C | 16-OCT-2002 | 02-01-1752A | 02
01 | NH | GILSUM, TOWN OF | 3300210015B | 07-AUG-2002 | 02-01-0812A | 02
01 | NH | HAMPTON, TOWN OF | 3301320008B | 16-AUG-2002 | 02-01-1544A | 02
01 | NH | LACONIA, CITY OF | 3300050002B | 24-JUL-2002 | 02-01-1280A | 02
01 | NH | MADISON, TOWN OF | 3302200001A | 13-SEP-2002 | 02-01-1512A | 02
01 | NH | MADISON, TOWN OF | 3302200001A | 26-DEC-2002 | 03-01-0280A | 02
01 | NH | MEREDITH, TOWN OF | 3300060010B | 14-AUG-2002 | 02-01-1530A | 02
01 | NH | MEREDITH, TOWN OF | 3300060010B | 27-NOV-2002 | 03-01-0044A | 02
01 | NH | MERRIMACK, TOWN OF | 3300950005A | 04-DEC-2002 | 03-01-0236A | 02
01 | NH | MIDDLETON, TOWN OF | 3302220001B | 04-DEC-2002 | 03-01-0134A | 02
01 | NH | MIDDLETON, TOWN OF | 3302220001B | 06-DEC-2002 | 03-01-0286A | 02
01 | NH | MOULTONBOROUGH, TOWN OF | 3300150002C | 31-JUL-2002 | 02-01-0620A | 02
01 | NH | NASHUA, CITY OF | 3300970038C | 04-JUL-2002 | 02-01-1262V | 19
01 | NH | NASHUA, CITY OF | 3300970075C | 04-JUL-2002 | 02-01-1262V | 19
01 | NH | NASHUA, CITY OF | 3300970057C | 01-NOV-2002 | 02-01-0065A | 02
01 | NH | NASHUA, CITY OF | 3300970075C | 13-DEC-2002 | 02-01-1722A | 02
01 | NH | NEW DURHAM, TOWN OF | 3302270010B | 13-SEP-2002 | 02-01-1646A | 02
01 | NH | NEW HAMPTON, TOWN OF | 330007—03B | 27-NOV-2002 | 03-01-0228A | 02
01 | NH | NEW LONDON, TOWN OF | 3302300010B | 02-AUG-2002 | 02-01-0842A | 02
01 | NH | NORTH HAMPTON, TOWN OF | 3302320005B | 30-OCT-2002 | 02-01-1302A | 02
01 | NH | NORTHWOOD, TOWN OF | 3308550006A | 13-SEP-2002 | 02-01-1588A | 02
01 | NH | NORTHWOOD, TOWN OF | 3308550005A | 18-OCT-2002 | 02-01-1772A | 01
01 | NH | OSSIPEE, TOWN OF | 3300160019C | 15-NOV-2002 | 03-01-0212A | 02
01 | NH | PLYMOUTH, TOWN OF | 3300720005C | 14-DEC-2002 | 02-01-049P | 05
01 | NH | RINDGE, TOWN OF | 3301890010B | 13-SEP-2002 | 02-01-1486A | 02
01 | NH | SALEM, TOWN OF | 3301420010C | 09-AUG-2002 | 02-01-1500A | 02
01 | NH | WILMOT, TOWN OF | 330124—11B | 12-JUL-2002 | 02-01-1238A | 02
01 | NH | WOLFEBORO, TOWN OF | 3302390015A | 11-DEC-2002 | 03-01-0230A | 01
01 | RI | BARRINGTON, TOWN OF | 44001C0002F | 06-SEP-2002 | 02-01-1612A | 02
01 | RI | COVENTRY, TOWN OF | 4400040013B | 19-JUL-2002 | 02-01-1282A | 02
01 | RI | COVENTRY, TOWN OF | 4400040009B | 26-JUL-2002 | 02-01-0966A | 02
01 | RI | CRANSTON, CITY OF | 4453960009B | 25-SEP-2002 | 02-01-1682A | 02
01 | RI | CUMBERLAND, TOWN OF | 4400160004B | 07-AUG-2002 | 02-01-1360A | 02
01 | RI | EAST GREENWICH, TOWN OF | 4453970002B | 18-DEC-2002 | 03-01-0318A | 02
01 | RI | GLOCESTER, TOWN OF | 4400340010C | 21-AUG-2002 | 02-01-1562A | 02
01 | RI | GLOCESTER, TOWN OF | 4400340005C | 30-OCT-2002 | 03-01-0016A | 02
01 | RI | NORTH KINGSTOWN, TOWN OF | 4454040004C | 14-AUG-2002 | 02-01-1514A | 02
01 | RI | NORTH KINGSTOWN, TOWN OF | 4454040002C | 13-SEP-2002 | 02-01-1410A | 01
01 | RI | NORTH PROVIDENCE, TOWN OF | 4400200002C | 13-NOV-2002 | 03-01-0058A | 02
01 | RI | PROVIDENCE, CITY OF | 4454060002F | 09-OCT-2002 | 02-01-1742A | 02
01 | RI | TIVERTON, TOWN OF | 4400120003C | 03-JUL-2002 | 02-01-1220A | 02
01 | RI | WARWICK, CITY OF | 4454090003E | 03-JUL-2002 | 02-01-1316A | 02
01 | RI | WARWICK, CITY OF | 4454090009D | 07-AUG-2002 | 02-01-1478A | 02
01 | RI | WESTERLY, TOWN OF | 4454100015D | 26-JUL-2002 | 02-01-1408A | 02
01 | VT | BARNET, TOWN OF | 5000240030C | 16-AUG-2002 | 02-01-1518A | 02
01 | VT | BLOOMFIELD, TOWN OF | 5000450015B | 06-DEC-2002 | 03-01-0268A | 02
01 | VT | BROWNINGTON, TOWN OF | 500245—7A | 31-JUL-2002 | 02-01-1454A | 02
01 | VT | CALAIS, TOWN OF | 500109—06B | 24-JUL-2002 | 02-01-1376A | 02
01 | VT | CAMBRIDGE, VILLAGE OF | 5002280001B | 06-NOV-2002 | 03-01-0086A | 02
01 | VT | CANAAN, TOWN OF | 5000460005B | 31-JUL-2002 | 02-01-1436A | 02
01 | VT | CASTLETON, TOWN OF | 5000910002B | 06-NOV-2002 | 03-01-0094A | 02
01 | VT | CAVENDISH, TOWN OF | 5001450020B | 13-SEP-2002 | 02-01-1628A | 02
01 | VT | COLCHESTER, TOWN OF | 5000330006B | 06-NOV-2002 | 03-01-0072A | 02
01 | VT | DOVER, TOWN OF | 5001270010C | 25-JUL-2002 | 02-01-1420A | 02
01 | VT | FAYSTON, TOWN OF | 5003260011A | 26-DEC-2002 | 03-01-0348A | 02
01 | VT | GLOVER, TOWN OF | 5002510020B | 24-JUL-2002 | 02-01-1270A | 02
01 | VT | GOSHEN, TOWN OF | 5000040010C | 21-AUG-2002 | 02-01-1578A | 02
01 | VT | HARDWICK, TOWN AND VILLAGE OF | 5000270012D | 18-JUL-2002 | 02-01-1394V | 19
01 | VT | HARTLAND, TOWN OF | 5001490010A | 13-SEP-2002 | 02-01-1626A | 02
01 | VT | HARTLAND, TOWN OF | 5001490010A | 11-DEC-2002 | 03-01-0316A | 02
01 | VT | HYDE PARK, TOWN OF | 5002300020B | 23-AUG-2002 | 02-01-1592A | 02
01 | VT | JAMAICA, TOWN OF | 5001310008C | 13-DEC-2002 | 03-01-0296A | 02
01 | VT | LEMINGTON, TOWN OF | 5002120010B | 24-JUL-2002 | 02-01-1156A | 02
01 | VT | LINCOLN, TOWN OF | 5000070015B | 26-JUL-2002 | 02-01-1448X | 17
01 | VT | LYNDON, TOWN OF | 5000280020B | 13-SEP-2002 | 02-01-1654A | 02
01 | VT | MONKTON, TOWN OF | 5001670005A | 30-OCT-2002 | 03-01-0074A | 02
01 | VT | MONTPELIER, CITY OF | 5055180002A | 19-JUL-2002 | 02-01-1218A | 02
01 | VT | MONTPELIER, CITY OF | 5055180002A | 15-NOV-2002 | 02-01-1774A | 02
01 | VT | MORETOWN, TOWN OF | 5001160001C | 10-JUL-2002 | 02-01-1240A | 02
01 | VT | MORGAN, TOWN OF | 500255—02 | 18-OCT-2002 | 02-01-1754A | 02
01 | VT | MORGAN, TOWN OF | 500255—02 | 18-OCT-2002 | 03-01-0036A | 02
01 | VT | MORGAN, TOWN OF | 500255—02 | 13-NOV-2002 | 03-01-0156A | 02
01 | VT | MORGAN, TOWN OF | 500255—02 | 11-DEC-2002 | 03-01-0290A | 02
01 | VT | NORTH HERO, TOWN OF | 5002250005A | 04-DEC-2002 | 03-01-0238A | 02
01 | VT | PLAINFIELD, TOWN OF | 5002750001C | 30-OCT-2002 | 02-01-1038A | 02
01 | VT | POULTNEY, TOWN OF | 5000990015B | 26-DEC-2002 | 03-01-0336A | 02
01 | VT | RUTLAND, CITY OF | 5001010001C | 25-SEP-2002 | 02-01-1652A | 02
01 | VT | RUTLAND, CITY OF | 5001010001C | 18-DEC-2002 | 03-01-0320A | 02
01 | VT | SHEFFIELD, TOWN OF | 500194—03A | 27-NOV-2002 | 03-01-0182A | 02
01 | VT | SWANTON, TOWN OF | 5002200007B | 20-DEC-2002 | 03-01-0278A | 02
01 | VT | WOODSTOCK, TOWN OF | 5001600017D | 30-AUG-2002 | 02-01-1556A | 17
01 | VT | WOODSTOCK, VILLAGE OF | 5001610011D | 06-SEP-2002 | 02-01-1624A | 02
02 | NJ | BERKELEY HEIGHTS, TOWNSHIP OF | 3404590003E | 19-JUL-2002 | 02-02-1188A | 02
02 | NJ | BERKELEY HEIGHTS, TOWNSHIP OF | 3404590003E | 13-SEP-2002 | 02-02-1388A | 02
02 | NJ | BERNARDS, TOWNSHIP OF | 3404280010B | 10-JUL-2002 | 02-02-1386A | 02
02 | NJ | BERNARDS, TOWNSHIP OF | 3404280005B | 13-SEP-2002 | 02-02-1426A | 02
02 | NJ | BERNARDS, TOWNSHIP OF | 3404280005B | 26-DEC-2002 | 03-02-0348A | 02
02 | NJ | BERNARDSVILLE, BOROUGH OF | 3404290001B | 20-SEP-2002 | 02-02-1632A | 02
02 | NJ | BERNARDSVILLE, BOROUGH OF | 3404290001B | 09-OCT-2002 | 02-02-1720A | 02
02 | NJ | BERNARDSVILLE, BOROUGH OF | 3404290001B | 25-OCT-2002 | 02-02-1694A | 02
02 | NJ | BERNARDSVILLE, BOROUGH OF | 3404290001B | 20-DEC-2002 | 02-02-1696A | 02
02 | NJ | BRICK, TOWNSHIP OF | 3452850005D | 18-OCT-2002 | 02-02-1790A | 02
02 | NJ | BRIGANTINE, CITY OF | 3452860003B | 20-NOV-2002 | 02-02-057P | 05
02 | NJ | BYRAM, TOWNSHIP OF | 3405570005A | 20-DEC-2002 | 02-02-1764A | 02
02 | NJ | CHATHAM, TOWNSHIP OF | 3405040006C | 16-OCT-2002 | 02-02-1754A | 02
02 | NJ | CINNAMINSON, TOWNSHIP OF | 3400920005B | 27-SEP-2002 | 02-02-1550A | 02
02 | NJ | CINNAMINSON, TOWNSHIP OF | 3400920005B | 02-OCT-2002 | 02-02-1648A | 02
02 | NJ | CRANFORD, TOWNSHIP OF | 3452910001B | 27-SEP-2002 | 02-02-1786A | 02
02 | NJ | DOVER, TOWNSHIP OF | 3452930002D | 10-JUL-2002 | 02-02-1244A | 02
02 | NJ | DOVER, TOWNSHIP OF | 3452930007D | 13-NOV-2002 | 03-02-0076A | 02
02 | NJ | DUMONT, BOROUGHS OF | 34003C0203F | 04-DEC-2002 | 02-02-1920A | 02
02 | NJ | EAST HANOVER, TOWNSHIP OF | 3403410005D | 09-OCT-2002 | 02-02-1782A | 02
02 | NJ | EDISON, TOWNSHIP OF | 3402610006C | 07-AUG-2002 | 02-02-1116A | 02
02 | NJ | EDISON, TOWNSHIP OF | 3402610003C | 06-DEC-2002 | 02-02-1636A | 01
02 | NJ | EGG HARBOR, TOWNSHIP OF | 3400070019B | 03-JUL-2002 | 02-02-1358A | 02
02 | NJ | EGG HARBOR, TOWNSHIP OF | 3400070014B | 06-DEC-2002 | 02-02-1966A | 02
02 | NJ | EVESHAM, TOWNSHIP OF | 3400970005C | 25-SEP-2002 | 02-02-1476A | 02
02 | NJ | FAIR LAWN, BOROUGH OF | 34003C0167F | 14-AUG-2002 | 02-02-1588A | 02
02 | NJ | FAIR LAWN, BOROUGH OF | 34003C0167F | 27-SEP-2002 | 02-02-1608A | 02
02 | NJ | FAIR LAWN, BOROUGH OF | 34003C0186F | 27-SEP-2002 | 02-02-1700A | 02
02 | NJ | FAIRFIELD, TOWNSHIP OF | 3452950002C | 02-AUG-2002 | 02-02-1520A | 02
02 | NJ | FARMINGDALE, BOROUGH OF | 340296B | 04-DEC-2002 | 02-02-1742A | 02
02 | NJ | FRANKLIN, TOWNSHIP OF | 3404340005B | 26-DEC-2002 | 02-02-055P | 05
02 | NJ | FRENCHTOWN, BOROUGH OF | 3402340001C | 09-OCT-2002 | 02-02-1732A | 02
02 | NJ | GUTTENBERG, TOWN OF | 3402290001B | 27-SEP-2002 | 02-02-0958AD | 01
02 | NJ | HAMILTON, TOWNSHIP OF | 3402460015C | 19-JUL-2002 | 02-02-1284A | 02
02 | NJ | HAMILTON, TOWNSHIP OF | 3402460015C | 24-JUL-2002 | 02-02-1464A | 02
02 | NJ | HAMILTON, TOWNSHIP OF | 3402460015C | 20-SEP-2002 | 02-02-1596A | 02
02 | NJ | HAMILTON, TOWNSHIP OF | 3402460005B | 11-OCT-2002 | 02-02-1744A | 02
02 | NJ | HAMILTON, TOWNSHIP OF | 3402460015C | 16-OCT-2002 | 02-02-1784A | 02
02 | NJ | HAMILTON, TOWNSHIP OF | 3402460005B | 18-OCT-2002 | 02-02-1902A | 02
02 | NJ | HAMILTON, TOWNSHIP OF | 3402460015C | 15-NOV-2002 | 02-02-1808A | 02
02 | NJ | HAMMONTON, TOWN OF | 3400100015C | 08-NOV-2002 | 02-02-1824A | 02
02 | NJ | HAMMONTON, TOWN OF | 3400100015C | 26-DEC-2002 | 03-02-0174A | 02
02 | NJ | HOLLAND, TOWNSHIP OF | 3405090006C | 10-JUL-2002 | 02-02-1402A | 02
02 | NJ | JACKSON, TOWNSHIP OF | 3403750025A | 04-OCT-2002 | 02-02-1546A | 02
02 | NJ | JERSEY CITY, CITY OF | 3402230003B | 02-AUG-2002 | 02-02-1500A | 02
02 | NJ | LAKEWOOD, TOWNSHIP OF | 3403780005B | 04-SEP-2002 | 02-02-1208A | 02
02 | NJ | LAWRENCE, TOWNSHIP OF | 3402500002B | 25-SEP-2002 | 02-02-1524A | 02
02 | NJ | LINWOOD, CITY OF | 3400110001B | 27-SEP-2002 | 02-02-1362A | 01
02 | NJ | LINWOOD, CITY OF | 3400110001B | 23-OCT-2002 | 02-02-1974A | 01
02 | NJ | LIVINGSTON, TOWNSHIP OF | 3401850004E | 30-AUG-2002 | 02-02-0748A | 02
02 | NJ | MANALAPAN, TOWNSHIP OF | 3403080001A | 01-NOV-2002 | 02-02-1534A | 02
02 | NJ | MANSFIELD, TOWNSHIP OF | 3404910005C | 24-JUL-2002 | 02-02-1470A | 02
02 | NJ | MANVILLE, BOROUGH OF | 3404370001B | 02-OCT-2002 | 02-02-1576A | 02
02 | NJ | MARLBORO, TOWNSHIP OF | 3403100005B | 02-AUG-2002 | 02-02-0830A | 02
02 | NJ | MARLBORO, TOWNSHIP OF | 3403100005B | 13-SEP-2002 | 02-02-1510A | 02
02 | NJ | MEDFORD, TOWNSHIP OF | 3401040010B | 09-OCT-2002 | 02-02-1950A | 02
02 | NJ | MIDDLESEX, BOROUGH OF | 3453050001B | 08-NOV-2002 | 02-02-1706A | 02
02 | NJ | MIDDLETOWN, TOWNSHIP OF | 3403130003B | 30-AUG-2002 | 02-02-1056A | 01
02 | NJ | MIDDLETOWN, TOWNSHIP OF | 3403130002B | 17-OCT-2002 | 02-02-1912A | 02
02 | NJ | MIDDLETOWN, TOWNSHIP OF | 3403130002B | 04-DEC-2002 | 02-02-1714A | 02
02 | NJ | MILLSTONE, TOWNSHIP OF | 3403140007B | 13-SEP-2002 | 02-02-1242A | 02
02 | NJ | MONROE, TOWNSHIP OF | 3402690001C | 23-AUG-2002 | 02-02-023P | 05
02 | NJ | MONROE, TOWNSHIP OF | 3402690002D | 23-AUG-2002 | 02-02-023P | 05
02 | NJ | MONTVILLE, TOWNSHIP OF | 3403490001B | 15-NOV-2002 | 03-02-0080A | 02
02 | NJ | MORRIS PLAINS, BOROUGH OF | 3403510002C | 07-AUG-2002 | 02-02-1518A | 02
02 | NJ | MOUNT LAUREL, TOWNSHIP OF | 3401070010E | 17-JUL-2002 | 02-02-0862A | 02
02 | NJ | MOUNT LAUREL, TOWNSHIP OF | 3401070010E | 02-OCT-2002 | 02-02-1506A | 02
02 | NJ | MOUNTAINSIDE, BOROUGH OF | 3404680001A | 04-OCT-2002 | 02-02-1702A | 02
02 | NJ | NEPTUNE CITY, BOROUGH OF | 340316—01B | 20-SEP-2002 | 02-02-1482A | 02
02 | NJ | NEPTUNE, TOWNSHIP OF | 3403170002C | 17-JUL-2002 | 02-02-1440A | 02
02 | NJ | NEPTUNE, TOWNSHIP OF | 3403170003C | 09-AUG-2002 | 02-02-1574A | 02
02 | NJ | NEW PROVIDENCE, BOROUGH OF | 3453060001D | 03-JUL-2002 | 02-02-1270A | 02
02 | NJ | NORWOOD, BOROUGH OF | 34003C0114F | 01-NOV-2002 | 02-02-1626A | 02
02 | NJ | OAKLAND, BOROUGH OF | 34003C0061F | 09-OCT-2002 | 02-02-1616A | 02
02 | NJ | OAKLAND, BOROUGH OF | 34003C0061F | 11-OCT-2002 | 02-02-1508A | 01
02 | NJ | OAKLAND, BOROUGH OF | 34003C0061F | 11-OCT-2002 | 02-02-1606A | 02
02 | NJ | OAKLAND, BOROUGH OF | 34003C0061F | 04-DEC-2002 | 03-02-0138A | 01
02 | NJ | OLD BRIDGE, TOWNSHIP OF | 3402650005E | 06-NOV-2002 | 02-02-1740A | 02
02 | NJ | OLD BRIDGE, TOWNSHIP OF | 3402650006D | 20-DEC-2002 | 03-02-0170A | 02
02 | NJ | OLD TAPPAN, BOROUGH OF | 34003C0113F | 09-AUG-2002 | 02-02-1562A | 02
02 | NJ | ORANGE, CITY OF | 3401920001A | 27-NOV-2002 | 02-02-1644A | 02
02 | NJ | PARAMUS, BOROUGHS OF | 34003C0179F | 20-DEC-2002 | 03-02-0162A | 02
02 | NJ | PARSIPPANY-TROY HILLS, TOWNSHIP OF | 3403550009B | 20-DEC-2002 | 03-02-0178A | 02
02 | NJ | PASSAIC, TOWNSHIP OF | 3403560005B | 10-JUL-2002 | 02-02-1062A | 02
02 | NJ | PENNSVILLE, TOWNSHIP OF | 3405120003B | 23-OCT-2002 | 02-02-1670A | 02
02 | NJ | PEQUANNOCK, TOWNSHIP OF | 3453110003C | 13-SEP-2002 | 02-02-1532A | 01
02 | NJ | PEQUANNOCK, TOWNSHIP OF | 3453110003C | 25-SEP-2002 | 02-02-1672A | 01
02 | NJ | PEQUANNOCK, TOWNSHIP OF | 3453110003C | 26-DEC-2002 | 03-02-0168A | 02
02 | NJ | PLUMSTED, TOWNSHIP OF | 3403860010B | 13-SEP-2002 | 02-02-1420A | 02
02 | NJ | POINT PLEASANT BEACH, BOROUGH OF | 3403880001D | 23-OCT-2002 | 02-02-1726A | 02
02 | NJ | POINT PLEASANT, BOROUGH OF | 3453130001B | 25-SEP-2002 | 02-02-1704A | 02
02 | NJ | POMPTON LAKES, BORO OF | 3455280001E | 14-AUG-2002 | 02-02-1594A | 02
02 | NJ | PRINCETON, BOROUGH OF | 340253—01A | 06-NOV-2002 | 02-02-1262A | 02
02 | NJ | RAMSEY, BOROUGH OF | 34003C0067F | 20-NOV-2002 | 03-02-0030A | 02
02 | NJ | RAMSEY, BOROUGH OF | 34003C0067F | 27-NOV-2002 | 03-02-0256A | 02
02 | NJ | SOUTH AMBOY, CITY OF | 3402770001D | 20-DEC-2002 | 02-02-1976A | 02
02 | NJ | STONE HARBOR, BOROUGH OF | 3453230001C | 13-SEP-2002 | 02-02-1664A | 02
02 | NJ | SUMMIT, CITY OF | 3404760001B | 13-SEP-2002 | 02-02-1418A | 02
02 | NJ | SUMMIT, CITY OF | 3404760001B | 27-NOV-2002 | 02-02-1938A | 02
02 | NJ | UPPER SADDLE RIVER, BOROUGH OF | 34003C0086G | 03-JUL-2002 | 02-02-1212A | 02
02 | NJ | UPPER SADDLE RIVER, BOROUGH OF | 34003C0086G | 03-JUL-2002 | 02-02-1214A | 02
02 | NJ | UPPER SADDLE RIVER, BOROUGH OF | 34003C0079G | 03-JUL-2002 | 02-02-1216A | 02
02 | NJ | UPPER SADDLE RIVER, BOROUGH OF | 34003C0086G | 03-JUL-2002 | 02-02-1246A | 02
02 | NJ | UPPER SADDLE RIVER, BOROUGH OF | 34003C0086G | 03-JUL-2002 | 02-02-1250A | 02
02 | NJ | UPPER SADDLE RIVER, BOROUGH OF | 34003C0079G | 03-JUL-2002 | 02-02-1252A | 02
02 | NJ | UPPER SADDLE RIVER, BOROUGH OF | 34003C0078G | 03-JUL-2002 | 02-02-1256A | 02
02 | NJ | UPPER SADDLE RIVER, BOROUGH OF | 34003C0086G | 03-JUL-2002 | 02-02-1256A | 02
02 | NJ | UPPER SADDLE RIVER, BOROUGH OF | 34003C0078G | 03-JUL-2002 | 02-02-1258A | 02
02 | NJ | UPPER SADDLE RIVER, BOROUGH OF | 34003C0086G | 10-JUL-2002 | 02-02-0818A | 02
02 | NJ | UPPER SADDLE RIVER, BOROUGH OF | 34003C0078G | 10-JUL-2002 | 02-02-0820A | 02
02 | NJ | UPPER SADDLE RIVER, BOROUGH OF | 34003C0086G | 10-JUL-2002 | 02-02-0820A | 02
02 | NJ | UPPER SADDLE RIVER, BOROUGH OF | 34003C0078G | 10-JUL-2002 | 02-02-1218A | 02
02 | NJ | UPPER SADDLE RIVER, BOROUGH OF | 34003C0079G | 10-JUL-2002 | 02-02-1248A | 02
02 | NJ | UPPER SADDLE RIVER, BOROUGH OF | 34003C0078G | 10-JUL-2002 | 02-02-1254A | 02
02 | NJ | UPPER SADDLE RIVER, BOROUGH OF | 34003C0078G | 14-AUG-2002 | 02-02-1292A | 02
02 | NJ | UPPER SADDLE RIVER, BOROUGH OF | 34003C0086G | 14-AUG-2002 | 02-02-1292A | 02
02 | NJ | UPPER SADDLE RIVER, BOROUGH OF | 34003C0078G | 14-AUG-2002 | 02-02-1294A | 02
02 | NJ | UPPER SADDLE RIVER, BOROUGH OF | 34003C0086G | 14-AUG-2002 | 02-02-1296A | 02
02 | NJ | UPPER SADDLE RIVER, BOROUGH OF | 34003C0079G | 14-AUG-2002 | 02-02-1298A | 02
02 | NJ | UPPER SADDLE RIVER, BOROUGH OF | 34003C0079G | 16-AUG-2002 | 02-02-1300A | 02
02 | NJ | UPPER SADDLE RIVER, BOROUGH OF | 34003C0078G | 16-AUG-2002 | 02-02-1302A | 02
02 | NJ | UPPER SADDLE RIVER, BOROUGH OF | 34003C0086G | 16-AUG-2002 | 02-02-1302A | 02
02 | NJ | UPPER SADDLE RIVER, BOROUGH OF | 34003C0078G | 21-AUG-2002 | 01-02-0538A | 02
02 | NJ | UPPER SADDLE RIVER, BOROUGH OF | 34003C0086G | 21-AUG-2002 | 01-02-0538A | 02
02 | NJ | UPPER SADDLE RIVER, BOROUGH OF | 34003C0078G | 21-AUG-2002 | 02-02-1070A | 02
02 | NJ | VERNON, TOWNSHIP OF | 3405610015B | 27-NOV-2002 | 02-02-1364A | 01
02 | NJ | WALL, TOWNSHIP OF | H&I-04 | 11-OCT-2002 | 02-02-1934A | 02
02 | NJ | WATCHUNG, BOROUGH OF | 3404470001C | 21-AUG-2002 | 02-02-1570V | 19
02 | NJ | WATCHUNG, BOROUGH OF | 3404470003C | 21-AUG-2002 | 02-02-1570V | 19
02 | NJ | WAYNE, TOWNSHIP OF | 3453270002B | 30-OCT-2002 | 02-02-1766A | 02
02 | NJ | WEST MILFORD, TOWNSHIP OF | 3404110010B | 02-AUG-2002 | 02-02-0886A | 02
02 | NJ | WEST MILFORD, TOWNSHIP OF | 3404110004B | 02-AUG-2002 | 02-02-1316A | 02
02 | NJ | WEST NEW YORK, TOWN OF | 3402200001B | 27-SEP-2002 | 02-02-0958A | 02
02 | NJ | WEST NEW YORK, TOWN OF | 3402290001B | 27-SEP-2002 | 02-02-0958A | 02
02 | NJ | WOODBRIDGE, TOWNSHIP OF | 3453310002C | 04-SEP-2002 | 02-02-1622A | 02
02 | NY | AKRON, VILLAGE OF | 3615530001B | 08-NOV-2002 | 02-02-1908A | 02
02 | NY | ALBANY, CITY OF | 3600010004C | 02-OCT-2002 | 02-02-1400A | 02
02 | NY | ALDEN, VILLAGE OF | 3602240001C | 02-AUG-2002 | 02-02-0898A | 02
02 | NY | AMHERST, TOWN OF | 3602260006E | 03-JUL-2002 | 02-02-1368A | 02
02 | NY | AMHERST, TOWN OF | 3602260006E | 03-JUL-2002 | 02-02-1410A | 02
02 | NY | AMHERST, TOWN OF | 3602260006E | 03-JUL-2002 | 02-02-1412A | 02
02 | NY | AMHERST, TOWN OF | 3602260007E | 24-JUL-2002 | 02-02-1340A | 02
02 | NY | AMHERST, TOWN OF | 3602260004D | 21-AUG-2002 | 02-02-1528A | 02
02 | NY | AMHERST, TOWN OF | 3602260006E | 25-OCT-2002 | 02-02-1814A | 02
02 | NY | AMHERST, TOWN OF | 3602260007E | 25-OCT-2002 | 02-02-1816A | 02
02 | NY | AMHERST, TOWN OF | 3602260007E | 01-NOV-2002 | 02-02-1794A | 02
02 | NY | AMHERST, TOWN OF | 3602260004D | 20-NOV-2002 | 03-02-0024A | 02
02 | NY | AMHERST, TOWN OF | 3602260007E | 18-DEC-2002 | 02-02-1684A | 01
02 | NY | AMHERST, TOWN OF | 3602260007E | 26-DEC-2002 | 03-02-0002A | 02
02 | NY | AMHERST, TOWN OF | 3602260006E | 26-DEC-2002 | 03-02-0130A | 02
02 | NY | ANGOLA, VILLAGE OF | 3609820002C | 07-AUG-2002 | 02-02-1572V | 19
02 | NY | AURORA, TOWN OF | 3602270005B | 16-OCT-2002 | 02-02-1516A | 02
02 | NY | BATAVIA, TOWN OF | 3602780015B | 30-OCT-2002 | 02-02-1954A | 02
02 | NY | BATH, VILLAGE OF | 3607670002E | 13-NOV-2002 | 02-02-1038A | 01
02 | NY | BRIGHTON, TOWN OF | 3604100010B | 17-JUL-2002 | 02-02-1330A | 02
02 | NY | BRIGHTON, TOWN OF | 3604100010B | 27-NOV-2002 | 02-02-1956A | 02
02 | NY | BRIGHTWATERS, VILLAGE OF | 36103C0859G | 25-SEP-2002 | 02-02-1604A | 02
02 | NY | BROOKHAVEN,TOWN OF | 36103C0912G | 31-JUL-2002 | 02-02-1140A | 18
02 | NY | BROOKHAVEN,TOWN OF | 36103C0714G | 23-OCT-2002 | 02-02-1750A | 02
02 | NY | BUFFALO, CITY OF | 3602300010C | 26-JUL-2002 | 02-02-1454A | 02
02 | NY | BUFFALO, CITY OF | 3602300010C | 26-JUL-2002 | 02-02-1456A | 02
02 | NY | CAMBRIA, TOWN OF | 3604990005B | 25-SEP-2002 | 02-02-1538A | 02
02 | NY | CAMBRIDGE, VILLAGE OF | 3608830001C | 03-JUL-2002 | 02-02-0934A | 02
02 | NY | CAMPBELL, TOWN OF | 3607680010C | 30-AUG-2002 | 02-02-1552A | 02
02 | NY | CANTON, TOWN OF | 3611720075B | 20-DEC-2002 | 02-02-1958A | 02
02 | NY | CAZENOVIA, TOWN OF | 3612900008A | 25-SEP-2002 | 02-02-1530A | 02
02 | NY | CHEEKTOWAGA, TOWN OF | 3602310005E | 15-NOV-2002 | 02-02-1540A | 02
02 | NY | CHITTENANGO, VILLAGE OF | 3603950002B | 25-OCT-2002 | 02-02-1810A | 02
02 | NY | CICERO, TOWN OF | 3605720015D | 10-JUL-2002 | 02-02-1338A | 02
02 | NY | CICERO, TOWN OF | 3605720015D | 18-OCT-2002 | 02-02-1686A | 02
02 | NY | CICERO, TOWN OF | 3605720006D | 06-DEC-2002 | 02-02-1722A | 02
02 | NY | CICERO, TOWN OF | 3605720006D | 26-DEC-2002 | 03-02-0150A | 02
02 | NY | CLARENCE, TOWN OF | 3602320005C | 03-JUL-2002 | 02-02-1314A | 01
02 | NY | CLARENCE, TOWN OF | 3602320005C | 03-JUL-2002 | 02-02-1380A | 02
02 | NY | CLARENCE, TOWN OF | 3602320005C | 04-SEP-2002 | 02-02-1634A | 02
02 | NY | CLARENCE, TOWN OF | 0362320005C | 04-SEP-2002 | 02-02-1652A | 02
02 | NY | CLARENCE, TOWN OF | 3602320005C | 25-SEP-2002 | 02-02-0416A | 02
02 | NY | CLARENCE, TOWN OF | 3602320005C | 25-SEP-2002 | 02-02-0854A | 01
02 | NY | CLARENCE, TOWN OF | 3602320014C | 25-SEP-2002 | 02-02-1438A | 01
02 | NY | CLARENCE, TOWN OF | 3602320013C | 25-SEP-2002 | 02-02-1630A | 02
02 | NY | CLARENCE, TOWN OF | 3602320005C | 25-OCT-2002 | 02-02-1718A | 01
02 | NY | CLARENCE, TOWN OF | 3602320005C | 25-OCT-2002 | 02-02-1820A | 02
02 | NY | CLARENCE, TOWN OF | 3602320013C | 25-OCT-2002 | 02-02-1838A | 01
02 | NY | CLARENCE, TOWN OF | 3602320005C | 26-DEC-2002 | 03-02-0112A | 02
02 | NY | CLARKSTOWN, TOWN OF | 3606790004F | 13-SEP-2002 | 02-02-1610A | 02
02 | NY | CLARKSTOWN, TOWN OF | 3606790004F | 25-OCT-2002 | 02-02-1914A | 02
02 | NY | CLERMONT, TOWNSHIP OF | 3613150014B | 02-AUG-2002 | 02-02-1020A | 02
02 | NY | CLINTON, TOWN OF | 3613340010C | 19-JUL-2002 | 02-02-0282A | 02
02 | NY | COBLESKILL, VILLAGE OF | 3607430002B | 26-DEC-2002 | 03-02-0146A | 02
02 | NY | CONKLIN, TOWN OF | 3600420005C | 18-OCT-2002 | 02-02-1472A | 02
02 | NY | CORTLAND, CITY OF | 3601780001C | 19-JUL-2002 | 02-02-1328A | 02
02 | NY | CORTLAND, CITY OF | 3601780001C | 13-SEP-2002 | 02-02-1582A | 02
02 | NY | CORTLAND, CITY OF | 3601780001C | 16-OCT-2002 | 02-02-1716A | 02
02 | NY | CORTLAND, CITY OF | 3601780001C | 06-DEC-2002 | 02-02-1924A | 02
02 | NY | CORTLANDT, TOWN OF | 3609060005B | 23-OCT-2002 | 02-02-1578A | 02
02 | NY | CORTLANDT, TOWN OF | 3609060005B | 01-NOV-2002 | 02-02-1836A | 02
02 | NY | DANSVILLE, VILLAGE OF | 3603830001A | 30-AUG-2002 | 02-02-1372A | 02
02 | NY | DE RUYTER, TOWN OF | 3612910005B | 06-NOV-2002 | 02-02-1802A | 02
02 | NY | DEPEW, VILLAGE OF | 3602360004B | 04-SEP-2002 | 02-02-1654A | 02
02 | NY | EAST AURORA, VILLAGE OF | 3653350002C | 07-AUG-2002 | 02-02-1568V | 19
02 | NY | EAST ROCKAWAY, VILLAGE OF | 36059C0218F | 18-OCT-2002 | 02-02-1738A | 02
02 | NY | ELLISBURG, TOWN OF | 3603340010B | 16-AUG-2002 | 02-02-1432A | 02
02 | NY | ELMA,TOWN OF | 3602390006B | 18-DEC-2002 | 03-02-0078A | 02
02 | NY | EVANS, TOWN OF | 3602400003F | 19-JUL-2002 | 02-02-1424A | 02
02 | NY | EVANS, TOWN OF | 3602400003F | 27-SEP-2002 | 02-02-1556A | 02
02 | NY | EVANS, TOWN OF | 3602400003F | 23-OCT-2002 | 02-02-1542A | 01
02 | NY | GATES, TOWN OF | 3604160002B | 26-JUL-2002 | 02-02-1404A | 02
02 | NY | GATES, TOWN OF | 3604160003B | 22-NOV-2002 | 02-02-1972A | 02
02 | NY | GLOVERSVILLE, CITY OF | 3602750001B | 20-DEC-2002 | 02-02-1940A | 02
02 | NY | GOSHEN, TOWN OF | 3606140005B | 06-DEC-2002 | 02-02-1736A | 02
02 | NY | GRANVILLE, VILLAGE OF | 3608860001B | 27-NOV-2002 | 02-02-1848A | 02
02 | NY | GREEN ISLAND, VILLAGE OF | 3600090001B | 23-OCT-2002 | 02-02-1618A | 02
02 | NY | GROVE, TOWN OF | 3610050010C | 02-AUG-2002 | 02-02-0836A | 02
02 | NY | HAMBURG, TOWN OF | 3602440007D | 03-JUL-2002 | 02-02-0890A | 02
02 | NY | HAMBURG, TOWN OF | 3602440006D | 02-AUG-2002 | 02-02-1100A | 02
02 | NY | HAMBURG, TOWN OF | 3602440014D | 21-AUG-2002 | 02-02-1042A | 02
02 | NY | HAMBURG, TOWN OF | 3602440007D | 27-SEP-2002 | 02-02-0844A | 02
02 | NY | HAMBURG, TOWN OF | 3602440006D | 13-NOV-2002 | 02-02-1098A | 02
02 | NY | HAMBURG, TOWN OF | 3602440002D | 15-NOV-2002 | 02-02-1182A | 02
02 | NY | HAMLIN, TOWN OF | 3604180002C | 02-AUG-2002 | 02-02-1416A | 02
02 | NY | HARRISON, TOWN OF | 3609120011B | 25-OCT-2002 | 02-02-1930A | 02
02 | NY | HEMPSTEAD, TOWN OF | 36059C0243F | 19-JUL-2002 | 02-02-1332A | 02
02 | NY | HEMPSTEAD, TOWN OF | 36059C0301F | 24-JUL-2002 | 02-02-1370A | 02
02 | NY | HEMPSTEAD, TOWN OF | 36059C0238F | 21-AUG-2002 | 02-02-1448A | 02
02 | NY | HEMPSTEAD, TOWN OF | 36059C0243F | 04-DEC-2002 | 02-02-1968A | 02
02 | NY | HEMPSTEAD, TOWN OF | 36059C0301F | 04-DEC-2002 | 03-02-0072A | 02
02 | NY | HENDERSON, TOWN OF | 3603380015B | 13-SEP-2002 | 02-02-1656A | 02
02 | NY | HIGHLAND, TOWN OF | 3608220020C | 22-NOV-2002 | 02-02-1830A | 02
02 | NY | HOMER, TOWN OF | 3601810010B | 25-OCT-2002 | 02-02-1728A | 02
02 | NY | HOUNSFIELD, TOWN OF | 3603400009C | 03-JUL-2002 | 02-02-1322A | 01
02 | NY | IRONDEQUOIT, TOWN OF | 3604220005B | 09-OCT-2002 | 02-02-1502A | 02
02 | NY | ISLIP,TOWNSHIP OF | 36103C0859G | 08-NOV-2002 | 02-02-1832A | 02
02 | NY | JAY, TOWN OF | 3602650021D | 16-OCT-2002 | 02-02-1564A | 02
02 | NY | LACKAWANNA, CITY OF | 3602470001B | 03-JUL-2002 | 02-02-1180A | 02
02 | NY | LACKAWANNA, CITY OF | 3602470001B | 25-OCT-2002 | 02-02-1926A | 02
02 | NY | LAGRANGE, TOWN OF | 3610110015D | 02-AUG-2002 | 02-02-1190A | 02
02 | NY | LINDENHURST, VILLAGE OF | 36103C0861G | 08-NOV-2002 | 02-02-1774A | 02
02 | NY | LIVONIA, TOWN OF | 3603860005C | 19-JUL-2002 | 02-02-1430A | 02
02 | NY | LLOYD, TOWN OF | 3610120003D | 27-NOV-2002 | 02-02-1690A | 02
02 | NY | LOCKPORT, TOWN OF | 3610130001D | 05-OCT-2002 | 02-02-1964V | 19
02 | NY | LOCKPORT, TOWN OF | 3610130004D | 05-OCT-2002 | 02-02-1964V | 19
02 | NY | LOCKPORT, TOWN OF | 3610130008D | 05-OCT-2002 | 02-02-1964V | 19
02 | NY | LOCKPORT, TOWN OF | 3610130012D | 05-OCT-2002 | 02-02-1964V | 19
02 | NY | LOCKPORT, TOWN OF | 3610130018D | 05-OCT-2002 | 02-02-1964V | 19
02 | NY | LOCKPORT, TOWN OF | 3610130021D | 05-OCT-2002 | 02-02-1964V | 19
02 | NY | LOCKPORT, TOWN OF | 3610130024D | 05-OCT-2002 | 02-02-1964V | 19
02 | NY | LONG LAKE, TOWN OF | 3614060035B | 03-JUL-2002 | 02-02-1184A | 02
02 | NY | MANLIUS, TOWN OF | 360580005E | 19-JUL-2002 | 02-02-1280X | 02
02 | NY | MENTZ, TOWN OF | 3601150005C | 07-AUG-2002 | 02-02-1050A | 02
02 | NY | MILO, TOWN OF | 360961—08C | 16-AUG-2002 | 02-02-1526A | 02
02 | NY | NELSON, TOWN OF | 361293—04B | 09-AUG-2002 | 02-02-1394A | 02
02 | NY | NEW PALTZ, TOWN OF | 3608590010D | 06-NOV-2002 | 02-02-1660A | 02
02 | NY | NEW YORK, CITY OF | 3604970149E | 03-JUL-2002 | 01-02-045P | 05
02 | NY | NEW YORK, CITY OF | 3604970149E | 19-JUL-2002 | 02-02-0864A | 02
02 | NY | NEW YORK, CITY OF | 3604970146E | 04-SEP-2002 | 02-02-1428A | 02
02 | NY | NEW YORK, CITY OF | 3604970149E | 02-OCT-2002 | 02-02-1436A | 02
02 | NY | NEW YORK, CITY OF | 3604970139E | 04-OCT-2002 | 02-02-1624A | 02
02 | NY | NEW YORK, CITY OF | 3604970126E | 25-OCT-2002 | 02-02-1484A | 02
02 | NY | NEW YORK, CITY OF | 3604970146E | 30-OCT-2002 | 03-02-0022A | 02
02 | NY | NEW YORK, CITY OF | 3604970139E | 06-NOV-2002 | 02-02-1688A | 02
02 | NY | NEW YORK, CITY OF | 3604970146E | 04-DEC-2002 | 03-02-0032A | 02
02 | NY | NEW YORK, CITY OF | 3604970139E | 26-DEC-2002 | 03-02-0206A | 02
02 | NY | NEWCOMB, TOWN OF | 361390—13A | 16-AUG-2002 | 02-02-1586A | 02
02 | NY | NIAGARA FALLS, CITY OF | 3605060003C | 10-JUL-2002 | 02-02-0626A | 02
02 | NY | NIAGARA FALLS, CITY OF | 3605060003C | 16-AUG-2002 | 02-02-1492A | 02
02 | NY | NORWICH, CITY OF | 3601610001B | 20-DEC-2002 | 02-02-1770A | 02
02 | NY | NUNDA, TOWN OF | 3612870010B | 21-AUG-2002 | 02-02-1450A | 02
02 | NY | NUNDA, TOWN OF | 3612870010B | 26-DEC-2002 | 03-02-0142A | 02
02 | NY | ONONDAGA, TOWN OF | 3605880015B | 06-DEC-2002 | 02-02-1806A | 02
02 | NY | ONTARIO, TOWN OF | 3608950005B | 18-DEC-2002 | 03-02-0042A | 02
02 | NY | OSWEGO, TOWN OF | 3606570003F | 23-OCT-2002 | 02-02-1602A | 02
02 | NY | PARMA, TOWN OF | 3604250005D | 25-SEP-2002 | 02-02-1584A | 02
02 | NY | PEMBROKE, TOWN OF | 3602830015C | 04-DEC-2002 | 03-02-0054A | 02
02 | NY | PENFIELD, TOWN OF | 3604260015B | 03-JUL-2002 | 02-02-1382A | 02
02 | NY | PERINTON, TOWN OF | 3604280004D | 13-NOV-2002 | 03-02-0034A | 02
02 | NY | PITTSFORD, TOWN OF | 3604290010C | 30-OCT-2002 | 02-02-0002A | 01
02 | NY | PLEASANT VALLEY, TOWN OF | 3602210015B | 25-SEP-2002 | 02-02-1160A | 02
02 | NY | PORT JERVIS, CITY OF | 3609760001C | 06-NOV-2002 | 02-02-1286A | 02
02 | NY | POUGHKEEPSIE, TOWN OF | 3611420002C | 23-SEP-2002 | 02-02-1746A | 02
02 | NY | POUGHKEEPSIE, TOWN OF | 3611420007C | 11-OCT-2002 | 02-02-1640A | 02
02 | NY | POUGHKEEPSIE, TOWN OF | 3611420007C | 04-DEC-2002 | 03-02-0140A | 01
02 | NY | PUTNAM, TOWN OF | 3612360010B | 27-SEP-2002 | 02-02-1466A | 02
02 | NY | QUEENSBURY, TOWN OF | 3608790026B | 06-AUG-2002 | 01-02-049P | 05
02 | NY | RAMAPO, TOWN OF | 3653400025C | 16-OCT-2002 | 02-02-1612A | 02
02 | NY | RIVERHEAD, TOWN OF | 36103C0479G | 06-NOV-2002 | 02-02-1952A | 02
02 | NY | ROME, CITY OF | 3605420020B | 23-OCT-2002 | 02-02-1788A | 02
02 | NY | ROXBURY, TOWN OF | 361036—02B | 04-SEP-2002 | 02-02-1080A | 02
02 | NY | SARDINIA, TOWN OF | 3602560010B | 16-AUG-2002 | 02-02-1446A | 02
02 | NY | SCHROON, TOWN OF | 3611580039C | 02-AUG-2002 | 02-02-0434A | 01
02 | NY | SCHUYLER FALLS, TOWN OF | 3601720010C | 06-SEP-2002 | 02-02-1318A | 02
02 | NY | SCRIBA, TOWN OF | 3606630005D | 23-OCT-2002 | 02-02-1906A | 02
02 | NY | SODUS POINT, VILLAGE OF | 3608990001B | 20-NOV-2002 | 02-02-1680A | 02
02 | NY | SOUTH CORNING, VILLAGE OF | 3607820001D | 11-OCT-2002 | 02-02-1800A | 02
02 | NY | SOUTHAMPTON, TOWN OF | 36103C0782G | 30-AUG-2002 | 02-02-1560A | 02
02 | NY | SOUTHAMPTON, TOWN OF | 36103C0486G | 09-OCT-2002 | 02-02-1658A | 02
02 | NY | SOUTHOLD,TOWN OF | 36103C0169G | 02-AUG-2002 | 02-02-1494A | 02
02 | NY | SOUTHOLD,TOWN OF | 36103C0159G | 14-AUG-2002 | 02-02-1474A | 02
02 | NY | SOUTHOLD,TOWN OF | 36103C0501G | 04-SEP-2002 | 02-02-1490A | 02
02 | NY | SOUTHOLD,TOWN OF | 36103C0159G | 25-OCT-2002 | 02-02-1558A | 02
02 | NY | SOUTHOLD,TOWN OF | 36103C0159G | 26-DEC-2002 | 03-02-0016A | 02
02 | NY | SUMMER HILL, TOWN OF | 360127—01B | 16-OCT-2002 | 02-02-1554A | 02
02 | NY | TUPPER LAKE,VILLAGE OF | 360274—02B | 26-JUL-2002 | 02-02-1308A | 02
02 | NY | TYRONE, TOWN OF | 360749 B | 22-NOV-2002 | 02-02-1798A | 02
02 | NY | VARICK, TOWN OF | 3607580010B | 26-DEC-2002 | 03-02-0148A | 02
02 | NY | VENICE, TOWN OF | 3601300001B | 13-NOV-2002 | 02-02-1662A | 01
02 | NY | VERNON, TOWN OF | 3605590003B | 16-OCT-2002 | 02-02-1676A | 02
02 | NY | VIENNA, TOWN OF | 3605620025C | 26-DEC-2002 | 03-02-0156A | 02
02 | NY | WALWORTH, TOWN OF | 3612280011C | 27-SEP-2002 | 02-02-1360A | 02
02 | NY | WATERTOWN, CITY OF | 3603540001E | 16-AUG-2002 | 02-02-1442A | 02
02 | NY | WATSON, TOWN OF | 3603770030C | 27-SEP-2002 | 02-02-1468A | 17
02 | NY | WEBB, TOWN OF | 360321—I-19 | 20-NOV-2002 | 02-02-1290A | 02
02 | NY | WHEATFIELD, TOWN OF | 3605130004D | 25-OCT-2002 | 02-02-1834A | 02
02 | NY | WHEATFIELD, TOWN OF | 3605130004D | 06-NOV-2002 | 02-02-1900A | 02
02 | NY | WHEATFIELD, TOWN OF | 3605130004D | 06-NOV-2002 | 02-02-1904A | 02
02 | NY | WHEATFIELD, TOWN OF | 3605130004D | 06-NOV-2002 | 02-02-1922A | 02
02 | NY | WHEATFIELD, TOWN OF | 3605130004D | 06-NOV-2002 | 02-02-1928A | 02
02 | NY | WHEATFIELD, TOWN OF | 3605130004D | 20-NOV-2002 | 03-02-0048A | 02
02 | NY | WHEATFIELD, TOWN OF | 3605130004D | 18-DEC-2002 | 03-02-0160A | 02
02 | NY | WILSON, VILLAGE OF | 3609780001C | 09-OCT-2002 | 02-02-1734A | 02
02 | PR | PUERTO RICO,COMMONWEALTH OF | 7200000267D | 03-JUL-2002 | 02-02-1164A | 02
02 | PR | PUERTO RICO,COMMONWEALTH OF | 7200000045E | 03-JUL-2002 | 02-02-1406A | 01
02 | PR | PUERTO RICO,COMMONWEALTH OF | 7200000047E | 07-AUG-2002 | 02-02-1566A | 02
02 | PR | PUERTO RICO,COMMONWEALTH OF | 7200000134E | 16-AUG-2002 | 02-02-1434A | 02
02 | PR | PUERTO RICO,COMMONWEALTH OF | 7200000189D | 04-SEP-2002 | 02-02-1408A | 02
02 | PR | PUERTO RICO,COMMONWEALTH OF | 7200000035E | 06-SEP-2002 | 01-02-033P | 05
02 | PR | PUERTO RICO,COMMONWEALTH OF | 7200000040E | 06-SEP-2002 | 01-02-033P | 05
02 | PR | PUERTO RICO,COMMONWEALTH OF | 7200000206C | 13-SEP-2002 | 02-02-0698A | 02
02 | PR | PUERTO RICO,COMMONWEALTH OF | 7200000046D | 13-SEP-2002 | 02-02-1348A | 01
02 | PR | PUERTO RICO,COMMONWEALTH OF | 7200000059C | 27-SEP-2002 | 02-02-1712A | 01
02 | PR | PUERTO RICO,COMMONWEALTH OF | 7200000219C | 02-OCT-2002 | 02-02-0242A | 01
02 | PR | PUERTO RICO,COMMONWEALTH OF | 7200000064G | 11-OCT-2002 | 02-02-1710A | 01
02 | PR | PUERTO RICO,COMMONWEALTH OF | 7200000235B | 30-OCT-2002 | 03-02-0018A | 02
02 | PR | PUERTO RICO,COMMONWEALTH OF | 7200000120B | 06-NOV-2002 | 02-02-1842A | 01
02 | PR | PUERTO RICO,COMMONWEALTH OF | 7200000138B | 06-NOV-2002 | 02-02-1844A | 01
02 | PR | PUERTO RICO,COMMONWEALTH OF | 7200000120B | 06-NOV-2002 | 02-02-1846A | 01
02 | PR | PUERTO RICO,COMMONWEALTH OF | 7200000138B | 26-DEC-2002 | 03-02-0134A | 02
03 | DE | BETHANY BEACH, TOWN OF | 10005C0515F | 11-DEC-2002 | 02-03-2258A | 02
03 | DE | DOVER, CITY OF | 1000060005C | 11-DEC-2002 | 02-03-2138A | 02
03 | DE | KENT COUNTY * | 1000010130C | 19-JUL-2002 | 02-03-1576A | 02
03 | DE | KENT COUNTY * | 1000010075B | 02-OCT-2002 | 02-03-1916A | 02
03 | DE | KENT COUNTY * | 1000010175B | 16-OCT-2002 | 02-03-1834A | 02
03 | DE | KENT COUNTY * | 1000010090B | 30-OCT-2002 | 03-03-0076A | 02
03 | DE | LEWES, CITY OF | 10005C0195G | 01-AUG-2002 | 02-03-137P | 05
03 | DE | NEW CASTLE COUNTY * | 10003C0230G | 01-JUL-2002 | 01-03-195P | 05
03 | DE | NEW CASTLE COUNTY * | 10003C0160G | 03-JUL-2002 | 02-03-0654A | 02
03 | DE | NEW CASTLE COUNTY * | 10003C0140G | 03-JUL-2002 | 02-03-1514A | 02
03 | DE | NEW CASTLE COUNTY * | 10003C0059G | 19-JUL-2002 | 02-03-1464A | 02
03 | DE | NEW CASTLE COUNTY * | 10003C0160G | 31-JUL-2002 | 02-03-1880A | 02
03 | DE | NEW CASTLE COUNTY * | 10003C0151G | 14-AUG-2002 | 02-03-1298A | 02
03 | DE | NEW CASTLE COUNTY * | 10003C0086G | 30-AUG-2002 | 02-03-2074A | 02
03 | DE | NEW CASTLE COUNTY * | 10003C0086G | 30-AUG-2002 | 02-03-2076A | 02
03 | DE | NEW CASTLE COUNTY * | 10003C0078G | 27-SEP-2002 | 02-03-1962A | 02
03 | DE | NEW CASTLE COUNTY * | 10003C0230G | 08-NOV-2002 | 02-03-2274A | 02
03 | DE | NEW CASTLE COUNTY * | 10003C0066G | 27-NOV-2002 | 02-03-0856A | 02
03 | DE | NEW CASTLE COUNTY * | 10003C0067G | 27-NOV-2002 | 02-03-0856A | 02
03 | DE | NEW CASTLE COUNTY * | 10003C0067G | 04-DEC-2002 | 02-03-1444A | 02
03 | DE | NEWARK,CITY OF | 10003C0120H | 06-NOV-2002 | 03-03-0066A | 02
03 | DE | REHOBOTH BEACH, CITY OF | 10005C0355G | 21-AUG-2002 | 02-03-1886A | 02
03 | DE | SUSSEX COUNTY* | 10005C0355G | 03-JUL-2002 | 02-03-0754A | 02
03 | DE | SUSSEX COUNTY* | 10005C0264F | 25-SEP-2002 | 02-03-1704A | 02
03 | DE | SUSSEX COUNTY* | 10005C0635F | 25-SEP-2002 | 02-03-1928A | 02
03 | DE | SUSSEX COUNTY* | 10005C0250F | 02-OCT-2002 | 02-03-2122A | 02
03 | DE | SUSSEX COUNTY* | 10005C0335F | 23-OCT-2002 | 02-03-2246A | 02
03 | DE | SUSSEX COUNTY* | 10005C0480F | 15-NOV-2002 | 02-03-2230A | 02
03 | DE | SUSSEX COUNTY* | 10005C0635F | 18-DEC-2002 | 03-03-0206A | 02
03 | DE | SUSSEX COUNTY* | 10005C0125F | 26-DEC-2002 | 03-03-0142A | 02
03 | DE | SUSSEX COUNTY* | 10005C0125F | 26-DEC-2002 | 03-03-0504A | 02
03 | MD | ALLEGANY COUNTY * | 2400010167A | 13-SEP-2002 | 02-03-0844A | 01
03 | MD | ALLEGANY COUNTY * | 2400010275A | 13-DEC-2002 | 03-03-0060A | 02
03 | MD | ANNAPOLIS, CITY OF | 2400090005B | 04-DEC-2002 | 03-03-0204A | 02
03 | MD | BALTIMORE COUNTY* | 2400100410B | 17-JUL-2002 | 02-03-1670A | 02
03 | MD | BALTIMORE COUNTY* | 2400100455B | 26-JUL-2002 | 02-03-1698A | 02
03 | MD | BALTIMORE COUNTY* | 2400100315B | 21-AUG-2002 | 02-03-1852A | 02
03 | MD | BALTIMORE COUNTY* | 2400100370B | 28-AUG-2002 | 02-03-1334A | 02
03 | MD | BALTIMORE COUNTY* | 2400100270B | 28-AUG-2002 | 02-03-1770A | 02
03 | MD | BALTIMORE COUNTY* | 2400100360B | 25-SEP-2002 | 02-03-1850A | 02
03 | MD | BALTIMORE COUNTY* | 2400100440C | 04-OCT-2002 | 02-03-2070A | 02
03 | MD | BALTIMORE COUNTY* | 2400100290B | 09-OCT-2002 | 02-03-2216A | 02
03 | MD | BALTIMORE COUNTY* | 2400100410B | 11-OCT-2002 | 02-03-2276A | 02
03 | MD | BALTIMORE COUNTY* | 2400100455B | 16-OCT-2002 | 02-03-1926A | 02
03 | MD | BALTIMORE COUNTY* | 2400100270B | 16-OCT-2002 | 02-03-2094A | 02
03 | MD | BALTIMORE COUNTY* | 2400100390B | 23-OCT-2002 | 02-03-2098A | 02
03 | MD | BALTIMORE COUNTY* | 2400100380B | 30-OCT-2002 | 02-03-1946A | 02
03 | MD | BALTIMORE COUNTY* | 2400100360B | 20-NOV-2002 | 02-03-2238A | 02
03 | MD | BALTIMORE COUNTY* | 2400100440C | 20-NOV-2002 | 03-03-0208A | 02
03 | MD | BALTIMORE COUNTY* | 2400100410B | 18-DEC-2002 | 03-03-0312A | 02
03 | MD | BALTIMORE COUNTY* | 2400100455B | 18-DEC-2002 | 03-03-0346A | 02
03 | MD | BALTIMORE COUNTY* | 2400100265B | 31-DEC-2002 | 03-03-0318A | 02
03 | MD | CALVERT COUNTY* | 2400110023C | 18-SEP-2002 | 02-03-2084A | 02
03 | MD | CAROLINE COUNTY * | 2401300230B | 13-SEP-2002 | 02-03-2140A | 02
03 | MD | CAROLINE COUNTY * | 2401300150B | 04-DEC-2002 | 02-03-1940A | 02
03 | MD | CARROLL COUNTY * | 2400150025B | 10-JUL-2002 | 02-03-1170A | 02
03 | MD | CARROLL COUNTY * | 2400150025B | 26-JUL-2002 | 02-03-1736A | 02
03 | MD | CARROLL COUNTY * | 2400150100B | 25-SEP-2002 | 02-03-1984A | 02
03 | MD | CECIL COUNTY* | 2400190041A | 23-AUG-2002 | 02-03-1800A | 02
03 | MD | CECIL COUNTY* | 2400190054A | 15-NOV-2002 | 03-03-0190A | 02
03 | MD | DORCHESTER COUNTY * | 2400260225A | 14-AUG-2002 | 02-03-1808A | 02
03 | MD | DORCHESTER COUNTY * | 2400260175B | 23-AUG-2002 | 02-03-1978A | 02
03 | MD | ELKTON, TOWN OF | 2400220003C | 04-OCT-2002 | 02-03-2208A | 02
03 | MD | FREDERICK COUNTY * | 2400270180A | 10-JUL-2002 | 02-03-031P | 05
03 | MD | FREDERICK COUNTY * | 2400270190A | 10-JUL-2002 | 02-03-031P | 05
03 | MD | FREDERICK, CITY OF | 2400300004C | 14-AUG-2002 | 02-03-1030A | 01
03 | MD | FREDERICK, CITY OF | 2400270115B | 30-AUG-2002 | 02-03-0320A | 01
03 | MD | FREDERICK, CITY OF | 2400300003C | 23-OCT-2002 | 02-03-2148A | 02
03 | MD | FRIENDSVILLE, TOWN OF | 2400350001B | 06-DEC-2002 | 02-03-2260A | 02
03 | MD | HAGERSTOWN, CITY OF | 2400740005C | 18-OCT-2002 | 02-03-2326A | 02
03 | MD | HARFORD COUNTY * | 24025C0261D | 12-JUL-2002 | 02-03-1666A | 02
03 | MD | HARFORD COUNTY * | 24025C0258D | 26-DEC-2002 | 02-03-1812A | 01
03 | MD | HOWARD COUNTY* | 2400440033B | 13-SEP-2002 | 02-03-1910A | 02
03 | MD | HOWARD COUNTY* | 2400440023B | 13-SEP-2002 | 02-03-2086A | 02
03 | MD | MONTGOMERY COUNTY * | 2400490175C | 17-JUL-2002 | 02-03-1708A | 02
03 | MD | MONTGOMERY COUNTY * | 2400490200C | 26-JUL-2002 | 02-03-1756A | 02
03 | MD | MONTGOMERY COUNTY * | 2400490175C | 22-NOV-2002 | 02-03-2192A | 02
03 | MD | NORTH EAST, TOWN OF | 2400190028A | 13-DEC-2002 | 03-03-0100A | 02
03 | MD | PERRYVILLE, TOWN OF | 2400240005C | 18-DEC-2002 | 03-03-0192A | 02
03 | MD | PRINCE GEORGES COUNTY * | 2452080030D | 12-JUL-2002 | 02-03-1634A | 02
03 | MD | PRINCE GEORGES COUNTY * | 2452080045D | 14-AUG-2002 | 02-03-1804A | 02
03 | MD | PRINCE GEORGES COUNTY * | 2452080030D | 18-SEP-2002 | 02-03-2064A | 02
03 | MD | QUEEN ANNES COUNTY* | 2400540034B | 25-OCT-2002 | 02-03-2182A | 02
03 | MD | ST. MARYS COUNTY* | 2400640007C | 02-OCT-2002 | 02-03-1980A | 02
03 | MD | ST. MARYS COUNTY* | 2400640013B | 16-OCT-2002 | 03-03-0042A | 02
03 | MD | ST. MICHAELS, TOWN OF | 2400690001B | 20-SEP-2002 | 02-03-2154A | 02
03 | MD | TALBOT COUNTY * | 2400660004A | 10-JUL-2002 | 02-03-1566A | 02
03 | MD | TALBOT COUNTY * | 2400660037A | 10-JUL-2002 | 02-03-1664A | 02
03 | MD | TALBOT COUNTY * | 2400660016A | 19-JUL-2002 | 02-03-1718A | 02
03 | MD | TALBOT COUNTY * | 2400660024A | 26-JUL-2002 | 02-03-1790A | 02
03 | MD | TALBOT COUNTY * | 2400660038A | 21-AUG-2002 | 02-03-1636A | 02
03 | MD | TALBOT COUNTY * | 2400660031A | 06-SEP-2002 | 02-03-1260A | 02
03 | MD | TALBOT COUNTY * | 2400660044B | 25-SEP-2002 | 02-03-2194A | 02
03 | MD | TALBOT COUNTY * | 2400660017A | 02-OCT-2002 | 02-03-2062A | 02
03 | MD | TALBOT COUNTY * | 2400660031A | 11-OCT-2002 | 02-03-2212A | 02
03 | MD | TALBOT COUNTY * | 2400660023A | 23-OCT-2002 | 02-03-2262A | 02
03 | MD | TALBOT COUNTY * | 2400660029A | 06-NOV-2002 | 03-03-0082A | 02
03 | MD | TALBOT COUNTY * | 2400660022A | 20-NOV-2002 | 03-03-0136A | 02
03 | MD | WICOMICO COUNTY * | 2400780028C | 21-AUG-2002 | 02-03-1856A | 02
03 | PA | ABINGTON, TOWNSHIP OF | 42091C0403E | 15-NOV-2002 | 02-03-1958A | 02
03 | PA | ANTIS, TOWNSHIP OF | 4213850020B | 13-DEC-2002 | 02-03-2316A | 02
03 | PA | ARENDSTVILLE,BOROUGH OF | 4212500025A | 13-NOV-2002 | 03-03-0174A | 02
03 | PA | ARENDSTVILLE,BOROUGH OF | 4222920006A | 13-NOV-2002 | 03-03-0174A | 02
03 | PA | BERWICK, TOWNSHIP OF | 4211600001B | 25-SEP-2002 | 02-03-2126A | 02
03 | PA | BIRMINGHAM, TOWNSHIP OF | 42029C0361D | 07-AUG-2002 | 02-03-1600A | 02
03 | PA | BLAKELY, BOROUGH OF | 4205250005A | 16-OCT-2002 | 02-03-001P | 05
03 | PA | BRISTOL, TOWNSHIP OF | 42017C0464F | 02-OCT-2002 | 02-03-2290A | 02
03 | PA | BUTLER, TOWNSHIP OF | 4212500025A | 11-DEC-2002 | 03-03-0172AD | 02
03 | PA | CHELTENHAM, TOWNSHIP OF | 42091C0382E | 13-DEC-2002 | 03-03-0438A | 02
03 | PA | CHOCONUT, TOWNSHIP OF | 4220760005A | 16-AUG-2002 | 02-03-1792A | 02
03 | PA | CONCORD, TOWNSHIP OF | 42045C0054D | 27-NOV-2002 | 03-03-0234A | 02
03 | PA | CONYNGHAM, BOROUGH OF | 4209920001B | 02-OCT-2002 | 02-03-2110A | 02
03 | PA | CRANBERRY, TOWNSHIP OF | 4212170010B | 21-AUG-2002 | 02-03-1990A | 02
03 | PA | DOYLESTOWN, TOWNSHIP OF | 42017C0311F | 18-SEP-2002 | 02-03-2214A | 02
03 | PA | EAST BRADFORD TOWNSHIP OF | 42029C0353D | 01-AUG-2002 | 01-03-209P | 05
03 | PA | EAST FALLOWFIELD, TOWNSHIP OF | 42029C0303D | 25-SEP-2002 | 02-03-2240A | 02
03 | PA | EAST GOSHEN, TOWNSHIP OF | 42029C0358D | 26-DEC-2002 | 02-03-1924A | 02
03 | PA | EAST PENNSBORO TOWNSHIP OF | 420359—03B | 17-JUL-2002 | 02-03-1738A | 01
03 | PA | EAST ROCKHILL, TOWNSHIP OF | 42017C0144G | 19-JUL-2002 | 02-03-1484A | 02
03 | PA | ELIZABETH, TOWNSHIP OF | 42003C0556E | 18-SEP-2002 | 02-03-2128A | 02
03 | PA | ELIZABETH, TOWNSHIP OF | 42003C0508E | 20-NOV-2002 | 02-03-2300A | 02
03 | PA | EMSWORTH, BOROUGH OF | 42003C0189E | 04-SEP-2002 | 02-03-009P | 05
03 | PA | FAWN, TOWNSHIP OF | 42003C0094E | 04-DEC-2002 | 03-03-0200A | 02
03 | PA | FLEETWOOD, BOROUGH OF | 42011C0379E | 29-OCT-2002 | 03-03-0004A | 02
03 | PA | FLEETWOOD, BOROUGH OF | 42011C0379E | 13-NOV-2002 | 03-03-0238A | 02
03 | PA | FRANKLIN, TOWNSHIP OF | 421250025A | 11-DEC-2002 | 03-03-0172AD | 02
03 | PA | FRANKSTOWN, TOWNSHIP OF | 4213870007A | 21-AUG-2002 | 02-03-1948A | 17
03 | PA | HORTON, TOWNSHIP OF | 421610—05B | 30-OCT-2002 | 02-03-2116A | 02
03 | PA | JEFFERSON, TOWNSHIP OF | 42011C0310E | 20-NOV-2002 | 03-03-0300A | 02
03 | PA | JOHNSTOWN, CITY OF | 4202310010C | 16-SEP-2002 | 02-03-111P | 05
03 | PA | JOHNSTOWN, CITY OF | 4202310010C | 25-OCT-2002 | 02-03-2312A | 02
03 | PA | JOHNSTOWN, CITY OF | 4202310010C | 25-OCT-2002 | 02-03-2314A | 02
03 | PA | JOHNSTOWN, CITY OF | 4202310010C | 18-DEC-2002 | 03-03-0388A | 02
03 | PA | JOHNSTOWN, CITY OF | 4202310010C | 18-DEC-2002 | 03-03-0470A | 02
03 | PA | JOHNSTOWN, CITY OF | 4202310010C | 26-DEC-2002 | 03-03-0468A | 02
03 | PA | KEATING, TOWNSHIP OF | 4206670005B | 21-AUG-2002 | 02-03-1702A | 02
03 | PA | LACKAWAXEN, TOWNSHIP OF | 42103C0155C | 22-NOV-2002 | 03-03-0332A | 02
03 | PA | LIMESTONE, TOWNSHIP OF | 422547—01A | 26-DEC-2002 | 03-03-0094A | 02
03 | PA | LONGSWAMP, TOWNSHIP OF | 42011C0220E | 20-NOV-2002 | 03-03-0002A | 02
03 | PA | LOWER ALSACE, TOWNSHIP OF | 42011C0509E | 21-AUG-2002 | 02-03-1436A | 02
03 | PA | LOWER ALSACE, TOWNSHIP OF | 42011C0509E | 11-OCT-2002 | 03-03-0040A | 02
03 | PA | LOWER FRANKFORD, TOWNSHIP OF | 4210180005B | 13-SEP-2002 | 02-03-1904A | 02
03 | PA | LOWER GWYNEDD, TOWNSHIP OF | 42091C0279E | 09-OCT-2002 | 02-03-2296A | 02
03 | PA | LOWER GWYNEDD, TOWNSHIP OF | 42091C0278E | 13-NOV-2002 | 03-03-0048A | 02
03 | PA | LOWER MERION, TOWNSHIP OF | 42091C0362E | 02-AUG-2002 | 02-03-1680A | 02
03 | PA | LOWER OXFORD, TOWNSHIP OF | 42029C0445D | 27-NOV-2002 | 03-03-0038A | 02
03 | PA | LOWER TOWAMENSING, TOWNSHIP OF | 42025C0309D | 26-DEC-2002 | 03-03-0418A | 02
03 | PA | LOYALSOCK, TOWNSHIP OF | 4210400005C | 11-DEC-2002 | 02-03-2304A | 02
03 | PA | MAIDENCREEK, TOWNSHIP OF | 42100C0378E | 12-SEP-2002 | 02-03-1106A | 02
03 | PA | MAIDENCREEK, TOWNSHIP OF | 42100C0378E | 12-SEP-2002 | 02-03-1108A | 02
03 | PA | MENALLEN, TOWNSHIP OF | 4212560020A | 26-JUL-2002 | 02-03-1854A | 02
03 | PA | MIDDLETOWN, TOWNSHIP OF | 42017C0442F | 04-SEP-2002 | 02-03-1404A | 02
03 | PA | MILFORD, TOWNSHIP OF | 42017C0136F | 02-SEP-2002 | 02-03-045P | 05
03 | PA | MUHLENBERG, TOWNSHIP OF | 42011C0506F | 13-SEP-2002 | 02-03-2130A | 17
03 | PA | NETHER PROVIDENCE, TOWNSHIP OF | 42045C0045D | 09-OCT-2002 | 02-03-1772A | 02
03 | PA | NEVILLE, TOWNSHIP OF | 42003C0169E | 19-JUL-2002 | 02-03-1838A | 01
03 | PA | NEW HANOVER, TOWNSHIP OF | 42091C0089E | 10-JUL-2002 | 02-03-1748A | 02
03 | PA | NEW SEWICKLEY, TOWNSHIP OF | 4223230014A | 11-OCT-2002 | 02-03-1920A | 02
03 | PA | NEWBERRY, TOWNSHIP OF | 4222260005B | 13-SEP-2002 | 02-03-1870A | 02
03 | PA | NORTH STRABANE, TOWNSHIP OF | 4221510005B | 23-AUG-2002 | 02-03-1646A | 01
03 | PA | NORTHAMPTON, TOWNSHIP OF | 42017C0426F | 13-SEP-2002 | 02-03-1696A | 02
03 | PA | NORTHAMPTON, TOWNSHIP OF | 42017C0429F | 06-NOV-2002 | 02-03-2288A | 02
03 | PA | NOTTINGHAM, TOWNSHIP OF | 422561—04A | 21-AUG-2002 | 02-03-2016A | 02
03 | PA | PATTON, BOROUGH OF | 4202350001C | 30-AUG-2002 | 02-03-2020A | 02
03 | PA | PENN, TOWNSHIP OF | 4218480020A | 18-OCT-2002 | 02-03-2232A | 02
03 | PA | PERKASIE, BOROUGH OF | 42017C0256G | 04-DEC-2002 | 03-03-0176A | 17
03 | PA | PHILADELPHIA, CITY OF | 4207570183F | 13-SEP-2002 | 02-03-1868A | 02
03 | PA | PHILADELPHIA, CITY OF | 4207570183F | 30-OCT-2002 | 02-03-2222A | 02
03 | PA | PHILADELPHIA, CITY OF | 4207570183F | 08-NOV-2002 | 03-03-0146A | 02
03 | PA | PINE CREEK, TOWNSHIP OF | 4203320001A | 04-DEC-2002 | 03-03-0294A | 02
03 | PA | PINE GROVE, TOWNSHIP OF | 4207820005B | 18-DEC-2002 | 03-03-0426A | 02
03 | PA | PITTSBURGH, CITY OF | 42003C0353F | 28-AUG-2002 | 02-03-1594A | 17
03 | PA | PITTSBURGH, CITY OF | 42003C0353F | 28-AUG-2002 | 02-03-1970A | 02
03 | PA | PITTSBURGH, CITY OF | 42003C0353F | 28-AUG-2002 | 02-03-1972A | 02
03 | PA | PITTSBURGH, CITY OF | 42003C0353F | 28-AUG-2002 | 02-03-1974A | 02
03 | PA | PITTSBURGH, CITY OF | 42003C0353F | 28-AUG-2002 | 02-03-1976A | 17
03 | PA | PITTSBURGH, CITY OF | 42003C0353F | 11-OCT-2002 | 03-03-0064A | 17
03 | PA | PITTSBURGH, CITY OF | 42003C0344E | 15-OCT-2002 | 02-03-029P | 05
03 | PA | POTTER, TOWNSHIP OF | 4214670020B | 26-JUL-2002 | 02-03-1096A | 01
03 | PA | PRESTON, TOWNSHIP OF | 422171—05A | 03-JUL-2002 | 02-03-1690A | 02
03 | PA | RADNOR, TOWNSHIP OF | 42045C0002D | 20-SEP-2002 | 02-03-2204A | 02
03 | PA | RANKIN, BOROUGH OF | 42003C0367E | 31-DEC-2002 | 03-03-0526A | 02
03 | PA | RICHLAND, TOWNSHIP OF | 42017C0136F | 20-NOV-2002 | 02-03-045P | 05
03 | PA | RICHLAND, TOWNSHIP OF | 42003C0065E | 04-DEC-2002 | 03-03-0304A | 02
03 | PA | RICHLAND, TOWNSHIP OF | 42003C0070E | 04-DEC-2002 | 03-03-0304A | 02
03 | PA | ROSCOE, BOROUGH OF | 4208580001C | 03-JUL-2002 | 02-03-1390A | 02
03 | PA | ROSS, TOWNSHIP OF | 4218350010A | 06-DEC-2002 | 03-03-0236A | 02
03 | PA | ROSS, TOWNSHIP OF | 4218350020A | 06-DEC-2002 | 03-03-0236A | 02
03 | PA | SHAMOKIN, TOWNSHIP OF | 4211590011C | 20-SEP-2002 | 02-03-1882A | 02
03 | PA | SHOEMAKERSVILLE, BOROUGH OF | 42011C0352E | 14-AUG-2002 | 02-03-1810A | 02
03 | PA | SILVER LAKE, TOWNSHIP OF | 4220910001A | 20-NOV-2002 | 03-03-0266A | 02
03 | PA | SILVER LAKE, TOWNSHIP OF | 422091—02A | 06-DEC-2002 | 03-03-0314A | 02
03 | PA | SOUTH CENTRE, TOWNSHIP OF | 4211370005B | 13-SEP-2002 | 02-03-1526A | 02
03 | PA | SPRINGFIELD, TOWNSHIP OF | 42017C0045F | 20-SEP-2002 | 02-03-1864A | 02
03 | PA | ST. THOMAS, TOWNSHIP OF | 4216560025B | 18-SEP-2002 | 02-03-1498A | 02
03 | PA | SUSQUEHANNA, TOWNSHIP OF | 4214470001A | 28-AUG-2002 | 02-03-1898A | 02
03 | PA | SWATARA, TOWNSHIP OF | 4203980005B | 30-OCT-2002 | 03-03-0154A | 02
03 | PA | TAYLOR, TOWNSHIP OF | 421469—08B | 27-SEP-2002 | 02-03-1956A | 02
03 | PA | TINICUM, TOWNSHIP OF | 42017C0156F | 30-OCT-2002 | 02-03-2310A | 02
03 | PA | TINICUM, TOWNSHIP OF | 42017C0180F | 13-NOV-2002 | 02-03-2114A | 02
03 | PA | TINICUM, TOWNSHIP OF | 42017C0180F | 18-DEC-2002 | 03-03-0370A | 02
03 | PA | TOWAMENSING, TOWNSHIP OF | 42025C0195D | 30-OCT-2002 | 03-03-0164A | 02
03 | PA | UNITY, TOWNSHIP OF | 42129C0435D | 02-AUG-2002 | 02-03-1938A | 02
03 | PA | UPPER ALLEN, TOWNSHIP OF | 4203720005C | 21-AUG-2002 | 02-03-1964A | 02
03 | PA | UPPER DARBY, TOWNSHIP OF | 42045C0025D | 13-DEC-2002 | 03-03-0352A | 02
03 | PA | UPPER DUBLIN, TOWNSHIP OF | 42091C0291E | 16-AUG-2002 | 02-03-1952A | 02
03 | PA | UPPER DUBLIN, TOWNSHIP OF | 42091C0289E | 13-DEC-2002 | 03-03-0384A | 02
03 | PA | UPPER GWYNEDD, TOWNSHIP OF | 42091C0254E | 27-NOV-2002 | 02-03-177P | 05
03 | PA | UPPER MACUNGIE, TOWNSHIP OF | 42077C0230D | 10-JUL-2002 | 02-03-1516A | 02
03 | PA | UPPER MACUNGIE, TOWNSHIP OF | 42077C0230D | 02-OCT-2002 | 02-03-1848A | 02
03 | PA | UPPER MAHANOY, TOWNSHIP OF | 421944—02A | 21-AUG-2002 | 02-03-2024A | 02
03 | PA | UPPER MILFORD, TOWNSHIP OF | 42077C0307D | 15-NOV-2002 | 02-03-2176A | 02
03 | PA | UPPER MILFORD, TOWNSHIP OF | 42077C0310D | 15-NOV-2002 | 02-03-2176A | 02
03 | PA | UPPER PROVIDENCE, TOWNSHIP OF | 42045C0021D | 13-SEP-2002 | 02-03-2108A | 02
03 | PA | UPPER PROVIDENCE, TOWNSHIP OF | 42045C0022D | 22-NOV-2002 | 03-03-0244A | 02
03 | PA | UPPER SOUTHAMPTON, TOWNSHIP OF | 42017C0416F | 18-DEC-2002 | 03-03-0242A | 02
03 | PA | UPPER UWCHLAN, TWP OF | 42029C0180D | 03-JUL-2002 | 02-03-1706A | 02
03 | PA | VALLEY, TOWNSHIP OF | 4219240004B | 23-AUG-2002 | 02-03-1942A | 02
03 | PA | WALKER, TOWNSHIP OF | 4214710010B | 13-SEP-2002 | 02-03-2142A | 02
03 | PA | WASHINGTON, TOWNSHIP OF | 42077C0110D | 02-OCT-2002 | 02-03-1618A | 02
03 | PA | WASHINGTON, TOWNSHIP OF | 42011C0438E | 25-NOV-2002 | 02-03-147P | 05
03 | PA | WASHINGTON, TOWNSHIP OF | 42077C0110D | 27-NOV-2002 | 03-03-0044A | 02
03 | PA | WATERFORD, TOWNSHIP OF | 4224190020B | 21-AUG-2002 | 02-03-1982A | 02
03 | PA | WEST WHITELAND, TOWNSHIP OF | 42029C0213D | 27-NOV-2002 | 03-03-0050A | 02
03 | PA | WESTFALL, TOWNSHIP OF | 42103C0352C | 18-SEP-2002 | 02-03-1714A | 02
03 | PA | WHITEHALL, TOWNSHIP OF | 42077C0134D | 28-AUG-2002 | 02-03-2002A | 02
03 | PA | WHITPAIN, TOWNSHIP OF | 42091C0266E | 28-JUL-2002 | 02-03-035P | 05
03 | PA | YORK, TOWNSHIP OF | 4210320001B | 13-NOV-2002 | 03-03-0138A | 02
03 | PA | ZERBE, TOWNSHIP OF | 4219470002B | 13-NOV-2002 | 03-03-0118A | 02
03 | VA | ABINGDON, TOWN OF | 5101690001B | 10-JUL-2002 | 02-03-1494A | 02
03 | VA | ACCOMACK COUNTY * | 5100010160C | 01-NOV-2002 | 02-03-2090A | 02
03 | VA | ALEXANDRIA, CITY OF | 5155190005D | 01-NOV-2002 | 02-03-2036A | 02
03 | VA | AUGUSTA COUNTY * | 5100130260B | 03-SEP-2002 | 01-03-179P | 05
03 | VA | BEDFORD COUNTY * | 5100160100A | 10-JUL-2002 | 02-03-1686A | 02
03 | VA | BEDFORD COUNTY * | 5100160100A | 25-SEP-2002 | 02-03-1538A | 02
03 | VA | BEDFORD COUNTY * | 5100160100A | 18-OCT-2002 | 02-03-2294A | 02
03 | VA | BEDFORD COUNTY * | 5100160175A | 27-NOV-2002 | 02-03-2000A | 02
03 | VA | BEDFORD COUNTY * | 5100160100A | 27-NOV-2002 | 02-03-2198A | 02
03 | VA | BEDFORD COUNTY * | 5100160175A | 04-DEC-2002 | 03-03-0258A | 02
03 | VA | BLAND COUNTY * | 5100170175B | 20-SEP-2002 | 02-03-1894A | 02
03 | VA | BOONES MILL, TOWN OF | 5100620001B | 01-NOV-2002 | 02-03-2156A | 02
03 | VA | BRUNSWICK COUNTY * | 5102360175B | 03-JUL-2002 | 02-03-1672A | 02
03 | VA | BUCKINGHAM COUNTY * | 5100260050A | 26-JUL-2002 | 02-03-1788A | 02
03 | VA | CHESAPEAKE, CITY OF | 5100340016C | 15-NOV-2002 | 02-03-1954A | 02
03 | VA | COURTLAND, TOWN OF | 51175C0285C | 05-SEP-2002 | 02-03-2066V | 19
03 | VA | CRAIG COUNTY * | 51045C0115A | 24-JUL-2002 | 02-03-1798A | 02
03 | VA | CRAIG COUNTY * | 51045C0115A | 24-JUL-2002 | 02-03-1884A | 02
03 | VA | CRAIGSVILLE, TOWN OF | 5100140001C | 06-DEC-2002 | 02-03-1950A | 02
03 | VA | DUMFRIES, TOWN OF | 51153C0304D | 21-JUL-2002 | 02-03-037P | 05
03 | VA | DUMFRIES, TOWN OF | 51153C0310D | 21-JUL-2002 | 02-03-037P | 05
03 | VA | DUMFRIES, TOWN OF | 51153C0312D | 21-JUL-2002 | 02-03-037P | 05
03 | VA | ELKTON, TOWN OF | 5101370001C | 02-OCT-2002 | 02-03-1866A | 01
03 | VA | FAIRFAX COUNTY * | 5155250050D | 10-JUL-2002 | 02-03-1658A | 02
03 | VA | FAIRFAX COUNTY * | 5155250100D | 10-JUL-2002 | 02-03-1744A | 02
03 | VA | FAIRFAX COUNTY * | 5155250050D | 10-JUL-2002 | 02-03-1780A | 02
03 | VA | FAIRFAX COUNTY * | 5155250100D | 10-JUL-2002 | 02-03-1802A | 02
03 | VA | FAIRFAX COUNTY * | 5155250075D | 17-JUL-2002 | 02-03-1460A | 02
03 | VA | FAIRFAX COUNTY * | 5155250136D | 17-JUL-2002 | 02-03-1684A | 02
03 | VA | FAIRFAX COUNTY * | 5155250050D | 17-JUL-2002 | 02-03-1786A | 02
03 | VA | FAIRFAX COUNTY * | 5155250025D | 26-JUL-2002 | 02-03-1550A | 02
03 | VA | FAIRFAX COUNTY * | 5155250025D | 26-JUL-2002 | 02-03-1610A | 02
03 | VA | FAIRFAX COUNTY * | 5155250075D | 26-JUL-2002 | 02-03-1710A | 02
03 | VA | FAIRFAX COUNTY * | 5155250100D | 14-AUG-2002 | 02-03-1438A | 02
03 | VA | FAIRFAX COUNTY * | 5155250100D | 21-AUG-2002 | 02-03-1668A | 02
03 | VA | FAIRFAX COUNTY * | 5155250050D | 21-AUG-2002 | 02-03-1754A | 02
03 | VA | FAIRFAX COUNTY * | 5155250075D | 21-AUG-2002 | 02-03-1794A | 02
03 | VA | FAIRFAX COUNTY * | 5155250075D | 21-AUG-2002 | 02-03-2006A | 02
03 | VA | FAIRFAX COUNTY * | 5155250050D | 13-SEP-2002 | 02-03-1574A | 02
03 | VA | FAIRFAX COUNTY * | 5155250050D | 13-SEP-2002 | 02-03-1614A | 02
03 | VA | FAIRFAX COUNTY * | 5155250100D | 13-SEP-2002 | 02-03-1760A | 02
03 | VA | FAIRFAX COUNTY * | 5155250050D | 20-SEP-2002 | 02-03-2044A | 02
03 | VA | FAIRFAX COUNTY * | 5155250083D | 20-SEP-2002 | 02-03-2100A | 02
03 | VA | FAIRFAX COUNTY * | 5155250050D | 02-OCT-2002 | 02-03-1906A | 02
03 | VA | FAIRFAX COUNTY * | 5155250125D | 11-OCT-2002 | 02-03-1934A | 02
03 | VA | FAIRFAX COUNTY * | 5155250075D | 16-OCT-2002 | 02-03-2186A | 02
03 | VA | FAIRFAX COUNTY * | 5155250100D | 30-OCT-2002 | 02-03-1944A | 02
03 | VA | FAIRFAX COUNTY * | 5155250075D | 01-NOV-2002 | 02-03-2118A | 02
03 | VA | FAIRFAX COUNTY * | 5155250100D | 06-NOV-2002 | 02-03-2210A | 02
03 | VA | FAIRFAX COUNTY * | 5155250150D | 06-NOV-2002 | 02-03-2252A | 02
03 | VA | FAIRFAX COUNTY * | 5155250075D | 08-NOV-2002 | 02-03-2234A | 02
03 | VA | FAIRFAX COUNTY * | 5155250050D | 22-NOV-2002 | 03-03-0232A | 02
03 | VA | FAIRFAX COUNTY * | 5155250075D | 27-NOV-2002 | 02-03-2334A | 02
03 | VA | FAIRFAX COUNTY * | 5155250125D | 04-DEC-2002 | 02-03-1988A | 02
03 | VA | FAIRFAX COUNTY * | 5155250125D | 04-DEC-2002 | 02-03-2120A | 02
03 | VA | FAIRFAX COUNTY * | 5155250050D | 04-DEC-2002 | 03-03-0268A | 02
03 | VA | FAIRFAX COUNTY * | 5155250089D | 11-DEC-2002 | 02-03-2072A | 02
03 | VA | FAIRFAX COUNTY * | 5155250089D | 11-DEC-2002 | 02-03-2338A | 02
03 | VA | FAIRFAX COUNTY * | 5155250075D | 13-DEC-2002 | 02-03-2150A | 01
03 | VA | FAIRFAX, CITY OF | 5155240005B | 14-AUG-2002 | 02-03-1750A | 02
03 | VA | FAIRFAX, CITY OF | 5155250100D | 16-OCT-2002 | 02-03-1862A | 02
03 | VA | FAUQUIER COUNTY * | 5100550075A | 21-AUG-2002 | 02-03-1452A | 02
03 | VA | FAUQUIER COUNTY * | 5100550295A | 16-OCT-2002 | 02-03-1966A | 02
03 | VA | FRANKLIN COUNTY * | 5100610215B | 12-JUL-2002 | 02-03-1654A | 02
03 | VA | FRANKLIN COUNTY * | 5100610210B | 17-JUL-2002 | 02-03-1814A | 02
03 | VA | FRANKLIN COUNTY * | 5100610210B | 31-JUL-2002 | 02-03-1504A | 02
03 | VA | FRANKLIN COUNTY * | 5100610220B | 31-JUL-2002 | 02-03-1504A | 02
03 | VA | FRANKLIN COUNTY * | 5100610240B | 28-AUG-2002 | 02-03-1560A | 02
03 | VA | FRANKLIN COUNTY * | 5100610210B | 02-OCT-2002 | 02-03-1878A | 02
03 | VA | FRANKLIN COUNTY * | 5100610090B | 18-OCT-2002 | 02-03-2318A | 02
03 | VA | FRANKLIN COUNTY * | 5100610240B | 01-NOV-2002 | 02-03-2166A | 02
03 | VA | FRANKLIN COUNTY * | 5100610210B | 04-DEC-2002 | 03-03-0052A | 02
03 | VA | FRANKLIN COUNTY * | 5100610210B | 18-DEC-2002 | 02-03-2244A | 02
03 | VA | FRANKLIN COUNTY * | 5100610210B | 18-DEC-2002 | 02-03-2272A | 02
03 | VA | FRANKLIN COUNTY * | 5100610240B | 18-DEC-2002 | 03-03-0120A | 02
03 | VA | FREDERICK COUNTY * | 5100630100B | 25-SEP-2002 | 02-03-1762A | 01
03 | VA | GREENSVILLE COUNTY * | 5100730075A | 02-OCT-2002 | 02-03-1640A | 02
03 | VA | HANOVER COUNTY * | 5102370320A | 02-AUG-2002 | 02-03-1674A | 02
03 | VA | HANOVER COUNTY * | 5102370320A | 27-NOV-2002 | 02-03-1986A | 02
03 | VA | HENRICO COUNTY * | 5100770050B | 19-JUL-2002 | 02-03-1846A | 02
03 | VA | HENRICO COUNTY * | 5100770050B | 19-JUL-2002 | 02-03-1874A | 02
03 | VA | HENRICO COUNTY * | 5100770025B | 24-JUL-2002 | 02-03-1746A | 02
03 | VA | HENRICO COUNTY * | 5100770050B | 30-AUG-2002 | 02-03-1604A | 02
03 | VA | HENRICO COUNTY * | 5100770050B | 30-AUG-2002 | 02-03-1606A | 02
03 | VA | HENRICO COUNTY * | 5100770050B | 30-AUG-2002 | 02-03-2078A | 02
03 | VA | HENRICO COUNTY * | 5100770050B | 30-AUG-2002 | 02-03-2106A | 02
03 | VA | HENRICO COUNTY * | 5100770025B | 25-OCT-2002 | 02-03-079P | 05
03 | VA | HENRICO COUNTY * | 5100770025B | 13-NOV-2002 | 03-03-0170A | 02
03 | VA | HENRICO COUNTY * | 5100770025B | 06-DEC-2002 | 02-03-2046A | 02
03 | VA | HERNDON, TOWN OF | 5100520001B | 03-JUL-2002 | 02-03-1364A | 02
03 | VA | HERNDON, TOWN OF | 5100520001B | 25-SEP-2002 | 02-03-1454A | 02
03 | VA | ISLE OF WIGHT COUNTY * | 51093C0155D | 05-SEP-2002 | 03-03-0056V | 19
03 | VA | ISLE OF WIGHT COUNTY * | 51093C0160D | 05-SEP-2002 | 03-03-0056V | 19
03 | VA | ISLE OF WIGHT COUNTY * | 51093C0170D | 05-SEP-2002 | 03-03-0056V | 19
03 | VA | ISLE OF WIGHT COUNTY * | 51093C0155D | 20-SEP-2002 | 03-03-0358A | 02
03 | VA | ISLE OF WIGHT COUNTY * | 51093C0170D | 09-OCT-2002 | 02-03-1642A | 02
03 | VA | ISLE OF WIGHT COUNTY * | 51093C0155D | 06-DEC-2002 | 02-03-1968A | 02
03 | VA | ISLE OF WIGHT COUNTY * | 51093C0155D | 20-DEC-2002 | 03-03-0398A | 02
03 | VA | JAMES CITY COUNTY * | 5102010030B | 09-OCT-2002 | 02-03-1998A | 02
03 | VA | JAMES CITY COUNTY * | 5102010045B | 16-OCT-2002 | 02-03-2190A | 02
03 | VA | LEESBURG, TOWN OF | 51107C0231D | 21-AUG-2002 | 01-03-213P | 05
03 | VA | LEESBURG, TOWN OF | 51107C0235D | 21-AUG-2002 | 01-03-213P | 05
03 | VA | LEESBURG, TOWN OF | 51107C0227D | 06-SEP-2002 | 02-03-2060A | 17
03 | VA | LEESBURG, TOWN OF | 51107C0227D | 06-SEP-2002 | 02-03-2162A | 02
03 | VA | LEESBURG, TOWN OF | 51107C0231D | 04-OCT-2002 | 02-03-1512A | 17
03 | VA | LEESBURG, TOWN OF | 51107C0227D | 30-DEC-2002 | 02-03-209P | 05
03 | VA | LOUDOUN COUNTY * | 51107C0231D | 21-AUG-2002 | 01-03-213P | 05
03 | VA | LOUDOUN COUNTY * | 51107C0235D | 21-AUG-2002 | 01-03-213P | 05
03 | VA | LYNCHBURG, CITY OF | 5100930005B | 19-JUL-2002 | 02-03-1722A | 02
03 | VA | MECKLENBURG COUNTY * | 5101890200A | 03-JUL-2002 | 02-03-1620A | 02
03 | VA | MECKLENBURG COUNTY * | 5101890200A | 10-JUL-2002 | 02-03-1656A | 02
03 | VA | MECKLENBURG COUNTY * | 5101890150A | 20-SEP-2002 | 02-03-2012A | 02
03 | VA | MECKLENBURG COUNTY * | 5101890175A | 30-OCT-2002 | 02-03-2202A | 02
03 | VA | MECKLENBURG COUNTY * | 5101890150A | 30-OCT-2002 | 03-03-0104A | 02
03 | VA | MECKLENBURG COUNTY * | 5101890150A | 30-OCT-2002 | 03-03-0106A | 02
03 | VA | MECKLENBURG COUNTY * | 5101890200A | 27-NOV-2002 | 02-04-9336AD | 02
03 | VA | MECKLENBURG COUNTY * | 5101890150A | 13-DEC-2002 | 03-03-0086A | 02
03 | VA | NEWPORT NEWS, CITY OF | 5101030006C | 20-SEP-2002 | 02-03-1796A | 02
03 | VA | NEWPORT NEWS, CITY OF | 5101030010C | 11-DEC-2002 | 02-03-2224A | 02
03 | VA | NORFOLK, CITY OF | 5101040005D | 10-JUL-2002 | 02-03-1784A | 02
03 | VA | NORTHUMBERLAND COUNTY * | 5101070014C | 16-AUG-2002 | 02-03-1682A | 02
03 | VA | NORTHUMBERLAND COUNTY * | 5101070018B | 08-NOV-2002 | 02-03-2280A | 02
03 | VA | PETERSBURG, CITY OF | 5101120001B | 06-NOV-2002 | 02-03-2256A | 02
03 | VA | PITTSYLVANIA COUNTY * | 5101130020B | 10-JUL-2002 | 02-03-1766A | 02
03 | VA | PITTSYLVANIA COUNTY * | 5100130020B | 05-DEC-2002 | 02-03-1996A | 02
03 | VA | PRINCE WILLIAM COUNTY * | 51153C0304D | 31-JUL-2002 | 02-03-037P | 05
03 | VA | PRINCE WILLIAM COUNTY * | 51153C0310D | 31-JUL-2002 | 02-03-037P | 05
03 | VA | PRINCE WILLIAM COUNTY * | 51153C0312D | 31-JUL-2002 | 02-03-037P | 05
03 | VA | PRINCE WILLIAM COUNTY * | 51153C0089D | 13-DEC-2002 | 03-03-0110A | 02
03 | VA | RICHMOND, CITY OF | 5101290005B | 08-NOV-2002 | 02-03-2184A | 02
03 | VA | ROANOKE COUNTY * | 51161C0024D | 19-JUL-2002 | 02-03-1752A | 02
03 | VA | ROANOKE, CITY OF | 51161C0028D | 12-JUL-2002 | 02-03-1778A | 02
03 | VA | ROANOKE, CITY OF | 51161C0024D | 12-SEP-2002 | 02-03-089P | 05
03 | VA | ROANOKE, CITY OF | 51161C0041D | 04-DEC-2002 | 02-03-1694A | 02
03 | VA | ROCKBRIDGE COUNTY * | 51163C0190C | 30-AUG-2002 | 02-03-1816A | 02
03 | VA | ROCKBRIDGE COUNTY * | 51163C0250C | 27-SEP-2002 | 02-03-2038A | 02
03 | VA | ROCKBRIDGE COUNTY * | 51163C0250C | 01-NOV-2002 | 02-03-1806A | 02
03 | VA | ROCKINGHAM COUNTY* | 5101330066B | 12-JUL-2002 | 02-03-1302A | 02
03 | VA | SALEM, CITY OF | 51161C0037D | 18-SEP-2002 | 02-03-1844A | 02
03 | VA | SALEM, CITY OF | 51161C0043D | 08-NOV-2002 | 02-03-2180A | 02
03 | VA | SMITHFIELD, TOWN OF | 51093C0155D | 05-SEP-2002 | 03-03-0054V | 19
03 | VA | SPOTSYLVANIA COUNTY* | 5103080075C | 20-DEC-2002 | 03-03-0186A | 02
03 | VA | STAFFORD COUNTY * | 5101540135D | 24-JUL-2002 | 02-03-133P | 05
03 | VA | STAFFORD COUNTY * | 5101540135D | 18-SEP-2002 | 02-03-2102A | 02
03 | VA | STAFFORD COUNTY * | 5101540155B | 18-SEP-2002 | 02-03-2102A | 02
03 | VA | STAFFORD COUNTY * | 5101540205B | 25-SEP-2002 | 02-03-1588A | 02
03 | VA | SUFFOLK, CITY OF | 5101560003B | 19-JUL-2002 | 02-03-1424A | 02
03 | VA | SUFFOLK, CITY OF | 5101560023B | 20-SEP-2002 | 02-03-1876A | 02
03 | VA | TAZEWELL COUNTY * | 5101600055B | 06-SEP-2002 | 02-03-1532A | 02
03 | VA | VIENNA, TOWN OF | 5100530002B | 30-AUG-2002 | 02-03-1742A | 02
03 | VA | VIRGINIA BEACH, CITY OF | 5155310051E | 19-JUL-2002 | 02-03-1650A | 02
03 | VA | VIRGINIA BEACH, CITY OF | 5155310033E | 09-OCT-2002 | 02-03-2080A | 02
03 | VA | VIRGINIA BEACH, CITY OF | 5155310013E | 13-DEC-2002 | 03-03-0340A | 02
03 | VA | WARREN COUNTY * | 5101660115A | 21-AUG-2002 | 02-03-1544A | 02
03 | VA | WARRENTON, TOWN OF | 5100570001B | 16-JUL-2002 | 02-03-083P | 05
03 | VA | WARRENTON, TOWN OF | 5100550285B | 16-JUL-2002 | 02-03-139P | 05
03 | VA | WASHINGTON COUNTY* | 5101680151B | 28-AUG-2002 | 02-03-1564A | 02
03 | VA | WAYNESBORO, CITY OF | 5155320010B | 31-DEC-2002 | 02-03-2058A | 01
03 | VA | WESTMORELAND COUNTY* | 5102500024C | 26-JUL-2002 | 02-03-1608A | 02
03 | VA | WESTMORELAND COUNTY* | 5102500010B | 21-AUG-2002 | 02-03-1314A | 02
03 | VA | WINCHESTER, CITY OF | 5101730005B | 01-NOV-2002 | 02-03-2056A | 02
03 | VA | WINCHESTER, CITY OF | 5101730005B | 30-DEC-2002 | 02-03-051P | 05
03 | VA | WYTHE COUNTY * | 5101800050A | 02-OCT-2002 | 02-03-1662A | 02
03 | WV | BERKELEY COUNTY * | 5402820078D | 04-SEP-2002 | 02-03-169P | 05
03 | WV | BOONE COUNTY * | 54005C0040B | 27-NOV-2002 | 02-03-2236A | 02
03 | WV | CHESAPEAKE, TOWN OF | 5400740001C | 04-OCT-2002 | 02-03-1960A | 02
03 | WV | CLAY, COUNTY * | 54015C0010B | 25-SEP-2002 | 02-03-2226A | 02
03 | WV | DUNBAR, CITY OF | 5400760001C | 08-NOV-2002 | 02-03-2022A | 02
03 | WV | DUNBAR, CITY OF | 5400760001C | 13-NOV-2002 | 02-03-2034A | 02
03 | WV | DUNBAR, CITY OF | 5400760001C | 15-NOV-2002 | 02-03-2032A | 02
03 | WV | HANCOCK COUNTY * | 5400470027B | 16-AUG-2002 | 02-03-1660A | 02
03 | WV | HARDY COUNTY * | 5400510125C | 23-AUG-2002 | 02-03-1930A | 02
03 | WV | HARRISON COUNTY* | 5400530077C | 21-AUG-2002 | 02-03-1082A | 02
03 | WV | KANAWHA COUNTY * | 5400700233C | 18-DEC-2002 | 03-03-0160A | 02
03 | WV | LEWIS COUNTY* | 5400850079C | 24-JUL-2002 | 02-03-1022A | 02
03 | WV | LOGAN COUNTY * | 5455360143B | 07-AUG-2002 | 02-03-1296A | 02
03 | WV | LOGAN COUNTY * | 5455360142B | 27-NOV-2002 | 02-03-2248A | 02
03 | WV | MARTINSBURG, CITY OF | 5400060002D | 02-OCT-2002 | 02-03-069P | 05
03 | WV | MINGO COUNTY * | 5401330087C | 25-SEP-2002 | 02-03-2242A | 02
03 | WV | OHIO COUNTY * | 5401490050C | 18-SEP-2002 | 02-03-1860A | 02
03 | WV | PUTNAM COUNTY* | 5401640115A | 04-SEP-2002 | 02-03-0886A | 01
03 | WV | RANDOLPH COUNTY * | 5401750150A | 13-SEP-2002 | 02-03-1900A | 02
03 | WV | SUMMERSVILLE, TOWN OF | 540148 02B | 11-DEC-2002 | 02-03-1418A | 02
03 | WV | VIENNA, CITY OF | 5402150002B | 25-SEP-2002 | 02-03-2196A | 02
03 | WV | WEBSTER COUNTY * | 54101C0135C | 14-AUG-2002 | 02-03-1902A | 02
03 | WV | WHITE SULPHUR SPRINGS, CITY OF | 5400450001C | 03-JUL-2002 | 02-03-1372A | 02
03 | WV | WHITE SULPHUR SPRINGS, CITY OF | 5400450001C | 21-AUG-2002 | 02-03-1836A | 02
03 | WV | WINFIELD, TOWN OF | 5402710001B | 21-AUG-2002 | 02-03-1432A | 02
03 | WV | WOOD COUNTY * | 5402130109A | 03-JUL-2002 | 02-03-1688A | 02
03 | WV | WYOMING COUNTY * | 5402170148B | 11-DEC-2002 | 02-03-2010A | 01
04 | AL | ALABASTER, CITY OF | 0101920002B | 16-OCT-2002 | 02-04-2044A | 01
04 | AL | ANNISTON, CITY OF | 0100200001C | 12-JUL-2002 | 02-04-6130A | 17
04 | AL | ANNISTON, CITY OF | 0100200004C | 12-JUL-2002 | 02-04-6130A | 17
04 | AL | ARAB, CITY OF | 010345—01A | 06-NOV-2002 | 02-04-8520A | 02
04 | AL | BALDWIN COUNTY* | 01003C0861K | 17-JUL-2002 | 02-04-6044A | 02
04 | AL | BALDWIN COUNTY* | 01003C0804K | 30-OCT-2002 | 02-04-8890A | 02
04 | AL | BALDWIN COUNTY* | 01003C0545K | 22-NOV-2002 | 02-04-9026A | 02
04 | AL | BALDWIN COUNTY* | 01003C0508K | 27-NOV-2002 | 03-04-0658A | 02
04 | AL | BALDWIN COUNTY* | 01003C0670K | 06-DEC-2002 | 03-04-1150A | 02
04 | AL | BLOUNT COUNTY* | 0102300150C | 02-AUG-2002 | 02-04-6574A | 02
04 | AL | CALHOUN COUNTY * | 0100130161C | 13-SEP-2002 | 02-04-8576A | 02
04 | AL | CHEROKEE COUNTY* | 0102340150B | 26-JUL-2002 | 02-04-5738A | 02
04 | AL | CHEROKEE COUNTY* | 0102340100B | 04-OCT-2002 | 02-04-9092A | 02
04 | AL | CHEROKEE COUNTY* | 0102340125B | 25-OCT-2002 | 02-04-7600A | 02
04 | AL | CHEROKEE COUNTY* | 0102340100B | 04-DEC-2002 | 03-04-0238A | 02
04 | AL | CHILDERSBURG, CITY OF | 0101970005C | 13-DEC-2002 | 03-04-0154A | 02
04 | AL | COLBERT COUNTY | 0103180125B | 17-JUL-2002 | 02-04-5536A | 02
04 | AL | COLBERT COUNTY | 0103180125B | 17-JUL-2002 | 02-04-6326A | 02
04 | AL | COLBERT COUNTY | 0103180125B | 17-JUL-2002 | 02-04-7116A | 02
04 | AL | COLBERT COUNTY | 0103180125B | 24-JUL-2002 | 02-04-6494A | 02
04 | AL | COLBERT COUNTY | 0103180125B | 07-AUG-2002 | 02-04-7270A | 02
04 | AL | COLBERT COUNTY | 0103180125B | 30-OCT-2002 | 02-04-9252A | 02
04 | AL | COLBERT COUNTY | 0103180125B | 15-NOV-2002 | 02-04-8786A | 02
04 | AL | DALE COUNTY * | 0100600150B | 11-DEC-2002 | 02-04-9342A | 02
04 | AL | DAPHNE, CITY OF | 01003C0394K | 30-AUG-2002 | 02-04-7848A | 02
04 | AL | DAPHNE, CITY OF | 01003C0508K | 13-SEP-2002 | 02-04-8228A | 02
04 | AL | DAPHNE, CITY OF | 01003C0508K | 13-SEP-2002 | 02-04-8352A | 02
04 | AL | DAPHNE, CITY OF | 01003C0506K | 25-OCT-2002 | 02-04-8316A | 02
04 | AL | DAPHNE, CITY OF | 01003C0508K | 06-NOV-2002 | 02-04-9186A | 02
04 | AL | DAPHNE, CITY OF | 01003C0508K | 13-NOV-2002 | 02-04-9506A | 02
04 | AL | DAPHNE, CITY OF | 01003C0508K | 27-NOV-2002 | 02-04-9596A | 02
04 | AL | DECATUR, CITY OF | 01103C0080D | 17-JUL-2002 | 02-04-6284A | 02
04 | AL | DECATUR, CITY OF | 01103C0060D | 09-AUG-2002 | 02-04-7430A | 02
04 | AL | DECATUR, CITY OF | 01103C0060D | 02-OCT-2002 | 02-04-8156A | 17
04 | AL | DECATUR, CITY OF | 01103C0060D | 25-OCT-2002 | 02-04-8742A | 17
04 | AL | DECATUR, CITY OF | 01103C0060D | 30-OCT-2002 | 02-04-8736A | 01
04 | AL | DECATUR, CITY OF | 01103C0060D | 20-DEC-2002 | 03-04-0654A | 02
04 | AL | DECATUR, CITY OF | 01103C0070D | 20-DEC-2002 | 03-04-1388A | 02
04 | AL | DECATUR, CITY OF | 01103C0070D | 20-DEC-2002 | 03-04-1452A | 02
04 | AL | DOTHAN, CITY OF | 0100980205B | 09-AUG-2002 | 02-04-7222A | 02
04 | AL | DOTHAN, CITY OF | 01069C0064E | 22-NOV-2002 | 03-04-0740V | 19
04 | AL | DOTHAN, CITY OF | 01069C0068E | 22-NOV-2002 | 03-04-0740V | 19
04 | AL | DOTHAN, CITY OF | 01069C0204E | 22-NOV-2002 | 03-04-0740V | 19
04 | AL | DOTHAN, CITY OF | 01069C0208E | 22-NOV-2002 | 03-04-0740V | 19
04 | AL | DOTHAN, CITY OF | 01069C0226E | 22-NOV-2002 | 03-04-0740V | 19
04 | AL | DOTHAN, CITY OF | 01069C0226E | 27-NOV-2002 | 02-04-8434A | 02
04 | AL | DOTHAN, CITY OF | 01069C0202E | 18-DEC-2002 | 03-04-1240A | 02
04 | AL | DOTHAN, CITY OF | 01069C0204E | 18-DEC-2002 | 03-04-1240A | 02
04 | AL | ELMORE COUNTY* | 0104060100C | 07-AUG-2002 | 02-04-7626V | 19
04 | AL | ELMORE COUNTY* | 0104060125C | 07-AUG-2002 | 02-04-7626V | 19
04 | AL | ELMORE COUNTY* | 0104060155C | 07-AUG-2002 | 02-04-7626V | 19
04 | AL | ELMORE COUNTY* | 0104060200C | 07-AUG-2002 | 02-04-7626V | 19
04 | AL | ELMORE COUNTY* | 0104060100C | 18-OCT-2002 | 02-04-8518A | 02
04 | AL | ELMORE COUNTY* | 0104060095C | 27-NOV-2002 | 02-04-9428A | 02
04 | AL | ELMORE COUNTY* | 0104060100C | 27-NOV-2002 | 03-04-0650A | 02
04 | AL | ELMORE COUNTY* | 0104060100C | 04-DEC-2002 | 03-04-0098A | 02
04 | AL | ELMORE COUNTY* | 0104060100C | 04-DEC-2002 | 03-04-0338A | 02
04 | AL | ELMORE COUNTY* | 0104060100C | 26-DEC-2002 | 02-04-9302A | 02
04 | AL | ELMORE COUNTY* | 0104060100C | 26-DEC-2002 | 03-04-1218A | 02
04 | AL | ELMORE COUNTY* | 0104060100C | 26-DEC-2002 | 03-04-1510A | 02
04 | AL | ETOWAH COUNTY * | 0100770150C | 04-DEC-2002 | 03-04-0500A | 02
04 | AL | FAIRHOPE, CITY OF | 01003C0518K | 13-DEC-2002 | 03-04-0158A | 02
04 | AL | FLORENCE, CITY OF | 0101400006C | 24-JUL-2002 | 02-04-5848A | 01
04 | AL | FLORENCE, CITY OF | 0101400006C | 26-JUL-2002 | 02-04-5850A | 01
04 | AL | FLORENCE, CITY OF | 0101400006C | 26-JUL-2002 | 02-04-6386A | 01
04 | AL | FORT PAYNE, CITY OF | 0100670002A | 19-JUL-2002 | 02-04-5620A | 01
04 | AL | GULF SHORES, TOWN OF | 01003C0814K | 04-OCT-2002 | 02-04-8466A | 02
04 | AL | HARTSELLE, CITY OF | 01103C0216D | 13-SEP-2002 | 02-04-7586A | 02
04 | AL | HELENA, TOWN OF | 0102940003B | 09-AUG-2002 | 02-04-5308A | 01
04 | AL | HOKES BLUFF, TOWN OF | 0102540001A | 09-OCT-2002 | 02-04-8578A | 02
04 | AL | HOOVER, CITY OF | 01073C0489E | 21-AUG-2002 | 02-04-5938A | 01
04 | AL | HOOVER, CITY OF | 0101910020B | 01-OCT-2002 | 02-04-425P | 05
04 | AL | HOUSTON COUNTY * | 01069C0203E | 22-NOV-2002 | 03-04-0742V | 19
04 | AL | HOUSTON COUNTY * | 01069C0340E | 22-NOV-2002 | 03-04-0742V | 19
04 | AL | HUNTSVILLE, CITY OF | 01089C0333D | 02-AUG-2002 | 02-04-6814A | 02
04 | AL | HUNTSVILLE, CITY OF | 01089C0333D | 09-AUG-2002 | 02-04-7388A | 02
04 | AL | HUNTSVILLE, CITY OF | 01089C0333D | 14-AUG-2002 | 02-04-7766A | 02
04 | AL | HUNTSVILLE, CITY OF | 01089C0340D | 14-AUG-2002 | 02-04-7798A | 02
04 | AL | HUNTSVILLE, CITY OF | 01089C0333D | 06-SEP-2002 | 02-04-6948A | 02
04 | AL | HUNTSVILLE, CITY OF | 01089C0340D | 25-SEP-2002 | 02-04-8622A | 01
04 | AL | HUNTSVILLE, CITY OF | 01089C0343D | 11-OCT-2002 | 02-04-9294A | 02
04 | AL | HUNTSVILLE, CITY OF | 01089C0343D | 30-OCT-2002 | 02-04-8886A | 02
04 | AL | HUNTSVILLE, CITY OF | 01089C0340D | 30-OCT-2002 | 03-04-0396A | 02
04 | AL | HUNTSVILLE, CITY OF | 0101530225C | 04-DEC-2002 | 02-04-8888A | 02
04 | AL | HUNTSVILLE, CITY OF | 01089C0333D | 20-DEC-2002 | 03-04-1282A | 02
04 | AL | HUNTSVILLE, CITY OF | 01089C0365D | 26-DEC-2002 | 03-04-0982A | 01
04 | AL | HUNTSVILLE, CITY OF | 01089C0456D | 26-DEC-2002 | 03-04-1006A | 02
04 | AL | JEFFERSON COUNTY * | 01073C0593E | 24-JUL-2002 | 02-04-4966A | 02
04 | AL | JEFFERSON COUNTY * | 01073C0503E | 21-AUG-2002 | 01-04-541P | 05
04 | AL | JEFFERSON COUNTY * | 01073C0250E | 13-SEP-2002 | 02-04-7280A | 02
04 | AL | JEFFERSON COUNTY * | 01073C0194E | 02-OCT-2002 | 02-04-8522A | 02
04 | AL | JEFFERSON COUNTY * | 01073C0255E | 23-OCT-2002 | 03-04-0118A | 02
04 | AL | JEFFERSON COUNTY * | 01073C0584E | 04-DEC-2002 | 03-04-0236A | 02
04 | AL | LANETT, CITY OF | 0100290010B | 20-SEP-2002 | 02-04-8548X | 02
04 | AL | LAUDERDALE COUNTY * | 0103230025B | 11-JUL-2002 | 02-04-4756A | 02
04 | AL | LAUDERDALE COUNTY * | 0103230067C | 17-JUL-2002 | 02-04-5080A | 02
04 | AL | LAUDERDALE COUNTY * | 0103230180C | 24-JUL-2002 | 02-04-6384A | 02
04 | AL | LAUDERDALE COUNTY * | 0103230180C | 07-AUG-2002 | 02-04-7386A | 02
04 | AL | LAUDERDALE COUNTY * | 0103230065B | 16-AUG-2002 | 02-04-7438A | 02
04 | AL | LAUDERDALE COUNTY * | 0103230050B | 04-DEC-2002 | 02-04-5280A | 02
04 | AL | LAUDERDALE COUNTY * | 0103230105B | 13-DEC-2002 | 03-04-0160A | 02
04 | AL | LIMESTONE COUNTY * | 0103070075B | 20-DEC-2002 | 03-04-0138A | 02
04 | AL | LOXLEY, TOWN OF | 01003C0532K | 27-NOV-2002 | 03-04-0574A | 02
04 | AL | MADISON, CITY OF | 01089C0303D | 12-NOV-2002 | 02-04-479P | 05
04 | AL | MADISON, CITY OF | 01089C0311D | 12-NOV-2002 | 02-04-479P | 05
04 | AL | MARSHALL COUNTY * | 0102750100B | 13-NOV-2002 | 03-04-0472A | 02
04 | AL | MARSHALL COUNTY * | 0102750125B | 27-NOV-2002 | 02-04-6468A | 02
04 | AL | MOBILE COUNTY* | 01097C0803J | 02-OCT-2002 | 02-04-8080A | 02
04 | AL | MOBILE COUNTY* | 01097C0431J | 16-OCT-2002 | 02-04-7740A | 02
04 | AL | MOBILE, CITY OF | 01097C0677J | 07-AUG-2002 | 02-04-4742A | 02
04 | AL | MONTGOMERY COUNTY * | 01101C0135F | 16-OCT-2002 | 02-04-7160A | 01
04 | AL | MONTGOMERY, CITY OF | 01101C0060F | 07-AUG-2002 | 02-04-6976A | 01
04 | AL | MONTGOMERY, CITY OF | 01101C0070F | 04-SEP-2002 | 02-04-5268A | 02
04 | AL | MONTGOMERY, CITY OF | 01101C0135F | 11-OCT-2002 | 02-04-8226A | 02
04 | AL | MONTGOMERY, CITY OF | 01101C0060F | 11-OCT-2002 | 02-04-9346A | 02
04 | AL | MONTGOMERY, CITY OF | 01101C0070F | 30-OCT-2002 | 03-04-0340A | 02
04 | AL | MONTGOMERY, CITY OF | 01101C0070F | 04-DEC-2002 | 03-04-1022A | 02
04 | AL | MUSCLE SHOALS, CITY OF | 0100470005C | 03-JUL-2002 | 02-04-6224A | 01
04 | AL | MUSCLE SHOALS, CITY OF | 0100470005C | 09-AUG-2002 | 02-04-7552A | 02
04 | AL | MUSCLE SHOALS, CITY OF | 0100470005C | 28-AUG-2002 | 02-04-7826A | 02
04 | AL | MUSCLE SHOALS, CITY OF | 0100470005C | 04-OCT-2002 | 02-04-8944A | 02
04 | AL | NORTHPORT, CITY OF | 01125C0506E | 16-AUG-2002 | 02-04-6046A | 02
04 | AL | NORTHPORT, CITY OF | 01125C0337E | 04-SEP-2002 | 02-04-6918A | 02
04 | AL | ORANGE BEACH, CITY OF | 01003C0842K | 27-SEP-2002 | 02-04-8910A | 02
04 | AL | ORANGE BEACH, CITY OF | 01003C0842K | 02-OCT-2002 | 02-04-8894A | 02
04 | AL | ORANGE BEACH, CITY OF | 01003C0837K | 30-OCT-2002 | 02-04-8624A | 02
04 | AL | ORANGE BEACH, CITY OF | 01003C0841K | 27-NOV-2002 | 03-04-0570A | 02
04 | AL | ORANGE BEACH, CITY OF | 01003C0838K | 26-DEC-2002 | 02-04-8892A | 02
04 | AL | PELHAM, TOWN OF | 0101930002B | 31-JUL-2002 | 02-04-6746A | 02
04 | AL | PELHAM, TOWN OF | 0101930002B | 13-SEP-2002 | 02-04-5656A | 02
04 | AL | RANDOLPH COUNTY * | 0101820060B | 02-OCT-2002 | 02-04-7920A | 02
04 | AL | ROBERTSDALE, CITY OF | 01003C0565K | 25-OCT-2002 | 03-04-0240A | 02
04 | AL | RUSSELL COUNTY * | 0102870350B | 23-OCT-2002 | 02-04-8304A | 02
04 | AL | SHEFFIELD, CITY OF | 0100480002C | 17-JUL-2002 | 02-04-7050A | 02
04 | AL | SHELBY COUNTY* | 0101910175B | 31-JUL-2002 | 02-04-6388A | 02
04 | AL | SHELBY COUNTY* | 0101910045B | 04-SEP-2002 | 02-04-8312A | 02
04 | AL | SHELBY COUNTY* | 0101910100B | 25-SEP-2002 | 02-04-7686A | 02
04 | AL | SHELBY COUNTY* | 0101910080B | 27-NOV-2002 | 03-04-0296A | 02
04 | AL | SHELBY COUNTY* | 0101910150B | 27-NOV-2002 | 03-04-0652A | 02
04 | AL | ST. CLAIR COUNTY * | 0102900025B | 20-SEP-2002 | 02-04-8788A | 02
04 | AL | ST. CLAIR COUNTY * | 0102900225B | 22-NOV-2002 | 03-04-0092A | 02
04 | AL | ST. CLAIR COUNTY * | 0102900185B | 22-NOV-2002 | 03-04-0094A | 02
04 | AL | ST. CLAIR COUNTY * | 0102900250B | 26-DEC-2002 | 03-04-1392A | 02
04 | AL | TALLADEGA COUNTY * | 0102970050B | 24-JUL-2002 | 02-04-5684A | 02
04 | AL | TALLADEGA COUNTY * | 0102970200B | 28-AUG-2002 | 02-04-6760A | 02
04 | AL | TALLAPOOSA COUNTY* | 0103260125B | 06-SEP-2002 | 02-04-7850A | 02
04 | AL | TUSCALOOSA COUNTY * | 01125C0200E | 24-JUL-2002 | 02-04-5934A | 02
04 | AL | TUSCALOOSA COUNTY * | 01125C0675E | 20-SEP-2002 | 02-04-8524A | 02
04 | AL | TUSCALOOSA COUNTY * | 01125C0200E | 27-NOV-2002 | 02-04-7218A | 02
04 | AL | TUSCALOOSA, CITY OF | 01125C0515E | 17-JUL-2002 | 02-04-3194A | 01
04 | AL | TUSCALOOSA, CITY OF | 01125C0700E | 21-AUG-2002 | 02-04-7384A | 02
04 | AL | TUSCALOOSA, CITY OF | 01125C0508E | 13-SEP-2002 | 02-04-8526A | 02
04 | AL | TUSCALOOSA, CITY OF | 01125C0508E | 13-SEP-2002 | 02-04-8528A | 02
04 | AL | TUSCALOOSA, CITY OF | 01125C0509E | 20-SEP-2002 | 02-04-7444A | 01
04 | AL | TUSCALOOSA, CITY OF | 01125C0515E | 04-DEC-2002 | 03-04-0656A | 02
04 | AL | TUSCALOOSA, CITY OF | 01125C0518E | 04-DEC-2002 | 03-04-0656A | 02
04 | AL | TUSCALOOSA, CITY OF | 01125C0700E | 18-DEC-2002 | 03-04-0446A | 02
04 | AL | TUSCALOOSA, CITY OF | 01125C0700E | 18-DEC-2002 | 03-04-0850A | 02
04 | AL | WALKER COUNTY * | 0103010215B | 17-JUL-2002 | 02-04-6714A | 02
04 | AL | WALKER COUNTY * | 0103010140B | 26-JUL-2002 | 02-04-4964A | 02
04 | AL | WALKER COUNTY * | 0103010055B | 02-AUG-2002 | 02-04-7012A | 02
04 | AL | WALKER COUNTY * | 0103010035B | 09-AUG-2002 | 02-04-7796A | 02
04 | AL | WALKER COUNTY * | 0103010055B | 30-AUG-2002 | 02-04-8310A | 02
04 | AL | WALKER COUNTY * | 0103010055B | 09-OCT-2002 | 02-04-8178A | 02
04 | AL | WALKER COUNTY * | 0103010055B | 20-NOV-2002 | 03-04-0754A | 02
04 | AL | WETUMPKA, CITY OF | 0100700002C | 09-AUG-2002 | 02-04-7216A | 02
04 | AL | WETUMPKA, CITY OF | 0100700002C | 30-AUG-2002 | 02-04-8050A | 02
04 | AL | WETUMPKA, CITY OF | 0100700002C | 06-NOV-2002 | 02-04-9504A | 02
04 | AL | WETUMPKA, CITY OF | 0100700002C | 04-DEC-2002 | 02-04-9350A | 02
04 | AL | WETUMPKA, CITY OF | 0100700002C | 04-DEC-2002 | 03-04-0514A | 02
04 | AL | WINSTON COUNTY * | 0103040009B | 21-AUG-2002 | 02-04-7550A | 02
04 | AL | WINSTON COUNTY * | 0103040009B | 16-OCT-2002 | 02-04-7378A | 02
04 | FL | ALACHUA COUNTY* | 1200010475A | 10-JUL-2002 | 02-04-6202A | 02
04 | FL | ALACHUA COUNTY* | 1200010259A | 18-SEP-2002 | 02-04-8468A | 02
04 | FL | ALACHUA COUNTY* | 1200010450A | 27-NOV-2002 | 03-04-0670A | 02
04 | FL | ALTAMONTE SPRINGS, CITY OF | 12117C0120E | 07-AUG-2002 | 01-04-527P | 05
04 | FL | ALTAMONTE SPRINGS, CITY OF | 12117C0140E | 07-AUG-2002 | 01-04-527P | 05
04 | FL | ALTAMONTE SPRINGS, CITY OF | 12117C0120E | 30-AUG-2002 | 02-04-7820A | 02
04 | FL | ALTAMONTE SPRINGS, CITY OF | 12117C0120E | 02-OCT-2002 | 02-04-8244A | 17
04 | FL | ALTAMONTE SPRINGS, CITY OF | 12117C0140E | 06-DEC-2002 | 02-04-411X | 05
04 | FL | APOPKA, CITY OF | 12095C0110E | 23-OCT-2002 | 02-04-8106A | 02
04 | FL | APOPKA, CITY OF | 12095C0140E | 25-OCT-2002 | 02-04-9586A | 02
04 | FL | APOPKA, CITY OF | 12095C0110E | 13-NOV-2002 | 03-04-0712A | 02
04 | FL | AUBURNDALE, CITY OF | 12105C0335F | 31-JUL-2002 | 02-04-6420A | 02
04 | FL | BARTOW, CITY OF | 12105C0515F | 18-SEP-2002 | 02-04-7650A | 02
04 | FL | BAY COUNTY* | 12005C0220G | 19-SEP-2002 | 02-04-8640V | 19
04 | FL | BAY COUNTY* | 12005C0230G | 19-SEP-2002 | 02-04-8640V | 19
04 | FL | BAY COUNTY* | 12005C0240G | 19-SEP-2002 | 02-04-8640V | 19
04 | FL | BAY COUNTY* | 12005C0243G | 19-SEP-2002 | 02-04-8640V | 19
04 | FL | BAY COUNTY* | 12005C0335G | 19-SEP-2002 | 02-04-8640V | 19
04 | FL | BAY COUNTY* | 12005C0342G | 19-SEP-2002 | 02-04-8640V | 19
04 | FL | BAY COUNTY* | 12005C0351G | 19-SEP-2002 | 02-04-8640V | 19
04 | FL | BAY COUNTY* | 12005C0370G | 19-SEP-2002 | 02-04-8640V | 19
04 | FL | BAY COUNTY* | 12005C0460G | 19-SEP-2002 | 02-04-8640V | 19
04 | FL | BELLE ISLE, CITY OF | 12095C0430E | 10-JUL-2002 | 02-04-6532A | 02
04 | FL | BELLE ISLE, CITY OF | 12095C0430E | 17-JUL-2002 | 02-04-6790A | 02
04 | FL | BELLE ISLE, CITY OF | 12095C0430E | 26-JUL-2002 | 02-04-6920A | 02
04 | FL | BELLE ISLE, CITY OF | 12095C0430E | 01-NOV-2002 | 03-04-0254A | 02
04 | FL | BOCA RATON, CITY OF | 1201950004C | 12-JUL-2002 | 02-04-5100A | 01
04 | FL | BOCA RATON, CITY OF | 1201950007C | 13-NOV-2002 | 03-04-0126A | 02
04 | FL | BOYNTON BEACH, CITY OF | 1201960003C | 16-AUG-2002 | 02-04-7442A | 02
04 | FL | BRADENTON, CITY OF | 1201550009C | 20-NOV-2002 | 02-04-8920A | 02
04 | FL | BRADFORD COUNTY * | 12007C0175D | 28-AUG-2002 | 02-04-5194A | 02
04 | FL | BREVARD COUNTY * | 12009C0365E | 03-JUL-2002 | 02-04-5836A | 01
04 | FL | BREVARD COUNTY * | 12009C0270E | 03-JUL-2002 | 02-04-5892A | 02
04 | FL | BREVARD COUNTY * | 12009C0270E | 03-JUL-2002 | 02-04-5894A | 02
04 | FL | BREVARD COUNTY * | 12009C0441F | 03-JUL-2002 | 02-04-5982A | 01
04 | FL | BREVARD COUNTY * | 12009C0435E | 03-JUL-2002 | 02-04-6014A | 01
04 | FL | BREVARD COUNTY * | 12009C0435E | 10-JUL-2002 | 02-04-6016A | 01
04 | FL | BREVARD COUNTY * | 12009C0275E | 10-JUL-2002 | 02-04-6026A | 01
04 | FL | BREVARD COUNTY * | 12009C0435E | 10-JUL-2002 | 02-04-6212A | 02
04 | FL | BREVARD COUNTY * | 12009C0430E | 10-JUL-2002 | 02-04-6300A | 02
04 | FL | BREVARD COUNTY * | 12009C0100E | 10-JUL-2002 | 02-04-6410A | 02
04 | FL | BREVARD COUNTY * | 12009C0190F | 10-JUL-2002 | 02-04-6414A | 02
04 | FL | BREVARD COUNTY * | 12009C0275E | 12-JUL-2002 | 02-04-7086A | 02
04 | FL | BREVARD COUNTY * | 12009C0439E | 19-JUL-2002 | 02-04-6412A | 02
04 | FL | BREVARD COUNTY * | 12009C0439E | 19-JUL-2002 | 02-04-6582A | 02
04 | FL | BREVARD COUNTY * | 12009C0190F | 31-JUL-2002 | 02-04-4938A | 02
04 | FL | BREVARD COUNTY * | 12009C0360E | 31-JUL-2002 | 02-04-6268A | 02
04 | FL | BREVARD COUNTY * | 12009C0430E | 31-JUL-2002 | 02-04-6964A | 01
04 | FL | BREVARD COUNTY * | 12009C0430E | 31-JUL-2002 | 02-04-7136A | 01
04 | FL | BREVARD COUNTY * | 12009C0430E | 02-AUG-2002 | 02-04-5382A | 02
04 | FL | BREVARD COUNTY * | 12009C0430E | 07-AUG-2002 | 02-04-6056A | 02
04 | FL | BREVARD COUNTY * | 12009C0435E | 14-AUG-2002 | 02-04-7422A | 02
04 | FL | BREVARD COUNTY * | 12009C0430E | 23-AUG-2002 | 02-04-7802A | 02
04 | FL | BREVARD COUNTY * | 12009C0365E | 30-AUG-2002 | 02-04-7918A | 02
04 | FL | BREVARD COUNTY * | 12009C0295E | 04-SEP-2002 | 02-04-8104A | 02
04 | FL | BREVARD COUNTY * | 12009C0435E | 06-SEP-2002 | 02-04-8172A | 02
04 | FL | BREVARD COUNTY * | 12009C0350E | 13-SEP-2002 | 02-04-8242A | 01
04 | FL | BREVARD COUNTY * | 12009C0260E | 13-SEP-2002 | 02-04-8248A | 02
04 | FL | BREVARD COUNTY * | 12009C0441F | 13-SEP-2002 | 02-04-8250A | 01
04 | FL | BREVARD COUNTY * | 12009C0365E | 18-SEP-2002 | 02-04-8366A | 01
04 | FL | BREVARD COUNTY * | 12009C0260E | 18-SEP-2002 | 02-04-8392A | 02
04 | FL | BREVARD COUNTY * | 12009C0270E | 18-SEP-2002 | 02-04-8470A | 02
04 | FL | BREVARD COUNTY * | 12009C0275E | 04-OCT-2002 | 02-04-8324A | 02
04 | FL | BREVARD COUNTY * | 12009C0365E | 09-OCT-2002 | 02-04-8348A | 02
04 | FL | BREVARD COUNTY * | 12009C0365E | 09-OCT-2002 | 02-04-8534A | 01
04 | FL | BREVARD COUNTY * | 12009C0386E | 09-OCT-2002 | 02-04-8902A | 02
04 | FL | BREVARD COUNTY * | 12009C0260E | 09-OCT-2002 | 02-04-8924A | 01
04 | FL | BREVARD COUNTY * | 12009C0270E | 16-OCT-2002 | 02-04-9086A | 02
04 | FL | BREVARD COUNTY * | 12009C0430E | 16-OCT-2002 | 02-04-9128A | 02
04 | FL | BREVARD COUNTY * | 12009C0275E | 18-OCT-2002 | 02-04-9318A | 02
04 | FL | BREVARD COUNTY * | 12009C0430E | 23-OCT-2002 | 02-04-9406A | 02
04 | FL | BREVARD COUNTY * | 12009C0430E | 30-OCT-2002 | 02-04-9488A | 01
04 | FL | BREVARD COUNTY * | 12009C0440E | 30-OCT-2002 | 02-04-9488A | 01
04 | FL | BREVARD COUNTY * | 12009C0430E | 30-OCT-2002 | 03-04-0078A | 02
04 | FL | BREVARD COUNTY * | 12009C0430E | 30-OCT-2002 | 03-04-0102A | 02
04 | FL | BREVARD COUNTY * | 12009C0270E | 20-NOV-2002 | 03-04-0416A | 02
04 | FL | BREVARD COUNTY * | 12009C0270E | 20-NOV-2002 | 03-04-0442A | 02
04 | FL | BREVARD COUNTY * | 12009C0290E | 22-NOV-2002 | 02-04-8918A | 02
04 | FL | BREVARD COUNTY * | 12009C0260E | 27-NOV-2002 | 03-04-0660A | 02
04 | FL | BREVARD COUNTY * | 12009C0430E | 27-NOV-2002 | 03-04-0662A | 02
04 | FL | BREVARD COUNTY * | 12009C0441F | 27-NOV-2002 | 03-04-0664A | 02
04 | FL | BREVARD COUNTY * | 12009C0270E | 27-NOV-2002 | 03-04-0696A | 02
04 | FL | BREVARD COUNTY * | 12009C0440E | 04-DEC-2002 | 03-04-0796A | 02
04 | FL | BREVARD COUNTY * | 12009C0430E | 04-DEC-2002 | 03-04-0798A | 02
04 | FL | BREVARD COUNTY * | 12009C0435E | 06-DEC-2002 | 03-04-1040A | 02
04 | FL | BREVARD COUNTY * | 12009C0365E | 11-DEC-2002 | 03-04-1098A | 01
04 | FL | BREVARD COUNTY * | 12009C0619E | 18-DEC-2002 | 03-04-1156A | 02
04 | FL | BREVARD COUNTY * | 12009C0615E | 26-DEC-2002 | 03-04-1406A | 02
04 | FL | BROWARD COUNTY* | 12011C0085F | 01-JUL-2002 | 02-04-331P | 05
04 | FL | BROWARD COUNTY* | 12011C0190F | 06-SEP-2002 | 02-04-7112A | 02
04 | FL | BROWARD COUNTY* | 12011C0190F | 06-NOV-2002 | 03-04-0074A | 02
04 | FL | BROWARD COUNTY* | 12011C0195F | 06-NOV-2002 | 03-04-0074A | 02
04 | FL | CALHOUN COUNTY* | 12013C0170D | 02-AUG-2002 | 02-04-7176A | 02
04 | FL | CALHOUN COUNTY* | 12013C0075D | 21-AUG-2002 | 02-04-7922A | 02
04 | FL | CALLAWAY, CITY OF | 12005C0427G | 19-SEP-2002 | 02-04-8632V | 19
04 | FL | CAPE CORAL, CITY OF | 1250950020C | 12-JUL-2002 | 02-04-6654A | 01
04 | FL | CAPE CORAL, CITY OF | 1250950030C | 24-JUL-2002 | 02-04-6834A | 01
04 | FL | CAPE CORAL, CITY OF | 1250950020C | 26-JUL-2002 | 02-04-6974A | 01
04 | FL | CAPE CORAL, CITY OF | 1250950030C | 26-JUL-2002 | 02-04-6974A | 01
04 | FL | CAPE CORAL, CITY OF | 1250950030C | 07-AUG-2002 | 02-04-7094A | 01
04 | FL | CAPE CORAL, CITY OF | 1250950030C | 07-AUG-2002 | 02-04-7154A | 01
04 | FL | CAPE CORAL, CITY OF | 1250950040C | 07-AUG-2002 | 02-04-7154A | 01
04 | FL | CAPE CORAL, CITY OF | 1250950020C | 14-AUG-2002 | 02-04-7318A | 01
04 | FL | CAPE CORAL, CITY OF | 1250950030C | 14-AUG-2002 | 02-04-7318A | 01
04 | FL | CAPE CORAL, CITY OF | 1250950035C | 14-AUG-2002 | 02-04-7318A | 01
04 | FL | CAPE CORAL, CITY OF | 1250950020C | 14-AUG-2002 | 02-04-7320A | 01
04 | FL | CAPE CORAL, CITY OF | 1250950030C | 14-AUG-2002 | 02-04-7320A | 01
04 | FL | CAPE CORAL, CITY OF | 1250950030C | 14-AUG-2002 | 02-04-7532A | 01
04 | FL | CAPE CORAL, CITY OF | 1250950035C | 14-AUG-2002 | 02-04-7532A | 01
04 | FL | CAPE CORAL, CITY OF | 1250950020C | 21-AUG-2002 | 02-04-7608A | 01
04 | FL | CAPE CORAL, CITY OF | 1250950035C | 21-AUG-2002 | 02-04-7608A | 01
04 | FL | CAPE CORAL, CITY OF | 1250950040C | 21-AUG-2002 | 02-04-7608A | 01
04 | FL | CAPE CORAL, CITY OF | 1250950020C | 23-AUG-2002 | 02-04-7790A | 01
04 | FL | CAPE CORAL, CITY OF | 1250950030C | 23-AUG-2002 | 02-04-7790A | 01
04 | FL | CAPE CORAL, CITY OF | 1250950035C | 23-AUG-2002 | 02-04-7790A | 01
04 | FL | CAPE CORAL, CITY OF | 1250950030C | 23-AUG-2002 | 02-04-7792A | 01
04 | FL | CAPE CORAL, CITY OF | 1250950030C | 13-SEP-2002 | 02-04-8158A | 02
04 | FL | CAPE CORAL, CITY OF | 1250950020C | 13-SEP-2002 | 02-04-8354A | 01
04 | FL | CAPE CORAL, CITY OF | 1250950040C | 13-SEP-2002 | 02-04-8354A | 01
04 | FL | CAPE CORAL, CITY OF | 1250950030C | 18-SEP-2002 | 02-04-8532A | 01
04 | FL | CAPE CORAL, CITY OF | 1250950020C | 27-SEP-2002 | 02-04-8760A | 01
04 | FL | CAPE CORAL, CITY OF | 1250950030C | 02-OCT-2002 | 02-04-8926A | 01
04 | FL | CAPE CORAL, CITY OF | 1250950035C | 02-OCT-2002 | 02-04-8998A | 02
04 | FL | CAPE CORAL, CITY OF | 1250950020C | 23-OCT-2002 | 02-04-9136A | 01
04 | FL | CAPE CORAL, CITY OF | 1250950030C | 23-OCT-2002 | 02-04-9136A | 01
04 | FL | CAPE CORAL, CITY OF | 1250950035C | 23-OCT-2002 | 02-04-9136A | 01
04 | FL | CAPE CORAL, CITY OF | 1250950040C | 23-OCT-2002 | 02-04-9136A | 01
04 | FL | CAPE CORAL, CITY OF | 1250950020C | 23-OCT-2002 | 02-04-9314A | 01
04 | FL | CAPE CORAL, CITY OF | 1250950030C | 23-OCT-2002 | 02-04-9314A | 01
04 | FL | CAPE CORAL, CITY OF | 1250950040C | 23-OCT-2002 | 02-04-9314A | 01
04 | FL | CAPE CORAL, CITY OF | 1250950020C | 23-OCT-2002 | 02-04-9492A | 01
04 | FL | CAPE CORAL, CITY OF | 1250950030C | 23-OCT-2002 | 02-04-9492A | 01
04 | FL | CAPE CORAL, CITY OF | 1250950020C | 06-NOV-2002 | 03-04-0050A | 01
04 | FL | CAPE CORAL, CITY OF | 1250950030C | 06-NOV-2002 | 03-04-0050A | 01
04 | FL | CAPE CORAL, CITY OF | 1250950035C | 06-NOV-2002 | 03-04-0050A | 01
04 | FL | CAPE CORAL, CITY OF | 1250950020C | 27-NOV-2002 | 03-04-0220A | 01
04 | FL | CAPE CORAL, CITY OF | 1250950030C | 27-NOV-2002 | 03-04-0220A | 01
04 | FL | CAPE CORAL, CITY OF | 1250950030C | 27-NOV-2002 | 03-04-0402A | 01
04 | FL | CAPE CORAL, CITY OF | 1250950040C | 27-NOV-2002 | 03-04-0402A | 01
04 | FL | CAPE CORAL, CITY OF | 1250950030C | 27-NOV-2002 | 03-04-0470A | 01
04 | FL | CAPE CORAL, CITY OF | 1250950040C | 27-NOV-2002 | 03-04-0616A | 01
04 | FL | CAPE CORAL, CITY OF | 1250950020C | 04-DEC-2002 | 03-04-0262A | 01
04 | FL | CAPE CORAL, CITY OF | 1250950030C | 04-DEC-2002 | 03-04-0262A | 01
04 | FL | CAPE CORAL, CITY OF | 1250950020C | 04-DEC-2002 | 03-04-0404A | 01
04 | FL | CAPE CORAL, CITY OF | 1250950030C | 04-DEC-2002 | 03-04-0404A | 01
04 | FL | CAPE CORAL, CITY OF | 1250950020C | 11-DEC-2002 | 03-04-0704A | 01
04 | FL | CAPE CORAL, CITY OF | 1250950030C | 11-DEC-2002 | 03-04-0704A | 01
04 | FL | CAPE CORAL, CITY OF | 1250950035C | 11-DEC-2002 | 03-04-0704A | 01
04 | FL | CAPE CORAL, CITY OF | 1250950040C | 11-DEC-2002 | 03-04-0704A | 01
04 | FL | CAPE CORAL, CITY OF | 1250950020C | 11-DEC-2002 | 03-04-0832A | 01
04 | FL | CAPE CORAL, CITY OF | 1250950030C | 11-DEC-2002 | 03-04-0832A | 01
04 | FL | CAPE CORAL, CITY OF | 1250950020C | 11-DEC-2002 | 03-04-0888A | 01
04 | FL | CAPE CORAL, CITY OF | 1250950020C | 13-DEC-2002 | 03-04-0922A | 01
04 | FL | CAPE CORAL, CITY OF | 1250950035C | 13-DEC-2002 | 03-04-0924A | 01
04 | FL | CASSELBERRY, CITY OF | 12117C0145E | 14-AUG-2002 | 02-04-7436A | 02
04 | FL | CASSELBERRY, CITY OF | 12117C0140E | 16-OCT-2002 | 02-04-3994A | 01
04 | FL | CASSELBERRY, CITY OF | 12117C0210E | 20-NOV-2002 | 02-04-9288A | 02
04 | FL | CITRUS COUNTY * | 1200630120B | 12-JUL-2002 | 02-04-6042A | 02
04 | FL | CITRUS COUNTY * | 1200630270B | 17-JUL-2002 | 02-04-6126A | 02
04 | FL | CITRUS COUNTY * | 1200630260B | 28-AUG-2002 | 02-04-7582A | 02
04 | FL | CITRUS COUNTY * | 1200630210B | 20-SEP-2002 | 02-04-8192A | 02
04 | FL | CITRUS COUNTY * | 1200630065B | 27-SEP-2002 | 02-04-5534A | 02
04 | FL | CITRUS COUNTY * | 1200630260B | 27-SEP-2002 | 02-04-8498A | 02
04 | FL | CITRUS COUNTY * | 1200630260B | 06-NOV-2002 | 02-04-9512A | 02
04 | FL | CITRUS COUNTY * | 1200630255B | 27-NOV-2002 | 03-04-0346A | 02
04 | FL | CLAY COUNTY * | 1200640350D | 03-JUL-2002 | 02-04-4102A | 02
04 | FL | CLAY COUNTY * | 1200640155D | 03-JUL-2002 | 02-04-6036A | 01
04 | FL | CLAY COUNTY * | 1200640065D | 10-JUL-2002 | 02-04-5078A | 01
04 | FL | CLAY COUNTY * | 1200640130D | 17-JUL-2002 | 02-04-1082P | 05
04 | FL | CLAY COUNTY * | 1200640155D | 31-JUL-2002 | 02-04-5212A | 02
04 | FL | CLAY COUNTY * | 1200640065D | 28-AUG-2002 | 02-04-4798A | 01
04 | FL | CLAY COUNTY * | 1200640325D | 28-AUG-2002 | 02-04-7464A | 02
04 | FL | CLAY COUNTY * | 1200640155D | 28-AUG-2002 | 02-04-7846A | 01
04 | FL | CLAY COUNTY * | 1200640130D | 30-AUG-2002 | 02-04-7638A | 01
04 | FL | CLAY COUNTY * | 1200640130D | 25-SEP-2002 | 02-04-9132X | 01
04 | FL | CLAY COUNTY * | 1200640350D | 27-SEP-2002 | 02-04-8738A | 02
04 | FL | CLAY COUNTY * | 1200640200D | 11-OCT-2002 | 02-04-9202A | 02
04 | FL | CLAY COUNTY * | 1200640155D | 18-OCT-2002 | 02-04-9104A | 02
04 | FL | CLAY COUNTY * | 1200640350D | 06-NOV-2002 | 02-04-8318A | 02
04 | FL | CLAY COUNTY * | 1200640155D | 20-NOV-2002 | 02-04-7744A | 01
04 | FL | CLAY COUNTY * | 1200640155D | 20-NOV-2002 | 02-04-9356A | 02
04 | FL | CLAY COUNTY * | 1200640325D | 26-DEC-2002 | 03-04-1070A | 02
04 | FL | CLAY COUNTY * | 1200640350D | 26-DEC-2002 | 03-04-1070A | 02
04 | FL | CLEARWATER, CITY OF | 1250960016D | 02-AUG-2002 | 02-04-6880A | 02
04 | FL | CLEARWATER, CITY OF | 1250960015D | 04-OCT-2002 | 02-04-8052A | 02
04 | FL | CLERMONT, CITY OF | 12069C0545D | 04-JUL-2002 | 02-04-7074V | 19
04 | FL | CLERMONT, CITY OF | 12069C0565D | 04-JUL-2002 | 02-04-7074V | 19
04 | FL | CLERMONT, CITY OF | 12069C0545D | 09-OCT-2002 | 02-04-8486A | 02
04 | FL | COCONUT CREEK, CITY OF | 12011C0115F | 24-JUL-2002 | 02-04-6256A | 02
04 | FL | COCONUT CREEK, CITY OF | 12011C0105F | 13-NOV-2002 | 02-04-7952A | 01
04 | FL | COLLIER COUNTY * | 1200670195D | 12-JUL-2002 | 02-04-6474A | 02
04 | FL | COLLIER COUNTY * | 1200670195D | 13-SEP-2002 | 02-04-5094A | 01
04 | FL | COOPER CITY, CITY OF | 12011C0305F | 23-AUG-2002 | 02-04-7704A | 02
04 | FL | CORAL SPRINGS, CITY OF | 12011C0115F | 31-JUL-2002 | 02-04-6768A | 02
04 | FL | CORAL SPRINGS, CITY OF | 12011C0115F | 31-JUL-2002 | 02-04-6770A | 02
04 | FL | CORAL SPRINGS, CITY OF | 12011C0095F | 09-OCT-2002 | 02-04-8770A | 02
04 | FL | CORAL SPRINGS, CITY OF | 12011C0115F | 06-NOV-2002 | 02-04-9548A | 02
04 | FL | CORAL SPRINGS, CITY OF | 12011C0115F | 13-NOV-2002 | 03-04-0510A | 02
04 | FL | DAVIE, CITY OF | 12011C0302F | 24-JUL-2002 | 02-04-5600A | 02
04 | FL | DAYTONA BEACH, CITY OF | 12127C0368G | 10-JUL-2002 | 02-04-6682A | 02
04 | FL | DAYTONA BEACH, CITY OF | 12127C0366G | 02-OCT-2002 | 02-04-7926A | 02
04 | FL | DAYTONA BEACH, CITY OF | 12127C0368G | 30-OCT-2002 | 03-04-0134A | 02
04 | FL | DEBARY, CITY OF | 12127C0620G | 27-SEP-2002 | 02-04-9032A | 02
04 | FL | DEBARY, CITY OF | 12127C0620G | 25-OCT-2002 | 02-04-7394A | 02
04 | FL | DEBARY, CITY OF | 12127C0615G | 08-NOV-2002 | 03-04-0104A | 02
04 | FL | DEERFIELD BEACH, CITY OF | 12011C0120F | 31-JUL-2002 | 02-04-6674A | 02
04 | FL | DEERFIELD BEACH, CITY OF | 12011C0120F | 04-OCT-2002 | 02-04-8836A | 02
04 | FL | DEERFIELD BEACH, CITY OF | 12011C0120F | 15-NOV-2002 | 02-04-8772A | 02
04 | FL | DELRAY BEACH, CITY OF | 1251020002D | 10-JUL-2002 | 02-04-5482A | 02
04 | FL | DELTONA, CITY OF | 12127C0650G | 19-JUL-2002 | 02-04-7162A | 02
04 | FL | DELTONA, CITY OF | 12127C0650G | 07-AUG-2002 | 02-04-7128A | 02
04 | FL | DIXIE COUNTY * | 1203360225B | 23-OCT-2002 | 02-04-8030A | 02
04 | FL | EAGLE LAKE, CITY OF | 12105C0510F | 13-NOV-2002 | 03-04-0244A | 02
04 | FL | EDGEWATER, CITY OF | 12127C0685G | 28-AUG-2002 | 02-04-7624A | 02
04 | FL | ESCAMBIA COUNTY* | 12033C0364F | 20-NOV-2002 | 02-04-5896A | 01
04 | FL | EUSTIS, CITY OF | 12069C0215D | 04-JUL-2002 | 02-04-7066V | 19
04 | FL | EUSTIS, CITY OF | 12069C0355D | 04-JUL-2002 | 02-04-7066V | 19
04 | FL | EUSTIS, CITY OF | 12069C0356D | 04-JUL-2002 | 02-04-7066V | 19
04 | FL | EUSTIS, CITY OF | 12069C0358D | 04-JUL-2002 | 02-04-7066V | 19
04 | FL | EUSTIS, CITY OF | 12069C0220D | 27-NOV-2002 | 03-04-0584A | 02
04 | FL | GADSDEN COUNTY * | 1200910300A | 13-SEP-2002 | 02-04-7186A | 02
04 | FL | GAINESVILLE, CITY OF | 1251070012B | 03-JUL-2002 | 02-04-5284A | 02
04 | FL | GAINESVILLE, CITY OF | 1200010275A | 12-JUL-2002 | 02-04-5990A | 02
04 | FL | GAINESVILLE, CITY OF | 1200010275A | 30-AUG-2002 | 02-04-7916A | 02
04 | FL | GAINESVILLE, CITY OF | 1251070005C | 16-OCT-2002 | 02-04-9164A | 02
04 | FL | GROVELAND, CITY OF | 12069C0530D | 04-JUL-2002 | 02-04-7072V | 19
04 | FL | GULF COUNTY * | 12045C0319E | 08-NOV-2002 | 01-04-6660A | 02
04 | FL | GULF COUNTY * | 12045C0409E | 08-NOV-2002 | 01-04-7394A | 02
04 | FL | GULF COUNTY * | 12045C0409E | 08-NOV-2002 | 01-04-7434A | 02
04 | FL | GULF COUNTY * | 12045C0407E | 08-NOV-2002 | 02-04-2738A | 02
04 | FL | GULF COUNTY * | 12045C0407E | 08-NOV-2002 | 02-04-3644A | 02
04 | FL | GULF COUNTY * | 12045C0407E | 08-NOV-2002 | 02-04-3910A | 02
04 | FL | GULF COUNTY * | 12045C0407E | 08-NOV-2002 | 02-04-4858A | 02
04 | FL | GULF COUNTY * | 12045C0437E | 08-NOV-2002 | 02-04-5010A | 02
04 | FL | GULF COUNTY * | 12045C0407E | 08-NOV-2002 | 02-04-5422A | 02
04 | FL | GULF COUNTY * | 12045C0409E | 08-NOV-2002 | 02-04-7194A | 02
04 | FL | GULF COUNTY * | 12045C0407E | 08-NOV-2002 | 02-04-7906A | 02
04 | FL | GULF COUNTY * | 12045C0407E | 08-NOV-2002 | 02-04-8642A | 02
04 | FL | GULF COUNTY * | 12045C0407E | 08-NOV-2002 | 02-04-9018A | 02
04 | FL | GULF COUNTY * | 12045C0407E | 08-NOV-2002 | 02-04-9094A | 02
04 | FL | GULF COUNTY * | 12045C0075E | 08-NOV-2002 | 03-04-0586V | 19
04 | FL | GULF COUNTY * | 12045C0319E | 15-NOV-2002 | 01-04-7282A | 02
04 | FL | GULF COUNTY * | 12045C0319E | 15-NOV-2002 | 01-04-7284A | 02
04 | FL | GULF COUNTY * | 12045C0409E | 15-NOV-2002 | 01-04-7468A | 02
04 | FL | GULF COUNTY * | 12045C0409E | 15-NOV-2002 | 01-04-7494A | 02
04 | FL | GULF COUNTY * | 12045C0428E | 15-NOV-2002 | 01-04-7526A | 02
04 | FL | GULF COUNTY * | 12045C0441E | 15-NOV-2002 | 01-04-7534A | 02
04 | FL | GULF COUNTY * | 12045C0409E | 15-NOV-2002 | 01-04-7560A | 02
04 | FL | GULF COUNTY * | 12045C0409E | 15-NOV-2002 | 02-04-3912A | 02
04 | FL | GULF COUNTY * | 12045C0409E | 15-NOV-2002 | 02-04-3914A | 02
04 | FL | GULF COUNTY * | 12045C0409E | 15-NOV-2002 | 02-04-3996A | 02
04 | FL | GULF COUNTY * | 12045C0428E | 15-NOV-2002 | 02-04-4154A | 02
04 | FL | GULF COUNTY * | 12045C0409E | 15-NOV-2002 | 02-04-4156A | 02
04 | FL | GULF COUNTY * | 12045C0437E | 15-NOV-2002 | 02-04-6572A | 02
04 | FL | GULF COUNTY * | 12045C0409E | 15-NOV-2002 | 02-04-8196A | 02
04 | FL | GULF COUNTY * | 12045C0319E | 22-NOV-2002 | 01-04-7274A | 02
04 | FL | HERNANDO COUNTY * | 1201100280B | 02-AUG-2002 | 02-04-7046A | 02
04 | FL | HERNANDO COUNTY * | 1201100325B | 13-SEP-2002 | 02-04-7942A | 02
04 | FL | HERNANDO COUNTY * | 1201100280B | 06-NOV-2002 | 03-04-0246A | 02
04 | FL | HERNANDO COUNTY * | 1201100225B | 06-DEC-2002 | 02-04-9550A | 02
04 | FL | HIALEAH GARDENS, CITY OF | 12025C0075J | 12-JUL-2002 | 02-04-4814A | 02
04 | FL | HIALEAH, CITY OF | 12025C0180J | 24-JUL-2002 | 02-04-5980A | 02
04 | FL | HIALEAH, CITY OF | 12025C0180J | 19-SEP-2002 | 02-04-8774A | 02
04 | FL | HIALEAH, CITY OF | 12025C0075J | 15-NOV-2002 | 02-04-8026A | 02
04 | FL | HIALEAH, CITY OF | 12025C0180J | 26-DEC-2002 | 03-04-0962A | 01
04 | FL | HILLSBOROUGH COUNTY* | 1201120190D | 10-JUL-2002 | 02-04-6032A | 02
04 | FL | HILLSBOROUGH COUNTY* | 1201120185F | 12-JUL-2002 | 02-04-4968A | 01
04 | FL | HILLSBOROUGH COUNTY* | 1201120180F | 17-JUL-2002 | 02-04-5756A | 02
04 | FL | HILLSBOROUGH COUNTY* | 1201120185F | 17-JUL-2002 | 02-04-6320A | 02
04 | FL | HILLSBOROUGH COUNTY* | 1201120045D | 17-JUL-2002 | 02-04-7020A | 01
04 | FL | HILLSBOROUGH COUNTY* | 1201120185F | 19-JUL-2002 | 02-04-5754A | 02
04 | FL | HILLSBOROUGH COUNTY* | 1201120065D | 19-JUL-2002 | 02-04-6332A | 02
04 | FL | HILLSBOROUGH COUNTY* | 1201120385E | 24-JUL-2002 | 02-04-2034A | 01
04 | FL | HILLSBOROUGH COUNTY* | 1201120040D | 26-JUL-2002 | 02-04-7084A | 02
04 | FL | HILLSBOROUGH COUNTY* | 1201120388C | 31-JUL-2002 | 02-04-2036A | 01
04 | FL | HILLSBOROUGH COUNTY* | 1201120386E | 14-AUG-2002 | 02-04-7018A | 01
04 | FL | HILLSBOROUGH COUNTY* | 1201120205D | 14-AUG-2002 | 02-04-7336A | 02
04 | FL | HILLSBOROUGH COUNTY* | 1201120185F | 14-AUG-2002 | 02-04-7346A | 02
04 | FL | HILLSBOROUGH COUNTY* | 1201120389D | 16-AUG-2002 | 02-04-7572A | 01
04 | FL | HILLSBOROUGH COUNTY* | 1201120389D | 16-AUG-2002 | 02-04-7574A | 01
04 | FL | HILLSBOROUGH COUNTY* | 1201120520C | 21-AUG-2002 | 02-04-2038A | 01
04 | FL | HILLSBOROUGH COUNTY* | 1201120040D | 21-AUG-2002 | 02-04-7776A | 01
04 | FL | HILLSBOROUGH COUNTY* | 1201120380E | 23-AUG-2002 | 02-04-7752A | 01
04 | FL | HILLSBOROUGH COUNTY* | 1201120190D | 30-AUG-2002 | 02-04-7232A | 02
04 | FL | HILLSBOROUGH COUNTY* | 1201120385E | 04-SEP-2002 | 02-04-7944A | 01
04 | FL | HILLSBOROUGH COUNTY* | 1201120185F | 06-SEP-2002 | 02-04-8176A | 02
04 | FL | HILLSBOROUGH COUNTY* | 1201120530C | 13-SEP-2002 | 02-04-7838A | 02
04 | FL | HILLSBOROUGH COUNTY* | 1201120185F | 18-SEP-2002 | 02-04-8376A | 02
04 | FL | HILLSBOROUGH COUNTY* | 1201120515B | 18-SEP-2002 | 02-04-8402A | 02
04 | FL | HILLSBOROUGH COUNTY* | 1201120387E | 18-SEP-2002 | 02-04-8404A | 02
04 | FL | HILLSBOROUGH COUNTY* | 1201120065D | 04-OCT-2002 | 02-04-8268A | 02
04 | FL | HILLSBOROUGH COUNTY* | 1201120395E | 04-OCT-2002 | 02-04-8776A | 02
04 | FL | HILLSBOROUGH COUNTY* | 1201120415C | 09-OCT-2002 | 02-04-7750A | 01
04 | FL | HILLSBOROUGH COUNTY* | 1201120169C | 09-OCT-2002 | 02-04-8954A | 01
04 | FL | HILLSBOROUGH COUNTY* | 1201120205D | 16-OCT-2002 | 02-04-9158A | 02
04 | FL | HILLSBOROUGH COUNTY* | 1201120211D | 16-OCT-2002 | 02-04-9158A | 02
04 | FL | HILLSBOROUGH COUNTY* | 1201120070E | 18-OCT-2002 | 02-04-9300A | 02
04 | FL | HILLSBOROUGH COUNTY* | 1201120167C | 23-OCT-2002 | 02-04-9134A | 01
04 | FL | HILLSBOROUGH COUNTY* | 1201120169C | 23-OCT-2002 | 02-04-9134A | 01
04 | FL | HILLSBOROUGH COUNTY* | 1201120205D | 25-OCT-2002 | 02-04-8940A | 01
04 | FL | HILLSBOROUGH COUNTY* | 1201120205D | 01-NOV-2002 | 02-04-7966A | 02
04 | FL | HILLSBOROUGH COUNTY* | 1201120160C | 01-NOV-2002 | 03-04-0144A | 01
04 | FL | HILLSBOROUGH COUNTY* | 1201120265D | 01-NOV-2002 | 03-04-0270A | 02
04 | FL | HILLSBOROUGH COUNTY* | 1201120380E | 13-NOV-2002 | 02-04-9582X | 01
04 | FL | HILLSBOROUGH COUNTY* | 1201120160C | 20-NOV-2002 | 02-04-9276A | 01
04 | FL | HILLSBOROUGH COUNTY* | 1201120265D | 20-NOV-2002 | 03-04-0390A | 02
04 | FL | HILLSBOROUGH COUNTY* | 1201120204D | 27-NOV-2002 | 02-04-9516A | 01
04 | FL | HILLSBOROUGH COUNTY* | 1201120385E | 27-NOV-2002 | 03-04-0588A | 02
04 | FL | HILLSBOROUGH COUNTY* | 1201120211D | 04-DEC-2002 | 03-04-0634A | 01
04 | FL | HILLSBOROUGH COUNTY* | 1201120204D | 04-DEC-2002 | 03-04-0994A | 02
04 | FL | HILLSBOROUGH COUNTY* | 1201120389D | 26-DEC-2002 | 03-04-1412A | 01
04 | FL | HILLSBOROUGH COUNTY* | 1201120195D | 26-DEC-2002 | 03-04-1514A | 01
04 | FL | HOLLYWOOD, CITY OF | 12011C0312F | 14-AUG-2002 | 02-04-7014A | 01
04 | FL | HOLLYWOOD, CITY OF | 12011C0304F | 13-SEP-2002 | 02-04-8014A | 02
04 | FL | HOLLYWOOD, CITY OF | 12011C0309F | 11-OCT-2002 | 02-04-9168A | 02
04 | FL | HOLLYWOOD, CITY OF | 12011C0317G | 06-DEC-2002 | 03-04-1286A | 02
04 | FL | HOMESTEAD, CITY OF | 12025C0365J | 24-JUL-2002 | 02-04-6308A | 02
04 | FL | HOMESTEAD, CITY OF | 12025C0365J | 06-NOV-2002 | 03-04-0068A | 02
04 | FL | HOMESTEAD, CITY OF | 12025C0365J | 06-DEC-2002 | 03-04-0702A | 02
04 | FL | HOMESTEAD, CITY OF | 12025C0365J | 18-DEC-2002 | 03-04-0508A | 01
04 | FL | HOWEY IN THE HILLS, TOWN OF | 12069C0460D | 05-JUL-2002 | 02-04-323P | 05
04 | FL | INDIAN RIVER COUNTY * | 12061C0091E | 19-JUL-2002 | 02-04-6262A | 02
04 | FL | INDIAN RIVER COUNTY * | 12061C0090E | 16-AUG-2002 | 02-04-7536A | 01
04 | FL | INTERLACHEN, TOWN OF | 1203910002A | 23-OCT-2002 | 02-04-9304A | 02
04 | FL | INVERNESS, CITY OF | 1203480001B | 20-NOV-2002 | 02-04-9514A | 02
04 | FL | INVERNESS, CITY OF | 1203480001B | 11-DEC-2002 | 03-04-0266A | 02
04 | FL | JACKSON COUNTY * | 12063C0175C | 03-JUL-2002 | 02-04-6508A | 02
04 | FL | JACKSONVILLE BEACH, CITY OF | 1200780001D | 03-JUL-2002 | 02-04-4878A | 02
04 | FL | JACKSONVILLE, CITY OF | 1200770208E | 16-AUG-2002 | 02-04-6134A | 02
04 | FL | JACKSONVILLE, CITY OF | 1200770219E | 13-SEP-2002 | 02-04-7556A | 01
04 | FL | JACKSONVILLE, CITY OF | 1200770227E | 18-SEP-2002 | 02-04-6502A | 02
04 | FL | JACKSONVILLE, CITY OF | 1200770164E | 02-OCT-2002 | 02-04-8490A | 02
04 | FL | JACKSONVILLE, CITY OF | 1200770228E | 09-OCT-2002 | 02-04-7880A | 01
04 | FL | JACKSONVILLE, CITY OF | 1200770162E | 13-NOV-2002 | 02-04-7700A | 02
04 | FL | JACKSONVILLE, CITY OF | 1200770050E | 15-NOV-2002 | 02-04-8492A | 02
04 | FL | KENNETH CITY, TOWN OF | 1202450002C | 27-DEC-2002 | 03-04-1044A | 02
04 | FL | KISSIMMEE, CITY OF | 12097C0068F | 03-JUL-2002 | 02-04-5238A | 01
04 | FL | KISSIMMEE, CITY OF | 12097C0055F | 04-SEP-2002 | 02-04-6838A | 01
04 | FL | KISSIMMEE, CITY OF | 12097C0060F | 04-SEP-2002 | 02-04-6838A | 01
04 | FL | KISSIMMEE, CITY OF | 12097C0068F | 13-SEP-2002 | 02-04-8484A | 01
04 | FL | LAKE COUNTY * | 12069C0155D | 04-JUL-2002 | 02-04-7062V | 19
04 | FL | LAKE COUNTY * | 12069C0165D | 04-JUL-2002 | 02-04-7062V | 19
04 | FL | LAKE COUNTY * | 12069C0170D | 04-JUL-2002 | 02-04-7062V | 19
04 | FL | LAKE COUNTY * | 12069C0185D | 04-JUL-2002 | 02-04-7062V | 19
04 | FL | LAKE COUNTY * | 12069C0190D | 04-JUL-2002 | 02-04-7062V | 19
04 | FL | LAKE COUNTY * | 12069C0195D | 04-JUL-2002 | 02-04-7062V | 19
04 | FL | LAKE COUNTY * | 12069C0210D | 04-JUL-2002 | 02-04-7062V | 19
04 | FL | LAKE COUNTY * | 12069C0215D | 04-JUL-2002 | 02-04-7062V | 19
04 | FL | LAKE COUNTY * | 12069C0220D | 04-JUL-2002 | 02-04-7062V | 19
04 | FL | LAKE COUNTY * | 12069C0235D | 04-JUL-2002 | 02-04-7062V | 19
04 | FL | LAKE COUNTY * | 12069C0240D | 04-JUL-2002 | 02-04-7062V | 19
04 | FL | LAKE COUNTY * | 12069C0245D | 04-JUL-2002 | 02-04-7062V | 19
04 | FL | LAKE COUNTY * | 12069C0265D | 04-JUL-2002 | 02-04-7062V | 19
04 | FL | LAKE COUNTY * | 12069C0305D | 04-JUL-2002 | 02-04-7062V | 19
04 | FL | LAKE COUNTY * | 12069C0306D | 04-JUL-2002 | 02-04-7062V | 19
04 | FL | LAKE COUNTY * | 12069C0307D | 04-JUL-2002 | 02-04-7062V | 19
04 | FL | LAKE COUNTY * | 12069C0308D | 04-JUL-2002 | 02-04-7062V | 19
04 | FL | LAKE COUNTY * | 12069C0309D | 04-JUL-2002 | 02-04-7062V | 19
04 | FL | LAKE COUNTY * | 12069C0320D | 04-JUL-2002 | 02-04-7062V | 19
04 | FL | LAKE COUNTY * | 12069C0330D | 04-JUL-2002 | 02-04-7062V | 19
04 | FL | LAKE COUNTY * | 12069C0332D | 04-JUL-2002 | 02-04-7062V | 19
04 | FL | LAKE COUNTY * | 12069C0333D | 04-JUL-2002 | 02-04-7062V | 19
04 | FL | LAKE COUNTY * | 12069C0334D | 04-JUL-2002 | 02-04-7062V | 19
04 | FL | LAKE COUNTY * | 12069C0340D | 04-JUL-2002 | 02-04-7062V | 19
04 | FL | LAKE COUNTY * | 12069C0345D | 04-JUL-2002 | 02-04-7062V | 19
04 | FL | LAKE COUNTY * | 12069C0355D | 04-JUL-2002 | 02-04-7062V | 19
04 | FL | LAKE COUNTY * | 12069C0356D | 04-JUL-2002 | 02-04-7062V | 19
04 | FL | LAKE COUNTY * | 12069C0357D | 04-JUL-2002 | 02-04-7062V | 19
04 | FL | LAKE COUNTY * | 12069C0358D | 04-JUL-2002 | 02-04-7062V | 19
04 | FL | LAKE COUNTY * | 12069C0359D | 04-JUL-2002 | 02-04-7062V | 19
04 | FL | LAKE COUNTY * | 12069C0361D | 04-JUL-2002 | 02-04-7062V | 19
04 | FL | LAKE COUNTY * | 12069C0362D | 04-JUL-2002 | 02-04-7062V | 19
04 | FL | LAKE COUNTY * | 12069C0365D | 04-JUL-2002 | 02-04-7062V | 19
04 | FL | LAKE COUNTY * | 12069C0366D | 04-JUL-2002 | 02-04-7062V | 19
04 | FL | LAKE COUNTY * | 12069C0370D | 04-JUL-2002 | 02-04-7062V | 19
04 | FL | LAKE COUNTY * | 12069C0380D | 04-JUL-2002 | 02-04-7062V | 19
04 | FL | LAKE COUNTY * | 12069C0425D | 04-JUL-2002 | 02-04-7062V | 19
04 | FL | LAKE COUNTY * | 12069C0435D | 04-JUL-2002 | 02-04-7062V | 19
04 | FL | LAKE COUNTY * | 12069C0445D | 04-JUL-2002 | 02-04-7062V | 19
04 | FL | LAKE COUNTY * | 12069C0455D | 04-JUL-2002 | 02-04-7062V | 19
04 | FL | LAKE COUNTY * | 12069C0460D | 04-JUL-2002 | 02-04-7062V | 19
04 | FL | LAKE COUNTY * | 12069C0461D | 04-JUL-2002 | 02-04-7062V | 19
04 | FL | LAKE COUNTY * | 12069C0465D | 04-JUL-2002 | 02-04-7062V | 19
04 | FL | LAKE COUNTY * | 12069C0480D | 04-JUL-2002 | 02-04-7062V | 19
04 | FL | LAKE COUNTY * | 12069C0520D | 04-JUL-2002 | 02-04-7062V | 19
04 | FL | LAKE COUNTY * | 12069C0525D | 04-JUL-2002 | 02-04-7062V | 19
04 | FL | LAKE COUNTY * | 12069C0530D | 04-JUL-2002 | 02-04-7062V | 19
04 | FL | LAKE COUNTY * | 12069C0535D | 04-JUL-2002 | 02-04-7062V | 19
04 | FL | LAKE COUNTY * | 12069C0540D | 04-JUL-2002 | 02-04-7062V | 19
04 | FL | LAKE COUNTY * | 12069C0545D | 04-JUL-2002 | 02-04-7062V | 19
04 | FL | LAKE COUNTY * | 12069C0555D | 04-JUL-2002 | 02-04-7062V | 19
04 | FL | LAKE COUNTY * | 12069C0570D | 04-JUL-2002 | 02-04-7062V | 19
04 | FL | LAKE COUNTY * | 12069C0625D | 04-JUL-2002 | 02-04-7062V | 19
04 | FL | LAKE COUNTY * | 12069C0650D | 04-JUL-2002 | 02-04-7062V | 19
04 | FL | LAKE COUNTY * | 12069C0460D | 05-JUL-2002 | 02-04-323P | 05
04 | FL | LAKE COUNTY * | 12069C0270D | 10-JUL-2002 | 02-04-3634A | 02
04 | FL | LAKE COUNTY * | 12069C0455D | 10-JUL-2002 | 02-04-5750A | 02
04 | FL | LAKE COUNTY * | 12069C0332D | 12-JUL-2002 | 02-04-6314A | 02
04 | FL | LAKE COUNTY * | 12069C0520D | 17-JUL-2002 | 02-04-5192A | 02
04 | FL | LAKE COUNTY * | 12069C0332D | 31-JUL-2002 | 02-04-6354A | 02
04 | FL | LAKE COUNTY * | 12069C0355D | 31-JUL-2002 | 02-04-6354A | 02
04 | FL | LAKE COUNTY * | 12069C0356D | 31-JUL-2002 | 02-04-7188A | 02
04 | FL | LAKE COUNTY * | 12069C0100D | 16-AUG-2002 | 02-04-5190A | 02
04 | FL | LAKE COUNTY * | 12069C0305D | 21-AUG-2002 | 02-04-5790A | 01
04 | FL | LAKE COUNTY * | 12069C0240D | 30-AUG-2002 | 02-04-7114A | 02
04 | FL | LAKE COUNTY * | 12069C0570D | 13-SEP-2002 | 02-04-8474A | 02
04 | FL | LAKE COUNTY * | 12069C0460D | 18-SEP-2002 | 02-04-7240A | 01
04 | FL | LAKE COUNTY * | 12069C0480D | 02-OCT-2002 | 02-04-8472A | 02
04 | FL | LAKE COUNTY * | 12069C0535D | 16-OCT-2002 | 02-04-9224A | 02
04 | FL | LAKE COUNTY * | 12069C0195D | 13-NOV-2002 | 03-04-0162A | 02
04 | FL | LAKE COUNTY * | 12069C0545D | 20-NOV-2002 | 02-04-9280A | 02
04 | FL | LAKE COUNTY * | 12069C0334D | 20-NOV-2002 | 03-04-0342A | 02
04 | FL | LAKE COUNTY * | 12069C0545D | 22-NOV-2002 | 02-04-9530A | 02
04 | FL | LAKE COUNTY * | 12069C0455D | 27-NOV-2002 | 02-04-9196A | 02
04 | FL | LAKE COUNTY * | 12069C0332D | 27-NOV-2002 | 03-04-0380A | 02
04 | FL | LAKE COUNTY * | 12069C0480D | 27-NOV-2002 | 03-04-0582A | 02
04 | FL | LAKE COUNTY * | 12069C0455D | 04-DEC-2002 | 03-04-0762A | 02
04 | FL | LAKE COUNTY * | 12069C0480D | 18-DEC-2002 | 02-04-9290A | 02
04 | FL | LAKE COUNTY * | 12069C0330D | 18-DEC-2002 | 03-04-0822A | 01
04 | FL | LAKE MARY, CITY OF | 12117C0040E | 16-AUG-2002 | 02-04-4888A | 01
04 | FL | LAKE MARY, CITY OF | 12117C0040E | 18-DEC-2002 | 03-04-1232A | 02
04 | FL | LAKE WALES, CITY OF | 12105C0555F | 17-JUL-2002 | 02-04-313A | 02
04 | FL | LAKELAND, CITY OF | 12105C0313F | 24-SEP-2002 | 02-04-431P | 05
04 | FL | LAKELAND, CITY OF | 12105C0480F | 20-NOV-2002 | 02-04-9166A | 02
04 | FL | LEE COUNTY* | 1251240455B | 09-AUG-2002 | 02-04-7768A | 02
04 | FL | LEE COUNTY* | 1251240510D | 16-OCT-2002 | 02-04-7794A | 02
04 | FL | LEE COUNTY* | 1251240426C | 13-DEC-2002 | 03-04-1610A | 01
04 | FL | LEE COUNTY* | 1251240465C | 20-DEC-2002 | 03-04-0530A | 01
04 | FL | LEESBURG, CITY OF | 12069C0309D | 04-JUL-2002 | 02-04-7068V | 19
04 | FL | LEESBURG, CITY OF | 12069C0317D | 04-JUL-2002 | 02-04-7068V | 19
04 | FL | LEESBURG, CITY OF | 12069C0309D | 11-DEC-2002 | 03-04-0956A | 02
04 | FL | LONGWOOD, CITY OF | 12117C0130E | 06-SEP-2002 | 02-04-8230A | 02
04 | FL | LYNN HAVEN, CITY OF | 12005C0332G | 19-SEP-2002 | 02-04-8634V | 19
04 | FL | LYNN HAVEN, CITY OF | 12005C0335G | 19-SEP-2002 | 02-04-8634V | 19
04 | FL | MAITLAND, CITY OF | 12095C0165E | 09-OCT-2002 | 02-04-8984A | 02
04 | FL | MANATEE COUNTY * | 1201530018C | 07-AUG-2002 | 02-04-7288A | 02
04 | FL | MANATEE COUNTY * | 1201530342C | 18-SEP-2002 | 02-04-7754A | 01
04 | FL | MANATEE COUNTY * | 1201530365C | 18-SEP-2002 | 02-04-7754A | 01
04 | FL | MANATEE COUNTY * | 1201530215C | 15-NOV-2002 | 02-04-7954A | 01
04 | FL | MANATEE COUNTY * | 1201530220C | 15-NOV-2002 | 02-04-7954A | 01
04 | FL | MARGATE, CITY OF | 12011C0115F | 03-JUL-2002 | 02-04-6188A | 02
04 | FL | MARGATE, CITY OF | 12011C0115F | 24-JUL-2002 | 02-04-6776A | 02
04 | FL | MARION COUNTY * | 1201600520B | 19-JUL-2002 | 02-04-6192A | 02
04 | FL | MARION COUNTY * | 1201600450B | 28-AUG-2002 | 02-04-4910A | 02
04 | FL | MARION COUNTY * | 1201600475B | 25-SEP-2002 | 02-04-7196A | 02
04 | FL | MARION COUNTY * | 1201600715B | 16-OCT-2002 | 02-04-8896A | 02
04 | FL | MARION COUNTY * | 120160525B | 18-OCT-2002 | 02-04-8180A | 02
04 | FL | MARION COUNTY * | 1201600300B | 25-OCT-2002 | 02-04-9264A | 02
04 | FL | MARTIN COUNTY * | 1201610162C | 13-SEP-2002 | 02-04-6390A | 02
04 | FL | MARTIN COUNTY * | 12085C0133F | 05-OCT-2002 | 02-04-8990V | 19
04 | FL | MARTIN COUNTY * | 12085C0142F | 05-OCT-2002 | 02-04-8990V | 19
04 | FL | MARTIN COUNTY * | 12085C0145F | 05-OCT-2002 | 02-04-8990V | 19
04 | FL | MARTIN COUNTY * | 12085C0154F | 05-OCT-2002 | 02-04-8990V | 19
04 | FL | MARTIN COUNTY * | 12085C0162F | 05-OCT-2002 | 02-04-8990V | 19
04 | FL | MARTIN COUNTY * | 12085C0510F | 05-OCT-2002 | 02-04-8990V | 19
04 | FL | MIAMI DADE COUNTY* | 12025C0357J | 03-JUL-2002 | 02-04-6392A | 02
04 | FL | MIAMI DADE COUNTY* | 12025C0075J | 17-JUL-2002 | 02-04-6690A | 01
04 | FL | MIAMI DADE COUNTY* | 12025C0093J | 24-JUL-2002 | 02-04-6306A | 02
04 | FL | MIAMI DADE COUNTY* | 12025C0266J | 26-JUL-2002 | 02-04-7390A | 02
04 | FL | MIAMI DADE COUNTY* | 12025C0260J | 31-JUL-2002 | 02-04-7122A | 02
04 | FL | MIAMI DADE COUNTY* | 12025C0075J | 07-AUG-2002 | 02-04-7400A | 02
04 | FL | MIAMI DADE COUNTY* | 12025C0081J | 16-AUG-2002 | 02-04-7736A | 02
04 | FL | MIAMI DADE COUNTY* | 12025C0080J | 21-AUG-2002 | 02-04-6310A | 02
04 | FL | MIAMI DADE COUNTY* | 12025C0075J | 21-AUG-2002 | 02-04-7738A | 02
04 | FL | MIAMI DADE COUNTY* | 12025C0090J | 23-AUG-2002 | 02-04-7692A | 02
04 | FL | MIAMI DADE COUNTY* | 12025C0075J | 23-AUG-2002 | 02-04-7698A | 02
04 | FL | MIAMI DADE COUNTY* | 12025C0356J | 23-AUG-2002 | 02-04-7834A | 02
04 | FL | MIAMI DADE COUNTY* | 12025C0075J | 28-AUG-2002 | 02-04-2048A | 01
04 | FL | MIAMI DADE COUNTY* | 12025C0081J | 04-SEP-2002 | 02-04-7402A | 02
04 | FL | MIAMI DADE COUNTY* | 12025C0269J | 06-SEP-2002 | 02-04-357P | 05
04 | FL | MIAMI DADE COUNTY* | 12025C0075J | 06-SEP-2002 | 02-04-8296A | 01
04 | FL | MIAMI DADE COUNTY* | 12025C0080J | 18-SEP-2002 | 02-04-6312A | 02
04 | FL | MIAMI DADE COUNTY* | 12025C0160J | 18-SEP-2002 | 02-04-7694A | 02
04 | FL | MIAMI DADE COUNTY* | 12025C0080J | 18-SEP-2002 | 02-04-7696A | 02
04 | FL | MIAMI DADE COUNTY* | 12025C0356J | 06-NOV-2002 | 03-04-0066A | 02
04 | FL | MIAMI DADE COUNTY* | 12025C0260J | 06-NOV-2002 | 03-04-0070A | 02
04 | FL | MIAMI DADE COUNTY* | 12025C0082J | 13-NOV-2002 | 02-04-7690A | 02
04 | FL | MIAMI DADE COUNTY* | 12025C0260J | 22-NOV-2002 | 03-04-0444A | 02
04 | FL | MIAMI DADE COUNTY* | 12025C0265J | 20-DEC-2002 | 03-04-1632A | 01
04 | FL | MIAMI SHORES VILLAGE, VILLAGE OF | 12025C0093J | 03-JUL-2002 | 02-04-6584A | 02
04 | FL | MIAMI, CITY OF | 12025C0191J | 03-SEP-2002 | 02-04-153P | 05
04 | FL | MIAMI, CITY OF | 12025C0180J | 15-NOV-2002 | 02-04-5920A | 02
04 | FL | MINNEOLA, CITY OF | 12069C0555D | 04-JUL-2002 | 02-04-7070V | 19
04 | FL | MIRAMAR, CITY OF | 12011C0315F | 23-AUG-2002 | 02-04-7706A | 02
04 | FL | MIRAMAR, CITY OF | 12011C0312F | 20-SEP-2002 | 02-04-8950A | 02
04 | FL | MIRAMAR, CITY OF | 12011C0295F | 25-OCT-2002 | 02-04-9160A | 01
04 | FL | MONROE COUNTY* | 12087C1491H | 31-DEC-2002 | 02-04-229P | 05
04 | FL | MONROE COUNTY* | 12087C1492H | 31-DEC-2002 | 02-04-229P | 05
04 | FL | MONTVERDE, TOWN OF | 12069C0555D | 04-JUL-2002 | 02-04-7080V | 19
04 | FL | MONTVERDE, TOWN OF | 12069C0560D | 04-JUL-2002 | 02-04-7080V | 19
04 | FL | MT. DORA, CITY OF | 12069C0359D | 04-JUL-2002 | 02-04-7078V | 19
04 | FL | MT. DORA, CITY OF | 12069C0367D | 04-JUL-2002 | 02-04-7078V | 19
04 | FL | MT. DORA, CITY OF | 12069C0359D | 12-JUL-2002 | 02-04-6568A | 02
04 | FL | NASSAU COUNTY* | 1201700475C | 03-JUL-2002 | 02-04-5230A | 02
04 | FL | NEW SMYRNA BEACH, CITY OF | 12127C0544G | 16-AUG-2002 | 02-04-7632A | 02
04 | FL | NEW SMYRNA BEACH, CITY OF | 12127C0541G | 13-SEP-2002 | 02-04-7594A | 02
04 | FL | NEW SMYRNA BEACH, CITY OF | 12127C0540G | 01-NOV-2002 | 02-04-9372A | 02
04 | FL | NORTH MIAMI, CITY OF | 12025C0090J | 28-AUG-2002 | 02-04-6836A | 02
04 | FL | NORTH PALM BEACH, VILLAGE OF | 1202170001D | 07-AUG-2002 | 02-04-7230A | 02
04 | FL | OAKLAND PARK, CITY OF | 12011C0204F | 26-JUL-2002 | 02-04-6394A | 02
04 | FL | OAKLAND PARK, CITY OF | 12011C0208F | 26-JUL-2002 | 02-04-6394A | 02
04 | FL | OAKLAND PARK, CITY OF | 12011C0208F | 30-AUG-2002 | 02-04-7702A | 02
04 | FL | OAKLAND PARK, CITY OF | 12011C0204F | 13-NOV-2002 | 03-04-0354A | 02
04 | FL | OAKLAND PARK, CITY OF | 12011C0208F | 13-NOV-2002 | 03-04-0354A | 02
04 | FL | OAKLAND PARK, CITY OF | 12011C0204F | 18-DEC-2002 | 03-04-0392A | 02
04 | FL | OCOEE, CITY OF | 12095C0210E | 07-AUG-2002 | 02-04-7628A | 02
04 | FL | OCOEE, CITY OF | 12095C0210E | 18-SEP-2002 | 02-04-239P | 05
04 | FL | OKALOOSA COUNTY * | 1201730195D | 13-SEP-2002 | 02-04-8572A | 02
04 | FL | OKALOOSA COUNTY * | 1201730195D | 20-SEP-2002 | 02-04-6566A | 02
04 | FL | OKEECHOBEE COUNTY * | 1201770175B | 16-OCT-2002 | 02-04-7748A | 02
04 | FL | OLDSMAR, CITY OF | 1202500003B | 31-JUL-2002 | 02-04-6228A | 02
04 | FL | OLDSMAR, CITY OF | 1202500003B | 30-AUG-2002 | 02-04-5634A | 01
04 | FL | ORANGE COUNTY * | 12095C0405E | 10-JUL-2002 | 02-04-3974A | 01
04 | FL | ORANGE COUNTY * | 12095C0285E | 10-JUL-2002 | 02-04-5062A | 02
04 | FL | ORANGE COUNTY * | 12095C0240E | 10-JUL-2002 | 02-04-6204A | 02
04 | FL | ORANGE COUNTY * | 12095C0230E | 10-JUL-2002 | 02-04-6206A | 02
04 | FL | ORANGE COUNTY * | 12095C0420E | 10-JUL-2002 | 02-04-6266A | 17
04 | FL | ORANGE COUNTY * | 12095C0580E | 10-JUL-2002 | 02-04-6580A | 02
04 | FL | ORANGE COUNTY * | 12095C0430E | 17-JUL-2002 | 02-04-6208A | 02
04 | FL | ORANGE COUNTY * | 12095C0260E | 19-JUL-2002 | 02-04-5732A | 02
04 | FL | ORANGE COUNTY * | 12095C0535E | 24-JUL-2002 | 02-04-5040A | 02
04 | FL | ORANGE COUNTY * | 12095C0430E | 24-JUL-2002 | 02-04-5944A | 02
04 | FL | ORANGE COUNTY * | 12095C0260E | 26-JUL-2002 | 02-04-5392A | 02
04 | FL | ORANGE COUNTY * | 12095C0235E | 26-JUL-2002 | 02-04-6142A | 02
04 | FL | ORANGE COUNTY * | 12095C0285E | 31-JUL-2002 | 02-04-7228A | 02
04 | FL | ORANGE COUNTY * | 12095C0380E | 07-AUG-2002 | 02-04-7312A | 01
04 | FL | ORANGE COUNTY * | 12095C0270E | 14-AUG-2002 | 02-04-7498A | 02
04 | FL | ORANGE COUNTY * | 12095C0255E | 14-AUG-2002 | 02-04-7548A | 02
04 | FL | ORANGE COUNTY * | 12095C0290E | 16-AUG-2002 | 02-04-6458A | 01
04 | FL | ORANGE COUNTY * | 12095C0420E | 16-AUG-2002 | 02-04-6878A | 02
04 | FL | ORANGE COUNTY * | 12095C0240E | 21-AUG-2002 | 02-04-6456A | 01
04 | FL | ORANGE COUNTY * | 12095C0295E | 23-AUG-2002 | 02-04-7612A | 01
04 | FL | ORANGE COUNTY * | 12095C0260E | 28-AUG-2002 | 02-04-6676A | 02
04 | FL | ORANGE COUNTY * | 12095C0270E | 28-AUG-2002 | 02-04-7928A | 02
04 | FL | ORANGE COUNTY * | 12095C0230E | 28-AUG-2002 | 02-04-7930A | 02
04 | FL | ORANGE COUNTY * | 12095C0380E | 04-SEP-2002 | 02-04-7836A | 02
04 | FL | ORANGE COUNTY * | 12095C0410E | 04-SEP-2002 | 02-04-7946A | 02
04 | FL | ORANGE COUNTY * | 12095C0290E | 06-SEP-2002 | 02-04-7492A | 01
04 | FL | ORANGE COUNTY * | 12095C0290E | 07-SEP-2002 | 02-04-187P | 05
04 | FL | ORANGE COUNTY * | 12095C0270E | 13-SEP-2002 | 02-04-8326A | 02
04 | FL | ORANGE COUNTY * | 12095C0260E | 13-SEP-2002 | 02-04-8346A | 02
04 | FL | ORANGE COUNTY * | 12095C0210E | 18-SEP-2002 | 02-04-239P | 05
04 | FL | ORANGE COUNTY * | 12095C0140E | 20-SEP-2002 | 02-04-471P | 05
04 | FL | ORANGE COUNTY * | 12095C0150E | 20-SEP-2002 | 02-04-471P | 05
04 | FL | ORANGE COUNTY * | 12095C0140E | 25-SEP-2002 | 02-04-6396A | 01
04 | FL | ORANGE COUNTY * | 12095C0295E | 02-OCT-2002 | 02-04-8130A | 01
04 | FL | ORANGE COUNTY * | 12095C0145E | 02-OCT-2002 | 02-04-8174A | 02
04 | FL | ORANGE COUNTY * | 12095C0235E | 09-OCT-2002 | 02-04-6678A | 02
04 | FL | ORANGE COUNTY * | 12095C0280E | 09-OCT-2002 | 02-04-8184A | 02
04 | FL | ORANGE COUNTY * | 12095C0215E | 09-OCT-2002 | 02-04-8356A | 02
04 | FL | ORANGE COUNTY * | 12095C0295E | 09-OCT-2002 | 02-04-8552A | 01
04 | FL | ORANGE COUNTY * | 12095C0295E | 09-OCT-2002 | 02-04-8946A | 02
04 | FL | ORANGE COUNTY * | 12095C0415E | 11-OCT-2002 | 02-04-8258A | 02
04 | FL | ORANGE COUNTY * | 12095C0420E | 16-OCT-2002 | 02-04-8846A | 17
04 | FL | ORANGE COUNTY * | 12095C0260E | 18-OCT-2002 | 02-04-9262A | 02
04 | FL | ORANGE COUNTY * | 12095C0295E | 23-OCT-2002 | 02-04-6968A | 01
04 | FL | ORANGE COUNTY * | 12095C0385E | 23-OCT-2002 | 02-04-8820A | 02
04 | FL | ORANGE COUNTY * | 12095C0260E | 30-OCT-2002 | 03-04-0130A | 02
04 | FL | ORANGE COUNTY * | 12095C0295E | 01-NOV-2002 | 02-04-6662A | 01
04 | FL | ORANGE COUNTY * | 12095C0415E | 01-NOV-2002 | 03-04-0178A | 02
04 | FL | ORANGE COUNTY * | 12095C0295E | 06-NOV-2002 | 02-04-6444A | 01
04 | FL | ORANGE COUNTY * | 12095C0280E | 20-NOV-2002 | 03-04-0460A | 02
04 | FL | ORANGE COUNTY * | 12095C0210E | 22-NOV-2002 | 02-04-9588A | 02
04 | FL | ORANGE COUNTY * | 12095C0315E | 27-NOV-2002 | 03-04-0132A | 02
04 | FL | ORANGE COUNTY * | 12095C0420E | 27-NOV-2002 | 03-04-0516A | 01
04 | FL | ORANGE COUNTY * | 12095C0420E | 27-NOV-2002 | 03-04-0636A | 02
04 | FL | ORANGE COUNTY * | 12095C0420E | 04-DEC-2002 | 03-04-0802A | 02
04 | FL | ORANGE COUNTY * | 12095C0535E | 04-DEC-2002 | 03-04-0890A | 02
04 | FL | ORANGE COUNTY * | 12095C0145E | 06-DEC-2002 | 02-04-411X | 05
04 | FL | ORANGE COUNTY * | 12095C0295E | 06-DEC-2002 | 03-04-1038A | 02
04 | FL | ORANGE COUNTY * | 12095C0440E | 11-DEC-2002 | 02-04-8986A | 01
04 | FL | ORANGE COUNTY * | 12095C0295E | 11-DEC-2002 | 03-04-0424A | 01
04 | FL | ORANGE COUNTY * | 1201790050C | 13-DEC-2002 | 02-04-393P | 05
04 | FL | ORANGE COUNTY * | 12095C0230E | 18-DEC-2002 | 03-04-1222A | 02
04 | FL | ORANGE COUNTY * | 12095C0255E | 20-DEC-2002 | 03-04-0638A | 02
04 | FL | ORANGE COUNTY * | 12095C0290E | 20-DEC-2002 | 03-04-0894A | 02
04 | FL | ORANGE COUNTY * | 12095C0625E | 26-DEC-2002 | 03-04-1058A | 01
04 | FL | ORANGE COUNTY * | 12095C0385E | 26-DEC-2002 | 03-04-1294A | 02
04 | FL | ORANGE COUNTY * | 12095C0270E | 26-DEC-2002 | 03-04-1390A | 02
04 | FL | ORLANDO, CITY OF | 12095C0235E | 14-AUG-2002 | 02-04-7392A | 02
04 | FL | ORLANDO, CITY OF | 12095C0265E | 13-SEP-2002 | 02-04-8406A | 02
04 | FL | ORLANDO, CITY OF | 12095C0245E | 01-NOV-2002 | 02-04-6068A | 02
04 | FL | ORLANDO, CITY OF | 12095C0240E | 01-NOV-2002 | 02-04-8750A | 01
04 | FL | ORLANDO, CITY OF | 12095C0270E | 22-NOV-2002 | 03-04-0816A | 02
04 | FL | ORLANDO, CITY OF | 12095C0265E | 27-NOV-2002 | 03-04-0690A | 02
04 | FL | ORLANDO, CITY OF | 12095C0445E | 04-DEC-2002 | 02-04-7876A | 01
04 | FL | ORLANDO, CITY OF | 12095C0405E | 13-DEC-2002 | 02-04-393P | 05
04 | FL | ORLANDO, CITY OF | 12095C0410E | 13-DEC-2002 | 02-04-393P | 05
04 | FL | ORMOND BEACH, CITY OF | 12127C0213G | 19-JUL-2002 | 02-04-7158A | 02
04 | FL | ORMOND BEACH, CITY OF | 12127C0212G | 07-AUG-2002 | 02-04-6950A | 02
04 | FL | ORMOND BEACH, CITY OF | 12127C0218G | 18-SEP-2002 | 02-04-7924A | 02
04 | FL | OSCEOLA COUNTY * | 12097C0090F | 03-JUL-2002 | 02-04-5992A | 01
04 | FL | OSCEOLA COUNTY * | 12097C0240F | 10-JUL-2002 | 02-04-6600A | 02
04 | FL | OSCEOLA COUNTY * | 12097C0240F | 10-JUL-2002 | 02-04-6648A | 02
04 | FL | OSCEOLA COUNTY * | 12097C0400F | 10-JUL-2002 | 02-04-6650A | 02
04 | FL | OSCEOLA COUNTY * | 12097C0225F | 17-JUL-2002 | 02-04-6852A | 02
04 | FL | OSCEOLA COUNTY * | 12097C0235F | 14-AUG-2002 | 02-04-6112A | 01
04 | FL | OSCEOLA COUNTY * | 12097C0120F | 30-AUG-2002 | 02-04-7824A | 02
04 | FL | OSCEOLA COUNTY * | 12097C0240F | 04-SEP-2002 | 02-04-8134A | 01
04 | FL | OSCEOLA COUNTY * | 12097C0115F | 04-SEP-2002 | 02-04-8330A | 02
04 | FL | OSCEOLA COUNTY * | 12097C0240F | 06-SEP-2002 | 02-04-8436A | 01
04 | FL | OSCEOLA COUNTY * | 12097C0400F | 18-SEP-2002 | 02-04-8582A | 02
04 | FL | OSCEOLA COUNTY * | 12097C0400F | 18-SEP-2002 | 02-04-8584A | 02
04 | FL | OSCEOLA COUNTY * | 12097C0400F | 18-SEP-2002 | 02-04-8588A | 02
04 | FL | OSCEOLA COUNTY * | 12097C0400F | 18-SEP-2002 | 02-04-8590A | 02
04 | FL | OSCEOLA COUNTY * | 12097C0400F | 18-SEP-2002 | 02-04-8592A | 02
04 | FL | OSCEOLA COUNTY * | 12097C0400F | 20-SEP-2002 | 02-04-8586A | 02
04 | FL | OSCEOLA COUNTY * | 12097C0240F | 20-SEP-2002 | 02-04-8594A | 02
04 | FL | OSCEOLA COUNTY * | 12097C0400F | 27-SEP-2002 | 02-04-8698A | 02
04 | FL | OSCEOLA COUNTY * | 12097C0240F | 27-SEP-2002 | 02-04-8700A | 02
04 | FL | OSCEOLA COUNTY * | 12097C0115F | 02-OCT-2002 | 02-04-6418A | 02
04 | FL | OSCEOLA COUNTY * | 12097C0400F | 09-OCT-2002 | 02-04-8960A | 02
04 | FL | OSCEOLA COUNTY * | 12097C0400F | 09-OCT-2002 | 02-04-8962A | 02
04 | FL | OSCEOLA COUNTY * | 12097C0400F | 11-OCT-2002 | 02-04-9096A | 02
04 | FL | OSCEOLA COUNTY * | 12097C0400F | 11-OCT-2002 | 02-04-9100A | 02
04 | FL | OSCEOLA COUNTY * | 12097C0400F | 16-OCT-2002 | 02-04-9098A | 02
04 | FL | OSCEOLA COUNTY * | 12097C0240F | 23-OCT-2002 | 02-04-9360A | 02
04 | FL | OSCEOLA COUNTY * | 12097C0240F | 25-OCT-2002 | 02-04-9362A | 17
04 | FL | OSCEOLA COUNTY * | 12097C0280F | 30-OCT-2002 | 02-04-7932A | 02
04 | FL | OSCEOLA COUNTY * | 12097C0400F | 30-OCT-2002 | 02-04-9594A | 02
04 | FL | OSCEOLA COUNTY * | 12097C0010F | 01-NOV-2002 | 02-04-9316A | 01
04 | FL | OSCEOLA COUNTY * | 12097C0240F | 13-NOV-2002 | 03-04-0168A | 02
04 | FL | OSCEOLA COUNTY * | 12097C0240F | 13-NOV-2002 | 03-04-0368A | 02
04 | FL | OSCEOLA COUNTY * | 12097C0240F | 15-NOV-2002 | 02-04-9592A | 02
04 | FL | OSCEOLA COUNTY * | 12097C0045F | 20-NOV-2002 | 02-04-191P | 05
04 | FL | OSCEOLA COUNTY * | 12097C0240F | 20-NOV-2002 | 03-04-0370A | 02
04 | FL | OSCEOLA COUNTY * | 12097C0065F | 04-DEC-2002 | 03-04-0764A | 02
04 | FL | OSCEOLA COUNTY * | 12097C0069F | 06-DEC-2002 | 03-04-0258A | 01
04 | FL | OSCEOLA COUNTY * | 12097C0240F | 11-DEC-2002 | 03-04-0926A | 02
04 | FL | OSCEOLA COUNTY * | 12097C0400F | 13-DEC-2002 | 03-04-0986A | 02
04 | FL | OSCEOLA COUNTY * | 12097C0069F | 13-DEC-2002 | 03-04-0988A | 02
04 | FL | OVIEDO, CITY OF | 12117C0165E | 18-DEC-2002 | 03-04-1048A | 02
04 | FL | OVIEDO, CITY OF | 12117C0170E | 18-DEC-2002 | 03-04-1048A | 02
04 | FL | PALM BEACH COUNTY * | 1201920100B | 06-NOV-2002 | 02-04-5606A | 01
04 | FL | PALM BEACH COUNTY * | 1201920190B | 04-DEC-2002 | 02-04-9430A | 02
04 | FL | PALM BEACH COUNTY * | 1201920130B | 11-DEC-2002 | 02-04-9228A | 01
04 | FL | PALM BEACH COUNTY * | 1201920175B | 11-DEC-2002 | 03-04-0700A | 02
04 | FL | PALM BEACH COUNTY * | 1201920185A | 13-DEC-2002 | 03-04-0252A | 02
04 | FL | PALM BEACH COUNTY * | 1201920165B | 13-DEC-2002 | 03-04-0644A | 02
04 | FL | PALM BEACH GARDENS, CITY OF | 1201920119B | 10-JUL-2002 | 02-04-6628A | 01
04 | FL | PANAMA CITY BEACH, CITY OF | 12005C0303G | 19-SEP-2002 | 02-04-8638V | 19
04 | FL | PANAMA CITY BEACH, CITY OF | 12005C0304G | 19-SEP-2002 | 02-04-8638V | 19
04 | FL | PANAMA CITY, CITY OF | 12005C0335G | 19-SEP-2002 | 02-04-8636V | 19
04 | FL | PANAMA CITY, CITY OF | 12005C0337G | 19-SEP-2002 | 02-04-8636V | 19
04 | FL | PARKLAND, CITY OF | 12011C0085F | 01-JUL-2002 | 02-04-331P | 05
04 | FL | PARKLAND, CITY OF | 12011C0105F | 01-JUL-2002 | 02-04-331P | 05
04 | FL | PASCO COUNTY * | 1202300185D | 03-JUL-2002 | 02-04-6402A | 02
04 | FL | PASCO COUNTY * | 1202300354D | 03-JUL-2002 | 02-04-6590A | 01
04 | FL | PASCO COUNTY * | 1202300450E | 03-JUL-2002 | 02-04-6614A | 02
04 | FL | PASCO COUNTY * | 1202300360D | 12-JUL-2002 | 02-04-6408A | 02
04 | FL | PASCO COUNTY * | 1202300360D | 17-JUL-2002 | 02-04-6616A | 01
04 | FL | PASCO COUNTY * | 1202300410E | 22-JUL-2002 | 02-04-6622A | 01
04 | FL | PASCO COUNTY * | 1202300020C | 24-JUL-2002 | 02-04-6608A | 02
04 | FL | PASCO COUNTY * | 1202300195D | 24-JUL-2002 | 02-04-6890A | 02
04 | FL | PASCO COUNTY * | 1202300360D | 26-JUL-2002 | 02-04-6892A | 02
04 | FL | PASCO COUNTY * | 1202300360D | 26-JUL-2002 | 02-04-6894A | 02
04 | FL | PASCO COUNTY * | 1202300275D | 02-AUG-2002 | 02-04-6788A | 02
04 | FL | PASCO COUNTY * | 1202300360D | 16-AUG-2002 | 02-04-7272A | 02
04 | FL | PASCO COUNTY * | 1202300335C | 16-AUG-2002 | 02-04-8132A | 01
04 | FL | PASCO COUNTY * | 1202300195D | 23-AUG-2002 | 02-04-7344A | 01
04 | FL | PASCO COUNTY * | 1202300275D | 28-AUG-2002 | 02-04-4646A | 02
04 | FL | PASCO COUNTY * | 1202300075C | 28-AUG-2002 | 02-04-7132A | 02
04 | FL | PASCO COUNTY * | 1202300354D | 28-AUG-2002 | 02-04-7832A | 02
04 | FL | PASCO COUNTY * | 1202300335C | 30-AUG-2002 | 02-04-7912A | 02
04 | FL | PASCO COUNTY * | 1202300335C | 06-SEP-2002 | 02-04-6672A | 02
04 | FL | PASCO COUNTY * | 1202300360D | 13-SEP-2002 | 02-04-6946A | 01
04 | FL | PASCO COUNTY * | 1202300185D | 25-SEP-2002 | 02-04-8344A | 02
04 | FL | PASCO COUNTY * | 1202300352C | 25-SEP-2002 | 02-04-8396A | 02
04 | FL | PASCO COUNTY * | 1202300195D | 25-SEP-2002 | 02-04-8410A | 02
04 | FL | PASCO COUNTY * | 1202300360D | 27-SEP-2002 | 02-04-8118A | 01
04 | FL | PASCO COUNTY * | 1202300250E | 01-OCT-2002 | 02-04-8850A | 01
04 | FL | PASCO COUNTY * | 1202300360D | 04-OCT-2002 | 02-04-7282A | 02
04 | FL | PASCO COUNTY * | 1202300354D | 09-OCT-2002 | 02-04-8692A | 02
04 | FL | PASCO COUNTY * | 1202300425E | 11-OCT-2002 | 02-04-8232A | 01
04 | FL | PASCO COUNTY * | 1202300425E | 18-OCT-2002 | 02-04-8322A | 01
04 | FL | PASCO COUNTY * | 1202300335C | 18-OCT-2002 | 02-04-8732A | 01
04 | FL | PASCO COUNTY * | 1202300195D | 23-OCT-2002 | 02-04-8734A | 01
04 | FL | PASCO COUNTY * | 1202300215D | 23-OCT-2002 | 02-04-8734A | 01
04 | FL | PASCO COUNTY * | 1202300354D | 25-OCT-2002 | 02-04-9084A | 02
04 | FL | PASCO COUNTY * | 1202300354D | 25-OCT-2002 | 02-04-9268A | 02
04 | FL | PASCO COUNTY * | 1202300400D | 30-OCT-2002 | 02-04-7580A | 01
04 | FL | PASCO COUNTY * | 1202300370D | 01-NOV-2002 | 02-04-2032A | 01
04 | FL | PASCO COUNTY * | 1202300425E | 06-NOV-2002 | 02-04-9016A | 01
04 | FL | PASCO COUNTY * | 1202300410E | 06-NOV-2002 | 02-04-9292A | 01
04 | FL | PASCO COUNTY * | 1202300354D | 06-NOV-2002 | 02-04-9402A | 02
04 | FL | PASCO COUNTY * | 1202300410E | 08-NOV-2002 | 02-04-9074A | 01
04 | FL | PASCO COUNTY * | 1202300354D | 13-NOV-2002 | 03-04-0128A | 02
04 | FL | PASCO COUNTY * | 1202300360D | 13-NOV-2002 | 03-04-0164A | 02
04 | FL | PASCO COUNTY * | 1202300354D | 22-NOV-2002 | 03-04-0384A | 02
04 | FL | PASCO COUNTY * | 1202300425E | 27-NOV-2002 | 02-04-8580A | 02
04 | FL | PASCO COUNTY * | 1202300362D | 04-DEC-2002 | 03-04-0542A | 02
04 | FL | PASCO COUNTY * | 1202300352C | 06-DEC-2002 | 03-04-0308A | 01
04 | FL | PASCO COUNTY * | 1202300425E | 11-DEC-2002 | 03-04-0224A | 01
04 | FL | PASCO COUNTY * | 1202300353C | 11-DEC-2002 | 03-04-0772A | 02
04 | FL | PASCO COUNTY * | 1202300354D | 11-DEC-2002 | 03-04-0774A | 02
04 | FL | PASCO COUNTY * | 1202300425E | 27-DEC-2002 | 03-04-0984A | 01
04 | FL | PASCO COUNTY * | 1202300354D | 27-DEC-2002 | 03-04-0996A | 02
04 | FL | PEMBROKE PINES, CITY OF | 12011C0315F | 17-JUL-2002 | 02-04-6302A | 02
04 | FL | PEMBROKE PINES, CITY OF | 12011C0315F | 23-AUG-2002 | 02-04-7774A | 02
04 | FL | PINELLAS COUNTY * | 1251390126D | 10-JUL-2002 | 02-04-6064A | 02
04 | FL | PINELLAS COUNTY * | 1251390043C | 26-JUL-2002 | 02-04-6316A | 01
04 | FL | PINELLAS COUNTY * | 1251390017C | 21-AUG-2002 | 02-04-5386A | 02
04 | FL | PINELLAS COUNTY * | 1251390043C | 23-AUG-2002 | 02-04-7804X | 01
04 | FL | PINELLAS COUNTY * | 1251390077C | 13-SEP-2002 | 02-04-7658A | 01
04 | FL | PINELLAS COUNTY * | 1251390081C | 13-SEP-2002 | 02-04-7658A | 01
04 | FL | PINELLAS COUNTY * | 1251390059C | 23-OCT-2002 | 03-04-0032X | 02
04 | FL | PINELLAS COUNTY * | 1251390059C | 20-NOV-2002 | 03-04-0222A | 02
04 | FL | PINELLAS COUNTY * | 1251390086C | 06-DEC-2002 | 02-04-9404A | 02
04 | FL | PINELLAS COUNTY * | 1251390077C | 06-DEC-2002 | 03-04-0184C | 01
04 | FL | PLANTATION, CITY OF | 12011C0215F | 25-SEP-2002 | 02-04-9200A | 02
04 | FL | POLK COUNTY* | 12105C0145F | 10-JUL-2002 | 02-04-6688A | 02
04 | FL | POLK COUNTY* | 12105C0050F | 19-JUL-2002 | 02-04-6952A | 02
04 | FL | POLK COUNTY* | 12105C0425F | 24-JUL-2002 | 02-04-6854A | 02
04 | FL | POLK COUNTY* | 12105C0510F | 24-JUL-2002 | 02-04-6888A | 02
04 | FL | POLK COUNTY* | 12105C0510F | 24-JUL-2002 | 02-04-6916A | 02
04 | FL | POLK COUNTY* | 12105C0425F | 24-JUL-2002 | 02-04-7000A | 02
04 | FL | POLK COUNTY* | 12105C0425F | 24-JUL-2002 | 02-04-7026A | 02
04 | FL | POLK COUNTY* | 12105C0425F | 26-JUL-2002 | 02-04-6856A | 02
04 | FL | POLK COUNTY* | 12105C0425F | 26-JUL-2002 | 02-04-6858A | 02
04 | FL | POLK COUNTY* | 12105C0425F | 26-JUL-2002 | 02-04-6860A | 02
04 | FL | POLK COUNTY* | 12105C0425F | 26-JUL-2002 | 02-04-7028A | 02
04 | FL | POLK COUNTY* | 12105C0765F | 02-AUG-2002 | 02-04-6328A | 02
04 | FL | POLK COUNTY* | 12105C0460F | 02-AUG-2002 | 02-04-7052A | 02
04 | FL | POLK COUNTY* | 12105C0275F | 09-AUG-2002 | 02-04-7348A | 01
04 | FL | POLK COUNTY* | 12105C0425F | 09-AUG-2002 | 02-04-7348A | 01
04 | FL | POLK COUNTY* | 12105C0755F | 14-AUG-2002 | 02-04-7474A | 02
04 | FL | POLK COUNTY* | 12105C0760F | 14-AUG-2002 | 02-04-7474A | 02
04 | FL | POLK COUNTY* | 12105C0485F | 16-AUG-2002 | 02-04-7496A | 02
04 | FL | POLK COUNTY* | 12105C0510F | 21-AUG-2002 | 02-04-6816A | 02
04 | FL | POLK COUNTY* | 12105C0275F | 21-AUG-2002 | 02-04-6980A | 01
04 | FL | POLK COUNTY* | 12105C0425F | 21-AUG-2002 | 02-04-6980A | 01
04 | FL | POLK COUNTY* | 12105C0730F | 28-AUG-2002 | 02-04-6758A | 02
04 | FL | POLK COUNTY* | 12105C0535F | 28-AUG-2002 | 02-04-7908A | 02
04 | FL | POLK COUNTY* | 12105C0425F | 04-SEP-2002 | 02-04-7284A | 02
04 | FL | POLK COUNTY* | 12105C0320F | 06-SEP-2002 | 02-04-7654A | 02
04 | FL | POLK COUNTY* | 12105C0745F | 06-SEP-2002 | 02-04-7910A | 02
04 | FL | POLK COUNTY* | 12105C0175F | 06-SEP-2002 | 02-04-8170A | 02
04 | FL | POLK COUNTY* | 12105C0480F | 13-SEP-2002 | 02-04-6060A | 01
04 | FL | POLK COUNTY* | 12105C0460F | 13-SEP-2002 | 02-04-7304A | 02
04 | FL | POLK COUNTY* | 12105C0335F | 13-SEP-2002 | 02-04-7852A | 02
04 | FL | POLK COUNTY* | 12105C0250F | 18-SEP-2002 | 02-04-6960A | 01
04 | FL | POLK COUNTY* | 12105C0480F | 27-SEP-2002 | 02-04-8328A | 02
04 | FL | POLK COUNTY* | 12105C0302F | 27-SEP-2002 | 02-04-8722A | 02
04 | FL | POLK COUNTY* | 12105C0510F | 30-SEP-2002 | 02-04-367X | 05
04 | FL | POLK COUNTY* | 12105C0175F | 11-OCT-2002 | 02-04-8408A | 02
04 | FL | POLK COUNTY* | 12105C0355F | 11-OCT-2002 | 02-04-9088A | 02
04 | FL | POLK COUNTY* | 12105C0425F | 16-OCT-2002 | 02-04-9102A | 02
04 | FL | POLK COUNTY* | 12105C0283F | 16-OCT-2002 | 02-04-9172A | 02
04 | FL | POLK COUNTY* | 12105C0535F | 18-OCT-2002 | 02-04-8332A | 02
04 | FL | POLK COUNTY* | 12105C0250F | 18-OCT-2002 | 02-04-8334A | 02
04 | FL | POLK COUNTY* | 12105C0425F | 25-OCT-2002 | 02-04-9364A | 02
04 | FL | POLK COUNTY* | 12105C0425F | 30-OCT-2002 | 02-04-9366A | 02
04 | FL | POLK COUNTY* | 12105C0480F | 30-OCT-2002 | 02-04-9368A | 02
04 | FL | POLK COUNTY* | 12105C0145F | 06-NOV-2002 | 02-04-7292A | 02
04 | FL | POLK COUNTY* | 12105C0395F | 06-NOV-2002 | 02-04-9354A | 02
04 | FL | POLK COUNTY* | 12105C0460F | 13-NOV-2002 | 02-04-8152A | 02
04 | FL | POLK COUNTY* | 12105C0425F | 13-NOV-2002 | 03-04-0170A | 02
04 | FL | POLK COUNTY* | 12105C0425F | 13-NOV-2002 | 03-04-0172A | 02
04 | FL | POLK COUNTY* | 12105C0425F | 13-NOV-2002 | 03-04-0174A | 02
04 | FL | POLK COUNTY* | 12105C0460F | 20-NOV-2002 | 02-04-9272A | 02
04 | FL | POLK COUNTY* | 12105C0480F | 22-NOV-2002 | 02-04-9270A | 02
04 | FL | POLK COUNTY* | 12105C0480F | 27-NOV-2002 | 03-04-0502A | 02
04 | FL | POLK COUNTY* | 12105C0275F | 04-DEC-2002 | 03-04-0892A | 02
04 | FL | POLK COUNTY* | 12105C0505F | 13-DEC-2002 | 03-04-0990A | 02
04 | FL | POLK COUNTY* | 12105C0175F | 18-DEC-2002 | 02-04-9126A | 02
04 | FL | POLK COUNTY* | 12105C0480F | 18-DEC-2002 | 03-04-0578A | 02
04 | FL | POLK COUNTY* | 12105C0292F | 26-DEC-2002 | 03-04-1074A | 02
04 | FL | POLK COUNTY* | 12105C0284F | 27-DEC-2002 | 03-04-0450A | 02
04 | FL | POMPANO BEACH, CITY OF | 12011C0119G | 25-OCT-2002 | 02-04-8852A | 02
04 | FL | PORT ORANGE, CITY OF | 12127C0368G | 02-AUG-2002 | 02-04-6460A | 01
04 | FL | PORT ORANGE, CITY OF | 12127C0368G | 02-AUG-2002 | 02-04-7200A | 01
04 | FL | PORT ORANGE, CITY OF | 12127C0368G | 02-AUG-2002 | 02-04-7202A | 01
04 | FL | PORT ORANGE, CITY OF | 12127C0368G | 02-AUG-2002 | 02-04-7310A | 01
04 | FL | PORT ORANGE, CITY OF | 12127C0368G | 09-AUG-2002 | 02-04-7198A | 01
04 | FL | PORT ORANGE, CITY OF | 12127C0368G | 04-SEP-2002 | 02-04-8020A | 01
04 | FL | PORT ORANGE, CITY OF | 12127C0368G | 04-SEP-2002 | 02-04-8056A | 01
04 | FL | PORT ORANGE, CITY OF | 12127C0526G | 30-OCT-2002 | 02-04-8748A | 02
04 | FL | PORT ORANGE, CITY OF | 12127C0368G | 06-NOV-2002 | 02-04-7968A | 01
04 | FL | PUNTA GORDA, CITY OF | 1200620004B | 10-JUL-2002 | 02-04-6478A | 02
04 | FL | PUTNAM COUNTY * | 1202720320B | 18-SEP-2002 | 02-04-7822A | 02
04 | FL | PUTNAM COUNTY * | 1202720250B | 04-OCT-2002 | 02-04-8190A | 02
04 | FL | ROCKLEDGE, CITY OF | 12009C0365E | 31-JUL-2002 | 02-04-6966A | 01
04 | FL | ROCKLEDGE, CITY OF | 12009C0355E | 25-OCT-2002 | 02-04-8596A | 02
04 | FL | SAFETY HARBOR, CITY OF | 1251430004C | 26-DEC-2002 | 03-04-0400A | 02
04 | FL | SANFORD, CITY OF | 12117C0045E | 15-NOV-2002 | 02-04-7630A | 01
04 | FL | SANTA ROSA COUNTY * | 1202740359E | 13-SEP-2002 | 02-04-6254A | 02
04 | FL | SANTA ROSA COUNTY * | 1202740358E | 26-DEC-2002 | 03-04-0824A | 02
04 | FL | SARASOTA COUNTY * | 1251440453E | 26-JUL-2002 | 02-04-6840A | 02
04 | FL | SARASOTA COUNTY * | 1251440142E | 07-AUG-2002 | 02-04-7002A | 02
04 | FL | SARASOTA COUNTY * | 1251440432D | 20-SEP-2002 | 02-04-7622A | 02
04 | FL | SARASOTA COUNTY * | 1251440239D | 27-SEP-2002 | 02-04-6876A | 02
04 | FL | SARASOTA COUNTY * | 1251440332E | 11-OCT-2002 | 02-04-9182A | 02
04 | FL | SARASOTA COUNTY * | 1251440141D | 24-OCT-2002 | 02-04-211P | 05
04 | FL | SARASOTA COUNTY * | 1251440163E | 01-NOV-2002 | 02-04-9370A | 02
04 | FL | SARASOTA COUNTY * | 1251440432D | 13-NOV-2002 | 03-04-0418X | 02
04 | FL | SARASOTA COUNTY * | 1251440331E | 27-NOV-2002 | 03-04-0052A | 02
04 | FL | SATELLITE BEACH, CITY OF | 12009C0462E | 26-DEC-2002 | 02-04-8084A | 02
04 | FL | SEBASTIAN, CITY OF | 12061C0079F | 14-AUG-2002 | 02-04-6862A | 02
04 | FL | SEMINOLE COUNTY* | 12117C0020E | 10-JUL-2002 | 02-04-6708A | 02
04 | FL | SEMINOLE COUNTY* | 12117C0160E | 10-JUL-2002 | 02-04-6752A | 02
04 | FL | SEMINOLE COUNTY* | 12117C0210E | 31-JUL-2002 | 02-04-6750A | 02
04 | FL | SEMINOLE COUNTY* | 12117C0120E | 07-AUG-2002 | 01-04-527P | 05
04 | FL | SEMINOLE COUNTY* | 12117C0140E | 07-AUG-2002 | 01-04-527P | 05
04 | FL | SEMINOLE COUNTY* | 12117C0170E | 28-AUG-2002 | 02-04-7494A | 02
04 | FL | SEMINOLE COUNTY* | 12117C0145E | 30-AUG-2002 | 02-04-6982A | 02
04 | FL | SEMINOLE COUNTY* | 12117C0120E | 06-SEP-2002 | 02-04-7652A | 02
04 | FL | SEMINOLE COUNTY* | 12117C0165E | 12-SEP-2002 | 02-04-6764A | 02
04 | FL | SEMINOLE COUNTY* | 12117C0145E | 09-OCT-2002 | 02-04-9020A | 02
04 | FL | SEMINOLE COUNTY* | 12117C0170E | 09-OCT-2002 | 02-04-9090A | 02
04 | FL | SEMINOLE COUNTY* | 12117C0145E | 23-OCT-2002 | 02-04-9170A | 01
04 | FL | SEMINOLE COUNTY* | 12117C0140E | 20-NOV-2002 | 03-04-0250A | 02
04 | FL | SEMINOLE COUNTY* | 12117C0120E | 06-DEC-2002 | 02-04-411X | 05
04 | FL | SEMINOLE COUNTY* | 12117C0255E | 13-DEC-2002 | 03-04-0580A | 02
04 | FL | SEMINOLE COUNTY* | 12117C0135E | 18-DEC-2002 | 02-04-9518A | 01
04 | FL | SEMINOLE COUNTY* | 12117C0145E | 18-DEC-2002 | 03-04-1118A | 02
04 | FL | ST. AUGUSTINE, CITY OF | 1251450003D | 31-JUL-2002 | 02-04-5776A | 02
04 | FL | ST. AUGUSTINE, CITY OF | 1251450004D | 31-JUL-2002 | 02-04-5776A | 02
04 | FL | ST. CLOUD, CITY OF | 12097C0252F | 14-AUG-2002 | 02-04-4876A | 02
04 | FL | ST. CLOUD, CITY OF | 12097C0252F | 14-AUG-2002 | 02-04-6454A | 02
04 | FL | ST. CLOUD, CITY OF | 12097C0260F | 16-OCT-2002 | 02-04-6232A | 17
04 | FL | ST. CLOUD, CITY OF | 12097C0260F | 23-OCT-2002 | 02-04-9348A | 02
04 | FL | ST. JOHNS COUNTY * | 1251470080D | 03-JUL-2002 | 02-04-5778A | 01
04 | FL | ST. JOHNS COUNTY * | 1251470095D | 19-JUL-2002 | 02-04-3200A | 01
04 | FL | ST. JOHNS COUNTY * | 1251470090D | 24-JUL-2002 | 02-04-6220A | 01
04 | FL | ST. JOHNS COUNTY * | 1251470090D | 25-SEP-2002 | 02-04-8374A | 01
04 | FL | ST. JOHNS COUNTY * | 1251470207D | 04-OCT-2002 | 02-04-8568A | 02
04 | FL | ST. JOHNS COUNTY * | 1251470090D | 16-OCT-2002 | 02-04-8752A | 01
04 | FL | ST. JOHNS COUNTY * | 1251470020D | 16-OCT-2002 | 02-04-8982A | 02
04 | FL | ST. JOHNS COUNTY * | 1251470226F | 25-OCT-2002 | 02-04-8082A | 02
04 | FL | ST. JOHNS COUNTY * | 1251470085D | 30-OCT-2002 | 02-04-5218A | 01
04 | FL | ST. PETERSBURG, CITY OF | 1251480001B | 13-SEP-2002 | 02-04-6570A | 01
04 | FL | ST. PETERSBURG, CITY OF | 1251480002B | 13-SEP-2002 | 02-04-6570A | 01
04 | FL | ST. PETERSBURG, CITY OF | 1251480013B | 25-SEP-2002 | 02-04-6434A | 02
04 | FL | STUART, CITY OF | 12085C0134F | 05-OCT-2002 | 02-04-8992V | 19
04 | FL | STUART, CITY OF | 12085C0154F | 05-OCT-2002 | 02-04-8992V | 19
04 | FL | SUNRISE, CITY OF | 12011C0185F | 06-DEC-2002 | 03-04-0694A | 02
04 | FL | TALLAHASSEE, CITY OF | 12073C0303D | 13-SEP-2002 | 02-04-6450A | 01
04 | FL | TALLAHASSEE, CITY OF | 12073C0281D | 20-SEP-2002 | 02-04-8154A | 02
04 | FL | TALLAHASSEE, CITY OF | 12073C0282D | 11-DEC-2002 | 02-04-6318A | 02
04 | FL | TAMARAC, CITY OF | 12011C0115F | 02-AUG-2002 | 02-04-6820A | 02
04 | FL | TAMARAC, CITY OF | 12011C0205F | 02-AUG-2002 | 02-04-6820A | 02
04 | FL | TAMARAC, CITY OF | 12011C0208F | 14-AUG-2002 | 02-04-6132A | 02
04 | FL | TAMARAC, CITY OF | 12011C0205F | 14-AUG-2002 | 02-04-7534A | 01
04 | FL | TAMARAC, CITY OF | 12011C0205F | 25-SEP-2002 | 02-04-8630X | 02
04 | FL | TAMARAC, CITY OF | 12011C0205F | 27-SEP-2002 | 02-04-7172A | 01
04 | FL | TAMARAC, CITY OF | 12011C0185F | 09-OCT-2002 | 02-04-9162A | 02
04 | FL | TAMARAC, CITY OF | 12011C0205F | 13-DEC-2002 | 03-04-0830A | 01
04 | FL | TAMPA, CITY OF | 1201120070E | 21-AUG-2002 | 02-04-7500A | 01
04 | FL | TAMPA, CITY OF | 1201120210E | 21-AUG-2002 | 02-04-7500A | 01
04 | FL | TAMPA, CITY OF | 1201120070E | 04-SEP-2002 | 02-04-2040A | 01
04 | FL | TAMPA, CITY OF | 1201120090E | 27-NOV-2002 | 02-04-2408A | 01
04 | FL | TARPON SPRINGS, CITY OF | 1202590005B | 18-SEP-2002 | 02-04-7404A | 01
04 | FL | TARPON SPRINGS, CITY OF | 1251390019C | 18-SEP-2002 | 02-04-7404A | 01
04 | FL | TARPON SPRINGS, CITY OF | 1202590005B | 23-OCT-2002 | 02-04-8150A | 02
04 | FL | TAVARES, CITY OF | 12069C0345D | 04-JUL-2002 | 02-04-7064V | 19
04 | FL | TAVARES, CITY OF | 12069C0355D | 04-JUL-2002 | 02-04-7064V | 19
04 | FL | TAVARES, CITY OF | 12069C0361D | 04-JUL-2002 | 02-04-7064V | 19
04 | FL | TAVARES, CITY OF | 12069C0362D | 04-JUL-2002 | 02-04-7064V | 19
04 | FL | TITUSVILLE, CITY OF | 12009C0190F | 20-NOV-2002 | 02-04-8054A | 01
04 | FL | UMATILLA, CITY OF | 12069C0210D | 04-JUL-2002 | 02-04-7076V | 19
04 | FL | VOLUSIA COUNTY* | 12127C0610G | 10-JUL-2002 | 02-04-6756A | 02
04 | FL | VOLUSIA COUNTY* | 12127C0350G | 14-AUG-2002 | 02-04-7224A | 02
04 | FL | VOLUSIA COUNTY* | 12127C0705G | 21-AUG-2002 | 02-04-8036A | 02
04 | FL | VOLUSIA COUNTY* | 12127C0508G | 13-SEP-2002 | 02-04-8182A | 02
04 | FL | VOLUSIA COUNTY* | 12127C0650G | 02-OCT-2002 | 02-04-8744A | 02
04 | FL | VOLUSIA COUNTY* | 12127C0504G | 30-OCT-2002 | 02-04-8856A | 02
04 | FL | VOLUSIA COUNTY* | 12127C0755G | 13-NOV-2002 | 03-04-0420A | 02
04 | FL | VOLUSIA COUNTY* | 12127C0543G | 18-DEC-2002 | 02-04-9456A | 02
04 | FL | WAKULLA COUNTY * | 1203150100B | 16-OCT-2002 | 02-04-8730A | 02
04 | FL | WALTON COUNTY * | 12131C0564F | 03-JUL-2002 | 02-04-5604A | 01
04 | FL | WALTON COUNTY * | 12131C0519F | 28-AUG-2002 | 02-04-7236A | 02
04 | FL | WALTON COUNTY * | 12131C0564F | 16-OCT-2002 | 02-04-8476A | 02
04 | FL | WALTON COUNTY * | 12131C0701F | 18-OCT-2002 | 02-04-8570A | 02
04 | FL | WALTON COUNTY * | 12131C0708F | 06-NOV-2002 | 02-04-7406A | 02
04 | FL | WALTON COUNTY * | 12131C0744F | 11-DEC-2002 | 03-04-0498A | 02
04 | FL | WALTON COUNTY * | 12131C0736F | 11-DEC-2002 | 03-04-0756A | 02
04 | FL | WALTON COUNTY * | 12131C0736F | 30-DEC-2002 | 03-04-001P | 08
04 | FL | WEST PALM BEACH, CITY OF | 1201920150A | 24-JUL-2002 | 02-04-6802A | 01
04 | FL | WEST PALM BEACH, CITY OF | 1201920145B | 18-SEP-2002 | 02-04-8306A | 01
04 | FL | WILTON MANORS, CITY OF | 12011C0216F | 07-AUG-2002 | 02-04-7156A | 02
04 | FL | WINDERMERE, TOWN OF | 12095C0220E | 20-NOV-2002 | 02-04-9410A | 02
04 | FL | WINTER GARDEN, CITY OF | 12095C0205E | 03-JUL-2002 | 02-04-4644A | 01
04 | FL | WINTER GARDEN, CITY OF | 12095C0215E | 09-AUG-2002 | 02-04-1264X | 01
04 | FL | WINTER GARDEN, CITY OF | 12095C0205E | 16-OCT-2002 | 02-04-8854A | 02
04 | FL | WINTER GARDEN, CITY OF | 12095C0215E | 06-NOV-2002 | 02-04-6970A | 01
04 | FL | WINTER GARDEN, CITY OF | 12095C0205E | 06-NOV-2002 | 02-04-9022A | 02
04 | FL | WINTER HAVEN, CITY OF | 12105C0358F | 09-AUG-2002 | 02-04-7426A | 02
04 | FL | WINTER HAVEN, CITY OF | 12105C0365F | 21-AUG-2002 | 02-04-6586A | 02
04 | FL | WINTER HAVEN, CITY OF | 12105C0365F | 02-OCT-2002 | 02-04-8478A | 02
04 | FL | WINTER PARK, CITY OF | 12095C0255E | 19-JUL-2002 | 02-04-6626A | 02
04 | FL | WINTER PARK, CITY OF | 12095C0255E | 31-JUL-2002 | 02-04-7276A | 02
04 | FL | WINTER SPRINGS, CITY OF | 12117C0135E | 18-DEC-2002 | 02-04-8806A | 01
04 | GA | ALBANY, CITY OF | 13095C0120D | 16-AUG-2002 | 02-04-6004A | 02
04 | GA | ALPHARETTA, CITY OF | 13121C0067E | 18-DEC-2002 | 02-04-8040A | 02
04 | GA | ATLANTA, CITY OF | 13089C0064H | 17-JUL-2002 | 02-04-5802A | 02
04 | GA | ATLANTA, CITY OF | 13121C0367E | 16-AUG-2002 | 02-04-6712A | 02
04 | GA | ATLANTA, CITY OF | 13121C0354E | 16-AUG-2002 | 02-04-7530A | 02
04 | GA | ATLANTA, CITY OF | 13121C0233E | 18-SEP-2002 | 02-04-6096A | 02
04 | GA | ATLANTA, CITY OF | 13121C0253E | 16-OCT-2002 | 02-04-6292A | 02
04 | GA | ATLANTA, CITY OF | 13089C0064H | 23-OCT-2002 | 02-04-8146A | 02
04 | GA | ATLANTA, CITY OF | 13121C0253E | 04-DEC-2002 | 03-04-0734A | 02
04 | GA | AUBURN, CITY OF | 1304980005A | 31-JUL-2002 | 02-04-4726A | 02
04 | GA | AUSTELL, CITY OF | 1300540005C | 04-DEC-2002 | 02-04-9418A | 02
04 | GA | BALDWIN COUNTY* | 1300050050B | 28-AUG-2002 | 02-04-8144A | 02
04 | GA | BALDWIN COUNTY* | 1300050075B | 30-OCT-2002 | 03-04-0112A | 02
04 | GA | BARROW COUNTY* | 1304970075A | 12-JUL-2002 | 02-04-4868A | 02
04 | GA | BARROW COUNTY* | 1304970050A | 26-NOV-2002 | 03-04-015P | 05
04 | GA | BARTOW COUNTY * | 13015C0110F | 28-AUG-2002 | 02-04-7902A | 02
04 | GA | BARTOW COUNTY * | 13015C0070F | 27-DEC-2002 | 03-04-1780A | 02
04 | GA | BAXLEY, CITY OF | 130002—02B | 18-SEP-2002 | 02-04-6618A | 02
04 | GA | BULLOCH COUNTY* | 1300190400B | 06-SEP-2002 | 02-04-5648A | 01
04 | GA | BYRON, CITY OF | 130374—02A | 25-SEP-2002 | 02-04-8016A | 02
04 | GA | CALHOUN, CITY OF | 1300950006C | 11-DEC-2002 | 02-04-5728A | 01
04 | GA | CAMDEN COUNTY* | 13039C0125C | 30-OCT-2002 | 02-04-7996A | 02
04 | GA | CANTON, CITY OF | 13057C0220B | 29-OCT-2002 | 02-04-423P | 05
04 | GA | CARTERSVILLE, CITY OF | 13015C0088F | 12-DEC-2002 | 03-04-1166A | 02
04 | GA | CATOOSA COUNTY* | 1300280025D | 25-SEP-2002 | 02-04-9146A | 02
04 | GA | CHAMBLEE, CITY OF | 13089C0014H | 20-DEC-2002 | 03-04-0784A | 02
04 | GA | CHATHAM COUNTY* | 1300300115D | 25-OCT-2002 | 02-04-9462A | 02
04 | GA | CHATHAM COUNTY* | 1300300075C | 18-DEC-2002 | 02-04-9064A | 02
04 | GA | CHEROKEE COUNTY* | 13057C0220B | 29-OCT-2002 | 02-04-423P | 05
04 | GA | CHEROKEE COUNTY* | 13057C0275B | 13-DEC-2002 | 02-04-9380A | 02
04 | GA | CLAYTON COUNTY* | 1300410015D | 30-AUG-2002 | 02-04-6742A | 02
04 | GA | COBB COUNTY* | 13067C0090F | 03-JUL-2002 | 02-04-2366A | 02
04 | GA | COBB COUNTY* | 13067C0045F | 03-JUL-2002 | 02-04-4310A | 02
04 | GA | COBB COUNTY* | 13067C0035F | 03-JUL-2002 | 02-04-5350A | 02
04 | GA | COBB COUNTY* | 13067C0085F | 03-JUL-2002 | 02-04-6094A | 02
04 | GA | COBB COUNTY* | 13067C0055F | 03-JUL-2002 | 02-04-6430A | 02
04 | GA | COBB COUNTY* | 13067C0050F | 10-JUL-2002 | 02-04-6736A | 02
04 | GA | COBB COUNTY* | 13067C0050F | 12-JUL-2002 | 02-04-7004A | 02
04 | GA | COBB COUNTY* | 13067C0085F | 17-JUL-2002 | 02-04-1998A | 02
04 | GA | COBB COUNTY* | 13067C0055F | 17-JUL-2002 | 02-04-5412A | 02
04 | GA | COBB COUNTY* | 13067C0060F | 19-JUL-2002 | 02-04-7226A | 02
04 | GA | COBB COUNTY* | 13067C0055F | 26-JUL-2002 | 02-04-5820A | 02
04 | GA | COBB COUNTY* | 13067C0090F | 31-JUL-2002 | 02-04-5296A | 02
04 | GA | COBB COUNTY* | 13067C0055F | 16-AUG-2002 | 02-04-7364A | 02
04 | GA | COBB COUNTY* | 13067C0050F | 16-AUG-2002 | 02-04-7956A | 02
04 | GA | COBB COUNTY* | 13067C0005F | 21-AUG-2002 | 02-04-7362A | 02
04 | GA | COBB COUNTY* | 13067C0090F | 23-AUG-2002 | 02-04-6972A | 02
04 | GA | COBB COUNTY* | 13067C0090F | 23-AUG-2002 | 02-04-7092A | 02
04 | GA | COBB COUNTY* | 13067C0055F | 28-AUG-2002 | 02-04-8216A | 02
04 | GA | COBB COUNTY* | 13067C0090F | 13-SEP-2002 | 02-04-3404A | 02
04 | GA | COBB COUNTY* | 13067C0060F | 13-SEP-2002 | 02-04-5886A | 02
04 | GA | COBB COUNTY* | 13067C0090F | 13-SEP-2002 | 02-04-8086A | 02
04 | GA | COBB COUNTY* | 13067C0035F | 13-SEP-2002 | 02-04-8452A | 02
04 | GA | COBB COUNTY* | 13067C0035F | 18-SEP-2002 | 02-04-7538A | 02
04 | GA | COBB COUNTY* | 13067C0035F | 18-SEP-2002 | 02-04-7844A | 02
04 | GA | COBB COUNTY* | 13067C0090F | 25-SEP-2002 | 02-04-8912A | 02
04 | GA | COBB COUNTY* | 13067C0050F | 02-OCT-2002 | 02-04-8816A | 02
04 | GA | COBB COUNTY* | 13067C0040F | 09-OCT-2002 | 02-04-7526A | 02
04 | GA | COBB COUNTY* | 13067C0060F | 09-OCT-2002 | 02-04-7840A | 02
04 | GA | COBB COUNTY* | 13067C0050F | 11-OCT-2002 | 02-04-9450A | 02
04 | GA | COBB COUNTY* | 13067C0040F | 23-OCT-2002 | 02-04-7488A | 02
04 | GA | COBB COUNTY* | 13067C0075F | 23-OCT-2002 | 02-04-9234A | 02
04 | GA | COBB COUNTY* | 13067C0010F | 30-OCT-2002 | 02-04-7206A | 02
04 | GA | COBB COUNTY* | 13067C0040F | 30-OCT-2002 | 02-04-8678A | 02
04 | GA | COBB COUNTY* | 13067C0030F | 30-OCT-2002 | 02-04-8876A | 02
04 | GA | COBB COUNTY* | 13067C0050F | 30-OCT-2002 | 02-04-9338A | 02
04 | GA | COBB COUNTY* | 13067C0085F | 30-OCT-2002 | 02-04-9558A | 02
04 | GA | COBB COUNTY* | 13067C0040F | 01-NOV-2002 | 02-04-9232A | 01
04 | GA | COBB COUNTY* | 13067C0055F | 06-NOV-2002 | 03-04-0076A | 02
04 | GA | COBB COUNTY* | 13067C0035F | 08-NOV-2002 | 02-04-8674A | 02
04 | GA | COBB COUNTY* | 13067C0085F | 13-NOV-2002 | 02-04-9244A | 02
04 | GA | COBB COUNTY* | 13067C0050F | 13-NOV-2002 | 02-04-9246A | 02
04 | GA | COBB COUNTY* | 13067C0085F | 13-NOV-2002 | 03-04-0484A | 02
04 | GA | COBB COUNTY* | 13067C0040F | 22-NOV-2002 | 02-04-8504A | 02
04 | GA | COBB COUNTY* | 13067C0080F | 27-NOV-2002 | 03-04-0818A | 02
04 | GA | COBB COUNTY* | 13067C0055F | 27-NOV-2002 | 03-04-0932A | 02
04 | GA | COBB COUNTY* | 13067C0055F | 06-DEC-2002 | 02-04-4870A | 02
04 | GA | COBB COUNTY* | 13067C0050F | 06-DEC-2002 | 02-04-5572A | 02
04 | GA | COBB COUNTY* | 13067C0035F | 18-DEC-2002 | 03-04-0406A | 02
04 | GA | COBB COUNTY* | 13067C0015F | 20-DEC-2002 | 03-04-0328A | 02
04 | GA | COBB COUNTY* | 13067C0040F | 26-DEC-2002 | 03-04-1394A | 02
04 | GA | COLUMBIA COUNTY* | 1300590085C | 10-JUL-2002 | 02-04-6098A | 02
04 | GA | COLUMBIA COUNTY* | 1300590075A | 07-AUG-2002 | 02-04-6374A | 02
04 | GA | COLUMBUS, CITY OF | 1351580055E | 09-AUG-2002 | 02-04-5610A | 17
04 | GA | COLUMBUS, CITY OF | 1351580050D | 26-DEC-2002 | 03-04-0710A | 02
04 | GA | COOK COUNTY* | 13075C0200B | 20-NOV-2002 | 02-04-8456A | 02
04 | GA | COWETA COUNTY * | 1302980140B | 21-AUG-2002 | 02-04-7434A | 02
04 | GA | COWETA COUNTY * | 1302980240B | 18-DEC-2002 | 03-04-0880A | 02
04 | GA | CUMMING, CITY OF | 13117C0095C | 25-OCT-2002 | 02-04-8214A | 02
04 | GA | DAWSON COUNTY | 1303040100A | 31-JUL-2002 | 02-04-4146A | 02
04 | GA | DE KALB COUNTY * | 13089C0056H | 03-JUL-2002 | 02-04-6526A | 02
04 | GA | DE KALB COUNTY * | 13089C0076H | 26-JUL-2002 | 02-04-7274A | 02
04 | GA | DE KALB COUNTY * | 13089C0016H | 26-JUL-2002 | 02-04-7432A | 02
04 | GA | DE KALB COUNTY * | 13089C0016H | 31-JUL-2002 | 02-04-5292A | 02
04 | GA | DE KALB COUNTY * | 13089C0076H | 31-JUL-2002 | 02-04-7250A | 02
04 | GA | DE KALB COUNTY * | 13089C0012H | 09-AUG-2002 | 02-04-6488A | 02
04 | GA | DE KALB COUNTY * | 13089C0069H | 16-AUG-2002 | 02-04-7712A | 02
04 | GA | DE KALB COUNTY * | 13089C0154H | 16-AUG-2002 | 02-04-8032A | 02
04 | GA | DE KALB COUNTY * | 13089C0112H | 28-AUG-2002 | 02-04-5580A | 02
04 | GA | DE KALB COUNTY * | 13089C0161H | 18-SEP-2002 | 02-04-7590A | 02
04 | GA | DE KALB COUNTY * | 13089C0086H | 25-SEP-2002 | 02-04-5410A | 02
04 | GA | DE KALB COUNTY * | 13089C0016H | 25-SEP-2002 | 02-04-8676A | 02
04 | GA | DE KALB COUNTY * | 13089C0133H | 27-SEP-2002 | 02-04-7108A | 02
04 | GA | DE KALB COUNTY * | 13089C0014H | 04-OCT-2002 | 02-04-9138A | 01
04 | GA | DE KALB COUNTY * | 13089C0112H | 09-OCT-2002 | 02-04-8542A | 01
04 | GA | DE KALB COUNTY * | 13089C0086H | 23-OCT-2002 | 02-04-9426A | 02
04 | GA | DE KALB COUNTY * | 13089C0087H | 15-NOV-2002 | 02-04-9416A | 02
04 | GA | DE KALB COUNTY * | 13089C0086H | 20-NOV-2002 | 02-04-8704A | 02
04 | GA | DE KALB COUNTY * | 13089C0019H | 20-NOV-2002 | 02-04-9386A | 02
04 | GA | DE KALB COUNTY * | 13089C0087H | 27-NOV-2002 | 03-04-1036A | 02
04 | GA | DE KALB COUNTY * | 13089C0089H | 04-DEC-2002 | 03-04-0878A | 02
04 | GA | DE KALB COUNTY * | 13089C0012H | 04-DEC-2002 | 03-04-0966A | 02
04 | GA | DE KALB COUNTY * | 13089C0151H | 06-DEC-2002 | 03-04-1198A | 02
04 | GA | DE KALB COUNTY * | 13089C0054H | 11-DEC-2002 | 02-04-8126A | 01
04 | GA | DE KALB COUNTY * | 13089C0054H | 11-DEC-2002 | 02-04-8128A | 01
04 | GA | DE KALB COUNTY * | 13089C0087H | 11-DEC-2002 | 03-04-1330A | 02
04 | GA | DE KALB COUNTY * | 13089C0010H | 13-DEC-2002 | 03-04-0732A | 02
04 | GA | DE KALB COUNTY * | 13089C0162H | 18-DEC-2002 | 03-04-1448A | 02
04 | GA | DE KALB COUNTY * | 13089C0089H | 26-DEC-2002 | 03-04-1078A | 02
04 | GA | DECATUR COUNTY* | 1304510175C | 18-DEC-2002 | 03-04-1032A | 02
04 | GA | DECATUR, CITY OF | 13089C0066H | 12-JUL-2002 | 02-04-6700A | 02
04 | GA | DECATUR, CITY OF | 13089C0068H | 18-SEP-2002 | 02-04-8426A | 02
04 | GA | DECATUR, CITY OF | 13089C0068H | 27-SEP-2002 | 02-04-9118A | 02
04 | GA | DOUGLAS COUNTY * | 1303060020B | 02-OCT-2002 | 02-04-2826A | 02
04 | GA | DOUGLAS COUNTY * | 13067C0095F | 02-OCT-2002 | 02-04-2826A | 02
04 | GA | DULUTH, CITY OF | 1300980002C | 04-DEC-2002 | 03-04-1008A | 02
04 | GA | EAST POINT, CITY OF | 13121C0361E | 16-OCT-2002 | 02-04-8832A | 02
04 | GA | EFFINGHAM COUNTY * | 1300760155C | 22-NOV-2002 | 02-04-9484A | 02
04 | GA | FANNIN COUNTY* | 13111C0185D | 18-SEP-2002 | 02-04-8508A | 02
04 | GA | FANNIN COUNTY* | 13111C0050D | 27-SEP-2002 | 02-04-8162A | 02
04 | GA | FANNIN COUNTY* | 13111C0285D | 08-NOV-2002 | 02-04-8908A | 02
04 | GA | FAYETTE COUNTY * | 13113C0090D | 26-DEC-2002 | 03-04-1618A | 02
04 | GA | FORSYTH COUNTY * | 13117C0155C | 16-OCT-2002 | 02-04-8090A | 02
04 | GA | FORSYTH COUNTY * | 13117C0155C | 23-OCT-2002 | 02-04-8682A | 02
04 | GA | FORT OGLETHORPE, CITY OF | 1302480001B | 11-DEC-2002 | 02-04-043P | 05
04 | GA | FULTON COUNTY * | 13121C0160E | 10-JUL-2002 | 02-04-4820A | 02
04 | GA | FULTON COUNTY * | 13121C0160E | 17-JUL-2002 | 02-04-5156A | 02
04 | GA | FULTON COUNTY * | 13121C0095E | 26-JUL-2002 | 02-04-5808A | 02
04 | GA | FULTON COUNTY * | 13121C0019E | 07-AUG-2002 | 02-04-7462A | 02
04 | GA | FULTON COUNTY * | 13121C0163E | 25-SEP-2002 | 02-04-9250A | 02
04 | GA | FULTON COUNTY * | 13121C0066E | 08-NOV-2002 | 02-04-9080A | 02
04 | GA | FULTON COUNTY * | 13121C0087E | 22-NOV-2002 | 03-04-0968A | 02
04 | GA | GLYNN COUNTY * | 1300920207C | 04-SEP-2002 | 02-04-7440A | 02
04 | GA | GLYNN COUNTY * | 1300920200C | 04-DEC-2002 | 03-04-0488A | 02
04 | GA | GWINNETT COUNTY * | 1303220070C | 10-JUL-2002 | 02-04-4922A | 02
04 | GA | GWINNETT COUNTY * | 1303220090C | 12-JUL-2002 | 02-04-395P | 05
04 | GA | GWINNETT COUNTY * | 1303220195C | 17-JUL-2002 | 02-04-4946A | 02
04 | GA | GWINNETT COUNTY * | 1303220070C | 17-JUL-2002 | 02-04-5406A | 02
04 | GA | GWINNETT COUNTY * | 1303220085C | 17-JUL-2002 | 02-04-6610A | 02
04 | GA | GWINNETT COUNTY * | 1303220305C | 24-JUL-2002 | 02-04-5342A | 02
04 | GA | GWINNETT COUNTY * | 1303220280C | 07-AUG-2002 | 02-04-6874A | 02
04 | GA | GWINNETT COUNTY * | 1303220205C | 09-AUG-2002 | 02-04-6844A | 02
04 | GA | GWINNETT COUNTY * | 1303220205C | 09-AUG-2002 | 02-04-6926A | 02
04 | GA | GWINNETT COUNTY * | 1303220205C | 06-SEP-2002 | 02-04-7714A | 02
04 | GA | GWINNETT COUNTY * | 1303220185C | 13-SEP-2002 | 02-04-8502A | 02
04 | GA | GWINNETT COUNTY * | 1303220020B | 20-SEP-2002 | 02-04-7762A | 02
04 | GA | GWINNETT COUNTY * | 1303220055C | 25-SEP-2002 | 02-04-8710A | 02
04 | GA | GWINNETT COUNTY * | 1303220085C | 27-SEP-2002 | 02-04-6988A | 02
04 | GA | GWINNETT COUNTY * | 1303220155D | 27-SEP-2002 | 02-04-8968A | 02
04 | GA | GWINNETT COUNTY * | 1303220155D | 23-OCT-2002 | 02-04-5726A | 02
04 | GA | GWINNETT COUNTY * | 1303220095C | 25-OCT-2002 | 02-04-8540A | 02
04 | GA | GWINNETT COUNTY * | 1303220205C | 25-OCT-2002 | 02-04-9296A | 02
04 | GA | GWINNETT COUNTY * | 1303220220C | 13-NOV-2002 | 02-04-8708A | 02
04 | GA | GWINNETT COUNTY * | 1303220065B | 22-NOV-2002 | 02-04-7210A | 02
04 | GA | GWINNETT COUNTY * | 1303220205C | 22-NOV-2002 | 02-04-7646A | 02
04 | GA | GWINNETT COUNTY * | 1303220190C | 27-NOV-2002 | 03-04-0686A | 02
04 | GA | GWINNETT COUNTY * | 1303220085C | 06-DEC-2002 | 02-04-9536A | 02
04 | GA | GWINNETT COUNTY * | 1303220055C | 18-DEC-2002 | 02-04-9382A | 02
04 | GA | GWINNETT COUNTY * | 1303220230C | 26-DEC-2002 | 02-04-9454A | 02
04 | GA | HALL COUNTY * | 13139C0300E | 14-AUG-2002 | 02-04-7818A | 02
04 | GA | HALL COUNTY * | 13139C0300E | 28-AUG-2002 | 02-04-7784A | 02
04 | GA | HALL COUNTY * | 13139C0175E | 18-SEP-2002 | 02-04-3614A | 02
04 | GA | HALL COUNTY * | 13139C0356E | 30-OCT-2002 | 02-04-8696A | 02
04 | GA | HARRIS COUNTY* | 1303380150A | 03-JUL-2002 | 02-04-4448A | 02
04 | GA | HARRIS COUNTY* | 1303380205A | 17-JUL-2002 | 02-04-6376A | 02
04 | GA | HARRIS COUNTY* | 1303380150A | 24-JUL-2002 | 02-04-7266A | 02
04 | GA | HARRIS COUNTY* | 1303380175A | 26-JUL-2002 | 02-04-6378A | 02
04 | GA | HARRIS COUNTY* | 1303380150A | 25-SEP-2002 | 02-04-8430A | 02
04 | GA | HARRIS COUNTY* | 1303380150A | 27-SEP-2002 | 02-04-7770A | 02
04 | GA | HARRIS COUNTY* | 1303380150A | 30-OCT-2002 | 02-04-9466A | 02
04 | GA | HARRIS COUNTY* | 1303380175A | 27-NOV-2002 | 03-04-0612A | 02
04 | GA | HARRIS COUNTY* | 1303380150A | 11-DEC-2002 | 03-04-1096A | 02
04 | GA | HARRIS COUNTY* | 1303380150A | 13-DEC-2002 | 03-04-0706A | 02
04 | GA | HELEN, CITY OF | 13311C0103C | 19-OCT-2002 | 02-04-9392V | 19
04 | GA | HENRY COUNTY * | 1304680070B | 07-AUG-2002 | 02-04-5046A | 02
04 | GA | HENRY COUNTY * | 1304680070B | 13-SEP-2002 | 02-04-6986A | 02
04 | GA | HENRY COUNTY * | 1404680150B | 18-SEP-2002 | 02-04-8336A | 02
04 | GA | HENRY COUNTY * | 1304680090B | 13-DEC-2002 | 03-04-0332A | 02
04 | GA | JASPER COUNTY* | 1305190050B | 13-DEC-2002 | 02-04-9452A | 02
04 | GA | KENNESAW, CITY OF | 13067C0030F | 17-JUL-2002 | 02-04-5948A | 02
04 | GA | KENNESAW, CITY OF | 13067C0025F | 19-JUL-2002 | 02-04-6464A | 02
04 | GA | LAKE CITY, CITY OF | 130044—01B | 10-JUL-2002 | 02-04-4322A | 02
04 | GA | LUMPKIN COUNTY | 1303540125A | 12-JUL-2002 | 02-04-5578A | 02
04 | GA | LUMPKIN COUNTY | 1303540225A | 14-AUG-2002 | 02-04-7904A | 02
04 | GA | MACON, CITY OF | 1300110025D | 16-AUG-2002 | 02-04-4552A | 02
04 | GA | MACON, CITY OF | 1300110025D | 28-AUG-2002 | 02-04-6738A | 02
04 | GA | MACON, CITY OF | 1300110020E | 27-NOV-2002 | 02-04-9384A | 02
04 | GA | MARIETTA, CITY OF | 13067C0050F | 30-OCT-2002 | 02-04-9320A | 02
04 | GA | MCINTOSH COUNTY * | 1301300180A | 03-JUL-2002 | 02-04-5718A | 02
04 | GA | MILLEDGEVILLE, CITY OF | 1300060010C | 07-AUG-2002 | 02-04-6772A | 02
04 | GA | MILLEDGEVILLE, CITY OF | 1300060010C | 21-AUG-2002 | 02-04-6774A | 02
04 | GA | MONROE COUNTY* | 1301380025C | 10-JUL-2002 | 02-04-6562A | 02
04 | GA | MONROE COUNTY* | 1301380025C | 23-AUG-2002 | 02-04-8094A | 02
04 | GA | MORGAN COUNTY* | 13211C0350A | 13-SEP-2002 | 02-04-8628A | 02
04 | GA | MORGAN COUNTY* | 13211C0230A | 18-SEP-2002 | 02-04-7008A | 02
04 | GA | MORGAN COUNTY* | 13211C0230A | 04-OCT-2002 | 02-04-8038A | 02
04 | GA | MORGAN COUNTY* | 13211C0230A | 18-OCT-2002 | 02-04-7938A | 02
04 | GA | MORGAN COUNTY* | 13211C0250A | 18-OCT-2002 | 02-04-9058A | 02
04 | GA | MORGAN COUNTY* | 13211C0180A | 23-OCT-2002 | 02-04-8428A | 02
04 | GA | MORGAN COUNTY* | 13211C0230A | 25-OCT-2002 | 02-04-7900A | 02
04 | GA | MORGAN COUNTY* | 13211C0350A | 30-OCT-2002 | 02-04-9422A | 02
04 | GA | MORGAN COUNTY* | 13211C0250A | 06-NOV-2002 | 02-04-8562A | 02
04 | GA | MORGAN COUNTY* | 13211C0230A | 08-NOV-2002 | 02-04-8298A | 02
04 | GA | MORGAN COUNTY* | 13211C0085A | 08-NOV-2002 | 02-04-9124A | 02
04 | GA | MORGAN COUNTY* | 13211C0350A | 13-NOV-2002 | 02-04-9066A | 02
04 | GA | MORGAN COUNTY* | 13211C0180A | 27-NOV-2002 | 03-04-0310A | 02
04 | GA | MORGAN COUNTY* | 13211C0350A | 18-DEC-2002 | 02-04-7842A | 02
04 | GA | MORGAN COUNTY* | 13211C0250A | 26-DEC-2002 | 03-04-1320A | 02
04 | GA | NEWNAN, CITY OF | 1302980140B | 13-NOV-2002 | 02-04-8972A | 02
04 | GA | NEWTON COUNTY * | 1301430075A | 18-DEC-2002 | 03-04-007P | 05
04 | GA | PAULDING COUNTY * | 13223C0253B | 10-JUL-2002 | 02-04-4106A | 02
04 | GA | POLK COUNTY * | 1302560045A | 06-DEC-2002 | 03-04-1226A | 02
04 | GA | POOLER, TOWN OF | 1302610001A | 26-JUL-2002 | 02-04-6462A | 02
04 | GA | POOLER, TOWN OF | 1300300075C | 25-OCT-2002 | 02-04-8506A | 01
04 | GA | POWDER SPRINGS, CITY OF | 13067C0065F | 30-OCT-2002 | 02-04-8044A | 02
04 | GA | RICHMOND COUNTY* | 1301580070E | 10-JUL-2002 | 02-04-6872A | 02
04 | GA | RICHMOND COUNTY* | 1301580080E | 12-JUL-2002 | 02-04-6928A | 02
04 | GA | RICHMOND COUNTY* | 1301580070E | 12-JUL-2002 | 02-04-6930A | 02
04 | GA | RICHMOND COUNTY* | 1301580070E | 26-JUL-2002 | 02-04-6932A | 02
04 | GA | RICHMOND COUNTY* | 1301580070E | 23-AUG-2002 | 02-04-8300A | 02
04 | GA | RICHMOND COUNTY* | 1301580060E | 28-AUG-2002 | 02-04-4812A | 02
04 | GA | RICHMOND COUNTY* | 1301580060E | 28-AUG-2002 | 02-04-7180A | 02
04 | GA | RICHMOND COUNTY* | 1301580015B | 06-DEC-2002 | 03-04-1206A | 02
04 | GA | RICHMOND COUNTY* | 1301580015B | 12-DEC-2002 | 02-04-241P | 05
04 | GA | RICHMOND COUNTY* | 1301580020E | 12-DEC-2002 | 02-04-241P | 05
04 | GA | ROCKDALE COUNTY * | 13247C0151C | 13-SEP-2002 | 02-04-7948A | 02
04 | GA | ROCKDALE COUNTY * | 13247C0162C | 01-NOV-2002 | 02-04-9326A | 02
04 | GA | ROCKDALE COUNTY * | 13247C0162C | 18-DEC-2002 | 03-04-0898A | 02
04 | GA | ROME, CITY OF | 13115C0285D | 10-JUL-2002 | 02-04-7040A | 02
04 | GA | ROME, CITY OF | 13115C0190D | 25-SEP-2002 | 02-04-8544A | 02
04 | GA | ROME, CITY OF | 13115C0190D | 20-DEC-2002 | 03-04-1326A | 02
04 | GA | SAVANNAH, CITY OF | 1351630020C | 04-SEP-2002 | 02-04-7030A | 02
04 | GA | SAVANNAH, CITY OF | 1351630025C | 26-DEC-2002 | 03-04-0430A | 02
04 | GA | SENOIA, CITY OF | 1302980275A | 03-JUL-2002 | 02-04-6518X | 02
04 | GA | SMYRNA, CITY OF | 13067C0070F | 27-SEP-2002 | 02-04-7298A | 02
04 | GA | SPALDING COUNTY * | 1303880045B | 26-DEC-2002 | 03-04-0232A | 02
04 | GA | SUWANEE, CITY OF | 1303280002A | 28-AUG-2002 | 02-04-8100A | 02
04 | GA | TIFT COUNTY * | 13277C0130D | 17-JUL-2002 | 02-04-4732A | 02
04 | GA | TOWNS COUNTY* | 13281C0035C | 28-AUG-2002 | 02-04-7146A | 02
04 | GA | TOWNS COUNTY* | 13281C0035C | 11-DEC-2002 | 02-04-8882A | 02
04 | GA | TROUP COUNTY * | 1304050100A | 04-DEC-2002 | 03-04-0560A | 02
04 | GA | TYBEE ISLAND, CITY OF | 1351640002C | 03-JUL-2002 | 02-04-4926A | 02
04 | GA | TYBEE ISLAND, CITY OF | 1351640002C | 20-NOV-2002 | 03-04-0608X | 02
04 | GA | TYRONE, TOWN OF | 13113C0040D | 25-SEP-2002 | 02-04-8914A | 02
04 | GA | UNION COUNTY* | 1302540075C | 17-JUL-2002 | 02-04-7290A | 02
04 | GA | UNION COUNTY* | 1302540025C | 11-OCT-2002 | 02-04-7006A | 02
04 | GA | UNION COUNTY* | 1302540025C | 18-OCT-2002 | 02-04-9184A | 02
04 | GA | WALTON COUNTY * | 13297C0065B | 02-AUG-2002 | 02-04-2862A | 02
04 | GA | WALTON COUNTY * | 13297C0070B | 02-AUG-2002 | 02-04-2862A | 02
04 | GA | WALTON COUNTY * | 13297C0020B | 23-AUG-2002 | 02-04-5524A | 02
04 | GA | WALTON COUNTY * | 13297C0020B | 13-SEP-2002 | 02-04-6830A | 02
04 | GA | WALTON COUNTY * | 13297C0114B | 04-OCT-2002 | 02-04-8138A | 02
04 | GA | WALTON COUNTY * | 13297C0085B | 23-OCT-2002 | 02-04-6936A | 02
04 | GA | WALTON COUNTY * | 13297C0100B | 06-NOV-2002 | 03-04-0230A | 02
04 | GA | WALTON COUNTY * | 13297C0100B | 20-NOV-2002 | 02-04-9420A | 02
04 | GA | WALTON COUNTY * | 13297C0175B | 27-NOV-2002 | 02-04-8942A | 02
04 | GA | WOODSTOCK, CITY OF | 13057C0330B | 17-JUL-2002 | 02-04-7036A | 02
04 | GA | WOODSTOCK, CITY OF | 13057C0310C | 27-NOV-2002 | 02-04-8202A | 01
04 | GA | WOODSTOCK, CITY OF | 13057C0310C | 27-NOV-2002 | 03-04-1140A | 02
04 | KY | BEAVER DAM, TOWN OF | 21183C0170C | 18-SEP-2002 | 02-04-7718A | 02
04 | KY | BOWLING GREEN, CITY OF | 21227C0115D | 21-AUG-2002 | 02-04-5636A | 01
04 | KY | BOWLING GREEN, CITY OF | 21227C0115D | 28-AUG-2002 | 02-04-6528A | 02
04 | KY | BOWLING GREEN, CITY OF | 21227C0115D | 27-NOV-2002 | 02-04-9284A | 02
04 | KY | BULLITT COUNTY* | 210273—12B | 18-OCT-2002 | 02-04-7138A | 02
04 | KY | CARROLL COUNTY | 210045—11B | 01-NOV-2002 | 02-04-8814A | 02
04 | KY | DAVIESS COUNTY * | 21059C0120C | 03-JUL-2002 | 02-04-6938A | 02
04 | KY | DAVIESS COUNTY * | 21059C0280C | 12-JUL-2002 | 02-04-6592A | 01
04 | KY | HARLAN COUNTY * | 2100980050A | 13-SEP-2002 | 02-04-8812A | 02
04 | KY | HARLAN, CITY OF | 2101020001B | 14-AUG-2002 | 01-04-555P | 05
04 | KY | HENDERSON COUNTY* | 2102860150B | 09-AUG-2002 | 02-04-7300A | 02
04 | KY | HENDERSON, CITY OF | 2101090005D | 26-DEC-2002 | 03-04-0606A | 02
04 | KY | JEFFERSON COUNTY* | 21111C0135D | 03-JUL-2002 | 02-04-6084A | 02
04 | KY | JEFFERSON COUNTY* | 21111C0095D | 03-JUL-2002 | 02-04-6934A | 02
04 | KY | JEFFERSON COUNTY* | 21111C0090D | 10-JUL-2002 | 02-04-4048A | 02
04 | KY | JEFFERSON COUNTY* | 21111C0170D | 17-JUL-2002 | 02-04-7144A | 02
04 | KY | JEFFERSON COUNTY* | 21111C0160D | 19-JUL-2002 | 02-04-5302A | 02
04 | KY | JEFFERSON COUNTY* | 21111C0020D | 19-JUL-2002 | 02-04-6492A | 02
04 | KY | JEFFERSON COUNTY* | 21111C0165D | 19-JUL-2002 | 02-04-6914A | 02
04 | KY | JEFFERSON COUNTY* | 21111C0015D | 24-JUL-2002 | 02-04-5568A | 01
04 | KY | JEFFERSON COUNTY* | 21111C0020D | 26-JUL-2002 | 02-04-7420A | 02
04 | KY | JEFFERSON COUNTY* | 21111C0085D | 26-JUL-2002 | 02-04-7428A | 02
04 | KY | JEFFERSON COUNTY* | 21111C0165D | 02-AUG-2002 | 02-04-7678A | 02
04 | KY | JEFFERSON COUNTY* | 21111C0020D | 07-AUG-2002 | 02-04-5026A | 02
04 | KY | JEFFERSON COUNTY* | 21111C0165D | 14-AUG-2002 | 02-04-7898A | 02
04 | KY | JEFFERSON COUNTY* | 21111C0170D | 23-AUG-2002 | 02-04-405P | 05
04 | KY | JEFFERSON COUNTY* | 21111C0160D | 25-SEP-2002 | 02-04-7096A | 02
04 | KY | JEFFERSON COUNTY* | 21111C0085D | 25-SEP-2002 | 02-04-8382A | 02
04 | KY | JEFFERSON COUNTY* | 21111C0085D | 25-SEP-2002 | 02-04-8974A | 02
04 | KY | JEFFERSON COUNTY* | 21111C0170D | 25-SEP-2002 | 02-04-9286A | 02
04 | KY | JEFFERSON COUNTY* | 21111C0170D | 27-SEP-2002 | 02-04-9176A | 02
04 | KY | JEFFERSON COUNTY* | 21111C0095D | 09-OCT-2002 | 02-04-9060A | 17
04 | KY | JEFFERSON COUNTY* | 21111C0020D | 16-OCT-2002 | 03-04-0100A | 02
04 | KY | JEFFERSON COUNTY* | 21111C0105D | 06-NOV-2002 | 03-04-0208A | 02
04 | KY | JEFFERSON COUNTY* | 21111C0015D | 13-NOV-2002 | 03-04-0320A | 02
04 | KY | JEFFERSON COUNTY* | 21111C0095D | 13-NOV-2002 | 03-04-0322A | 02
04 | KY | JEFFERSON COUNTY* | 21111C0190D | 27-NOV-2002 | 02-04-8978A | 02
04 | KY | JEFFERSON COUNTY* | 21111C0190D | 27-NOV-2002 | 02-04-8980A | 02
04 | KY | JEFFERSON COUNTY* | 21111C0080D | 06-DEC-2002 | 03-04-0738A | 02
04 | KY | JEFFERSON COUNTY* | 21111C0110D | 18-DEC-2002 | 03-04-0464A | 02
04 | KY | JEFFERSON COUNTY* | 21111C0170D | 26-DEC-2002 | 03-04-1068A | 02
04 | KY | KENTON COUNTY * | 2101280016B | 02-OCT-2002 | 02-04-7342A | 02
04 | KY | KNOX COUNTY * | 2101310175B | 26-JUL-2002 | 02-04-6998A | 02
04 | KY | LEXINGTON-FAYETTE URBAN COUNTY GOVE | 2100670070C | 07-AUG-2002 | 02-04-6436A | 01
04 | KY | LEXINGTON-FAYETTE URBAN COUNTY GOVE | 2100670060C | 25-SEP-2002 | 02-04-8368A | 02
04 | KY | LEXINGTON-FAYETTE URBAN COUNTY GOVE | 2100670090C | 20-NOV-2002 | 02-04-9566A | 02
04 | KY | LEXINGTON-FAYETTE URBAN COUNTY GOVE | 2100670060C | 18-DEC-2002 | 03-04-0210A | 02
04 | KY | LEXINGTON-FAYETTE URBAN COUNTY GOVE | 2100670060C | 26-DEC-2002 | 03-04-0610A | 02
04 | KY | LOUISVILLE, CITY OF | 21111C0090D | 28-AUG-2002 | 02-04-8360A | 02
04 | KY | LOUISVILLE, CITY OF | 21111C0070D | 04-OCT-2002 | 02-04-6940A | 02
04 | KY | LOUISVILLE, CITY OF | 21111C0090D | 08-NOV-2002 | 03-04-0490A | 02
04 | KY | MARSHALL COUNTY * | 2102520100B | 17-JUL-2002 | 02-04-7142A | 02
04 | KY | MCCRACKEN COUNTY * | 2101510080B | 20-NOV-2002 | 02-04-8804A | 02
04 | KY | MCCRACKEN COUNTY * | 2101510090B | 20-NOV-2002 | 02-04-8804A | 02
04 | KY | NORTONVILLE, CITY OF | 210305—01B | 13-SEP-2002 | 02-04-6778A | 01
04 | KY | OWENSBORO, CITY OF | 21059C0260C | 09-AUG-2002 | 02-04-7760A | 02
04 | KY | OWENSBORO, CITY OF | 21059C0280C | 21-AUG-2002 | 02-04-8120A | 01
04 | KY | OWENSBORO, CITY OF | 21059C0280C | 30-SEP-2002 | 02-04-483P | 05
04 | KY | OWENSBORO, CITY OF | 21059C0120C | 02-OCT-2002 | 02-04-8880A | 02
04 | KY | OWENSBORO, CITY OF | 21059C0280C | 09-OCT-2002 | 02-04-8690A | 01
04 | KY | OWENSBORO, CITY OF | 21059C0280C | 11-NOV-2002 | 02-04-339P | 05
04 | KY | PIKE COUNTY* | 21195C0115F | 21-AUG-2002 | 02-04-5666A | 02
04 | KY | SHEPHERDSVILLE, CITY OF | 210273—12B | 01-NOV-2002 | 03-04-0766A | 02
04 | KY | SHEPHERDSVILLE, CITY OF | 2100280005D | 06-NOV-2002 | 02-04-9520A | 02
04 | KY | SHEPHERDSVILLE, CITY OF | 210273—12B | 06-NOV-2002 | 02-04-9520A | 02
04 | KY | SHIVELY, CITY OF | 21111C0135D | 10-JUL-2002 | 02-04-6698A | 02
04 | KY | SHIVELY, CITY OF | 21111C0135D | 26-JUL-2002 | 02-04-7516A | 02
04 | KY | WINCHESTER, CITY OF | 2100560002B | 26-JUL-2002 | 02-04-6540A | 02
04 | MS | AMORY, CITY OF | 28095C0103D | 19-JUL-2002 | 02-04-5228A | 02
04 | MS | BOONEVILLE, CITY OF | 280135—03A | 13-DEC-2002 | 03-04-0156A | 02
04 | MS | BRANDON, CITY OF | 2801430003B | 07-AUG-2002 | 02-04-6236A | 01
04 | MS | BRANDON, CITY OF | 2801430001C | 16-AUG-2002 | 02-04-7338A | 01
04 | MS | CALHOUN COUNTY * | 28013C0110C | 03-JUL-2002 | 02-04-3844A | 02
04 | MS | CALHOUN COUNTY * | 28013C0110C | 28-AUG-2002 | 02-04-6886A | 02
04 | MS | CLAY COUNTY * | 28025C0115C | 16-OCT-2002 | 02-04-8308A | 02
04 | MS | CLINTON, CITY OF | 2800700125D | 17-OCT-2002 | 02-04-427P | 05
04 | MS | CLINTON, CITY OF | 2800710001C | 30-OCT-2002 | 02-04-6804A | 01
04 | MS | CLINTON, CITY OF | 2800710001C | 04-DEC-2002 | 03-04-0946A | 02
04 | MS | COLUMBUS, CITY OF | 28087C0065J | 24-JUL-2002 | 02-04-6234A | 01
04 | MS | FLOWOOD, TOWN OF | 2802890450D | 30-DEC-2002 | 03-04-087P | 05
04 | MS | GREENE COUNTY * | 280271—43B | 17-JUL-2002 | 02-04-2614A | 02
04 | MS | GREENE COUNTY * | 280271—02C | 30-AUG-2002 | 02-04-5502A | 02
04 | MS | GREENWOOD, CITY OF | 2801020005C | 30-AUG-2002 | 02-04-7382A | 02
04 | MS | GULFPORT, CITY OF | 2852530043D | 05-OCT-2002 | 02-04-9122V | 19
04 | MS | HANCOCK COUNTY* | 2852540135C | 14-AUG-2002 | 02-04-7418A | 02
04 | MS | HARRISON COUNTY * | 2852550120E | 03-JUL-2002 | 02-04-5734A | 02
04 | MS | HARRISON COUNTY * | 2852550185E | 10-JUL-2002 | 02-04-5140A | 02
04 | MS | HARRISON COUNTY * | 2852550130E | 31-JUL-2002 | 02-04-6604A | 02
04 | MS | HARRISON COUNTY * | 2852550140E | 31-JUL-2002 | 02-04-6604A | 02
04 | MS | HARRISON COUNTY * | 2852550120F | 05-OCT-2002 | 02-04-9120V | 19
04 | MS | HARRISON COUNTY * | 2852550185F | 05-OCT-2002 | 02-04-9120V | 19
04 | MS | HARRISON COUNTY * | 2852550190F | 31-OCT-2002 | 02-04-6072A | 02
04 | MS | HARRISON COUNTY * | 2852550040E | 22-NOV-2002 | 02-04-8740A | 02
04 | MS | HATTIESBURG, CITY OF | 28035C0080C | 14-AUG-2002 | 02-04-5660A | 02
04 | MS | HATTIESBURG, CITY OF | 28035C0080C | 13-SEP-2002 | 02-04-8088A | 02
04 | MS | JACKSON COUNTY* | 2852560190E | 04-DEC-2002 | 03-04-0294A | 02
04 | MS | JACKSON, CITY OF | 2800720030F | 04-DEC-2002 | 03-04-0948A | 02
04 | MS | LAFAYETTE COUNTY * | 2800930100B | 07-AUG-2002 | 02-04-5640A | 01
04 | MS | LAFAYETTE COUNTY * | 2800930125B | 07-AUG-2002 | 02-04-5640A | 01
04 | MS | LAMAR COUNTY * | 28073C0035C | 04-DEC-2002 | 03-04-0852A | 02
04 | MS | LAUDERDALE COUNTY * | 28075C0200C | 20-SEP-2002 | 02-04-5104A | 02
04 | MS | LAUREL,CITY OF | 2800920003D | 21-AUG-2002 | 02-04-7380A | 02
04 | MS | LEE COUNTY * | 28081C0166D | 09-AUG-2002 | 02-04-5510A | 02
04 | MS | LEE COUNTY * | 28081C0155D | 04-OCT-2002 | 02-04-9562A | 02
04 | MS | LEE COUNTY * | 28081C0207D | 26-DEC-2002 | 02-04-9070A | 02
04 | MS | LOWNDES COUNTY * | 28087C0055J | 24-JUL-2002 | 02-04-4934A | 02
04 | MS | MADISON, CITY OF | 28089C0310D | 02-AUG-2002 | 02-04-7278A | 17
04 | MS | MADISON, CITY OF | 28089C0310D | 02-AUG-2002 | 02-04-7296A | 17
04 | MS | MADISON, CITY OF | 28089C0310D | 16-AUG-2002 | 02-04-7110A | 02
04 | MS | OXFORD, CITY OF | 2800940005B | 21-AUG-2002 | 02-04-179P | 05
04 | MS | PASCAGOULA, CITY OF | 2852600006C | 07-AUG-2002 | 02-04-6786A | 02
04 | MS | PERRY COUNTY* | 2802330006B | 15-NOV-2002 | 02-04-8688A | 02
04 | MS | QUITMAN COUNTY * | 2802070125B | 13-DEC-2002 | 03-04-0976A | 02
04 | MS | QUITMAN COUNTY * | 2802070125B | 13-DEC-2002 | 03-04-0978A | 02
04 | MS | QUITMAN COUNTY * | 2802070125B | 13-DEC-2002 | 03-04-0980A | 02
04 | MS | RANKIN COUNTY * | 2801420090C | 28-AUG-2002 | 02-04-5000A | 02
04 | MS | RANKIN COUNTY * | 2801420070C | 04-SEP-2002 | 02-04-7992A | 02
04 | MS | RANKIN COUNTY * | 2801420090C | 20-NOV-2002 | 02-04-349P | 05
04 | MS | RICHLAND, CITY OF | 2802990002C | 10-JUL-2002 | 02-04-6472A | 02
04 | MS | RIDGELAND, CITY OF | 28089C0320D | 18-OCT-2002 | 02-04-7554A | 02
04 | MS | RIDGELAND, CITY OF | 28089C0320D | 22-NOV-2002 | 02-04-8574A | 01
04 | MS | SHUBUTA, TOWN OF | 2800340001D | 30-OCT-2002 | 02-04-8936A | 02
04 | MS | SOUTHAVEN, CITY OF | 28033C0043E | 02-OCT-2002 | 02-04-6720A | 01
04 | MS | SOUTHAVEN, CITY OF | 28033C0035F | 30-OCT-2002 | 02-04-8686A | 01
04 | MS | SOUTHAVEN, CITY OF | 28033C0041E | 30-OCT-2002 | 02-04-8686A | 01
04 | MS | SOUTHAVEN, CITY OF | 28033C0040E | 27-NOV-2002 | 03-04-0564A | 01
04 | MS | TATE COUNTY * | 2802350150B | 19-JUL-2002 | 02-04-4374A | 02
04 | MS | TATE COUNTY * | 2802350200B | 04-DEC-2002 | 03-04-0344A | 02
04 | MS | TUPELO, CITY OF | 28081C0227D | 19-JUL-2002 | 02-04-3176A | 01
04 | MS | TUPELO, CITY OF | 28081C0163D | 21-AUG-2002 | 02-04-7564A | 02
04 | MS | TUPELO, CITY OF | 28081C0163D | 11-OCT-2002 | 02-04-8844A | 17
04 | MS | TUPELO, CITY OF | 28081C0163D | 25-OCT-2002 | 02-04-7596A | 02
04 | MS | TUPELO, CITY OF | 28081C0227D | 25-OCT-2002 | 02-04-9306A | 01
04 | MS | TUPELO, CITY OF | 28081C0209D | 30-OCT-2002 | 02-04-8516A | 02
04 | MS | TUPELO, CITY OF | 28081C0162D | 06-NOV-2002 | 02-04-8784A | 01
04 | MS | TUPELO, CITY OF | 28081C0163D | 26-DEC-2002 | 02-04-8922A | 02
04 | MS | WINSTON COUNTY * | 2803080200B | 26-JUL-2002 | 02-04-6646A | 02
04 | MS | WINSTON COUNTY * | 2803080175B | 09-AUG-2002 | 02-04-4342A | 02
04 | NC | APEX, TOWN OF | 37183C0480E | 28-AUG-2002 | 02-04-8002A | 02
04 | NC | ASHEVILLE, CITY OF | 37021C0282C | 06-SEP-2002 | 02-04-6006A | 01
04 | NC | ATLANTIC BEACH, TOWN OF | 3700440001D | 28-AUG-2002 | 02-04-5240A | 02
04 | NC | ATLANTIC BEACH, TOWN OF | 3700440001D | 09-OCT-2002 | 02-04-8292A | 02
04 | NC | AVERY COUNTY * | 3700100050B | 04-OCT-2002 | 02-04-7456A | 02
04 | NC | BEAUFORT COUNTY* | 3700130195B | 24-JUL-2002 | 02-04-7056A | 02
04 | NC | BOONE, TOWN OF | 37189C0183E | 24-JUL-2002 | 02-04-4174A | 17
04 | NC | BOONE, TOWN OF | 37189C0183E | 18-OCT-2002 | 02-04-6904A | 02
04 | NC | BRUNSWICK COUNTY* | 3702950360E | 18-OCT-2002 | 02-04-8652A | 01
04 | NC | BRUNSWICK COUNTY* | 3702950360E | 27-NOV-2002 | 02-04-6724A | 02
04 | NC | BUNCOMBE COUNTY * | 37021C0329C | 10-JUL-2002 | 02-04-3980A | 02
04 | NC | BUNCOMBE COUNTY * | 37021C0336C | 16-JUL-2002 | 02-04-4518A | 17
04 | NC | BUNCOMBE COUNTY * | 37021C0478C | 26-JUL-2002 | 02-04-7090A | 02
04 | NC | BUNCOMBE COUNTY * | 37021C0479C | 26-JUL-2002 | 02-04-7090A | 02
04 | NC | BUNCOMBE COUNTY * | 37021C0205C | 14-AUG-2002 | 02-04-5124A | 02
04 | NC | BUNCOMBE COUNTY * | 37021C0329C | 14-AUG-2002 | 02-04-8072A | 02
04 | NC | BUNCOMBE COUNTY * | 37021C0350C | 30-OCT-2002 | 02-04-6150A | 02
04 | NC | BUNCOMBE COUNTY * | 47021C0478C | 08-NOV-2002 | 02-04-9130X | 17
04 | NC | BUNCOMBE COUNTY * | 47021C0479C | 08-NOV-2002 | 02-04-9130X | 17
04 | NC | BURKE COUNTY * | 3700340100C | 12-JUL-2002 | 02-04-6632A | 02
04 | NC | BURLINGTON, CITY OF | 37001C0103E | 26-DEC-2002 | 03-04-0146A | 02
04 | NC | CABARRUS COUNTY * | 37025C0145D | 20-NOV-2002 | 02-04-8078A | 02
04 | NC | CABARRUS COUNTY * | 37025C0115D | 20-NOV-2002 | 02-04-9390A | 01
04 | NC | CAROLINA BEACH, TOWN OF | 3753470002C | 07-AUG-2002 | 02-04-7254A | 02
04 | NC | CAROLINA BEACH, TOWN OF | 3753470002C | 07-AUG-2002 | 02-04-7256A | 02
04 | NC | CARY, TOWN OF | 37183C0294E | 30-JUL-2002 | 01-04-397P | 05
04 | NC | CARY, TOWN OF | 37183C0504E | 18-DEC-2002 | 02-04-8604A | 02
04 | NC | CATAWBA COUNTY * | 3700500350C | 10-JUL-2002 | 02-04-4438A | 02
04 | NC | CATAWBA COUNTY * | 3700500325B | 10-JUL-2002 | 02-04-6080A | 02
04 | NC | CATAWBA COUNTY * | 3700500200C | 12-JUL-2002 | 02-04-6506A | 02
04 | NC | CATAWBA COUNTY * | 3700500325B | 17-JUL-2002 | 02-04-7260A | 02
04 | NC | CATAWBA COUNTY * | 3700500200C | 02-AUG-2002 | 02-04-7258A | 02
04 | NC | CATAWBA COUNTY * | 3700500350C | 07-AUG-2002 | 02-04-7662A | 02
04 | NC | CATAWBA COUNTY * | 3700500350C | 28-AUG-2002 | 02-04-2692A | 02
04 | NC | CATAWBA COUNTY * | 3700500350C | 28-AUG-2002 | 02-04-7510A | 02
04 | NC | CATAWBA COUNTY * | 3700500350C | 28-AUG-2002 | 02-04-8070A | 02
04 | NC | CATAWBA COUNTY * | 3700500325B | 13-SEP-2002 | 02-04-8380A | 02
04 | NC | CATAWBA COUNTY * | 3700500325B | 13-SEP-2002 | 02-04-8606A | 02
04 | NC | CATAWBA COUNTY * | 3700500325B | 18-SEP-2002 | 02-04-8858A | 02
04 | NC | CATAWBA COUNTY * | 3700500350C | 20-SEP-2002 | 02-04-7326A | 02
04 | NC | CATAWBA COUNTY * | 3700500325B | 25-SEP-2002 | 02-04-8448A | 02
04 | NC | CATAWBA COUNTY * | 3700500325B | 25-SEP-2002 | 02-04-8794A | 02
04 | NC | CATAWBA COUNTY * | 3700500350C | 25-SEP-2002 | 02-04-8862A | 02
04 | NC | CATAWBA COUNTY * | 3700500325B | 02-OCT-2002 | 02-04-8670A | 02
04 | NC | CATAWBA COUNTY * | 3700500325B | 02-OCT-2002 | 02-04-9310A | 02
04 | NC | CATAWBA COUNTY * | 3700500160B | 09-OCT-2002 | 02-04-6898A | 02
04 | NC | CATAWBA COUNTY * | 3700500350C | 09-OCT-2002 | 02-04-8930A | 02
04 | NC | CATAWBA COUNTY * | 3700500350C | 09-OCT-2002 | 02-04-9004A | 02
04 | NC | CATAWBA COUNTY * | 3700500200C | 25-OCT-2002 | 02-04-9376A | 02
04 | NC | CATAWBA COUNTY * | 3700500350C | 08-NOV-2002 | 02-04-9006A | 02
04 | NC | CATAWBA COUNTY * | 3700500350C | 05-DEC-2002 | 03-04-0864A | 02
04 | NC | CATAWBA COUNTY * | 3700500350C | 06-DEC-2002 | 03-04-0360A | 02
04 | NC | CATAWBA COUNTY * | 3700500350C | 18-DEC-2002 | 03-04-0480A | 02
04 | NC | CATAWBA COUNTY * | 3700500325B | 20-DEC-2002 | 03-04-0316A | 02
04 | NC | CATAWBA COUNTY * | 3700500325B | 26-DEC-2002 | 03-04-0362A | 02
04 | NC | CATAWBA COUNTY * | 3700500325B | 26-DEC-2002 | 03-04-0524A | 02
04 | NC | CATAWBA COUNTY * | 3700500200C | 26-DEC-2002 | 03-04-0646A | 02
04 | NC | CATAWBA COUNTY * | 3700500325B | 26-DEC-2002 | 03-04-0718A | 02
04 | NC | CATAWBA COUNTY * | 3700500325B | 26-DEC-2002 | 03-04-0918A | 02
04 | NC | CATAWBA COUNTY * | 3700500325B | 27-DEC-2002 | 03-04-0720A | 02
04 | NC | CHAPEL HILL, TOWN OF | 3703420255B | 08-JUL-2002 | 02-04-2542A | 17
04 | NC | CHARLOTTE, CITY OF | 3701590022B | 03-JUL-2002 | 02-04-5768A | 02
04 | NC | CHARLOTTE, CITY OF | 3701580185B | 02-AUG-2002 | 02-04-7502A | 02
04 | NC | CHARLOTTE, CITY OF | 3701580190B | 23-AUG-2002 | 02-04-8288A | 02
04 | NC | CHARLOTTE, CITY OF | 3701580185B | 13-SEP-2002 | 02-04-7358A | 02
04 | NC | CHARLOTTE, CITY OF | 3701580190B | 09-OCT-2002 | 02-04-7856A | 01
04 | NC | CHARLOTTE, CITY OF | 3701580185B | 04-DEC-2002 | 02-04-8796A | 02
04 | NC | CHOWAN COUNTY * | 3703010055B | 20-NOV-2002 | 02-04-9480A | 02
04 | NC | COLUMBUS COUNTY * | 3703050200B | 27-NOV-2002 | 02-04-7514A | 02
04 | NC | CONCORD, CITY OF | 37025C0080D | 17-JUL-2002 | 02-04-6364A | 02
04 | NC | CONCORD, CITY OF | 37025C0084D | 16-AUG-2002 | 02-04-8006A | 02
04 | NC | CONCORD, CITY OF | 37025C0084D | 13-SEP-2002 | 02-04-1974A | 01
04 | NC | CORNELIUS, TOWN OF | 3704980005A | 03-JUL-2002 | 02-04-6958X | 01
04 | NC | CORNELIUS, TOWN OF | 3704980005A | 19-JUL-2002 | 02-04-7460A | 02
04 | NC | CORNELIUS, TOWN OF | 3704980005A | 07-AUG-2002 | 02-04-7854A | 02
04 | NC | CORNELIUS, TOWN OF | 3704980005A | 07-AUG-2002 | 02-04-7858A | 02
04 | NC | CORNELIUS, TOWN OF | 3704980005A | 18-SEP-2002 | 02-04-7676A | 02
04 | NC | CORNELIUS, TOWN OF | 3704980005A | 01-NOV-2002 | 02-04-7860A | 02
04 | NC | CORNELIUS, TOWN OF | 3704980005A | 01-NOV-2002 | 03-04-0314A | 02
04 | NC | CORNELIUS, TOWN OF | 3704980005A | 01-NOV-2002 | 03-04-0412A | 02
04 | NC | CORNELIUS, TOWN OF | 3704980005A | 04-DEC-2002 | 03-04-0152A | 02
04 | NC | CORNELIUS, TOWN OF | 3704980005A | 06-DEC-2002 | 02-04-7184A | 02
04 | NC | CORNELIUS, TOWN OF | 3704980015B | 06-DEC-2002 | 03-04-0594A | 02
04 | NC | CRAVEN COUNTY* | 3700720340B | 13-SEP-2002 | 02-04-7060A | 02
04 | NC | CRAVEN COUNTY* | 3700720330B | 13-SEP-2002 | 02-04-8076A | 02
04 | NC | CRAVEN COUNTY* | 3700720340B | 04-OCT-2002 | 02-04-8800A | 02
04 | NC | CUMBERLAND COUNTY * | 3700760185B | 14-AUG-2002 | 02-04-7602A | 02
04 | NC | CURRITUCK COUNTY * | 3700780201D | 15-NOV-2002 | 02-04-8830A | 02
04 | NC | CURRITUCK COUNTY * | 3700780214E | 27-NOV-2002 | 02-04-9258A | 02
04 | NC | DARE COUNTY* | 3753480114D | 14-AUG-2002 | 02-04-7620A | 02
04 | NC | DAVIDSON COUNTY * | 37057C0400D | 12-JUL-2002 | 02-04-6954A | 02
04 | NC | DAVIDSON COUNTY * | 37057C0325D | 19-JUL-2002 | 02-04-7328A | 02
04 | NC | DAVIDSON COUNTY * | 37057C0325D | 09-AUG-2002 | 02-04-7864A | 02
04 | NC | DAVIDSON COUNTY * | 37057C0400D | 21-AUG-2002 | 02-04-7644A | 02
04 | NC | DAVIDSON COUNTY * | 37057C0400D | 23-AUG-2002 | 02-04-6990A | 02
04 | NC | DAVIDSON COUNTY * | 37057C0300D | 25-SEP-2002 | 02-04-8608A | 02
04 | NC | DAVIDSON COUNTY * | 37057C0325D | 25-SEP-2002 | 02-04-8828A | 02
04 | NC | DAVIDSON COUNTY * | 37057C0400D | 02-OCT-2002 | 02-04-8658A | 02
04 | NC | DAVIDSON COUNTY * | 37057C0325D | 02-OCT-2002 | 02-04-8662A | 02
04 | NC | DAVIDSON COUNTY * | 37057C0325D | 23-OCT-2002 | 02-04-9444A | 02
04 | NC | DAVIDSON COUNTY * | 37057C0400D | 05-DEC-2002 | 03-04-0910A | 02
04 | NC | DAVIDSON COUNTY * | 37057C0325D | 26-DEC-2002 | 03-04-0520A | 02
04 | NC | DAVIDSON COUNTY * | 37057C0325D | 27-DEC-2002 | 03-04-0522A | 02
04 | NC | DUPLIN COUNTY * | 3700830175B | 23-OCT-2002 | 02-04-7408A | 02
04 | NC | DURHAM COUNTY * | 37063C0040G | 02-AUG-2002 | 02-04-7660A | 02
04 | NC | DURHAM COUNTY * | 37063C0000G | 10-SEP-2002 | 02-04-125P | 05
04 | NC | DURHAM COUNTY * | 37063C0164G | 10-SEP-2002 | 02-04-125P | 05
04 | NC | DURHAM COUNTY * | 37063C0168G | 10-SEP-2002 | 02-04-125P | 05
04 | NC | DURHAM COUNTY * | 37063C0255G | 10-SEP-2002 | 02-04-125P | 05
04 | NC | DURHAM, CITY OF | 37063C0000G | 10-SEP-2002 | 02-04-125P | 05
04 | NC | DURHAM, CITY OF | 37063C0168G | 10-SEP-2002 | 02-04-125P | 05
04 | NC | ELON COLLEGE, TOWN OF | 37001C0084E | 25-OCT-2002 | 02-04-9112A | 02
04 | NC | FAYETTEVILLE, CITY OF | 3700770011C | 02-AUG-2002 | 02-04-7618A | 02
04 | NC | FAYETTEVILLE, CITY OF | 3700770013E | 28-AUG-2002 | 02-04-7512A | 02
04 | NC | FLETCHER, TOWN OF | 3701250020B | 31-JUL-2002 | 02-04-7182A | 01
04 | NC | FORSYTH COUNTY * | 37067C0251H | 25-SEP-2002 | 02-04-6826A | 01
04 | NC | FORSYTH COUNTY * | 37067C0187H | 25-SEP-2002 | 02-04-9012A | 02
04 | NC | FRANKLIN COUNTY* | 37069C0355D | 24-JUL-2002 | 02-04-7478A | 02
04 | NC | FRANKLIN COUNTY* | 37069C0355D | 06-SEP-2002 | 02-04-8668A | 02
04 | NC | FRANKLIN, TOWN OF | 375350—02 | 20-NOV-2002 | 02-04-8614A | 01
04 | NC | GAMEWELL, TOWN OF | 37027C0095D | 13-NOV-2002 | 02-04-8660A | 02
04 | NC | GRAHAM, CITY OF | 37001C0117E | 10-JUL-2002 | 02-04-5496A | 01
04 | NC | GREENSBORO, CITY OF | 3753510009C | 17-SEP-2002 | 02-04-365P | 05
04 | NC | HALIFAX COUNTY * | 3703270005B | 20-NOV-2002 | 02-04-9482A | 02
04 | NC | HENDERSON, CITY OF | 370367—02A | 27-DEC-2002 | 03-04-1088A | 02
04 | NC | HENDERSONVILLE, CITY OF | 3701280001B | 06-SEP-2002 | 02-04-8286A | 02
04 | NC | HICKORY, CITY OF | 3700540010C | 04-OCT-2002 | 02-04-8860A | 02
04 | NC | HIGH POINT, CITY OF | 3701130007C | 14-AUG-2002 | 02-04-5688A | 02
04 | NC | HIGH POINT, CITY OF | 3701130007C | 25-SEP-2002 | 02-04-7332A | 02
04 | NC | HIGH POINT, CITY OF | 3701130009C | 25-OCT-2002 | 02-04-6656A | 01
04 | NC | INDIAN TRAIL, TOWN OF | 37179C0015D | 09-OCT-2002 | 02-04-8916A | 02
04 | NC | IREDELL COUNTY * | 3703130200C | 16-AUG-2002 | 02-04-8206A | 02
04 | NC | KANNAPOLIS, CITY OF | 37025C0040D | 28-AUG-2002 | 02-04-8294A | 02
04 | NC | KINSTON, CITY OF | 3701450005C | 01-NOV-2002 | 03-04-0148A | 02
04 | NC | LINCOLN COUNTY * | 3701460150C | 07-AUG-2002 | 02-04-7458A | 02
04 | NC | LUMBERTON, CITY OF | 37155C0179D | 02-OCT-2002 | 02-04-8496A | 02
04 | NC | MAGGIE VALLEY, TOWN OF | 3703890001B | 12-JUL-2002 | 02-04-5326A | 02
04 | NC | MECKLENBURG COUNTY * | 3701580205B | 17-JUL-2002 | 02-04-6996A | 02
04 | NC | MECKLENBURG COUNTY * | 3701580145B | 21-AUG-2002 | 02-04-6726A | 02
04 | NC | MECKLENBURG COUNTY * | 3701580030D | 12-NOV-2002 | 02-04-469P | 05
04 | NC | MECKLENBURG COUNTY * | 3701580035B | 12-NOV-2002 | 02-04-469P | 05
04 | NC | MECKLENBURG COUNTY * | 3701580210B | 18-DEC-2002 | 02-04-9334A | 02
04 | NC | MINT HILL, TOWN OF | 3701580165B | 27-SEP-2002 | 02-04-8666A | 02
04 | NC | MONROE, CITY OF | 37179C0094C | 03-JUL-2002 | 02-04-5272A | 02
04 | NC | MONTGOMERY COUNTY* | 3703360025B | 24-JUL-2002 | 02-04-7414A | 02
04 | NC | MONTGOMERY COUNTY* | 3703360025B | 02-AUG-2002 | 02-04-7672A | 02
04 | NC | MONTGOMERY COUNTY* | 3703360025B | 09-AUG-2002 | 02-04-7866A | 02
04 | NC | MONTGOMERY COUNTY* | 3703360025B | 09-AUG-2002 | 02-04-7868A | 02
04 | NC | MONTGOMERY COUNTY* | 3703360025B | 16-AUG-2002 | 02-04-8004A | 02
04 | NC | MONTGOMERY COUNTY* | 3703360025B | 21-AUG-2002 | 02-04-6630A | 02
04 | NC | MONTGOMERY COUNTY* | 3703360025B | 21-AUG-2002 | 02-04-8238A | 02
04 | NC | MONTGOMERY COUNTY* | 3703360025B | 23-AUG-2002 | 02-04-8290A | 02
04 | NC | MONTGOMERY COUNTY* | 3703360025B | 18-SEP-2002 | 02-04-8538A | 02
04 | NC | MONTGOMERY COUNTY* | 3703360025B | 25-SEP-2002 | 02-04-9034A | 02
04 | NC | MONTGOMERY COUNTY* | 3703360025B | 27-SEP-2002 | 02-04-9212A | 02
04 | NC | MONTGOMERY COUNTY* | 3703360025B | 02-OCT-2002 | 02-04-8654A | 02
04 | NC | MONTGOMERY COUNTY* | 3703360025B | 02-OCT-2002 | 02-04-8656A | 02
04 | NC | MONTGOMERY COUNTY* | 3703360025B | 02-OCT-2002 | 02-04-8768A | 02
04 | NC | MONTGOMERY COUNTY* | 3703360065B | 30-OCT-2002 | 02-04-9218A | 02
04 | NC | MONTGOMERY COUNTY* | 3703360055B | 01-NOV-2002 | 02-04-9458A | 02
04 | NC | MONTGOMERY COUNTY* | 3703360025B | 15-NOV-2002 | 02-04-8536A | 02
04 | NC | MONTGOMERY COUNTY* | 3703360025B | 11-DEC-2002 | 02-04-9214A | 02
04 | NC | MOORE COUNTY * | 37125C0180C | 07-AUG-2002 | 02-04-4958A | 02
04 | NC | MORGANTON,CITY OF | 3700350001B | 14-AUG-2002 | 02-04-5418A | 01
04 | NC | MORRISVILLE, TOWN OF | 37183C0291E | 01-NOV-2002 | 02-04-8610A | 01
04 | NC | NEW HANOVER COUNTY* | 3701680045E | 21-AUG-2002 | 02-04-8034A | 02
04 | NC | NEWPORT, TOWN OF | 3700490002C | 06-NOV-2002 | 02-04-9210A | 02
04 | NC | NORTH TOPSAIL BEACH, TOWN OF | 3704660010B | 14-AUG-2002 | 02-04-6906A | 02
04 | NC | NORTHAMPTON COUNTY* | 3701730005C | 25-SEP-2002 | 02-04-7808A | 02
04 | NC | ONSLOW COUNTY* | 3703400360C | 14-AUG-2002 | 02-04-7998A | 02
04 | NC | ONSLOW COUNTY* | 3703400366D | 18-SEP-2002 | 02-04-6992A | 02
04 | NC | ONSLOW COUNTY* | 3703400367D | 18-SEP-2002 | 02-04-6992A | 02
04 | NC | ORANGE COUNTY * | 3703420155B | 18-DEC-2002 | 03-04-0482A | 02
04 | NC | PENDER COUNTY* | 3703440125B | 25-OCT-2002 | 02-04-8378A | 02
04 | NC | PENDER COUNTY* | 3703440125B | 25-OCT-2002 | 02-04-8438A | 02
04 | NC | PENDER COUNTY* | 3703440305B | 26-DEC-2002 | 03-04-0356A | 02
04 | NC | PERQUIMANS COUNTY* | 3703150105B | 08-NOV-2002 | 02-04-8802A | 02
04 | NC | PERSON COUNTY* | 37145C0025B | 06-NOV-2002 | 02-04-7708A | 02
04 | NC | PITT COUNTY * | 3703720230B | 26-JUL-2002 | 02-04-5014A | 02
04 | NC | PITT COUNTY * | 3703720250C | 18-SEP-2002 | 02-04-7642A | 02
04 | NC | RALEIGH, CITY OF | 37183C0337E | 25-SEP-2002 | 02-04-3374A | 01
04 | NC | RALEIGH, CITY OF | 37183C0370E | 20-NOV-2002 | 02-04-8000A | 02
04 | NC | RANDOLPH COUNTY * | 3701950100B | 04-DEC-2002 | 02-04-9222A | 02
04 | NC | RANDOLPH COUNTY * | 3701950150B | 06-DEC-2002 | 02-04-7452A | 02
04 | NC | ROBESON COUNTY * | 37155C0250D | 21-AUG-2002 | 02-04-7664A | 02
04 | NC | ROWAN COUNTY * | 3703510120B | 03-JUL-2002 | 02-04-4116A | 02
04 | NC | SANFORD, CITY OF | 37105C0070B | 25-JUL-2002 | 02-04-015P | 05
04 | NC | SANFORD, CITY OF | 37015C0070B | 08-NOV-2002 | 02-04-7088A | 02
04 | NC | SHELBY, CITY OF | 3703020175B | 21-AUG-2002 | 02-04-7780A | 02
04 | NC | SOUTHERN SHORES, TOWN OF | 3704300002C | 27-SEP-2002 | 02-04-8672A | 02
04 | NC | SOUTHERN SHORES, TOWN OF | 3704300001C | 30-OCT-2002 | 02-04-8764A | 01
04 | NC | STANLY COUNTY * | 37167C0050D | 18-OCT-2002 | 02-04-8928A | 02
04 | NC | STANLY COUNTY * | 37167C0050D | 23-OCT-2002 | 02-04-9180A | 02
04 | NC | STANLY COUNTY * | 37167C0175D | 06-NOV-2002 | 02-04-9544A | 02
04 | NC | STANLY COUNTY * | 37167C0125D | 22-NOV-2002 | 02-04-9256A | 02
04 | NC | TARBORO, TOWN OF | 3700940005D | 17-JUL-2002 | 02-04-6128A | 02
04 | NC | TARBORO, TOWN OF | 3700940005D | 01-NOV-2002 | 02-04-9082A | 02
04 | NC | UNION COUNTY * | 37179C0080C | 02-OCT-2002 | 02-04-8958A | 02
04 | NC | WAKE FOREST, TOWN OF | 37183C0176E | 16-OCT-2002 | 02-04-1488A | 01
04 | NC | WAKE FOREST, TOWN OF | 37183C0180E | 16-OCT-2002 | 02-04-1488A | 01
04 | NC | WARREN COUNTY* | 3703960002C | 03-JUL-2002 | 02-04-6658A | 02
04 | NC | WARREN COUNTY* | 3703960002C | 03-JUL-2002 | 02-04-6956A | 02
04 | NC | WARREN COUNTY* | 3703960002C | 10-JUL-2002 | 02-04-5628A | 02
04 | NC | WARREN COUNTY* | 3703960002C | 10-JUL-2002 | 02-04-6074A | 02
04 | NC | WARREN COUNTY* | 3703960002C | 10-JUL-2002 | 02-04-6362A | 02
04 | NC | WARREN COUNTY* | 3703960002C | 12-JUL-2002 | 02-04-5224A | 02
04 | NC | WARREN COUNTY* | 3703960002C | 12-JUL-2002 | 02-04-6340A | 02
04 | NC | WARREN COUNTY* | 3703960002C | 12-JUL-2002 | 02-04-6722A | 02
04 | NC | WARREN COUNTY* | 3703960002C | 12-JUL-2002 | 02-04-6842A | 02
04 | NC | WARREN COUNTY* | 3703960002C | 12-JUL-2002 | 02-04-7164A | 02
04 | NC | WARREN COUNTY* | 3703960002C | 17-JUL-2002 | 02-04-6482A | 02
04 | NC | WARREN COUNTY* | 3703960002C | 17-JUL-2002 | 02-04-6554A | 02
04 | NC | WARREN COUNTY* | 3703960002C | 17-JUL-2002 | 02-04-6902A | 02
04 | NC | WARREN COUNTY* | 3703960002C | 19-JUL-2002 | 02-04-4352A | 02
04 | NC | WARREN COUNTY* | 3703960002C | 26-JUL-2002 | 02-04-7616A | 02
04 | NC | WARREN COUNTY* | 3703960002C | 31-JUL-2002 | 02-04-7640A | 02
04 | NC | WARREN COUNTY* | 3703960002C | 02-AUG-2002 | 02-04-5930A | 02
04 | NC | WARREN COUNTY* | 3703960002C | 02-AUG-2002 | 02-04-6594A | 02
04 | NC | WARREN COUNTY* | 3703960002C | 02-AUG-2002 | 02-04-7480A | 02
04 | NC | WARREN COUNTY* | 3703960002C | 02-AUG-2002 | 02-04-7666A | 02
04 | NC | WARREN COUNTY* | 3703960002C | 07-AUG-2002 | 02-04-7668A | 02
04 | NC | WARREN COUNTY* | 3703960002C | 07-AUG-2002 | 02-04-7670A | 02
04 | NC | WARREN COUNTY* | 3703960002C | 07-AUG-2002 | 02-04-7806A | 02
04 | NC | WARREN COUNTY* | 3703960002C | 09-AUG-2002 | 02-04-6864A | 02
04 | NC | WARREN COUNTY* | 3703960001B | 09-AUG-2002 | 02-04-7674A | 02
04 | NC | WARREN COUNTY* | 3703960002C | 09-AUG-2002 | 02-04-7872A | 02
04 | NC | WARREN COUNTY* | 3703960002C | 14-AUG-2002 | 02-04-8010A | 02
04 | NC | WARREN COUNTY* | 3703960002C | 14-AUG-2002 | 02-04-8068A | 02
04 | NC | WARREN COUNTY* | 3703960002C | 16-AUG-2002 | 02-04-6556A | 02
04 | NC | WARREN COUNTY* | 3703960002C | 16-AUG-2002 | 02-04-7870A | 02
04 | NC | WARREN COUNTY* | 3703960002C | 16-AUG-2002 | 02-04-8008A | 02
04 | NC | WARREN COUNTY* | 3703960002C | 16-AUG-2002 | 02-04-8066A | 02
04 | NC | WARREN COUNTY* | 3703960002C | 21-AUG-2002 | 02-04-7410A | 02
04 | NC | WARREN COUNTY* | 3703960002C | 21-AUG-2002 | 02-04-8236A | 02
04 | NC | WARREN COUNTY* | 3703960002C | 21-AUG-2002 | 02-04-8284A | 02
04 | NC | WARREN COUNTY* | 3703960002C | 28-AUG-2002 | 02-04-8234A | 02
04 | NC | WARREN COUNTY* | 3703960002C | 28-AUG-2002 | 02-04-8358A | 02
04 | NC | WARREN COUNTY* | 3703960002C | 28-AUG-2002 | 02-04-8442A | 02
04 | NC | WARREN COUNTY* | 3703960002C | 30-AUG-2002 | 02-04-8444A | 02
04 | NC | WARREN COUNTY* | 3703960002C | 30-AUG-2002 | 02-04-8446A | 02
04 | NC | WARREN COUNTY* | 3703960002C | 06-SEP-2002 | 02-04-8618A | 02
04 | NC | WARREN COUNTY* | 3703960002C | 13-SEP-2002 | 02-04-7874A | 02
04 | NC | WARREN COUNTY* | 3703960002C | 20-SEP-2002 | 02-04-6922A | 02
04 | NC | WARREN COUNTY* | 3703960002C | 20-SEP-2002 | 02-04-7058A | 02
04 | NC | WARREN COUNTY* | 3703960002C | 20-SEP-2002 | 02-04-7322A | 02
04 | NC | WARREN COUNTY* | 3703960002C | 20-SEP-2002 | 02-04-7324A | 02
04 | NC | WARREN COUNTY* | 3703960002C | 25-SEP-2002 | 02-04-7038A | 02
04 | NC | WARREN COUNTY* | 3703960002C | 25-SEP-2002 | 02-04-7476A | 02
04 | NC | WARREN COUNTY* | 3703960002C | 25-SEP-2002 | 02-04-7508A | 02
04 | NC | WARREN COUNTY* | 3703960002C | 27-SEP-2002 | 02-04-8414A | 02
04 | NC | WARREN COUNTY* | 3703960002C | 02-OCT-2002 | 02-04-8412A | 02
04 | NC | WARREN COUNTY* | 3703960002C | 02-OCT-2002 | 02-04-9116A | 02
04 | NC | WARREN COUNTY* | 3703960002C | 02-OCT-2002 | 02-04-9220A | 02
04 | NC | WARREN COUNTY* | 3703960002C | 04-OCT-2002 | 02-04-6900A | 02
04 | NC | WARREN COUNTY* | 3703960002C | 04-OCT-2002 | 02-04-9396A | 02
04 | NC | WARREN COUNTY* | 3703960002C | 04-OCT-2002 | 02-04-9398A | 02
04 | NC | WARREN COUNTY* | 3703960002C | 09-OCT-2002 | 02-04-8440A | 02
04 | NC | WARREN COUNTY* | 3703960002C | 16-OCT-2002 | 02-04-7810A | 02
04 | NC | WARREN COUNTY* | 3703960002C | 18-OCT-2002 | 02-04-8616A | 02
04 | NC | WARREN COUNTY* | 3703960002C | 18-OCT-2002 | 02-04-9000A | 02
04 | NC | WARREN COUNTY* | 3703960002C | 18-OCT-2002 | 02-04-9036A | 02
04 | NC | WARREN COUNTY* | 3703960002C | 18-OCT-2002 | 02-04-9198A | 02
04 | NC | WARREN COUNTY* | 3703960002C | 18-OCT-2002 | 02-04-9204A | 02
04 | NC | WARREN COUNTY* | 3703960002C | 23-OCT-2002 | 02-04-9002A | 02
04 | NC | WARREN COUNTY* | 3703960002C | 30-OCT-2002 | 02-04-9206A | 02
04 | NC | WARREN COUNTY* | 3703960002C | 30-OCT-2002 | 02-04-9332A | 02
04 | NC | WARREN COUNTY* | 3703960002C | 30-OCT-2002 | 03-04-0276A | 02
04 | NC | WARREN COUNTY* | 3703960002C | 06-NOV-2002 | 02-04-9446A | 02
04 | NC | WARREN COUNTY* | 3703960002C | 06-NOV-2002 | 03-04-0462A | 02
04 | NC | WARREN COUNTY* | 3703960002C | 20-NOV-2002 | 02-04-8932A | 02
04 | NC | WARREN COUNTY* | 3703960002C | 20-NOV-2002 | 02-04-9154A | 02
04 | NC | WARREN COUNTY* | 3703960002C | 20-NOV-2002 | 02-04-9414A | 02
04 | NC | WARREN COUNTY* | 3703960002C | 22-NOV-2002 | 02-04-9216A | 02
04 | NC | WARREN COUNTY* | 3703960001B | 27-NOV-2002 | 02-04-9336A | 02
04 | NC | WARREN COUNTY* | 5101890200A | 27-NOV-2002 | 02-04-9336A | 02
04 | NC | WARREN COUNTY* | 3703960002C | 27-NOV-2002 | 03-04-0044A | 02
04 | NC | WARREN COUNTY* | 3703960002C | 27-NOV-2002 | 03-04-0088A | 02
04 | NC | WARREN COUNTY* | 3703960002C | 04-DEC-2002 | 02-04-7454A | 02
04 | NC | WARREN COUNTY* | 3703960002C | 06-DEC-2002 | 03-04-0478A | 02
04 | NC | WARREN COUNTY* | 3703960002C | 06-DEC-2002 | 03-04-1250A | 02
04 | NC | WARREN COUNTY* | 3703960002C | 26-DEC-2002 | 03-04-0086A | 02
04 | NC | WENDELL, TOWN OF | 37183C0605E | 10-JUL-2002 | 02-04-2310A | 01
04 | NC | WILKES COUNTY * | 3702560175D | 17-JUL-2002 | 02-04-5376A | 02
04 | NC | WILKES COUNTY * | 3702560175D | 18-DEC-2002 | 03-04-0336A | 02
04 | NC | WILMINGTON, CITY OF | 3701680091E | 30-AUG-2002 | 02-04-8074A | 02
04 | NC | WINSTON-SALEM, CITY OF | 37067C0139H | 24-JUL-2002 | 02-04-6634A | 01
04 | NC | WINSTON-SALEM, CITY OF | 37067C0267H | 21-AUG-2002 | 02-04-6718A | 02
04 | NC | WINSTON-SALEM, CITY OF | 37067C0267H | 02-OCT-2002 | 02-04-7782A | 01
04 | NC | WINSTON-SALEM, CITY OF | 37067C0141H | 04-DEC-2002 | 02-04-9378A | 01
04 | SC | AIKEN COUNTY* | 4500020040B | 06-SEP-2002 | 02-04-8746A | 01
04 | SC | ANDERSON COUNTY * | 4500130240B | 10-JUL-2002 | 02-04-4700A | 02
04 | SC | ANDERSON COUNTY * | 4500130360B | 09-AUG-2002 | 02-04-6092A | 02
04 | SC | ARCADIA LAKES, TOWN OF | 45079C0111G | 10-JUL-2002 | 02-04-7022X | 02
04 | SC | BEAUFORT COUNTY* | 4500250090D | 25-OCT-2002 | 02-04-9524A | 02
04 | SC | BERKELEY COUNTY * | 4500290320C | 06-SEP-2002 | 02-04-6924A | 02
04 | SC | BERKELEY COUNTY * | 4500290290C | 02-OCT-2002 | 02-04-8714A | 02
04 | SC | CAMDEN, CITY OF | 45055C0426D | 06-NOV-2002 | 03-04-0142A | 02
04 | SC | CHARLESTON COUNTY* | 4554130405G | 01-JUL-2002 | 02-04-3088A | 02
04 | SC | CHARLESTON COUNTY* | 4554130291G | 19-JUL-2002 | 02-04-6534A | 02
04 | SC | CHARLESTON COUNTY* | 4554130228G | 20-NOV-2002 | 02-04-9400A | 02
04 | SC | CHESTERFIELD COUNTY* | 4502280200B | 23-AUG-2002 | 02-04-6744A | 02
04 | SC | CHESTERFIELD COUNTY* | 4502280200B | 04-OCT-2002 | 02-04-7886A | 02
04 | SC | CLARENDON COUNTY * | 4500510250B | 03-JUL-2002 | 02-04-5252A | 02
04 | SC | COLUMBIA, CITY OF | 45079C0178H | 07-AUG-2002 | 02-04-5588A | 01
04 | SC | COLUMBIA, CITY OF | 45079C0178H | 14-AUG-2002 | 02-04-7448A | 02
04 | SC | COLUMBIA, CITY OF | 45079C0176G | 28-AUG-2002 | 02-04-7716A | 17
04 | SC | COLUMBIA, CITY OF | 45079C0092H | 06-NOV-2002 | 02-04-6490A | 01
04 | SC | CONWAY, TOWN OF | 45051C0530H | 16-AUG-2002 | 02-04-1970A | 02
04 | SC | FAIRFIELD COUNTY * | 4500750135B | 07-AUG-2002 | 02-04-5452A | 02
04 | SC | FAIRFIELD COUNTY * | 4500750135B | 06-DEC-2002 | 03-04-0884A | 02
04 | SC | FLORENCE COUNTY * | 4500760030B | 06-NOV-2002 | 02-04-8810A | 02
04 | SC | GEORGETOWN COUNTY * | 4500850200D | 19-JUL-2002 | 02-04-4670A | 02
04 | SC | GEORGETOWN COUNTY * | 4500850166E | 12-AUG-2002 | 02-04-441P | 05
04 | SC | GEORGETOWN COUNTY * | 4500850230D | 28-AUG-2002 | 02-04-6536A | 02
04 | SC | GEORGETOWN COUNTY * | 4500850240D | 02-OCT-2002 | 02-04-8062A | 02
04 | SC | GOOSE CREEK, CITY OF | 4500290290C | 03-JUL-2002 | 02-04-6184A | 02
04 | SC | GOOSE CREEK, CITY OF | 4500290290C | 24-JUL-2002 | 02-04-7190A | 02
04 | SC | GOOSE CREEK, CITY OF | 4500290290C | 09-OCT-2002 | 02-04-8218A | 02
04 | SC | GOOSE CREEK, CITY OF | 4500290290C | 23-OCT-2002 | 02-04-9472A | 02
04 | SC | GOOSE CREEK, CITY OF | 4500290290C | 30-OCT-2002 | 02-04-9148A | 02
04 | SC | GOOSE CREEK, CITY OF | 4500290355C | 08-NOV-2002 | 02-04-9572A | 02
04 | SC | GOOSE CREEK, CITY OF | 4502060005A | 26-DEC-2002 | 03-04-0268A | 02
04 | SC | GREENVILLE COUNTY * | 4500890205B | 03-JUL-2002 | 02-04-6416A | 02
04 | SC | GREENVILLE COUNTY * | 4500890165B | 06-SEP-2002 | 02-04-6706A | 02
04 | SC | GREENVILLE COUNTY * | 4500890180B | 13-NOV-2002 | 02-04-8272A | 02
04 | SC | HARLEYVILLE, TOWN OF | 450070—01B | 26-DEC-2002 | 02-04-3236A | 01
04 | SC | HONEA PATH, TOWN OF | 4500160001A | 27-SEP-2002 | 02-04-8140A | 02
04 | SC | HORRY COUNTY * | 45051C0500H | 31-JUL-2002 | 02-04-7152A | 02
04 | SC | HORRY COUNTY * | 45051C0500H | 16-AUG-2002 | 02-04-7208A | 02
04 | SC | HORRY COUNTY * | 45051C0665H | 26-SEP-2002 | 02-04-297P | 05
04 | SC | HORRY COUNTY * | 45051C0582H | 23-OCT-2002 | 02-04-3682A | 02
04 | SC | KERSHAW COUNTY * | 45055C0394D | 09-OCT-2002 | 02-04-8224A | 02
04 | SC | LEXINGTON COUNTY * | 45063C0133G | 12-JUL-2002 | 02-04-6484A | 02
04 | SC | LEXINGTON COUNTY * | 45063C0139G | 26-JUL-2002 | 01-04-501P | 05
04 | SC | LEXINGTON COUNTY * | 45063C0139G | 09-AUG-2002 | 02-04-4688A | 02
04 | SC | LEXINGTON COUNTY * | 45063C0114G | 13-SEP-2002 | 02-04-6276A | 02
04 | SC | LEXINGTON COUNTY * | 45063C0139G | 13-SEP-2002 | 02-04-8012A | 02
04 | SC | LEXINGTON COUNTY * | 45063C0139G | 18-SEP-2002 | 02-04-8338A | 02
04 | SC | LEXINGTON COUNTY * | 45063C0114G | 27-SEP-2002 | 02-04-8254A | 02
04 | SC | LEXINGTON COUNTY * | 45063C0117G | 09-OCT-2002 | 02-04-8716A | 02
04 | SC | LEXINGTON COUNTY * | 45063C0139G | 06-NOV-2002 | 02-04-7566A | 02
04 | SC | MARLBORO COUNTY | 4501460075B | 18-SEP-2002 | 02-04-5448A | 02
04 | SC | MCCORMICK COUNTY * | 4502260005A | 06-NOV-2002 | 02-04-7570A | 02
04 | SC | MCCORMICK COUNTY * | 4502260005A | 06-NOV-2002 | 02-04-9600A | 02
04 | SC | MCCORMICK COUNTY * | 4502260005B | 06-NOV-2002 | 02-04-9600A | 02
04 | SC | MEGGETT, TOWN OF | 4500400005C | 02-AUG-2002 | 02-04-6912A | 02
04 | SC | MOUNT PLEASANT, TOWN OF | 4554130245F | 25-OCT-2002 | 02-04-9556A | 02
04 | SC | MOUNT PLEASANT, TOWN OF | 4554170005E | 18-DEC-2002 | 03-04-0536A | 02
04 | SC | NEWBERRY COUNTY* | 4502240225B | 17-JUL-2002 | 02-04-5814A | 02
04 | SC | NEWBERRY COUNTY* | 4502240225B | 24-JUL-2002 | 02-04-6352A | 02
04 | SC | NEWBERRY COUNTY* | 4502240225B | 07-AUG-2002 | 02-04-6848A | 02
04 | SC | NEWBERRY COUNTY* | 4502240225B | 14-AUG-2002 | 02-04-7354A | 02
04 | SC | NEWBERRY COUNTY* | 4502240225B | 18-SEP-2002 | 02-04-5532A | 02
04 | SC | NEWBERRY COUNTY* | 4502240225B | 30-OCT-2002 | 02-04-7724A | 02
04 | SC | NEWBERRY COUNTY* | 4502240225B | 30-OCT-2002 | 02-04-9152A | 02
04 | SC | NEWBERRY COUNTY* | 4502240225B | 06-NOV-2002 | 02-04-9470A | 02
04 | SC | NEWBERRY COUNTY* | 4502240095B | 06-NOV-2002 | 03-04-0188A | 02
04 | SC | PORT ROYAL, CITY OF | 4500250095D | 30-OCT-2002 | 02-04-7726A | 02
04 | SC | RICHLAND COUNTY* | 45079C0025H | 03-JUL-2002 | 02-04-5978A | 02
04 | SC | RICHLAND COUNTY* | 45079C0025H | 12-JUL-2002 | 02-04-5966A | 02
04 | SC | RICHLAND COUNTY* | 45079C0025H | 12-JUL-2002 | 02-04-6298A | 02
04 | SC | RICHLAND COUNTY* | 45079C0025H | 12-JUL-2002 | 02-04-6636A | 02
04 | SC | RICHLAND COUNTY* | 45079C0025H | 12-JUL-2002 | 02-04-6784A | 02
04 | SC | RICHLAND COUNTY* | 45079C0185G | 19-JUL-2002 | 02-04-4950A | 02
04 | SC | RICHLAND COUNTY* | 45079C0025H | 24-JUL-2002 | 02-04-5590A | 02
04 | SC | RICHLAND COUNTY* | 45079C0025H | 24-JUL-2002 | 02-04-6498A | 02
04 | SC | RICHLAND COUNTY* | 45079C0025H | 24-JUL-2002 | 02-04-6638A | 02
04 | SC | RICHLAND COUNTY* | 45079C0025H | 31-JUL-2002 | 02-04-5690A | 02
04 | SC | RICHLAND COUNTY* | 45079C0065G | 07-AUG-2002 | 02-04-5202A | 01
04 | SC | RICHLAND COUNTY* | 45079C0025H | 23-AUG-2002 | 02-04-2042A | 02
04 | SC | RICHLAND COUNTY* | 45079C0111G | 31-AUG-2002 | 02-04-401P | 05
04 | SC | RICHLAND COUNTY* | 45079C0110H | 04-SEP-2002 | 02-04-7472A | 02
04 | SC | RICHLAND COUNTY* | 45079C0025H | 13-SEP-2002 | 02-04-7034A | 02
04 | SC | RICHLAND COUNTY* | 45079C0025H | 13-SEP-2002 | 02-04-7104A | 02
04 | SC | RICHLAND COUNTY* | 45079C0025H | 13-SEP-2002 | 02-04-8098A | 02
04 | SC | RICHLAND COUNTY* | 45079C0025H | 18-SEP-2002 | 02-04-7424A | 02
04 | SC | RICHLAND COUNTY* | 45079C0025H | 18-SEP-2002 | 02-04-8390A | 02
04 | SC | RICHLAND COUNTY* | 45079C0025H | 18-SEP-2002 | 02-04-8422A | 02
04 | SC | RICHLAND COUNTY* | 45079C0025H | 25-SEP-2002 | 02-04-7764A | 02
04 | SC | RICHLAND COUNTY* | 45079C0025H | 25-SEP-2002 | 02-04-8136A | 02
04 | SC | RICHLAND COUNTY* | 45079C0025H | 25-SEP-2002 | 02-04-8302A | 02
04 | SC | RICHLAND COUNTY* | 45079C0025H | 09-OCT-2002 | 02-04-8546A | 02
04 | SC | RICHLAND COUNTY* | 45079C0025H | 23-OCT-2002 | 02-04-8964A | 02
04 | SC | RICHLAND COUNTY* | 45079C0025H | 25-OCT-2002 | 02-04-7308A | 01
04 | SC | RICHLAND COUNTY* | 45079C0025H | 06-NOV-2002 | 03-04-0060A | 02
04 | SC | RICHLAND COUNTY* | 45079C0025H | 06-NOV-2002 | 03-04-0090A | 02
04 | SC | RICHLAND COUNTY* | 45079C0025H | 08-NOV-2002 | 02-04-8022A | 02
04 | SC | RICHLAND COUNTY* | 45079C0025H | 13-NOV-2002 | 02-04-8878A | 02
04 | SC | RICHLAND COUNTY* | 45079C0040H | 13-NOV-2002 | 03-04-0234A | 02
04 | SC | RICHLAND COUNTY* | 45079C0025H | 20-NOV-2002 | 02-04-8388A | 02
04 | SC | RICHLAND COUNTY* | 45079C0025H | 26-DEC-2002 | 03-04-0882A | 02
04 | SC | SALUDA COUNTY* | 4502300002B | 28-AUG-2002 | 02-04-7470A | 02
04 | SC | SALUDA COUNTY* | 4502300002B | 13-NOV-2002 | 03-04-0140A | 02
04 | SC | SALUDA COUNTY* | 4502300002B | 18-DEC-2002 | 03-04-0842A | 02
04 | SC | SPARTANBURG COUNTY * | 4501760075B | 28-AUG-2002 | 02-04-5402A | 02
04 | SC | SPARTANBURG COUNTY * | 4501760075B | 02-OCT-2002 | 02-04-3182A | 02
04 | SC | SPARTANBURG COUNTY * | 4501760151B | 18-DEC-2002 | 02-04-9574A | 02
04 | SC | SUMMERVILLE, TOWN OF | 4500680245C | 28-AUG-2002 | 02-04-7302A | 02
04 | SC | SUMTER COUNTY * | 4501820180C | 09-OCT-2002 | 02-04-9192A | 02
04 | SC | SUMTER COUNTY * | 4501820090C | 30-OCT-2002 | 03-04-0120A | 02
04 | SC | WEST COLUMBIA, CITY OF | 45063C0164G | 27-SEP-2002 | 02-04-7238A | 02
04 | SC | WEST COLUMBIA, CITY OF | 45063C0164G | 27-SEP-2002 | 02-04-7892A | 02
04 | SC | WILLIAMSBURG COUNTY * | 4501870175B | 07-AUG-2002 | 02-04-5442A | 02
04 | SC | YORK COUNTY * | 4501930050B | 19-JUL-2002 | 02-04-6090A | 02
04 | SC | YORK COUNTY * | 4501930050B | 02-AUG-2002 | 02-04-7264A | 02
04 | SC | YORK COUNTY * | 4501930125C | 18-SEP-2002 | 02-04-6670A | 02
04 | SC | YORK COUNTY * | 4501930050B | 02-OCT-2002 | 02-04-7212A | 02
04 | SC | YORK COUNTY * | 4501930050B | 09-OCT-2002 | 02-04-8420A | 02
04 | SC | YORK COUNTY * | 4501930050B | 08-NOV-2002 | 02-04-4492A | 02
04 | SC | YORK COUNTY * | 4501930050B | 20-NOV-2002 | 02-04-8210A | 02
04 | TN | ANDERSON COUNTY * | 4702170075C | 23-OCT-2002 | 02-04-6868A | 02
04 | TN | ANDERSON COUNTY * | 4702170075C | 08-NOV-2002 | 03-04-0828A | 02
04 | TN | ARLINGTON, TOWNSHIP OF | 47157C0120E | 04-OCT-2002 | 02-04-8252A | 01
04 | TN | BELLE MEADE, CITY OF | 47037C0327 | 13-SEP-2002 | 02-04-7758A | 02
04 | TN | BENTON COUNTY | 4702180125B | 17-JUL-2002 | 02-04-5724A | 02
04 | TN | BENTON COUNTY | 4702180025B | 26-JUL-2002 | 02-04-5150A | 02
04 | TN | BENTON COUNTY | 4702180025B | 20-DEC-2002 | 03-04-0374A | 02
04 | TN | BLOUNT COUNTY * | 4703560025B | 17-JUL-2002 | 02-04-6942A | 02
04 | TN | BLOUNT COUNTY * | 4703560050B | 24-JUL-2002 | 02-04-4042A | 02
04 | TN | BLOUNT COUNTY * | 4703560050B | 09-OCT-2002 | 02-04-9194A | 02
04 | TN | BLOUNT COUNTY * | 4703560025B | 08-NOV-2002 | 02-04-7148A | 02
04 | TN | BLOUNT COUNTY * | 4703560050B | 20-DEC-2002 | 03-04-0492A | 02
04 | TN | BLOUNT COUNTY * | 4703560025B | 20-DEC-2002 | 03-04-1154A | 02
04 | TN | BRADLEY COUNTY * | 4703570075B | 25-SEP-2002 | 02-04-6510A | 02
04 | TN | BRENTWOOD, CITY OF | 4702050005C | 06-SEP-2002 | 02-04-2558A | 02
04 | TN | BRENTWOOD, CITY OF | 4702050010C | 13-SEP-2002 | 02-04-6702A | 02
04 | TN | BRENTWOOD, CITY OF | 4702050005C | 18-SEP-2002 | 02-04-7542A | 02
04 | TN | BRENTWOOD, CITY OF | 4702050005C | 27-SEP-2002 | 02-04-6782A | 02
04 | TN | BRENTWOOD, CITY OF | 4702050005C | 13-NOV-2002 | 02-04-6178A | 01
04 | TN | CHATTANOOGA, CITY OF | 4700720015B | 03-JUL-2002 | 02-04-6034A | 02
04 | TN | CHATTANOOGA, CITY OF | 4700720028D | 02-AUG-2002 | 02-04-5148A | 02
04 | TN | CHATTANOOGA, CITY OF | 4700720009A | 07-AUG-2002 | 02-04-7150A | 01
04 | TN | CHATTANOOGA, CITY OF | 4700720029E | 16-AUG-2002 | 02-04-8048A | 01
04 | TN | CHATTANOOGA, CITY OF | 4700720029E | 18-OCT-2002 | 02-04-8362A | 02
04 | TN | CHATTANOOGA, CITY OF | 47065C0237F | 08-NOV-2002 | 02-04-9508V | 19
04 | TN | CHATTANOOGA, CITY OF | 47065C0238F | 08-NOV-2002 | 02-04-9508V | 19
04 | TN | CHATTANOOGA, CITY OF | 47065C0239F | 08-NOV-2002 | 02-04-9508V | 19
04 | TN | CHATTANOOGA, CITY OF | 47065C0327F | 08-NOV-2002 | 02-04-9508V | 19
04 | TN | CHATTANOOGA, CITY OF | 47065C0332F | 08-NOV-2002 | 02-04-9508V | 19
04 | TN | CHATTANOOGA, CITY OF | 47065C0333F | 08-NOV-2002 | 02-04-9508V | 19
04 | TN | CHATTANOOGA, CITY OF | 47065C0334F | 08-NOV-2002 | 02-04-9508V | 19
04 | TN | CHATTANOOGA, CITY OF | 47065C0336F | 08-NOV-2002 | 02-04-9508V | 19
04 | TN | CHATTANOOGA, CITY OF | 47065C0341F | 08-NOV-2002 | 02-04-9508V | 19
04 | TN | CHATTANOOGA, CITY OF | 47065C0343F | 08-NOV-2002 | 02-04-9508V | 19
04 | TN | CHATTANOOGA, CITY OF | 47065C0351F | 08-NOV-2002 | 02-04-9508V | 19
04 | TN | CHATTANOOGA, CITY OF | 47065C0352F | 08-NOV-2002 | 02-04-9508V | 19
04 | TN | CHATTANOOGA, CITY OF | 47065C0353F | 08-NOV-2002 | 02-04-9508V | 19
04 | TN | CHATTANOOGA, CITY OF | 47065C0362F | 08-NOV-2002 | 02-04-9508V | 19
04 | TN | CHATTANOOGA, CITY OF | 47065C0363F | 08-NOV-2002 | 02-04-9508V | 19
04 | TN | CHATTANOOGA, CITY OF | 47065C0366F | 08-NOV-2002 | 02-04-9508V | 19
04 | TN | CHATTANOOGA, CITY OF | 47065C0367F | 08-NOV-2002 | 02-04-9508V | 19
04 | TN | CHATTANOOGA, CITY OF | 47065C0368F | 08-NOV-2002 | 02-04-9508V | 19
04 | TN | CHATTANOOGA, CITY OF | 47065C0369F | 08-NOV-2002 | 02-04-9508V | 19
04 | TN | CHATTANOOGA, CITY OF | 47065C0481F | 08-NOV-2002 | 02-04-9508V | 19
04 | TN | CHATTANOOGA, CITY OF | 47065C0366F | 27-NOV-2002 | 02-04-9474A | 02
04 | TN | CHATTANOOGA, CITY OF | 47065C0366F | 27-NOV-2002 | 02-04-9476A | 02
04 | TN | CHATTANOOGA, CITY OF | 47065C0327F | 04-DEC-2002 | 02-04-8848A | 02
04 | TN | CHATTANOOGA, CITY OF | 47065C0366F | 18-DEC-2002 | 02-04-9054A | 01
04 | TN | CLARKSVILLE, CITY OF | 4701370015C | 30-OCT-2002 | 02-04-8060A | 02
04 | TN | CLARKSVILLE, CITY OF | 4701370004C | 13-NOV-2002 | 02-04-7732A | 02
04 | TN | CLARKSVILLE, CITY OF | 4701370004C | 13-NOV-2002 | 03-04-0198A | 02
04 | TN | CLAY COUNTY * | 4703820005A | 04-SEP-2002 | 02-04-6538A | 02
04 | TN | CLEVELAND, CITY OF | 4700150004D | 31-JUL-2002 | 02-04-5622A | 02
04 | TN | COCKE COUNTY* | 47029C0085D | 24-JUL-2002 | 02-04-6480A | 02
04 | TN | COFFEE COUNTY * | 4703550002A | 13-NOV-2002 | 02-04-9580A | 02
04 | TN | COLLIERVILLE, TOWN OF | 47157C0245E | 27-SEP-2002 | 02-04-8512A | 02
04 | TN | COLLIERVILLE, TOWN OF | 47157C0245E | 09-OCT-2002 | 02-04-7082A | 02
04 | TN | COLLIERVILLE, TOWN OF | 47157C0240E | 06-NOV-2002 | 02-04-9490A | 01
04 | TN | COLLIERVILLE, TOWN OF | 47157C0295E | 04-DEC-2002 | 02-04-9412A | 02
04 | TN | COLUMBIA, CITY OF | 4754230007D | 02-OCT-2002 | 02-04-9242A | 02
04 | TN | DECATUR COUNTY* | 4700410004C | 26-JUL-2002 | 02-04-7368A | 02
04 | TN | DECATUR COUNTY* | 4700410004C | 25-SEP-2002 | 02-04-7044A | 02
04 | TN | DECATUR COUNTY* | 4700410004C | 23-OCT-2002 | 02-04-8866A | 02
04 | TN | DECATUR COUNTY* | 4700410004C | 20-NOV-2002 | 02-04-8906A | 02
04 | TN | EAST RIDGE, CITY OF | 47065C0364F | 08-NOV-2002 | 03-04-0284V | 19
04 | TN | EAST RIDGE, CITY OF | 47065C0476F | 08-NOV-2002 | 03-04-0284V | 19
04 | TN | EAST RIDGE, CITY OF | 47065C0477F | 08-NOV-2002 | 03-04-0284V | 19
04 | TN | FAYETTE COUNTY* | 4703520160B | 28-AUG-2002 | 02-04-147P | 05
04 | TN | FRANKLIN, CITY OF | 4702060004D | 24-JUL-2002 | 02-04-5742A | 02
04 | TN | FRANKLIN, CITY OF | 4702060004D | 16-OCT-2002 | 02-04-7376A | 02
04 | TN | GALLATIN, CITY OF | 47165C0314D | 22-NOV-2002 | 03-04-0626V | 19
04 | TN | GALLATIN, CITY OF | 47165C0426D | 22-NOV-2002 | 03-04-0626V | 19
04 | TN | GERMANTOWN, CITY OF | 47157C0235E | 27-SEP-2002 | 02-04-8160A | 01
04 | TN | GIBSON COUNTY * | 4703590225B | 10-JUL-2002 | 02-04-5258A | 02
04 | TN | GOODLETTSVILLE, CITY OF | 47037C0129F | 22-NOV-2002 | 02-04-039P | 05
04 | TN | GOODLETTSVILLE, CITY OF | 47165C0383D | 22-NOV-2002 | 03-04-039P | 05
04 | TN | HAMILTON COUNTY * | 4700710135D | 12-JUL-2002 | 02-04-5146A | 02
04 | TN | HAMILTON COUNTY * | 47065C0109F | 08-NOV-2002 | 03-04-0280V | 19
04 | TN | HAMILTON COUNTY * | 47065C0236F | 08-NOV-2002 | 03-04-0280V | 19
04 | TN | HAMILTON COUNTY * | 47065C0237F | 08-NOV-2002 | 03-04-0280V | 19
04 | TN | HAMILTON COUNTY * | 47065C0241F | 08-NOV-2002 | 03-04-0280V | 19
04 | TN | HAMILTON COUNTY * | 47065C0270F | 08-NOV-2002 | 03-04-0280V | 19
04 | TN | HAMILTON COUNTY * | 47065C0379F | 08-NOV-2002 | 03-04-0280V | 19
04 | TN | HAMILTON COUNTY * | 47065C0388F | 08-NOV-2002 | 03-04-0280V | 19
04 | TN | HARDIN COUNTY* | 4700820075C | 26-JUL-2002 | 02-04-6870A | 02
04 | TN | HARDIN COUNTY* | 4700820175C | 28-AUG-2002 | 02-04-8262A | 02
04 | TN | HARDIN COUNTY* | 4700820075C | 04-SEP-2002 | 02-04-8510A | 02
04 | TN | HENDERSONVILLE, CITY OF | 47165C0401D | 22-NOV-2002 | 03-04-0624V | 19
04 | TN | HENDERSONVILLE, CITY OF | 47165C0403D | 22-NOV-2002 | 03-04-0624V | 19
04 | TN | HENRY COUNTY | 47079C0225D | 12-JUL-2002 | 02-04-4272A | 02
04 | TN | HENRY COUNTY | 47079C0325D | 13-SEP-2002 | 02-04-6176A | 02
04 | TN | HENRY COUNTY | 47079C0195D | 11-DEC-2002 | 02-04-8782A | 02
04 | TN | JASPER, TOWN OF | 475429—04B | 20-NOV-2002 | 02-04-8966A | 01
04 | TN | KIMBALL, TOWN OF | 4701160001B | 17-JUL-2002 | 02-04-6108A | 02
04 | TN | KINGSPORT, CITY OF | 4701840035C | 12-JUL-2002 | 02-04-5306A | 02
04 | TN | KINGSPORT, CITY OF | 4701840035C | 13-NOV-2002 | 02-04-7788A | 02
04 | TN | KNOX COUNTY * | 4754330085B | 10-JUL-2002 | 02-04-5460A | 02
04 | TN | KNOX COUNTY * | 4754330045B | 24-JUL-2002 | 02-04-7248A | 02
04 | TN | KNOX COUNTY * | 4754330045B | 18-DEC-2002 | 02-04-9578A | 02
04 | TN | KNOX COUNTY * | 4754330080B | 18-DEC-2002 | 03-04-0938A | 02
04 | TN | KNOXVILLE, CITY OF | 4754340010B | 01-NOV-2002 | 02-04-7884A | 02
04 | TN | KNOXVILLE, CITY OF | 4754340020B | 27-NOV-2002 | 02-04-9188A | 02
04 | TN | LEBANON, CITY OF | 4702080010C | 22-JUL-2002 | 02-04-185P | 05
04 | TN | LEWIS COUNTY * | 4701030003A | 21-AUG-2002 | 02-04-5998A | 02
04 | TN | LEWISBURG, CITY OF | 47117C0134C | 04-DEC-2002 | 02-04-9340A | 01
04 | TN | MADISON COUNTY * | 47113C0255D | 24-JUL-2002 | 02-04-6978A | 01
04 | TN | MARSHALL COUNTY* | 47117C0100C | 30-OCT-2002 | 02-04-7446A | 02
04 | TN | MCMINN COUNTY* | 4701260125B | 27-NOV-2002 | 02-04-7352A | 02
04 | TN | MCMINN COUNTY* | 4701260175B | 18-DEC-2002 | 03-04-0486A | 02
04 | TN | MCMINN COUNTY* | 4701260250B | 27-DEC-2002 | 03-04-1704A | 02
04 | TN | MEMPHIS, CITY OF | 47157C0170E | 21-AUG-2002 | 02-04-6828A | 02
04 | TN | MEMPHIS, CITY OF | 47157C0185E | 04-SEP-2002 | 02-04-7482A | 02
04 | TN | MEMPHIS, CITY OF | 47157C0185E | 06-SEP-2002 | 02-04-7370A | 01
04 | TN | MEMPHIS, CITY OF | 47157C0185E | 06-SEP-2002 | 02-04-7372A | 01
04 | TN | MEMPHIS, CITY OF | 47157C0185E | 18-OCT-2002 | 02-04-7936A | 01
04 | TN | MEMPHIS, CITY OF | 47157C0180E | 01-NOV-2002 | 02-04-7614A | 01
04 | TN | MEMPHIS, CITY OF | 47157C0275E | 20-DEC-2002 | 02-04-247P | 05
04 | TN | MEMPHIS, CITY OF | 47157C0230E | 20-DEC-2002 | 03-04-0062A | 02
04 | TN | MEMPHIS, CITY OF | 47157C0230E | 20-DEC-2002 | 03-04-0708A | 19
04 | TN | MILLERSVILLE, CITY OF | 47165C0263D | 22-NOV-2002 | 03-04-0622V | 19
04 | TN | MILLERSVILLE, CITY OF | 47165C0376D | 22-NOV-2002 | 03-04-0622V | 19
04 | TN | MONTGOMERY COUNTY * | 4701360055B | 19-JUL-2002 | 02-04-4428A | 02
04 | TN | MONTGOMERY COUNTY * | 4701360050B | 24-JUL-2002 | 02-04-6470A | 02
04 | TN | MONTGOMERY COUNTY * | 4701360050B | 31-JUL-2002 | 02-04-5976A | 02
04 | TN | MONTGOMERY COUNTY * | 4701360115B | 06-SEP-2002 | 02-04-3796A | 02
04 | TN | MONTGOMERY COUNTY * | 4701360050B | 20-NOV-2002 | 02-04-9050A | 02
04 | TN | MONTGOMERY COUNTY * | 4701360095B | 06-DEC-2002 | 03-04-0226A | 02
04 | TN | MURFREESBORO, CITY OF | 47149C0257F | 03-JUL-2002 | 02-04-2916A | 02
04 | TN | MURFREESBORO, CITY OF | 47149C0144F | 03-JUL-2002 | 02-04-3470A | 01
04 | TN | MURFREESBORO, CITY OF | 47149C0260F | 10-JUL-2002 | 02-04-4490A | 01
04 | TN | MURFREESBORO, CITY OF | 47149C0259F | 10-JUL-2002 | 02-04-5612A | 02
04 | TN | MURFREESBORO, CITY OF | 47149C0260F | 16-AUG-2002 | 02-04-7024A | 01
04 | TN | MURFREESBORO, CITY OF | 47149C0140E | 25-SEP-2002 | 02-04-6810A | 01
04 | TN | MURFREESBORO, CITY OF | 47149C0143F | 18-OCT-2002 | 02-04-7878A | 01
04 | TN | MURFREESBORO, CITY OF | 47149C0163F | 30-OCT-2002 | 02-04-7728A | 01
04 | TN | MURFREESBORO, CITY OF | 47149C0163F | 30-OCT-2002 | 02-04-7950A | 01
04 | TN | MURFREESBORO, CITY OF | 47149C0163F | 20-NOV-2002 | 02-04-9014A | 01
04 | TN | NASHVILLE & DAVIDSON COUNTY, CITY O | 47037C0231F | 03-JUL-2002 | 02-04-3906A | 02
04 | TN | NASHVILLE & DAVIDSON COUNTY, CITY O | 47037C0366F | 26-JUL-2002 | 02-04-6244A | 02
04 | TN | NASHVILLE & DAVIDSON COUNTY, CITY O | 47037C0227F | 31-JUL-2002 | 02-04-6516A | 01
04 | TN | NASHVILLE & DAVIDSON COUNTY, CITY O | 47037C0309F | 31-JUL-2002 | 02-04-6542A | 02
04 | TN | NASHVILLE & DAVIDSON COUNTY, CITY O | 47037C0114F | 09-AUG-2002 | 02-04-7812A | 02
04 | TN | NASHVILLE & DAVIDSON COUNTY, CITY O | 47037C0227F | 14-AUG-2002 | 02-04-6486A | 01
04 | TN | NASHVILLE & DAVIDSON COUNTY, CITY O | 47037C0227F | 14-AUG-2002 | 02-04-7934A | 01
04 | TN | NASHVILLE & DAVIDSON COUNTY, CITY O | 47037C0234F | 21-AUG-2002 | 02-04-5586A | 01
04 | TN | NASHVILLE & DAVIDSON COUNTY, CITY O | 47037C0227F | 23-AUG-2002 | 02-04-6180A | 01
04 | TN | NASHVILLE & DAVIDSON COUNTY, CITY O | 47037C0214F | 28-AUG-2002 | 02-04-8340A | 02
04 | TN | NASHVILLE & DAVIDSON COUNTY, CITY O | 47037C0244F | 13-SEP-2002 | 02-04-6944A | 02
04 | TN | NASHVILLE & DAVIDSON COUNTY, CITY O | 47037C0229F | 13-SEP-2002 | 02-04-8598A | 02
04 | TN | NASHVILLE & DAVIDSON COUNTY, CITY O | 47037C0202F | 25-SEP-2002 | 02-04-7722A | 02
04 | TN | NASHVILLE & DAVIDSON COUNTY, CITY O | 47037C0308F | 25-SEP-2002 | 02-04-8222A | 02
04 | TN | NASHVILLE & DAVIDSON COUNTY, CITY O | 47037C0242F | 09-OCT-2002 | 02-04-2646A | 01
04 | TN | NASHVILLE & DAVIDSON COUNTY, CITY O | 47037C0242F | 09-OCT-2002 | 02-04-2648A | 01
04 | TN | NASHVILLE & DAVIDSON COUNTY, CITY O | 47037C0114F | 16-OCT-2002 | 02-04-7734A | 02
04 | TN | NASHVILLE & DAVIDSON COUNTY, CITY O | 47037C0244F | 18-OCT-2002 | 02-04-5716A | 02
04 | TN | NASHVILLE & DAVIDSON COUNTY, CITY O | 47037C0244F | 18-OCT-2002 | 02-04-9598A | 02
04 | TN | NASHVILLE & DAVIDSON COUNTY, CITY O | 47037C0254F | 30-OCT-2002 | 02-04-6512A | 01
04 | TN | NASHVILLE & DAVIDSON COUNTY, CITY O | 47037C0327F | 01-NOV-2002 | 02-04-9226X | 02
04 | TN | NASHVILLE & DAVIDSON COUNTY, CITY O | 47037C0331F | 06-NOV-2002 | 02-04-7468A | 01
04 | TN | NASHVILLE & DAVIDSON COUNTY, CITY O | 47037C0253F | 13-NOV-2002 | 02-04-6514A | 01
04 | TN | NASHVILLE & DAVIDSON COUNTY, CITY O | 47037C0231F | 13-NOV-2002 | 02-04-8870A | 02
04 | TN | NASHVILLE & DAVIDSON COUNTY, CITY O | 47037C0364F | 06-DEC-2002 | 02-04-443P | 05
04 | TN | NASHVILLE & DAVIDSON COUNTY, CITY O | 47037C0368F | 06-DEC-2002 | 02-04-443P | 05
04 | TN | NASHVILLE & DAVIDSON COUNTY, CITY O | 47037C0331F | 20-DEC-2002 | 03-04-0448A | 02
04 | TN | NASHVILLE & DAVIDSON COUNTY, CITY O | 47037C0238F | 20-DEC-2002 | 03-04-0792A | 01
04 | TN | NASHVILLE & DAVIDSON COUNTY, CITY O | 47037C0231F | 20-DEC-2002 | 03-04-0940A | 02
04 | TN | NASHVILLE & DAVIDSON COUNTY, CITY O | 47037C0143F | 23-DEC-2002 | 03-04-046P | 05
04 | TN | NASHVILLE & DAVIDSON COUNTY, CITY O | 47037C0231F | 23-DEC-2002 | 03-04-046P | 05
04 | TN | NEW TAZEWELL, CITY OF | 470030—04B | 17-JUL-2002 | 02-04-4452A | 02
04 | TN | PEGRAM, TOWNSHIP OF | 47021C0285C | 19-JUL-2002 | 02-04-7306A | 02
04 | TN | PEGRAM, TOWNSHIP OF | 47021C0285C | 05-DEC-2002 | 03-04-0496A | 02
04 | TN | PIGEON FORGE, CITY OF | 4754420002D | 23-OCT-2002 | 02-04-8212A | 01
04 | TN | POLK COUNTY * | 4702610055B | 27-DEC-2002 | 03-04-1522A | 02
04 | TN | PULASKI, CITY OF | 4700630150B | 27-NOV-2002 | 02-04-9142A | 02
04 | TN | RED BANK, CITY OF | 47065C0219F | 08-NOV-2002 | 03-04-0278V | 19
04 | TN | RHEA COUNTY* | 4701510075B | 27-SEP-2002 | 02-04-8780A | 02
04 | TN | RHEA COUNTY* | 4701510075B | 20-DEC-2002 | 03-04-1102A | 02
04 | TN | RIPLEY, TOWN OF | 4701000002C | 20-NOV-2002 | 02-04-8822A | 01
04 | TN | RUTHERFORD COUNTY * | 47149C0405E | 18-SEP-2002 | 02-04-8260A | 02
04 | TN | RUTHERFORD COUNTY * | 47149C0045E | 25-SEP-2002 | 02-04-8124A | 01
04 | TN | RUTHERFORD COUNTY * | 47149C0270E | 06-NOV-2002 | 02-04-7960A | 01
04 | TN | RUTHERFORD COUNTY * | 47149C0137E | 04-DEC-2002 | 02-04-7730A | 02
04 | TN | SEVIER COUNTY* | 4702360125B | 22-NOV-2002 | 02-04-9236A | 02
04 | TN | SEVIER COUNTY* | 4702360060B | 26-DEC-2002 | 03-04-1318A | 02
04 | TN | SEVIERVILLE, CITY OF | 4754440015D | 02-AUG-2002 | 02-04-6278A | 01
04 | TN | SHELBY COUNTY * | 47157C0285E | 17-JUL-2002 | 02-04-6182A | 02
04 | TN | SHELBY COUNTY * | 47157C0195E | 09-OCT-2002 | 02-04-2046A | 01
04 | TN | SHELBY COUNTY * | 47157C0195E | 06-NOV-2002 | 02-04-7684A | 02
04 | TN | SHELBY COUNTY * | 47157C0280E | 10-DEC-2002 | 02-04-213P | 05
04 | TN | SHELBY COUNTY * | 47157C0285E | 10-DEC-2002 | 02-04-213P | 05
04 | TN | SHELBY COUNTY * | 47157C0240E | 20-DEC-2002 | 03-04-0642A | 02
04 | TN | SHELBY COUNTY * | 47157C0290E | 20-DEC-2002 | 03-04-0812A | 01
04 | TN | SHELBYVILLE, CITY OF | 4700080028C | 20-DEC-2002 | 03-04-0750A | 02
04 | TN | SMYRNA, TOWN OF | 47149C0107E | 02-AUG-2002 | 02-04-7010A | 02
04 | TN | SULLIVAN COUNTY * | 4701810030B | 02-AUG-2002 | 02-04-6798A | 02
04 | TN | SULLIVAN COUNTY * | 4701810020C | 25-OCT-2002 | 02-04-8462A | 02
04 | TN | SUMNER COUNTY* | 47165C0288D | 04-DEC-2002 | 02-04-8868A | 02
04 | TN | SUMNER COUNTY* | 47165C0270D | 11-DEC-2002 | 02-04-8720A | 02
04 | TN | TRENTON, CITY OF | 4700620002B | 09-AUG-2002 | 02-04-6428A | 02
04 | TN | TRENTON, CITY OF | 4700620002B | 28-AUG-2002 | 02-04-5458A | 17
04 | TN | WILLIAMSON COUNTY * | 4702040125C | 24-JUL-2002 | 02-04-0794A | 02
04 | TN | WILLIAMSON COUNTY * | 4702040020C | 25-SEP-2002 | 02-04-6748A | 02
04 | TN | WILLIAMSON COUNTY * | 4702040020C | 01-OCT-2002 | 02-04-475P | 05
04 | TN | WILLIAMSON COUNTY * | 4702040020C | 22-NOV-2002 | 02-04-8460A | 02
05 | IL | ALEXANDER COUNTY | 1708110075B | 11-SEP-2002 | 02-05-3486A | 02
05 | IL | ALEXANDER COUNTY | 1708110025B | 15-NOV-2002 | 03-05-0416A | 02
05 | IL | ALGONQUIN, VILLAGE OF | 1707320350E | 27-NOV-2002 | 02-05-4781A | 01
05 | IL | ANTIOCH, VILLAGE OF | 17097C0027F | 04-OCT-2002 | 02-05-3371A | 02
05 | IL | ANTIOCH, VILLAGE OF | 17097C0027F | 11-DEC-2002 | 03-05-0665A | 02
05 | IL | AURORA, CITY OF | 1703200020E | 12-JUL-2002 | 02-05-2242A | 01
05 | IL | BARRINGTON HILLS, VILLAGE OF | 1700580002B | 06-DEC-2002 | 02-05-2538A | 02
05 | IL | BARRINGTON HILLS, VILLAGE OF | 1700580004B | 06-DEC-2002 | 02-05-2538A | 02
05 | IL | BARRINGTON HILLS, VILLAGE OF | 1700580002B | 27-NOV-2002 | 03-05-0662A | 02
05 | IL | BLOOMINGTON, CITY OF | 17113C0482D | 10-JUL-2002 | 02-05-3555A | 01
05 | IL | BLOOMINGTON, CITY OF | 17113C0504D | 27-SEP-2002 | 02-05-4480A | 02
05 | IL | BLOOMINGTON, CITY OF | 17113C0318D | 13-DEC-2002 | 03-05-0923A | 02
05 | IL | BLUE ISLAND, CITY OF | 17031C0643F | 06-SEP-2002 | 02-05-3491A | 02
05 | IL | BOLINGBROOK, VILLAGE OF | 17197C0054E | 09-AUG-2002 | 02-05-2770A | 01
05 | IL | BOLINGBROOK, VILLAGE OF | 17197C0045F | 20-NOV-2002 | 02-05-4358A | 02
05 | IL | BOONE COUNTY | 1708070040B | 04-SEP-2002 | 02-05-4197A | 02
05 | IL | BOURBONNAIS, VILLAGE OF | 1703370005A | 04-SEP-2002 | 02-05-2338A | 02
05 | IL | BRADLEY, VILLAGE OF | 1703380001B | 27-SEP-2002 | 02-05-4217A | 02
05 | IL | BRIDGEPORT, CITY OF | 1710080001A | 17-JUL-2002 | 02-05-3375A | 02
05 | IL | BUFFALO GROVE, VILLAGE OF | 17031C0063F | 26-JUL-2002 | 02-05-3169A | 02
05 | IL | BUFFALO GROVE, VILLAGE OF | 17097C0262F | 02-AUG-2002 | 02-05-3790A | 02
05 | IL | BYRON, CITY OF | 1705250115A | 23-OCT-2002 | 02-05-2713A | 02
05 | IL | CAHOKIA, VILLAGE OF | 1706200005C | 30-OCT-2002 | 02-05-2619A | 01
05 | IL | CAHOKIA, VILLAGE OF | 1706200005C | 01-NOV-2002 | 02-05-4299A | 01
05 | IL | CARMI, CITY OF | 1706810005B | 03-JUL-2002 | 02-05-3340A | 02
05 | IL | CAROL STREAM, VILLAGE OF | 1701970025B | 19-DEC-2002 | 02-05-2605P | 05
05 | IL | CAROL STREAM, VILLAGE OF | 1702020005C | 19-DEC-2002 | 02-05-2605P | 05
05 | IL | CAROL STREAM, VILLAGE OF | 1701970025B | 23-AUG-2002 | 02-05-3900A | 02
05 | IL | CHAMPAIGN COUNTY * | 1708940100B | 09-OCT-2002 | 02-05-2927A | 02
05 | IL | CHAMPAIGN COUNTY * | 1708940205B | 07-AUG-2002 | 02-05-3276A | 02
05 | IL | CHAMPAIGN COUNTY * | 1708940175B | 27-SEP-2002 | 02-05-3609A | 01
05 | IL | CHAMPAIGN COUNTY * | 1708940175B | 16-AUG-2002 | 02-05-3610A | 01
05 | IL | CHANNAHON, VILLAGE OF | 17197C0255E | 23-OCT-2002 | 02-05-4438A | 02
05 | IL | CHATHAM, VILLAGE OF | 1709120250C | 27-NOV-2002 | 03-05-0361A | 02
05 | IL | CLINTON COUNTY* | 170044—01B | 24-JUL-2002 | 02-05-2908A | 02
05 | IL | CLINTON COUNTY* | 170044—23B | 09-AUG-2002 | 02-05-2945A | 02
05 | IL | CLINTON COUNTY* | 170044—11B | 16-AUG-2002 | 02-05-2946A | 02
05 | IL | CLINTON COUNTY* | 170044—25B | 17-JUL-2002 | 02-05-2947A | 02
05 | IL | CLINTON COUNTY* | 170044—25B | 23-OCT-2002 | 02-05-3917A | 02
05 | IL | CLINTON, CITY OF | 17039C0190D | 28-AUG-2002 | 02-05-3767A | 02
05 | IL | COAL VALLEY, VILLAGE OF | 17161C0337E | 19-OCT-2002 | 03-05-0006V | 19
05 | IL | COAL VALLEY, VILLAGE OF | 17161C0329E | 08-NOV-2002 | 03-05-0270A | 02
05 | IL | COOK COUNTY | 17031C0236F | 17-JUL-2002 | 02-05-2435A | 02
05 | IL | COOK COUNTY | 17031C0611F | 10-JUL-2002 | 02-05-3258A | 02
05 | IL | COOK COUNTY | 17031C0682F | 10-JUL-2002 | 02-05-3261A | 02
05 | IL | COOK COUNTY | 17031C0253F | 12-JUL-2002 | 02-05-3518A | 02
05 | IL | COOK COUNTY | 17031C0386F | 23-OCT-2002 | 02-05-4229A | 02
05 | IL | COUNTRYSIDE, CITY OF | 17031C0467F | 27-NOV-2002 | 02-05-4727A | 02
05 | IL | CRAWFORD COUNTY | 1709390075B | 06-NOV-2002 | 02-05-4154A | 02
05 | IL | CRESCENT CITY, VILLAGE OF | 17075C0115D | 04-DEC-2002 | 03-05-0137A | 02
05 | IL | CRESTWOOD, VILLAGE OF | 17031C0617F | 12-JUL-2002 | 02-05-2807A | 02
05 | IL | CRESTWOOD, VILLAGE OF | 17031C0619F | 12-JUL-2002 | 02-05-2807A | 02
05 | IL | CRESTWOOD, VILLAGE OF | 17031C0617F | 24-JUL-2002 | 02-05-3052A | 02
05 | IL | CRESTWOOD, VILLAGE OF | 17031C0617F | 03-JUL-2002 | 02-05-3314A | 02
05 | IL | CRESTWOOD, VILLAGE OF | 17031C0617F | 13-NOV-2002 | 03-05-0194A | 02
05 | IL | CRESTWOOD, VILLAGE OF | 17031C0617F | 06-DEC-2002 | 03-05-0408A | 02
05 | IL | CRYSTAL LAKE, CITY OF | 1707320330D | 10-JUL-2002 | 02-05-2451A | 02
05 | IL | CRYSTAL LAKE, CITY OF | 1707320330D | 20-SEP-2002 | 02-05-3821A | 01
05 | IL | CRYSTAL LAKE, CITY OF | 1707320330D | 27-SEP-2002 | 02-05-3822A | 02
05 | IL | CRYSTAL LAKE, CITY OF | 1704760003C | 18-DEC-2002 | 03-05-0867A | 02
05 | IL | DARIEN, CITY OF | 1707500002A | 07-AUG-2002 | 02-05-3308A | 17
05 | IL | DARIEN, CITY OF | 170750002A | 16-OCT-2002 | 02-05-4616A | 02
05 | IL | DE KALB COUNTY | 17037C0057D | 20-DEC-2002 | 02-05-4079A | 02
05 | IL | DE KALB, CITY OF | 17037C0067D | 28-AUG-2002 | 02-05-3944A | 02
05 | IL | DEERFIELD, VILLAGE OF | 17031C0088F | 06-SEP-2002 | 02-05-2130P | 05
05 | IL | DEERFIELD, VILLAGE OF | 17097C0286F | 06-SEP-2002 | 02-05-2130P | 05
05 | IL | DEERFIELD, VILLAGE OF | 17097C0288G | 06-SEP-2002 | 02-05-2130P | 05
05 | IL | DEERFIELD, VILLAGE OF | 17097C0286F | 10-JUL-2002 | 02-05-2372A | 01
05 | IL | DEERFIELD, VILLAGE OF | 17097C0286F | 11-OCT-2002 | 02-05-4196A | 17
05 | IL | DES PLAINES, CITY OF | 17031C0238F | 17-JUL-2002 | 02-05-3467A | 02
05 | IL | DES PLAINES, CITY OF | 17031C0216F | 30-OCT-2002 | 02-05-4033A | 02
05 | IL | DES PLAINES, CITY OF | 17031C0219F | 16-OCT-2002 | 02-05-4132A | 02
05 | IL | DES PLAINES, CITY OF | 17031C0216F | 22-NOV-2002 | 03-05-0095A | 02
05 | IL | DES PLAINES, CITY OF | 17031C0216F | 06-NOV-2002 | 03-05-0182A | 02
05 | IL | DES PLAINES, CITY OF | 17031C0216F | 06-DEC-2002 | 03-05-0494A | 02
05 | IL | DES PLAINES, CITY OF | 17031C0236F | 20-DEC-2002 | 03-05-0609A | 01
05 | IL | DOUGLAS COUNTY | 1701940025B | 14-AUG-2002 | 02-05-3528A | 02
05 | IL | DU PAGE COUNTY* | 1701970010C | 26-JUL-2002 | 02-05-2016A | 02
05 | IL | DU PAGE COUNTY* | 1701970010C | 24-JUL-2002 | 02-05-2596A | 02
05 | IL | DU PAGE COUNTY* | 1701970040B | 13-SEP-2002 | 02-05-2929A | 17
05 | IL | DU PAGE COUNTY* | 1701970025B | 21-AUG-2002 | 02-05-3262A | 02
05 | IL | DU PAGE COUNTY* | 1701970040B | 28-AUG-2002 | 02-05-3289A | 02
05 | IL | DU PAGE COUNTY* | 1701970020B | 17-JUL-2002 | 02-05-3309A | 02
05 | IL | DU PAGE COUNTY* | 1701970025B | 21-AUG-2002 | 02-05-3581A | 02
05 | IL | DU PAGE COUNTY* | 1701970040B | 21-AUG-2002 | 02-05-3593A | 02
05 | IL | DU PAGE COUNTY* | 1701970020B | 01-OCT-2002 | 02-05-3599P | 05
05 | IL | DU PAGE COUNTY* | 1701970055B | 04-SEP-2002 | 02-05-3605A | 02
05 | IL | DU PAGE COUNTY* | 1701970045B | 13-DEC-2002 | 02-05-4318A | 02
05 | IL | DU PAGE COUNTY* | 1701970020B | 01-NOV-2002 | 02-05-4617A | 02
05 | IL | EAST MOLINE, CITY OF | 17161C0140E | 19-OCT-2002 | 03-05-0373V | 19
05 | IL | EDWARDSVILLE, CITY OF | 1704410001C | 18-DEC-2002 | 03-05-0856A | 02
05 | IL | ELK GROVE VILLAGE, VILLAGE OF | 17031C0351F | 03-JUL-2002 | 02-05-1826A | 01
05 | IL | ELK GROVE VILLAGE, VILLAGE OF | 17031C0193F | 04-OCT-2002 | 02-05-2343A | 17
05 | IL | ELK GROVE VILLAGE, VILLAGE OF | 17031C0351F | 31-JUL-2002 | 02-05-3154A | 02
05 | IL | FLOSSMOOR, VILLAGE OF | 17031C0737F | 08-NOV-2002 | 02-05-3041A | 02
05 | IL | FLOSSMOOR, VILLAGE OF | 17031C0741F | 23-OCT-2002 | 02-05-4567A | 01
05 | IL | FOX LAKE, VILLAGE OF | 17097C0020F | 09-AUG-2002 | 02-05-3737A | 02
05 | IL | FOX LAKE, VILLAGE OF | 17097C0020F | 21-AUG-2002 | 02-05-4035A | 02
05 | IL | FOX LAKE, VILLAGE OF | 17097C0020F | 25-SEP-2002 | 02-05-4044A | 02
05 | IL | FOX RIVER VALLEY GARDENS, VILLAGE OF | 1704780001B | 26-JUL-2002 | 02-05-2817A | 02
05 | IL | FRANKFORT, VILLAGE OF | 17197C0310E | 01-JUL-2002 | 02-05-0527P | 06
05 | IL | FRANKFORT, VILLAGE OF | 17197C0310E | 17-SEP-2002 | 02-05-2134P | 06
05 | IL | FRANKFORT, VILLAGE OF | 17197C0326E | 17-SEP-2002 | 02-05-2134P | 06
05 | IL | FRANKFORT, VILLAGE OF | 17197C0326E | 12-JUL-2002 | 02-05-2246A | 01
05 | IL | FRANKFORT, VILLAGE OF | 17197C0331E | 16-OCT-2002 | 02-05-4746A | 02
05 | IL | FRANKLIN PARK, VILLAGE OF | 17031C0367F | 23-AUG-2002 | 02-05-2888A | 02
05 | IL | GERMANTOWN, VILLAGE OF | 170044—18B | 20-SEP-2002 | 02-05-2223A | 02
05 | IL | GERMANTOWN, VILLAGE OF | 170049—01 B | 13-SEP-2002 | 02-05-3617A | 02
05 | IL | GERMANTOWN, VILLAGE OF | 170049—01B | 16-OCT-2002 | 02-05-4615A | 02
05 | IL | GLEN ELLYN, VILLAGE OF | 1702070005C | 14-AUG-2002 | 02-05-2909A | 01
05 | IL | GLENVIEW, VILLAGE OF | 17031C0233F | 18-OCT-2002 | 02-05-4505A | 02
05 | IL | GLENWOOD, VILLAGE OF | 17031C0742F | 28-AUG-2002 | 02-05-4099A | 02
05 | IL | GRAYSLAKE, VILLAGE OF | 17097C0131G | 10-JUL-2002 | 02-05-2487A | 01
05 | IL | GRAYSLAKE, VILLAGE OF | 17097C0131G | 03-JUL-2002 | 02-05-2841A | 02
05 | IL | GRAYSLAKE, VILLAGE OF | 17097C0131G | 25-SEP-2002 | 02-05-3468A | 02
05 | IL | GRAYSLAKE, VILLAGE OF | 17097C0132G | 18-OCT-2002 | 02-05-3517A | 01
05 | IL | GRAYSLAKE, VILLAGE OF | 17097C0132G | 23-OCT-2002 | 02-05-4728A | 02
05 | IL | GRAYSLAKE, VILLAGE OF | 17097C0133F | 13-DEC-2002 | 03-05-0805A | 02
05 | IL | GRUNDY COUNTY | 1702560125C | 03-JUL-2002 | 02-05-3436A | 02
05 | IL | GRUNDY COUNTY | 1702560075C | 19-JUL-2002 | 02-05-3501A | 02
05 | IL | GRUNDY COUNTY | 1702560075C | 04-DEC-2002 | 03-05-0572A | 02
05 | IL | HAMPTON, VILLAGE OF | 17161C0135E | 19-OCT-2002 | 03-05-0005V | 19
05 | IL | HAMPTON, VILLAGE OF | 17161C0145E | 19-OCT-2002 | 03-05-0005V | 19
05 | IL | HANOVER PARK, VILLAGE OF | 1700990005B | 02-AUG-2002 | 02-05-1891A | 17
05 | IL | HANOVER PARK, VILLAGE OF | 1700990005B | 25-SEP-2002 | 02-05-3272A | 17
05 | IL | HARVEY, CITY OF | 17031C0731F | 08-NOV-2002 | 03-05-0141A | 02
05 | IL | HENDERSON COUNTY | 1702770085B | 23-OCT-2002 | 02-05-4241A | 02
05 | IL | HENRY COUNTY | 1707390100B | 22-NOV-2002 | 02-05-4152A | 02
05 | IL | HICKORY HILLS, CITY OF | 17031C0603F | 26-JUL-2002 | 02-05-3545A | 02
05 | IL | HIGHLAND PARK, CITY OF | 17097C0279F | 02-OCT-2002 | 02-05-3997A | 02
05 | IL | HIGHLAND, CITY OF | 1704450001B | 23-AUG-2002 | 02-05-3388A | 02
05 | IL | HINSDALE, VILLAGE OF | 1701050002B | 24-JUL-2002 | 02-05-3305A | 02
05 | IL | HOFFMAN ESTATES, VILLAGE OF | 17031C0186F | 21-AUG-2002 | 02-05-4041A | 02
05 | IL | HOFFMAN ESTATES, VILLAGE OF | 17031C0186F | 28-AUG-2002 | 02-05-4078A | 02
05 | IL | HOFFMAN ESTATES, VILLAGE OF | 17031C0186F | 15-NOV-2002 | 02-05-4768A | 02
05 | IL | HOLIDAY HILLS, VILLAGE OF | 1709360001B | 03-JUL-2002 | 02-05-3376A | 02
05 | IL | HOLIDAY HILLS, VILLAGE OF | 1709360001B | 04-OCT-2002 | 02-05-4390A | 02
05 | IL | HOLIDAY HILLS, VILLAGE OF | 1709360001B | 13-NOV-2002 | 03-05-0251A | 02
05 | IL | HOMEWOOD, VILLAGE OF | 17031C0741F | 24-JUL-2002 | 02-05-3138A | 02
05 | IL | HUNTLEY, VILLAGE OF | 1704800003C | 26-JUL-2002 | 02-05-3509A | 01
05 | IL | HUNTLEY, VILLAGE OF | 1704800002C | 27-NOV-2002 | 02-05-4026A | 01
05 | IL | HUTSONVILLE, VILLAGE OF | 1701780001B | 16-OCT-2002 | 02-05-3315A | 02
05 | IL | INVERNESS, VILLAGE OF | 17031C0157F | 10-JUL-2002 | 02-05-3220A | 02
05 | IL | ISLAND LAKE, VILLAGE OF | 1703700001B | 20-SEP-2002 | 02-05-3474A | 02
05 | IL | ISLAND LAKE, VILLAGE OF | 1703700001B | 04-OCT-2002 | 02-05-4549A | 02
05 | IL | JACKSONVILLE, CITY OF | 1705160010C | 02-AUG-2002 | 02-05-2998A | 02
05 | IL | JEFFERSON COUNTY | 170305—07A | 20-NOV-2002 | 02-05-4527A | 02
05 | IL | JEFFERSON COUNTY | 170305—12A | 20-NOV-2002 | 02-05-4527A | 02
05 | IL | JOLIET, CITY OF | 17197C0130E | 26-SEP-2002 | 02-05-2034P | 05
05 | IL | JOLIET, CITY OF | 17197C0135F | 26-SEP-2002 | 02-05-2034P | 05
05 | IL | JOLIET, CITY OF | 17197C0137E | 26-SEP-2002 | 02-05-2034P | 05
05 | IL | JOLIET, CITY OF | 17197C0141E | 26-SEP-2002 | 02-05-2034P | 05
05 | IL | JOLIET, CITY OF | 17197C0130E | 06-SEP-2002 | 02-05-3082P | 06
05 | IL | JOLIET, CITY OF | 17197C0140E | 06-SEP-2002 | 02-05-3082P | 06
05 | IL | JOLIET, CITY OF | 17197C0163E | 06-DEC-2002 | 02-05-3194A | 17
05 | IL | JOLIET, CITY OF | 17197C0143E | 03-JUL-2002 | 02-05-3359A | 02
05 | IL | JOLIET, CITY OF | 17197C0130E | 14-AUG-2002 | 02-05-3919A | 02
05 | IL | JOLIET, CITY OF | 17197C0144E | 16-OCT-2002 | 02-05-4533A | 02
05 | IL | JOLIET, CITY OF | 17197C0161E | 16-OCT-2002 | 02-05-4700A | 02
05 | IL | JUSTICE, VILLAGE OF | 17031C0489F | 04-OCT-2002 | 02-05-4561A | 02
05 | IL | KANE COUNTY * | 1708960043B | 20-SEP-2002 | 02-05-0689A | 02
05 | IL | KANE COUNTY * | 1708960145A | 21-AUG-2002 | 02-05-2599A | 02
05 | IL | KANE COUNTY * | 17089C0258F | 31-DEC-2002 | 02-05-2627P | 05
05 | IL | KANE COUNTY * | 1708960145A | 27-SEP-2002 | 02-05-2936A | 02
05 | IL | KANE COUNTY * | 1708960043B | 16-OCT-2002 | 02-05-3575P | 05
05 | IL | KANE COUNTY * | 1708960130B | 31-DEC-2002 | 02-05-3913P | 05
05 | IL | KANE COUNTY * | 17089C0239F | 31-DEC-2002 | 02-05-3913P | 05
05 | IL | KANKAKEE COUNTY | 1703360185C | 06-NOV-2002 | 02-05-3681A | 17
05 | IL | KANKAKEE COUNTY | 1703360190C | 02-AUG-2002 | 02-05-3682A | 02
05 | IL | KANKAKEE COUNTY | 1703360260C | 16-AUG-2002 | 02-05-3957A | 17
05 | IL | KANKAKEE COUNTY | 1703360170C | 27-SEP-2002 | 02-05-4463A | 17
05 | IL | KANKAKEE COUNTY | 1703360155B | 01-NOV-2002 | 03-05-0152A | 02
05 | IL | KANKAKEE COUNTY | 1703360170C | 22-NOV-2002 | 03-05-0677A | 02
05 | IL | KENDALL COUNTY | 1703410015D | 11-DEC-2002 | 02-05-4758A | 02
05 | IL | KIRKLAND, VILLAGE OF | 17037C0004D | 27-DEC-2002 | 03-05-0505A | 02
05 | IL | KIRKLAND, VILLAGE OF | 17037C0004D | 13-NOV-2002 | 03-05-0570A | 02
05 | IL | LAKE COUNTY | 17097C0028F | 23-AUG-2002 | 02-05-1748A | 02
05 | IL | LAKE COUNTY | 17097C0105H | 12-JUL-2002 | 02-05-2891A | 02
05 | IL | LAKE COUNTY | 17097C0010F | 24-JUL-2002 | 02-05-3109A | 02
05 | IL | LAKE COUNTY | 17097C0132G | 24-JUL-2002 | 02-05-3432A | 17
05 | IL | LAKE COUNTY | 17097C0162G | 14-AUG-2002 | 02-05-3782A | 02
05 | IL | LAKE COUNTY | 17097C0166G | 14-AUG-2002 | 02-05-3782A | 02
05 | IL | LAKE COUNTY | 17097C0019F | 28-AUG-2002 | 02-05-3990A | 02
05 | IL | LAKE COUNTY | 17097C0155G | 09-OCT-2002 | 02-05-4093A | 02
05 | IL | LAKE COUNTY | 17097C0205F | 25-SEP-2002 | 02-05-4224A | 02
05 | IL | LAKE COUNTY | 17097C0266G | 06-DEC-2002 | 03-05-0413A | 02
05 | IL | LAKE COUNTY | 17097C0110H | 22-NOV-2002 | 03-05-0671A | 02
05 | IL | LAKE COUNTY | 17097C0205F | 11-DEC-2002 | 03-05-0833A | 02
05 | IL | LAKE COUNTY | 17097C0166G | 20-DEC-2002 | 03-05-1042A | 02
05 | IL | LAKE-IN-THE-HILLS, VILLAGE OF | 1704810002E | 08-OCT-2002 | 01-05-3762P | 05
05 | IL | LAKE-IN-THE-HILLS, VILLAGE OF | 1707320310C | 08-OCT-2002 | 01-05-3762P | 05
05 | IL | LAKE-IN-THE-HILLS, VILLAGE OF | 1704810003E | 11-DEC-2002 | 03-05-0753A | 17
05 | IL | LAKEMOOR, VILLAGE OF | 1709150001B | 08-NOV-2002 | 03-05-0250A | 02
05 | IL | LAWRENCE COUNTY | 1704090090B | 24-JUL-2002 | 02-05-2525A | 02
05 | IL | LAWRENCE COUNTY | 1704090055B | 09-OCT-2002 | 02-05-2695A | 02
05 | IL | LEAF RIVER, VILLAGE OF | 170528—01B | 11-OCT-2002 | 02-05-4128A | 02
05 | IL | LEE COUNTY | 17103C0100D | 26-JUL-2002 | 02-05-2863A | 02
05 | IL | LEE COUNTY | 17103C0125D | 04-OCT-2002 | 02-05-3175A | 02
05 | IL | LEE COUNTY | 17103C0015D | 18-OCT-2002 | 02-05-3920A | 02
05 | IL | LEMONT, VILLAGE OF | 17031C0589F | 28-AUG-2002 | 02-05-3679A | 02
05 | IL | LIBERTYVILLE, VILLAGE OF | 17097C0168G | 17-JUL-2002 | 02-05-1235A | 02
05 | IL | LIBERTYVILLE, VILLAGE OF | 17097C0161F | 03-JUL-2002 | 02-05-3442A | 02
05 | IL | LIBERTYVILLE, VILLAGE OF | 17097C0162G | 03-JUL-2002 | 02-05-3442A | 02
05 | IL | LIBERTYVILLE, VILLAGE OF | 17097C0164G | 11-OCT-2002 | 02-05-4587A | 02
05 | IL | LIBERTYVILLE, VILLAGE OF | 17097C0164G | 20-NOV-2002 | 02-05-4600A | 02
05 | IL | LIBERTYVILLE, VILLAGE OF | 17097C0164G | 11-DEC-2002 | 02-05-4731A | 02
05 | IL | LIBERTYVILLE, VILLAGE OF | 17097C0164G | 01-NOV-2002 | 03-05-0193A | 02
05 | IL | LIBERTYVILLE, VILLAGE OF | 17097C0164G | 20-NOV-2002 | 03-05-0348A | 02
05 | IL | LINCOLNSHIRE, VILLAGE OF | 17097C0258G | 22-NOV-2002 | 02-05-1556P | 06
05 | IL | LINCOLNSHIRE, VILLAGE OF | 17097C0266G | 04-DEC-2002 | 02-05-3941A | 01
05 | IL | LISLE, VILLAGE OF | 1701970055B | 09-OCT-2002 | 02-05-3590P | 05
05 | IL | LISLE, VILLAGE OF | 1702110005B | 12-DEC-2002 | 02-05-3914P | 05
05 | IL | LIVINGSTON COUNTY | 1709290004A | 13-NOV-2002 | 02-05-4361A | 02
05 | IL | LIVINGSTON COUNTY | 1709290004A | 20-NOV-2002 | 03-05-0659A | 02
05 | IL | LOCKPORT, CITY OF | 17197C0158E | 11-OCT-2002 | 02-05-3386A | 17
05 | IL | LONG GROVE, VILLAGE OF | 17097C0234F | 08-NOV-2002 | 03-05-0131A | 02
05 | IL | LYNWOOD, VILLAGE OF | 17031C0768F | 18-DEC-2002 | 03-05-0922A | 02
05 | IL | MACHESNEY PARK, VILLAGE OF | 1707200040B | 12-NOV-2002 | 02-05-3233P | 05
05 | IL | MACHESNEY PARK, VILLAGE OF | 1710090005A | 18-OCT-2002 | 02-05-4570A | 17
05 | IL | MACHESNEY PARK, VILLAGE OF | 1710090005A | 20-NOV-2002 | 03-05-0339A | 02
05 | IL | MADISON COUNTY | 1704360120B | 23-AUG-2002 | 02-05-2829A | 02
05 | IL | MADISON COUNTY | 1704360115B | 06-SEP-2002 | 02-05-3207A | 01
05 | IL | MADISON COUNTY | 1704360050B | 26-JUL-2002 | 02-05-3445A | 02
05 | IL | MADISON COUNTY | 1704360085B | 21-AUG-2002 | 02-05-3947A | 02
05 | IL | MADISON COUNTY | 1704360085B | 27-SEP-2002 | 02-05-4553A | 02
05 | IL | MANTENO, VILLAGE OF | 1703360070A | 06-NOV-2002 | 02-05-4457A | 01
05 | IL | MARSHALL COUNTY | 1709940050B | 23-AUG-2002 | 02-05-2787A | 02
05 | IL | MATTESON, VILLAGE OF | 17031C0738F | 09-OCT-2002 | 02-05-4173A | 01
05 | IL | MCHENRY COUNTY | 1707320090B | 02-OCT-2002 | 02-05-3459A | 17
05 | IL | MCHENRY COUNTY | 1707320115B | 25-OCT-2002 | 02-05-4051A | 02
05 | IL | MCHENRY COUNTY | 1707320230B | 20-NOV-2002 | 02-05-4504A | 02
05 | IL | MCHENRY COUNTY | 1707320230B | 06-NOV-2002 | 02-05-4515A | 02
05 | IL | MCHENRY COUNTY | 1707320115B | 13-NOV-2002 | 03-05-0102A | 02
05 | IL | MCHENRY COUNTY | 1707320240B | 01-NOV-2002 | 03-05-0140A | 02
05 | IL | MCHENRY COUNTY | 1707320240B | 13-NOV-2002 | 03-05-0160A | 02
05 | IL | MCHENRY COUNTY | 1707320115B | 06-NOV-2002 | 03-05-0207A | 02
05 | IL | MCHENRY COUNTY | 1707320115B | 20-NOV-2002 | 03-05-0211A | 02
05 | IL | MCHENRY COUNTY | 1707320355B | 11-DEC-2002 | 03-05-0872A | 02
05 | IL | MCLEAN COUNTY | 17113C0150D | 28-AUG-2002 | 02-05-3246A | 02
05 | IL | MCLEAN COUNTY | 17113C0310D | 28-AUG-2002 | 02-05-3455A | 02
05 | IL | MCLEAN COUNTY | 17113C0318D | 12-JUL-2002 | 02-05-3530A | 02
05 | IL | MCLEAN COUNTY | 17113C0510D | 12-JUL-2002 | 02-05-3530A | 02
05 | IL | MCLEAN COUNTY | 17113C0775D | 27-DEC-2002 | 02-05-4223A | 02
05 | IL | MCLEAN COUNTY | 17113C0150D | 20-NOV-2002 | 02-05-4253A | 02
05 | IL | MCLEAN COUNTY | 17113C0175D | 23-OCT-2002 | 02-05-4729A | 02
05 | IL | MCLEAN COUNTY | 17113C0150D | 18-DEC-2002 | 03-05-0710A | 02
05 | IL | MERRIONETTE PARK, VILLAGE OF | 17031C0637F | 16-OCT-2002 | 02-05-4025A | 02
05 | IL | MERRIONETTE PARK, VILLAGE OF | 17031C0637F | 16-OCT-2002 | 02-05-4677A | 02
05 | IL | MIDLOTHIAN, VILLAGE OF | 17031C0726F | 11-OCT-2002 | 02-05-2822A | 17
05 | IL | MIDLOTHIAN, VILLAGE OF | 17031C0726F | 04-SEP-2002 | 02-05-3755A | 02
05 | IL | MIDLOTHIAN, VILLAGE OF | 17031C0726F | 02-OCT-2002 | 02-05-4002A | 02
05 | IL | MILAN, VILLAGE OF | 17161C0304E | 19-OCT-2002 | 03-05-0007V | 19
05 | IL | MINOOKA, VILLAGE OF | 17197C0255E | 22-NOV-2002 | 03-05-0315A | 02
05 | IL | MOKENA, VILLAGE OF | 17197C0195E | 26-JUL-2002 | 02-05-3733A | 05
05 | IL | MONTGOMERY, VILLAGE OF | 17089C0401F | 27-DEC-2002 | 02-05-4762A | 02
05 | IL | MONTGOMERY, VILLAGE OF | 17089C0401F | 27-DEC-2002 | 02-05-4762A | 02
05 | IL | MOUNT PROSPECT, VILLAGE OF | 17031C0204F | 03-JUL-2002 | 02-05-3374A | 02
05 | IL | MOUNT PROSPECT, VILLAGE OF | 17031C0212F | 03-JUL-2002 | 02-05-3374A | 02
05 | IL | NAPERVILLE, CITY OF | 1702130012C | 15-NOV-2002 | 03-05-0117A | 02
05 | IL | NAPERVILLE, CITY OF | 1702130020C | 30-AUG-2002 | 02-05-3076P | 06
05 | IL | NAPERVILLE, CITY OF | 17197C0030E | 30-AUG-2002 | 02-05-3076P | 06
05 | IL | NAPERVILLE, CITY OF | 1702130013C | 20-SEP-2002 | 02-05-4383A | 02
05 | IL | NAPERVILLE, CITY OF | 17197C0030E | 11-OCT-2002 | 02-05-4556A | 02
05 | IL | NAPERVILLE, CITY OF | 17197C0033F | 08-NOV-2002 | 03-05-0235A | 02
05 | IL | NEW ATHENS, VILLAGE OF | 1706320005B | 20-NOV-2002 | 03-05-0356A | 02
05 | IL | NEW LENOX, VILLAGE OF | 17197C0305E | 06-SEP-2002 | 02-05-2520A | 02
05 | IL | NEW LENOX, VILLAGE OF | 17197C0305E | 25-SEP-2002 | 02-05-4421X | 01
05 | IL | NORTH UTICA, VILLAGE OF | 17099C0484E | 20-DEC-2002 | 03-05-0634A | 01
05 | IL | NORTHBROOK, VILLAGE OF | 17031C0089F | 18-SEP-2002 | 02-05-4168A | 02
05 | IL | NORTHFIELD, VILLAGE OF | 17031C0232F | 26-JUL-2002 | 02-05-3508A | 02
05 | IL | NORTHFIELD, VILLAGE OF | 17031C0231F | 28-AUG-2002 | 02-05-4012A | 02
05 | IL | NORTHFIELD, VILLAGE OF | 17031C0234F | 14-AUG-2002 | 02-05-4048A | 02
05 | IL | NORTHFIELD, VILLAGE OF | 17031C0232F | 27-SEP-2002 | 02-05-4335A | 01
05 | IL | NORTHFIELD, VILLAGE OF | 17031C0232F | 06-DEC-2002 | 03-05-0498A | 02
05 | IL | OAK FOREST, CITY OF | 17031C0726F | 26-JUL-2002 | 02-05-3113A | 02
05 | IL | OAK FOREST, CITY OF | 17031C0726F | 02-AUG-2002 | 02-05-3498A | 02
05 | IL | OAK FOREST, CITY OF | 17031C0707F | 11-DEC-2002 | 03-05-0698A | 02
05 | IL | OAK FOREST, CITY OF | 17031C0707F | 18-DEC-2002 | 03-05-0860A | 02
05 | IL | OAK LAWN, VILLAGE OF | 17031C0608F | 03-JUL-2002 | 02-05-3469A | 02
05 | IL | OAK LAWN, VILLAGE OF | 17031C0609F | 02-AUG-2002 | 02-05-3489A | 02
05 | IL | OAK LAWN, VILLAGE OF | 17031C0608F | 26-JUL-2002 | 02-05-3804A | 02
05 | IL | OAK LAWN, VILLAGE OF | 17031C0609F | 06-DEC-2002 | 02-05-4137A | 02
05 | IL | OAK LAWN, VILLAGE OF | 17031C0609F | 04-OCT-2002 | 02-05-4557A | 02
05 | IL | OAKBROOK TERRACE, CITY OF | 1702150001B | 14-AUG-2002 | 02-05-2207A | 02
05 | IL | OGLE COUNTY | 1705250380A | 31-JUL-2002 | 02-05-3012A | 02
05 | IL | OGLE COUNTY | 1705250115A | 03-JUL-2002 | 02-05-3199X | 01
05 | IL | OGLE COUNTY | 1705250445A | 16-OCT-2002 | 02-05-4449A | 02
05 | IL | ORLAND PARK, VILLAGE OF | 17031C0594F | 19-JUL-2002 | 02-05-2258A | 17
05 | IL | OTTAWA, CITY OF | 17099C0530E | 25-JUL-2002 | 01-05-2931P | 05
05 | IL | PALATINE, VILLAGE OF | 17031C0183F | 03-JUL-2002 | 02-05-2752A | 01
05 | IL | PALATINE, VILLAGE OF | 17031C0044F | 04-DEC-2002 | 02-05-4737A | 01
05 | IL | PALOS HEIGHTS, CITY OF | 17031C0618F | 03-JUL-2002 | 02-05-2381A | 02
05 | IL | PALOS HEIGHTS, CITY OF | 17031C0618F | 23-OCT-2002 | 02-05-3034A | 02
05 | IL | PALOS HILLS, CITY OF | 17031C0604F | 12-JUL-2002 | 02-05-1795A | 01
05 | IL | PALOS HILLS, CITY OF | 17031C0604F | 09-AUG-2002 | 02-05-3839A | 02
05 | IL | PALOS HILLS, CITY OF | 17031C0604F | 02-OCT-2002 | 02-05-4334A | 01
05 | IL | PALOS PARK, VILLAGE OF | 17031C0612F | 14-NOV-2002 | 01-05-3037P | 05
05 | IL | PALOS PARK, VILLAGE OF | 17031C0611F | 07-AUG-2002 | 01-05-3763P | 05
05 | IL | PALOS PARK, VILLAGE OF | 17031C0612F | 07-AUG-2002 | 01-05-3763P | 05
05 | IL | PALOS PARK, VILLAGE OF | 17031C0611F | 15-OCT-2002 | 02-05-2333P | 05
05 | IL | PALOS PARK, VILLAGE OF | 17031C0612F | 15-OCT-2002 | 02-05-2333P | 05
05 | IL | PARK CITY, CITY OF | 17097C0157G | 16-OCT-2002 | 02-05-3540A | 02
05 | IL | PEORIA COUNTY | 1705330125B | 02-AUG-2002 | 02-05-3684A | 02
05 | IL | PEORIA COUNTY | 1705330125B | 27-NOV-2002 | 03-05-0661A | 02
05 | IL | PEOTONE, VILLAGE OF | 17197C0500E | 27-DEC-2002 | 02-05-3748A | 01
05 | IL | PIATT COUNTY | 1705420006B | 22-NOV-2002 | 03-05-0558A | 02
05 | IL | PLAINFIELD, VILLAGE OF | 17197C0038E | 26-JUL-2002 | 02-05-2282A | 17
05 | IL | PLAINFIELD, VILLAGE OF | 17197C0038E | 18-SEP-2002 | 02-05-3630A | 02
05 | IL | PLAINFIELD, VILLAGE OF | 17197C0036E | 15-NOV-2002 | 02-05-4670A | 01
05 | IL | PONTIAC, CITY OF | 1704260001C | 03-JUL-2002 | 02-05-3450A | 17
05 | IL | PONTIAC, CITY OF | 1704260001C | 04-OCT-2002 | 02-05-4546A | 02
05 | IL | PONTOON BEACH, VILLAGE OF | 1704360120B | 25-SEP-2002 | 02-05-4333A | 02
05 | IL | PONTOON BEACH, VILLAGE OF | 1704360120B | 11-OCT-2002 | 02-05-4385X | 02
05 | IL | PONTOON BEACH, VILLAGE OF | 1704360120B | 22-NOV-2002 | 03-05-0304A | 02
05 | IL | PORT BYRON, VILLAGE OF | 17161C0155E | 19-OCT-2002 | 03-05-0003V | 19
05 | IL | PRINCETON, CITY OF | 170014—03B | 10-JUL-2002 | 02-05-2741A | 02
05 | IL | PROSPECT HEIGHTS, CITY OF | 17031C0207F | 17-JUL-2002 | 02-05-2279A | 01
05 | IL | PROSPECT HEIGHTS, CITY OF | 17031C0208F | 13-NOV-2002 | 03-05-0231A | 02
05 | IL | RANDOLPH COUNTY | 1705750250B | 07-AUG-2002 | 02-05-3771A | 02
05 | IL | REYNOLDS, VILLAGE OF | 17161C0435E | 19-OCT-2002 | 03-05-0002V | 19
05 | IL | RICHTON PARK, VILLAGE OF | 17031C0801F | 16-AUG-2002 | 02-05-2038A | 02
05 | IL | RIVERTON, VILLAGE OF | 1706030001B | 16-AUG-2002 | 02-05-2594A | 02
05 | IL | RIVERWOODS, VILLAGE OF | 17097C0259F | 18-OCT-2002 | 02-05-4242A | 02
05 | IL | ROCK ISLAND COUNTY* | 1705820025B | 25-SEP-2002 | 02-05-3604A | 02
05 | IL | ROCK ISLAND COUNTY* | 17161C0025E | 19-OCT-2002 | 03-05-0001V | 19
05 | IL | ROCK ISLAND COUNTY* | 17161C0075E | 19-OCT-2002 | 03-05-0001V | 19
05 | IL | ROCK ISLAND COUNTY* | 17161C0145E | 19-OCT-2002 | 03-05-0001V | 19
05 | IL | ROCK ISLAND COUNTY* | 17161C0155E | 19-OCT-2002 | 03-05-0001V | 19
05 | IL | ROCK ISLAND COUNTY* | 17161C0185E | 19-OCT-2002 | 03-05-0001V | 19
05 | IL | ROCK ISLAND COUNTY* | 17161C0200E | 19-OCT-2002 | 03-05-0001V | 19
05 | IL | ROCK ISLAND COUNTY* | 17161C0315E | 19-OCT-2002 | 03-05-0001V | 19
05 | IL | ROMEOVILLE, VILLAGE OF | 17197C0135F | 07-NOV-2002 | 02-05-1170P | 05
05 | IL | ROMEOVILLE, VILLAGE OF | 17197C0135F | 18-JUL-2002 | 02-05-2683P | 06
05 | IL | ROMEOVILLE, VILLAGE OF | 17197C0062E | 20-SEP-2002 | 02-05-2867A | 01
05 | IL | ROMEOVILLE, VILLAGE OF | 17197C0065F | 20-SEP-2002 | 02-05-2867A | 01
05 | IL | ROMEOVILLE, VILLAGE OF | 17197C0065F | 04-SEP-2002 | 02-05-3668A | 02
05 | IL | ROUND LAKE BEACH, VILLAGE OF | 17097C0127G | 10-JUL-2002 | 02-05-3367A | 02
05 | IL | ROUND LAKE, VILLAGE OF | 17097C0127G | 06-DEC-2002 | 02-05-4544A | 02
05 | IL | SANGAMON COUNTY * | 1709120250C | 24-JUL-2002 | 02-05-2903A | 02
05 | IL | SAUK VILLAGE, VILLAGE OF | 17031C0827F | 20-NOV-2002 | 02-05-3923A | 17
05 | IL | SAUK VILLAGE, VILLAGE OF | 17031C0827F | 08-NOV-2002 | 03-05-0269A | 02
05 | IL | SHILOH, VILLAGE OF | 1706160040A | 13-SEP-2002 | 02-05-1969A | 02
05 | IL | SHILOH, VILLAGE OF | 1706160040A | 10-JUL-2002 | 02-05-2902A | 02
05 | IL | SIDNEY, VILLAGE OF | 1700330001B | 17-JUL-2002 | 02-05-3454A | 02
05 | IL | SIDNEY, VILLAGE OF | 1700330001B | 17-JUL-2002 | 02-05-3718A | 02
05 | IL | SLEEPY HOLLOW, VILLAGE OF | 1703310001B | 01-AUG-2002 | 02-05-3595P | 05
05 | IL | SOUTH HOLLAND, VILLAGE OF | 17031C0754F | 06-SEP-2002 | 02-05-3131A | 01
05 | IL | SOUTH HOLLAND, VILLAGE OF | 17031C0751F | 24-JUL-2002 | 02-05-3343A | 17
05 | IL | SOUTH HOLLAND, VILLAGE OF | 17031C0751F | 02-AUG-2002 | 02-05-3787A | 02
05 | IL | SPRING GROVE, VILLAGE OF | 1704850002B | 20-NOV-2002 | 02-05-3497A | 17
05 | IL | SPRINGFIELD, CITY OF | 1706040015D | 09-OCT-2002 | 02-05-3310A | 02
05 | IL | ST. CHARLES, CITY OF | 17089C0262F | 31-DEC-2002 | 02-05-0470A | 01
05 | IL | ST. CHARLES, CITY OF | 17089C0266F | 31-DEC-2002 | 02-05-0470A | 01
05 | IL | ST. CHARLES, CITY OF | 1708960040A | 31-DEC-2002 | 02-05-2627P | 06
05 | IL | ST. CLAIR COUNTY * | 1706160095A | 03-JUL-2002 | 02-05-2224A | 02
05 | IL | ST. CLAIR COUNTY * | 1706160095A | 03-JUL-2002 | 02-05-2225A | 02
05 | IL | ST. CLAIR COUNTY * | 1706160110A | 14-AUG-2002 | 02-05-2624A | 02
05 | IL | ST. CLAIR COUNTY * | 1706160065A | 10-JUL-2002 | 02-05-2901A | 02
05 | IL | ST. CLAIR COUNTY * | 1706160060A | 24-JUL-2002 | 02-05-3283A | 02
05 | IL | ST. CLAIR COUNTY * | 1706160070B | 16-AUG-2002 | 02-05-3596A | 02
05 | IL | STREAMWOOD, VILLAGE OF | 17031C0164F | 03-JUL-2002 | 02-05-2613A | 01
05 | IL | STREAMWOOD, VILLAGE OF | 17031C0164F | 07-AUG-2002 | 02-05-2614A | 02
05 | IL | STREAMWOOD, VILLAGE OF | 17031C0163F | 20-SEP-2002 | 02-05-4100A | 02
05 | IL | STREAMWOOD, VILLAGE OF | 17031C0164F | 20-SEP-2002 | 02-05-4100A | 02
05 | IL | STREATOR, CITY OF | 17099C0827E | 16-OCT-2002 | 02-05-4676A | 02
05 | IL | SWANSEA, VILLAGE OF | 1706160040A | 09-OCT-2002 | 02-05-2010A | 17
05 | IL | SWANSEA, VILLAGE OF | 1706160040A | 12-JUL-2002 | 02-05-2222A | 17
05 | IL | SWANSEA, VILLAGE OF | 1706160040A | 16-OCT-2002 | 02-05-4321A | 02
05 | IL | SWANSEA, VILLAGE OF | 1706160040A | 13-DEC-2002 | 03-05-0781A | 17
05 | IL | SYCAMORE, CITY OF | 17037C0076D | 09-AUG-2002 | 02-05-3762A | 02
05 | IL | TAZEWELL COUNTY | 1708150175B | 20-NOV-2002 | 03-05-0559A | 02
05 | IL | TAZEWELL COUNTY | 1708150150B | 18-DEC-2002 | 03-05-0924A | 02
05 | IL | TAZEWELL COUNTY | 1708150150B | 18-DEC-2002 | 03-05-0925A | 02
05 | IL | TINLEY PARK, CITY OF | 17197C0212F | 01-AUG-2002 | 02-05-0030P | 06
05 | IL | TINLEY PARK, CITY OF | 17197C0214E | 01-AUG-2002 | 02-05-0030P | 06
05 | IL | TINLEY PARK, CITY OF | 17031C0709F | 17-JUL-2002 | 02-05-3638A | 01
05 | IL | TINLEY PARK, CITY OF | 17031C0717F | 27-NOV-2002 | 02-05-4688A | 17
05 | IL | TINLEY PARK, CITY OF | 17031C0709F | 16-OCT-2002 | 02-05-4747A | 02
05 | IL | TINLEY PARK, CITY OF | 17031C0717F | 16-OCT-2002 | 02-05-4747A | 02
05 | IL | TUSCOLA, CITY OF | 1701950005C | 14-AUG-2002 | 02-05-3832A | 17
05 | IL | TUSCOLA, CITY OF | 1701950005C | 16-AUG-2002 | 02-05-4010A | 02
05 | IL | TUSCOLA, CITY OF | 1701950005C | 11-SEP-2002 | 02-05-4081A | 02
05 | IL | UNION COUNTY | 1706560100B | 27-SEP-2002 | 02-05-2389A | 02
05 | IL | VERNON HILLS, VILLAGE OF | 17097C0164G | 28-AUG-2002 | 02-05-3633A | 01
05 | IL | VERNON HILLS, VILLAGE OF | 17097C0163F | 20-SEP-2002 | 02-05-3926A | 01
05 | IL | VILLA GROVE, CITY OF | 1701960001B | 22-NOV-2002 | 03-05-0626A | 02
05 | IL | VILLA PARK, VILLAGE OF | 1702170002B | 13-DEC-2002 | 03-05-0385A | 02
05 | IL | WATSEKA, CITY OF | 17075C0120D | 24-JUL-2002 | 02-05-3683A | 02
05 | IL | WATSEKA, CITY OF | 17075C0120D | 27-DEC-2002 | 03-05-0895A | 17
05 | IL | WAUCONDA, VILLAGE OF | 17097C0118F | 13-NOV-2002 | 03-05-0276A | 02
05 | IL | WAUCONDA, VILLAGE OF | 17097C0119G | 06-DEC-2002 | 03-05-0577A | 02
05 | IL | WEST DUNDEE, VILLAGE OF | 1703350001C | 01-AUG-2002 | 02-05-3595P | 05
05 | IL | WEST DUNDEE, VILLAGE OF | 1708960010A | 01-AUG-2002 | 02-05-3595P | 05
05 | IL | WESTCHESTER, VILLAGE OF | 17031C0459F | 28-AUG-2002 | 02-05-2621A | 02
05 | IL | WESTCHESTER, VILLAGE OF | 17031C0459F | 11-OCT-2002 | 02-05-4419A | 02
05 | IL | WESTMONT, VILLAGE OF | 1702200001B | 07-AUG-2002 | 02-05-3302A | 02
05 | IL | WHEATON, CITY OF | 1702210005B | 07-AUG-2002 | 02-05-2206A | 02
05 | IL | WHEATON, CITY OF | 1702210005B | 17-JUL-2002 | 02-05-3285A | 02
05 | IL | WHEELING, VILLAGE OF | 17031C0068F | 27-DEC-2002 | 02-05-1847P | 05
05 | IL | WHEELING, VILLAGE OF | 17031C0069F | 27-DEC-2002 | 02-05-1847P | 05
05 | IL | WHEELING, VILLAGE OF | 17031C0068F | 11-DEC-2002 | 02-05-2665A | 01
05 | IL | WHEELING, VILLAGE OF | 17031C0068F | 18-OCT-2002 | 02-05-4158A | 01
05 | IL | WHITESIDE COUNTY | 1706870125B | 03-JUL-2002 | 02-05-3476A | 02
05 | IL | WHITESIDE COUNTY | 1706870075B | 20-NOV-2002 | 03-05-0083A | 02
05 | IL | WHITESIDE COUNTY | 1706870225B | 27-NOV-2002 | 03-05-0108A | 02
05 | IL | WILL COUNTY | 17197C0214E | 22-NOV-2002 | 02-05-1968P | 06
05 | IL | WILL COUNTY | 17197C0420E | 12-JUL-2002 | 02-05-2583A | 02
05 | IL | WILL COUNTY | 17197C0310E | 30-AUG-2002 | 02-05-2749A | 02
05 | IL | WILL COUNTY | 17197C0320E | 30-AUG-2002 | 02-05-2749A | 02
05 | IL | WILL COUNTY | 17197C0141E | 28-AUG-2002 | 02-05-3142A | 02
05 | IL | WILL COUNTY | 17197C0137E | 24-OCT-2002 | 02-05-3236P | 06
05 | IL | WILL COUNTY | 17197C0141E | 24-OCT-2002 | 02-05-3236P | 06
05 | IL | WILL COUNTY | 17197C0218E | 31-JUL-2002 | 02-05-3347A | 02
05 | IL | WILL COUNTY | 17197C0417E | 25-OCT-2002 | 02-05-3677A | 02
05 | IL | WILL COUNTY | 17197C0365E | 26-JUL-2002 | 02-05-3717A | 02
05 | IL | WILL COUNTY | 17197C0030E | 06-NOV-2002 | 02-05-4281A | 02
05 | IL | WILL COUNTY | 17197C0350E | 13-NOV-2002 | 02-05-4552A | 02
05 | IL | WILL COUNTY | 17197C0030E | 18-OCT-2002 | 02-05-4765A | 02
05 | IL | WILL COUNTY | 17197C0090E | 23-OCT-2002 | 02-05-4788A | 02
05 | IL | WILL COUNTY | 17197C0130E | 11-DEC-2002 | 03-05-0470A | 01
05 | IL | WILL COUNTY | 17197C0405E | 11-DEC-2002 | 03-05-0563A | 17
05 | IL | WILL COUNTY | 17197C0030E | 18-DEC-2002 | 03-05-0911A | 02
05 | IL | WILLOWBROOK, VILLAGE OF | 1701970060B | 24-JUL-2002 | 02-05-2634A | 02
05 | IL | WILMINGTON, CITY OF | 17197C0409E | 19-SEP-2002 | 02-05-2132P | 06
05 | IL | WILMINGTON, CITY OF | 17197C0430E | 19-SEP-2002 | 02-05-2132P | 06
05 | IL | WILMINGTON, CITY OF | 17197C0417E | 22-NOV-2002 | 03-05-0417A | 02
05 | IL | WINFIELD, VILLAGE OF | 1702230001C | 10-JUL-2002 | 02-05-2971A | 02
05 | IL | WINFIELD, VILLAGE OF | 1702230001C | 15-NOV-2002 | 03-05-0358A | 02
05 | IL | WINNEBAGO COUNTY | 1707200090B | 01-NOV-2002 | 03-05-0085A | 02
05 | IL | WINNETKA, VILLAGE OF | 17031C0232F | 23-OCT-2002 | 02-05-3784A | 02
05 | IL | WONDER LAKE, VILLAGE OF | 1709760001C | 18-OCT-2002 | 03-05-0084A | 02
05 | IN | ADAMS COUNTY * | 1804240075C | 03-JUL-2002 | 02-05-2899A | 02
05 | IN | ALLEN COUNTY * | 18003C0285E | 06-SEP-2002 | 02-05-2607A | 02
05 | IN | ALLEN COUNTY * | 18003C0155E | 10-JUL-2002 | 02-05-2734A | 02
05 | IN | ALLEN COUNTY * | 18003C0255D | 28-AUG-2002 | 02-05-2934A | 02
05 | IN | ALLEN COUNTY * | 18003C0155E | 30-AUG-2002 | 02-05-3280A | 01
05 | IN | ALLEN COUNTY * | 18003C0370D | 08-NOV-2002 | 02-05-3887A | 02
05 | IN | ALLEN COUNTY * | 18003C0405D | 18-OCT-2002 | 02-05-3908A | 02
05 | IN | ALLEN COUNTY * | 18003C0245D | 30-OCT-2002 | 03-05-0012A | 02
05 | IN | BARTHOLOMEW COUNTY | 1800060050B | 18-OCT-2002 | 03-05-0073A | 02
05 | IN | BLOOMINGTON, CITY OF | 1801690025C | 30-OCT-2002 | 02-05-0036A | 17
05 | IN | BROWN COUNTY | 1851740080B | 25-SEP-2002 | 02-05-4252A | 02
05 | IN | CARMEL, CITY OF | 1800810003C | 13-SEP-2002 | 02-05-3616A | 02
05 | IN | CARMEL, CITY OF | 1800810009C | 20-DEC-2002 | 03-05-0757A | 02
05 | IN | CARROLL COUNTY | 1800190051B | 14-AUG-2002 | 02-05-1804A | 02
05 | IN | CARROLL COUNTY | 1800190014B | 23-OCT-2002 | 02-05-4441A | 02
05 | IN | CARROLL COUNTY | 1800190025B | 06-NOV-2002 | 03-05-0183A | 02
05 | IN | CEDAR LAKE, TOWN OF | 1801270003B | 08-NOV-2002 | 03-05-0300A | 02
05 | IN | CICERO, TOWN OF | 1803200015C | 23-OCT-2002 | 02-05-3608A | 02
05 | IN | CICERO, TOWN OF | 1803200020C | 11-DEC-2002 | 03-05-0391A | 02
05 | IN | CLARK COUNTY | 1804260175C | 17-JUL-2002 | 02-05-3621A | 02
05 | IN | CLARK COUNTY | 1804260175C | 26-JUL-2002 | 02-05-3728A | 02
05 | IN | CLARK COUNTY | 1804260050B | 04-OCT-2002 | 02-05-3729A | 02
05 | IN | CLARK COUNTY | 1804260050B | 21-AUG-2002 | 02-05-4036A | 02
05 | IN | CLARK COUNTY | 1804260175C | 18-SEP-2002 | 02-05-4065A | 01
05 | IN | CLARK COUNTY | 1804260175C | 18-SEP-2002 | 02-05-4260A | 02
05 | IN | CLARK COUNTY | 1804260175C | 20-SEP-2002 | 02-05-4393A | 02
05 | IN | CLARK COUNTY | 1804260125C | 23-OCT-2002 | 02-05-4499A | 02
05 | IN | CLARK COUNTY | 1804260175C | 18-OCT-2002 | 02-05-4787A | 02
05 | IN | CLARK COUNTY | 1804260175C | 13-NOV-2002 | 03-05-0232A | 02
05 | IN | CLARK COUNTY | 1804260175C | 20-NOV-2002 | 03-05-0303A | 02
05 | IN | CLARK COUNTY | 1804260175C | 06-DEC-2002 | 03-05-0504A | 02
05 | IN | CLARK COUNTY | 1804260125C | 18-DEC-2002 | 03-05-0913A | 02
05 | IN | COLUMBUS, CITY OF | 1800070010D | 18-OCT-2002 | 02-05-4453A | 01
05 | IN | COLUMBUS, CITY OF | 1800070010D | 01-NOV-2002 | 02-05-4454A | 01
05 | IN | COLUMBUS, CITY OF | 1800070020D | 16-OCT-2002 | 02-05-4601A | 02
05 | IN | COLUMBUS, CITY OF | 1800070020D | 25-OCT-2002 | 02-05-4722A | 02
05 | IN | COLUMBUS, CITY OF | 1800070015D | 20-NOV-2002 | 03-05-0177A | 01
05 | IN | COLUMBUS, CITY OF | 1800070015D | 20-NOV-2002 | 03-05-0178A | 01
05 | IN | COLUMBUS, CITY OF | 1800070020D | 20-NOV-2002 | 03-05-0178A | 01
05 | IN | COLUMBUS, CITY OF | 1800070010D | 08-NOV-2002 | 03-05-0293A | 02
05 | IN | CONNERSVILLE, CITY OF | 18006103B | 03-JUL-2002 | 02-05-3380A | 02
05 | IN | CRAWFORDSVILLE, CITY OF | 180171—03B | 11-DEC-2002 | 02-05-3813A | 02
05 | IN | CROWN POINT, CITY OF | 1801280005C | 16-OCT-2002 | 02-05-4723A | 02
05 | IN | DE KALB COUNTY * | 1800440130B | 08-NOV-2002 | 02-05-3909A | 02
05 | IN | DECATUR COUNTY | 1804300085B | 27-NOV-2002 | 02-05-4181A | 02
05 | IN | DELAWARE COUNTY | 1800510125C | 24-JUL-2002 | 02-05-2892A | 02
05 | IN | DUBOIS COUNTY | 1800540009A | 06-NOV-2002 | 02-05-3742A | 02
05 | IN | DUBOIS COUNTY | 1800540002A | 06-SEP-2002 | 02-05-4243A | 02
05 | IN | ELKHART COUNTY | 1800560020B | 23-OCT-2002 | 02-05-3794A | 02
05 | IN | ELKHART COUNTY | 1800560005A | 18-OCT-2002 | 02-05-4364A | 17
05 | IN | ELKHART, CITY OF | 1800570010C | 01-NOV-2002 | 02-05-4218A | 01
05 | IN | ELKHART, CITY OF | 1800570010C | 23-OCT-2002 | 02-05-4372A | 02
05 | IN | ELKHART, CITY OF | 1800570005C | 11-OCT-2002 | 02-05-4593A | 02
05 | IN | EVANSVILLE, CITY OF | 1802570001B | 24-JUL-2002 | 02-05-3286A | 02
05 | IN | EVANSVILLE, CITY OF | 1802570001B | 17-JUL-2002 | 02-05-3287A | 02
05 | IN | EVANSVILLE, CITY OF | 1802570003B | 04-OCT-2002 | 02-05-4294A | 02
05 | IN | EVANSVILLE, CITY OF | 1802570001B | 16-OCT-2002 | 02-05-4313A | 02
05 | IN | FAYETTE COUNTY | 1804170004B | 30-OCT-2002 | 02-05-4784A | 02
05 | IN | FLOYD COUNTY | 1804320025B | 02-AUG-2002 | 02-05-3799A | 02
05 | IN | FLOYD COUNTY | 1804320005B | 20-SEP-2002 | 02-05-4349A | 02
05 | IN | FORT WAYNE, CITY OF | 18003C0265D | 11-OCT-2002 | 02-05-1076A | 02
05 | IN | FORT WAYNE, CITY OF | 18003C0270E | 24-JUL-2002 | 02-05-3273A | 02
05 | IN | FORT WAYNE, CITY OF | 18003C0280E | 14-AUG-2002 | 02-05-3307A | 02
05 | IN | FORT WAYNE, CITY OF | 18003C0290D | 09-OCT-2002 | 02-05-3916A | 02
05 | IN | FORT WAYNE, CITY OF | 18003C0270E | 02-OCT-2002 | 02-05-4156A | 02
05 | IN | FORT WAYNE, CITY OF | 18003C0260E | 04-DEC-2002 | 02-05-4319A | 17
05 | IN | FORT WAYNE, CITY OF | 18003C0270E | 27-DEC-2002 | 03-05-0355A | 02
05 | IN | FORT WAYNE, CITY OF | 18003C0270E | 20-DEC-2002 | 03-05-0357A | 02
05 | IN | FRANKLIN, CITY OF | 1801140002B | 17-JUL-2002 | 02-05-2542A | 02
05 | IN | FRANKLIN, CITY OF | 1801110100C | 25-SEP-2002 | 02-05-3446A | 01
05 | IN | FRANKLIN, CITY OF | 1801140002B | 27-NOV-2002 | 03-05-0628A | 02
05 | IN | GARY, CITY OF | 1801320019C | 20-DEC-2002 | 03-05-0970A | 02
05 | IN | GRANT COUNTY | 18053C0125D | 13-SEP-2002 | 02-05-3346A | 02
05 | IN | GRANT COUNTY | 18053C0251D | 09-AUG-2002 | 02-05-3829A | 02
05 | IN | GRANT COUNTY | 18053C0135D | 11-OCT-2002 | 02-05-4559A | 02
05 | IN | GRANT COUNTY | 18053C0142D | 06-NOV-2002 | 03-05-0567X | 02
05 | IN | GREENFIELD, CITY OF | 1800840006C | 06-NOV-2002 | 02-05-4696A | 01
05 | IN | GREENFIELD, CITY OF | 1800840002C | 27-NOV-2002 | 03-05-0107A | 17
05 | IN | GREENFIELD, CITY OF | 1800840005C | 27-DEC-2002 | 03-05-0581A | 01
05 | IN | GREENWOOD, CITY OF | 1801150002B | 03-JUL-2002 | 02-05-3318A | 02
05 | IN | HAMILTON COUNTY* | 1800800100C | 16-OCT-2002 | 02-05-0467A | 01
05 | IN | HAMILTON COUNTY* | 1800800100C | 12-AUG-2002 | 02-05-1728A | 17
05 | IN | HAMILTON COUNTY* | 1800800100C | 13-SEP-2002 | 02-05-3571A | 02
05 | IN | HAMILTON COUNTY* | 1800800040B | 22-NOV-2002 | 03-05-0034A | 02
05 | IN | HAMILTON, TOWN OF | 180248—01C | 22-NOV-2002 | 03-05-0039A | 02
05 | IN | HAMILTON, TOWN OF | 1802480001D | 07-DEC-2002 | 03-05-0383V | 19
05 | IN | HANCOCK COUNTY | 1804190075B | 18-OCT-2002 | 02-05-4230A | 02
05 | IN | HANCOCK COUNTY | 1804190025B | 18-OCT-2002 | 02-05-4776A | 02
05 | IN | HANCOCK COUNTY | 1804190050B | 20-DEC-2002 | 03-05-0804A | 02
05 | IN | HARRISON COUNTY | 1800850004B | 03-JUL-2002 | 02-05-3478A | 02
05 | IN | HENDRICKS COUNTY | 1804150050B | 28-AUG-2002 | 02-05-3734A | 02
05 | IN | HENDRICKS COUNTY | 1804150050B | 28-AUG-2002 | 02-05-4015A | 02
05 | IN | HENDRICKS COUNTY | 1804150050B | 11-DEC-2002 | 02-05-4120A | 17
05 | IN | HOBART, CITY OF | 1801360005B | 08-NOV-2002 | 03-05-0082A | 02
05 | IN | HOWARD COUNTY | 1804140043B | 04-DEC-2002 | 02-05-4703A | 02
05 | IN | HOWARD COUNTY | 1804140043B | 01-NOV-2002 | 03-05-0158A | 02
05 | IN | HOWARD COUNTY | 1804140043B | 01-NOV-2002 | 03-05-0176A | 02
05 | IN | HOWARD COUNTY | 1804140043B | 06-NOV-2002 | 03-05-0218A | 02
05 | IN | INDIANAPOLIS, CITY OF | 18097C0063E | 24-JUL-2002 | 02-05-2910A | 01
05 | IN | INDIANAPOLIS, CITY OF | 18097C0063E | 02-OCT-2002 | 02-05-3895X | 01
05 | IN | INDIANAPOLIS, CITY OF | 18097C0044E | 22-NOV-2002 | 02-05-0034A | 01
05 | IN | INDIANAPOLIS, CITY OF | 18097C0229E | 22-OCT-2002 | 02-05-2133P | 06
05 | IN | INDIANAPOLIS, CITY OF | 18097C0241E | 11-DEC-2002 | 02-05-2731A | 01
05 | IN | INDIANAPOLIS, CITY OF | 18097C0114E | 06-NOV-2002 | 02-05-2964A | 01
05 | IN | INDIANAPOLIS, CITY OF | 18097C0240E | 31-JUL-2002 | 02-05-3009A | 02
05 | IN | INDIANAPOLIS, CITY OF | 18097C0114E | 03-JUL-2002 | 02-05-3201A | 02
05 | IN | INDIANAPOLIS, CITY OF | 18097C0118E | 03-JUL-2002 | 02-05-3201A | 02
05 | IN | INDIANAPOLIS, CITY OF | 18097C0253E | 04-OCT-2002 | 02-05-3335A | 02
05 | IN | INDIANAPOLIS, CITY OF | 18097C0168E | 09-AUG-2002 | 02-05-3362A | 02
05 | IN | INDIANAPOLIS, CITY OF | 18097C0135E | 11-SEP-2002 | 02-05-3384A | 02
05 | IN | INDIANAPOLIS, CITY OF | 18097C0262E | 18-OCT-2002 | 02-05-3423A | 02
05 | IN | INDIANAPOLIS, CITY OF | 18097C0089E | 25-SEP-2002 | 02-05-3434A | 02
05 | IN | INDIANAPOLIS, CITY OF | 18097C0089E | 03-JUL-2002 | 02-05-3440A | 02
05 | IN | INDIANAPOLIS, CITY OF | 18097C0087E | 27-SEP-2002 | 02-05-3482A | 02
05 | IN | INDIANAPOLIS, CITY OF | 18097C0020E | 18-SEP-2002 | 02-05-3494A | 02
05 | IN | INDIANAPOLIS, CITY OF | 18097C0126E | 26-JUL-2002 | 02-05-3515A | 02
05 | IN | INDIANAPOLIS, CITY OF | 18097C0270E | 23-AUG-2002 | 02-05-3632A | 02
05 | IN | INDIANAPOLIS, CITY OF | 18097C0089E | 24-JUL-2002 | 02-05-3690A | 02
05 | IN | INDIANAPOLIS, CITY OF | 18097C0186E | 16-AUG-2002 | 02-05-3698A | 01
05 | IN | INDIANAPOLIS, CITY OF | 18097C0039E | 08-NOV-2002 | 02-05-3727A | 17
05 | IN | INDIANAPOLIS, CITY OF | 18097C0241E | 16-OCT-2002 | 02-05-3747A | 01
05 | IN | INDIANAPOLIS, CITY OF | 18097C0180E | 16-AUG-2002 | 02-05-3952A | 02
05 | IN | INDIANAPOLIS, CITY OF | 18097C0243E | 16-AUG-2002 | 02-05-3987A | 01
05 | IN | INDIANAPOLIS, CITY OF | 18097C0241E | 27-NOV-2002 | 02-05-4013A | 01
05 | IN | INDIANAPOLIS, CITY OF | 18097C0116E | 28-AUG-2002 | 02-05-4031A | 01
05 | IN | INDIANAPOLIS, CITY OF | 18097C0117E | 28-AUG-2002 | 02-05-4031A | 01
05 | IN | INDIANAPOLIS, CITY OF | 18097C0244E | 18-OCT-2002 | 02-05-4039A | 17
05 | IN | INDIANAPOLIS, CITY OF | 18097C0089E | 02-OCT-2002 | 02-05-4052A | 02
05 | IN | INDIANAPOLIS, CITY OF | 18097C0263E | 18-DEC-2002 | 02-05-4101A | 01
05 | IN | INDIANAPOLIS, CITY OF | 18097C0262E | 25-OCT-2002 | 02-05-4143A | 02
05 | IN | INDIANAPOLIS, CITY OF | 18097C0180E | 01-NOV-2002 | 02-05-4151A | 02
05 | IN | INDIANAPOLIS, CITY OF | 18097C0087E | 28-AUG-2002 | 02-05-4178A | 02
05 | IN | INDIANAPOLIS, CITY OF | 18097C0136E | 06-NOV-2002 | 02-05-4216A | 02
05 | IN | INDIANAPOLIS, CITY OF | 18097C0063E | 06-NOV-2002 | 02-05-4376A | 02
05 | IN | INDIANAPOLIS, CITY OF | 18097C0039E | 20-NOV-2002 | 02-05-4398A | 01
05 | IN | INDIANAPOLIS, CITY OF | 18097C0089E | 25-SEP-2002 | 02-05-4401A | 02
05 | IN | INDIANAPOLIS, CITY OF | 18097C0243E | 06-DEC-2002 | 02-05-4429A | 02
05 | IN | INDIANAPOLIS, CITY OF | 18097C0263E | 25-SEP-2002 | 02-05-4456A | 02
05 | IN | INDIANAPOLIS, CITY OF | 18097C0110E | 27-NOV-2002 | 02-05-4513A | 02
05 | IN | INDIANAPOLIS, CITY OF | 18097C0262E | 20-DEC-2002 | 02-05-4573A | 17
05 | IN | INDIANAPOLIS, CITY OF | 18097C0063E | 02-DEC-2002 | 02-05-4778P | 06
05 | IN | INDIANAPOLIS, CITY OF | 18097C0087E | 01-NOV-2002 | 03-05-0138A | 02
05 | IN | INDIANAPOLIS, CITY OF | 18097C0244E | 06-NOV-2002 | 03-05-0174A | 02
05 | IN | INDIANAPOLIS, CITY OF | 18097C0089E | 06-NOV-2002 | 03-05-0187A | 02
05 | IN | INDIANAPOLIS, CITY OF | 18097C0118E | 08-NOV-2002 | 03-05-0252A | 02
05 | IN | INDIANAPOLIS, CITY OF | 18097C0128E | 11-DEC-2002 | 03-05-0259A | 17
05 | IN | INDIANAPOLIS, CITY OF | 18097C0089E | 13-NOV-2002 | 03-05-0294A | 02
05 | IN | INDIANAPOLIS, CITY OF | 18097C0280E | 13-NOV-2002 | 03-05-0323A | 02
05 | IN | INDIANAPOLIS, CITY OF | 18097C0127E | 27-DEC-2002 | 03-05-0343A | 02
05 | IN | INDIANAPOLIS, CITY OF | 18097C0153E | 18-DEC-2002 | 03-05-0495A | 02
05 | IN | INDIANAPOLIS, CITY OF | 18097C0262E | 13-NOV-2002 | 03-05-0568X | 02
05 | IN | INDIANAPOLIS, CITY OF | 18097C0063E | 20-NOV-2002 | 03-05-0574A | 02
05 | IN | INDIANAPOLIS, CITY OF | 18097C0063E | 15-NOV-2002 | 03-05-0575A | 02
05 | IN | INDIANAPOLIS, CITY OF | 18097C0063E | 22-NOV-2002 | 03-05-0576A | 02
05 | IN | INDIANAPOLIS, CITY OF | 18097C0240E | 13-DEC-2002 | 03-05-0608A | 01
05 | IN | INDIANAPOLIS, CITY OF | 18097C0126E | 13-DEC-2002 | 03-05-0828A | 02
05 | IN | INDIANAPOLIS, CITY OF | 18097C0105E | 18-DEC-2002 | 03-05-0952A | 02
05 | IN | JASPER, CITY OF | 1800550010C | 25-SEP-2002 | 02-05-4239A | 02
05 | IN | JEFFERSON COUNTY | 1801040006B | 11-DEC-2002 | 03-05-0268A | 02
05 | IN | JEFFERSON COUNTY | 1801040006B | 06-DEC-2002 | 03-05-0699A | 02
05 | IN | JEFFERSONVILLE, CITY OF | 1800270005D | 27-SEP-2002 | 02-05-4350A | 02
05 | IN | JEFFERSONVILLE, CITY OF | 1800270005D | 16-OCT-2002 | 02-05-4698A | 02
05 | IN | JEFFERSONVILLE, CITY OF | 1800270005D | 25-OCT-2002 | 02-05-4724A | 02
05 | IN | JEFFERSONVILLE, CITY OF | 1800270005D | 13-DEC-2002 | 03-05-0290A | 02
05 | IN | JOHNSON COUNTY | 1801110012C | 11-OCT-2002 | 02-05-3685A | 02
05 | IN | KOSCIUSKO COUNTY | 18085C0045C | 14-AUG-2002 | 02-05-2897A | 02
05 | IN | KOSCIUSKO COUNTY | 18085C0040C | 03-JUL-2002 | 02-05-3141A | 02
05 | IN | KOSCIUSKO COUNTY | 18085C0100C | 10-JUL-2002 | 02-05-3479A | 02
05 | IN | KOSCIUSKO COUNTY | 18085C0080C | 24-JUL-2002 | 02-05-3676A | 02
05 | IN | KOSCIUSKO COUNTY | 18085C0100C | 26-JUL-2002 | 02-05-3777A | 02
05 | IN | KOSCIUSKO COUNTY | 18085C0080C | 01-NOV-2002 | 02-05-4023A | 02
05 | IN | KOSCIUSKO COUNTY | 18085C0080C | 16-AUG-2002 | 02-05-4040A | 02
05 | IN | KOSCIUSKO COUNTY | 18085C0100C | 21-AUG-2002 | 02-05-4055A | 02
05 | IN | KOSCIUSKO COUNTY | 18085C0075C | 25-SEP-2002 | 02-05-4133A | 02
05 | IN | KOSCIUSKO COUNTY | 18085C0059C | 06-NOV-2002 | 02-05-4227A | 17
05 | IN | KOSCIUSKO COUNTY | 18085C0100C | 06-SEP-2002 | 02-05-4228A | 02
05 | IN | KOSCIUSKO COUNTY | 18085C0035C | 18-SEP-2002 | 02-05-4275A | 02
05 | IN | KOSCIUSKO COUNTY | 18085C0125C | 18-SEP-2002 | 02-05-4280A | 02
05 | IN | KOSCIUSKO COUNTY | 18085C0100C | 20-SEP-2002 | 02-05-4365A | 02
05 | IN | KOSCIUSKO COUNTY | 18085C0035C | 25-SEP-2002 | 02-05-4443A | 02
05 | IN | KOSCIUSKO COUNTY | 18085C0080C | 16-OCT-2002 | 02-05-4609A | 02
05 | IN | KOSCIUSKO COUNTY | 18085C0080C | 16-OCT-2002 | 02-05-4682A | 02
05 | IN | KOSCIUSKO COUNTY | 18085C0080C | 16-OCT-2002 | 02-05-4725A | 02
05 | IN | KOSCIUSKO COUNTY | 18085C0100C | 23-OCT-2002 | 03-05-0099A | 02
05 | IN | KOSCIUSKO COUNTY | 18085C0080C | 23-OCT-2002 | 03-05-0105A | 02
05 | IN | KOSCIUSKO COUNTY | 18085C0100C | 23-OCT-2002 | 03-05-0134A | 02
05 | IN | KOSCIUSKO COUNTY | 18085C0045C | 13-NOV-2002 | 03-05-0228A | 02
05 | IN | KOSCIUSKO COUNTY | 18085C0080C | 22-NOV-2002 | 03-05-0292A | 02
05 | IN | KOSCIUSKO COUNTY | 18085C0080C | 20-NOV-2002 | 03-05-0340A | 02
05 | IN | KOSCIUSKO COUNTY | 18085C0080C | 13-DEC-2002 | 03-05-0874A | 02
05 | IN | KOSCIUSKO COUNTY | 18085C0035C | 20-DEC-2002 | 03-05-1028A | 02
05 | IN | LA PORTE COUNTY | 1801440250C | 18-OCT-2002 | 02-05-2147A | 02
05 | IN | LAGRANGE COUNTY | 1801250004B | 14-AUG-2002 | 02-05-3439A | 02
05 | IN | LAGRANGE COUNTY | 1801250004B | 24-JUL-2002 | 02-05-3678A | 02
05 | IN | LAGRANGE COUNTY | 1801250004B | 13-SEP-2002 | 02-05-4142A | 02
05 | IN | LAGRANGE COUNTY | 1801250003B | 06-SEP-2002 | 02-05-4250A | 02
05 | IN | LAGRANGE COUNTY | 1801250004B | 11-OCT-2002 | 02-05-4531A | 02
05 | IN | LAGRANGE COUNTY | 1801250003B | 13-NOV-2002 | 03-05-0312A | 02
05 | IN | LAGRANGE COUNTY | 1801250004B | 13-NOV-2002 | 03-05-0321A | 02
05 | IN | LAGRANGE COUNTY | 1801250004B | 20-NOV-2002 | 03-05-0584A | 02
05 | IN | LAGRANGE COUNTY | 1801250001B | 27-DEC-2002 | 03-05-0920A | 02
05 | IN | LAKE COUNTY | 1801260080B | 03-JUL-2002 | 02-05-3177A | 02
05 | IN | LIBERTY, TOWNSHIP OF | 1804880002A | 27-SEP-2002 | 02-05-4450A | 02
05 | IN | LOWELL, TOWN OF | 1801370005C | 17-JUL-2002 | 02-05-3370A | 02
05 | IN | MADISON COUNTY | 1804420003B | 02-AUG-2002 | 02-05-2571A | 02
05 | IN | MARION, CITY OF | 18053C0133D | 18-OCT-2002 | 02-05-4572A | 02
05 | IN | MARION, CITY OF | 18053C0142D | 23-OCT-2002 | 02-05-4681A | 02
05 | IN | MARSHALL COUNTY | 1804430040B | 06-SEP-2002 | 02-05-4185A | 02
05 | IN | MEDORA, TOWN OF | 1800980001B | 17-JUL-2002 | 02-05-2750A | 02
05 | IN | MONTGOMERY COUNTY | 1804450004B | 01-NOV-2002 | 02-05-4432A | 02
05 | IN | MORGAN COUNTY | 1801760125B | 27-NOV-2002 | 03-05-0307A | 02
05 | IN | MUNCIE, CITY OF | 1800530002C | 18-SEP-2002 | 02-05-1961A | 02
05 | IN | MUNCIE, CITY OF | 1800530005C | 03-JUL-2002 | 02-05-3438A | 02
05 | IN | MUNCIE, CITY OF | 1800530002C | 02-AUG-2002 | 02-05-3814A | 02
05 | IN | MUNCIE, CITY OF | 1800530010C | 25-SEP-2002 | 02-05-4262A | 02
05 | IN | MUNSTER, TOWN OF | 1801390002B | 06-NOV-2002 | 03-05-0279A | 02
05 | IN | MUNSTER, TOWN OF | 1801390002B | 18-DEC-2002 | 03-05-0947A | 02
05 | IN | NEW ALBANY, CITY OF | 1800620013D | 10-JUL-2002 | 02-05-3460A | 02
05 | IN | NEWBURGH, TOWN OF | 1802760001B | 10-JUL-2002 | 02-05-2625A | 02
05 | IN | NOBLE COUNTY * | 1801830025B | 27-NOV-2002 | 02-05-4300A | 02
05 | IN | NOBLE COUNTY * | 1801830075B | 23-OCT-2002 | 02-05-4310A | 02
05 | IN | NOBLE COUNTY * | 1801830075B | 11-OCT-2002 | 02-05-4622A | 02
05 | IN | NOBLE COUNTY * | 1801830075B | 22-NOV-2002 | 03-05-0374A | 02
05 | IN | NOBLESVILLE, CITY OF | 1800800100C | 09-OCT-2002 | 02-05-1128P | 05
05 | IN | NOBLESVILLE, CITY OF | 1800820030E | 13-SEP-2002 | 02-05-3271A | 01
05 | IN | NOBLESVILLE, CITY OF | 1800820030E | 22-NOV-2002 | 02-05-3871A | 02
05 | IN | NOBLESVILLE, CITY OF | 1800820015E | 13-DEC-2002 | 02-05-4303A | 01
05 | IN | NOBLESVILLE, CITY OF | 1800820030E | 25-OCT-2002 | 02-05-4630A | 01
05 | IN | NORTH WEBSTER, TOWN OF | 18085C0045C | 03-JUL-2002 | 02-05-3379A | 02
05 | IN | NORTH WEBSTER, TOWN OF | 18085C0045C | 21-AUG-2002 | 02-05-4054A | 02
05 | IN | NORTH WEBSTER, TOWN OF | 18085C0045C | 11-DEC-2002 | 03-05-0837A | 02
05 | IN | OHIO COUNTY | 180406—05B | 22-NOV-2002 | 03-05-0606A | 02
05 | IN | PLAINFIELD, TOWN OF | 1804150100B | 18-SEP-2002 | 02-05-3339A | 17
05 | IN | PLAINFIELD, TOWN OF | 1804150100B | 13-DEC-2002 | 03-05-0893A | 02
05 | IN | PORTER COUNTY | 1804250050B | 04-OCT-2002 | 02-05-4569A | 02
05 | IN | PORTER COUNTY | 1804250060B | 11-DEC-2002 | 03-05-0217A | 02
05 | IN | PUTNAM COUNTY | 1802130003B | 25-SEP-2002 | 02-05-3768A | 01
05 | IN | PUTNAM COUNTY | 1802130005B | 23-AUG-2002 | 02-05-4062A | 02
05 | IN | PUTNAM COUNTY | 1802130002B | 23-OCT-2002 | 03-05-0125A | 02
05 | IN | RICHMOND, CITY OF | 1802870020C | 10-JUL-2002 | 02-05-2120A | 02
05 | IN | SCHERERVILLE, TOWN OF | 1801420005B | 25-OCT-2002 | 02-05-2879A | 01
05 | IN | SCHERERVILLE, TOWN OF | 1801420005B | 28-AUG-2002 | 02-05-3470A | 02
05 | IN | SCHERERVILLE, TOWN OF | 1801420005B | 04-OCT-2002 | 02-05-3806A | 01
05 | IN | SCHERERVILLE, TOWN OF | 1801420005B | 18-DEC-2002 | 03-05-0855A | 02
05 | IN | SELLERSBURG, TOWN OF | 1800280001B | 20-SEP-2002 | 02-05-4351A | 02
05 | IN | SELLERSBURG, TOWN OF | 1800280001B | 11-DEC-2002 | 03-05-0643A | 02
05 | IN | SEYMOUR, CITY OF | 1800990004C | 06-SEP-2002 | 02-05-4084A | 02
05 | IN | SEYMOUR, CITY OF | 1800990004C | 04-DEC-2002 | 03-05-0318A | 02
05 | IN | SEYMOUR, CITY OF | 1800990004C | 13-NOV-2002 | 03-05-0406A | 02
05 | IN | SHELBY COUNTY | 1802350060B | 28-AUG-2002 | 02-05-4121A | 02
05 | IN | SHELBY COUNTY | 1802350080B | 18-OCT-2002 | 03-05-0092A | 02
05 | IN | SHELBYVILLE, CITY OF | 1802350080B | 16-OCT-2002 | 02-05-3143A | 01
05 | IN | SOUTH BEND, CITY OF | 1802310002C | 21-AUG-2002 | 02-05-4049A | 02
05 | IN | SOUTH WHITLEY, TOWN OF | 18030102B | 02-AUG-2002 | 02-05-3565A | 02
05 | IN | SPENCER COUNTY | 1802370150A | 10-JUL-2002 | 02-05-2805A | 02
05 | IN | SPENCER, TOWN OF | 1801910001C | 27-SEP-2002 | 02-05-4136A | 02
05 | IN | STARKE COUNTY | 1802400002B | 06-DEC-2002 | 03-05-0610A | 02
05 | IN | STEUBEN COUNTY* | 1802430025B | 03-JUL-2002 | 02-05-2939A | 02
05 | IN | STEUBEN COUNTY* | 1802430025B | 24-JUL-2002 | 02-05-2942A | 02
05 | IN | STEUBEN COUNTY* | 1802430025B | 19-JUL-2002 | 02-05-3296A | 02
05 | IN | STEUBEN COUNTY* | 1802430025B | 01-NOV-2002 | 02-05-3606A | 02
05 | IN | STEUBEN COUNTY* | 1802430025B | 23-OCT-2002 | 02-05-3875A | 02
05 | IN | STEUBEN COUNTY* | 1802430100B | 06-NOV-2002 | 02-05-3898A | 02
05 | IN | STEUBEN COUNTY* | 1802430075B | 01-NOV-2002 | 02-05-3899A | 02
05 | IN | STEUBEN COUNTY* | 1802430075B | 13-SEP-2002 | 02-05-4291A | 02
05 | IN | STEUBEN COUNTY* | 1802430025B | 18-OCT-2002 | 03-05-0011A | 02
05 | IN | STEUBEN COUNTY* | 1802430025B | 18-DEC-2002 | 03-05-0037A | 02
05 | IN | STEUBEN COUNTY* | 1802430025B | 06-NOV-2002 | 03-05-0040A | 02
05 | IN | STEUBEN COUNTY* | 1802430100B | 06-NOV-2002 | 03-05-0049A | 02
05 | IN | STEUBEN COUNTY* | 1802430025B | 04-DEC-2002 | 03-05-0375A | 02
05 | IN | STEUBEN COUNTY* | 1802430025B | 27-NOV-2002 | 03-05-0387A | 02
05 | IN | STEUBEN COUNTY* | 1802430100B | 11-DEC-2002 | 03-05-0760A | 02
05 | IN | SYRACUSE, TOWN OF | 18085C0031C | 02-AUG-2002 | 02-05-3815A | 02
05 | IN | SYRACUSE, TOWN OF | 18085C0031C | 04-DEC-2002 | 03-05-0496A | 02
05 | IN | TIPPECANOE COUNTY | 1804280030B | 14-AUG-2002 | 02-05-3435A | 02
05 | IN | TIPPECANOE COUNTY | 1804280050B | 14-AUG-2002 | 02-05-3435A | 02
05 | IN | TIPPECANOE COUNTY | 1804280050B | 26-JUL-2002 | 02-05-3557A | 02
05 | IN | TIPPECANOE COUNTY | 1804280030B | 16-OCT-2002 | 02-05-3736A | 02
05 | IN | TIPPECANOE COUNTY | 1804280030B | 14-AUG-2002 | 02-05-3842A | 02
05 | IN | TIPPECANOE COUNTY | 1804280030B | 14-AUG-2002 | 02-05-4045A | 02
05 | IN | TIPTON, CITY OF | 1802550001C | 13-DEC-2002 | 03-05-0832A | 02
05 | IN | UPLAND, TOWN OF | 18053C0275D | 13-NOV-2002 | 03-05-0196A | 02
05 | IN | VANDERBURGH COUNTY * | 1802560050B | 30-AUG-2002 | 02-05-1262A | 01
05 | IN | VANDERBURGH COUNTY * | 1802560100B | 24-JUL-2002 | 02-05-1996A | 01
05 | IN | VANDERBURGH COUNTY * | 1802560025C | 03-JUL-2002 | 02-05-3263A | 01
05 | IN | VANDERBURGH COUNTY * | 1802560025C | 10-JUL-2002 | 02-05-3264A | 01
05 | IN | VANDERBURGH COUNTY * | 1802560075C | 21-AUG-2002 | 02-05-3281A | 02
05 | IN | VANDERBURGH COUNTY * | 1802560025C | 24-JUL-2002 | 02-05-3299A | 02
05 | IN | VANDERBURGH COUNTY * | 1802560025C | 24-JUL-2002 | 02-05-3300A | 01
05 | IN | VANDERBURGH COUNTY * | 1802560015C | 04-SEP-2002 | 02-05-3580A | 02
05 | IN | VANDERBURGH COUNTY * | 1802560075C | 09-OCT-2002 | 02-05-3583A | 02
05 | IN | VANDERBURGH COUNTY * | 1802560025C | 06-SEP-2002 | 02-05-3585A | 01
05 | IN | VANDERBURGH COUNTY * | 1802560025C | 02-OCT-2002 | 02-05-3591A | 02
05 | IN | VANDERBURGH COUNTY * | 1802560025C | 04-SEP-2002 | 02-05-3592A | 02
05 | IN | VANDERBURGH COUNTY * | 1802560015C | 02-OCT-2002 | 02-05-3614A | 01
05 | IN | VANDERBURGH COUNTY * | 1802560025C | 02-OCT-2002 | 02-05-3615A | 01
05 | IN | VANDERBURGH COUNTY * | 1802560025C | 09-OCT-2002 | 02-05-3872A | 01
05 | IN | VANDERBURGH COUNTY * | 1802560025C | 04-OCT-2002 | 02-05-3878A | 02
05 | IN | VANDERBURGH COUNTY * | 1802560025C | 11-OCT-2002 | 02-05-3902A | 01
05 | IN | VANDERBURGH COUNTY * | 1802560025C | 06-SEP-2002 | 02-05-4283A | 02
05 | IN | VANDERBURGH COUNTY * | 1802560025C | 06-SEP-2002 | 02-05-4285A | 01
05 | IN | VANDERBURGH COUNTY * | 1802560025C | 13-SEP-2002 | 02-05-4286A | 01
05 | IN | VANDERBURGH COUNTY * | 1802560025C | 13-SEP-2002 | 02-05-4297A | 01
05 | IN | VANDERBURGH COUNTY * | 1802560025C | 16-OCT-2002 | 02-05-4301A | 01
05 | IN | VANDERBURGH COUNTY * | 1802560025C | 02-OCT-2002 | 02-05-4316A | 01
05 | IN | VANDERBURGH COUNTY * | 1802560050B | 18-OCT-2002 | 02-05-4611A | 02
05 | IN | VANDERBURGH COUNTY * | 1802560025C | 09-OCT-2002 | 02-05-4613A | 01
05 | IN | VANDERBURGH COUNTY * | 1802560025C | 11-OCT-2002 | 02-05-4619A | 01
05 | IN | VANDERBURGH COUNTY * | 1802560075C | 22-NOV-2002 | 02-05-4625A | 02
05 | IN | VANDERBURGH COUNTY * | 1802560025C | 23-OCT-2002 | 02-05-4626A | 01
05 | IN | VANDERBURGH COUNTY * | 1802560100B | 22-NOV-2002 | 02-05-4627A | 02
05 | IN | VANDERBURGH COUNTY * | 1802560015C | 18-OCT-2002 | 03-05-0008A | 01
05 | IN | VANDERBURGH COUNTY * | 1802560025C | 23-OCT-2002 | 03-05-0016A | 02
05 | IN | VANDERBURGH COUNTY * | 1802560025C | 25-OCT-2002 | 03-05-0020A | 01
05 | IN | VANDERBURGH COUNTY * | 1802560025C | 06-NOV-2002 | 03-05-0025A | 02
05 | IN | VANDERBURGH COUNTY * | 1802560025C | 23-OCT-2002 | 03-05-0026A | 01
05 | IN | VANDERBURGH COUNTY * | 1802560025C | 01-NOV-2002 | 03-05-0027A | 02
05 | IN | VANDERBURGH COUNTY * | 1802560025C | 08-NOV-2002 | 03-05-0041A | 01
05 | IN | VANDERBURGH COUNTY * | 1802560015C | 06-NOV-2002 | 03-05-0042A | 01
05 | IN | VANDERBURGH COUNTY * | 1802560025C | 27-NOV-2002 | 03-05-0386A | 01
05 | IN | VANDERBURGH COUNTY * | 1802560025C | 04-DEC-2002 | 03-05-0394A | 01
05 | IN | VANDERBURGH COUNTY * | 1802560025C | 11-DEC-2002 | 03-05-0767A | 01
05 | IN | VANDERBURGH COUNTY * | 1802560025C | 11-DEC-2002 | 03-05-0771A | 02
05 | IN | VANDERBURGH COUNTY * | 1802560025C | 27-DEC-2002 | 03-05-1056A | 01
05 | IN | VIGO COUNTY | 1802630020B | 16-AUG-2002 | 02-05-2411A | 17
05 | IN | VIGO COUNTY | 1802630020B | 03-JUL-2002 | 02-05-3178A | 02
05 | IN | VIGO COUNTY | 1802630070B | 18-OCT-2002 | 02-05-3692A | 01
05 | IN | VIGO COUNTY | 1802630070B | 11-OCT-2002 | 02-05-4373A | 01
05 | IN | WABASH, CITY OF | 18169C0070D | 27-SEP-2002 | 02-05-3731A | 17
05 | IN | WARRICK COUNTY * | 1804180175B | 11-OCT-2002 | 02-05-4628A | 02
05 | IN | WAYNE COUNTY | 1802800100B | 26-JUL-2002 | 02-05-2528A | 17
05 | IN | WELLS COUNTY | 1802880075C | 09-OCT-2002 | 02-05-3513A | 02
05 | IN | WESTFIELD, TOWN OF | 1800830012C | 19-JUL-2002 | 02-05-1278P | 05
05 | IN | WESTFIELD, TOWN OF | 1800830011C | 27-SEP-2002 | 02-05-2912A | 01
05 | IN | WESTFIELD, TOWN OF | 1800830013C | 16-AUG-2002 | 02-05-3294A | 02
05 | IN | WESTFIELD, TOWN OF | 1800830011C | 18-DEC-2002 | 03-05-0038A | 02
05 | IN | WESTFIELD, TOWN OF | 1800830010C | 24-SEP-2002 | 02-05-2995P | 05
05 | IN | WESTFIELD, TOWN OF | 1800830011C | 24-SEP-2002 | 02-05-2995P | 05
05 | IN | WESTFIELD, TOWN OF | 1800830014C | 24-SEP-2002 | 02-05-2995P | 05
05 | IN | WHITE COUNTY | 1804470002C | 11-DEC-2002 | 02-05-2429A | 02
05 | IN | WHITE COUNTY | 1804470002C | 03-JUL-2002 | 02-05-3187A | 02
05 | IN | WHITE COUNTY | 1804470005C | 24-JUL-2002 | 02-05-3695A | 02
05 | IN | WHITE COUNTY | 1804470002C | 02-AUG-2002 | 02-05-3772A | 02
05 | IN | WHITE COUNTY | 1804470002C | 02-OCT-2002 | 02-05-3778A | 02
05 | IN | WHITE COUNTY | 1804470005C | 11-SEP-2002 | 02-05-4106A | 02
05 | IN | WHITE COUNTY | 1804470005C | 06-SEP-2002 | 02-05-4117A | 02
05 | IN | WHITE COUNTY | 1804470002C | 18-SEP-2002 | 02-05-4259A | 02
05 | IN | WHITE COUNTY | 1804470005C | 16-OCT-2002 | 02-05-4268A | 02
05 | IN | WHITE COUNTY | 1804470002C | 18-SEP-2002 | 02-05-4371A | 02
05 | IN | WHITE COUNTY | 1804470002C | 18-DEC-2002 | 03-05-0104A | 02
05 | IN | WHITE COUNTY | 1804470005C | 20-NOV-2002 | 03-05-0195A | 02
05 | IN | WHITE COUNTY | 1804470005C | 15-NOV-2002 | 03-05-0214A | 02
05 | IN | WHITE COUNTY | 1804470002C | 04-DEC-2002 | 03-05-0457A | 02
05 | IN | WHITELAND, TOWN OF | 1801180001A | 26-JUL-2002 | 02-05-2671A | 02
05 | IN | WHITELAND, TOWN OF | 1801180001A | 12-JUL-2002 | 02-05-3119A | 01
05 | IN | WHITELAND, TOWN OF | 1801180001A | 28-AUG-2002 | 02-05-3320A | 02
05 | IN | WHITELAND, TOWN OF | 1801180001A | 25-SEP-2002 | 02-05-3487A | 02
05 | IN | WHITELAND, TOWN OF | 1801180001A | 25-SEP-2002 | 02-05-3488A | 02
05 | IN | WHITELAND, TOWN OF | 1801180001A | 11-OCT-2002 | 02-05-3928A | 02
05 | IN | WHITLEY COUNTY | 1802980001B | 25-OCT-2002 | 02-05-4157A | 02
05 | IN | WINONA LAKE, TOWN OF | 18085C0086C | 26-JUL-2002 | 02-05-2667A | 02
05 | IN | WINONA LAKE, TOWN OF | 18085C0086C | 04-SEP-2002 | 02-05-3627A | 02
05 | IN | WINONA LAKE, TOWN OF | 18085C0086C | 20-SEP-2002 | 02-05-4255A | 02
05 | IN | WINONA LAKE, TOWN OF | 18085C0086C | 18-OCT-2002 | 02-05-4406A | 02
05 | IN | WINONA LAKE, TOWN OF | 18085C0086C | 08-NOV-2002 | 02-05-4606A | 02
05 | MI | ADA, TOWNSHIP OF | 2602480010B | 10-OCT-2002 | 02-05-1697P | 05
05 | MI | AKRON, TOWNSHIP OF | 26020701B | 10-JUL-2002 | 02-05-3457A | 02
05 | MI | ALAIEDON, TOWNSHIP OF | 2606700001B | 04-DEC-2002 | 03-05-0332A | 02
05 | MI | ALBEE, TOWNSHIP OF | 26145C0245D | 11-SEP-2002 | 02-05-4251A | 02
05 | MI | ALLEN PARK, CITY OF | 2602170002C | 04-DEC-2002 | 03-05-0678A | 02
05 | MI | ALPENA, TOWNSHIP OF | 2600110024B | 12-JUL-2002 | 02-05-3564A | 02
05 | MI | ANN ARBOR, CITY OF | 2602130009C | 17-JUL-2002 | 02-05-3542A | 02
05 | MI | ANN ARBOR, CITY OF | 2602130009C | 17-JUL-2002 | 02-05-3568A | 02
05 | MI | ANN ARBOR, CITY OF | 2602130009C | 17-JUL-2002 | 02-05-3569A | 02
05 | MI | ANN ARBOR, CITY OF | 2602130009C | 04-OCT-2002 | 02-05-4179A | 02
05 | MI | ANN ARBOR, CITY OF | 2602130010C | 08-NOV-2002 | 03-05-0317A | 02
05 | MI | ANN ARBOR, CITY OF | 2602130008D | 11-DEC-2002 | 03-05-0621A | 02
05 | MI | ATLAS, TOWNSHIP OF | 2603930005A | 02-OCT-2002 | 02-05-4375A | 02
05 | MI | AU TRAIN, TOWNSHIP OF | 2603420025C | 18-SEP-2002 | 02-05-4125A | 02
05 | MI | BALDWIN, TOWNSHIP OF | 2600990007D | 27-NOV-2002 | 02-05-4663A | 02
05 | MI | BANGOR, CHARTER TOWNSHIP OF | 26017C0140D | 16-AUG-2002 | 02-05-3996A | 02
05 | MI | BANGOR, CHARTER TOWNSHIP OF | 26017C0140D | 20-NOV-2002 | 03-05-0342A | 02
05 | MI | BANKS, TOWNSHIP OF | 2606430003B | 14-AUG-2002 | 02-05-4024A | 02
05 | MI | BATTLE CREEK, CITY OF | 2600510012B | 10-JUL-2002 | 02-05-3028A | 02
05 | MI | BAY CITY, CITY OF | 26017C0175D | 21-AUG-2002 | 02-05-4086A | 02
05 | MI | BAY MILLS, TOWNSHIP OF | 2603740050B | 07-AUG-2002 | 02-05-3795A | 02
05 | MI | BAY MILLS, TOWNSHIP OF | 2603740050B | 21-AUG-2002 | 02-05-4088A | 02
05 | MI | BAY MILLS, TOWNSHIP OF | 2603740050B | 20-NOV-2002 | 02-05-4539A | 02
05 | MI | BEAUGRAND, TOWNSHIP OF | 2606460001B | 12-JUL-2002 | 02-05-2181A | 02
05 | MI | BEAUGRAND, TOWNSHIP OF | 2606460001B | 23-AUG-2002 | 02-05-3212A | 02
05 | MI | BEAUGRAND, TOWNSHIP OF | 2606460002B | 23-AUG-2002 | 02-05-3212A | 02
05 | MI | BEAUGRAND, TOWNSHIP OF | 2606460002B | 10-JUL-2002 | 02-05-3532A | 02
05 | MI | BEAUGRAND, TOWNSHIP OF | 2606460001B | 18-OCT-2002 | 02-05-4783A | 02
05 | MI | BEAUGRAND, TOWNSHIP OF | 2606460001B | 06-NOV-2002 | 03-05-0411X | 02
05 | MI | BEAUGRAND, TOWNSHIP OF | 2606460001B | 11-DEC-2002 | 03-05-0501A | 02
05 | MI | BEDFORD, TOWNSHIP OF | 26115C0481D | 17-JUL-2002 | 02-05-2754A | 02
05 | MI | BEDFORD, TOWNSHIP OF | 26115C0364D | 17-JUL-2002 | 02-05-3038A | 02
05 | MI | BERLIN, TOWNSHIP OF | 26115C0256D | 31-JUL-2002 | 02-05-2522A | 01
05 | MI | BEVERLY HILLS, VILLAGE OF | 2602560001B | 30-OCT-2002 | 02-05-4159A | 17
05 | MI | BLACKMAN, TOWNSHIP OF | 2607140005B | 30-AUG-2002 | 02-05-4022A | 02
05 | MI | BROOMFIELD, TOWNSHIP OF | 26073C0275C | 03-JUL-2002 | 02-05-3378A | 02
05 | MI | BROWNSTOWN, CHARTER TOWNSHIP OF | 2602180010B | 11-DEC-2002 | 01-05-3983P | 05
05 | MI | BROWNSTOWN, CHARTER TOWNSHIP OF | 2602180010B | 03-JUL-2002 | 02-05-3100A | 02
05 | MI | BRUCE, TOWNSHIP OF | 2603750025A | 20-SEP-2002 | 02-05-4455A | 02
05 | MI | BRUCE, TOWNSHIP OF | 2603750050A | 08-NOV-2002 | 02-05-4578A | 02
05 | MI | BUCHANAN, TOWNSHIP OF | 2605550010A | 18-SEP-2002 | 02-05-3325A | 02
05 | MI | BUENA VISTA, TOWNSHIP OF | 26145C0085D | 23-AUG-2002 | 02-05-3958A | 02
05 | MI | BUENA VISTA, TOWNSHIP OF | 26145C0090D | 27-SEP-2002 | 02-05-4244A | 01
05 | MI | BUENA VISTA, TOWNSHIP OF | 26145C0090D | 18-DEC-2002 | 03-05-0842A | 02
05 | MI | BURTON, CITY OF | 2602870001B | 13-NOV-2002 | 03-05-0331A | 02
05 | MI | CADILLAC, CITY OF | 26165C0456C | 11-DEC-2002 | 02-05-4256A | 01
05 | MI | CALEDONIA, TOWNSHIP OF | 2606930005B | 13-NOV-2002 | 02-05-3906A | 02
05 | MI | CALEDONIA, TOWNSHIP OF | 2603000010A | 09-OCT-2002 | 02-05-4692A | 02
05 | MI | CANTON, TOWNSHIP OF | 2602190005B | 26-JUL-2002 | 02-05-2054A | 01
05 | MI | CANTON, TOWNSHIP OF | 2602190009B | 30-OCT-2002 | 02-05-3536A | 01
05 | MI | CASCADE, CHARTER TOWNSHIP OF | 2608140025A | 10-OCT-2002 | 02-05-1697P | 05
05 | MI | CASCADE, CHARTER TOWNSHIP OF | 2608140025A | 02-AUG-2002 | 02-05-2601A | 02
05 | MI | CASCADE, CHARTER TOWNSHIP OF | 2608140025A | 18-OCT-2002 | 03-05-0010A | 02
05 | MI | CASSOPOLIS, VILLAGE OF | 2603630001A | 18-SEP-2002 | 02-05-3826A | 02
05 | MI | CHESTER, TOWNSHIP OF | 2608290025A | 17-JUL-2002 | 02-05-3637A | 02
05 | MI | CHESTERFIELD, TOWNSHIP OF | 2601200010B | 13-NOV-2002 | 02-05-3845A | 02
05 | MI | CHESTERFIELD, TOWNSHIP OF | 2601200010B | 23-AUG-2002 | 02-05-3925A | 02
05 | MI | CHESTERFIELD, TOWNSHIP OF | 2601200010B | 25-OCT-2002 | 02-05-4190A | 02
05 | MI | CHESTERFIELD, TOWNSHIP OF | 2601200010B | 18-OCT-2002 | 02-05-4271A | 01
05 | MI | CHESTERFIELD, TOWNSHIP OF | 2601200010B | 20-NOV-2002 | 02-05-4599A | 02
05 | MI | CHOCOLAY, TOWNSHIP OF | 2604480010B | 11-SEP-2002 | 02-05-4273A | 02
05 | MI | CLARK, TOWNSHIP OF | 2607590050B | 03-JUL-2002 | 02-05-3428A | 02
05 | MI | CLARK, TOWNSHIP OF | 2607590050B | 04-DEC-2002 | 02-05-4661A | 02
05 | MI | CLARK, TOWNSHIP OF | 2607590050B | 04-DEC-2002 | 03-05-0215A | 02
05 | MI | CLAY, TOWNSHIP OF | 2601940001B | 10-JUL-2002 | 02-05-3392A | 02
05 | MI | CLAY, TOWNSHIP OF | 2601940003B | 02-AUG-2002 | 02-05-3846A | 02
05 | MI | CLEVELAND, TOWNSHIP OF | 26030204A | 02-AUG-2002 | 02-05-3666A | 02
05 | MI | CLEVELAND, TOWNSHIP OF | 26030207A | 02-AUG-2002 | 02-05-3666A | 02
05 | MI | CLEVELAND, TOWNSHIP OF | 260302—07A | 04-DEC-2002 | 03-05-0636A | 02
05 | MI | CLINTON, CHARTER TOWNSHIP OF | 2601210010E | 18-SEP-2002 | 02-05-4091A | 17
05 | MI | CLINTON, CHARTER TOWNSHIP OF | 2601210010E | 04-DEC-2002 | 03-05-0752A | 17
05 | MI | CLINTON, CHARTER TOWNSHIP OF | 2601210005E | 18-DEC-2002 | 03-05-0963A | 02
05 | MI | COLOMA, TOWNSHIP OF | 2600340005B | 20-NOV-2002 | 03-05-0346A | 02
05 | MI | COLON, TOWNSHIP OF | 2605100010A | 24-JUL-2002 | 02-05-3726A | 02
05 | MI | COLON, TOWNSHIP OF | 2605100005A | 02-AUG-2002 | 02-05-3759A | 02
05 | MI | COLUMBUS, TOWNSHIP OF | 260507—03A | 13-DEC-2002 | 02-05-4574A | 02
05 | MI | COMMERCE, TOWNSHIP OF | 2604730005B | 14-AUG-2002 | 02-05-3927A | 02
05 | MI | COMMERCE, TOWNSHIP OF | 2604730005B | 25-SEP-2002 | 02-05-4021A | 02
05 | MI | COMMERCE, TOWNSHIP OF | 2604730005B | 20-DEC-2002 | 03-05-1022A | 02
05 | MI | COMSTOCK, TOWNSHIP OF | 2604270002A | 18-OCT-2002 | 02-05-3396A | 02
05 | MI | DEARBORN HEIGHTS, CITY OF | 2602210007C | 19-JUL-2002 | 02-05-3704A | 02
05 | MI | DEARBORN HEIGHTS, CITY OF | 2602210007C | 06-DEC-2002 | 03-05-0453A | 02
05 | MI | DEARBORN HEIGHTS, CITY OF | 2602210007C | 04-DEC-2002 | 03-05-0701A | 02
05 | MI | DEARBORN, CITY OF | 2602200005D | 25-SEP-2002 | 02-05-2994X | 02
05 | MI | DEARBORN, CITY OF | 2602200005D | 11-OCT-2002 | 03-05-0110A | 02
05 | MI | DEERFIELD, TOWNSHIP OF | 26073C0165C | 10-JUL-2002 | 02-05-3096A | 02
05 | MI | DEERFIELD, TOWNSHIP OF | 26073C0305C | 13-NOV-2002 | 02-05-4410A | 02
05 | MI | DELTA, CHARTER TOWNSHIP OF | 2600660005D | 30-OCT-2002 | 03-05-0192A | 02
05 | MI | DELTA, CHARTER TOWNSHIP OF | 2600660005D | 01-NOV-2002 | 03-05-0199A | 02
05 | MI | DENVER, TOWNSHIP OF | 26073C0225C | 20-NOV-2002 | 02-05-4529A | 02
05 | MI | DRUMMOND ISLAND, TOWNSHIP OF | 2608030075A | 14-AUG-2002 | 02-05-4053A | 02
05 | MI | DRUMMOND ISLAND, TOWNSHIP OF | 2608030075A | 01-NOV-2002 | 02-05-4589A | 02
05 | MI | DRUMMOND ISLAND, TOWNSHIP OF | 2608030025A | 04-DEC-2002 | 03-05-0284A | 02
05 | MI | EAST GRAND RAPIDS, CITY OF | 2601050001B | 06-NOV-2002 | 02-05-3597A | 02
05 | MI | EAST LANSING, CITY OF | 2600890005B | 11-SEP-2002 | 02-05-3537A | 02
05 | MI | FABIUS, TOWNSHIP OF | 2607810025A | 10-JUL-2002 | 02-05-3317A | 02
05 | MI | FABIUS, TOWNSHIP OF | 2607810025A | 01-NOV-2002 | 02-05-4579A | 02
05 | MI | FABIUS, TOWNSHIP OF | 2607810025A | 18-OCT-2002 | 02-05-4583A | 02
05 | MI | FABIUS, TOWNSHIP OF | 2607810025A | 18-OCT-2002 | 03-05-0122A | 02
05 | MI | FARMINGTON HILLS, CITY OF | 2601720012C | 13-SEP-2002 | 02-05-1719A | 01
05 | MI | FARMINGTON HILLS, CITY OF | 2601720002C | 19-JUL-2002 | 02-05-3710A | 02
05 | MI | FARMINGTON HILLS, CITY OF | 2601720003C | 09-AUG-2002 | 02-05-3995A | 02
05 | MI | FARMINGTON HILLS, CITY OF | 2601720003C | 25-SEP-2002 | 02-05-4232A | 01
05 | MI | FARMINGTON HILLS, CITY OF | 2601720002C | 09-OCT-2002 | 02-05-4744A | 02
05 | MI | FARMINGTON HILLS, CITY OF | 2601720002C | 27-NOV-2002 | 03-05-0614A | 02
05 | MI | FARMINGTON HILLS, CITY OF | 2601720003C | 20-DEC-2002 | 03-05-0823A | 02
05 | MI | FARMINGTON HILLS, CITY OF | 2601720012C | 11-DEC-2002 | 03-05-0839A | 17
05 | MI | FLAT ROCK, CITY OF | 2602240003B | 18-OCT-2002 | 02-05-3844A | 02
05 | MI | FLINT, CITY OF | 2600760015C | 04-DEC-2002 | 02-05-4180A | 02
05 | MI | FLINT, CITY OF | 2600760020C | 04-DEC-2002 | 02-05-4180A | 02
05 | MI | FOWLERVILLE,VILLAGE OF | 2604390001A | 08-NOV-2002 | 03-05-0103A | 02
05 | MI | FRANKENLUST, TOWNSHIP OF | 26017C0200D | 09-AUG-2002 | 02-05-3793A | 02
05 | MI | FRASER, CITY OF | 2601220001B | 24-JUL-2002 | 02-05-3026A | 02
05 | MI | FRASER, CITY OF | 2601220001B | 10-JUL-2002 | 02-05-3462A | 02
05 | MI | FRASER, CITY OF | 2601220001B | 22-NOV-2002 | 02-05-4006A | 02
05 | MI | FRASER, CITY OF | 2601220001B | 27-SEP-2002 | 02-05-4667A | 02
05 | MI | FRASER, CITY OF | 2601220001B | 09-OCT-2002 | 02-05-4743A | 17
05 | MI | FRASER, CITY OF | 2601220001B | 04-DEC-2002 | 03-05-0175A | 02
05 | MI | FRASER, CITY OF | 2601220001B | 27-NOV-2002 | 03-05-0421A | 02
05 | MI | FRASER, CITY OF | 2601220001B | 13-DEC-2002 | 03-05-0687A | 02
05 | MI | FRASER, CITY OF | 2601220001B | 04-DEC-2002 | 03-05-0713A | 02
05 | MI | FRASER, CITY OF | 2601220001B | 20-DEC-2002 | 03-05-0985A | 02
05 | MI | FRASER, TOWNSHIP OF | 26017C0085D | 20-SEP-2002 | 02-05-4274A | 02
05 | MI | GAINES, TOWNSHIP OF | 2602930011A | 18-OCT-2002 | 02-05-4126A | 02
05 | MI | GAINES, TOWNSHIP OF | 2602930011A | 18-OCT-2002 | 02-05-4266A | 02
05 | MI | GEORGETOWN, CHARTER TOWNSHIP OF | 2605890005B | 11-DEC-2002 | 03-05-0664A | 02
05 | MI | GIBRALTAR, CITY OF | 2602260001B | 20-DEC-2002 | 03-05-0500A | 02
05 | MI | GRAND HAVEN, TOWNSHIP OF | 2602700005B | 20-NOV-2002 | 03-05-0087A | 02
05 | MI | GRAND RAPIDS, CITY OF | 2601060005C | 03-JUL-2002 | 02-05-1980A | 02
05 | MI | GRAND RAPIDS, CITY OF | 2601060005C | 16-AUG-2002 | 02-05-2211A | 02
05 | MI | GRAND RAPIDS, CITY OF | 2601060005C | 13-SEP-2002 | 02-05-4171A | 02
05 | MI | GRAND RAPIDS, CITY OF | 2601060025C | 11-DEC-2002 | 02-05-4322A | 02
05 | MI | GRANDVILLE, CITY OF | 2602710004B | 06-SEP-2002 | 02-05-0683A | 01
05 | MI | GRANDVILLE, CITY OF | 2602710004B | 06-NOV-2002 | 02-05-3290A | 02
05 | MI | GRANDVILLE, CITY OF | 2602710002B | 02-OCT-2002 | 02-05-3600A | 02
05 | MI | GRANDVILLE, CITY OF | 2602710004B | 23-OCT-2002 | 02-05-4326A | 02
05 | MI | GREENBUSH, TOWNSHIP OF | 2600010004C | 09-OCT-2002 | 02-05-3166X | 02
05 | MI | GREENBUSH, TOWNSHIP OF | 2600010004C | 24-JUL-2002 | 02-05-3743A | 02
05 | MI | GREENBUSH, TOWNSHIP OF | 2600010007C | 31-JUL-2002 | 02-05-3780A | 02
05 | MI | GREENBUSH, TOWNSHIP OF | 2600010004C | 02-AUG-2002 | 02-05-3810A | 02
05 | MI | GREENBUSH, TOWNSHIP OF | 2600010004C | 14-AUG-2002 | 02-05-4032A | 02
05 | MI | GREENBUSH, TOWNSHIP OF | 2600010004C | 04-OCT-2002 | 02-05-4545A | 02
05 | MI | GREENBUSH, TOWNSHIP OF | 2600010007C | 18-DEC-2002 | 03-05-0197A | 02
05 | MI | GREENBUSH, TOWNSHIP OF | 2600010004C | 06-NOV-2002 | 03-05-0216A | 02
05 | MI | GREENBUSH, TOWNSHIP OF | 2600010004C | 13-DEC-2002 | 03-05-0725A | 02
05 | MI | GREENBUSH, TOWNSHIP OF | 2600010004C | 18-DEC-2002 | 03-05-0822A | 02
05 | MI | GROSSE ILE, TOWNSHIP OF | 2602270010B | 09-OCT-2002 | 02-05-2967A | 01
05 | MI | GROSSE ILE, TOWNSHIP OF | 2602270005B | 13-SEP-2002 | 02-05-4187A | 02
05 | MI | GROSSE ILE, TOWNSHIP OF | 2602270010B | 30-OCT-2002 | 03-05-0126A | 02
05 | MI | GROSSE ILE, TOWNSHIP OF | 2602270010B | 27-DEC-2002 | 03-05-0655A | 01
05 | MI | HAMBURG, TOWNSHIP OF | 2601180010C | 09-AUG-2002 | 02-05-3760A | 02
05 | MI | HAMPTON, TOWNSHIP OF | 26017C0185D | 02-AUG-2002 | 02-05-3464A | 02
05 | MI | HAMPTON, TOWNSHIP OF | 26017C0190D | 02-AUG-2002 | 02-05-3464A | 02
05 | MI | HAMPTON, TOWNSHIP OF | 26017C0190D | 06-SEP-2002 | 02-05-4096A | 02
05 | MI | HAMPTON, TOWNSHIP OF | 26017C0180D | 20-NOV-2002 | 03-05-0426A | 02
05 | MI | HAMPTON, TOWNSHIP OF | 26017C0185D | 13-DEC-2002 | 03-05-0508A | 02
05 | MI | HARRISON, TOWNSHIP OF | 2601230010C | 09-OCT-2002 | 02-05-2455A | 01
05 | MI | HARRISON, TOWNSHIP OF | 2601230010C | 17-JUL-2002 | 02-05-3036A | 02
05 | MI | HARRISON, TOWNSHIP OF | 2601230005C | 23-AUG-2002 | 02-05-3168A | 02
05 | MI | HARRISON, TOWNSHIP OF | 2601230005C | 17-JUL-2002 | 02-05-3254A | 02
05 | MI | HARRISON, TOWNSHIP OF | 2601230005C | 03-JUL-2002 | 02-05-3329A | 02
05 | MI | HARRISON, TOWNSHIP OF | 2601230010C | 12-JUL-2002 | 02-05-3516A | 02
05 | MI | HARRISON, TOWNSHIP OF | 2601230005C | 22-NOV-2002 | 02-05-3669A | 02
05 | MI | HARRISON, TOWNSHIP OF | 2601230005C | 24-JUL-2002 | 02-05-3672A | 02
05 | MI | HARRISON, TOWNSHIP OF | 2601230005C | 17-JUL-2002 | 02-05-3688A | 02
05 | MI | HARRISON, TOWNSHIP OF | 2601230005C | 24-JUL-2002 | 02-05-3738A | 02
05 | MI | HARRISON, TOWNSHIP OF | 2601230005C | 30-AUG-2002 | 02-05-4161A | 02
05 | MI | HARRISON, TOWNSHIP OF | 2601230010C | 06-DEC-2002 | 02-05-4200A | 02
05 | MI | HARRISON, TOWNSHIP OF | 2601230010C | 18-SEP-2002 | 02-05-4267A | 02
05 | MI | HARRISON, TOWNSHIP OF | 2601230005C | 27-NOV-2002 | 02-05-4276A | 02
05 | MI | HARRISON, TOWNSHIP OF | 2601230005C | 06-NOV-2002 | 03-05-0145A | 02
05 | MI | HARRISON, TOWNSHIP OF | 2601230005C | 08-NOV-2002 | 03-05-0350A | 02
05 | MI | HARRISON, TOWNSHIP OF | 2601230010C | 11-DEC-2002 | 03-05-0461A | 02
05 | MI | HARRISON, TOWNSHIP OF | 2601230005C | 27-NOV-2002 | 03-05-0624A | 02
05 | MI | HARRISON, TOWNSHIP OF | 2601230005C | 27-NOV-2002 | 03-05-0633A | 02
05 | MI | HARRISON, TOWNSHIP OF | 2601230010C | 18-DEC-2002 | 03-05-0982A | 02
05 | MI | HAY, TOWNSHIP OF | 2609840001A | 27-SEP-2002 | 02-05-3705A | 02
05 | MI | HAY, TOWNSHIP OF | 2609840001A | 09-OCT-2002 | 02-05-4269A | 02
05 | MI | HAYNES, TOWNSHIP OF | 26027406A | 26-JUL-2002 | 02-05-3744A | 02
05 | MI | HOLLAND, TOWNSHIP OF | 2604920005D | 25-OCT-2002 | 02-05-4220A | 02
05 | MI | HUDSONVILLE, CITY OF | 2604930002A | 09-AUG-2002 | 02-05-3809A | 02
05 | MI | IDA, TOWNSHIP OF | 26115C0355D | 26-JUL-2002 | 02-05-3754A | 02
05 | MI | IDA, TOWNSHIP OF | 26115C0215D | 26-JUL-2002 | 02-05-3756A | 02
05 | MI | IDA, TOWNSHIP OF | 26115C0355D | 25-OCT-2002 | 02-05-4706A | 02
05 | MI | INDEPENDENCE, TOWNSHIP OF | 2604750008B | 20-DEC-2002 | 02-05-4362A | 02
05 | MI | INDEPENDENCE, TOWNSHIP OF | 2604750006B | 18-OCT-2002 | 02-05-4494A | 02
05 | MI | INDEPENDENCE, TOWNSHIP OF | 2604750006B | 18-OCT-2002 | 03-05-0086A | 02
05 | MI | IRA, TOWNSHIP OF | 2601990010B | 10-JUL-2002 | 02-05-3533A | 02
05 | MI | IRA, TOWNSHIP OF | 2601990005B | 18-OCT-2002 | 03-05-0094A | 02
05 | MI | IRONWOOD, TOWNSHIP OF | 2604030002B | 18-SEP-2002 | 02-05-4004A | 02
05 | MI | JAMES, TOWNSHIP OF | 26145C0125D | 09-AUG-2002 | 02-05-3360A | 02
05 | MI | JAMES, TOWNSHIP OF | 26145C0125D | 24-JUL-2002 | 02-05-3505A | 02
05 | MI | JAMES, TOWNSHIP OF | 26145C0185D | 17-JUL-2002 | 02-05-3670A | 02
05 | MI | JAMES, TOWNSHIP OF | 26145C0130D | 16-AUG-2002 | 02-05-4095A | 02
05 | MI | JAMES, TOWNSHIP OF | 26145C0130D | 04-SEP-2002 | 02-05-4203A | 02
05 | MI | JAMES, TOWNSHIP OF | 26145C0130D | 13-NOV-2002 | 03-05-0302A | 02
05 | MI | JOHNSTOWN, TOWNSHIP OF | 26035505A | 13-SEP-2002 | 02-05-4141A | 02
05 | MI | KAWKAWLIN, TOWNSHIP OF | 26017C0135D | 02-OCT-2002 | 02-05-3437A | 01
05 | MI | KENTWOOD, CITY OF | 2601070010B | 31-DEC-2002 | 02-05-3298P | 05
05 | MI | LAKE ORION, VILLAGE OF | 2605880001A | 06-SEP-2002 | 02-05-3783A | 02
05 | MI | LAKE ORION, VILLAGE OF | 2605880001A | 23-AUG-2002 | 02-05-4135A | 02
05 | MI | LAKE ORION, VILLAGE OF | 2605880001A | 08-NOV-2002 | 02-05-4759A | 02
05 | MI | LAKE ORION, VILLAGE OF | 2605880001A | 06-DEC-2002 | 03-05-0813A | 02
05 | MI | LAKETOWN, TOWNSHIP OF | 2602530005A | 06-DEC-2002 | 02-05-4194A | 02
05 | MI | LANSING, CITY OF | 2600900009B | 06-DEC-2002 | 03-05-0258A | 01
05 | MI | LEELANAU, TOWNSHIP OF | 26011411B | 03-JUL-2002 | 02-05-3184A | 02
05 | MI | LEELANAU, TOWNSHIP OF | 26011416B | 25-SEP-2002 | 02-05-3732A | 02
05 | MI | LEELANAU, TOWNSHIP OF | 26011407B | 30-OCT-2002 | 03-05-0163A | 02
05 | MI | LEELANAU, TOWNSHIP OF | 260114—06B | 15-NOV-2002 | 03-05-0230A | 02
05 | MI | LIVONIA, CITY OF | 2602330004B | 02-AUG-2002 | 02-05-3556A | 02
05 | MI | LIVONIA, CITY OF | 2602330002B | 11-SEP-2002 | 02-05-4363A | 02
05 | MI | LOCKPORT, TOWNSHIP OF | 2607150005B | 24-JUL-2002 | 02-05-3722A | 02
05 | MI | LOCKPORT, TOWNSHIP OF | 2607150010B | 13-DEC-2002 | 03-05-0927A | 02
05 | MI | LONG LAKE, TOWNSHIP OF | 2607820025A | 12-JUL-2002 | 02-05-3363A | 02
05 | MI | LONG LAKE, TOWNSHIP OF | 2607820025A | 13-DEC-2002 | 02-05-4090A | 02
05 | MI | LONG LAKE, TOWNSHIP OF | 2607820025A | 06-NOV-2002 | 03-05-0168A | 02
05 | MI | MACOMB, TOWNSHIP OF | 2604450020B | 24-OCT-2002 | 02-05-1660P | 06
05 | MI | MACOMB, TOWNSHIP OF | 2604450010B | 22-NOV-2002 | 02-05-3405A | 02
05 | MI | MACOMB, TOWNSHIP OF | 2604450010B | 31-JUL-2002 | 02-05-3719A | 01
05 | MI | MACOMB, TOWNSHIP OF | 2604450010B | 02-AUG-2002 | 02-05-3808A | 02
05 | MI | MACOMB, TOWNSHIP OF | 2604450020B | 23-AUG-2002 | 02-05-4107A | 02
05 | MI | MACOMB, TOWNSHIP OF | 2604450010B | 27-NOV-2002 | 02-05-4405A | 01
05 | MI | MACOMB, TOWNSHIP OF | 2604450020B | 18-SEP-2002 | 02-05-4418A | 02
05 | MI | MARENGO, TOWNSHIP OF | 2605630010A | 27-NOV-2002 | 02-05-4526A | 02
05 | MI | MARINE CITY, CITY OF | 2602000005B | 18-SEP-2002 | 02-05-4343A | 02
05 | MI | MASON, CITY OF | 2600920001B | 10-JUL-2002 | 02-05-3191A | 02
05 | MI | MASONVILLE, TOWNSHIP OF | 26041C0238C | 06-DEC-2002 | 02-05-4233A | 02
05 | MI | MENOMINEE, CITY OF | 2601380005B | 18-SEP-2002 | 02-05-4370A | 02
05 | MI | MENOMINEE, TOWNSHIP OF | 2607020015B | 21-AUG-2002 | 02-05-3843A | 02
05 | MI | MERIDIAN, CHARTER TOWNSHIP OF | 2600930015B | 02-OCT-2002 | 02-05-3139A | 01
05 | MI | MERIDIAN, CHARTER TOWNSHIP OF | 2600930010B | 12-JUL-2002 | 02-05-3562A | 02
05 | MI | MERIDIAN, CHARTER TOWNSHIP OF | 2600930010B | 21-AUG-2002 | 02-05-3567A | 02
05 | MI | MERIDIAN, CHARTER TOWNSHIP OF | 2600930015B | 09-OCT-2002 | 02-05-4674A | 02
05 | MI | MERIDIAN, CHARTER TOWNSHIP OF | 2600930015B | 06-NOV-2002 | 03-05-0261A | 02
05 | MI | MERIDIAN, CHARTER TOWNSHIP OF | 2600930010B | 18-DEC-2002 | 03-05-0843A | 02
05 | MI | MERIDIAN, CHARTER TOWNSHIP OF | 2600930013B | 13-DEC-2002 | 03-05-0902A | 02
05 | MI | MONROE, CHARTER TOWNSHIP OF | 26115C0237D | 10-JUL-2002 | 02-05-2896A | 01
05 | MI | MONROE, CHARTER TOWNSHIP OF | 26115C0382D | 30-AUG-2002 | 02-05-4150A | 02
05 | MI | MOUNT CLEMENS, CITY OF | 2601240001B | 25-JUL-2002 | 02-05-1229A | 02
05 | MI | NAHMA, TOWNSHIP OF | 26041C0125C | 27-SEP-2002 | 02-05-3819A | 02
05 | MI | NAHMA, TOWNSHIP OF | 26041C0125C | 18-SEP-2002 | 02-05-4367A | 02
05 | MI | NILES, TOWNSHIP OF | 260041—07B | 06-NOV-2002 | 03-05-0260A | 02
05 | MI | NORTHFIELD, TOWNSHIP OF | 2606350005A | 02-OCT-2002 | 02-05-4345A | 02
05 | MI | NORVELL, TOWNSHIP OF | 26042407A | 03-JUL-2002 | 02-05-2855A | 02
05 | MI | NOTTAWA, TOWNSHIP OF | 2605140015B | 02-OCT-2002 | 02-05-4352A | 02
05 | MI | NOTTAWA, TOWNSHIP OF | 26073C0165C | 11-DEC-2002 | 03-05-0708A | 02
05 | MI | NOVI, CITY OF | 2601750006C | 31-DEC-2002 | 02-05-3613P | 05
05 | MI | NOVI, CITY OF | 2601750008C | 14-AUG-2002 | 02-05-3385A | 02
05 | MI | NOVI, CITY OF | 2601750006C | 18-DEC-2002 | 03-05-0266A | 02
05 | MI | OSCODA, TOWNSHIP OF | 2601010025C | 14-AUG-2002 | 02-05-3935A | 02
05 | MI | OWOSSO, CITY OF | 2605960002A | 24-JUL-2002 | 02-05-3301A | 02
05 | MI | OWOSSO, CITY OF | 2605960002A | 18-OCT-2002 | 02-05-4420A | 02
05 | MI | PAW PAW, VILLAGE OF | 260598—01A | 01-NOV-2002 | 03-05-0242A | 02
05 | MI | PAW PAW, VILLAGE OF | 260598—01A | 01-NOV-2002 | 03-05-0249A | 02
05 | MI | PITTSFIELD, CHARTER TOWNSHIP OF | 2606230010C | 27-DEC-2002 | 02-05-4452A | 01
05 | MI | PLAINFIELD, TOWNSHIP OF | 2601090010B | 18-DEC-2002 | 02-05-4029A | 02
05 | MI | PONTIAC, CITY OF | 2601770005B | 13-SEP-2002 | 02-05-4085A | 01
05 | MI | PORT HURON, CITY OF | 2602040005B | 17-JUL-2002 | 02-05-2158A | 02
05 | MI | PORTLAND, TOWNSHIP OF | 2608310025A | 06-DEC-2002 | 02-05-3745A | 02
05 | MI | PUTNAM, TOWNSHIP OF | 2604420015C | 04-DEC-2002 | 03-05-0424A | 02
05 | MI | PUTNAM, TOWNSHIP OF | 2604420020C | 04-DEC-2002 | 03-05-0424A | 02
05 | MI | RABER, TOWNSHIP OF | 2607860025A | 11-SEP-2002 | 02-05-4240A | 02
05 | MI | RABER, TOWNSHIP OF | 2607860025A | 15-NOV-2002 | 03-05-0347A | 02
05 | MI | RABER, TOWNSHIP OF | 2607860025A | 27-NOV-2002 | 03-05-0578A | 02
05 | MI | REDFORD, TOWNSHIP OF | 2602380005B | 25-SEP-2002 | 02-05-3394A | 02
05 | MI | REDFORD, TOWNSHIP OF | 2602380005B | 30-OCT-2002 | 02-05-4160A | 02
05 | MI | ROCHESTER HILLS, CITY OF | 2604710005b | 18-OCT-2002 | 02-05-4395A | 17
05 | MI | SAGINAW, TOWNSHIP OF | 26145C0130D | 23-OCT-2002 | 02-05-4508A | 01
05 | MI | SAGINAW, TOWNSHIP OF | 26145C0075D | 09-OCT-2002 | 02-05-4707A | 02
05 | MI | SAUGATUCK, CITY OF | 2603050001C | 30-AUG-2002 | 02-05-4129A | 02
05 | MI | SCIO, TOWNSHIP OF | 2605370025A | 30-OCT-2002 | 03-05-0081A | 02
05 | MI | SELMA, TOWNSHIP OF | 26165C0338C | 24-JUL-2002 | 02-05-3452A | 02
05 | MI | SELMA, TOWNSHIP OF | 26165C0338C | 24-JUL-2002 | 02-05-3548A | 02
05 | MI | SELMA, TOWNSHIP OF | 26165C0338C | 11-SEP-2002 | 02-05-4386X | 02
05 | MI | SHELBY, TOWNSHIP OF | 2601260020B | 03-OCT-2002 | 02-05-2323P | 06
05 | MI | SHELBY, TOWNSHIP OF | 2601260010B | 18-SEP-2002 | 02-05-4440A | 02
05 | MI | SHELBY, TOWNSHIP OF | 2601260015B | 18-OCT-2002 | 03-05-0093A | 02
05 | MI | SHELBY, TOWNSHIP OF | 2601260020B | 20-DEC-2002 | 03-05-0615A | 02
05 | MI | SOUTH ROCKWOOD, VILLAGE OF | 26115C0136D | 30-AUG-2002 | 02-05-3456A | 02
05 | MI | SPAULDING, TOWNSHIP OF | 26145C0190D | 08-NOV-2002 | 03-05-0272A | 02
05 | MI | ST. CHARLES, TOWNSHIP OF | 26145C0240D | 04-DEC-2002 | 03-05-0089A | 02
05 | MI | ST. CHARLES, VILLAGE OF | 26145C0230D | 13-NOV-2002 | 02-05-4683A | 02
05 | MI | ST. CLAIR SHORES, CITY OF | 2601270005B | 19-JUL-2002 | 02-05-2405A | 02
05 | MI | ST. CLAIR SHORES, CITY OF | 2601270005B | 17-JUL-2002 | 02-05-2565A | 02
05 | MI | ST. CLAIR SHORES, CITY OF | 2601270005B | 02-AUG-2002 | 02-05-3099A | 02
05 | MI | ST. CLAIR SHORES, CITY OF | 2601270005B | 12-JUL-2002 | 02-05-3418A | 02
05 | MI | ST. CLAIR SHORES, CITY OF | 2601270005B | 10-JUL-2002 | 02-05-3472A | 02
05 | MI | ST. CLAIR SHORES, CITY OF | 2601270005B | 19-JUL-2002 | 02-05-3665A | 02
05 | MI | ST. CLAIR SHORES, CITY OF | 2601270005B | 31-JUL-2002 | 02-05-3802A | 02
05 | MI | ST. CLAIR SHORES, CITY OF | 2601270005B | 20-SEP-2002 | 02-05-3820A | 02
05 | MI | ST. CLAIR SHORES, CITY OF | 2601270005B | 02-AUG-2002 | 02-05-3834A | 02
05 | MI | ST. CLAIR SHORES, CITY OF | 2601270005B | 18-SEP-2002 | 02-05-3930A | 02
05 | MI | ST. CLAIR SHORES, CITY OF | 2601270005B | 23-AUG-2002 | 02-05-4003A | 02
05 | MI | ST. CLAIR SHORES, CITY OF | 2601270005B | 21-AUG-2002 | 02-05-4058A | 02
05 | MI | ST. CLAIR SHORES, CITY OF | 2601270005B | 16-AUG-2002 | 02-05-4061A | 02
05 | MI | ST. CLAIR SHORES, CITY OF | 2601270005B | 14-AUG-2002 | 02-05-4068A | 02
05 | MI | ST. CLAIR SHORES, CITY OF | 2601270005B | 23-AUG-2002 | 02-05-4153A | 02
05 | MI | ST. CLAIR SHORES, CITY OF | 2601270005B | 25-SEP-2002 | 02-05-4201A | 02
05 | MI | ST. CLAIR SHORES, CITY OF | 2601270005B | 11-SEP-2002 | 02-05-4202A | 02
05 | MI | ST. CLAIR SHORES, CITY OF | 2601270005B | 02-OCT-2002 | 02-05-4258A | 02
05 | MI | ST. CLAIR SHORES, CITY OF | 2601270005B | 27-SEP-2002 | 02-05-4278A | 02
05 | MI | ST. CLAIR SHORES, CITY OF | 2601270005B | 18-SEP-2002 | 02-05-4279A | 02
05 | MI | ST. CLAIR SHORES, CITY OF | 2601270005B | 11-SEP-2002 | 02-05-4340A | 02
05 | MI | ST. CLAIR SHORES, CITY OF | 2601270005B | 18-SEP-2002 | 02-05-4442A | 02
05 | MI | ST. CLAIR SHORES, CITY OF | 2601270005B | 27-SEP-2002 | 02-05-4498A | 02
05 | MI | ST. CLAIR SHORES, CITY OF | 2601270005B | 11-OCT-2002 | 02-05-4521A | 02
05 | MI | ST. CLAIR SHORES, CITY OF | 2601270005B | 09-OCT-2002 | 02-05-4666A | 02
05 | MI | ST. CLAIR SHORES, CITY OF | 2601270005B | 09-OCT-2002 | 02-05-4686A | 02
05 | MI | ST. CLAIR SHORES, CITY OF | 2601270005B | 23-OCT-2002 | 02-05-4687A | 02
05 | MI | ST. CLAIR SHORES, CITY OF | 2601270005B | 09-OCT-2002 | 02-05-4701A | 02
05 | MI | ST. CLAIR SHORES, CITY OF | 2601270005B | 18-OCT-2002 | 02-05-4708A | 02
05 | MI | ST. CLAIR SHORES, CITY OF | 2601270005B | 11-OCT-2002 | 02-05-4786A | 02
05 | MI | ST. CLAIR SHORES, CITY OF | 2601270005B | 18-OCT-2002 | 03-05-0074A | 02
05 | MI | ST. CLAIR SHORES, CITY OF | 2601270005B | 08-NOV-2002 | 03-05-0077A | 02
05 | MI | ST. CLAIR SHORES, CITY OF | 2601270005B | 18-OCT-2002 | 03-05-0079A | 02
05 | MI | ST. CLAIR SHORES, CITY OF | 2601270005B | 18-OCT-2002 | 03-05-0098A | 02
05 | MI | ST. CLAIR SHORES, CITY OF | 2601270005B | 18-OCT-2002 | 03-05-0114A | 02
05 | MI | ST. CLAIR SHORES, CITY OF | 2601270005B | 18-OCT-2002 | 03-05-0118A | 02
05 | MI | ST. CLAIR SHORES, CITY OF | 2601270005B | 23-OCT-2002 | 03-05-0136A | 02
05 | MI | ST. CLAIR SHORES, CITY OF | 2601270005B | 25-OCT-2002 | 03-05-0153A | 02
05 | MI | ST. CLAIR SHORES, CITY OF | 2601270005B | 30-OCT-2002 | 03-05-0155A | 02
05 | MI | ST. CLAIR SHORES, CITY OF | 2601270005B | 23-OCT-2002 | 03-05-0164X | 02
05 | MI | ST. CLAIR SHORES, CITY OF | 2601270005B | 01-NOV-2002 | 03-05-0200A | 02
05 | MI | ST. CLAIR SHORES, CITY OF | 2601270005B | 20-NOV-2002 | 03-05-0463A | 02
05 | MI | ST. CLAIR SHORES, CITY OF | 2601270005B | 11-DEC-2002 | 03-05-0485A | 02
05 | MI | ST. CLAIR SHORES, CITY OF | 2601270005B | 13-NOV-2002 | 03-05-0611A | 02
05 | MI | ST. CLAIR SHORES, CITY OF | 2601270005B | 13-NOV-2002 | 03-05-0612A | 02
05 | MI | ST. CLAIR SHORES, CITY OF | 2601270005B | 04-DEC-2002 | 03-05-0650A | 02
05 | MI | ST. CLAIR SHORES, CITY OF | 2601270005B | 04-DEC-2002 | 03-05-0675A | 02
05 | MI | ST. CLAIR SHORES, CITY OF | 2601270005B | 04-DEC-2002 | 03-05-0692A | 02
05 | MI | ST. CLAIR SHORES, CITY OF | 2601270005B | 11-DEC-2002 | 03-05-0736A | 02
05 | MI | ST. CLAIR SHORES, CITY OF | 2601270005B | 04-DEC-2002 | 03-05-0747A | 02
05 | MI | ST. CLAIR SHORES, CITY OF | 2601270005B | 20-DEC-2002 | 03-05-0991A | 02
05 | MI | ST. CLAIR SHORES, CITY OF | 2601270005B | 20-DEC-2002 | 03-05-1026A | 02
05 | MI | ST. IGNACE, TOWNSHIP OF | 2604440050B | 13-NOV-2002 | 02-05-4582A | 02
05 | MI | ST. JOSEPH, TOWNSHIP OF | 2600450005A | 25-SEP-2002 | 02-05-3951A | 01
05 | MI | STERLING HEIGHTS, CITY OF | 2601280010E | 03-JUL-2002 | 01-05-2298P | 05
05 | MI | STERLING HEIGHTS, CITY OF | 2601280015F | 17-JUL-2002 | 02-05-2887A | 02
05 | MI | STERLING HEIGHTS, CITY OF | 2601280015F | 17-JUL-2002 | 02-05-3014A | 02
05 | MI | STERLING HEIGHTS, CITY OF | 2601280015F | 30-AUG-2002 | 02-05-4149A | 02
05 | MI | STERLING HEIGHTS, CITY OF | 2601280015F | 04-DEC-2002 | 03-05-0674A | 02
05 | MI | TALLMADGE, TOWNSHIP OF | 2604940010B | 16-AUG-2002 | 02-05-4104A | 02
05 | MI | TAYLOR, CITY OF | 2607280001B | 23-AUG-2002 | 01-05-3427A | 02
05 | MI | TAYLOR, CITY OF | 2607280003A | 23-AUG-2002 | 01-05-3427A | 02
05 | MI | TAYLOR, CITY OF | 2607280001B | 23-AUG-2002 | 02-05-0890A | 17
05 | MI | TAYLOR, CITY OF | 2607280003A | 23-AUG-2002 | 02-05-0890A | 17
05 | MI | TAYLOR, CITY OF | 2607280002A | 23-AUG-2002 | 02-05-0891A | 17
05 | MI | TAYLOR, CITY OF | 2607280004A | 23-AUG-2002 | 02-05-0891A | 17
05 | MI | TAYLOR, CITY OF | 2607280002A | 23-AUG-2002 | 02-05-0892A | 17
05 | MI | TAYLOR, CITY OF | 2607280004A | 23-AUG-2002 | 02-05-0892A | 17
05 | MI | TAYLOR, CITY OF | 2607280004A | 11-OCT-2002 | 02-05-4564A | 02
05 | MI | TAYLOR, CITY OF | 2607280004A | 22-NOV-2002 | 03-05-0420A | 17
05 | MI | THOMAS, TOWNSHIP OF | 26145C0125D | 27-SEP-2002 | 02-05-3449A | 02
05 | MI | THOMAS, TOWNSHIP OF | 26145C0070D | 09-OCT-2002 | 02-05-4500A | 02
05 | MI | THOMAS, TOWNSHIP OF | 26145C0130D | 13-NOV-2002 | 03-05-0170A | 02
05 | MI | THOMAS, TOWNSHIP OF | 26145C0070D | 22-NOV-2002 | 03-05-0210A | 02
05 | MI | THOMAS, TOWNSHIP OF | 26145C0070D | 06-NOV-2002 | 03-05-0271A | 02
05 | MI | THOMAS, TOWNSHIP OF | 26145C0070D | 11-DEC-2002 | 03-05-0503X | 02
05 | MI | THOMAS, TOWNSHIP OF | 26145C0070D | 06-DEC-2002 | 03-05-0599A | 02
05 | MI | TRENTON, CITY OF | 2602440004C | 16-OCT-2002 | 02-05-4111A | 02
05 | MI | TRENTON, CITY OF | 2602440001B | 18-OCT-2002 | 02-05-4760A | 02
05 | MI | TRENTON, CITY OF | 2602440004C | 13-NOV-2002 | 03-05-0404A | 01
05 | MI | TROY, CITY OF | 2601800002D | 20-AUG-2002 | 02-05-1981P | 05
05 | MI | TROY, CITY OF | 2601800006E | 10-JUL-2002 | 02-05-2757A | 02
05 | MI | TROY, CITY OF | 2601800006E | 12-JUL-2002 | 02-05-3369A | 02
05 | MI | TROY, CITY OF | 2601800004E | 12-JUL-2002 | 02-05-3393A | 02
05 | MI | TROY, CITY OF | 2601800002D | 24-JUL-2002 | 02-05-3626A | 02
05 | MI | TROY, CITY OF | 2601800003E | 18-SEP-2002 | 02-05-4236A | 02
05 | MI | TROY, CITY OF | 2601800003E | 18-SEP-2002 | 02-05-4237A | 02
05 | MI | TROY, CITY OF | 2601800003E | 18-SEP-2002 | 02-05-4238A | 02
05 | MI | TROY, CITY OF | 2601800004E | 25-SEP-2002 | 02-05-4483A | 02
05 | MI | TROY, CITY OF | 2601800003E | 02-OCT-2002 | 02-05-4523A | 02
05 | MI | TROY, CITY OF | 2601800004E | 30-OCT-2002 | 02-05-4699A | 02
05 | MI | TROY, CITY OF | 2601800004E | 11-DEC-2002 | 02-05-4709A | 02
05 | MI | TROY, CITY OF | 2601800002D | 08-NOV-2002 | 03-05-0282A | 02
05 | MI | TROY, CITY OF | 2601800002D | 27-NOV-2002 | 03-05-0487X | 02
05 | MI | UNION, TOWNSHIP OF | 26073C0200C | 15-NOV-2002 | 03-05-0205A | 02
05 | MI | UNION, TOWNSHIP OF | 26073C0194C | 06-DEC-2002 | 03-05-0486A | 02
05 | MI | VICTOR, TOWNSHIP OF | 2607200010B | 30-AUG-2002 | 02-05-4016A | 02
05 | MI | WARREN, CITY OF | 2601290010C | 02-AUG-2002 | 02-05-2980P | 06
05 | MI | WARREN, CITY OF | 2601290010C | 04-SEP-2002 | 02-05-3249A | 02
05 | MI | WARREN, CITY OF | 2601290010C | 25-SEP-2002 | 02-05-3426A | 02
05 | MI | WARREN, CITY OF | 2601290010C | 06-SEP-2002 | 02-05-4204A | 02
05 | MI | WATERFORD, CHARTER TOWNSHIP OF | 2602840020B | 30-AUG-2002 | 02-05-3400A | 02
05 | MI | WATERFORD, CHARTER TOWNSHIP OF | 2602840010B | 14-AUG-2002 | 02-05-3458A | 02
05 | MI | WATERFORD, CHARTER TOWNSHIP OF | 2602840005B | 19-JUL-2002 | 02-05-3706A | 02
05 | MI | WATERFORD, CHARTER TOWNSHIP OF | 2602840005B | 30-AUG-2002 | 02-05-3932A | 02
05 | MI | WATERFORD, CHARTER TOWNSHIP OF | 2602840005B | 28-AUG-2002 | 02-05-4027A | 02
05 | MI | WATERFORD, CHARTER TOWNSHIP OF | 2602840005B | 18-OCT-2002 | 02-05-4476A | 02
05 | MI | WATERFORD, CHARTER TOWNSHIP OF | 2602840010B | 30-OCT-2002 | 03-05-0135A | 02
05 | MI | WATERFORD, CHARTER TOWNSHIP OF | 2602840010B | 08-NOV-2002 | 03-05-0337A | 02
05 | MI | WATERFORD, CHARTER TOWNSHIP OF | 2602840010B | 15-NOV-2002 | 03-05-0423A | 02
05 | MI | WATERFORD, CHARTER TOWNSHIP OF | 2602840020B | 11-DEC-2002 | 03-05-0871A | 02
05 | MI | WATERTOWN, CHARTER TOWNSHIP OF | 2602910010B | 18-OCT-2002 | 02-05-4082A | 02
05 | MI | WAYNE, CITY OF | 2602450005B | 16-AUG-2002 | 02-05-3037A | 01
05 | MI | WAYNE, CITY OF | 2602450005B | 11-DEC-2002 | 03-05-0827A | 02
05 | MI | WAYNE, CITY OF | 2602450005B | 13-DEC-2002 | 03-05-0888A | 02
05 | MI | WHITE LAKE, TOWNSHIP OF | 2604790010B | 12-JUL-2002 | 02-05-1975A | 02
05 | MI | WHITE LAKE, TOWNSHIP OF | 2604790005B | 14-AUG-2002 | 02-05-4017A | 02
05 | MI | WHITE LAKE, TOWNSHIP OF | 2604790010B | 18-OCT-2002 | 02-05-4360A | 02
05 | MI | WHITE LAKE, TOWNSHIP OF | 2604790010B | 20-DEC-2002 | 03-05-1014A | 02
05 | MI | WHITEFORD, TOWNSHIP OF | 26115C0451D | 21-AUG-2002 | 02-05-3044A | 01
05 | MI | WHITEWATER, TOWNSHIP OF | 2607940025A | 02-AUG-2002 | 02-05-3420A | 02
05 | MI | WILLIAMSTON, CITY OF | 2600940001B | 30-OCT-2002 | 02-05-3789A | 02
05 | MI | WOODHAVEN, CITY OF | 2607300005A | 13-DEC-2002 | 03-05-0933A | 02
05 | MI | WYANDOTTE, CITY OF | 2602460001B | 26-JUL-2002 | 02-05-2790A | 02
05 | MN | AITKIN COUNTY | 2706280275B | 25-SEP-2002 | 02-05-4164A | 02
05 | MN | AITKIN COUNTY | 2706280400C | 22-NOV-2002 | 03-05-0489A | 02
05 | MN | AITKIN COUNTY | 2706280400C | 04-DEC-2002 | 03-05-0490A | 02
05 | MN | AITKIN COUNTY | 2706280400C | 04-DEC-2002 | 03-05-0491A | 02
05 | MN | AITKIN COUNTY | 2706280400C | 27-NOV-2002 | 03-05-0492A | 02
05 | MN | AITKIN COUNTY | 2706280400C | 22-NOV-2002 | 03-05-0637A | 02
05 | MN | AITKIN COUNTY | 2706280325C | 13-DEC-2002 | 03-05-0645A | 02
05 | MN | AITKIN COUNTY | 2706280205C | 11-DEC-2002 | 03-05-0663A | 02
05 | MN | ANDOVER, CITY OF | 2706890010B | 25-OCT-2002 | 02-05-4215A | 02
05 | MN | ANDOVER, CITY OF | 2706890015B | 06-NOV-2002 | 02-05-4338A | 02
05 | MN | ANDOVER, CITY OF | 2706890015B | 20-SEP-2002 | 02-05-4402A | 02
05 | MN | ANOKA COUNTY | 2700050050A | 17-JUL-2002 | 02-05-3563A | 02
05 | MN | ANOKA COUNTY | 2700050100A | 23-AUG-2002 | 02-05-3791A | 02
05 | MN | ANOKA COUNTY | 2700050025A | 18-SEP-2002 | 02-05-3949A | 02
05 | MN | ANOKA COUNTY | 2700050025A | 22-NOV-2002 | 02-05-4492A | 02
05 | MN | ANOKA COUNTY | 2700050100A | 11-OCT-2002 | 02-05-4738A | 02
05 | MN | ANOKA COUNTY | 2700050050A | 20-DEC-2002 | 03-05-0969A | 02
05 | MN | BAXTER, CITY OF | 2700920005B | 17-JUL-2002 | 02-05-2780A | 02
05 | MN | BENTON COUNTY | 2700190025B | 23-AUG-2002 | 02-05-4050A | 02
05 | MN | BENTON COUNTY | 2700190025B | 20-NOV-2002 | 03-05-0345A | 02
05 | MN | BLAINE, CITY OF | 2700070003D | 22-OCT-2002 | 02-05-033P | 05
05 | MN | BLAINE, CITY OF | 2700070010D | 03-JUL-2002 | 02-05-1978A | 01
05 | MN | BLAINE, CITY OF | 2700070003D | 10-OCT-2002 | 02-05-2001P | 05
05 | MN | BLAINE, CITY OF | 2700070003D | 25-SEP-2002 | 02-05-2928A | 02
05 | MN | BLAINE, CITY OF | 2700070010D | 10-JUL-2002 | 02-05-2930A | 01
05 | MN | BLAINE, CITY OF | 2700070005D | 21-AUG-2002 | 02-05-3942A | 02
05 | MN | BLAINE, CITY OF | 2700070006D | 15-NOV-2002 | 02-05-4103A | 02
05 | MN | BLAINE, CITY OF | 2700070005D | 13-SEP-2002 | 02-05-4113A | 02
05 | MN | BLAINE, CITY OF | 2700070010D | 16-AUG-2002 | 02-05-4114A | 02
05 | MN | BLAINE, CITY OF | 2700070005D | 15-NOV-2002 | 02-05-4208A | 01
05 | MN | BLAINE, CITY OF | 2700070005D | 20-SEP-2002 | 02-05-4344A | 01
05 | MN | BLAINE, CITY OF | 2700070005D | 13-NOV-2002 | 02-05-4397A | 01
05 | MN | BLAINE, CITY OF | 2700070003D | 04-OCT-2002 | 02-05-4502A | 02
05 | MN | BLAINE, CITY OF | 2700070005D | 04-OCT-2002 | 02-05-4509A | 02
05 | MN | BLAINE, CITY OF | 2700070001D | 23-OCT-2002 | 02-05-4541A | 02
05 | MN | BLAINE, CITY OF | 2700070001D | 23-OCT-2002 | 02-05-4542A | 17
05 | MN | BLAINE, CITY OF | 2700070001D | 23-OCT-2002 | 02-05-4543A | 02
05 | MN | BLAINE, CITY OF | 2700070005D | 15-NOV-2002 | 02-05-4575A | 01
05 | MN | BLAINE, CITY OF | 2700070001D | 23-OCT-2002 | 02-05-4577A | 02
05 | MN | BLAINE, CITY OF | 2700070001D | 23-OCT-2002 | 02-05-4591A | 17
05 | MN | BLAINE, CITY OF | 2700070001D | 23-OCT-2002 | 02-05-4592A | 02
05 | MN | BLAINE, CITY OF | 2700070005D | 25-OCT-2002 | 02-05-4732A | 02
05 | MN | BLAINE, CITY OF | 2700070003D | 01-NOV-2002 | 02-05-4756A | 02
05 | MN | BLAINE, CITY OF | 2700070005D | 08-NOV-2002 | 02-05-4757A | 02
05 | MN | BLAINE, CITY OF | 2700070001D | 30-OCT-2002 | 03-05-0154A | 17
05 | MN | BLAINE, CITY OF | 2700070010D | 15-NOV-2002 | 03-05-0191A | 02
05 | MN | BLAINE, CITY OF | 2700070001D | 15-NOV-2002 | 03-05-0254A | 02
05 | MN | BLAINE, CITY OF | 2700070001D | 15-NOV-2002 | 03-05-0255A | 02
05 | MN | BLAINE, CITY OF | 2700070001D | 15-NOV-2002 | 03-05-0257A | 02
05 | MN | BLAINE, CITY OF | 2700070003D | 08-NOV-2002 | 03-05-0349A | 02
05 | MN | BLAINE, CITY OF | 2700070001D | 06-DEC-2002 | 03-05-0473A | 02
05 | MN | BLAINE, CITY OF | 2700070001D | 20-DEC-2002 | 03-05-0513A | 02
05 | MN | BLAINE, CITY OF | 2700070003D | 04-DEC-2002 | 03-05-0552A | 01
05 | MN | BLAINE, CITY OF | 2700070005D | 04-DEC-2002 | 03-05-0552A | 01
05 | MN | BLAINE, CITY OF | 2700070001D | 06-DEC-2002 | 03-05-0557A | 02
05 | MN | BLAINE, CITY OF | 2700070001D | 18-DEC-2002 | 03-05-0702A | 02
05 | MN | BLAINE, CITY OF | 2700070010D | 04-DEC-2002 | 03-05-0703A | 02
05 | MN | BLAINE, CITY OF | 2700070005D | 18-DEC-2002 | 03-05-0704A | 02
05 | MN | BLAINE, CITY OF | 2700070003D | 04-DEC-2002 | 03-05-0705A | 02
05 | MN | BLAINE, CITY OF | 2700070005D | 13-DEC-2002 | 03-05-0838A | 02
05 | MN | BLAINE, CITY OF | 2700070003D | 11-DEC-2002 | 03-05-0840A | 02
05 | MN | BLAINE, CITY OF | 2700070003D | 20-DEC-2002 | 03-05-0868A | 02
05 | MN | BLAINE, CITY OF | 2700070005D | 20-DEC-2002 | 03-05-0936A | 02
05 | MN | BROOKLYN CENTER, CITY OF | 2701510002B | 15-OCT-2002 | 02-05-4304A | 02
05 | MN | BURNSVILLE, CITY OF | 2701020002B | 30-SEP-2002 | 02-05-1843P | 05
05 | MN | CARVER COUNTY | 2700490050C | 27-SEP-2002 | 02-05-4354A | 02
05 | MN | CHAMPLIN, CITY OF | 2701530002A | 20-SEP-2002 | 02-05-3904A | 01
05 | MN | CHISAGO COUNTY | 2706820175C | 30-OCT-2002 | 02-05-4175A | 02
05 | MN | CHISAGO COUNTY | 2706820025B | 06-NOV-2002 | 03-05-0285A | 02
05 | MN | CHISAGO, CITY OF | 2707070001A | 01-NOV-2002 | 02-05-4448A | 02
05 | MN | CLEVELAND, CITY OF | 27079C0255D | 15-NOV-2002 | 02-05-0026P | 06
05 | MN | CLOQUET, CITY OF | 2700420020C | 09-AUG-2002 | 02-05-3840A | 01
05 | MN | CLOQUET, CITY OF | 2700420020C | 11-DEC-2002 | 03-05-0510X | 01
05 | MN | CLOQUET, CITY OF | 2700420020C | 20-DEC-2002 | 03-05-0604A | 01
05 | MN | COLUMBIA HEIGHTS, CITY OF | 2700100005B | 20-DEC-2002 | 03-05-0890A | 02
05 | MN | COON RAPIDS,CITY OF | 2700110001A | 10-JUL-2002 | 02-05-2792A | 01
05 | MN | COON RAPIDS,CITY OF | 270011A | 23-OCT-2002 | 02-05-4155A | 02
05 | MN | COON RAPIDS,CITY OF | 2700110001A | 20-SEP-2002 | 02-05-4348A | 02
05 | MN | CROSSLAKE, CITY OF | 27009506B | 13-SEP-2002 | 02-05-4170A | 02
05 | MN | CROW WING COUNTY | 2700910275B | 17-JUL-2002 | 02-05-3716X | 02
05 | MN | CROW WING COUNTY | 2700910250B | 18-OCT-2002 | 03-05-0156A | 02
05 | MN | CROW WING COUNTY | 2700910250B | 27-NOV-2002 | 03-05-0579A | 02
05 | MN | CRYSTAL, CITY OF | 2701560004C | 12-DEC-2002 | 02-05-1050P | 05
05 | MN | DAKOTA COUNTY | 2701010250B | 27-SEP-2002 | 02-05-3675A | 02
05 | MN | EAST BETHEL, CITY OF | 2700120010A | 10-JUL-2002 | 02-05-3189A | 02
05 | MN | EAST BETHEL, CITY OF | 2700120010A | 23-AUG-2002 | 02-05-4169A | 02
05 | MN | EAST GRAND FORKS, CITY OF | 2752360005C | 04-DEC-2002 | 03-05-0311A | 01
05 | MN | EDEN PRAIRIE, CITY OF | 2701590005C | 07-AUG-2002 | 02-05-3282A | 02
05 | MN | EDEN PRAIRIE, CITY OF | 2701590005C | 07-AUG-2002 | 02-05-3288A | 02
05 | MN | EDEN PRAIRIE, CITY OF | 2701590005C | 11-OCT-2002 | 02-05-3894A | 02
05 | MN | EDEN PRAIRIE, CITY OF | 2701590005C | 30-OCT-2002 | 03-05-0028A | 02
05 | MN | EDEN PRAIRIE, CITY OF | 2701590005C | 16-AUG-2002 | 02-05-2862A | 02
05 | MN | EDINA, CITY OF | 2701600002B | 16-AUG-2002 | 02-05-2636A | 02
05 | MN | GOLDEN VALLEY, CITY OF | 2701620001B | 12-NOV-2002 | 02-05-1047P | 05
05 | MN | GOLDEN VALLEY, CITY OF | 2701620002C | 12-NOV-2002 | 02-05-1047P | 05
05 | MN | GOLDEN VALLEY, CITY OF | 2701620003B | 12-NOV-2002 | 02-05-1047P | 05
05 | MN | GOLDEN VALLEY, CITY OF | 2701620004B | 12-NOV-2002 | 02-05-1047P | 05
05 | MN | GOODHUE COUNTY | 2701400125A | 02-AUG-2002 | 02-05-3785A | 02
05 | MN | GREENFIELD, CITY OF | 2706730010C | 31-JUL-2002 | 02-05-3270A | 02
05 | MN | HAM LAKE, CITY OF | 2706740005B | 10-JUL-2002 | 02-05-3549A | 02
05 | MN | HAMMOND, CITY OF | 27157C0282D | 30-OCT-2002 | 03-05-0144A | 02
05 | MN | HASTINGS,CITY OF | 2701050005D | 06-NOV-2002 | 02-05-4588A | 02
05 | MN | HOPKINS, CITY OF | 2701660001C | 26-DEC-2002 | 03-05-1055A | 02
05 | MN | HOUSTON COUNTY | 2701900105C | 20-NOV-2002 | 03-05-0328A | 02
05 | MN | HUGO, CITY OF | 2705040005C | 15-NOV-2002 | 02-05-0419P | 05
05 | MN | HUGO, CITY OF | 2705040010C | 15-NOV-2002 | 02-05-0419P | 05
05 | MN | HUGO, CITY OF | 2705040005C | 24-JUL-2002 | 02-05-3091A | 01
05 | MN | HUGO, CITY OF | 2705040010C | 02-OCT-2002 | 02-05-4478A | 01
05 | MN | ISANTI COUNTY | 2701970060B | 12-JUL-2002 | 02-05-2248A | 02
05 | MN | ISANTI COUNTY | 2701970040B | 03-JUL-2002 | 02-05-3112A | 02
05 | MN | ISANTI COUNTY | 2701970025B | 24-JUL-2002 | 02-05-3412A | 02
05 | MN | ISANTI COUNTY | 2701970060B | 04-OCT-2002 | 02-05-4009A | 02
05 | MN | ISANTI COUNTY | 2701970035B | 04-OCT-2002 | 02-05-4366A | 02
05 | MN | ISANTI COUNTY | 2701970030B | 18-OCT-2002 | 03-05-0091A | 02
05 | MN | ISANTI COUNTY | 2701970080B | 01-NOV-2002 | 03-05-0123A | 02
05 | MN | ISANTI COUNTY | 2701970060B | 15-NOV-2002 | 03-05-0181X | 02
05 | MN | ITASCA COUNTY | 2702000775A | 06-OCT-2002 | 02-05-2509A | 02
05 | MN | KOOCHICHING COUNTY | 2702330006B | 09-AUG-2002 | 02-05-3662A | 02
05 | MN | KOOCHICHING COUNTY | 2702330006B | 02-OCT-2002 | 02-05-4536A | 02
05 | MN | KOOCHICHING COUNTY | 2702330010C | 01-NOV-2002 | 02-05-4712A | 02
05 | MN | KOOCHICHING COUNTY | 2702330006B | 04-DEC-2002 | 03-05-0711A | 02
05 | MN | LAKEVILLE, CITY OF | 2701070003C | 07-AUG-2002 | 01-05-2461P | 05
05 | MN | LAKEVILLE, CITY OF | 2701070002C | 28-AUG-2002 | 02-05-0298P | 05
05 | MN | LAKEVILLE, CITY OF | 2701070003C | 28-AUG-2002 | 02-05-0298P | 05
05 | MN | LAKEVILLE, CITY OF | 2701070002C | 30-AUG-2002 | 02-05-3961P | 06
05 | MN | LE SUEUR COUNTY | 27079C0270D | 04-DEC-2002 | 03-05-0616A | 02
05 | MN | LINO LAKES, CITY OF | 2700150010B | 14-AUG-2002 | 02-05-3321A | 02
05 | MN | LINO LAKES, CITY OF | 2700150005B | 14-AUG-2002 | 02-05-3667A | 02
05 | MN | LINO LAKES, CITY OF | 2700150010B | 27-SEP-2002 | 02-05-4518A | 02
05 | MN | MABEL, CITY OF | 2701270001B | 10-JUL-2002 | 02-05-2476A | 01
05 | MN | MANTORVILLE, CITY OF | 2705850001B | 27-NOV-2002 | 02-05-4777A | 02
05 | MN | MAPLE GROVE, CITY OF | 2701690004B | 18-OCT-2002 | 02-05-4312A | 02
05 | MN | MAPLEWOOD, CITY OF | 27037805C | 11-SEP-2002 | 02-05-3697A | 02
05 | MN | MARSHALL, CITY OF | 2702580001C | 30-AUG-2002 | 02-05-1586P | 05
05 | MN | MC LEOD COUNTY | 2706160050C | 10-JUL-2002 | 02-05-3541A | 02
05 | MN | MEDICINE LAKE, CITY OF | 2706900001A | 12-DEC-2002 | 02-05-1049P | 05
05 | MN | MEDINA, CITY OF | 2701710002B | 12-JUL-2002 | 02-05-3277A | 02
05 | MN | MINNEAPOLIS, CITY OF | 2701720006B | 12-DEC-2002 | 02-05-1051P | 05
05 | MN | MINNEAPOLIS, CITY OF | 2701720010B | 12-DEC-2002 | 02-05-1051P | 05
05 | MN | MINNETRISTA, CITY OF | 270175—08B | 16-OCT-2002 | 02-05-3883A | 02
05 | MN | MINNETRISTA, CITY OF | 260175—02B | 25-OCT-2002 | 02-05-3910A | 02
05 | MN | MOORHEAD, CITY OF | 2752440010D | 18-SEP-2002 | 02-05-3352A | 02
05 | MN | MORRISON COUNTY | 2706170290B | 10-JUL-2002 | 02-05-2386A | 02
05 | MN | MOUND, CITY OF | 2701760005B | 03-JUL-2002 | 02-05-2626A | 02
05 | MN | NEW PRAGUE, CITY OF | 27079C0091D | 31-JUL-2002 | 02-05-0037A | 01
05 | MN | NEW PRAGUE, CITY OF | 27079C0091D | 23-AUG-2002 | 02-05-3708A | 02
05 | MN | NOBLES COUNTY | 2706680100B | 10-JUL-2002 | 02-05-2505A | 02
05 | MN | OLMSTED COUNTY | 27109C0302E | 18-JUL-2002 | 01-05-746P | 06
05 | MN | OTSEGO, CITY OF | 2705340032C | 19-JUL-2002 | 02-05-3700X | 01
05 | MN | OTSEGO, CITY OF | 2705340032C | 07-AUG-2002 | 02-05-3985X | 01
05 | MN | PINE ISLAND, CITY OF | 27109C0025D | 06-SEP-2002 | 02-05-3546A | 01
05 | MN | PINE ISLAND, CITY OF | 27109C0025D | 23-AUG-2002 | 02-05-3674A | 01
05 | MN | PLYMOUTH, CITY OF | 2701790010C | 12-DEC-2002 | 02-05-1048P | 05
05 | MN | POLK COUNTY | 2705030025B | 02-AUG-2002 | 02-05-3407A | 02
05 | MN | POLK COUNTY | 2705030100B | 11-SEP-2002 | 02-05-4248A | 02
05 | MN | POLK COUNTY | 2705030175B | 20-SEP-2002 | 02-05-4377A | 02
05 | MN | POLK COUNTY | 2705030050B | 27-SEP-2002 | 02-05-4555A | 02
05 | MN | PRINCETON, CITY OF | 27141C0150E | 30-OCT-2002 | 02-05-3551A | 01
05 | MN | PRIOR LAKE, CITY OF | 2704320002C | 17-JUL-2002 | 02-05-3635A | 02
05 | MN | PRIOR LAKE, CITY OF | 2704320003C | 11-SEP-2002 | 02-05-4339A | 02
05 | MN | PRIOR LAKE, CITY OF | 2704320002C | 20-SEP-2002 | 02-05-4436A | 02
05 | MN | RAMSEY, CITY OF | 2706810005B | 10-JUL-2002 | 02-05-2961A | 01
05 | MN | RED WING, CITY OF | 2701460010C | 07-AUG-2002 | 02-05-2462A | 17
05 | MN | RICE COUNTY | 2706460025C | 02-OCT-2002 | 02-05-4460A | 02
05 | MN | RICE COUNTY | 2706460050B | 13-NOV-2002 | 03-05-0234A | 02
05 | MN | RICE COUNTY | 2706460075B | 11-DEC-2002 | 03-05-0639A | 02
05 | MN | RICE COUNTY | 2706460100B | 20-DEC-2002 | 03-05-0986A | 02
05 | MN | ROCKFORD, CITY OF | 2701820001C | 20-DEC-2002 | 03-05-0758A | 02
05 | MN | SAVAGE, CITY OF | 2704330002D | 17-JUL-2002 | 02-05-3623A | 02
05 | MN | SCOTT COUNTY | 2704280020C | 02-AUG-2002 | 02-05-3711A | 02
05 | MN | SCOTT COUNTY | 2704280125C | 20-DEC-2002 | 03-05-0750A | 02
05 | MN | SHERBURNE COUNTY | 27141C0265E | 09-OCT-2002 | 02-05-4193A | 02
05 | MN | SHERBURNE COUNTY | 27141C0240E | 18-SEP-2002 | 02-05-4337A | 17
05 | MN | SHERBURNE COUNTY | 27141C0245E | 18-OCT-2002 | 02-05-4673A | 02
05 | MN | SHERBURNE COUNTY | 27141C0265E | 11-DEC-2002 | 03-05-0569A | 02
05 | MN | SHOREVIEW, CITY OF | 2703840001B | 02-OCT-2002 | 02-05-3105A | 01
05 | MN | SHOREVIEW, CITY OF | 2703840001B | 10-JUL-2002 | 02-05-3441X | 01
05 | MN | SHOREVIEW, CITY OF | 2703840001B | 26-JUL-2002 | 02-05-3746A | 02
05 | MN | ST. BONIFACIUS, CITY OF | 270183—01A | 24-JUL-2002 | 02-05-2937A | 02
05 | MN | ST. FRANCIS, CITY OF | 2700170010B | 13-NOV-2002 | 03-05-0190A | 17
05 | MN | ST. LOUIS COUNTY | 2704160550C | 22-NOV-2002 | 02-05-4576A | 02
05 | MN | ST. LOUIS COUNTY | 2704160075C | 15-NOV-2002 | 03-05-0173A | 02
05 | MN | ST. LOUIS PARK, CITY OF | 2701840005B | 28-AUG-2002 | 02-05-2920A | 02
05 | MN | ST. LOUIS PARK, CITY OF | 2701840005B | 11-DEC-2002 | 02-05-3911A | 02
05 | MN | STEARNS COUNTY | 2705460190B | 23-OCT-2002 | 02-05-3765A | 02
05 | MN | STEARNS COUNTY | 2705460025A | 23-AUG-2002 | 02-05-4047A | 02
05 | MN | STEARNS COUNTY | 2705460265B | 16-OCT-2002 | 02-05-4769A | 02
05 | MN | STEELE COUNTY | 2706350070B | 16-OCT-2002 | 02-05-4794X | 02
05 | MN | STEWARTVILLE, CITY OF | 27109C0451D | 25-SEP-2002 | 02-05-4188A | 01
05 | MN | TRAVERSE COUNTY | 2706210200B | 26-JUL-2002 | 02-05-3389A | 02
05 | MN | WARREN, CITY OF | 2702740001C | 18-OCT-2002 | 02-05-4458A | 02
05 | MN | WASHINGTON COUNTY | 2704990045B | 24-JUL-2002 | 02-05-3735A | 02
05 | MN | WASHINGTON COUNTY | 2704990025B | 11-DEC-2002 | 03-05-0613A | 02
05 | MN | WHITE BEAR,TOWNSHIP OF | 2706880005B | 20-SEP-2002 | 02-05-3524A | 02
05 | MN | WHITE BEAR,TOWNSHIP OF | 2706880005B | 30-AUG-2002 | 02-05-3686A | 02
05 | MN | WHITE BEAR,TOWNSHIP OF | 2706880005B | 18-SEP-2002 | 02-05-4413A | 02
05 | MN | WHITE BEAR,TOWNSHIP OF | 2706880005B | 27-SEP-2002 | 02-05-4459A | 02
05 | MN | WHITE BEAR,TOWNSHIP OF | 2706880005B | 30-OCT-2002 | 03-05-0159A | 02
05 | MN | WINONA COUNTY | 2705250157C | 02-AUG-2002 | 02-05-3828A | 02
05 | MN | WINSTED, CITY OF | 270614—01A | 15-NOV-2002 | 03-05-0274A | 02
05 | MN | WORTHINGTON, CITY OF | 2703210003B | 16-OCT-2002 | 02-05-4342A | 02
05 | MN | WRIGHT COUNTY | 2705340033B | 06-NOV-2002 | 02-05-4671A | 02
05 | OH | AKRON, CITY OF | 3905230013B | 16-AUG-2002 | 02-05-4020A | 02
05 | OH | AUGLAIZE COUNTY | 39011C0085C | 11-SEP-2002 | 02-05-3764A | 02
05 | OH | AVON LAKE, CITY OF | 390602BH&I | 28-AUG-2002 | 02-05-1841P | 05
05 | OH | AVON LAKE, CITY OF | 3906020002B | 30-OCT-2002 | 03-05-0167A | 02
05 | OH | AVON, CITY OF | 3903480005C | 27-SEP-2002 | 02-05-3625A | 02
05 | OH | BARBERTON, CITY OF | 3905240004C | 11-OCT-2002 | 02-05-4043A | 01
05 | OH | BELLAIRE, CITY OF | 3900250001B | 30-OCT-2002 | 03-05-0121A | 02
05 | OH | BELMONT COUNTY | 3907620141C | 23-SEP-2002 | 02-05-2992P | 06
05 | OH | BELMONT COUNTY | 3907620142C | 23-SEP-2002 | 02-05-2992P | 06
05 | OH | BEREA, CITY OF | 3900970001B | 23-AUG-2002 | 02-05-3403A | 02
05 | OH | BERKEY, VILLAGE OF | 39095C0050D | 18-DEC-2002 | 03-05-0826A | 02
05 | OH | BROWN COUNTY | 39015C0075C | 18-SEP-2002 | 02-05-3213A | 02
05 | OH | BUCKEYE LAKE, VILLAGE OF | 3908820001A | 19-JUL-2002 | 02-05-3251A | 02
05 | OH | CANTON, CITY OF | 3905120002B | 17-JUL-2002 | 02-05-2712A | 02
05 | OH | CARROLL COUNTY | 3907630075B | 20-DEC-2002 | 03-05-0957A | 02
05 | OH | CELINA, CITY OF | 3903930005C | 06-DEC-2002 | 02-05-4076A | 02
05 | OH | CHARDON, CITY OF | 3901910005C | 14-AUG-2002 | 02-05-3805A | 02
05 | OH | CLARK COUNTY | 3907320175A | 21-AUG-2002 | 02-05-3558A | 02
05 | OH | CLARK COUNTY | 3907320200A | 28-AUG-2002 | 02-05-3773A | 02
05 | OH | CLARK COUNTY | 3907320325A | 27-NOV-2002 | 02-05-4773A | 02
05 | OH | CLERMONT COUNTY | 3900650055D | 26-JUL-2002 | 02-05-3529A | 02
05 | OH | CLINTON COUNTY | 3907640001B | 22-NOV-2002 | 02-05-4469A | 02
05 | OH | CLINTON COUNTY | 3907640001B | 27-NOV-2002 | 02-05-4472A | 02
05 | OH | CLINTON COUNTY | 3907640001B | 20-NOV-2002 | 02-05-4477A | 02
05 | OH | COLUMBUS, CITY OF | 39049C0276G | 18-SEP-2002 | 02-05-3560A | 01
05 | OH | COLUMBUS, CITY OF | 39049C0270G | 13-SEP-2002 | 02-05-4030A | 02
05 | OH | COLUMBUS, CITY OF | 39049C0290G | 13-SEP-2002 | 02-05-4122A | 01
05 | OH | COLUMBUS, CITY OF | 39049C0295G | 06-DEC-2002 | 02-05-4537A | 02
05 | OH | COLUMBUS, CITY OF | 39049C0277G | 01-NOV-2002 | 02-05-4598A | 01
05 | OH | COLUMBUS, CITY OF | 39049C0227G | 13-NOV-2002 | 02-05-4714A | 01
05 | OH | COLUMBUS, CITY OF | 39049C0278G | 22-NOV-2002 | 03-05-0171A | 17
05 | OH | COLUMBUS, CITY OF | 39049C0290G | 13-DEC-2002 | 03-05-0819A | 01
05 | OH | DAYTON, CITY OF | 3904090010C | 21-AUG-2002 | 02-05-3226A | 02
05 | OH | DEFIANCE COUNTY | 3901430120B | 09-AUG-2002 | 02-05-3427A | 02
05 | OH | DEFIANCE COUNTY | 3901430120B | 18-SEP-2002 | 02-05-3946A | 02
05 | OH | DEFIANCE COUNTY | 3901430105B | 04-OCT-2002 | 02-05-4060A | 02
05 | OH | DEFIANCE COUNTY | 3901430120B | 27-NOV-2002 | 03-05-0469A | 02
05 | OH | DELAWARE COUNTY | 39041C0237J | 18-SEP-2002 | 02-05-3757A | 01
05 | OH | DELAWARE COUNTY | 39041C0216J | 06-DEC-2002 | 03-05-0694A | 01
05 | OH | DELTA, VILLAGE OF | 3901830005C | 28-AUG-2002 | 02-05-3922A | 02
05 | OH | DUBLIN, CITY OF | 39049C0105G | 27-NOV-2002 | 02-05-1027P | 05
05 | OH | DUBLIN, CITY OF | 39049C0106G | 27-NOV-2002 | 02-05-1027P | 05
05 | OH | DUBLIN, CITY OF | 39049C0108G | 27-NOV-2002 | 02-05-1027P | 05
05 | OH | DUBLIN, CITY OF | 39049C0018H | 24-JUL-2002 | 02-05-2572A | 01
05 | OH | DUBLIN, CITY OF | 39049C0126G | 20-DEC-2002 | 02-05-4357A | 02
05 | OH | EAST CANTON, VILLAGE OF | 3905130001A | 20-DEC-2002 | 02-05-4607A | 02
05 | OH | ERIE COUNTY | 3901530095B | 21-AUG-2002 | 02-05-3373A | 02
05 | OH | ERIE COUNTY | 3901530075C | 25-SEP-2002 | 02-05-4426A | 02
05 | OH | ERIE COUNTY | 3901530075C | 08-NOV-2002 | 03-05-0330A | 02
05 | OH | FAIRFIELD COUNTY | 3901580035D | 14-AUG-2002 | 02-05-3417A | 02
05 | OH | FAIRFIELD COUNTY | 3901580035D | 11-SEP-2002 | 02-05-4134A | 02
05 | OH | FAIRFIELD COUNTY | 3901580035D | 18-OCT-2002 | 02-05-4496A | 02
05 | OH | FAIRFIELD COUNTY | 3901580040D | 04-OCT-2002 | 02-05-4594A | 02
05 | OH | FAIRFIELD COUNTY | 3901580015D | 01-NOV-2002 | 03-05-0157A | 02
05 | OH | FAIRFIELD COUNTY | 3901580035D | 04-DEC-2002 | 03-05-0297A | 02
05 | OH | FAIRFIELD, CITY OF | 3900380005B | 03-JUL-2002 | 02-05-2783A | 02
05 | OH | FAIRFIELD, CITY OF | 3900380005B | 14-AUG-2002 | 02-05-3485A | 02
05 | OH | FAIRFIELD, CITY OF | 3900380005B | 27-NOV-2002 | 02-05-3994A | 17
05 | OH | FAIRFIELD, CITY OF | 3900380005B | 09-OCT-2002 | 02-05-4148A | 02
05 | OH | FINDLAY, CITY OF | 3902440005C | 06-SEP-2002 | 02-05-3153A | 02
05 | OH | FINDLAY, CITY OF | 3902440004B | 17-JUL-2002 | 02-05-3493A | 02
05 | OH | FINDLAY, CITY OF | 3902440004B | 25-SEP-2002 | 02-05-4417A | 02
05 | OH | FINDLAY, CITY OF | 3902440004B | 30-OCT-2002 | 03-05-0186A | 02
05 | OH | FINDLAY, CITY OF | 3902440005C | 20-DEC-2002 | 03-05-0808A | 02
05 | OH | FRANKLIN COUNTY | 39049C0210G | 06-DEC-2002 | 02-05-1849P | 05
05 | OH | FRANKLIN COUNTY | 39049C0109G | 25-SEP-2002 | 02-05-3527A | 02
05 | OH | FRANKLIN COUNTY | 39049C0283G | 07-AUG-2002 | 02-05-3628A | 02
05 | OH | FRANKLIN COUNTY | 39049C0290G | 15-OCT-2002 | 02-05-3971P | 05
05 | OH | FRANKLIN COUNTY | 39049C0190G | 18-OCT-2002 | 02-05-4668A | 02
05 | OH | FRANKLIN COUNTY | 39049C0195G | 18-OCT-2002 | 02-05-4668A | 02
05 | OH | FRANKLIN COUNTY | 39049C0195G | 11-OCT-2002 | 02-05-4715A | 02
05 | OH | FRANKLIN COUNTY | 39049C0270G | 04-DEC-2002 | 03-05-0688A | 02
05 | OH | FRANKLIN COUNTY* | 39049C0238G | 11-SEP-2002 | 02-05-423P | 05
05 | OH | FRANKLIN COUNTY* | 39049C0239G | 11-SEP-2002 | 02-05-423P | 05
05 | OH | FULTON COUNTY | 3901820135C | 28-AUG-2002 | 02-05-4138A | 02
05 | OH | FULTON COUNTY | 3901820050C | 25-OCT-2002 | 02-05-4554A | 02
05 | OH | FULTON COUNTY | 3901820050C | 20-DEC-2002 | 02-05-4679A | 02
05 | OH | GERMANTOWN, VILLAGE OF | 3904110001B | 22-NOV-2002 | 03-05-0224A | 02
05 | OH | GREENE COUNTY | 3901930075B | 03-JUL-2002 | 02-05-2148A | 02
05 | OH | GREENE COUNTY | 3901930025C | 08-NOV-2002 | 03-05-0278A | 02
05 | OH | GREENWICH, VILLAGE OF | 39028202B | 26-JUL-2002 | 02-05-3060A | 02
05 | OH | GROVE CITY, CITY OF | 39049C0238G | 11-SEP-2002 | 02-05-423P | 05
05 | OH | GROVE CITY, CITY OF | 39049C0239G | 11-SEP-2002 | 02-05-423P | 05
05 | OH | GROVE CITY, CITY OF | 39049C0239G | 24-JUL-2002 | 00-05-311P | 05
05 | OH | GROVE CITY, CITY OF | 39049C0243G | 24-JUL-2002 | 00-05-311P | 05
05 | OH | GROVE CITY, CITY OF | 39049C0335G | 16-AUG-2002 | 02-05-3673A | 01
05 | OH | GROVEPORT, VILLAGE OF | 39049C0376H | 27-DEC-2002 | 02-05-3801A | 01
05 | OH | HAMILTON COUNTY * | 3902040025B | 04-OCT-2002 | 02-05-3937A | 02
05 | OH | HANCOCK COUNTY | 3907670080B | 12-JUL-2002 | 02-05-3145A | 01
05 | OH | HANCOCK COUNTY | 3907670050B | 12-JUL-2002 | 02-05-3559A | 02
05 | OH | HOCKING COUNTY | 3902720075C | 10-JUL-2002 | 02-05-2470A | 01
05 | OH | HOLLAND, VILLAGE OF | 39095C0064D | 25-JUL-2002 | 02-05-2988P | 05
05 | OH | HOLMES COUNTY | 39075C0105C | 01-NOV-2002 | 03-05-0262A | 02
05 | OH | HUDSON, VILLAGE OF | 3906600001B | 11-OCT-2002 | 02-05-4795X | 02
05 | OH | HURON COUNTY | 3907700004B | 11-DEC-2002 | 03-05-0560A | 02
05 | OH | JACKSON, CITY OF | 3902920005D | 10-JUL-2002 | 02-05-3506A | 02
05 | OH | JACKSON, CITY OF | 3902920005D | 28-AUG-2002 | 02-05-4127A | 02
05 | OH | KENTON, CITY OF | 3902530001C | 27-SEP-2002 | 02-05-4077A | 02
05 | OH | KETTERING, CITY OF | 3904120010B | 19-AUG-2002 | 02-05-1438P | 05
05 | OH | KNOX COUNTY | 3903060135C | 16-AUG-2002 | 02-05-3761A | 02
05 | OH | KNOX COUNTY | 3903060135C | 09-OCT-2002 | 02-05-3792A | 02
05 | OH | KNOX COUNTY | 3903060070C | 18-OCT-2002 | 02-05-4415A | 02
05 | OH | KNOX COUNTY | 3903060070C | 04-OCT-2002 | 02-05-4468A | 02
05 | OH | KNOX COUNTY | 3903060135C | 11-OCT-2002 | 02-05-4742A | 02
05 | OH | LAKE COUNTY | 3907710053C | 14-AUG-2002 | 02-05-3461A | 02
05 | OH | LAKE COUNTY | 3907710027C | 24-JUL-2002 | 02-05-3687A | 02
05 | OH | LAKE COUNTY | 3907710009C | 28-AUG-2002 | 02-05-4112A | 02
05 | OH | LAKE COUNTY | 3907710047C | 13-DEC-2002 | 03-05-0686A | 02
05 | OH | LANCASTER, CITY OF | 3901610003D | 10-JUL-2002 | 02-05-3550A | 02
05 | OH | LANCASTER, CITY OF | 3901610003D | 31-JUL-2002 | 02-05-3624A | 02
05 | OH | LANCASTER, CITY OF | 3901610005D | 16-AUG-2002 | 02-05-3956A | 02
05 | OH | LAWRENCE COUNTY * | 3903250050B | 30-AUG-2002 | 02-05-1065A | 02
05 | OH | LOGAN COUNTY | 3907720025C | 16-OCT-2002 | 02-05-4189A | 02
05 | OH | LORAIN COUNTY | 3903460110C | 02-OCT-2002 | 02-05-3419A | 02
05 | OH | LORAIN, CITY OF | 3903510004C | 09-OCT-2002 | 02-05-3694A | 02
05 | OH | LORAIN, CITY OF | 3903510010C | 13-NOV-2002 | 03-05-0142A | 01
05 | OH | LUCAS COUNTY | 39095C0145D | 03-JUL-2002 | 02-05-2296A | 01
05 | OH | LUCAS COUNTY | 39095C0042D | 03-JUL-2002 | 02-05-2452A | 01
05 | OH | LUCAS COUNTY | 39095C0042D | 12-JUL-2002 | 02-05-3010A | 01
05 | OH | LUCAS COUNTY | 39095C0042D | 09-AUG-2002 | 02-05-3349A | 01
05 | OH | LUCAS COUNTY | 39095C0381D | 19-JUL-2002 | 02-05-3424A | 02
05 | OH | LUCAS COUNTY | 39095C0053D | 09-AUG-2002 | 02-05-3680A | 02
05 | OH | LUCAS COUNTY | 39095C0140D | 02-AUG-2002 | 02-05-3703A | 02
05 | OH | LUCAS COUNTY | 39095C0042D | 07-AUG-2002 | 02-05-3752A | 02
05 | OH | LUCAS COUNTY | 39095C0061D | 07-AUG-2002 | 02-05-3752A | 02
05 | OH | LUCAS COUNTY | 39095C0062D | 07-AUG-2002 | 02-05-3774A | 01
05 | OH | LUCAS COUNTY | 39095C0034D | 13-NOV-2002 | 02-05-4008A | 02
05 | OH | LUCAS COUNTY | 39095C0062D | 04-OCT-2002 | 02-05-4277A | 01
05 | OH | LUCAS COUNTY | 39095C0140D | 04-OCT-2002 | 02-05-4439A | 02
05 | OH | LUCAS COUNTY | 39095C0042D | 01-NOV-2002 | 02-05-4780A | 02
05 | OH | LUCAS COUNTY | 39095C0034D | 25-OCT-2002 | 03-05-0116A | 02
05 | OH | LUCAS COUNTY | 39095C0062D | 30-OCT-2002 | 03-05-0149A | 02
05 | OH | LUCAS COUNTY | 39095C0053D | 06-NOV-2002 | 03-05-0212A | 02
05 | OH | LUCAS COUNTY | 39095C0236D | 04-DEC-2002 | 03-05-0669A | 02
05 | OH | LYNDHURST, CITY OF | 3901130005B | 28-AUG-2002 | 02-05-3059A | 01
05 | OH | MARIETTA, CITY OF | 3905720004D | 16-AUG-2002 | 02-05-3492A | 02
05 | OH | MARIETTA, CITY OF | 3905720004D | 08-NOV-2002 | 02-05-4693A | 02
05 | OH | MARION COUNTY | 39101C0125C | 02-AUG-2002 | 02-05-3025A | 02
05 | OH | MARION COUNTY | 39101C0010C | 18-OCT-2002 | 02-05-4484A | 02
05 | OH | MARION COUNTY | 39101C0055C | 08-NOV-2002 | 03-05-0206A | 02
05 | OH | MARYSVILLE, CITY OF | 3905480001C | 13-SEP-2002 | 02-05-3357A | 02
05 | OH | MAUMEE, CITY OF | 39095C0234D | 12-JUL-2002 | 02-05-2586A | 02
05 | OH | MAUMEE, CITY OF | 39095C0234D | 02-AUG-2002 | 02-05-3796A | 02
05 | OH | MAUMEE, CITY OF | 39095C0234D | 18-OCT-2002 | 02-05-4605A | 02
05 | OH | MEDINA COUNTY | 3903780080B | 03-JUL-2002 | 02-05-3136A | 02
05 | OH | MEDINA COUNTY | 3903780080B | 03-JUL-2002 | 02-05-3410A | 02
05 | OH | MEIGS COUNTY * | 39105C0215C | 19-SEP-2002 | 02-05-3891V | 19
05 | OH | MERCER COUNTY | 3903920100B | 10-JUL-2002 | 02-05-3133A | 01
05 | OH | MERCER COUNTY | 3903920100B | 03-JUL-2002 | 02-05-3409A | 02
05 | OH | MERCER COUNTY | 3903920100B | 11-SEP-2002 | 02-05-4124A | 02
05 | OH | MERCER COUNTY | 3903920100B | 01-NOV-2002 | 02-05-4664A | 02
05 | OH | MERCER COUNTY | 3903920100B | 13-DEC-2002 | 03-05-0717A | 02
05 | OH | MERCER COUNTY | 3903920100B | 20-DEC-2002 | 03-05-1005A | 02
05 | OH | MONROE COUNTY | 3904040130B | 25-OCT-2002 | 02-05-4717A | 02
05 | OH | MONTEZUMA, VILLAGE OF | 3903960001B | 04-DEC-2002 | 03-05-0672A | 02
05 | OH | MONTEZUMA, VILLAGE OF | 3903960001B | 13-DEC-2002 | 03-05-0732A | 02
05 | OH | MONTGOMERY COUNTY | 3907750040C | 15-OCT-2002 | 02-05-0845P | 05
05 | OH | MONTGOMERY COUNTY | 3907750040C | 06-NOV-2002 | 02-05-4790A | 02
05 | OH | MONTGOMERY COUNTY | 3907750040C | 20-NOV-2002 | 03-05-0407A | 02
05 | OH | MORGAN COUNTY | 3904200075C | 20-SEP-2002 | 02-05-4346A | 01
05 | OH | MUNROE FALLS, CITY OF | 3908430001B | 12-JUL-2002 | 02-05-3351A | 02
05 | OH | MUSKINGUM COUNTY | 3904250110C | 27-SEP-2002 | 02-05-4214A | 02
05 | OH | MUSKINGUM COUNTY | 3904250040C | 11-OCT-2002 | 02-05-4662A | 02
05 | OH | NEWARK,CITY OF | 3903350004F | 11-DEC-2002 | 03-05-0189A | 02
05 | OH | NILES, CITY OF | 3905400001B | 14-AUG-2002 | 02-05-2933A | 02
05 | OH | NILES, CITY OF | 3905400001B | 07-AUG-2002 | 02-05-3179A | 02
05 | OH | NILES, CITY OF | 3905400001B | 07-AUG-2002 | 02-05-3265A | 02
05 | OH | NILES, CITY OF | 3905400001B | 24-JUL-2002 | 02-05-3266A | 02
05 | OH | NILES, CITY OF | 3905400001B | 31-JUL-2002 | 02-05-3267A | 02
05 | OH | NILES, CITY OF | 3905400001B | 27-SEP-2002 | 02-05-4305A | 02
05 | OH | NILES, CITY OF | 3905400005C | 18-DEC-2002 | 03-05-0161A | 02
05 | OH | NORTH RIDGEVILLE, CITY OF | 3903520005C | 17-JUL-2002 | 02-05-3421A | 02
05 | OH | OAKWOOD, VILLAGE OF | 3904370001C | 13-DEC-2002 | 02-05-4775A | 01
05 | OH | OAKWOOD, VILLAGE OF | 3904370001C | 18-DEC-2002 | 03-05-0942A | 02
05 | OH | OLMSTED FALLS, CITY OF | 3906720001B | 20-NOV-2002 | 02-05-4444A | 02
05 | OH | OREGON, CITY OF | 39095C0110D | 25-SEP-2002 | 02-05-3938A | 02
05 | OH | OTTAWA COUNTY | 3904320050B | 18-SEP-2002 | 02-05-3383A | 02
05 | OH | OTTAWA COUNTY | 3904320025A | 01-NOV-2002 | 02-05-4001A | 02
05 | OH | OTTAWA COUNTY | 3904320125B | 23-OCT-2002 | 02-05-4580A | 02
05 | OH | OTTAWA COUNTY | 3904320125B | 01-NOV-2002 | 03-05-0226A | 02
05 | OH | OTTAWA, VILLAGE OF | 3904720002C | 28-AUG-2002 | 02-05-2753A | 02
05 | OH | OTTAWA, VILLAGE OF | 3904720002C | 11-SEP-2002 | 02-05-2864A | 02
05 | OH | OTTAWA, VILLAGE OF | 3904720002C | 30-AUG-2002 | 02-05-4064A | 02
05 | OH | OTTAWA, VILLAGE OF | 3904720002C | 23-AUG-2002 | 02-05-4070A | 02
05 | OH | OTTAWA, VILLAGE OF | 3904720002C | 11-SEP-2002 | 02-05-4075A | 02
05 | OH | OTTAWA, VILLAGE OF | 3904720002C | 15-NOV-2002 | 02-05-4368A | 02
05 | OH | OTTAWA, VILLAGE OF | 3904720002C | 08-NOV-2002 | 02-05-4488A | 02
05 | OH | OTTAWA, VILLAGE OF | 3904720002C | 08-NOV-2002 | 02-05-4685A | 02
05 | OH | PARMA HEIGHTS, CITY OF | 3901240001B | 08-AUG-2002 | 01-05-542P | 05
05 | OH | PAULDING COUNTY | 3907770085C | 20-SEP-2002 | 02-05-4355A | 02
05 | OH | PERRYSBURG, CITY OF | 3905880001C | 21-AUG-2002 | 02-05-4037A | 17
05 | OH | PORTAGE COUNTY | 39045334C | 16-AUG-2002 | 02-05-3204A | 02
05 | OH | PORTAGE COUNTY | 390453—27C | 20-NOV-2002 | 02-05-4466A | 02
05 | OH | PUTNAM COUNTY | 3904650100B | 28-AUG-2002 | 02-05-3173A | 02
05 | OH | PUTNAM COUNTY | 3904650100B | 18-SEP-2002 | 02-05-4108A | 02
05 | OH | PUTNAM COUNTY | 3904650135B | 13-DEC-2002 | 03-05-0119A | 02
05 | OH | RICHLAND COUNTY | 3904760125B | 11-SEP-2002 | 02-05-4205A | 02
05 | OH | RICHLAND COUNTY | 3904760100B | 11-DEC-2002 | 03-05-0478A | 02
05 | OH | ROAMING SHORES, VILLAGE OF | 3908850001A | 25-OCT-2002 | 02-05-3326A | 02
05 | OH | ROSS COUNTY | 3904800125B | 12-JUL-2002 | 02-05-3398A | 01
05 | OH | ROSS COUNTY | 3904800225B | 22-NOV-2002 | 02-05-4718A | 02
05 | OH | ROSS COUNTY | 3904800150B | 01-NOV-2002 | 03-05-0236A | 02
05 | OH | ROSS COUNTY | 3904800050B | 04-DEC-2002 | 03-05-0281A | 02
05 | OH | SANDUSKY COUNTY | 3904860225B | 10-JUL-2002 | 02-05-2685A | 02
05 | OH | SANDUSKY COUNTY | 3904860075B | 15-NOV-2002 | 02-05-4520A | 02
05 | OH | SANDUSKY, CITY OF | 39015606B | 02-AUG-2002 | 02-05-3156A | 02
05 | OH | SANDUSKY, CITY OF | 39015606B | 11-OCT-2002 | 02-05-4131A | 01
05 | OH | SCIOTO COUNTY * | 39145C0120D | 05-SEP-2002 | 02-05-3890V | 19
05 | OH | SCIOTO COUNTY * | 39145C0140D | 05-SEP-2002 | 02-05-3890V | 19
05 | OH | SCIOTO COUNTY * | 39145C0386D | 05-SEP-2002 | 02-05-3890V | 19
05 | OH | SCIOTO COUNTY * | 39145C0428D | 05-SEP-2002 | 02-05-3890V | 19
05 | OH | SHEFFIELD LAKE, CITY OF | 3903550002B | 18-OCT-2002 | 02-05-4719A | 02
05 | OH | SHELBY COUNTY | 3905030060C | 20-NOV-2002 | 03-05-0180A | 02
05 | OH | SOUTH LEBANON, VILLAGE OF | 3905630005C | 27-NOV-2002 | 03-05-0629A | 02
05 | OH | STARK COUNTY | 3907800085B | 17-JUL-2002 | 02-05-2564A | 02
05 | OH | STARK COUNTY | 3907800026B | 23-AUG-2002 | 02-05-3786A | 02
05 | OH | STARK COUNTY | 3907800175B | 30-AUG-2002 | 02-05-3838A | 02
05 | OH | STARK COUNTY | 3907800102B | 04-SEP-2002 | 02-05-4042A | 01
05 | OH | STARK COUNTY | 3907800160B | 04-OCT-2002 | 02-05-4069A | 02
05 | OH | STOW, CITY OF | 3905320005B | 04-SEP-2002 | 02-05-3404A | 02
05 | OH | STRONGSVILLE, CITY OF | 3901320005B | 28-AUG-2002 | 02-05-2439A | 02
05 | OH | STRONGSVILLE, CITY OF | 3901320005B | 24-JUL-2002 | 02-05-2871A | 01
05 | OH | STRONGSVILLE, CITY OF | 3901320005B | 22-NOV-2002 | 02-05-4263A | 02
05 | OH | SUMMIT COUNTY | 3907810015B | 18-OCT-2002 | 02-05-4694A | 02
05 | OH | SYLVANIA, CITY OF | 39095C0056D | 09-AUG-2002 | 02-05-2093A | 01
05 | OH | SYLVANIA, CITY OF | 39095C0051D | 25-SEP-2002 | 02-05-4261A | 02
05 | OH | SYLVANIA, CITY OF | 39095C0053D | 06-DEC-2002 | 02-05-4720A | 02
05 | OH | TOLEDO, CITY OF | 39095C0105D | 16-AUG-2002 | 02-05-2285A | 02
05 | OH | TOLEDO, CITY OF | 39095C0068D | 16-AUG-2002 | 02-05-2503A | 02
05 | OH | TOLEDO, CITY OF | 39095C0064D | 11-SEP-2002 | 02-05-2691A | 02
05 | OH | TOLEDO, CITY OF | 39095C0083D | 17-JUL-2002 | 02-05-2759A | 02
05 | OH | TOLEDO, CITY OF | 39095C0079D | 17-JUL-2002 | 02-05-3053A | 02
05 | OH | TOLEDO, CITY OF | 39095C0088D | 17-JUL-2002 | 02-05-3256A | 02
05 | OH | TOLEDO, CITY OF | 39095C0088D | 09-AUG-2002 | 02-05-3319A | 02
05 | OH | TOLEDO, CITY OF | 39095C0059D | 16-OCT-2002 | 02-05-3402A | 02
05 | OH | TOLEDO, CITY OF | 39095C0078D | 19-JUL-2002 | 02-05-3414A | 02
05 | OH | TOLEDO, CITY OF | 39095C0068D | 09-AUG-2002 | 02-05-3512A | 02
05 | OH | TOLEDO, CITY OF | 39095C0057D | 19-JUL-2002 | 02-05-3664A | 02
05 | OH | TOLEDO, CITY OF | 39095C0059D | 09-AUG-2002 | 02-05-3835A | 02
05 | OH | TOLEDO, CITY OF | 39095C0066D | 18-SEP-2002 | 02-05-4123A | 02
05 | OH | TOLEDO, CITY OF | 39095C0105D | 20-SEP-2002 | 02-05-4254A | 02
05 | OH | TOLEDO, CITY OF | 39095C0068D | 15-NOV-2002 | 02-05-4392A | 02
05 | OH | TOLEDO, CITY OF | 39095C0079D | 27-NOV-2002 | 02-05-4408A | 02
05 | OH | TOLEDO, CITY OF | 39095C0068D | 11-OCT-2002 | 02-05-4497A | 02
05 | OH | TOLEDO, CITY OF | 39095C0068D | 25-OCT-2002 | 02-05-4721A | 02
05 | OH | TOLEDO, CITY OF | 39095C0078D | 04-DEC-2002 | 02-05-4741A | 02
05 | OH | TOLEDO, CITY OF | 39095C0064D | 18-OCT-2002 | 03-05-0124A | 02
05 | OH | TOLEDO, CITY OF | 39095C0059D | 27-NOV-2002 | 03-05-0565A | 02
05 | OH | TOLEDO, CITY OF | 39095C0068D | 13-DEC-2002 | 03-05-0605A | 02
05 | OH | TOLEDO, CITY OF | 39095C0079D | 11-DEC-2002 | 03-05-0807A | 02
05 | OH | TOLEDO, CITY OF | 39095C0079D | 20-DEC-2002 | 03-05-0935A | 17
05 | OH | TOLEDO, CITY OF | 39095C0068D | 20-DEC-2002 | 03-05-0980A | 02
05 | OH | TROY, CITY OF | 3904020005B | 08-NOV-2002 | 02-05-4098A | 02
05 | OH | TRUMBULL COUNTY * | 3905350200B | 15-NOV-2002 | 02-05-1290P | 05
05 | OH | TUSCARAWAS COUNTY | 3907820080B | 14-AUG-2002 | 02-05-3948A | 02
05 | OH | UHRICHSVILLE, CITY OF | 3905470005C | 28-AUG-2002 | 02-05-2288A | 02
05 | OH | UNION COUNTY | 3908080100B | 27-NOV-2002 | 02-05-4551A | 01
05 | OH | UPPER ARLINGTON, CITY OF | 39049C0137G | 10-JUL-2002 | 02-05-3448A | 02
05 | OH | URBANCREST, VILLAGE OF | 39049C0238G | 11-SEP-2002 | 02-05-423P | 05
05 | OH | URBANCREST, VILLAGE OF | 39049C0239G | 11-SEP-2002 | 02-05-423P | 05
05 | OH | VANDALIA, CITY OF | 3904180003B | 13-DEC-2002 | 02-05-3086A | 02
05 | OH | VANDALIA, CITY OF | 3904180003B | 16-OCT-2002 | 02-05-4538A | 02
05 | OH | WARREN COUNTY | 3907570013D | 28-AUG-2002 | 02-05-3830A | 02
05 | OH | WASHINGTON COUNTY | 3905660125B | 19-JUL-2002 | 02-05-3390A | 02
05 | OH | WASHINGTON COUNTY | 3905660125B | 14-AUG-2002 | 02-05-3766A | 02
05 | OH | WASHINGTON COUNTY | 3905660125B | 09-OCT-2002 | 02-05-4430A | 02
05 | OH | WASHINGTON COUNTY | 3905660125B | 04-OCT-2002 | 02-05-4431A | 02
05 | OH | WASHINGTON COUNTY | 3905660125B | 25-SEP-2002 | 02-05-4471A | 02
05 | OH | WASHINGTON COUNTY | 3905660190B | 04-DEC-2002 | 03-05-0635A | 02
05 | OH | WEST LIBERTY, VILLAGE OF | 3903430001D | 25-OCT-2002 | 03-05-0129A | 02
05 | OH | WESTERVILLE, CITY OF | 39049C0064H | 13-NOV-2002 | 03-05-0319A | 02
05 | OH | WHITEHOUSE, VILLAGE OF | 39095C0218D | 27-NOV-2002 | 02-05-3473A | 01
05 | OH | WILLIAMS COUNTY | 3907850025B | 17-JUL-2002 | 02-05-3159A | 02
05 | OH | WILLIAMS COUNTY | 3907850025B | 09-AUG-2002 | 02-05-3566A | 02
05 | OH | WILLIAMS COUNTY | 3907850025B | 22-NOV-2002 | 03-05-0464A | 02
05 | OH | XENIA, CITY OF | 3901970005B | 29-NOV-2002 | 02-05-2322P | 05
05 | OH | XENIA, CITY OF | 3901970005B | 09-OCT-2002 | 02-05-3955A | 02
05 | WI | BAYFIELD, CITY OF | 550017—01A | 01-NOV-2002 | 02-05-3800A | 02
05 | WI | BEAVER DAM, CITY OF | 5500950001D | 22-NOV-2002 | 03-05-0237A | 02
05 | WI | BROWN COUNTY * | 5500200150B | 24-JUL-2002 | 02-05-2617A | 01
05 | WI | BROWN COUNTY * | 5500200150B | 17-JUL-2002 | 02-05-2622A | 02
05 | WI | BROWN COUNTY * | 5500200125B | 24-JUL-2002 | 02-05-3278A | 02
05 | WI | BROWN COUNTY * | 5500200050B | 20-SEP-2002 | 02-05-3893A | 02
05 | WI | BROWN COUNTY * | 5500200075B | 15-NOV-2002 | 03-05-0036A | 01
05 | WI | BROWN COUNTY * | 5500200125B | 27-NOV-2002 | 03-05-0354A | 02
05 | WI | BURLINGTON, CITY OF | 5503480001C | 08-NOV-2002 | 03-05-0179A | 02
05 | WI | BURNETT COUNTY | 5500320375B | 18-SEP-2002 | 02-05-3522A | 01
05 | WI | CHIPPEWA COUNTY | 5555490200C | 26-JUL-2002 | 02-05-2878A | 02
05 | WI | CHIPPEWA COUNTY | 5555490075B | 07-AUG-2002 | 02-05-3725A | 02
05 | WI | CHIPPEWA COUNTY | 5555490200C | 18-SEP-2002 | 02-05-3933A | 02
05 | WI | CHIPPEWA COUNTY | 5555490250C | 06-SEP-2002 | 02-05-4028A | 02
05 | WI | CHIPPEWA COUNTY | 5555490250C | 20-SEP-2002 | 02-05-4437A | 02
05 | WI | CHIPPEWA COUNTY | 5555490100B | 09-OCT-2002 | 02-05-4678A | 02
05 | WI | CHIPPEWA COUNTY | 5555490275C | 04-DEC-2002 | 03-05-0660A | 02
05 | WI | CHIPPEWA COUNTY | 5555490275C | 11-DEC-2002 | 03-05-0866A | 02
05 | WI | CHIPPEWA COUNTY * | 5555490200C | 30-DEC-2002 | 02-05-2604P | 05
05 | WI | CHIPPEWA FALLS, CITY OF | 5500440003B | 24-JUL-2002 | 02-05-2931A | 02
05 | WI | COLUMBIA COUNTY | 5505810075C | 25-SEP-2002 | 02-05-3324A | 02
05 | WI | DANE COUNTY* | 5500770275C | 12-JUL-2002 | 02-05-2196A | 02
05 | WI | DANE COUNTY* | 5500770150C | 24-JUL-2002 | 02-05-2938A | 02
05 | WI | DANE COUNTY* | 5500770150C | 25-SEP-2002 | 02-05-3574A | 02
05 | WI | DANE COUNTY* | 5500770275C | 11-OCT-2002 | 02-05-3873A | 02
05 | WI | DANE COUNTY* | 5500770375A | 20-NOV-2002 | 03-05-0009A | 02
05 | WI | DE FOREST, VILLAGE OF | 5500820005C | 25-SEP-2002 | 02-05-2940A | 02
05 | WI | DE PERE, CITY OF | 5500210005C | 24-JUL-2002 | 02-05-3284A | 02
05 | WI | DE PERE, CITY OF | 5500210005C | 30-AUG-2002 | 02-05-3879A | 02
05 | WI | DE PERE, CITY OF | 5500210005C | 20-SEP-2002 | 02-05-4289A | 02
05 | WI | DE PERE, CITY OF | 5500210005C | 02-OCT-2002 | 02-05-4311A | 02
05 | WI | DE PERE, CITY OF | 5500210005C | 13-NOV-2002 | 03-05-0048A | 02
05 | WI | DOOR COUNTY | 5501090025A | 10-JUL-2002 | 02-05-2833A | 02
05 | WI | DOOR COUNTY | 5501090065A | 21-AUG-2002 | 02-05-4115A | 02
05 | WI | DOOR COUNTY | 5501090045A | 11-SEP-2002 | 02-05-4234A | 02
05 | WI | DOUGLAS COUNTY | 5505380500B | 17-JUL-2002 | 02-05-3155A | 02
05 | WI | DOUGLAS COUNTY | 5505380475B | 27-SEP-2002 | 02-05-3811A | 02
05 | WI | DOUGLAS COUNTY | 5505380475B | 11-OCT-2002 | 02-05-4764X | 02
05 | WI | DOUGLAS COUNTY | 5505380275B | 13-DEC-2002 | 03-05-0714A | 02
05 | WI | DUNN COUNTY | 5501180200B | 14-AUG-2002 | 02-05-4066A | 02
05 | WI | DUNN COUNTY | 5501180125A | 18-OCT-2002 | 02-05-4489A | 02
05 | WI | EAU CLAIRE COUNTY | 5555520075B | 18-SEP-2002 | 02-05-4257A | 17
05 | WI | FERRYVILLE, VILLAGE OF | 555553—01I | 04-OCT-2002 | 02-05-3538A | 02
05 | WI | FLORENCE COUNTY | 5505210035A | 06-NOV-2002 | 02-05-4403A | 02
05 | WI | FOND DU LAC COUNTY | 5501310060B | 24-JUL-2002 | 02-05-3701X | 01
05 | WI | FOND DU LAC COUNTY | 5501310060B | 18-DEC-2002 | 03-05-1002A | 02
05 | WI | FOND DU LAC, CITY OF | 5501360005D | 04-DEC-2002 | 02-05-4610A | 17
05 | WI | FOND DU LAC, CITY OF | 5501360005D | 16-OCT-2002 | 02-05-4735A | 02
05 | WI | FOND DU LAC, CITY OF | 5501360005D | 11-OCT-2002 | 02-05-4736A | 02
05 | WI | FOREST COUNTY | 5506030001A | 08-NOV-2002 | 03-05-0169A | 02
05 | WI | FREMONT, VILLAGE OF | 5504960001C | 14-AUG-2002 | 02-05-3399A | 02
05 | WI | FREMONT, VILLAGE OF | 5504960001C | 02-OCT-2002 | 02-05-4374A | 17
05 | WI | FREMONT, VILLAGE OF | 5504960001C | 04-OCT-2002 | 02-05-4428A | 02
05 | WI | GREEN BAY, CITY OF | 5500220010E | 11-OCT-2002 | 02-05-3612A | 02
05 | WI | GREENDALE, VILLAGE OF | 5502760002B | 30-OCT-2002 | 02-05-4369A | 01
05 | WI | GREENFIELD, CITY OF | 5502770001B | 12-JUL-2002 | 02-05-0165A | 02
05 | WI | HOWARD, VILLAGE OF | 5500230005B | 20-SEP-2002 | 02-05-3901A | 02
05 | WI | IOWA COUNTY | 5505220075B | 25-SEP-2002 | 02-05-3991A | 17
05 | WI | JACKSON COUNTY | 5505830025B | 06-NOV-2002 | 03-05-0273A | 17
05 | WI | JEFFERSON COUNTY | 5501910175B | 13-DEC-2002 | 02-05-4167A | 02
05 | WI | LA CROSSE COUNTY * | 5502170120A | 21-AUG-2002 | 02-05-2230A | 02
05 | WI | LA CROSSE COUNTY * | 5502170120A | 16-OCT-2002 | 02-05-3269A | 01
05 | WI | LA CROSSE COUNTY * | 5502170160A | 31-DEC-2002 | 02-05-3603A | 02
05 | WI | LA CROSSE COUNTY * | 5502170160A | 28-AUG-2002 | 02-05-3888A | 02
05 | WI | LA CROSSE COUNTY * | 5502170120A | 27-SEP-2002 | 02-05-4290A | 02
05 | WI | LA CROSSE COUNTY * | 5502170120A | 20-NOV-2002 | 03-05-0247A | 02
05 | WI | LA CROSSE, CITY OF | 5555620005B | 10-JUL-2002 | 02-05-2602A | 02
05 | WI | LA CROSSE, CITY OF | 5555620005B | 30-OCT-2002 | 02-05-2615A | 01
05 | WI | LA CROSSE, CITY OF | 5555620007B | 27-NOV-2002 | 02-05-3303A | 02
05 | WI | LA CROSSE, CITY OF | 5555620008B | 09-OCT-2002 | 02-05-3611A | 02
05 | WI | LA CROSSE, CITY OF | 5555620005B | 09-OCT-2002 | 02-05-4293A | 02
05 | WI | LA CROSSE, CITY OF | 5555620008B | 30-OCT-2002 | 03-05-0044A | 02
05 | WI | LA CROSSE, CITY OF | 5555620005B | 11-SEP-2002 | 02-05-4465X | 01
05 | WI | LANGLADE COUNTY | 5505760050B | 01-NOV-2002 | 02-05-4416A | 02
05 | WI | LEDGEVIEW, TOWN OF | 5500200125B | 02-OCT-2002 | 02-05-2608A | 01
05 | WI | LINCOLN COUNTY* | 5505850030B | 13-DEC-2002 | 03-05-0382A | 02
05 | WI | MARATHON COUNTY | 5502450525B | 17-JUL-2002 | 02-05-1501A | 02
05 | WI | MARATHON COUNTY | 5502450375B | 10-JUL-2002 | 02-05-3040A | 01
05 | WI | MARATHON COUNTY | 5502450375B | 19-JUL-2002 | 02-05-3554A | 02
05 | WI | MARATHON COUNTY | 5502450375B | 18-SEP-2002 | 02-05-4183A | 02
05 | WI | MARATHON COUNTY | 5502450375B | 16-OCT-2002 | 02-05-4745A | 02
05 | WI | MARATHON COUNTY | 5502450400B | 01-NOV-2002 | 02-05-4761A | 02
05 | WI | MARATHON COUNTY | 5502450375B | 27-NOV-2002 | 03-05-0288A | 02
05 | WI | MARINETTE COUNTY | 5502590475B | 23-AUG-2002 | 02-05-2845A | 02
05 | WI | MARINETTE COUNTY | 5502590725B | 09-AUG-2002 | 02-05-3361A | 02
05 | WI | MARINETTE COUNTY | 5502590375B | 24-JUL-2002 | 02-05-3495A | 02
05 | WI | MARINETTE COUNTY | 5502590375B | 23-AUG-2002 | 02-05-4057X | 02
05 | WI | MARINETTE COUNTY | 5502590700B | 20-NOV-2002 | 03-05-0415A | 02
05 | WI | MARINETTE, CITY OF | 5502610001B | 07-AUG-2002 | 02-05-3940A | 02
05 | WI | MARINETTE, CITY OF | 5502610001B | 06-SEP-2002 | 02-05-4102A | 02
05 | WI | MAUSTON, CITY OF | 55057C0190C | 04-OCT-2002 | 02-05-4558A | 02
05 | WI | MENASHA, CITY OF | 5505100005C | 30-AUG-2002 | 02-05-3619A | 02
05 | WI | MENASHA, CITY OF | 5505100005C | 16-AUG-2002 | 02-05-3881A | 02
05 | WI | MENASHA, CITY OF | 5505100005C | 26-DEC-2002 | 03-05-0213A | 17
05 | WI | MENASHA, CITY OF | 5505100005C | 20-NOV-2002 | 03-05-0365A | 02
05 | WI | MENOMONEE FALLS, VILLAGE OF | 5504830010C | 24-JUL-2002 | 02-05-3443A | 17
05 | WI | MEQUON, CITY OF | 55089C0090D | 02-OCT-2002 | 02-05-4547A | 02
05 | WI | MERRILL, CITY OF | 5555650050B | 18-NOV-2002 | 02-05-3293P | 05
05 | WI | MIDDLETON, CITY OF | 5500870002C | 04-SEP-2002 | 01-05-1403A | 01
05 | WI | MONONA, CITY OF | 5500880001B | 03-JUL-2002 | 02-05-2631A | 02
05 | WI | MONROE COUNTY | 5505710075B | 12-JUL-2002 | 02-05-3216A | 01
05 | WI | MONROE COUNTY | 5505710160B | 16-OCT-2002 | 02-05-4771A | 17
05 | WI | MONROE, CITY OF | 5501620001C | 03-JUL-2002 | 02-05-3465A | 02
05 | WI | MONROE, CITY OF | 5501620001C | 13-NOV-2002 | 02-05-4146A | 02
05 | WI | MUSKEGO, CITY OF | 5504860002B | 19-JUL-2002 | 02-05-3523A | 17
05 | WI | MUSKEGO, CITY OF | 5504860002B | 09-OCT-2002 | 02-05-4445A | 02
05 | WI | MUSKEGO, CITY OF | 5504860001B | 04-DEC-2002 | 03-05-0814A | 02
05 | WI | MUSKEGO, CITY OF | 5504860004B | 11-DEC-2002 | 03-05-0870A | 02
05 | WI | NEW BERLIN, CITY OF | 5504870002C | 01-NOV-2002 | 03-05-0115A | 02
05 | WI | NEW LONDON, CITY OF | 5503080001A | 16-OCT-2002 | 02-05-4532A | 02
05 | WI | NEW LONDON, CITY OF | 5503080001A | 20-DEC-2002 | 03-05-0962A | 02
05 | WI | NEW RICHMOND, CITY OF | 5503840001B | 06-DEC-2002 | 02-05-2716A | 01
05 | WI | OCONTO COUNTY | 5502940355B | 22-NOV-2002 | 02-05-4516A | 17
05 | WI | OCONTO, CITY OF | 5502970002B | 24-JUL-2002 | 02-05-3490A | 02
05 | WI | OCONTO, CITY OF | 5502970001B | 21-AUG-2002 | 02-05-4105A | 02
05 | WI | OCONTO, CITY OF | 5502970001B | 18-OCT-2002 | 02-05-4166A | 02
05 | WI | OCONTO, CITY OF | 5502970001B | 27-NOV-2002 | 02-05-4382A | 01
05 | WI | OCONTO, CITY OF | 5502970002B | 18-DEC-2002 | 03-05-0289A | 02
05 | WI | OCONTO, CITY OF | 5502970002B | 22-NOV-2002 | 03-05-0561A | 02
05 | WI | ONALASKA, CITY OF | 5502210001B | 30-OCT-2002 | 03-05-0017A | 01
05 | WI | ONEIDA COUNTY | 55085C0350B | 22-NOV-2002 | 03-05-0556A | 02
05 | WI | OSHKOSH, CITY OF | 5505370100C | 16-AUG-2002 | 02-05-1297A | 02
05 | WI | OSHKOSH, CITY OF | 5505110020D | 16-OCT-2002 | 02-05-3618A | 01
05 | WI | OSHKOSH, CITY OF | 5505110020D | 23-OCT-2002 | 02-05-4235A | 02
05 | WI | OSHKOSH, CITY OF | 5505110020D | 06-NOV-2002 | 02-05-4620A | 02
05 | WI | OUTAGAMIE COUNTY | 5503020075B | 10-JUL-2002 | 02-05-3023A | 02
05 | WI | OUTAGAMIE COUNTY | 5503020150B | 30-AUG-2002 | 02-05-3377A | 02
05 | WI | OUTAGAMIE COUNTY | 5503020110B | 03-JUL-2002 | 02-05-3481A | 17
05 | WI | OUTAGAMIE COUNTY | 5503020075B | 26-JUL-2002 | 02-05-3776A | 02
05 | WI | OUTAGAMIE COUNTY | 5503020084C | 02-AUG-2002 | 02-05-3816A | 02
05 | WI | OUTAGAMIE COUNTY | 5503020050B | 02-AUG-2002 | 02-05-3817A | 02
05 | WI | OUTAGAMIE COUNTY | 5503020150B | 09-OCT-2002 | 02-05-4446A | 02
05 | WI | OUTAGAMIE COUNTY | 5503020050B | 11-OCT-2002 | 02-05-4512A | 02
05 | WI | OUTAGAMIE COUNTY | 5503020050B | 16-OCT-2002 | 02-05-4705A | 02
05 | WI | OUTAGAMIE COUNTY | 5503020075B | 16-OCT-2002 | 02-05-4791A | 02
05 | WI | OUTAGAMIE COUNTY | 5503020100C | 16-OCT-2002 | 02-05-4791A | 02
05 | WI | OUTAGAMIE COUNTY | 5503020050B | 22-NOV-2002 | 03-05-0309A | 02
05 | WI | OUTAGAMIE COUNTY | 5503020075B | 15-NOV-2002 | 03-05-0483X | 02
05 | WI | OZAUKEE COUNTY | 55089C0020D | 06-NOV-2002 | 02-05-4697A | 02
05 | WI | PIERCE COUNTY | 5555710150B | 11-OCT-2002 | 02-05-2412A | 02
05 | WI | PIERCE COUNTY | 5555710030B | 31-JUL-2002 | 02-05-2701A | 02
05 | WI | PLEASANT PRAIRIE, VILLAGE OF | 5506130005B | 22-NOV-2002 | 03-05-0652A | 02
05 | WI | POLK COUNTY | 5505770275B | 03-JUL-2002 | 02-05-3453A | 02
05 | WI | PORT WASHINGTON, CITY OF | 55089C0057D | 02-OCT-2002 | 02-05-4071A | 02
05 | WI | RACINE COUNTY | 5503470010B | 02-AUG-2002 | 02-05-2559A | 01
05 | WI | RACINE COUNTY | 5503470010B | 06-SEP-2002 | 02-05-2785A | 01
05 | WI | RACINE COUNTY | 5503470010B | 27-SEP-2002 | 02-05-3197A | 01
05 | WI | RICHLAND COUNTY | 5503560125B | 30-AUG-2002 | 02-05-4034A | 02
05 | WI | SAUK COUNTY | 55111C0600D | 31-JUL-2002 | 02-05-3165A | 02
05 | WI | SAUK COUNTY | 55111C0625D | 30-OCT-2002 | 02-05-3720A | 01
05 | WI | SAUK COUNTY | 55111C0250D | 25-SEP-2002 | 02-05-4399A | 02
05 | WI | SAUK COUNTY | 55111C0200D | 01-NOV-2002 | 03-05-0188A | 02
05 | WI | SAUKVILLE, VILLAGE OF | 55089C0058D | 04-SEP-2002 | 02-05-3798A | 02
05 | WI | SAWYER COUNTY | 5505910100B | 31-JUL-2002 | 02-05-3741A | 02
05 | WI | SAWYER COUNTY | 5505910250B | 08-NOV-2002 | 02-05-4245A | 02
05 | WI | SHAWANO COUNTY | 5504120100B | 27-SEP-2002 | 02-05-4145A | 02
05 | WI | SHAWANO COUNTY | 5504120150B | 06-NOV-2002 | 02-05-4451A | 01
05 | WI | SHAWANO COUNTY | 5504120150B | 02-OCT-2002 | 02-05-4540A | 02
05 | WI | SHAWANO COUNTY | 5504120150B | 18-DEC-2002 | 03-05-0996A | 02
05 | WI | SHEBOYGAN COUNTY * | 5504240085D | 22-NOV-2002 | 03-05-0372V | 19
05 | WI | SHEBOYGAN, CITY OF | 5504300004E | 22-NOV-2002 | 03-05-0371V | 19
05 | WI | SHEBOYGAN, CITY OF | 5504300005E | 22-NOV-2002 | 03-05-0371V | 19
05 | WI | SHIOCTON, VILLAGE OF | 5503090001B | 24-JUL-2002 | 02-05-2490A | 02
05 | WI | ST. CROIX COUNTY * | 555578—02B | 21-AUG-2002 | 02-05-2943A | 02
05 | WI | STAR PRAIRIE, VILLAGE OF | 550387—01A | 13-SEP-2002 | 02-05-1889A | 02
05 | WI | STEVENS POINT, CITY OF | 5503420005B | 27-SEP-2002 | 02-05-4506A | 02
05 | WI | STURGEON BAY, CITY OF | 5501110005B | 18-SEP-2002 | 02-05-3702A | 01
05 | WI | STURGEON BAY, CITY OF | 5501110005B | 09-OCT-2002 | 02-05-4680A | 02
05 | WI | TREMPEALEAU COUNTY * | 555585—18A | 12-JUL-2002 | 02-05-2094A | 02
05 | WI | TREMPEALEAU COUNTY * | 555585—18A | 12-JUL-2002 | 02-05-2198A | 02
05 | WI | TREMPEALEAU COUNTY * | 555585—38A | 10-JUL-2002 | 02-05-2243A | 02
05 | WI | TREMPEALEAU COUNTY * | 555585—35A | 24-JUL-2002 | 02-05-2603A | 02
05 | WI | VERNON COUNTY | 5504500050B | 30-OCT-2002 | 02-05-3709A | 17
05 | WI | VERNON COUNTY | 5504500150B | 27-NOV-2002 | 03-05-0667A | 02
05 | WI | WALWORTH COUNTY | 5504620145B | 02-AUG-2002 | 02-05-3499A | 02
05 | WI | WALWORTH COUNTY | 5504620110B | 18-SEP-2002 | 02-05-4411A | 02
05 | WI | WASHBURN COUNTY | 5506060025B | 31-JUL-2002 | 02-05-3622A | 02
05 | WI | WASHBURN COUNTY | 5506060125B | 25-OCT-2002 | 02-05-3929A | 02
05 | WI | WASHBURN COUNTY | 5506060200B | 30-OCT-2002 | 02-05-4226A | 02
05 | WI | WASHBURN COUNTY | 5506060075B | 11-DEC-2002 | 02-05-4414A | 02
05 | WI | WASHBURN COUNTY | 5506060025B | 11-OCT-2002 | 02-05-4495A | 02
05 | WI | WASHBURN COUNTY | 5506060150B | 18-DEC-2002 | 03-05-0625A | 02
05 | WI | WASHBURN COUNTY | 5506060200B | 04-DEC-2002 | 03-05-0658A | 02
05 | WI | WASHINGTON COUNTY | 5504710050B | 06-NOV-2002 | 02-05-4772A | 02
05 | WI | WASHINGTON COUNTY | 5504710010B | 18-DEC-2002 | 03-05-0695A | 02
05 | WI | WASHINGTON COUNTY | 5504710050B | 11-DEC-2002 | 03-05-0726A | 02
05 | WI | WATERTOWN, CITY OF | 5501070005C | 27-NOV-2002 | 03-05-0148A | 02
05 | WI | WAUKESHA COUNTY | 5504760020B | 07-AUG-2002 | 02-05-2717A | 02
05 | WI | WAUKESHA COUNTY | 5504760015B | 14-AUG-2002 | 02-05-3219A | 02
05 | WI | WAUKESHA COUNTY | 5504760055B | 07-AUG-2002 | 02-05-3663A | 02
05 | WI | WAUKESHA COUNTY | 5504760055B | 06-NOV-2002 | 02-05-3797A | 02
05 | WI | WAUKESHA COUNTY | 5504760015B | 25-SEP-2002 | 02-05-3818A | 02
05 | WI | WAUKESHA COUNTY | 5504760020B | 07-AUG-2002 | 02-05-3924A | 02
05 | WI | WAUKESHA COUNTY | 5504760060B | 06-SEP-2002 | 02-05-3934A | 02
05 | WI | WAUKESHA COUNTY | 5504760060B | 02-OCT-2002 | 02-05-3984A | 02
05 | WI | WAUKESHA COUNTY | 5504760015B | 04-SEP-2002 | 02-05-4116A | 02
05 | WI | WAUKESHA COUNTY | 5504760040C | 11-SEP-2002 | 02-05-4353A | 02
05 | WI | WAUKESHA COUNTY | 5504760015B | 22-NOV-2002 | 02-05-4511A | 02
05 | WI | WAUKESHA COUNTY | 5504760070B | 04-DEC-2002 | 03-05-0554A | 02
05 | WI | WAUKESHA COUNTY | 5504760020B | 18-DEC-2002 | 03-05-0681A | 02
05 | WI | WAUKESHA COUNTY | 5504760015B | 04-DEC-2002 | 03-05-0802A | 02
05 | WI | WAUKESHA COUNTY | 5504760015B | 11-DEC-2002 | 03-05-0846A | 02
05 | WI | WAUKESHA, CITY OF | 5504910004B | 03-JUL-2002 | 02-05-3466A | 02
05 | WI | WAUKESHA, CITY OF | 5504760090B | 24-JUL-2002 | 02-05-3661A | 02
05 | WI | WAUKESHA, CITY OF | 5504910004B | 30-OCT-2002 | 03-05-0165A | 02
05 | WI | WAUPACA COUNTY | 5504920095A | 10-JUL-2002 | 02-05-2686A | 02
05 | WI | WAUPACA COUNTY | 5504920155A | 09-AUG-2002 | 02-05-3387A | 02
05 | WI | WAUPACA COUNTY | 5504920130A | 09-AUG-2002 | 02-05-3714A | 01
05 | WI | WAUPACA COUNTY | 5504920160B | 23-AUG-2002 | 02-05-3950A | 01
05 | WI | WAUPACA COUNTY | 5504920090A | 25-SEP-2002 | 02-05-4384A | 02
05 | WI | WAUPACA COUNTY | 5504920075A | 25-SEP-2002 | 02-05-4482A | 02
05 | WI | WAUPACA COUNTY | 5504920130A | 11-OCT-2002 | 02-05-4528A | 02
05 | WI | WAUPACA COUNTY | 5504920085A | 18-DEC-2002 | 03-05-0737A | 02
05 | WI | WAUPUN, CITY OF | 5501080001E | 31-JUL-2002 | 02-05-2036A | 01
05 | WI | WAUPUN, CITY OF | 5501080001E | 15-NOV-2002 | 02-05-4525A | 01
05 | WI | WAUPUN, CITY OF | 5501080001E | 06-DEC-2002 | 03-05-0507X | 01
05 | WI | WEST ALLIS, CITY OF | 5502850003C | 10-JUL-2002 | 02-05-3483A | 02
05 | WI | WEST BEND, CITY OF | 5504750002C | 23-AUG-2002 | 02-05-3998A | 02
05 | WI | WHITEWATER, CITY OF | 5502000004B | 27-NOV-2002 | 03-05-0113A | 02
05 | WI | WINNEBAGO COUNTY * | 5505370025C | 14-AUG-2002 | 02-05-1999A | 01
05 | WI | WINNEBAGO COUNTY * | 5505370100C | 12-JUL-2002 | 02-05-2234A | 01
05 | WI | WINNEBAGO COUNTY * | 5505370150C | 12-JUL-2002 | 02-05-2592A | 02
05 | WI | WINNEBAGO COUNTY * | 5505370050C | 12-JUL-2002 | 02-05-2612A | 02
05 | WI | WINNEBAGO COUNTY * | 5505370050C | 24-JUL-2002 | 02-05-2917A | 02
05 | WI | WINNEBAGO COUNTY * | 5505370100C | 13-SEP-2002 | 02-05-3275A | 02
05 | WI | WINNEBAGO COUNTY * | 5505370075C | 16-AUG-2002 | 02-05-3291A | 02
05 | WI | WINNEBAGO COUNTY * | 5505370075C | 30-AUG-2002 | 02-05-3292A | 01
05 | WI | WINNEBAGO COUNTY * | 5505370025C | 13-SEP-2002 | 02-05-3601A | 02
05 | WI | WINNEBAGO COUNTY * | 5505370050C | 13-SEP-2002 | 02-05-3880A | 02
05 | WI | WINNEBAGO COUNTY * | 5505370050C | 18-OCT-2002 | 02-05-4612A | 02
05 | WI | WINNEBAGO COUNTY * | 5505370050C | 20-NOV-2002 | 02-05-4614A | 02
05 | WI | WINNEBAGO COUNTY * | 5505370100C | 13-NOV-2002 | 03-05-0014A | 01
05 | WI | WINNEBAGO COUNTY * | 5505370050C | 11-DEC-2002 | 03-05-0363A | 02
06 | AR | BENTONVILLE, CITY OF | 05007C0044F | 10-JUL-2002 | 02-06-1868A | 02
06 | AR | BENTONVILLE, CITY OF | 05007C0044F | 25-OCT-2002 | 03-06-053A | 02
06 | AR | BENTONVILLE, CITY OF | 05007C0063F | 27-NOV-2002 | 03-06-258A | 02
06 | AR | BETHEL HEIGHTS, TOWN OF | 05007C0252E | 27-NOV-2002 | 02-06-2172A | 02
06 | AR | CABOT, CITY OF | 0504480060B | 21-OCT-2002 | 02-06-1000P | 06
06 | AR | CLARKSVILLE, CITY OF | 0501120002C | 27-SEP-2002 | 02-06-2034A | 02
06 | AR | CLARKSVILLE, CITY OF | 0501120002C | 18-OCT-2002 | 03-06-014A | 02
06 | AR | CLEBURNE COUNTY | 0504240100C | 26-JUL-2002 | 02-06-2129A | 02
06 | AR | CONWAY, CITY OF | 05045C0130F | 25-NOV-2002 | 01-06-1902P | 05
06 | AR | DE VALLS BLUFF, CITY OF | 05023801A | 07-AUG-2002 | 02-06-2032A | 02
06 | AR | DECATUR, CITY OF | 05007C0110E | 04-DEC-2002 | 02-06-2394A | 02
06 | AR | DES ARC, CITY OF | 050237—01A | 06-DEC-2002 | 02-06-2476A | 02
06 | AR | DES ARC, CITY OF | 050237—01A | 06-DEC-2002 | 03-06-344A | 02
06 | AR | ELKINS, CITY OF | 05143C0115E | 02-OCT-2002 | 02-06-2544A | 02
06 | AR | FAYETTEVILLE, CITY OF | 05143C0091D | 23-JUL-2002 | 02-06-1260P | 05
06 | AR | FAYETTEVILLE, CITY OF | 05143C0084D | 16-OCT-2002 | 02-06-2491A | 02
06 | AR | FORT SMITH, CITY OF | 0550130015D | 04-OCT-2002 | 02-06-1426A | 01
06 | AR | FORT SMITH, CITY OF | 0550130005D | 03-JUL-2002 | 02-06-1961A | 02
06 | AR | GARLAND COUNTY | 05051C0050C | 10-JUL-2002 | 02-06-1667A | 02
06 | AR | GARLAND COUNTY | 05051C0158C | 24-JUL-2002 | 02-06-1903A | 01
06 | AR | GARLAND COUNTY | 05051C0090C | 04-OCT-2002 | 02-06-2341A | 02
06 | AR | GARLAND COUNTY | 05051C0170C | 13-SEP-2002 | 02-06-2448A | 02
06 | AR | GARLAND COUNTY | 05051C0155C | 04-OCT-2002 | 02-06-2500A | 02
06 | AR | GREENWOOD, CITY OF | 0501980005B | 25-NOV-2002 | 02-06-1094P | 05
06 | AR | JACKSONVILLE, CITY OF | 0501800010E | 09-AUG-2002 | 02-06-2163A | 01
06 | AR | JACKSONVILLE, CITY OF | 0501800010E | 22-NOV-2002 | 02-06-2581A | 02
06 | AR | JACKSONVILLE, CITY OF | 0501790190C | 18-DEC-2002 | 03-06-248A | 01
06 | AR | JACKSONVILLE, CITY OF | 0501800010E | 06-DEC-2002 | 03-06-385A | 02
06 | AR | JEFFERSON COUNTY | 0504400155B | 20-DEC-2002 | 03-06-375A | 02
06 | AR | JOHNSON, CITY OF | 05143C0082D | 08-NOV-2002 | 03-06-145A | 17
06 | AR | JONESBORO, CITY OF | 05031C0131C | 11-DEC-2002 | 03-06-334A | 02
06 | AR | JUDSONIA, CITY OF | 050226—01B | 11-OCT-2002 | 02-06-2524A | 02
06 | AR | LITTLE ROCK, CITY OF | 0501810044F | 16-OCT-2002 | 01-06-1835P | 05
06 | AR | LITTLE ROCK, CITY OF | 0501810044F | 11-OCT-2002 | 02-06-2630A | 02
06 | AR | LITTLE ROCK, CITY OF | 0501810063F | 18-DEC-2002 | 03-06-170A | 17
06 | AR | LITTLE ROCK, CITY OF | 0501810041F | 04-DEC-2002 | 03-06-291A | 02
06 | AR | LOWELL, CITY OF | 05007C0164E | 10-JUL-2002 | 02-06-2016A | 02
06 | AR | LOWELL, CITY OF | 05007C0164E | 27-NOV-2002 | 03-06-031A | 02
06 | AR | MENA, CITY OF | 05017701B | 12-JUL-2002 | 02-06-1917A | 02
06 | AR | MONTICELLO, CITY OF | 0500740005A | 31-JUL-2002 | 02-06-1987A | 01
06 | AR | MOUNTAIN HOME, CITY OF | 05005C0050D | 03-JUL-2002 | 02-06-504A | 01
06 | AR | MOUNTAIN HOME, CITY OF | 05005C0055D | 04-DEC-2002 | 03-06-279A | 02
06 | AR | MOUNTAIN VIEW, CITY OF | 05035201A | 25-SEP-2002 | 02-06-2348A | 02
06 | AR | NORTH LITTLE ROCK, CITY OF | 0501820004D | 13-DEC-2002 | 03-06-323A | 02
06 | AR | PARAGOULD, CITY OF | 0500850010D | 11-OCT-2002 | 02-06-2202A | 02
06 | AR | PARAGOULD, CITY OF | 0500850010D | 09-OCT-2002 | 02-06-2268A | 02
06 | AR | PERRY COUNTY | 05105C0128B | 07-AUG-2002 | 02-06-2073A | 02
06 | AR | PINE BLUFF, CITY OF | 0501090010B | 13-SEP-2002 | 02-06-2231A | 02
06 | AR | PINE BLUFF, CITY OF | 0501090005B | 27-NOV-2002 | 03-06-240A | 02
06 | AR | PRAIRIE COUNTY | 0504590275B | 14-AUG-2002 | 02-06-2246A | 02
06 | AR | PULASKI COUNTY | 0501790165C | 21-AUG-2002 | 02-06-2260A | 01
06 | AR | ROGERS, CITY OF | 05007C0152H | 02-DEC-2002 | 02-06-1065A | 08
06 | AR | ROGERS, CITY OF | 05007C0155H | 24-JUL-2002 | 02-06-2083A | 02
06 | AR | SALINE COUNTY | 0501910145B | 11-DEC-2002 | 03-06-001A | 17
06 | AR | SHERWOOD, CITY OF | 0502350001E | 16-OCT-2002 | 02-06-2556A | 01
06 | AR | SHERWOOD, CITY OF | 0502350002E | 09-OCT-2002 | 02-06-2610A | 02
06 | AR | SHERWOOD, CITY OF | 0502350002E | 06-DEC-2002 | 03-06-288A | 02
06 | AR | STUTTGART, CITY OF | 0500020005C | 04-DEC-2002 | 03-06-270A | 02
06 | AR | TEXARKANA, CITY OF | 0501370057C | 25-OCT-2002 | 02-06-2078A | 01
06 | AR | TEXARKANA, CITY OF | 0501370059C | 28-AUG-2002 | 02-06-2319A | 02
06 | AR | TEXARKANA, CITY OF | 0501370059C | 20-SEP-2002 | 02-06-2417A | 02
06 | AR | TEXARKANA, CITY OF | 0501370057C | 27-NOV-2002 | 03-06-294A | 01
06 | AR | UNION COUNTY | 0502050006B | 06-SEP-2002 | 02-06-2249A | 02
06 | AR | VAN BUREN, CITY OF | 05033C0170G | 06-DEC-2002 | 03-06-228A | 02
06 | AR | WASHINGTON COUNTY | 05143C0082D | 03-JUL-2002 | 02-06-1974A | 17
06 | AR | WEST FORK, CITY OF | 05143C0170C | 17-JUL-2002 | 02-06-1556A | 02
06 | AR | WEST FORK, CITY OF | 05143C0170C | 25-SEP-2002 | 02-06-1871A | 02
06 | LA | ACADIA PARISH | 2200010275B | 10-JUL-2002 | 02-06-2028A | 02
06 | LA | ACADIA PARISH | 2200010230B | 02-AUG-2002 | 02-06-2165A | 02
06 | LA | ACADIA PARISH | 2200010030B | 11-OCT-2002 | 02-06-2583A | 02
06 | LA | ALEXANDRIA, CITY OF | 2201460015F | 07-AUG-2002 | 02-06-2093A | 02
06 | LA | ALEXANDRIA, CITY OF | 2201460015F | 31-JUL-2002 | 02-06-2174A | 02
06 | LA | ALLEN PARISH | 2200090225B | 02-OCT-2002 | 02-06-2554A | 02
06 | LA | ALLEN PARISH | 2200090225B | 09-OCT-2002 | 02-06-2601A | 02
06 | LA | ASCENSION PARISH | 2200130040B | 03-JUL-2002 | 02-06-1957A | 02
06 | LA | ASCENSION PARISH | 2200130045C | 03-JUL-2002 | 02-06-1958A | 02
06 | LA | ASCENSION PARISH | 2200130040B | 23-AUG-2002 | 02-06-2004A | 02
06 | LA | ASCENSION PARISH | 2200130045C | 10-JUL-2002 | 02-06-2027A | 02
06 | LA | ASCENSION PARISH | 2200130065C | 10-JUL-2002 | 02-06-2027A | 02
06 | LA | ASCENSION PARISH | 2200130105C | 24-JUL-2002 | 02-06-2061A | 01
06 | LA | ASCENSION PARISH | 2200130035C | 02-AUG-2002 | 02-06-2116A | 01
06 | LA | ASCENSION PARISH | 2200130045C | 27-SEP-2002 | 02-06-2277A | 02
06 | LA | ASCENSION PARISH | 2200130120C | 18-OCT-2002 | 02-06-2584A | 01
06 | LA | ASCENSION PARISH | 2200130025B | 27-NOV-2002 | 03-06-174A | 02
06 | LA | ASCENSION PARISH | 2200130040B | 27-NOV-2002 | 03-06-174A | 02
06 | LA | ASSUMPTION PARISH | 2200170125C | 04-DEC-2002 | 03-06-201A | 02
06 | LA | AVOYELLES PARISH | 2200190075B | 11-SEP-2002 | 02-06-2402A | 02
06 | LA | AVOYELLES PARISH | 2200190075B | 09-OCT-2002 | 02-06-2628X | 02
06 | LA | AVOYELLES PARISH | 2200190200B | 23-OCT-2002 | 03-06-054A | 02
06 | LA | AVOYELLES PARISH | 2200190075B | 23-OCT-2002 | 03-06-055A | 02
06 | LA | BALL, TOWN OF | 2203730005D | 07-AUG-2002 | 02-06-2218A | 02
06 | LA | BOSSIER CITY, CITY OF | 2200310295B | 03-JUL-2002 | 02-06-1988X | 02
06 | LA | BOSSIER CITY, CITY OF | 2200330010C | 10-JUL-2002 | 02-06-2006A | 02
06 | LA | BOSSIER CITY, CITY OF | 2200330030C | 02-AUG-2002 | 02-06-2176A | 02
06 | LA | BOSSIER CITY, CITY OF | 2200330010C | 25-SEP-2002 | 02-06-2284A | 02
06 | LA | BOSSIER CITY, CITY OF | 2200330030C | 21-AUG-2002 | 02-06-2291A | 02
06 | LA | BOSSIER CITY, CITY OF | 2200330030C | 23-AUG-2002 | 02-06-2322A | 02
06 | LA | BOSSIER CITY, CITY OF | 2200330030C | 30-AUG-2002 | 02-06-2363A | 02
06 | LA | BOSSIER CITY, CITY OF | 2200330030C | 02-OCT-2002 | 02-06-2503X | 02
06 | LA | BOSSIER CITY, CITY OF | 2200330030C | 02-OCT-2002 | 02-06-2537A | 02
06 | LA | BOSSIER CITY, CITY OF | 2200310315B | 02-OCT-2002 | 02-06-2567A | 02
06 | LA | BOSSIER CITY, CITY OF | 2200310315B | 09-OCT-2002 | 02-06-2604A | 02
06 | LA | BOSSIER CITY, CITY OF | 2200310315B | 01-NOV-2002 | 03-06-006A | 01
06 | LA | BOSSIER CITY, CITY OF | 2200330030C | 01-NOV-2002 | 03-06-095A | 02
06 | LA | BOSSIER CITY, CITY OF | 2200330030C | 01-NOV-2002 | 03-06-096A | 02
06 | LA | BOSSIER CITY, CITY OF | 2200330010C | 22-NOV-2002 | 03-06-104A | 01
06 | LA | BOSSIER CITY, CITY OF | 2200330030C | 20-NOV-2002 | 03-06-273X | 02
06 | LA | BOSSIER CITY, CITY OF | 2200310315B | 13-DEC-2002 | 03-06-318A | 02
06 | LA | BOSSIER CITY, CITY OF | 2200310315B | 11-DEC-2002 | 03-06-326A | 02
06 | LA | BOSSIER CITY, CITY OF | 2200330010C | 18-DEC-2002 | 03-06-345A | 02
06 | LA | BOSSIER CITY, CITY OF | 2200330030C | 13-DEC-2002 | 03-06-353A | 02
06 | LA | BOSSIER CITY, CITY OF | 2200310295B | 18-DEC-2002 | 03-06-364A | 02
06 | LA | BOSSIER CITY, CITY OF | 2200330030C | 20-DEC-2002 | 03-06-397A | 02
06 | LA | BOSSIER CITY, CITY OF | 2200330020C | 27-DEC-2002 | 03-06-471A | 02
06 | LA | BOSSIER PARISH | 2200310240B | 07-AUG-2002 | 02-06-2003A | 02
06 | LA | BOSSIER PARISH | 2200310475B | 10-JUL-2002 | 02-06-2011A | 02
06 | LA | BOSSIER PARISH | 2200310315B | 31-JUL-2002 | 02-06-2091A | 01
06 | LA | BOSSIER PARISH | 2200310390B | 30-AUG-2002 | 02-06-2347A | 01
06 | LA | BOSSIER PARISH | 2200310285B | 11-OCT-2002 | 02-06-2620A | 02
06 | LA | BOSSIER PARISH | 2200310285B | 23-OCT-2002 | 03-06-033A | 02
06 | LA | BOSSIER PARISH | 2200310285B | 15-NOV-2002 | 03-06-135A | 02
06 | LA | BROUSSARD, TOWN OF | 22055C0070G | 18-OCT-2002 | 02-06-2485A | 01
06 | LA | CADDO PARISH | 22017C0487F | 16-AUG-2002 | 02-06-2270A | 02
06 | LA | CADDO PARISH | 22017C0487F | 21-AUG-2002 | 02-06-2343A | 02
06 | LA | CADDO PARISH | 22017C0487F | 23-AUG-2002 | 02-06-2344A | 02
06 | LA | CADDO PARISH | 22017C0487F | 23-AUG-2002 | 02-06-2345A | 02
06 | LA | CADDO PARISH | 22017C0487F | 11-SEP-2002 | 02-06-2406A | 02
06 | LA | CADDO PARISH | 22017C0487F | 25-SEP-2002 | 02-06-2515A | 02
06 | LA | CADDO PARISH | 22017C0364F | 22-NOV-2002 | 03-06-255A | 02
06 | LA | CALCASIEU PARISH | 2200370275C | 26-JUL-2002 | 02-06-2137A | 02
06 | LA | CALCASIEU PARISH | 2200370225D | 28-AUG-2002 | 02-06-2327A | 02
06 | LA | CALCASIEU PARISH | 2200370100C | 06-SEP-2002 | 02-06-2366A | 02
06 | LA | CALCASIEU PARISH | 2200370150C | 25-OCT-2002 | 02-06-2490A | 02
06 | LA | CLAIBORNE PARISH | 2203620090B | 14-AUG-2002 | 02-06-2275A | 02
06 | LA | DENHAM SPRINGS, CITY OF | 22063C0205D | 12-JUL-2002 | 02-06-2038A | 02
06 | LA | DENHAM SPRINGS, CITY OF | 22063C0205D | 14-AUG-2002 | 02-06-2262A | 02
06 | LA | DENHAM SPRINGS, CITY OF | 22063C0205D | 25-SEP-2002 | 02-06-2511A | 02
06 | LA | DENHAM SPRINGS, CITY OF | 22063C0205D | 13-NOV-2002 | 03-06-168A | 02
06 | LA | EAST BATON ROUGE PARISH | 2200580100D | 19-JUL-2002 | 02-06-1438A | 02
06 | LA | EAST BATON ROUGE PARISH | 2200580110D | 02-AUG-2002 | 02-06-1457A | 01
06 | LA | EAST BATON ROUGE PARISH | 2200580070D | 12-JUL-2002 | 02-06-1646A | 02
06 | LA | EAST BATON ROUGE PARISH | 2200580115D | 02-AUG-2002 | 02-06-1702A | 02
06 | LA | EAST BATON ROUGE PARISH | 2200580115D | 06-SEP-2002 | 02-06-1750A | 02
06 | LA | EAST BATON ROUGE PARISH | 2200580090D | 03-JUL-2002 | 02-06-1951A | 02
06 | LA | EAST BATON ROUGE PARISH | 2200580115D | 20-SEP-2002 | 02-06-1975A | 01
06 | LA | EAST BATON ROUGE PARISH | 2200580095D | 20-SEP-2002 | 02-06-2122A | 01
06 | LA | EAST BATON ROUGE PARISH | 2200580115D | 28-AUG-2002 | 02-06-2131A | 02
06 | LA | EAST BATON ROUGE PARISH | 2200580115D | 16-AUG-2002 | 02-06-2170A | 01
06 | LA | EAST BATON ROUGE PARISH | 2200580110D | 30-AUG-2002 | 02-06-2365A | 02
06 | LA | EAST BATON ROUGE PARISH | 2200580090D | 30-OCT-2002 | 02-06-2574A | 02
06 | LA | EAST BATON ROUGE PARISH | 2200580095D | 02-OCT-2002 | 02-06-2585A | 02
06 | LA | EAST BATON ROUGE PARISH | 2200580065D | 23-OCT-2002 | 03-06-008A | 02
06 | LA | EAST BATON ROUGE PARISH | 2200580110D | 06-NOV-2002 | 03-06-025A | 02
06 | LA | EAST BATON ROUGE PARISH | 2200580095D | 20-DEC-2002 | 03-06-214A | 02
06 | LA | EAST BATON ROUGE PARISH | 2200580115D | 27-DEC-2002 | 03-06-251A | 01
06 | LA | EAST BATON ROUGE PARISH | 2200580100D | 06-DEC-2002 | 03-06-309A | 02
06 | LA | EAST BATON ROUGE PARISH | 2200580085D | 20-DEC-2002 | 03-06-470A | 02
06 | LA | EVANGELINE PARISH | 2200640006B | 06-SEP-2002 | 02-06-2253A | 02
06 | LA | EVANGELINE PARISH | 2200640006B | 11-OCT-2002 | 02-06-2631A | 02
06 | LA | FRANKLIN PARISH | 22007101B | 19-JUL-2002 | 02-06-1914A | 01
06 | LA | GONZALES, CITY OF | 2200150005C | 13-SEP-2002 | 02-06-2454A | 02
06 | LA | HAMMOND, CITY OF | 2202080001D | 27-DEC-2002 | 03-06-390A | 02
06 | LA | JEFFERSON PARISH | 22051C0040E | 28-AUG-2002 | 02-06-2336A | 02
06 | LA | KINDER, TOWN OF | 22001001C | 20-SEP-2002 | 02-06-2507A | 02
06 | LA | LAFAYETTE PARISH | 22055C0070G | 10-JUL-2002 | 02-06-2008A | 02
06 | LA | LAFAYETTE PARISH | 22055C0065G | 30-OCT-2002 | 02-06-2195A | 02
06 | LA | LAFAYETTE PARISH | 22055C0025G | 11-SEP-2002 | 02-06-2356A | 02
06 | LA | LAFAYETTE PARISH | 22055C0065G | 13-SEP-2002 | 02-06-2381A | 02
06 | LA | LAFAYETTE PARISH | 22055C0065G | 04-OCT-2002 | 02-06-2555A | 02
06 | LA | LAFAYETTE PARISH | 22055C0065G | 27-SEP-2002 | 02-06-2559A | 02
06 | LA | LAFAYETTE PARISH | 22055C0065G | 09-OCT-2002 | 02-06-2614A | 02
06 | LA | LAFAYETTE PARISH | 22055C0005G | 27-NOV-2002 | 03-06-275A | 02
06 | LA | LAFAYETTE PARISH | 22055C0065G | 11-DEC-2002 | 03-06-317A | 02
06 | LA | LAFAYETTE, CITY OF | 22055C0065G | 02-AUG-2002 | 02-06-2186A | 02
06 | LA | LAFAYETTE, CITY OF | 22055C0045G | 28-AUG-2002 | 02-06-2360A | 02
06 | LA | LAFAYETTE, CITY OF | 22055C0045G | 09-OCT-2002 | 02-06-2602A | 02
06 | LA | LAFAYETTE, CITY OF | 22055C0065G | 18-DEC-2002 | 03-06-133A | 01
06 | LA | LAFAYETTE, CITY OF | 22055C0045G | 27-NOV-2002 | 03-06-206A | 01
06 | LA | LIVINGSTON PARISH | 22063C0145D | 07-AUG-2002 | 02-06-1621A | 02
06 | LA | LIVINGSTON PARISH | 22063C0125D | 14-AUG-2002 | 02-06-1759A | 02
06 | LA | LIVINGSTON PARISH | 22063C0225D | 03-JUL-2002 | 02-06-1851A | 02
06 | LA | LIVINGSTON PARISH | 22063C0210D | 31-JUL-2002 | 02-06-1922A | 01
06 | LA | LIVINGSTON PARISH | 22063C0205D | 03-JUL-2002 | 02-06-1953A | 02
06 | LA | LIVINGSTON PARISH | 22063C0125D | 09-AUG-2002 | 02-06-2070A | 02
06 | LA | LIVINGSTON PARISH | 22063C0120D | 17-JUL-2002 | 02-06-2085A | 02
06 | LA | LIVINGSTON PARISH | 22063C0115D | 17-JUL-2002 | 02-06-2094A | 02
06 | LA | LIVINGSTON PARISH | 22063C0125D | 24-JUL-2002 | 02-06-2099A | 02
06 | LA | LIVINGSTON PARISH | 22063C0226D | 24-JUL-2002 | 02-06-2121A | 02
06 | LA | LIVINGSTON PARISH | 22063C0120D | 09-AUG-2002 | 02-06-2199A | 01
06 | LA | LIVINGSTON PARISH | 22063C0115D | 14-AUG-2002 | 02-06-2233A | 02
06 | LA | LIVINGSTON PARISH | 22063C0300D | 04-SEP-2002 | 02-06-2241A | 02
06 | LA | LIVINGSTON PARISH | 22063C0125D | 09-AUG-2002 | 02-06-2247A | 02
06 | LA | LIVINGSTON PARISH | 22063C0300D | 14-AUG-2002 | 02-06-2254A | 02
06 | LA | LIVINGSTON PARISH | 22063C0025D | 04-SEP-2002 | 02-06-2259A | 02
06 | LA | LIVINGSTON PARISH | 22063C0125D | 14-AUG-2002 | 02-06-2264A | 02
06 | LA | LIVINGSTON PARISH | 22063C0400D | 28-AUG-2002 | 02-06-2321A | 02
06 | LA | LIVINGSTON PARISH | 22063C0125D | 30-AUG-2002 | 02-06-2364A | 02
06 | LA | LIVINGSTON PARISH | 22063C0115D | 08-NOV-2002 | 02-06-2370A | 02
06 | LA | LIVINGSTON PARISH | 22063C0400D | 13-NOV-2002 | 02-06-2375A | 02
06 | LA | LIVINGSTON PARISH | 22063C0365D | 30-AUG-2002 | 02-06-2384A | 02
06 | LA | LIVINGSTON PARISH | 22063C0207D | 13-SEP-2002 | 02-06-2403A | 02
06 | LA | LIVINGSTON PARISH | 22063C0125D | 13-SEP-2002 | 02-06-2404A | 02
06 | LA | LIVINGSTON PARISH | 22063C0275D | 13-SEP-2002 | 02-06-2463A | 02
06 | LA | LIVINGSTON PARISH | 22063C0125D | 13-SEP-2002 | 02-06-2467A | 02
06 | LA | LIVINGSTON PARISH | 22063C0125D | 23-OCT-2002 | 02-06-2468A | 02
06 | LA | LIVINGSTON PARISH | 22063C0120D | 25-SEP-2002 | 02-06-2512A | 02
06 | LA | LIVINGSTON PARISH | 22063C0125D | 25-SEP-2002 | 02-06-2522A | 02
06 | LA | LIVINGSTON PARISH | 22063C0120D | 16-OCT-2002 | 02-06-2558A | 02
06 | LA | LIVINGSTON PARISH | 22063C0225D | 11-OCT-2002 | 02-06-2627X | 17
06 | LA | LIVINGSTON PARISH | 22063C0115D | 23-OCT-2002 | 03-06-049A | 02
06 | LA | LIVINGSTON PARISH | 22063C0120D | 13-NOV-2002 | 03-06-123A | 02
06 | LA | LIVINGSTON PARISH | 22063C0125D | 11-DEC-2002 | 03-06-202A | 02
06 | LA | LIVINGSTON PARISH | 22063C0120D | 20-NOV-2002 | 03-06-209A | 02
06 | LA | LIVINGSTON PARISH | 22063C0115D | 06-DEC-2002 | 03-06-216A | 01
06 | LA | LIVINGSTON PARISH | 22063C0125D | 06-DEC-2002 | 03-06-313A | 02
06 | LA | LIVINGSTON PARISH | 22063C0125D | 11-DEC-2002 | 03-06-314A | 02
06 | LA | LIVINGSTON PARISH | 22063C0277D | 13-DEC-2002 | 03-06-346A | 02
06 | LA | LIVINGSTON PARISH | 22063C0125D | 20-DEC-2002 | 03-06-381A | 02
06 | LA | LIVINGSTON PARISH | 22063C0250D | 27-DEC-2002 | 03-06-384A | 02
06 | LA | LIVINGSTON, TOWN OF | 22063C0255D | 08-NOV-2002 | 02-06-2238A | 02
06 | LA | MADISON PARISH | 2201220130B | 18-SEP-2002 | 02-06-2396A | 02
06 | LA | MONROE, CITY OF | 22073C0045E | 15-NOV-2002 | 02-06-2162A | 02
06 | LA | RAPIDES PARISH | 2201450175B | 24-JUL-2002 | 02-06-1966A | 02
06 | LA | RAPIDES PARISH | 2201450125B | 26-JUL-2002 | 02-06-2123A | 02
06 | LA | RICHLAND PARISH | 220154—41C | 01-NOV-2002 | 02-06-2251A | 02
06 | LA | RICHMOND, VILLAGE OF | 2201250001A | 06-DEC-2002 | 02-06-2482A | 02
06 | LA | RUSTON, CITY OF | 2203470004C | 13-NOV-2002 | 03-06-132A | 02
06 | LA | SCOTT, CITY OF | 22055C0040H | 14-AUG-2002 | 02-06-1978A | 02
06 | LA | SCOTT, CITY OF | 22055C0045G | 11-DEC-2002 | 03-06-252A | 01
06 | LA | SHREVEPORT, CITY OF | 22017C0486F | 02-AUG-2002 | 02-06-2002A | 01
06 | LA | SHREVEPORT, CITY OF | 22017C0486F | 10-JUL-2002 | 02-06-2009A | 02
06 | LA | SHREVEPORT, CITY OF | 22017C0458F | 19-JUL-2002 | 02-06-2017A | 02
06 | LA | SHREVEPORT, CITY OF | 22017C0478F | 07-AUG-2002 | 02-06-2092X | 01
06 | LA | SHREVEPORT, CITY OF | 22017C0479F | 07-AUG-2002 | 02-06-2092X | 01
06 | LA | SHREVEPORT, CITY OF | 22017C0476F | 26-JUL-2002 | 02-06-2133A | 02
06 | LA | SHREVEPORT, CITY OF | 22017C0486F | 14-AUG-2002 | 02-06-2139A | 01
06 | LA | SHREVEPORT, CITY OF | 22017C0486F | 28-AUG-2002 | 02-06-2354A | 01
06 | LA | SHREVEPORT, CITY OF | 22017C0478F | 30-AUG-2002 | 02-06-2377A | 02
06 | LA | SHREVEPORT, CITY OF | 22017C0487F | 04-OCT-2002 | 02-06-2418A | 02
06 | LA | SHREVEPORT, CITY OF | 22017C0487F | 06-NOV-2002 | 02-06-2619A | 02
06 | LA | SHREVEPORT, CITY OF | 22017C0477F | 16-OCT-2002 | 03-06-004A | 02
06 | LA | SHREVEPORT, CITY OF | 22017C0459F | 30-OCT-2002 | 03-06-010A | 01
06 | LA | SHREVEPORT, CITY OF | 22017C0487F | 25-OCT-2002 | 03-06-034A | 02
06 | LA | SHREVEPORT, CITY OF | 22017C0487F | 18-OCT-2002 | 03-06-035A | 02
06 | LA | SHREVEPORT, CITY OF | 22017C0477F | 08-NOV-2002 | 03-06-070A | 02
06 | LA | SHREVEPORT, CITY OF | 22017C0487F | 25-OCT-2002 | 03-06-078A | 02
06 | LA | SHREVEPORT, CITY OF | 22017C0487F | 01-NOV-2002 | 03-06-091A | 02
06 | LA | SHREVEPORT, CITY OF | 22017C0487F | 01-NOV-2002 | 03-06-092A | 02
06 | LA | SHREVEPORT, CITY OF | 22017C0489F | 06-NOV-2002 | 03-06-103A | 02
06 | LA | SHREVEPORT, CITY OF | 22017C0487F | 22-NOV-2002 | 03-06-175A | 02
06 | LA | SHREVEPORT, CITY OF | 22017C0487F | 15-NOV-2002 | 03-06-244X | 02
06 | LA | SHREVEPORT, CITY OF | 22017C0487F | 27-DEC-2002 | 03-06-249A | 02
06 | LA | SHREVEPORT, CITY OF | 22017C0487F | 18-DEC-2002 | 03-06-347A | 02
06 | LA | SHREVEPORT, CITY OF | 22017C0487F | 11-DEC-2002 | 03-06-468X | 02
06 | LA | SHREVEPORT, CITY OF | 22017C0487F | 27-DEC-2002 | 03-06-549A | 01
06 | LA | SLIDELL, CITY OF | 2202040010C | 01-NOV-2002 | 02-06-2526A | 02
06 | LA | ST. HELENA PARISH | 2201610150A | 21-AUG-2002 | 02-06-2293A | 02
06 | LA | ST. JOHN THE BAPTIST PARISH | 2201640225C | 03-JUL-2002 | 02-06-1989A | 02
06 | LA | ST. LANDRY PARISH | 2201650200C | 10-JUL-2002 | 02-06-1962A | 02
06 | LA | ST. LANDRY PARISH | 2201650400C | 27-NOV-2002 | 03-06-227A | 02
06 | LA | ST. MARTIN PARISH | 2201780150B | 09-OCT-2002 | 02-06-2130A | 02
06 | LA | ST. TAMMANY PARISH | 2252050245C | 27-NOV-2002 | 03-06-087A | 02
06 | LA | ST. TAMMANY PARISH | 2252050440D | 06-DEC-2002 | 03-06-213A | 02
06 | LA | TANGIPAHOA PARISH | 2202060225E | 16-OCT-2002 | 02-06-2587A | 02
06 | LA | TANGIPAHOA PARISH | 2202060225E | 20-NOV-2002 | 03-06-235A | 02
06 | LA | TERREBONNE PARISH | 2252060410C | 19-JUL-2002 | 02-06-1626A | 01
06 | LA | TERREBONNE PARISH | 2252060410C | 04-SEP-2002 | 02-06-2411X | 01
06 | LA | WALKER, TOWN OF | 22063C0138D | 10-JUL-2002 | 02-06-1956A | 02
06 | LA | WALKER, TOWN OF | 22063C0226D | 17-JUL-2002 | 02-06-2068A | 02
06 | LA | WALKER, TOWN OF | 22063C0226D | 26-JUL-2002 | 02-06-2128A | 02
06 | LA | WALKER, TOWN OF | 22063C0138D | 02-AUG-2002 | 02-06-2171A | 02
06 | LA | WALKER, TOWN OF | 22063C0139D | 09-AUG-2002 | 02-06-2261A | 02
06 | NM | ALBUQUERQUE, CITY OF | 35001C0141E | 16-JUL-2002 | 02-06-1261P | 06
06 | NM | ALBUQUERQUE, CITY OF | 35001C0367E | 01-AUG-2002 | 02-06-1262P | 06
06 | NM | ALBUQUERQUE, CITY OF | 35001C0144E | 25-OCT-2002 | 02-06-2229A | 02
06 | NM | ALBUQUERQUE, CITY OF | 35001C0141E | 14-AUG-2002 | 02-06-2235A | 02
06 | NM | ALBUQUERQUE, CITY OF | 35001C0354D | 06-DEC-2002 | 02-06-2255A | 02
06 | NM | ALBUQUERQUE, CITY OF | 35001C0119D | 23-AUG-2002 | 02-06-2290A | 02
06 | NM | ALBUQUERQUE, CITY OF | 35001C0163E | 30-AUG-2002 | 02-06-2335A | 01
06 | NM | ALBUQUERQUE, CITY OF | 35001C0343D | 08-NOV-2002 | 03-06-212A | 02
06 | NM | BERNALILLO COUNTY | 35001C0531D | 10-SEP-2002 | 02-06-1544P | 06
06 | NM | BERNALILLO COUNTY | 35001C0161E | 31-JUL-2002 | 02-06-1826A | 02
06 | NM | BERNALILLO COUNTY | 35001C0109E | 10-JUL-2002 | 02-06-1976A | 02
06 | NM | BERNALILLO COUNTY | 35001C0161E | 21-AUG-2002 | 02-06-2271A | 02
06 | NM | BERNALILLO COUNTY | 35001C0161E | 04-DEC-2002 | 03-06-162A | 02
06 | NM | BOSQUE FARMS, CITY OF | 3501420001B | 31-JUL-2002 | 02-06-1520A | 02
06 | NM | BOSQUE FARMS, CITY OF | 3501420001B | 20-NOV-2002 | 03-06-163A | 02
06 | NM | BOSQUE FARMS, CITY OF | 3501420001B | 18-DEC-2002 | 03-06-343A | 02
06 | NM | CHAVES COUNTY | 3501250613B | 09-OCT-2002 | 02-06-2582A | 02
06 | NM | FARMINGTON, CITY OF | 3500670044E | 11-OCT-2002 | 02-06-2504A | 02
06 | NM | LAS CRUCES, CITY OF | 35013C0518F | 08-AUG-2002 | 02-06-1099P | 05
06 | NM | LAS CRUCES, CITY OF | 35013C0631E | 08-AUG-2002 | 02-06-1099P | 05
06 | NM | LAS CRUCES, CITY OF | 35013C0633E | 08-AUG-2002 | 02-06-1099P | 05
06 | NM | LAS CRUCES, CITY OF | 35013C0631E | 07-AUG-2002 | 02-06-1879A | 02
06 | NM | LAS CRUCES, CITY OF | 35013C0631E | 17-JUL-2002 | 02-06-1967A | 01
06 | NM | LAS CRUCES, CITY OF | 35013C0632F | 27-NOV-2002 | 03-06-046A | 02
06 | NM | LAS CRUCES, CITY OF | 35013C0633E | 27-NOV-2002 | 03-06-048A | 02
06 | NM | LAS CRUCES, CITY OF | 35013C0631E | 27-NOV-2002 | 03-06-109A | 01
06 | NM | LAS CRUCES, CITY OF | 35013C0518F | 22-NOV-2002 | 03-06-250A | 02
06 | NM | LINCOLN COUNTY | 3501220030A | 20-NOV-2002 | 03-06-217A | 02
06 | NM | LOS LUNAS, VILLAGE OF | 3501440005A | 09-AUG-2002 | 02-06-1918A | 02
06 | NM | LOS LUNAS, VILLAGE OF | 3501440005A | 02-OCT-2002 | 02-06-2520A | 02
06 | NM | LOS LUNAS, VILLAGE OF | 3501440005A | 04-OCT-2002 | 02-06-2566A | 02
06 | NM | LOS LUNAS, VILLAGE OF | 3501440005A | 20-NOV-2002 | 03-06-169A | 02
06 | NM | SAN JUAN COUNTY | 3500640505C | 11-OCT-2002 | 02-06-2613A | 02
06 | NM | SAN MIGUEL COUNTY | 3501320029B | 19-JUL-2002 | 02-06-1427A | 02
06 | NM | SAN MIGUEL COUNTY | 3501320034B | 13-NOV-2002 | 02-06-2618A | 02
06 | NM | SIERRA COUNTY | 3500710700B | 06-DEC-2002 | 03-06-358A | 02
06 | NM | VALENCIA COUNTY | 3500860070D | 09-AUG-2002 | 02-06-1727A | 01
06 | NM | VALENCIA COUNTY | 3500860070D | 09-AUG-2002 | 02-06-2014A | 02
06 | NM | VALENCIA COUNTY | 3500860195D | 16-OCT-2002 | 02-06-2240A | 02
06 | NM | VALENCIA COUNTY | 3500860185D | 08-NOV-2002 | 02-06-2484A | 01
06 | OK | ATOKA COUNTY | 4005080125A | 10-JUL-2002 | 02-06-1803A | 02
06 | OK | BETHEL ACRES, TOWN OF | 40125C0095D | 25-SEP-2002 | 02-06-2376A | 02
06 | OK | BIXBY, TOWN OF | 40143C0610H | 01-AUG-2002 | 01-06-701P | 05
06 | OK | BIXBY, TOWN OF | 40143C0630H | 17-JUL-2002 | 02-06-2074A | 02
06 | OK | BIXBY, TOWN OF | 40143C0630H | 13-DEC-2002 | 03-06-307A | 02
06 | OK | BROKEN ARROW, CITY OF | 40143C0540H | 17-JUL-2002 | 02-06-2020A | 02
06 | OK | BROKEN ARROW, CITY OF | 40143C0544H | 12-JUL-2002 | 02-06-2025A | 02
06 | OK | BROKEN ARROW, CITY OF | 40143C0541H | 23-AUG-2002 | 02-06-2325A | 02
06 | OK | BROKEN ARROW, CITY OF | 40143C0543H | 11-SEP-2002 | 02-06-2371A | 02
06 | OK | BROKEN ARROW, CITY OF | 40143C0534H | 08-NOV-2002 | 03-06-138A | 02
06 | OK | CHOCTAW, CITY OF | 40109C0270G | 03-JUL-2002 | 97-06-1194V | 19
06 | OK | CHOCTAW, CITY OF | 40109C0290G | 03-JUL-2002 | 97-06-1194V | 19
06 | OK | CHOCTAW, CITY OF | 40109C0405G | 03-JUL-2002 | 97-06-1194V | 19
06 | OK | CHOCTAW, CITY OF | 40109C0410G | 03-JUL-2002 | 97-06-1194V | 19
06 | OK | CHOCTAW, CITY OF | 40109C0436G | 03-JUL-2002 | 97-06-1194V | 19
06 | OK | CHOCTAW, CITY OF | 40109C0410G | 08-NOV-2002 | 03-06-142A | 02
06 | OK | CLEVELAND COUNTY | 40027C0165G | 06-DEC-2002 | 03-06-143A | 17
06 | OK | COMANCHE COUNTY | 40031C0325C | 13-NOV-2002 | 02-06-2234A | 02
06 | OK | CRAIG COUNTY | 4005400150A | 03-JUL-2002 | 02-06-1800A | 02
06 | OK | CREEK COUNTY | 4004900150C | 27-SEP-2002 | 02-06-2508A | 02
06 | OK | DEL CITY, CITY OF | 40109C0337G | 03-JUL-2002 | 97-06-1194V | 19
06 | OK | DEL CITY, CITY OF | 40109C0379G | 03-JUL-2002 | 97-06-1194V | 19
06 | OK | DEL CITY, CITY OF | 40109C0383G | 03-JUL-2002 | 97-06-1194V | 19
06 | OK | DEL CITY, CITY OF | 40109C0387G | 03-JUL-2002 | 97-06-1194V | 19
06 | OK | DEL CITY, CITY OF | 40109C0391G | 03-JUL-2002 | 97-06-1194V | 19
06 | OK | DEL CITY, CITY OF | 40109C0387G | 24-JUL-2002 | 02-06-1862A | 02
06 | OK | DEL CITY, CITY OF | 40109C0387G | 22-NOV-2002 | 03-06-256A | 02
06 | OK | DELAWARE COUNTY | 4005020200C | 10-JUL-2002 | 02-06-2010A | 02
06 | OK | DELAWARE COUNTY | 4005020025C | 06-SEP-2002 | 02-06-2132A | 02
06 | OK | EDMOND, CITY OF | 40109C0060G | 03-JUL-2002 | 97-06-1194V | 19
06 | OK | EDMOND, CITY OF | 40109C0067G | 03-JUL-2002 | 97-06-1194V | 19
06 | OK | EDMOND, CITY OF | 40109C0069G | 03-JUL-2002 | 97-06-1194V | 19
06 | OK | EDMOND, CITY OF | 40109C0080G | 03-JUL-2002 | 97-06-1194V | 19
06 | OK | EDMOND, CITY OF | 40109C0085G | 03-JUL-2002 | 97-06-1194V | 19
06 | OK | EDMOND, CITY OF | 40109C0089G | 03-JUL-2002 | 97-06-1194V | 19
06 | OK | EDMOND, CITY OF | 40109C0090G | 03-JUL-2002 | 97-06-1194V | 19
06 | OK | EDMOND, CITY OF | 40109C0095G | 03-JUL-2002 | 97-06-1194V | 19
06 | OK | EDMOND, CITY OF | 40109C0115G | 03-JUL-2002 | 97-06-1194V | 19
06 | OK | EDMOND, CITY OF | 40109C0227G | 03-JUL-2002 | 97-06-1194V | 19
06 | OK | EDMOND, CITY OF | 40109C0060G | 08-AUG-2002 | 02-06-2155P | 05
06 | OK | EDMOND, CITY OF | 40109C0080G | 08-AUG-2002 | 02-06-2155P | 05
06 | OK | EDMOND, CITY OF | 40109C0067G | 23-OCT-2002 | 02-06-2570A | 17
06 | OK | EDMOND, CITY OF | 4002520005B | 02-JUL-2002 | 02-06-281P | 05
06 | OK | EDMOND, CITY OF | 40109C0067G | 23-OCT-2002 | 03-06-030A | 17
06 | OK | EDMOND, CITY OF | 40109C0069G | 27-NOV-2002 | 03-06-140A | 02
06 | OK | EDMOND, CITY OF | 40109C0089G | 22-NOV-2002 | 03-06-226A | 02
06 | OK | EDMOND, CITY OF | 40109C0069G | 18-DEC-2002 | 03-06-232A | 02
06 | OK | EDMOND, CITY OF | 40109C0227G | 27-DEC-2002 | 03-06-483A | 17
06 | OK | ENID, CITY OF | 40047C0095D | 06-NOV-2002 | 03-06-139A | 02
06 | OK | GUTHRIE, CITY OF | 40083C0139D | 02-AUG-2002 | 02-06-2110A | 01
06 | OK | GUTHRIE, CITY OF | 40083C0139D | 09-OCT-2002 | 02-06-2528A | 01
06 | OK | HARRAH, CITY OF | 40109C0427G | 03-JUL-2002 | 97-06-1194V | 19
06 | OK | HARRAH, CITY OF | 40109C0429G | 03-JUL-2002 | 97-06-1194V | 19
06 | OK | JENKS, CITY OF | 40143C0605H | 09-AUG-2002 | 02-06-2230A | 02
06 | OK | JENKS, CITY OF | 40143C0605H | 15-NOV-2002 | 03-06-083A | 02
06 | OK | JONES CITY, TOWN OF | 40109C0260G | 03-JUL-2002 | 97-06-1194V | 19
06 | OK | KAY COUNTY | 4004770150B | 21-AUG-2002 | 02-06-2190A | 01
06 | OK | KAY COUNTY | 4004770075A | 27-DEC-2002 | 03-06-245A | 02
06 | OK | KINGFISHER COUNTY | 4004710180A | 18-OCT-2002 | 02-06-2383A | 01
06 | OK | LAWTON, CITY OF | 40031C0232C | 10-JUL-2002 | 02-06-1733A | 01
06 | OK | LAWTON, CITY OF | 40031C0251C | 03-JUL-2002 | 02-06-1857A | 01
06 | OK | LE FLORE COUNTY | 4004840014A | 27-SEP-2002 | 02-06-2538A | 02
06 | OK | LUTHER, TOWN OF | 40109C0280G | 13-AUG-2002 | 02-06-2105A | 2
06 | OK | MIDWEST CITY, CITY OF | 40109C0381G | 03-JUL-2002 | 97-06-1194V | 19
06 | OK | MIDWEST CITY, CITY OF | 40109C0383G | 03-JUL-2002 | 97-06-1194V | 19
06 | OK | MIDWEST CITY, CITY OF | 40109C0385G | 03-JUL-2002 | 97-06-1194V | 19
06 | OK | MIDWEST CITY, CITY OF | 40109C0405G | 03-JUL-2002 | 97-06-1194V | 19
06 | OK | MIDWEST CITY, CITY OF | 40109C0405G | 20-DEC-2002 | 03-06-484A | 02
06 | OK | MOORE, CITY OF | 40027C0037F | 14-AUG-2002 | 02-06-2258A | 02
06 | OK | MOORE, CITY OF | 40027C0039F | 27-SEP-2002 | 02-06-2494A | 02
06 | OK | MOORE, CITY OF | 40027C0039F | 04-OCT-2002 | 02-06-2513A | 02
06 | OK | MOORE, CITY OF | 40027C0037F | 22-NOV-2002 | 03-06-120A | 02
06 | OK | MUSKOGEE COUNTY | 40101C0129E | 25-SEP-2002 | 02-06-2459A | 02
06 | OK | NICOMA PARK, TOWN OF | 40109C0405G | 13-AUG-2002 | 02-06-2106A | 2
06 | OK | NORMAN,CITY OF | 40027C0095G | 11-DEC-2002 | 02-06-2266A | 01
06 | OK | NORMAN,CITY OF | 40027C0090F | 13-NOV-2002 | 03-06-144A | 02
06 | OK | NORMAN,CITY OF | 40027C0080F | 18-DEC-2002 | 03-06-363A | 02
06 | OK | NORTH ENID, TOWN OF | 40047C0115C | 06-DEC-2002 | 03-06-236A | 02
06 | OK | NORTH ENID, TOWN OF | 40047C0115C | 04-DEC-2002 | 03-06-237A | 02
06 | OK | NORTH ENID, TOWN OF | 40047C0115C | 20-DEC-2002 | 03-06-396A | 02
06 | OK | OKLAHOMA CITY, CITY OF | 40109C0062G | 03-JUL-2002 | 97-06-1194V | 19
06 | OK | OKLAHOMA CITY, CITY OF | 40109C0063G | 03-JUL-2002 | 97-06-1194V | 19
06 | OK | OKLAHOMA CITY, CITY OF | 40109C0064G | 03-JUL-2002 | 97-06-1194V | 19
06 | OK | OKLAHOMA CITY, CITY OF | 40109C0067G | 03-JUL-2002 | 97-06-1194V | 19
06 | OK | OKLAHOMA CITY, CITY OF | 40109C0069G | 03-JUL-2002 | 97-06-1194V | 19
06 | OK | OKLAHOMA CITY, CITY OF | 40109C0090G | 03-JUL-2002 | 97-06-1194V | 19
06 | OK | OKLAHOMA CITY, CITY OF | 40109C0115G | 03-JUL-2002 | 97-06-1194V | 19
06 | OK | OKLAHOMA CITY, CITY OF | 40109C0118G | 03-JUL-2002 | 97-06-1194V | 19
06 | OK | OKLAHOMA CITY, CITY OF | 40109C0139G | 03-JUL-2002 | 97-06-1194V | 19
06 | OK | OKLAHOMA CITY, CITY OF | 40109C0157G | 03-JUL-2002 | 97-06-1194V | 19
06 | OK | OKLAHOMA CITY, CITY OF | 40109C0178G | 03-JUL-2002 | 97-06-1194V | 19
06 | OK | OKLAHOMA CITY, CITY OF | 40109C0179G | 03-JUL-2002 | 97-06-1194V | 19
06 | OK | OKLAHOMA CITY, CITY OF | 40109C0181G | 03-JUL-2002 | 97-06-1194V | 19
06 | OK | OKLAHOMA CITY, CITY OF | 40109C0182G | 03-JUL-2002 | 97-06-1194V | 19
06 | OK | OKLAHOMA CITY, CITY OF | 40109C0183G | 03-JUL-2002 | 97-06-1194V | 19
06 | OK | OKLAHOMA CITY, CITY OF | 40109C0184G | 03-JUL-2002 | 97-06-1194V | 19
06 | OK | OKLAHOMA CITY, CITY OF | 40109C0190G | 03-JUL-2002 | 97-06-1194V | 19
06 | OK | OKLAHOMA CITY, CITY OF | 40109C0192G | 03-JUL-2002 | 97-06-1194V | 19
06 | OK | OKLAHOMA CITY, CITY OF | 40109C0195G | 03-JUL-2002 | 97-06-1194V | 19
06 | OK | OKLAHOMA CITY, CITY OF | 40109C0198G | 03-JUL-2002 | 97-06-1194V | 19
06 | OK | OKLAHOMA CITY, CITY OF | 40109C0201G | 03-JUL-2002 | 97-06-1194V | 19
06 | OK | OKLAHOMA CITY, CITY OF | 40109C0202G | 03-JUL-2002 | 97-06-1194V | 19
06 | OK | OKLAHOMA CITY, CITY OF | 40109C0203G | 03-JUL-2002 | 97-06-1194V | 19
06 | OK | OKLAHOMA CITY, CITY OF | 40109C0204G | 03-JUL-2002 | 97-06-1194V | 19
06 | OK | OKLAHOMA CITY, CITY OF | 40109C0206G | 03-JUL-2002 | 97-06-1194V | 19
06 | OK | OKLAHOMA CITY, CITY OF | 40109C0207G | 03-JUL-2002 | 97-06-1194V | 19
06 | OK | OKLAHOMA CITY, CITY OF | 40109C0208G | 03-JUL-2002 | 97-06-1194V | 19
06 | OK | OKLAHOMA CITY, CITY OF | 40109C0211G | 03-JUL-2002 | 97-06-1194V | 19
06 | OK | OKLAHOMA CITY, CITY OF | 40109C0212G | 03-JUL-2002 | 97-06-1194V | 19
06 | OK | OKLAHOMA CITY, CITY OF | 40109C0213G | 03-JUL-2002 | 97-06-1194V | 19
06 | OK | OKLAHOMA CITY, CITY OF | 40109C0214G | 03-JUL-2002 | 97-06-1194V | 19
06 | OK | OKLAHOMA CITY, CITY OF | 40109C0216G | 03-JUL-2002 | 97-06-1194V | 19
06 | OK | OKLAHOMA CITY, CITY OF | 40109C0217G | 03-JUL-2002 | 97-06-1194V | 19
06 | OK | OKLAHOMA CITY, CITY OF | 40109C0218G | 03-JUL-2002 | 97-06-1194V | 19
06 | OK | OKLAHOMA CITY, CITY OF | 40109C0219G | 03-JUL-2002 | 97-06-1194V | 19
06 | OK | OKLAHOMA CITY, CITY OF | 40109C0229G | 03-JUL-2002 | 97-06-1194V | 19
06 | OK | OKLAHOMA CITY, CITY OF | 40109C0231G | 03-JUL-2002 | 97-06-1194V | 19
06 | OK | OKLAHOMA CITY, CITY OF | 40109C0232G | 03-JUL-2002 | 97-06-1194V | 19
06 | OK | OKLAHOMA CITY, CITY OF | 40109C0233G | 03-JUL-2002 | 97-06-1194V | 19
06 | OK | OKLAHOMA CITY, CITY OF | 40109C0237G | 03-JUL-2002 | 97-06-1194V | 19
06 | OK | OKLAHOMA CITY, CITY OF | 40109C0238G | 03-JUL-2002 | 97-06-1194V | 19
06 | OK | OKLAHOMA CITY, CITY OF | 40109C0240G | 03-JUL-2002 | 97-06-1194V | 19
06 | OK | OKLAHOMA CITY, CITY OF | 40109C0241G | 03-JUL-2002 | 97-06-1194V | 19
06 | OK | OKLAHOMA CITY, CITY OF | 40109C0308G | 03-JUL-2002 | 97-06-1194V | 19
06 | OK | OKLAHOMA CITY, CITY OF | 40109C0326G | 03-JUL-2002 | 97-06-1194V | 19
06 | OK | OKLAHOMA CITY, CITY OF | 40109C0328G | 03-JUL-2002 | 97-06-1194V | 19
06 | OK | OKLAHOMA CITY, CITY OF | 40109C0329G | 03-JUL-2002 | 97-06-1194V | 19
06 | OK | OKLAHOMA CITY, CITY OF | 40109C0334G | 03-JUL-2002 | 97-06-1194V | 19
06 | OK | OKLAHOMA CITY, CITY OF | 40109C0337G | 03-JUL-2002 | 97-06-1194V | 19
06 | OK | OKLAHOMA CITY, CITY OF | 40109C0341G | 03-JUL-2002 | 97-06-1194V | 19
06 | OK | OKLAHOMA CITY, CITY OF | 40109C0342G | 03-JUL-2002 | 97-06-1194V | 19
06 | OK | OKLAHOMA CITY, CITY OF | 40109C0351G | 03-JUL-2002 | 97-06-1194V | 19
06 | OK | OKLAHOMA CITY, CITY OF | 40109C0352G | 03-JUL-2002 | 97-06-1194V | 19
06 | OK | OKLAHOMA CITY, CITY OF | 40109C0353G | 03-JUL-2002 | 97-06-1194V | 19
06 | OK | OKLAHOMA CITY, CITY OF | 40109C0354G | 03-JUL-2002 | 97-06-1194V | 19
06 | OK | OKLAHOMA CITY, CITY OF | 40109C0358G | 03-JUL-2002 | 97-06-1194V | 19
06 | OK | OKLAHOMA CITY, CITY OF | 40109C0359G | 03-JUL-2002 | 97-06-1194V | 19
06 | OK | OKLAHOMA CITY, CITY OF | 40109C0360G | 03-JUL-2002 | 97-06-1194V | 19
06 | OK | OKLAHOMA CITY, CITY OF | 40109C0361G | 03-JUL-2002 | 97-06-1194V | 19
06 | OK | OKLAHOMA CITY, CITY OF | 40109C0362G | 03-JUL-2002 | 97-06-1194V | 19
06 | OK | OKLAHOMA CITY, CITY OF | 40109C0364G | 03-JUL-2002 | 97-06-1194V | 19
06 | OK | OKLAHOMA CITY, CITY OF | 40109C0367G | 03-JUL-2002 | 97-06-1194V | 19
06 | OK | OKLAHOMA CITY, CITY OF | 40109C0368G | 03-JUL-2002 | 97-06-1194V | 19
06 | OK | OKLAHOMA CITY, CITY OF | 40109C0369G | 03-JUL-2002 | 97-06-1194V | 19
06 | OK | OKLAHOMA CITY, CITY OF | 40109C0379G | 03-JUL-2002 | 97-06-1194V | 19
06 | OK | OKLAHOMA CITY, CITY OF | 40109C0383G | 03-JUL-2002 | 97-06-1194V | 19
06 | OK | OKLAHOMA CITY, CITY OF | 40109C0386G | 03-JUL-2002 | 97-06-1194V | 19
06 | OK | OKLAHOMA CITY, CITY OF | 40109C0387G | 03-JUL-2002 | 97-06-1194V | 19
06 | OK | OKLAHOMA CITY, CITY OF | 40109C0391G | 03-JUL-2002 | 97-06-1194V | 19
06 | OK | OKLAHOMA CITY, CITY OF | 40109C0393G | 03-JUL-2002 | 97-06-1194V | 19
06 | OK | OKLAHOMA CITY, CITY OF | 40109C0405G | 03-JUL-2002 | 97-06-1194V | 19
06 | OK | OKLAHOMA CITY, CITY OF | 40109C0412G | 03-JUL-2002 | 97-06-1194V | 19
06 | OK | OKLAHOMA CITY, CITY OF | 40109C0415G | 03-JUL-2002 | 97-06-1194V | 19
06 | OK | OKLAHOMA CITY, CITY OF | 40109C0419G | 03-JUL-2002 | 97-06-1194V | 19
06 | OK | OKLAHOMA CITY, CITY OF | 40109C0431G | 03-JUL-2002 | 97-06-1194V | 19
06 | OK | OKLAHOMA CITY, CITY OF | 40109C0460G | 03-JUL-2002 | 97-06-1194V | 19
06 | OK | OKLAHOMA CITY, CITY OF | 40109C0480G | 03-JUL-2002 | 97-06-1194V | 19
06 | OK | OKLAHOMA CITY, CITY OF | 40109C0501G | 03-JUL-2002 | 97-06-1194V | 19
06 | OK | OKLAHOMA CITY, CITY OF | 40109C0503G | 03-JUL-2002 | 97-06-1194V | 19
06 | OK | OKLAHOMA CITY, CITY OF | 40109C0504G | 03-JUL-2002 | 97-06-1194V | 19
06 | OK | OKLAHOMA CITY, CITY OF | 40109C0506G | 03-JUL-2002 | 97-06-1194V | 19
06 | OK | OKLAHOMA CITY, CITY OF | 40109C0507G | 03-JUL-2002 | 97-06-1194V | 19
06 | OK | OKLAHOMA CITY, CITY OF | 40109C0508G | 03-JUL-2002 | 97-06-1194V | 19
06 | OK | OKLAHOMA CITY, CITY OF | 40109C0515G | 03-JUL-2002 | 97-06-1194V | 19
06 | OK | OKLAHOMA CITY, CITY OF | 40109C0535G | 03-JUL-2002 | 97-06-1194V | 19
06 | OK | OKLAHOMA CITY, CITY OF | 40109C0556G | 03-JUL-2002 | 97-06-1194V | 19
06 | OK | OKLAHOMA CITY, CITY OF | 40109C0585G | 03-JUL-2002 | 97-06-1194V | 19
06 | OK | OKLAHOMA CITY, CITY OF | 4053780190F | 30-OCT-2002 | 01-06-1912P | 05
06 | OK | OKLAHOMA CITY, CITY OF | 4053780235C | 24-SEP-2002 | 01-06-2001P | 05
06 | OK | OKLAHOMA CITY, CITY OF | 4053780265D | 24-SEP-2002 | 01-06-2001P | 05
06 | OK | OKLAHOMA CITY, CITY OF | 4053780270D | 24-SEP-2002 | 01-06-2001P | 05
06 | OK | OKLAHOMA CITY, CITY OF | 40109C0211G | 12-JUL-2002 | 02-06-1154A | 02
06 | OK | OKLAHOMA CITY, CITY OF | 40109C0507G | 10-JUL-2002 | 02-06-2026A | 02
06 | OK | OKLAHOMA CITY, CITY OF | 40109C0329G | 02-AUG-2002 | 02-06-2189A | 02
06 | OK | OKLAHOMA CITY, CITY OF | 40109C0361G | 06-NOV-2002 | 02-06-2324A | 02
06 | OK | OKLAHOMA CITY, CITY OF | 40109C0212G | 06-SEP-2002 | 02-06-2339A | 02
06 | OK | OKLAHOMA CITY, CITY OF | 40109C0213G | 18-SEP-2002 | 02-06-2416A | 02
06 | OK | OKLAHOMA CITY, CITY OF | 40109C0066G | 18-SEP-2002 | 02-06-2470A | 02
06 | OK | OKLAHOMA CITY, CITY OF | 40109C0214G | 18-SEP-2002 | 02-06-2486A | 02
06 | OK | OKLAHOMA CITY, CITY OF | 40109C0201G | 06-NOV-2002 | 02-06-2518A | 17
06 | OK | OKLAHOMA CITY, CITY OF | 40109C0183G | 11-OCT-2002 | 02-06-2549A | 17
06 | OK | OKLAHOMA CITY, CITY OF | 40109C0069G | 16-OCT-2002 | 02-06-2606A | 02
06 | OK | OKLAHOMA CITY, CITY OF | 40109C0507G | 20-NOV-2002 | 02-06-2629A | 02
06 | OK | OKLAHOMA CITY, CITY OF | 40109C0201G | 22-NOV-2002 | 03-06-018A | 02
06 | OK | OKLAHOMA CITY, CITY OF | 40109C0352G | 16-OCT-2002 | 03-06-019A | 17
06 | OK | OKLAHOMA CITY, CITY OF | 40109C0216G | 01-NOV-2002 | 03-06-075A | 02
06 | OK | OKLAHOMA CITY, CITY OF | 40109C0329G | 06-NOV-2002 | 03-06-090A | 02
06 | OK | OKLAHOMA CITY, CITY OF | 40109C0211G | 20-NOV-2002 | 03-06-147A | 02
06 | OK | OKLAHOMA CITY, CITY OF | 40109C0216G | 04-DEC-2002 | 03-06-266A | 02
06 | OK | OKLAHOMA CITY, CITY OF | 40109C0368G | 04-DEC-2002 | 03-06-281A | 02
06 | OK | OKLAHOMA CITY, CITY OF | 40109C0183G | 13-DEC-2002 | 03-06-292A | 17
06 | OK | OKLAHOMA CITY, CITY OF | 40109C0391G | 04-DEC-2002 | 03-06-298A | 02
06 | OK | OKLAHOMA CITY, CITY OF | 40109C0226G | 13-DEC-2002 | 03-06-305A | 02
06 | OK | OKLAHOMA CITY, CITY OF | 40109C0219G | 18-DEC-2002 | 03-06-463A | 17
06 | OK | OKLAHOMA CITY, CITY OF | 40109C0216G | 27-DEC-2002 | 03-06-487A | 02
06 | OK | OKLAHOMA CITY, CITY OF | 40109C0069G | 20-DEC-2002 | 03-06-496A | 02
06 | OK | OKLAHOMA COUNTY | 40109C0035G | 03-JUL-2002 | 97-06-1194V | 19
06 | OK | OKLAHOMA COUNTY | 40109C0045G | 03-JUL-2002 | 97-06-1194V | 19
06 | OK | OKLAHOMA COUNTY | 40109C0055G | 03-JUL-2002 | 97-06-1194V | 19
06 | OK | OKLAHOMA COUNTY | 40109C0062G | 03-JUL-2002 | 97-06-1194V | 19
06 | OK | OKLAHOMA COUNTY | 40109C0405G | 03-JUL-2002 | 97-06-1194V | 19
06 | OK | OKLAHOMA COUNTY | 40109C0429G | 03-JUL-2002 | 97-06-1194V | 19
06 | OK | OKLAHOMA COUNTY | 40109C0285G | 01-NOV-2002 | 02-06-2552A | 02
06 | OK | OKMULGEE COUNTY | 4004920050B | 20-NOV-2002 | 03-06-171A | 02
06 | OK | OSAGE COUNTY | 4001460525C | 07-AUG-2002 | 02-06-2200A | 02
06 | OK | OWASSO, CITY OF | 40143C0238H | 08-NOV-2002 | 03-06-137A | 02
06 | OK | OWASSO, CITY OF | 40143C0238H | 20-NOV-2002 | 03-06-205A | 02
06 | OK | OWASSO, CITY OF | 40143C0236H | 06-DEC-2002 | 03-06-337A | 17
06 | OK | PONTOTOC COUNTY | 4004950004A | 03-JUL-2002 | 02-06-1937A | 02
06 | OK | PONTOTOC COUNTY | 4004950005A | 03-JUL-2002 | 02-06-1954A | 02
06 | OK | POTTAWATOMIE COUNTY | 40125C0040D | 24-JUL-2002 | 02-06-2111A | 02
06 | OK | ROGERS COUNTY | 4053790120B | 09-OCT-2002 | 02-06-2590A | 02
06 | OK | ROGERS COUNTY | 4053790160B | 09-OCT-2002 | 02-06-2590A | 02
06 | OK | ROGERS COUNTY | 4053790180B | 09-DEC-2002 | 03-06-012P | 05
06 | OK | ROGERS COUNTY | 4053790110C | 25-OCT-2002 | 03-06-032A | 02
06 | OK | ROGERS COUNTY | 4053790075B | 20-NOV-2002 | 03-06-172A | 02
06 | OK | SALLISAW, CITY OF | 40135C0165E | 28-AUG-2002 | 02-06-2177A | 02
06 | OK | SEMINOLE, CITY OF | 40133C0068C | 30-AUG-2002 | 02-06-2372A | 02
06 | OK | SHAWNEE, CITY OF | 40125C0125D | 04-OCT-2002 | 02-06-2591A | 02
06 | OK | SHAWNEE, CITY OF | 40125C0125D | 18-DEC-2002 | 03-06-357A | 02
06 | OK | SPERRY, TOWN OF | 40143C0211H | 04-OCT-2002 | 02-06-2592A | 02
06 | OK | TECUMSEH, CITY OF | 40125C0113D | 11-OCT-2002 | 02-06-2543A | 02
06 | OK | THE VILLAGE, CITY OF | 40109C0208G | 03-JUL-2002 | 97-06-1194V | 19
06 | OK | THE VILLAGE, CITY OF | 40109C0208G | 18-OCT-2002 | 02-06-2589A | 02
06 | OK | THE VILLAGE, CITY OF | 40109C0208G | 20-DEC-2002 | 03-06-391A | 02
06 | OK | TULSA COUNTY | 40143C0320H | 14-AUG-2002 | 02-06-2220A | 02
06 | OK | TULSA COUNTY | 40143C0339H | 23-OCT-2002 | 02-06-2560A | 02
06 | OK | TULSA COUNTY | 40143C0620H | 11-DEC-2002 | 03-06-351A | 02
06 | OK | TULSA COUNTY | 40143C0640H | 11-DEC-2002 | 03-06-351A | 02
06 | OK | TULSA, CITY OF | 40143C0530H | 19-JUL-2002 | 02-06-2062A | 02
06 | OK | TULSA, CITY OF | 40143C0510H | 25-SEP-2002 | 02-06-2527A | 02
06 | OK | TULSA, CITY OF | 40143C0510H | 23-OCT-2002 | 02-06-2531A | 02
06 | OK | TULSA, CITY OF | 40143C0512H | 26-AUG-2002 | 02-06-665P | 08
06 | OK | TULSA, CITY OF | 40143C0520H | 26-AUG-2002 | 02-06-665P | 08
06 | OK | TULSA, CITY OF | 40143C0510H | 01-NOV-2002 | 03-06-088A | 17
06 | OK | TULSA, CITY OF | 40143C0530H | 01-NOV-2002 | 03-06-088A | 17
06 | OK | TULSA, CITY OF | 40143C0530H | 18-DEC-2002 | 03-06-285A | 17
06 | OK | VERDEN, TOWN OF | 4002480001B | 21-AUG-2002 | 02-06-2087A | 02
06 | OK | WARR ACRES, CITY OF | 40109C0194G | 03-JUL-2002 | 97-06-1194V | 19
06 | OK | WARR ACRES, CITY OF | 40109C0211G | 03-JUL-2002 | 97-06-1194V | 19
06 | OK | WESTVILLE, TOWN OF | 4000030001B | 02-OCT-2002 | 02-06-2267A | 02
06 | OK | YUKON, CITY OF | 40017C0319E | 03-JUL-2002 | 00-06-1991V | 19
06 | OK | YUKON, CITY OF | 40017C0338E | 03-JUL-2002 | 00-06-1991V | 19
06 | OK | YUKON, CITY OF | 40017C0339E | 03-JUL-2002 | 00-06-1991V | 19
06 | OK | YUKON, CITY OF | 40017C0340E | 03-JUL-2002 | 00-06-1991V | 19
06 | OK | YUKON, CITY OF | 40017C0440E | 03-JUL-2002 | 00-06-1991V | 19
06 | OK | YUKON, CITY OF | 40017C0476E | 03-JUL-2002 | 00-06-1991V | 19
06 | OK | YUKON, CITY OF | 40017C0339E | 12-JUL-2002 | 02-06-1870A | 02
06 | TX | ALLEN, CITY OF | 48085C0295G | 18-SEP-2002 | 01-06-820P | 05
06 | TX | ALLEN, CITY OF | 48085C0435G | 18-SEP-2002 | 01-06-820P | 05
06 | TX | ALLEN, CITY OF | 48085C0435G | 04-SEP-2002 | 02-06-1539P | 05
06 | TX | ALLEN, CITY OF | 48085C0435G | 10-JUL-2002 | 02-06-1887A | 02
06 | TX | ALLEN, CITY OF | 48085C0435G | 07-AUG-2002 | 02-06-1994A | 02
06 | TX | ALLEN, CITY OF | 48085C0430G | 08-NOV-2002 | 03-06-225A | 02
06 | TX | ARGYLE, CITY OF | 48121C0510E | 16-OCT-2002 | 02-06-2283A | 02
06 | TX | ARLINGTON, CITY OF | 48439C0442H | 16-JUL-2002 | 01-06-780P | 05
06 | TX | ARLINGTON, CITY OF | 48439C0444H | 16-JUL-2002 | 01-06-780P | 05
06 | TX | ARLINGTON, CITY OF | 48439C0429J | 03-JUL-2002 | 02-06-1699A | 02
06 | TX | ARLINGTON, CITY OF | 48439C0464H | 30-AUG-2002 | 02-06-2265A | 02
06 | TX | ARLINGTON, CITY OF | 48439C0444H | 23-OCT-2002 | 03-06-009A | 02
06 | TX | ARLINGTON, CITY OF | 48439C0443H | 20-DEC-2002 | 03-06-398A | 02
06 | TX | AUSTIN, CITY OF | 48453C0245E | 30-AUG-2002 | 02-06-1487P | 05
06 | TX | AUSTIN, CITY OF | 48453C0150E | 06-SEP-2002 | 01-06-338P | 05
06 | TX | AUSTIN, CITY OF | 48453C0155E | 06-SEP-2002 | 01-06-338P | 05
06 | TX | AUSTIN, CITY OF | 48453C0160E | 12-JUL-2002 | 02-06-1876A | 02
06 | TX | AUSTIN, CITY OF | 48453C0205E | 26-JUL-2002 | 02-06-1884A | 02
06 | TX | AUSTIN, CITY OF | 48453C0210F | 26-JUL-2002 | 02-06-2125A | 02
06 | TX | AUSTIN, CITY OF | 48453C0210F | 31-JUL-2002 | 02-06-2136A | 02
06 | TX | AUSTIN, CITY OF | 48453C0155E | 27-SEP-2002 | 02-06-2263A | 02
06 | TX | AUSTIN, CITY OF | 48453C0255F | 30-AUG-2002 | 02-06-2333A | 02
06 | TX | AUSTIN, CITY OF | 48453C0200E | 13-SEP-2002 | 02-06-2338A | 02
06 | TX | AUSTIN, CITY OF | 48453C0205E | 13-SEP-2002 | 02-06-2397A | 02
06 | TX | AUSTIN, CITY OF | 48453C0260F | 20-SEP-2002 | 02-06-2450A | 02
06 | TX | AUSTIN, CITY OF | 48453C0160E | 18-SEP-2002 | 02-06-2453A | 02
06 | TX | AUSTIN, CITY OF | 48453C0205E | 27-NOV-2002 | 02-06-2611A | 02
06 | TX | AUSTIN, CITY OF | 48453C0205E | 01-NOV-2002 | 03-06-050A | 02
06 | TX | AUSTIN, CITY OF | 48453C0255F | 27-DEC-2002 | 03-06-489A | 02
06 | TX | AZLE, CITY OF | 48439C0119H | 17-JUL-2002 | 02-06-1924A | 02
06 | TX | AZLE, CITY OF | 48439C0232H | 18-DEC-2002 | 03-06-312A | 02
06 | TX | BALCH SPRINGS, CITY OF | 48113C0530J | 13-SEP-2002 | 02-06-1610A | 02
06 | TX | BASTROP COUNTY | 48021C0175C | 05-DEC-2002 | 01-06-1169P | 05
06 | TX | BASTROP COUNTY | 48021C0200C | 05-DEC-2002 | 01-06-1169P | 05
06 | TX | BAYTOWN, CITY OF | 48201C0770J | 20-SEP-2002 | 02-06-2289A | 02
06 | TX | BEAUMONT, CITY OF | 4854570035C | 07-AUG-2002 | 98-06-1902V | 19
06 | TX | BEAUMONT, CITY OF | 4854570050D | 07-AUG-2002 | 98-06-1902V | 19
06 | TX | BEAUMONT, CITY OF | 4854570050D | 22-NOV-2002 | 03-06-233A | 02
06 | TX | BEDFORD, CITY OF | 48439C0309J | 26-JUL-2002 | 02-06-2013A | 02
06 | TX | BEDFORD, CITY OF | 48439C0309J | 09-OCT-2002 | 02-06-2464A | 02
06 | TX | BELL COUNTY | 4807060130B | 21-AUG-2002 | 02-06-2280A | 01
06 | TX | BEXAR COUNTY | 48029C0314E | 30-AUG-2002 | 01-06-1795P | 05
06 | TX | BEXAR COUNTY | 48029C0477E | 30-AUG-2002 | 01-06-1795P | 05
06 | TX | BEXAR COUNTY | 48029C0755E | 07-SEP-2002 | 01-06-226P | 06
06 | TX | BEXAR COUNTY | 48029C0130F | 24-JUL-2002 | 02-06-1236A | 02
06 | TX | BEXAR COUNTY | 48029C0233F | 14-OCT-2002 | 02-06-1263P | 05
06 | TX | BEXAR COUNTY | 48029C0241F | 14-OCT-2002 | 02-06-1263P | 05
06 | TX | BEXAR COUNTY | 48029C0478E | 25-NOV-2002 | 02-06-2060P | 06
06 | TX | BEXAR COUNTY | 48029C0115E | 21-AUG-2002 | 02-06-2191A | 02
06 | TX | BEXAR COUNTY | 48029C0095E | 15-AUG-2002 | 02-06-761P | 06
06 | TX | BOWIE COUNTY | 4811940230B | 31-JUL-2002 | 02-06-2018A | 02
06 | TX | BRAZORIA COUNTY | 48039C0040I | 18-SEP-2002 | 02-06-2401A | 02
06 | TX | BROWNSVILLE, CITY OF | 4801010350B | 31-JUL-2002 | 02-06-1983A | 01
06 | TX | BURNET COUNTY | 48053C0284C | 27-NOV-2002 | 03-06-231A | 02
06 | TX | CALDWELL COUNTY | 4800940200C | 11-DEC-2002 | 03-06-071A | 02
06 | TX | CAMERON COUNTY | 4801010350B | 16-OCT-2002 | 02-06-2420A | 01
06 | TX | CARROLLTON, CITY OF | 48113C0180J | 17-JUL-2002 | 02-06-1483A | 02
06 | TX | CARROLLTON, CITY OF | 48113C0020J | 03-JUL-2002 | 02-06-1488A | 01
06 | TX | CARROLLTON, CITY OF | 48113C0160J | 10-JUL-2002 | 02-06-1492A | 02
06 | TX | CARROLLTON, CITY OF | 48113C0020J | 10-JUL-2002 | 02-06-1970A | 02
06 | TX | CARROLLTON, CITY OF | 48113C0180J | 03-JUL-2002 | 02-06-1971A | 02
06 | TX | CARROLLTON, CITY OF | 48113C0180J | 19-JUL-2002 | 02-06-2089A | 02
06 | TX | CARROLLTON, CITY OF | 48113C0020J | 07-AUG-2002 | 02-06-2098A | 01
06 | TX | CARROLLTON, CITY OF | 48113C0160J | 02-AUG-2002 | 02-06-2167A | 01
06 | TX | CARROLLTON, CITY OF | 48113C0180J | 14-AUG-2002 | 02-06-2242A | 02
06 | TX | CARROLLTON, CITY OF | 48113C0020J | 16-AUG-2002 | 02-06-2272A | 02
06 | TX | CARROLLTON, CITY OF | 48113C0180J | 13-SEP-2002 | 02-06-2380A | 17
06 | TX | CARROLLTON, CITY OF | 48113C0020J | 16-OCT-2002 | 02-06-2546A | 01
06 | TX | CARROLLTON, CITY OF | 48113C0160J | 23-OCT-2002 | 02-06-2561A | 02
06 | TX | CARROLLTON, CITY OF | 48113C0040J | 22-NOV-2002 | 03-06-204A | 02
06 | TX | CEDAR HILL, CITY OF | 48113C0610J | 12-JUL-2002 | 02-06-478P | 05
06 | TX | CEDAR PARK, CITY OF | 48491C0306C | 18-DEC-2002 | 02-06-1710P | 06
06 | TX | CHEROKEE COUNTY | 4807390007B | 23-OCT-2002 | 02-06-2194A | 01
06 | TX | CHEROKEE COUNTY | 4807390007B | 23-OCT-2002 | 02-06-2250A | 01
06 | TX | CLEBURNE, CITY OF | 48251C0111F | 16-AUG-2002 | 02-06-2161A | 01
06 | TX | COLLEGE STATION, CITY OF | 48041C0144C | 30-AUG-2002 | 02-06-031P | 05
06 | TX | COLLEYVILLE, TOWN OF | 48439C0307J | 02-OCT-2002 | 02-06-2514A | 01
06 | TX | COLLEYVILLE, TOWN OF | 48439C0195H | 06-NOV-2002 | 03-06-052A | 02
06 | TX | COLLIN COUNTY | 48085C0610G | 11-DEC-2002 | 03-06-304A | 02
06 | TX | COLLIN COUNTY* | 48085C0295G | 20-SEP-2002 | 02-06-1809AD | 02
06 | TX | COLUMBUS, CITY OF | 48089C0145C | 23-OCT-2002 | 02-06-2594A | 02
06 | TX | COMAL COUNTY | 4854630020C | 16-AUG-2002 | 02-06-2292A | 02
06 | TX | COPPELL, CITY OF | 48113C0135J | 10-JUL-2002 | 02-06-1199A | 01
06 | TX | COPPELL, CITY OF | 48113C0155J | 26-JUL-2002 | 02-06-1201A | 17
06 | TX | COPPELL, CITY OF | 48113C0155J | 03-JUL-2002 | 02-06-1665A | 01
06 | TX | COPPELL, CITY OF | 48113C0155J | 03-JUL-2002 | 02-06-1696A | 01
06 | TX | COPPELL, CITY OF | 48113C0135J | 31-JUL-2002 | 02-06-2140A | 17
06 | TX | COPPELL, CITY OF | 48113C0135J | 13-SEP-2002 | 02-06-2358A | 17
06 | TX | COPPELL, CITY OF | 48113C0155J | 13-SEP-2002 | 02-06-2358A | 17
06 | TX | COPPER CANYON, TOWN OF | 48121C0526E | 25-OCT-2002 | 02-06-1264P | 05
06 | TX | CORINTH, TOWN OF | 48121C0393E | 06-AUG-2002 | 02-06-2152P | 05
06 | TX | CORINTH, TOWN OF | 48121C0393E | 17-SEP-2002 | 02-06-2429P | 05
06 | TX | CORINTH, TOWN OF | 48121C0389E | 13-NOV-2002 | 02-06-2516A | 02
06 | TX | CORINTH, TOWN OF | 48121C0393E | 22-OCT-2002 | 02-06-525P | 05
06 | TX | CORINTH, TOWN OF | 48121C0389E | 27-NOV-2002 | 03-06-278A | 02
06 | TX | CORSICANA, CITY OF | 4804980005A | 09-AUG-2002 | 02-06-1822A | 02
06 | TX | CORSICANA, CITY OF | 4804980005A | 08-NOV-2002 | 03-06-119A | 02
06 | TX | DALLAS, CITY OF | 48113C0355J | 20-DEC-2002 | 01-06-1163P | 05
06 | TX | DALLAS, CITY OF | 48113C0360J | 20-DEC-2002 | 01-06-1163P | 05
06 | TX | DALLAS, CITY OF | 48113C0365J | 20-DEC-2002 | 01-06-1163P | 05
06 | TX | DALLAS, CITY OF | 48113C0370J | 20-DEC-2002 | 01-06-1163P | 05
06 | TX | DALLAS, CITY OF | 48113C0310J | 06-DEC-2002 | 01-06-1425P | 05
06 | TX | DALLAS, CITY OF | 48113C0215J | 10-JUL-2002 | 02-06-1080A | 02
06 | TX | DALLAS, CITY OF | 48113C0195J | 14-AUG-2002 | 02-06-1441A | 02
06 | TX | DALLAS, CITY OF | 48113C0195J | 23-AUG-2002 | 02-06-1511A | 01
06 | TX | DALLAS, CITY OF | 48113C0185J | 16-AUG-2002 | 02-06-1694A | 02
06 | TX | DALLAS, CITY OF | 48113C0185J | 17-JUL-2002 | 02-06-1798A | 02
06 | TX | DALLAS, CITY OF | 48113C0505J | 19-JUL-2002 | 02-06-1895A | 01
06 | TX | DALLAS, CITY OF | 48113C0355J | 10-JUL-2002 | 02-06-1909A | 02
06 | TX | DALLAS, CITY OF | 48113C0340J | 19-JUL-2002 | 02-06-1960A | 02
06 | TX | DALLAS, CITY OF | 48113C0040J | 12-JUL-2002 | 02-06-1964A | 02
06 | TX | DALLAS, CITY OF | 48113C0310J | 17-JUL-2002 | 02-06-1972A | 01
06 | TX | DALLAS, CITY OF | 48113C0195J | 10-JUL-2002 | 02-06-2012A | 02
06 | TX | DALLAS, CITY OF | 48113C0480J | 02-AUG-2002 | 02-06-2069A | 02
06 | TX | DALLAS, CITY OF | 48113C0335J | 31-JUL-2002 | 02-06-2127A | 02
06 | TX | DALLAS, CITY OF | 48113C0365J | 14-AUG-2002 | 02-06-2236A | 02
06 | TX | DALLAS, CITY OF | 48113C0355J | 18-SEP-2002 | 02-06-2332C | 01
06 | TX | DALLAS, CITY OF | 48113C0365J | 11-SEP-2002 | 02-06-2337A | 02
06 | TX | DALLAS, CITY OF | 48113C0365J | 13-NOV-2002 | 02-06-2460A | 02
06 | TX | DALLAS, CITY OF | 48113C0045J | 18-SEP-2002 | 02-06-2478A | 02
06 | TX | DALLAS, CITY OF | 48113C0170J | 06-DEC-2002 | 02-06-2510A | 01
06 | TX | DALLAS, CITY OF | 48113C0170J | 25-OCT-2002 | 02-06-2519A | 02
06 | TX | DALLAS, CITY OF | 48113C0330J | 04-OCT-2002 | 02-06-2550A | 02
06 | TX | DALLAS, CITY OF | 48113C0505J | 22-NOV-2002 | 02-06-2569A | 01
06 | TX | DALLAS, CITY OF | 48113C0355J | 16-OCT-2002 | 02-06-2599A | 02
06 | TX | DALLAS, CITY OF | 48113C0040J | 01-NOV-2002 | 02-06-2621A | 02
06 | TX | DALLAS, CITY OF | 48113C0355J | 02-NOV-2002 | 03-06-045A | 02
06 | TX | DALLAS, CITY OF | 48113C0180J | 13-DEC-2002 | 03-06-325A | 02
06 | TX | DENTON COUNTY | 48121C0389E | 10-JUL-2002 | 00-06-1241P | 05
06 | TX | DENTON COUNTY | 48121C0510E | 29-NOV-2002 | 01-06-1875P | 05
06 | TX | DENTON COUNTY | 48121C0528E | 29-NOV-2002 | 01-06-1875P | 05
06 | TX | DENTON COUNTY | 48121C0410E | 07-AUG-2002 | 02-06-1305A | 02
06 | TX | DENTON, CITY OF | 48121C0360E | 19-JUL-2002 | 02-06-1930A | 02
06 | TX | DENTON, CITY OF | 48121C0387E | 29-NOV-2002 | 02-06-355P | 05
06 | TX | DESOTO, CITY OF | 48113C0630J | 13-SEP-2002 | 02-06-2039A | 02
06 | TX | DESOTO, CITY OF | 48113C0630J | 18-OCT-2002 | 03-06-016A | 02
06 | TX | DUNCANVILLE, CITY OF | 48113C0470J | 24-JUL-2002 | 02-06-1633A | 02
06 | TX | DUNCANVILLE, CITY OF | 48113C0605J | 17-JUL-2002 | 02-06-2005A | 17
06 | TX | EDGECLIFF VILLAGE, TOWN OF | 48439C0415H | 30-AUG-2002 | 02-06-2392A | 02
06 | TX | EDINBURG,CITY OF | 4803380030E | 11-OCT-2002 | 02-06-2449A | 01
06 | TX | EL PASO, CITY OF | 4802140017C | 18-NOV-2002 | 02-06-1543P | 06
06 | TX | EL PASO, CITY OF | 4802140022E | 18-NOV-2002 | 02-06-1543P | 06
06 | TX | EL PASO, CITY OF | 4802140021D | 19-JUL-2002 | 02-06-1654A | 02
06 | TX | EL PASO, CITY OF | 4802140048B | 03-JUL-2002 | 02-06-1799A | 02
06 | TX | EL PASO, CITY OF | 4802140048B | 30-AUG-2002 | 02-06-1998A | 01
06 | TX | EL PASO, CITY OF | 4802140021D | 18-OCT-2002 | 02-06-2188A | 02
06 | TX | EL PASO, CITY OF | 4802140048B | 14-AUG-2002 | 02-06-2222A | 02
06 | TX | EL PASO, CITY OF | 4802140048B | 11-SEP-2002 | 02-06-2314X | 02
06 | TX | EL PASO, CITY OF | 4802140021D | 27-SEP-2002 | 02-06-2410A | 01
06 | TX | EL PASO, CITY OF | 4802140048B | 13-SEP-2002 | 02-06-2457X | 01
06 | TX | EL PASO, CITY OF | 4802140048B | 19-JUL-2002 | 02-06-700A | 01
06 | TX | ELGIN, CITY OF | 48021C0075C | 15-AUG-2002 | 01-06-1939P | 06
06 | TX | ENNIS, CITY OF | 48139C0215D | 25-NOV-2002 | 02-06-1067P | 06
06 | TX | EULESS, CITY OF | 48439C0330J | 23-AUG-2002 | 02-06-2340A | 02
06 | TX | FALFURRIAS, CITY OF | 4811960002B | 27-NOV-2002 | 02-06-2256A | 01
06 | TX | FALFURRIAS, CITY OF | 4800860001B | 22-NOV-2002 | 03-06-011A | 01
06 | TX | FARMERS BRANCH, CITY OF | 48113C0190J | 17-JUL-2002 | 02-06-1479A | 02
06 | TX | FARMERS BRANCH, CITY OF | 48113C0170J | 28-AUG-2002 | 02-06-2274A | 02
06 | TX | FLOWER MOUND, TOWN OF | 48121C0540E | 23-OCT-2002 | 02-06-1729A | 02
06 | TX | FLOWER MOUND, TOWN OF | 48121C0545E | 13-NOV-2002 | 03-06-005A | 02
06 | TX | FORNEY, CITY OF | 480410—01B | 01-NOV-2002 | 02-06-2632A | 01
06 | TX | FORNEY, CITY OF | 4804110025B | 01-NOV-2002 | 02-06-2632A | 01
06 | TX | FORT BEND COUNTY | 48157C0120J | 31-DEC-2002 | 02-06-376P | 05
06 | TX | FORT BEND COUNTY | 48157C0235J | 11-DEC-2002 | 03-06-299A | 02
06 | TX | FORT WORTH, CITY OF | 48439C0395J | 05-AUG-2002 | 01-06-1999P | 06
06 | TX | FORT WORTH, CITY OF | 48439C0510J | 05-AUG-2002 | 01-06-1999P | 06
06 | TX | FORT WORTH, CITY OF | 48439C0170H | 30-AUG-2002 | 02-06-064P | 05
06 | TX | FORT WORTH, CITY OF | 48439C0170H | 19-AUG-2002 | 02-06-1071P | 06
06 | TX | FORT WORTH, CITY OF | 48439C0169H | 08-NOV-2002 | 02-06-1549P | 06
06 | TX | FORT WORTH, CITY OF | 48439C0170H | 08-NOV-2002 | 02-06-1549P | 06
06 | TX | FORT WORTH, CITY OF | 48439C0280J | 10-JUL-2002 | 02-06-1718P | 06
06 | TX | FORT WORTH, CITY OF | 48439C0385J | 26-JUL-2002 | 02-06-1991A | 02
06 | TX | FORT WORTH, CITY OF | 48439C0360H | 16-AUG-2002 | 02-06-2033A | 02
06 | TX | FORT WORTH, CITY OF | 48439C0265H | 31-JUL-2002 | 02-06-2175A | 02
06 | TX | FORT WORTH, CITY OF | 48439C0170H | 06-DEC-2002 | 02-06-2215P | 06
06 | TX | FORT WORTH, CITY OF | 48439C0395J | 04-SEP-2002 | 02-06-2244A | 02
06 | TX | FORT WORTH, CITY OF | 48439C0431J | 23-OCT-2002 | 02-06-2369A | 01
06 | TX | FORT WORTH, CITY OF | 48439C0160H | 06-SEP-2002 | 02-06-733P | 06
06 | TX | FORT WORTH, CITY OF | 48439C0280J | 29-NOV-2002 | 02-06-830P | 05
06 | TX | FORT WORTH, CITY OF | 48439C0395J | 01-NOV-2002 | 03-06-082A | 02
06 | TX | FORT WORTH, CITY OF | 48439C0245H | 20-NOV-2002 | 03-06-125A | 02
06 | TX | FORT WORTH, CITY OF | 48439C0170H | 04-DEC-2002 | 03-06-243A | 02
06 | TX | FORT WORTH, CITY OF | 48439C0140H | 06-DEC-2002 | 03-06-272A | 02
06 | TX | FORT WORTH, CITY OF | 48439C0245H | 20-NOV-2002 | 03-06-295A | 02
06 | TX | FORT WORTH, CITY OF | 48439C0170H | 18-DEC-2002 | 03-06-365A | 02
06 | TX | FORT WORTH, CITY OF | 48439C0395J | 13-DEC-2002 | 03-06-455A | 02
06 | TX | FREDERICKSBURG, CITY OF | 48171C0451C | 28-AUG-2002 | 00-06-1860P | 05
06 | TX | FREDERICKSBURG, CITY OF | 48171C0288C | 27-NOV-2002 | 03-06-080A | 02
06 | TX | FRISCO, CITY OF | 48085C0405G | 08-AUG-2002 | 02-06-1536P | 06
06 | TX | GALVESTON, CITY OF | 4854690022E | 11-DEC-2002 | 03-06-261A | 02
06 | TX | GARLAND, CITY OF | 48113C0210J | 08-AUG-2002 | 02-06-151P | 05
06 | TX | GARLAND, CITY OF | 48113C0210J | 23-AUG-2002 | 02-06-1885A | 17
06 | TX | GARLAND, CITY OF | 48113C0240J | 10-JUL-2002 | 02-06-1992A | 01
06 | TX | GARLAND, CITY OF | 48113C0220J | 28-AUG-2002 | 02-06-2096A | 01
06 | TX | GARLAND, CITY OF | 48113C0220J | 28-AUG-2002 | 02-06-2328A | 17
06 | TX | GARLAND, CITY OF | 48113C0380J | 28-AUG-2002 | 02-06-2329A | 02
06 | TX | GARLAND, CITY OF | 48113C0210J | 30-AUG-2002 | 02-06-2350A | 02
06 | TX | GARLAND, CITY OF | 48113C0220J | 30-AUG-2002 | 02-06-2378A | 02
06 | TX | GARLAND, CITY OF | 48113C0220J | 11-SEP-2002 | 02-06-2379A | 17
06 | TX | GARLAND, CITY OF | 48113C0360J | 09-OCT-2002 | 02-06-2533A | 02
06 | TX | GARLAND, CITY OF | 48113C0360J | 01-NOV-2002 | 03-06-097A | 17
06 | TX | GARLAND, CITY OF | 48113C0220J | 13-NOV-2002 | 03-06-130A | 17
06 | TX | GARLAND, CITY OF | 48113C0220J | 22-NOV-2002 | 03-06-223A | 02
06 | TX | GILLESPIE COUNTY | 48171C0475C | 28-AUG-2002 | 02-06-2120A | 02
06 | TX | GLEN ROSE, CITY OF | 48425C0040C | 09-OCT-2002 | 02-06-2279A | 01
06 | TX | GLENN HEIGHTS, CITY OF | 48113C0630J | 28-AUG-2002 | 01-06-1213P | 05
06 | TX | GLENN HEIGHTS, CITY OF | 48113C0640J | 28-AUG-2002 | 01-06-1213P | 05
06 | TX | GRANBURY, CITY OF | 4803560110C | 05-SEP-2002 | 02-06-198P | 05
06 | TX | GRANBURY, CITY OF | 4803570005B | 05-SEP-2002 | 02-06-198P | 05
06 | TX | GRAND PRAIRIE, CITY OF | 48113C0435J | 06-SEP-2002 | 02-06-1396A | 01
06 | TX | GRAND PRAIRIE, CITY OF | 48113C0445J | 03-JUL-2002 | 02-06-1929A | 17
06 | TX | GRAND PRAIRIE, CITY OF | 48113C0445J | 31-JUL-2002 | 02-06-2030A | 01
06 | TX | GRAND PRAIRIE, CITY OF | 48113C0445J | 20-DEC-2002 | 03-06-247A | 01
06 | TX | GRAND PRAIRIE, CITY OF | 48113C0295J | 04-DEC-2002 | 03-06-277A | 01
06 | TX | GRAND PRAIRIE, CITY OF | 48113C0315J | 04-DEC-2002 | 03-06-277A | 01
06 | TX | GRAND PRAIRIE, CITY OF | 48113C0445J | 20-DEC-2002 | 03-06-389A | 02
06 | TX | GRAPEVINE, CITY OF | 48439C0210H | 29-JUL-2002 | 01-06-1571P | 05
06 | TX | GRAPEVINE, CITY OF | 48439C0205H | 20-DEC-2002 | 02-06-2443A | 02
06 | TX | HALE COUNTY | 4812230002A | 27-AUG-2002 | 02-06-2154P | 06
06 | TX | HALTOM CITY, CITY OF | 48439C0295J | 10-JUL-2002 | 02-06-2019A | 02
06 | TX | HARLINGEN, CITY OF | 4801010150B | 06-DEC-2002 | 03-06-106A | 01
06 | TX | HARLINGEN, CITY OF | 4854770015B | 04-DEC-2002 | 03-06-150A | 02
06 | TX | HARRIS COUNTY | 48201C0235K | 29-OCT-2002 | 02-06-1092P | 05
06 | TX | HARRIS COUNTY | 48201C0455J | 26-JUL-2002 | 02-06-2114A | 02
06 | TX | HARRIS COUNTY | 48201C0240J | 22-NOV-2002 | 02-06-2196A | 02
06 | TX | HARRIS COUNTY | 48201C0320K | 28-AUG-2002 | 02-06-2288A | 01
06 | TX | HARRIS COUNTY | 48201C0440K | 28-AUG-2002 | 02-06-982A | 01
06 | TX | HARRIS COUNTY | 48201C0445K | 28-AUG-2002 | 02-06-982A | 01
06 | TX | HEATH, CITY OF | 4805450005A | 02-JUL-2002 | 01-06-2029P | 06
06 | TX | HEATH, CITY OF | 4805430040B | 09-DEC-2002 | 02-06-1845P | 06
06 | TX | HEATH, CITY OF | 4805450005A | 09-DEC-2002 | 02-06-1845P | 06
06 | TX | HENDERSON COUNTY | 48213C0225C | 27-NOV-2002 | 03-06-215A | 02
06 | TX | HIDALGO COUNTY | 4803340450C | 11-DEC-2002 | 02-06-2483A | 02
06 | TX | HILL COUNTY | 4808570004A | 03-JUL-2002 | 02-06-1928A | 02
06 | TX | HOOD COUNTY | 4803560035B | 24-JUL-2002 | 02-06-1824A | 02
06 | TX | HOOD COUNTY | 4803560110C | 18-SEP-2002 | 02-06-2387A | 02
06 | TX | HOOD COUNTY | 4803560130C | 23-OCT-2002 | 03-06-029A | 02
06 | TX | HOUSTON, CITY OF | 48201C0635K | 26-AUG-2002 | 01-06-1634P | 08
06 | TX | HOUSTON, CITY OF | 48201C0845K | 10-JUL-2002 | 02-06-1932A | 02
06 | TX | HOUSTON, CITY OF | 48201C0845K | 10-JUL-2002 | 02-06-1990A | 02
06 | TX | HOUSTON, CITY OF | 48201C0830K | 12-JUL-2002 | 02-06-2001A | 02
06 | TX | HOUSTON, CITY OF | 48201C0865K | 24-JUL-2002 | 02-06-2067A | 02
06 | TX | HOUSTON, CITY OF | 48201C0830K | 14-AUG-2002 | 02-06-2158A | 01
06 | TX | HOUSTON, CITY OF | 48201C0830K | 31-JUL-2002 | 02-06-2179A | 02
06 | TX | HOUSTON, CITY OF | 48201C0845K | 02-AUG-2002 | 02-06-2180A | 02
06 | TX | HOUSTON, CITY OF | 48201C0860K | 23-AUG-2002 | 02-06-2223A | 02
06 | TX | HOUSTON, CITY OF | 48201C0670K | 20-SEP-2002 | 02-06-2245A | 02
06 | TX | HOUSTON, CITY OF | 48201C0845K | 23-AUG-2002 | 02-06-2330A | 02
06 | TX | HOUSTON, CITY OF | 48201C0845K | 23-AUG-2002 | 02-06-2352A | 02
06 | TX | HOUSTON, CITY OF | 48201C0460J | 30-AUG-2002 | 02-06-2373A | 02
06 | TX | HOUSTON, CITY OF | 48201C0320K | 18-SEP-2002 | 02-06-2445A | 02
06 | TX | HOUSTON, CITY OF | 48201C0845K | 13-DEC-2002 | 02-06-2506A | 02
06 | TX | HOUSTON, CITY OF | 48201C0670K | 27-SEP-2002 | 02-06-2535A | 02
06 | TX | HOUSTON, CITY OF | 48201C0640J | 30-OCT-2002 | 03-06-056A | 02
06 | TX | HOUSTON, CITY OF | 48201C0690K | 15-NOV-2002 | 03-06-072A | 01
06 | TX | HOUSTON, CITY OF | 48201C0315K | 04-DEC-2002 | 03-06-124A | 02
06 | TX | HOUSTON, CITY OF | 48201C0855K | 20-DEC-2002 | 03-06-311A | 02
06 | TX | HURST, CITY OF | 48439C0195H | 06-DEC-2002 | 02-06-2192A | 01
06 | TX | HURST, CITY OF | 48439C0195H | 06-DEC-2002 | 02-06-2193A | 01
06 | TX | HURST, CITY OF | 48439C0308H | 13-SEP-2002 | 02-06-2393A | 02
06 | TX | HUTTO, TOWN OF | 48491C0244C | 30-AUG-2002 | 02-06-2357A | 01
06 | TX | IRVING, CITY OF | 48113C0320J | 26-JUL-2002 | 02-06-1564A | 01
06 | TX | IRVING, CITY OF | 48113C0310J | 24-JUL-2002 | 02-06-2103A | 02
06 | TX | IRVING, CITY OF | 48113C0315J | 20-SEP-2002 | 02-06-2109A | 02
06 | TX | IRVING, CITY OF | 48113C0320J | 16-AUG-2002 | 02-06-2273A | 02
06 | TX | IRVING, CITY OF | 48113C0320J | 13-SEP-2002 | 02-06-2389A | 02
06 | TX | IRVING, CITY OF | 48113C0315J | 13-DEC-2002 | 02-06-2492A | 02
06 | TX | IRVING, CITY OF | 48113C0305J | 19-DEC-2002 | 02-06-384P | 05
06 | TX | KATY, CITY OF | 4803010005D | 20-AUG-2002 | 02-06-2156P | 05
06 | TX | KELLER, CITY OF | 48439C0190H | 02-AUG-2002 | 02-06-046P | 05
06 | TX | KELLER, CITY OF | 48439C0190H | 21-AUG-2002 | 02-06-1198A | 01
06 | TX | KELLER, CITY OF | 48439C0180H | 09-JUL-2002 | 02-06-997P | 06
06 | TX | KENDALL COUNTY | 4804170025B | 30-OCT-2002 | 02-06-2142A | 02
06 | TX | KENDALL COUNTY | 4804170190B | 13-DEC-2002 | 03-06-151P | 06
06 | TX | KERR COUNTY | 48265C0165E | 08-NOV-2002 | 03-06-015A | 02
06 | TX | KERRVILLE, CITY OF | 48265C0170E | 13-SEP-2002 | 02-06-1330A | 17
06 | TX | KERRVILLE, CITY OF | 48265C0170E | 12-JUL-2002 | 02-06-1886A | 02
06 | TX | KILLEEN, CITY OF | 4800310008C | 13-SEP-2002 | 02-06-2281A | 01
06 | TX | LA PORTE, CITY OF | 48201C0940J | 10-JUL-2002 | 02-06-1856A | 02
06 | TX | LAGO VISTA, CITY OF | 48453C0792F | 04-DEC-2002 | 03-06-260A | 02
06 | TX | LEAGUE CITY, CITY OF | 4854880030E | 12-JUL-2002 | 02-06-1959A | 01
06 | TX | LEAGUE CITY, CITY OF | 4854880030E | 30-OCT-2002 | 02-06-2626X | 01
06 | TX | LEWISVILLE, CITY OF | 48121C0545E | 12-SEP-2002 | 02-06-731P | 05
06 | TX | LEWISVILLE, CITY OF | 48121C0545E | 27-NOV-2002 | 03-06-129A | 02
06 | TX | LITTLE ELM, TOWN OF | 48121C0410E | 13-NOV-2002 | 02-06-2525A | 02
06 | TX | LITTLE ELM, TOWN OF | 48121C0420E | 13-NOV-2002 | 02-06-2525A | 02
06 | TX | LLANO COUNTY | 4812340210B | 21-AUG-2002 | 02-06-1860A | 02
06 | TX | LONGVIEW, CITY OF | 4802640010D | 17-OCT-2002 | 02-06-1946P | 05
06 | TX | LONGVIEW, CITY OF | 4802640010D | 31-JUL-2002 | 02-06-2101A | 02
06 | TX | LONGVIEW, CITY OF | 4802640015E | 27-SEP-2002 | 02-06-2523A | 02
06 | TX | LONGVIEW, CITY OF | 4802640010D | 16-AUG-2002 | 02-06-512P | 05
06 | TX | LOWRY CROSSING, CITY OF | 48085C0325G | 27-NOV-2002 | 03-06-079A | 02
06 | TX | LUBBOCK COUNTY | 48303C0170D | 19-SEP-2002 | 00-06-1890V | 19
06 | TX | LUBBOCK COUNTY | 48303C0175D | 19-SEP-2002 | 00-06-1890V | 19
06 | TX | LUBBOCK COUNTY | 48303C0290D | 19-SEP-2002 | 00-06-1890V | 19
06 | TX | LUBBOCK COUNTY | 48303C0410D | 19-SEP-2002 | 00-06-1890V | 19
06 | TX | LUBBOCK, CITY OF | 48303C0280D | 19-SEP-2002 | 00-06-1890V | 19
06 | TX | LUBBOCK, CITY OF | 48303C0285D | 19-SEP-2002 | 00-06-1890V | 19
06 | TX | LUBBOCK, CITY OF | 48303C0290D | 19-SEP-2002 | 00-06-1890V | 19
06 | TX | LUBBOCK, CITY OF | 48303C0295D | 19-SEP-2002 | 00-06-1890V | 19
06 | TX | LUBBOCK, CITY OF | 48303C0305D | 19-SEP-2002 | 00-06-1890V | 19
06 | TX | LUBBOCK, CITY OF | 48303C0315D | 19-SEP-2002 | 00-06-1890V | 19
06 | TX | LUBBOCK, CITY OF | 48303C0295D | 11-DEC-2002 | 03-06-330A | 01
06 | TX | LUBBOCK, CITY OF | 48303C0315D | 27-DEC-2002 | 03-06-469A | 02
06 | TX | LUBBOCK, CITY OF | 48303C0290D | 20-DEC-2002 | 03-06-497A | 02
06 | TX | MAGNOLIA, TOWN OF | 48339C0459F | 30-AUG-2002 | 01-06-1444P | 05
06 | TX | MAGNOLIA, TOWN OF | 48339C0470F | 30-AUG-2002 | 01-06-1444P | 05
06 | TX | MANSFIELD, CITY OF | 48439C0580H | 23-AUG-2002 | 02-06-1894A | 02
06 | TX | MCKINNEY, CITY OF | 48085C0295G | 20-SEP-2002 | 02-06-1809A | 02
06 | TX | MCKINNEY, CITY OF | 48085C0290G | 13-AUG-2002 | 01-06-1229P | 06
06 | TX | MCKINNEY, CITY OF | 48085C0295G | 13-AUG-2002 | 01-06-1229P | 06
06 | TX | MCKINNEY, CITY OF | 48085C0285G | 18-OCT-2002 | 02-06-2135A | 01
06 | TX | MCLENDON-CHISHOLM, CITY OF | 480546—01A | 18-SEP-2002 | 02-06-1997A | 02
06 | TX | MEADOWLAKES, CITY OF | 48053C0312C | 12-JUL-2002 | 02-06-2000A | 02
06 | TX | MEDINA COUNTY | 4804720175B | 22-NOV-2002 | 03-06-159A | 17
06 | TX | MESQUITE, CITY OF | 48113C0535J | 09-OCT-2002 | 01-06-1230P | 05
06 | TX | MESQUITE, CITY OF | 48113C0370J | 09-AUG-2002 | 02-06-1921A | 02
06 | TX | MESQUITE, CITY OF | 48113C0530J | 26-JUL-2002 | 02-06-2086A | 02
06 | TX | MESQUITE, CITY OF | 48113C0535J | 28-AUG-2002 | 02-06-2318A | 02
06 | TX | MIDLAND COUNTY | 48329C0063E | 13-DEC-2002 | 03-06-308A | 02
06 | TX | MIDLAND, CITY OF | 48329C0086E | 08-AUG-2002 | 01-06-1743P | 06
06 | TX | MIDLAND, CITY OF | 48329C0087E | 08-AUG-2002 | 01-06-1743P | 06
06 | TX | MIDLAND, CITY OF | 48329C0089E | 19-JUL-2002 | 02-06-1375A | 02
06 | TX | MIDLAND, CITY OF | 48329C0093E | 06-NOV-2002 | 02-06-1417P | 05
06 | TX | MIDLAND, CITY OF | 48329C0088E | 14-AUG-2002 | 02-06-2232A | 02
06 | TX | MIDLAND, CITY OF | 48329C0088E | 18-SEP-2002 | 02-06-2374A | 02
06 | TX | MIDLAND, CITY OF | 48329C0086E | 18-SEP-2002 | 02-06-2385A | 01
06 | TX | MIDLAND, CITY OF | 48329C0069E | 23-OCT-2002 | 03-06-002X | 02
06 | TX | MIDLAND, CITY OF | 48329C0088E | 23-OCT-2002 | 03-06-007A | 02
06 | TX | MIDLAND, CITY OF | 48329C0089E | 15-NOV-2002 | 03-06-084A | 02
06 | TX | MIDLAND, CITY OF | 48329C0088E | 15-NOV-2002 | 03-06-160A | 02
06 | TX | MIDLAND, CITY OF | 48329C0088E | 18-DEC-2002 | 03-06-376A | 02
06 | TX | MIDLAND, CITY OF | 48329C0067E | 13-DEC-2002 | 03-06-400A | 02
06 | TX | MIDLAND, CITY OF | 48329C0088E | 27-DEC-2002 | 03-06-461A | 02
06 | TX | MINERAL WELLS, CITY OF | 4805170002D | 02-AUG-2002 | 02-06-2185A | 02
06 | TX | MISSION, CITY OF | 4803450005C | 11-DEC-2002 | 02-06-2501A | 01
06 | TX | MISSOURI CITY, CITY OF | 48157C0265J | 13-NOV-2002 | 02-06-2227A | 01
06 | TX | MISSOURI CITY, CITY OF | 48157C0265J | 20-SEP-2002 | 02-06-2465A | 02
06 | TX | MONTGOMERY COUNTY | 48339C0505F | 03-JUL-2002 | 02-06-1442A | 02
06 | TX | MONTGOMERY COUNTY | 48339C0220F | 20-SEP-2002 | 02-06-1636A | 01
06 | TX | MONTGOMERY COUNTY | 48339C0485F | 09-JUL-2002 | 02-06-1849P | 05
06 | TX | MONTGOMERY COUNTY | 48339C0530F | 22-NOV-2002 | 03-06-115A | 01
06 | TX | MONTGOMERY COUNTY | 48339C0405F | 27-DEC-2002 | 03-06-121A | 02
06 | TX | MONTGOMERY COUNTY | 48339C0220F | 22-NOV-2002 | 03-06-173A | 01
06 | TX | MORGAN'S POINT RESORT, CITY OF | 4815250001A | 20-NOV-2002 | 02-06-2497A | 02
06 | TX | MUENSTER, CITY OF | 4807670001B | 20-DEC-2002 | 03-06-395A | 02
06 | TX | ODESSA, CITY OF | 48135C0135D | 13-SEP-2002 | 02-06-2462A | 02
06 | TX | ODESSA, CITY OF | 48135C0170D | 13-NOV-2002 | 03-06-207A | 02
06 | TX | ODESSA, CITY OF | 48135C0170D | 20-DEC-2002 | 03-06-462A | 02
06 | TX | ODESSA, CITY OF | 48135C0170D | 27-DEC-2002 | 03-06-503X | 02
06 | TX | PALO PINTO COUNTY | 4805160100A | 20-DEC-2002 | 03-06-263A | 02
06 | TX | PEARLAND, CITY OF | 48039C0030I | 27-DEC-2002 | 03-06-094A | 01
06 | TX | PEARLAND, CITY OF | 48039C0035I | 27-DEC-2002 | 03-06-094A | 01
06 | TX | PINEY POINT VILLAGE, CITY OF | 48201C0835K | 10-JUL-2002 | 02-06-1982A | 02
06 | TX | PLAINVIEW, CITY OF | 4802750002B | 23-OCT-2002 | 02-06-2076A | 02
06 | TX | PLANO, CITY OF | 48085C0430G | 20-SEP-2002 | 02-06-169A | 01
06 | TX | PLANO, CITY OF | 48085C0430G | 24-JUL-2002 | 02-06-2113A | 02
06 | TX | PLANO, CITY OF | 48085C0445G | 16-AUG-2002 | 02-06-2257A | 02
06 | TX | PLANO, CITY OF | 48085C0415G | 06-AUG-2002 | 02-06-823P | 05
06 | TX | PLANO, CITY OF | 48085C0420G | 06-AUG-2002 | 02-06-823P | 05
06 | TX | PLANO, CITY OF | 48085C0440G | 23-OCT-2002 | 03-06-017A | 17
06 | TX | PLANO, CITY OF | 48085C0430G | 16-OCT-2002 | 03-06-057X | 01
06 | TX | PLANO, CITY OF | 48085C0430G | 30-OCT-2002 | 03-06-113X | 01
06 | TX | POINT VENTURE, VILLAGE OF | 48453C0813F | 30-AUG-2002 | 02-06-2320A | 02
06 | TX | POINT VENTURE, VILLAGE OF | 48453C0813F | 20-SEP-2002 | 02-06-2351A | 02
06 | TX | POINT VENTURE, VILLAGE OF | 48453C0813F | 06-NOV-2002 | 02-06-2509A | 02
06 | TX | POLK COUNTY | 4805260009B | 14-AUG-2002 | 02-06-1501A | 02
06 | TX | RANSOM CANYON, CITY OF | 48303C0339D | 19-SEP-2002 | 00-06-1890V | 19
06 | TX | RANSOM CANYON, CITY OF | 48303C0343D | 19-SEP-2002 | 00-06-1890V | 19
06 | TX | RANSOM CANYON, CITY OF | 48303C0343D | 27-DEC-2002 | 03-06-481A | 02
06 | TX | RICHARDSON, CITY OF | 48113C0205J | 11-OCT-2002 | 02-06-1993A | 02
06 | TX | RICHARDSON, CITY OF | 48113C0185J | 24-JUL-2002 | 02-06-2117A | 02
06 | TX | ROWLETT, CITY OF | 48113C0245J | 25-NOV-2002 | 02-06-1100P | 06
06 | TX | ROWLETT, CITY OF | 48113C0240J | 08-NOV-2002 | 02-06-2399A | 01
06 | TX | ROWLETT, CITY OF | 48113C0240J | 25-OCT-2002 | 02-06-2496A | 02
06 | TX | SACHSE, CITY OF | 48113C0230J | 26-JUL-2002 | 02-06-1302A | 02
06 | TX | SACHSE, CITY OF | 48085C0580H | 07-AUG-2002 | 02-06-1926A | 2
06 | TX | SACHSE, CITY OF | 48113C0230J | 27-SEP-2002 | 02-06-2362A | 17
06 | TX | SAN ANTONIO, CITY OF | 48029C0120F | 22-NOV-2002 | 02-06-1022P | 06
06 | TX | SAN ANTONIO, CITY OF | 48029C0140F | 22-NOV-2002 | 02-06-1022P | 06
06 | TX | SAN ANTONIO, CITY OF | 48029C0120F | 24-SEP-2002 | 02-06-1257P | 06
06 | TX | SAN ANTONIO, CITY OF | 48029C0263F | 17-OCT-2002 | 02-06-1320P | 05
06 | TX | SAN ANTONIO, CITY OF | 48029C0405F | 24-OCT-2002 | 02-06-1541P | 06
06 | TX | SAN ANTONIO, CITY OF | 48029C0408E | 24-OCT-2002 | 02-06-1541P | 06
06 | TX | SAN ANTONIO, CITY OF | 48029C0257F | 09-AUG-2002 | 02-06-1770A | 02
06 | TX | SAN ANTONIO, CITY OF | 48029C0239F | 14-AUG-2002 | 02-06-1882A | 02
06 | TX | SAN ANTONIO, CITY OF | 48029C0241F | 17-JUL-2002 | 02-06-1920A | 02
06 | TX | SAN ANTONIO, CITY OF | 48029C0257F | 10-JUL-2002 | 02-06-2022A | 02
06 | TX | SAN ANTONIO, CITY OF | 48029C0259F | 10-JUL-2002 | 02-06-2022A | 02
06 | TX | SAN ANTONIO, CITY OF | 48029C0243F | 26-JUL-2002 | 02-06-2031A | 02
06 | TX | SAN ANTONIO, CITY OF | 48029C0241F | 19-JUL-2002 | 02-06-2064A | 02
06 | TX | SAN ANTONIO, CITY OF | 48029C0243F | 17-JUL-2002 | 02-06-2079A | 02
06 | TX | SAN ANTONIO, CITY OF | 48029C0140F | 31-JUL-2002 | 02-06-2095A | 02
06 | TX | SAN ANTONIO, CITY OF | 48029C0239F | 31-JUL-2002 | 02-06-2164X | 02
06 | TX | SAN ANTONIO, CITY OF | 48029C0476E | 07-OCT-2002 | 02-06-2214P | 06
06 | TX | SAN ANTONIO, CITY OF | 48029C0234F | 07-AUG-2002 | 02-06-2224A | 02
06 | TX | SAN ANTONIO, CITY OF | 48029C0243F | 06-SEP-2002 | 02-06-2323A | 02
06 | TX | SAN ANTONIO, CITY OF | 48029C0262F | 04-SEP-2002 | 02-06-2359A | 02
06 | TX | SAN ANTONIO, CITY OF | 48029C0259F | 11-SEP-2002 | 02-06-2414A | 02
06 | TX | SAN ANTONIO, CITY OF | 48029C0405F | 02-OCT-2002 | 02-06-2458A | 02
06 | TX | SAN ANTONIO, CITY OF | 48029C0267F | 25-OCT-2002 | 02-06-252P | 05
06 | TX | SAN ANTONIO, CITY OF | 48029C0257F | 11-OCT-2002 | 02-06-2551A | 02
06 | TX | SAN ANTONIO, CITY OF | 48029C0406F | 09-OCT-2002 | 02-06-2634X | 02
06 | TX | SAN ANTONIO, CITY OF | 48029C0293F | 14-AUG-2002 | 02-06-593A | 02
06 | TX | SAN ANTONIO, CITY OF | 48029C0294E | 02-DEC-2002 | 02-06-633P | 06
06 | TX | SAN ANTONIO, CITY OF | 48029C0140F | 12-JUL-2002 | 02-06-878P | 06
06 | TX | SAN ANTONIO, CITY OF | 48029C0259F | 23-OCT-2002 | 03-06-013A | 02
06 | TX | SAN ANTONIO, CITY OF | 48029C0259F | 06-NOV-2002 | 03-06-122A | 02
06 | TX | SAN ANTONIO, CITY OF | 48029C0477E | 27-NOV-2002 | 03-06-268A | 02
06 | TX | SAN ANTONIO, CITY OF | 48029C0259F | 18-DEC-2002 | 03-06-350A | 02
06 | TX | SAN MARCOS, CITY OF | 48209C0193E | 24-JUL-2002 | 02-06-1891A | 02
06 | TX | SAN MARCOS, CITY OF | 48209C0193E | 18-SEP-2002 | 02-06-2407A | 02
06 | TX | SMITH COUNTY | 4811850300B | 30-OCT-2002 | 03-06-021A | 02
06 | TX | SOUTH LAKE, CITY OF | 48439C0185H | 19-DEC-2002 | 02-06-1098P | 05
06 | TX | SUNNYVALE, TOWN OF | 48113C0380J | 20-SEP-2002 | 02-06-1769A | 02
06 | TX | TARRANT COUNTY | 48439C0535H | 07-AUG-2002 | 02-06-2075A | 02
06 | TX | TARRANT COUNTY | 48439C0165H | 25-OCT-2002 | 02-06-453P | 05
06 | TX | TARRANT COUNTY | 48439C0117H | 20-NOV-2002 | 03-06-024A | 02
06 | TX | TARRANT COUNTY | 48439C0140H | 08-NOV-2002 | 03-06-116A | 02
06 | TX | TRAVIS COUNTY | 48453C0385E | 11-OCT-2002 | 02-06-2104A | 02
06 | TX | TRAVIS COUNTY | 48453C0095F | 04-OCT-2002 | 02-06-2146P | 06
06 | TX | TRAVIS COUNTY | 48453C0390E | 16-AUG-2002 | 02-06-2159A | 02
06 | TX | TRAVIS COUNTY | 48453C0260F | 13-SEP-2002 | 02-06-2408A | 02
06 | TX | TRAVIS COUNTY | 48453C0814F | 27-SEP-2002 | 02-06-2540A | 02
06 | TX | TRAVIS COUNTY | 48453C0260F | 02-OCT-2002 | 02-06-2557A | 02
06 | TX | TRAVIS COUNTY | 48453C0200E | 06-AUG-2002 | 02-06-826P | 06
06 | TX | TRAVIS COUNTY | 48453C0205E | 08-NOV-2002 | 03-06-081A | 02
06 | TX | TRAVIS COUNTY | 48453C0095F | 04-DEC-2002 | 03-06-293A | 02
06 | TX | TRAVIS COUNTY | 48453C0390E | 20-DEC-2002 | 03-06-466A | 02
06 | TX | TRAVIS COUNTY* | 48453C0245E | 30-AUG-2002 | 02-06-1487P | 05
06 | TX | TYLER, CITY OF | 4805710014B | 18-SEP-2002 | 02-06-1979A | 02
06 | TX | UNIVERSAL CITY, CITY OF | 48029C0316E | 17-OCT-2002 | 01-06-1218P | 05
06 | TX | VERNON, CITY OF | 4816520005B | 18-SEP-2002 | 02-06-2480A | 02
06 | TX | VICTORIA, CITY OF | 4806380005G | 20-DEC-2002 | 03-06-269A | 02
06 | TX | WATAUGA, CITY OF | 48439C0282H | 10-JUL-2002 | 02-06-1657A | 02
06 | TX | WATAUGA, CITY OF | 48439C0301H | 26-JUL-2002 | 02-06-1984A | 02
06 | TX | WATAUGA, CITY OF | 48439C0301H | 01-NOV-2002 | 02-06-2600A | 02
06 | TX | WICHITA FALLS, CITY OF | 4806620025E | 17-JUL-2002 | 02-06-2035A | 02
06 | TX | WICHITA FALLS, CITY OF | 4806620030F | 23-OCT-2002 | 02-06-2597A | 02
06 | TX | WILLIAMSON COUNTY | 48491C0115C | 31-JUL-2002 | 02-06-2040A | 02
06 | TX | WINNSBORO, CITY OF | 4806800005B | 11-DEC-2002 | 03-06-303A | 02
06 | TX | WOLFFORTH, CITY OF | 48303C0400D | 20-SEP-2002 | 02-06-2455A | 2
06 | TX | WOLFFORTH, CITY OF | 48303C0275D | 15-OCT-2002 | 02-06-2564P | 5
06 | TX | WOLFFORTH, CITY OF | 48303C0290D | 15-OCT-2002 | 02-06-2564P | 5
06 | TX | WOLFFORTH, CITY OF | 48303C0400D | 15-OCT-2002 | 02-06-2564P | 5
06 | TX | WOOD COUNTY | 4810550009A | 17-JUL-2002 | 02-06-2063A | 02
06 | TX | WOOD COUNTY | 4810550004A | 08-NOV-2002 | 03-06-131A | 02
06 | TX | WYLIE, CITY OF | 48085C0465H | 12-SEP-2002 | 02-06-1533P | 06
06 | TX | WYLIE, CITY OF | 48085C0470G | 03-JUL-2002 | 02-06-1880A | 02
06 | TX | WYLIE, CITY OF | 48085C0470G | 12-JUL-2002 | 02-06-1905A | 02
06 | TX | ZAPATA COUNTY | 4806870011A | 30-OCT-2002 | 02-06-2471A | 02
07 | IA | ANKENY, CITY OF | 1902260003C | 18-SEP-2002 | 02-07-1081A | 02
07 | IA | ANKENY, CITY OF | 1902260003C | 20-DEC-2002 | 03-07-040A | 01
07 | IA | BETTENDORF, CITY OF | 1902400004D | 18-SEP-2002 | 02-07-1088A | 02
07 | IA | BETTENDORF, CITY OF | 1902400004D | 18-SEP-2002 | 02-07-1089A | 17
07 | IA | BLACK HAWK COUNTY | 1905350050B | 04-DEC-2002 | 03-07-182A | 02
07 | IA | CEDAR FALLS, CITY OF | 1900170004B | 15-NOV-2002 | 02-07-966A | 01
07 | IA | CEDAR RAPIDS, CITY OF | 1901870025B | 09-OCT-2002 | 02-07-1119A | 02
07 | IA | CEDAR RAPIDS, CITY OF | 1901870030B | 04-OCT-2002 | 02-07-936A | 01
07 | IA | CEDAR RAPIDS, CITY OF | 1901870020B | 20-NOV-2002 | 03-07-162A | 02
07 | IA | CLEAR LAKE, CITY OF | 1900590003B | 02-OCT-2002 | 02-07-944A | 02
07 | IA | CLEAR LAKE, CITY OF | 1900590001B | 27-DEC-2002 | 03-07-265A | 02
07 | IA | CLINTON COUNTY | 19085901B | 12-JUL-2002 | 02-07-867A | 02
07 | IA | CLINTON COUNTY | 19085929B | 21-AUG-2002 | 02-07-891A | 01
07 | IA | CLINTON, CITY OF | 1900880015C | 17-JUL-2002 | 02-07-888A | 02
07 | IA | CLINTON, CITY OF | 1900880015C | 21-AUG-2002 | 02-07-924A | 01
07 | IA | CLIVE, CITY OF | 1904880010C | 30-OCT-2002 | 03-07-065A | 02
07 | IA | COUNCIL BLUFFS, CITY OF | 1902350005D | 31-JUL-2002 | 02-07-869A | 02
07 | IA | DECORAH, CITY OF | 190532—05A | 16-AUG-2002 | 02-07-702A | 02
07 | IA | DES MOINES COUNTY | 1901130089B | 06-DEC-2002 | 03-07-086A | 02
07 | IA | DES MOINES, CITY OF | 1902270009E | 04-OCT-2002 | 02-07-1155A | 02
07 | IA | DES MOINES, CITY OF | 1902270004D | 30-AUG-2002 | 02-07-986A | 01
07 | IA | DES MOINES, CITY OF | 1902270004D | 18-OCT-2002 | 03-07-002A | 02
07 | IA | DICKINSON COUNTY | 1908640050C | 04-OCT-2002 | 02-07-1121A | 02
07 | IA | DICKINSON COUNTY | 1908640050C | 04-OCT-2002 | 02-07-1141A | 02
07 | IA | DICKINSON COUNTY | 1908640025C | 12-JUL-2002 | 02-07-878A | 02
07 | IA | DICKINSON COUNTY | 1908640050C | 18-OCT-2002 | 03-07-003A | 02
07 | IA | DICKINSON COUNTY | 1908640025C | 25-OCT-2002 | 03-07-046A | 02
07 | IA | DICKINSON COUNTY | 1908640050C | 08-NOV-2002 | 03-07-057A | 02
07 | IA | ELGIN, CITY OF | 1901250001C | 14-AUG-2002 | 02-07-960A | 02
07 | IA | GRIMES, CITY OF | 1902280001B | 06-SEP-2002 | 02-07-977A | 02
07 | IA | GUTHRIE COUNTY | 1908710004B | 16-AUG-2002 | 02-07-989A | 02
07 | IA | HARVEY, CITY OF | 190455—01A | 27-DEC-2002 | 03-07-062A | 02
07 | IA | INDEPENDENCE, CITY OF | 1900310001C | 02-AUG-2002 | 02-07-855A | 02
07 | IA | IOWA CITY, CITY OF | 19103C0090D | 21-AUG-2002 | 00-07-505V | 19
07 | IA | IOWA CITY, CITY OF | 19103C0130D | 21-AUG-2002 | 00-07-505V | 19
07 | IA | IOWA CITY, CITY OF | 19103C0090D | 13-NOV-2002 | 03-07-140A | 02
07 | IA | JOHNSON COUNTY | 19103C0040D | 20-AUG-2002 | 00-07-505V | 19
07 | IA | JOHNSON COUNTY | 19103C0055D | 20-AUG-2002 | 00-07-505V | 19
07 | IA | JOHNSON COUNTY | 19103C0080D | 20-AUG-2002 | 00-07-505V | 19
07 | IA | JOHNSON COUNTY | 19103C0125D | 20-AUG-2002 | 00-07-505V | 19
07 | IA | JONES COUNTY | 1909190225B | 22-NOV-2002 | 03-07-006A | 02
07 | IA | LE CLAIRE, CITY OF | 1902430001B | 02-AUG-2002 | 02-07-890A | 02
07 | IA | LE MARS, CITY OF | 1902250001B | 04-OCT-2002 | 02-07-1154A | 02
07 | IA | LINN COUNTY | 1908290025B | 13-NOV-2002 | 03-07-127A | 17
07 | IA | MARION, CITY OF | 1901910001B | 08-NOV-2002 | 02-07-1094A | 02
07 | IA | MARION, CITY OF | 1901910001B | 25-SEP-2002 | 02-07-1120A | 02
07 | IA | MARSHALLTOWN, CITY OF | 1902000004B | 27-NOV-2002 | 03-07-171A | 02
07 | IA | MASON CITY, CITY OF | 1900600002B | 16-AUG-2002 | 02-07-549A | 01
07 | IA | MISSOURI VALLEY, CITY OF | 1901470001B | 18-DEC-2002 | 03-07-233A | 01
07 | IA | MITCHELL COUNTY | 1908920005B | 02-OCT-2002 | 02-07-889A | 02
07 | IA | MUSCATINE COUNTY | 1908360325B | 23-OCT-2002 | 02-07-1004A | 02
07 | IA | NORWALK, CITY OF | 19181C0010D | 04-SEP-2002 | 02-07-1036A | 02
07 | IA | PATTERSON,CITY OF | 190451—01A | 23-AUG-2002 | 02-07-975A | 02
07 | IA | POTTAWATTAMIE COUNTY | 1902320226B | 03-JUL-2002 | 02-07-554A | 02
07 | IA | POTTAWATTAMIE COUNTY | 1902320150B | 17-JUL-2002 | 02-07-898A | 02
07 | IA | REMSEN, CITY OF | 190480—01A | 18-DEC-2002 | 03-07-191A | 02
07 | IA | SPENCER, CITY OF | 1900710005B | 28-AUG-2002 | 02-07-1044A | 02
07 | IA | SPENCER, CITY OF | 1900710005B | 26-JUL-2002 | 02-07-921A | 02
07 | IA | SPENCER, CITY OF | 1900710005B | 16-AUG-2002 | 02-07-997A | 02
07 | IA | SPENCER, CITY OF | 1900710005B | 20-NOV-2002 | 03-07-152A | 02
07 | IA | SPENCER, CITY OF | 1900710005B | 22-NOV-2002 | 03-07-168A | 02
07 | IA | STORY COUNTY | 1909070015B | 20-SEP-2002 | 02-07-1069A | 02
07 | IA | STORY COUNTY | 1909070100B | 15-NOV-2002 | 02-07-1132A | 02
07 | IA | STORY COUNTY | 1909070050B | 15-NOV-2002 | 03-07-059A | 02
07 | IA | SWISHER, CITY OF | 19103C0016D | 21-AUG-2002 | 00-07-505V | 19
07 | IA | TIFFIN, CITY OF | 19103C0070D | 21-AUG-2002 | 00-07-505V | 19
07 | IA | URBANDALE, CITY OF | 1902300010D | 23-AUG-2002 | 02-07-978A | 01
07 | IA | VOLGA, CITY OF | 19008501B | 25-SEP-2002 | 02-07-824A | 02
07 | IA | WAVERLY, CITY OF | 19017C0054C | 17-JUL-2002 | 02-07-866A | 02
07 | IA | WINDSOR HEIGHTS, CITY OF | 1906870001B | 18-JUL-2002 | 02-07-517A | 02
07 | IA | WYOMING,CITY OF | 1904340001B | 23-AUG-2002 | 02-07-811A | 02
07 | KS | ALTOONA, CITY OF | 200382—01B | 04-OCT-2002 | 02-07-923A | 02
07 | KS | ANDOVER, CITY OF | 2003830230D | 19-SEP-2002 | 01-07-634V | 19
07 | KS | ANDOVER, CITY OF | 2003830230D | 23-OCT-2002 | 02-07-1039A | 02
07 | KS | ANDOVER, CITY OF | 2003830165D | 18-OCT-2002 | 03-07-009A | 02
07 | KS | BARTON COUNTY | 2000160365C | 17-JUL-2002 | 02-07-895A | 02
07 | KS | BASEHOR, CITY OF | 200187—01B | 27-SEP-2002 | 02-07-927A | 02
07 | KS | BURLINGTON, CITY OF | 2000630001D | 28-AUG-2002 | 02-07-1033A | 02
07 | KS | BUTLER COUNTY | 2000370240C | 16-OCT-2002 | 02-07-1160A | 17
07 | KS | CHEROKEE COUNTY | 2000440300B | 25-OCT-2002 | 02-07-1170A | 02
07 | KS | CHEROKEE COUNTY | 2000440300B | 27-NOV-2002 | 02-07-1171A | 02
07 | KS | COFFEY COUNTY | 2000620003A | 27-DEC-2002 | 02-07-965A | 02
07 | KS | COWLEY COUNTY | 2005630235B | 27-NOV-2002 | 03-07-018A | 02
07 | KS | DERBY, CITY OF | 2003210300A | 29-OCT-2002 | 02-07-1163P | 6
07 | KS | DERBY, CITY OF | 2003230001C | 29-OCT-2002 | 02-07-1163P | 6
07 | KS | DERBY, CITY OF | 2003230002C | 29-OCT-2002 | 02-07-1163P | 6
07 | KS | ELLIS COUNTY | 2000940180B | 25-OCT-2002 | 03-07-005A | 02
07 | KS | EUDORA, CITY OF | 20045C0044C | 02-AUG-2002 | 02-07-940A | 02
07 | KS | GEARY COUNTY | 2005790100C | 09-OCT-2002 | 02-07-1152A | 02
07 | KS | GREAT BEND, CITY OF | 2000190020C | 15-NOV-2002 | 03-07-087A | 02
07 | KS | HALSTEAD, CITY OF | 2001310001D | 28-AUG-2002 | 02-07-1043A | 17
07 | KS | HALSTEAD, CITY OF | 2001310001D | 30-AUG-2002 | 02-07-1046A | 01
07 | KS | HARVEY COUNTY | 2005850125D | 13-SEP-2002 | 02-07-1116A | 01
07 | KS | HARVEY COUNTY | 2005850125D | 08-JUL-2002 | 02-07-766A | 01
07 | KS | IOLA, CITY OF | 20001C0105D | 27-NOV-2002 | 03-07-044A | 01
07 | KS | IOLA, CITY OF | 20001C0085D | 22-NOV-2002 | 03-07-160A | 02
07 | KS | KINGMAN COUNTY | 2005890006B | 20-DEC-2002 | 02-07-774A | 02
07 | KS | KINSLEY, CITY OF | 2000920001B | 04-OCT-2002 | 02-07-951A | 02
07 | KS | LAWRENCE, CITY OF | 20045C0036C | 28-AUG-2002 | 02-07-1048A | 02
07 | KS | LAWRENCE, CITY OF | 20045C0076C | 02-AUG-2002 | 02-07-288A | 01
07 | KS | LAWRENCE, CITY OF | 20045C0038C | 03-JUL-2002 | 02-07-853A | 02
07 | KS | LAWRENCE, CITY OF | 20045C0037C | 10-JUL-2002 | 02-07-876A | 02
07 | KS | LAWRENCE, CITY OF | 20045C0036C | 02-AUG-2002 | 02-07-933A | 02
07 | KS | LAWRENCE, CITY OF | 20045C0036C | 16-AUG-2002 | 02-07-974A | 02
07 | KS | LAWRENCE, CITY OF | 20045C0039C | 27-NOV-2002 | 03-07-069A | 02
07 | KS | LAWRENCE, CITY OF | 20045C0037C | 04-DEC-2002 | 03-07-208A | 02
07 | KS | LAWRENCE, CITY OF | 20045C0036C | 11-DEC-2002 | 03-07-222A | 02
07 | KS | LAWRENCE, CITY OF | 20045C0019C | 27-DEC-2002 | 03-07-238A | 02
07 | KS | LAWRENCE, CITY OF | 20045C0019C | 13-DEC-2002 | 03-07-240A | 17
07 | KS | LEAVENWORTH COUNTY | 2001860125D | 23-NOV-2002 | 03-07-026A | 02
07 | KS | LEAWOOD, CITY OF | 20091C0236F | 27-DEC-2002 | 03-07-281A | 02
07 | KS | LEAWOOD, CITY OF | 20091C0236F | 27-DEC-2002 | 03-07-281A | 02
07 | KS | LENEXA, CITY OF | 20091C0185F | 19-SEP-2002 | 02-07-1010P | 05
07 | KS | LENEXA, CITY OF | 20091C0201F | 19-SEP-2002 | 02-07-1010P | 05
07 | KS | LENEXA, CITY OF | 20091C0184F | 22-NOV-2002 | 03-07-100A | 02
07 | KS | LYON COUNTY | 2002010150B | 20-DEC-2002 | 02-07-938A | 02
07 | KS | LYON COUNTY | 2002010125B | 02-OCT-2002 | 02-07-947A | 02
07 | KS | MCPHERSON COUNTY | 2002140175B | 10-JUL-2002 | 02-07-782A | 02
07 | KS | MCPHERSON, CITY OF | 2002170015D | 24-JUL-2002 | 02-07-904A | 02
07 | KS | MCPHERSON, CITY OF | 2002170005D | 08-NOV-2002 | 03-07-021A | 02
07 | KS | MCPHERSON, CITY OF | 2002170005D | 20-NOV-2002 | 03-07-130A | 02
07 | KS | NEWTON, CITY OF | 2005850125D | 10-SEP-2002 | 02-07-1008P | 06
07 | KS | NEWTON, CITY OF | 2001330005C | 14-AUG-2002 | 02-07-682A | 02
07 | KS | NEWTON, CITY OF | 2001330005C | 14-AUG-2002 | 02-07-970A | 02
07 | KS | NEWTON, CITY OF | 2001330005C | 22-NOV-2002 | 03-07-150A | 02
07 | KS | NICKERSON, CITY OF | 20155C0090D | 27-SEP-2002 | 02-07-1133A | 02
07 | KS | OLATHE, CITY OF | 20091C0306F | 16-AUG-2002 | 02-07-976A | 17
07 | KS | OVERLAND PARK, CITY OF | 20091C0208F | 18-SEP-2002 | 02-07-1090A | 17
07 | KS | OVERLAND PARK, CITY OF | 20091C0204F | 25-SEP-2002 | 02-07-1108A | 02
07 | KS | OVERLAND PARK, CITY OF | 20091C0209F | 11-DEC-2002 | 03-07-085A | 02
07 | KS | OVERLAND PARK, CITY OF | 20091C0331F | 13-NOV-2002 | 03-07-093A | 17
07 | KS | OVERLAND PARK, CITY OF | 20091C0204F | 27-NOV-2002 | 03-07-177A | 02
07 | KS | OVERLAND PARK, CITY OF | 20091C0331F | 27-NOV-2002 | 03-07-183A | 02
07 | KS | OVERLAND PARK, CITY OF | 20091C0331F | 27-NOV-2002 | 03-07-192A | 17
07 | KS | PARK CITY, CITY OF | 2003210150A | 20-SEP-2002 | 02-07-880A | 01
07 | KS | POTTAWATOMIE COUNTY | 2006210235D | 23-AUG-2002 | 02-07-804A | 02
07 | KS | PRAIRIE VILLAGE, CITY OF | 20091C0094F | 30-OCT-2002 | 03-07-045A | 02
07 | KS | RENO COUNTY | 20155C0315D | 28-AUG-2002 | 02-07-1038A | 02
07 | KS | RENO COUNTY | 20155C0315D | 18-SEP-2002 | 02-07-1099A | 02
07 | KS | RENO COUNTY | 20155C0315D | 16-AUG-2002 | 02-07-969A | 02
07 | KS | RICE COUNTY | 2002900008C | 15-NOV-2002 | 02-07-1164A | 02
07 | KS | RILEY COUNTY | 2002980225B | 21-NOV-2002 | 02-07-666P | 05
07 | KS | RILEY, CITY OF | 2003030001B | 21-NOV-2002 | 02-07-667P | 05
07 | KS | ROELAND PARK, CITY OF | 20091C0094F | 18-DEC-2002 | 03-07-205A | 02
07 | KS | SALINA, CITY OF | 2003160060B | 16-AUG-2002 | 02-07-1006A | 02
07 | KS | SALINA, CITY OF | 2003190005B | 04-SEP-2002 | 02-07-1026A | 02
07 | KS | SALINA, CITY OF | 2003190005B | 28-AUG-2002 | 02-07-1028A | 02
07 | KS | SALINA, CITY OF | 2003190015B | 28-AUG-2002 | 02-07-1050A | 02
07 | KS | SALINA, CITY OF | 2003190015B | 30-AUG-2002 | 02-07-1064A | 02
07 | KS | SALINA, CITY OF | 2003190005B | 11-SEP-2002 | 02-07-1076A | 02
07 | KS | SALINA, CITY OF | 2003190015B | 20-SEP-2002 | 02-07-1078A | 02
07 | KS | SALINA, CITY OF | 2003160060B | 02-OCT-2002 | 02-07-1085A | 02
07 | KS | SALINA, CITY OF | 2003190015B | 18-SEP-2002 | 02-07-1097A | 02
07 | KS | SALINA, CITY OF | 2003160060B | 25-SEP-2002 | 02-07-1123A | 02
07 | KS | SALINA, CITY OF | 2003190015B | 27-SEP-2002 | 02-07-1134A | 02
07 | KS | SALINA, CITY OF | 2003190015B | 06-NOV-2002 | 02-07-1135A | 02
07 | KS | SALINA, CITY OF | 2003190015B | 02-OCT-2002 | 02-07-1136A | 02
07 | KS | SALINA, CITY OF | 2003190015B | 02-OCT-2002 | 02-07-1149A | 02
07 | KS | SALINA, CITY OF | 2003190015B | 04-OCT-2002 | 02-07-1159A | 02
07 | KS | SALINA, CITY OF | 2003190015B | 02-OCT-2002 | 02-07-1161A | 02
07 | KS | SALINA, CITY OF | 2003190015B | 04-OCT-2002 | 02-07-1162A | 02
07 | KS | SALINA, CITY OF | 2003160060B | 09-OCT-2002 | 02-07-1174X | 02
07 | KS | SALINA, CITY OF | 2003190015B | 24-JUL-2002 | 02-07-696A | 02
07 | KS | SALINA, CITY OF | 2003190015B | 03-JUL-2002 | 02-07-843A | 02
07 | KS | SALINA, CITY OF | 2003190015B | 12-JUL-2002 | 02-07-844A | 02
07 | KS | SALINA, CITY OF | 2003190015B | 19-JUL-2002 | 02-07-847A | 02
07 | KS | SALINA, CITY OF | 2003190015B | 10-JUL-2002 | 02-07-848A | 02
07 | KS | SALINA, CITY OF | 2003190015B | 03-JUL-2002 | 02-07-852A | 02
07 | KS | SALINA, CITY OF | 2003190015B | 12-JUL-2002 | 02-07-883A | 02
07 | KS | SALINA, CITY OF | 2003190015B | 02-AUG-2002 | 02-07-950A | 02
07 | KS | SALINA, CITY OF | 2003190015B | 16-AUG-2002 | 02-07-972A | 02
07 | KS | SALINA, CITY OF | 2003160060B | 02-OCT-2002 | 02-07-996A | 02
07 | KS | SALINA, CITY OF | 2003190015B | 18-OCT-2002 | 03-07-001A | 02
07 | KS | SALINA, CITY OF | 2003190015B | 25-OCT-2002 | 03-07-034A | 02
07 | KS | SALINA, CITY OF | 2003190015B | 25-OCT-2002 | 03-07-035A | 02
07 | KS | SALINA, CITY OF | 2003190015B | 25-OCT-2002 | 03-07-043A | 02
07 | KS | SALINA, CITY OF | 2003190015B | 30-OCT-2002 | 03-07-052A | 02
07 | KS | SALINA, CITY OF | 2003160060B | 06-NOV-2002 | 03-07-072A | 02
07 | KS | SALINA, CITY OF | 2003190015B | 15-NOV-2002 | 03-07-135A | 02
07 | KS | SALINA, CITY OF | 2003190015B | 15-NOV-2002 | 03-07-136A | 02
07 | KS | SALINA, CITY OF | 2003160060B | 22-NOV-2002 | 03-07-156A | 02
07 | KS | SALINA, CITY OF | 2003160060B | 11-DEC-2002 | 03-07-220A | 02
07 | KS | SALINA, CITY OF | 2003190015B | 27-DEC-2002 | 03-07-231A | 02
07 | KS | SALINA, CITY OF | 2003190015B | 11-DEC-2002 | 03-07-245A | 02
07 | KS | SALINA, CITY OF | 2003190015B | 18-DEC-2002 | 03-07-256A | 02
07 | KS | SALINE COUNTY | 2003160100B | 25-SEP-2002 | 02-07-1124A | 02
07 | KS | SALINE COUNTY | 2003160100B | 18-DEC-2002 | 02-07-1128A | 01
07 | KS | SALINE COUNTY | 2003160060B | 13-DEC-2002 | 03-07-008A | 02
07 | KS | SALINE COUNTY | 2003160100B | 08-NOV-2002 | 03-07-020A | 02
07 | KS | SALINE COUNTY | 2003160065B | 13-NOV-2002 | 03-07-030A | 02
07 | KS | SALINE COUNTY | 2003160100B | 30-OCT-2002 | 03-07-054A | 02
07 | KS | SALINE COUNTY | 2003160060B | 13-NOV-2002 | 03-07-084A | 02
07 | KS | SALINE COUNTY | 2003160070B | 18-DEC-2002 | 03-07-197A | 02
07 | KS | SEDGWICK COUNTY | 2003210300A | 29-OCT-2002 | 02-07-1163P | 6
07 | KS | SEDGWICK COUNTY | 2003210225A | 09-OCT-2002 | 02-07-1111A | 02
07 | KS | SEDGWICK COUNTY | 2003210250A | 17-JUL-2002 | 02-07-637A | 02
07 | KS | SEDGWICK COUNTY | 2003210300A | 11-SEP-2002 | 02-07-939A | 02
07 | KS | SHAWNEE COUNTY | 2003310135D | 16-AUG-2002 | 02-07-851A | 02
07 | KS | SHAWNEE COUNTY | 2003310100C | 21-AUG-2002 | 02-07-905A | 02
07 | KS | SHAWNEE, CITY OF | 20091C0185F | 19-SEP-2002 | 02-07-1010P | 05
07 | KS | SHAWNEE, CITY OF | 20091C0201F | 19-SEP-2002 | 02-07-1010P | 05
07 | KS | SHAWNEE, CITY OF | 20091C0065F | 13-NOV-2002 | 03-07-064A | 01
07 | KS | SOLOMON, CITY OF | 20041C0061C | 10-JUL-2002 | 02-07-859A | 02
07 | KS | ST. GEORGE, CITY OF | 2002740001B | 17-JUL-2002 | 02-07-764A | 02
07 | KS | SUMNER COUNTY | 20191C0600B | 23-OCT-2002 | 02-07-1083A | 02
07 | KS | SUMNER COUNTY | 20191C0140B | 23-AUG-2002 | 02-07-841A | 02
07 | KS | TONGANOXIE, CITY OF | 2001920001C | 04-OCT-2002 | 02-07-1104A | 02
07 | KS | TOPEKA, CITY OF | 2003310095C | 11-DEC-2002 | 02-07-1091A | 01
07 | KS | TOPEKA, CITY OF | 2051870014C | 18-OCT-2002 | 03-07-011A | 02
07 | KS | TOPEKA, CITY OF | 2051870014C | 27-NOV-2002 | 03-07-131A | 02
07 | KS | TOPEKA, CITY OF | 2051870014C | 13-DEC-2002 | 03-07-137A | 02
07 | KS | WICHITA, CITY OF | 2003280035B | 28-AUG-2002 | 02-07-1051A | 02
07 | KS | WICHITA, CITY OF | 2003280010B | 06-SEP-2002 | 02-07-1053A | 02
07 | KS | WICHITA, CITY OF | 2003280025B | 06-DEC-2002 | 02-07-250P | 05
07 | KS | WICHITA, CITY OF | 2003280035B | 17-JUL-2002 | 02-07-877A | 02
07 | KS | WICHITA, CITY OF | 2003210225A | 16-AUG-2002 | 02-07-913A | 02
07 | KS | WICHITA, CITY OF | 2003280015B | 19-JUL-2002 | 02-07-918A | 02
07 | KS | WICHITA, CITY OF | 2003280015B | 16-AUG-2002 | 02-07-999A | 02
07 | KS | WICHITA, CITY OF | 2003280030B | 06-NOV-2002 | 03-07-075A | 02
07 | KS | WICHITA, CITY OF | 2003210200A | 13-NOV-2002 | 03-07-094A | 02
07 | KS | WICHITA, CITY OF | 2003280035B | 15-NOV-2002 | 03-07-095A | 02
07 | KS | WICHITA, CITY OF | 2003280020B | 22-NOV-2002 | 03-07-163A | 02
07 | KS | WICHITA, CITY OF | 2003280035B | 27-NOV-2002 | 03-07-196A | 02
07 | KS | WICHITA, CITY OF | 2003280030B | 13-DEC-2002 | 03-07-249A | 02
07 | KS | WICHITA, CITY OF | 2003280035B | 11-DEC-2002 | 03-07-250A | 02
07 | KS | WICHITA, CITY OF | 2003210150A | 27-DEC-2002 | 03-07-255A | 02
07 | MO | ANDERSON, CITY OF | 2908170025B | 30-AUG-2002 | 02-07-610A | 01
07 | MO | ANDERSON, CITY OF | 2908170050B | 30-AUG-2002 | 02-07-610A | 01
07 | MO | ARNOLD, CITY OF | 2901880001C | 21-AUG-2002 | 02-07-1029A | 02
07 | MO | ARNOLD, CITY OF | 2901880001C | 27-NOV-2002 | 02-07-1084A | 17
07 | MO | ARNOLD, CITY OF | 2901880003C | 27-SEP-2002 | 02-07-1130A | 02
07 | MO | BLUE SPRINGS, CITY OF | 2901690005C | 06-NOV-2002 | 03-07-055A | 02
07 | MO | BOONE COUNTY | 2900340025B | 20-NOV-2002 | 02-07-1127A | 02
07 | MO | CAMDEN COUNTY | 2907890006B | 06-SEP-2002 | 02-07-991A | 02
07 | MO | CAMDEN COUNTY | 2907890005B | 06-DEC-2002 | 03-07-199A | 02
07 | MO | CAMDEN COUNTY | 2907890002B | 11-DEC-2002 | 03-07-201A | 02
07 | MO | CAPE GIRARDEAU, CITY OF | 2904580006B | 18-OCT-2002 | 02-07-1080A | 01
07 | MO | CAPE GIRARDEAU, CITY OF | 2904580004B | 08-NOV-2002 | 02-07-1156A | 02
07 | MO | CARUTHERSVILLE, CITY OF | 2902750001B | 09-OCT-2002 | 02-07-1158A | 02
07 | MO | CASS COUNTY | 2907830050C | 04-OCT-2002 | 02-07-1059A | 02
07 | MO | CASS COUNTY | 2907830050C | 27-DEC-2002 | 03-07-022A | 02
07 | MO | CASS COUNTY | 2907830125B | 20-DEC-2002 | 03-07-185A | 02
07 | MO | CHESTERFIELD, CITY OF | 29189C0145H | 31-JUL-2002 | 02-07-594A | 17
07 | MO | CHESTERFIELD, CITY OF | 29189C0140H | 17-JUL-2002 | 02-07-884A | 01
07 | MO | CHRISTIAN COUNTY | 2908470003A | 16-AUG-2002 | 02-07-849A | 02
07 | MO | CHRISTIAN COUNTY | 2908470005A | 23-AUG-2002 | 02-07-875A | 02
07 | MO | CLAY COUNTY | 2900960004B | 19-JUL-2002 | 02-07-872A | 02
07 | MO | CLAYTON, CITY OF | 29189C0188H | 06-SEP-2002 | 02-07-922A | 02
07 | MO | COLE COUNTY | 2901070025B | 13-NOV-2002 | 03-07-014A | 02
07 | MO | COLUMBIA, CITY OF | 2900360010B | 25-SEP-2002 | 02-07-1074A | 02
07 | MO | COOL VALLEY, VILLAGE OF | 29189C0181H | 23-OCT-2002 | 02-07-1086A | 17
07 | MO | COOL VALLEY, VILLAGE OF | 29189C0181H | 08-NOV-2002 | 03-07-129X | 17
07 | MO | CREVE COEUR, CITY OF | 29189C0161H | 10-JUL-2002 | 02-07-897X | 01
07 | MO | CRYSTAL CITY,CITY OF | 2901890005C | 27-AUG-2002 | 02-07-790P | 06
07 | MO | DES PERES, CITY OF | 29189C0279J | 08-NOV-2002 | 03-07-039A | 01
07 | MO | ELLISVILLE, CITY OF | 29189C0252H | 16-AUG-2002 | 02-07-929A | 02
07 | MO | EUREKA, CITY OF | 29189C0244H | 31-JUL-2002 | 02-07-743A | 02
07 | MO | FLORISSANT, CITY OF | 29189C0062J | 11-SEP-2002 | 02-07-879A | 02
07 | MO | FRONTENAC, CITY OF | 29189C0281J | 30-AUG-2002 | 02-07-857A | 02
07 | MO | GLADSTONE, CITY OF | 2900910003C | 20-SEP-2002 | 02-07-1075A | 02
07 | MO | GREENE COUNTY | 2907820070C | 19-OCT-2002 | 98-07-540V | 19
07 | MO | GREENE COUNTY | 2907820095D | 19-OCT-2002 | 98-07-540V | 19
07 | MO | GREENE COUNTY | 2907820125C | 19-OCT-2002 | 98-07-540V | 19
07 | MO | GREENE COUNTY | 2907820130C | 19-OCT-2002 | 98-07-540V | 19
07 | MO | GREENE COUNTY | 2907820045B | 16-OCT-2002 | 02-07-1117A | 02
07 | MO | GREENE COUNTY | 2907820105B | 23-OCT-2002 | 02-07-1147A | 17
07 | MO | GREENE COUNTY | 2907820125B | 18-SEP-2002 | 02-07-994C | 01
07 | MO | HOLT COUNTY | 29087C0020B | 31-JUL-2002 | 02-07-633A | 01
07 | MO | INDEPENDENCE,CITY OF | 2901720020E | 01-NOV-2002 | 02-07-983A | 02
07 | MO | JACKSON, CITY OF | 2952650001C | 20-SEP-2002 | 02-07-1034A | 01
07 | MO | JASPER COUNTY | 2908070095B | 04-SEP-2002 | 02-07-1066A | 02
07 | MO | JEFFERSON COUNTY | 2908080120D | 07-AUG-2002 | 98-07-715V | 19
07 | MO | JEFFERSON COUNTY | 2908080080C | 02-OCT-2002 | 02-07-1068A | 02
07 | MO | JEFFERSON COUNTY | 2908080095C | 31-JUL-2002 | 02-07-874A | 02
07 | MO | JEFFERSON COUNTY | 2908080120D | 20-DEC-2002 | 03-07-096A | 02
07 | MO | JEFFERSON COUNTY | 2908080020B | 18-DEC-2002 | 03-07-110A | 02
07 | MO | JEFFERSON COUNTY | 2908080120D | 18-DEC-2002 | 03-07-194A | 02
07 | MO | JEFFERSON COUNTY | 2908080085C | 20-DEC-2002 | 03-07-226A | 01
07 | MO | JOHNSON COUNTY | 2908090250A | 02-AUG-2002 | 02-07-881A | 02
07 | MO | KANSAS CITY, CITY OF | 2901730025B | 06-SEP-2002 | 02-07-1058A | 02
07 | MO | LAKE LOTAWANA, CITY OF | 2906970001A | 12-JUL-2002 | 02-07-885A | 02
07 | MO | LEE'S SUMMIT, CITY OF | 2901740005C | 12-AUG-2002 | 02-07-665P | 06
07 | MO | LEE'S SUMMIT, CITY OF | 2901740008C | 31-JUL-2002 | 02-07-937A | 02
07 | MO | LIBERTY, CITY OF | 2900960001B | 10-JUL-2002 | 02-07-861A | 02
07 | MO | MARYLAND HEIGHTS, CITY OF | 29189C0158H | 04-OCT-2002 | 02-07-1122A | 02
07 | MO | MCDONALD COUNTY | 2908170100B | 01-NOV-2002 | 03-07-032A | 02
07 | MO | MEXICO, CITY OF | 2952670003B | 17-JUL-2002 | 02-07-899A | 02
07 | MO | MILLER COUNTY | 2902260200A | 19-JUL-2002 | 02-07-871A | 02
07 | MO | MILLER COUNTY | 2902260200A | 04-DEC-2002 | 03-07-056A | 02
07 | MO | MORGAN COUNTY | 2902440200B | 18-OCT-2002 | 03-07-010A | 02
07 | MO | MORGAN COUNTY | 2902440200B | 20-DEC-2002 | 03-07-217A | 02
07 | MO | NEWTON COUNTY | 2908200110C | 17-JUL-2002 | 02-07-902A | 02
07 | MO | NEWTON COUNTY | 2908200130B | 18-DEC-2002 | 03-07-253A | 02
07 | MO | O'FALLON, CITY OF | 29183C0430E | 13-SEP-2002 | 02-07-1037A | 01
07 | MO | O'FALLON, CITY OF | 29183C0239E | 18-OCT-2002 | 02-07-1060A | 01
07 | MO | O'FALLON, CITY OF | 29183C0241E | 11-SEP-2002 | 02-07-1071A | 01
07 | MO | O'FALLON, CITY OF | 29183C0430E | 02-OCT-2002 | 02-07-1072A | 01
07 | MO | O'FALLON, CITY OF | 29183C0239E | 06-SEP-2002 | 02-07-675P | 06
07 | MO | O'FALLON, CITY OF | 29183C0430E | 10-JUL-2002 | 02-07-829A | 01
07 | MO | O'FALLON, CITY OF | 29183C0239E | 14-AUG-2002 | 02-07-964A | 17
07 | MO | O'FALLON, CITY OF | 29183C0230E | 23-OCT-2002 | 03-07-004A | 02
07 | MO | O'FALLON, CITY OF | 29183C0239E | 13-NOV-2002 | 03-07-076A | 01
07 | MO | OSAGE BEACH, CITY OF | 2907890007B | 31-JUL-2002 | 02-07-920A | 02
07 | MO | OZARK, CITY OF | 2908470003A | 19-SEP-2002 | 01-07-472P | 06
07 | MO | PACIFIC, CITY OF | 2901340001C | 19-JUL-2002 | 02-07-568A | 02
07 | MO | PACIFIC, CITY OF | 2901340001C | 19-JUL-2002 | 02-07-833A | 02
07 | MO | PACIFIC, CITY OF | 2901340001C | 09-OCT-2002 | 02-07-958A | 02
07 | MO | POPLAR BLUFF, CITY OF | 2900470002C | 07-AUG-2002 | 02-07-655A | 01
07 | MO | POPLAR BLUFF, CITY OF | 2900470004C | 08-NOV-2002 | 03-07-012A | 01
07 | MO | REYNOLDS COUNTY | 2908290200A | 25-SEP-2002 | 02-07-1032A | 02
07 | MO | ST. CHARLES COUNTY | 29183C0435E | 11-OCT-2002 | 02-07-887A | 02
07 | MO | ST. CHARLES COUNTY | 29183C0451E | 27-NOV-2002 | 03-07-158A | 02
07 | MO | ST. CHARLES, CITY OF | 29183C0260E | 20-DEC-2002 | 02-07-1106A | 01
07 | MO | ST. CHARLES, CITY OF | 29183C0260E | 10-JUL-2002 | 02-07-850A | 01
07 | MO | ST. CHARLES, CITY OF | 29183C0267E | 10-JUL-2002 | 02-07-870A | 02
07 | MO | ST. CHARLES, CITY OF | 29183C0286E | 26-JUL-2002 | 02-07-886A | 02
07 | MO | ST. CHARLES, CITY OF | 29183C0267E | 31-JUL-2002 | 02-07-916A | 01
07 | MO | ST. CHARLES, CITY OF | 29183C0267E | 27-NOV-2002 | 03-07-179A | 02
07 | MO | ST. LOUIS COUNTY | 29189C0267H | 16-AUG-2002 | 02-07-1005A | 17
07 | MO | ST. LOUIS COUNTY | 29189C0315H | 01-NOV-2002 | 02-07-1052A | 02
07 | MO | ST. LOUIS COUNTY | 29189C0405H | 30-OCT-2002 | 02-07-1166A | 01
07 | MO | ST. LOUIS COUNTY | 29189C0058H | 10-JUL-2002 | 02-07-803A | 02
07 | MO | ST. LOUIS COUNTY | 29189C0276J | 19-JUL-2002 | 02-07-900A | 01
07 | MO | ST. LOUIS COUNTY | 29189C0270H | 24-JUL-2002 | 02-07-907A | 01
07 | MO | ST. LOUIS COUNTY | 29189C0240H | 24-JUL-2002 | 02-07-926A | 02
07 | MO | ST. LOUIS COUNTY | 29189C0267H | 14-AUG-2002 | 02-07-955A | 01
07 | MO | ST. LOUIS COUNTY | 29189C0279J | 23-OCT-2002 | 03-07-023A | 02
07 | MO | ST. LOUIS COUNTY | 29189C0054J | 27-NOV-2002 | 03-07-041A | 01
07 | MO | ST. LOUIS COUNTY | 29189C0058H | 27-NOV-2002 | 03-07-041A | 01
07 | MO | ST. LOUIS COUNTY | 29189C0415H | 11-DEC-2002 | 03-07-180A | 01
07 | MO | ST. LOUIS COUNTY | 29189C0315H | 13-DEC-2002 | 03-07-230A | 02
07 | MO | ST. PETERS, CITY OF | 29183C0242E | 27-NOV-2002 | 01-07-726P | 05
07 | MO | ST. PETERS, CITY OF | 29183C0255E | 27-NOV-2002 | 01-07-726P | 05
07 | MO | ST. PETERS, CITY OF | 29183C0261E | 27-NOV-2002 | 01-07-726P | 05
07 | MO | ST. PETERS, CITY OF | 29183C0244E | 23-OCT-2002 | 02-07-1118A | 01
07 | MO | ST. PETERS, CITY OF | 29183C0244E | 04-OCT-2002 | 02-07-1137A | 01
07 | MO | ST. PETERS, CITY OF | 29183C0244E | 27-SEP-2002 | 02-07-1140A | 02
07 | MO | ST. PETERS, CITY OF | 29183C0242E | 23-OCT-2002 | 03-07-015A | 02
07 | MO | ST. PETERS, CITY OF | 29183C0244E | 18-DEC-2002 | 03-07-161A | 02
07 | MO | STE. GENEVIEVE COUNTY | 2908330150B | 24-JUL-2002 | 02-07-806A | 02
07 | MO | STONE COUNTY | 2904290100B | 31-JUL-2002 | 02-07-773A | 02
07 | MO | STONE COUNTY | 2904290150B | 27-NOV-2002 | 03-07-088A | 02
07 | MO | SUNSET HILLS, CITY OF | 29189C0293H | 02-OCT-2002 | 02-07-943A | 02
07 | MO | TANEY COUNTY | 29043516A | 25-SEP-2002 | 02-07-1070A | 02
07 | MO | TANEY COUNTY | 290435—16A | 18-DEC-2002 | 03-07-270X | 02
07 | MO | VERNON COUNTY | 2908410075B | 03-JUL-2002 | 02-07-842A | 02
07 | MO | WARREN COUNTY | 2904430125B | 18-SEP-2002 | 02-07-1057A | 02
07 | MO | WARREN COUNTY | 2904430075C | 12-JUL-2002 | 02-07-808A | 02
07 | MO | WARREN COUNTY | 2904430125B | 06-NOV-2002 | 03-07-082A | 02
07 | MO | WARREN COUNTY | 2904430125B | 04-DEC-2002 | 03-07-187A | 02
07 | MO | WARREN COUNTY | 2904430125B | 20-DEC-2002 | 03-07-224A | 02
07 | MO | WEBB CITY, CITY OF | 2901870001B | 28-AUG-2002 | 02-07-906A | 01
07 | MO | WEST PLAINS, CITY OF | 2901660003D | 06-DEC-2002 | 00-07-791P | 05
07 | MO | WEST PLAINS, CITY OF | 2901660004D | 06-DEC-2002 | 00-07-791P | 05
07 | MO | WEST PLAINS, CITY OF | 2901660003D | 16-AUG-2002 | 02-07-973A | 02
07 | MO | WEST PLAINS, CITY OF | 2901660004D | 20-DEC-2002 | 03-07-128A | 01
07 | NE | BEATRICE, CITY OF | 3100910015B | 16-AUG-2002 | 02-07-1000A | 02
07 | NE | CAMBRIDGE, CITY OF | 3100870001B | 23-OCT-2002 | 02-07-1105A | 02
07 | NE | CASS COUNTY | 3104070025A | 15-NOV-2002 | 02-07-1151A | 02
07 | NE | CEDAR CREEK, VILLAGE OF | 3100300005A | 25-OCT-2002 | 02-07-1150A | 02
07 | NE | COLFAX COUNTY | 31037C0130C | 07-AUG-2002 | 98-07-738V | 19
07 | NE | CRETE, CITY OF | 3101860003C | 18-SEP-2002 | 02-07-1095A | 02
07 | NE | CRETE, CITY OF | 3101860003C | 25-SEP-2002 | 02-07-1110A | 02
07 | NE | CRETE, CITY OF | 3101860003C | 08-NOV-2002 | 02-07-1153A | 01
07 | NE | CRETE, CITY OF | 3101860003C | 16-AUG-2002 | 02-07-990A | 02
07 | NE | CRETE, CITY OF | 3101860003C | 13-NOV-2002 | 03-07-028A | 02
07 | NE | CUMING COUNTY | 3104270004B | 04-DEC-2002 | 03-07-172A | 02
07 | NE | DOUGLAS COUNTY | 3100730125B | 11-SEP-2002 | 02-07-1045A | 01
07 | NE | FREMONT, CITY OF | 3100690002B | 23-OCT-2002 | 02-07-1100A | 01
07 | NE | GRAND ISLAND, CITY OF | 3101030020B | 30-AUG-2002 | 02-07-1003A | 02
07 | NE | GRAND ISLAND, CITY OF | 3101030020B | 23-AUG-2002 | 02-07-1031A | 02
07 | NE | GRAND ISLAND, CITY OF | 3101030020B | 18-OCT-2002 | 02-07-1173A | 02
07 | NE | GRAND ISLAND, CITY OF | 3101030020B | 03-JUL-2002 | 02-07-860A | 02
07 | NE | GRAND ISLAND, CITY OF | 3101030015B | 03-JUL-2002 | 02-07-862A | 02
07 | NE | GRAND ISLAND, CITY OF | 3101030005B | 12-JUL-2002 | 02-07-893A | 02
07 | NE | GRAND ISLAND, CITY OF | 3101030020B | 26-JUL-2002 | 02-07-925A | 02
07 | NE | GRAND ISLAND, CITY OF | 3101030010B | 24-JUL-2002 | 02-07-931A | 02
07 | NE | GRAND ISLAND, CITY OF | 3101030020B | 26-JUL-2002 | 02-07-945A | 02
07 | NE | GRAND ISLAND, CITY OF | 3101030020B | 14-AUG-2002 | 02-07-961A | 02
07 | NE | GRAND ISLAND, CITY OF | 3101030020B | 14-AUG-2002 | 02-07-982A | 02
07 | NE | GRAND ISLAND, CITY OF | 3101030020B | 14-AUG-2002 | 02-07-993A | 02
07 | NE | GRAND ISLAND, CITY OF | 3101030015B | 16-AUG-2002 | 02-07-995A | 02
07 | NE | GRAND ISLAND, CITY OF | 3101000100C | 08-NOV-2002 | 03-07-007A | 02
07 | NE | GRAND ISLAND, CITY OF | 3101030015B | 23-OCT-2002 | 03-07-017A | 02
07 | NE | GRAND ISLAND, CITY OF | 3101030020B | 06-NOV-2002 | 03-07-080A | 02
07 | NE | GRAND ISLAND, CITY OF | 3101030020B | 13-NOV-2002 | 03-07-098A | 02
07 | NE | GRAND ISLAND, CITY OF | 3101030005B | 13-NOV-2002 | 03-07-099A | 02
07 | NE | GRAND ISLAND, CITY OF | 3101030005B | 20-NOV-2002 | 03-07-154A | 02
07 | NE | GRAND ISLAND, CITY OF | 3101030005B | 20-NOV-2002 | 03-07-159A | 02
07 | NE | GRAND ISLAND, CITY OF | 3101030015B | 06-DEC-2002 | 03-07-188A | 02
07 | NE | GRAND ISLAND, CITY OF | 3101030010B | 20-DEC-2002 | 03-07-266A | 02
07 | NE | HALL COUNTY | 3101000100C | 04-OCT-2002 | 02-07-1112A | 02
07 | NE | HALL COUNTY | 3101000050C | 25-OCT-2002 | 02-07-1143A | 02
07 | NE | HALL COUNTY | 3101000100C | 16-AUG-2002 | 02-07-988A | 02
07 | NE | HALL COUNTY | 3101000100C | 20-NOV-2002 | 03-07-031A | 02
07 | NE | HALL COUNTY | 3101000100C | 01-NOV-2002 | 03-07-038X | 02
07 | NE | HAMILTON COUNTY | 3104410025A | 19-JUL-2002 | 02-07-930A | 02
07 | NE | HAMILTON COUNTY | 3104410025A | 31-JUL-2002 | 02-07-946A | 02
07 | NE | HAMILTON COUNTY | 3104410025A | 13-NOV-2002 | 03-07-016A | 02
07 | NE | JACKSON, VILLAGE OF | 3102920005A | 17-JUL-2002 | 02-07-571A | 01
07 | NE | KEARNEY, CITY OF | 3100160020C | 27-NOV-2002 | 03-07-083A | 01
07 | NE | KEARNEY, CITY OF | 3100160020C | 20-DEC-2002 | 03-07-144A | 01
07 | NE | KEARNEY, CITY OF | 3100160020C | 13-DEC-2002 | 03-07-157A | 01
07 | NE | LA VISTA, CITY OF | 31153C0045F | 03-JUL-2002 | 02-07-813A | 01
07 | NE | LA VISTA, CITY OF | 31153C0045F | 24-JUL-2002 | 02-07-901A | 01
07 | NE | LA VISTA, CITY OF | 31153C0065F | 22-NOV-2002 | 02-07-932A | 02
07 | NE | LANCASTER COUNTY | 31109C0405E | 21-AUG-2002 | 02-07-956A | 02
07 | NE | LINCOLN COUNTY | 3104520008B | 22-OCT-2002 | 02-07-669P | 06
07 | NE | LINCOLN COUNTY | 3104520013B | 22-OCT-2002 | 02-07-669P | 06
07 | NE | LINCOLN, CITY OF | 31109C0310E | 04-SEP-2002 | 02-07-1001A | 02
07 | NE | LINCOLN, CITY OF | 31109C0315E | 25-OCT-2002 | 02-07-1012P | 05
07 | NE | LINCOLN, CITY OF | 31109C0310E | 11-SEP-2002 | 02-07-1062A | 01
07 | NE | LINCOLN, CITY OF | 31109C0316E | 25-SEP-2002 | 02-07-1063A | 02
07 | NE | LINCOLN, CITY OF | 31109C0315E | 25-SEP-2002 | 02-07-1092A | 02
07 | NE | LINCOLN, CITY OF | 31109C0305E | 02-OCT-2002 | 02-07-1107A | 02
07 | NE | LINCOLN, CITY OF | 31109C0305E | 02-OCT-2002 | 02-07-1148A | 02
07 | NE | LINCOLN, CITY OF | 31109C0305E | 09-OCT-2002 | 02-07-1165A | 02
07 | NE | LINCOLN, CITY OF | 31109C0305E | 24-JUL-2002 | 02-07-910A | 02
07 | NE | LINCOLN, CITY OF | 31109CO316E | 19-JUL-2002 | 02-07-911A | 02
07 | NE | LINCOLN, CITY OF | 31109C0315E | 01-NOV-2002 | 02-07-957A | 01
07 | NE | LINCOLN, CITY OF | 31109C0318E | 02-AUG-2002 | 02-07-963A | 02
07 | NE | LINCOLN, CITY OF | 31109C0315E | 30-OCT-2002 | 02-07-967A | 01
07 | NE | LINCOLN, CITY OF | 31109C0319E | 14-AUG-2002 | 02-07-985A | 02
07 | NE | LINCOLN, CITY OF | 31109C0305E | 06-DEC-2002 | 03-07-047A | 02
07 | NE | LINCOLN, CITY OF | 31109C0310E | 13-NOV-2002 | 03-07-048A | 02
07 | NE | LINCOLN, CITY OF | 31109C0435E | 30-OCT-2002 | 03-07-053A | 02
07 | NE | LINCOLN, CITY OF | 31109C0315E | 20-NOV-2002 | 03-07-164A | 02
07 | NE | LINCOLN, CITY OF | 31109C0305E | 06-DEC-2002 | 03-07-204A | 02
07 | NE | MERRICK COUNTY | 3104570150A | 20-SEP-2002 | 02-07-1002A | 02
07 | NE | MERRICK COUNTY | 3104570150A | 01-NOV-2002 | 02-07-1167A | 02
07 | NE | MERRICK COUNTY | 3104570200B | 02-AUG-2002 | 02-07-953A | 02
07 | NE | MERRICK COUNTY | 3104570150A | 06-DEC-2002 | 03-07-029A | 02
07 | NE | OMAHA, CITY OF | 3152740045G | 02-OCT-2002 | 02-07-1055A | 02
07 | NE | OMAHA, CITY OF | 3152740045G | 20-SEP-2002 | 02-07-1093A | 17
07 | NE | OMAHA, CITY OF | 3152740025F | 16-AUG-2002 | 02-07-934A | 01
07 | NE | OMAHA, CITY OF | 3152740045G | 27-NOV-2002 | 03-07-073A | 02
07 | NE | PAPILLION, CITY OF | 31153C0065F | 30-OCT-2002 | 02-07-1042A | 01
07 | NE | PHELPS COUNTY | 3104650004B | 23-AUG-2002 | 02-07-980A | 02
07 | NE | RED WILLOW COUNTY | 3104690004B | 01-NOV-2002 | 02-07-1113A | 02
07 | NE | SARPY COUNTY | 31153C0120F | 18-OCT-2002 | 02-07-1131A | 01
07 | NE | SARPY COUNTY | 31153C0120F | 03-JUL-2002 | 02-07-846A | 02
07 | NE | SARPY COUNTY | 31153C0100F | 30-AUG-2002 | 02-07-928A | 01
07 | NE | SARPY COUNTY | 31153C0135F | 21-AUG-2002 | 02-07-998A | 02
07 | NE | SCHUYLER, CITY OF | 31037C0130C | 07-AUG-2002 | 98-07-738V | 19
07 | NE | SCHUYLER, CITY OF | 31037C0130C | 20-DEC-2002 | 03-07-091A | 02
07 | NE | SCHUYLER, CITY OF | 31037C0130C | 13-DEC-2002 | 03-07-227A | 02
07 | NE | SUTTON, CITY OF | 3104250002B | 06-NOV-2002 | 03-07-068A | 02
07 | NE | UNION, VILLAGE OF | 3100350001B | 13-DEC-2002 | 03-07-242A | 02
08 | CO | ADAMS COUNTY | 08001C0010G | 28-AUG-2002 | 02-08-013P | 06
08 | CO | ADAMS COUNTY | 08001C0045G | 25-NOV-2002 | 02-08-424P | 06
08 | CO | ADAMS COUNTY | 08001C0125G | 13-SEP-2002 | 02-08-471A | 02
08 | CO | ADAMS COUNTY | 08001C0065G | 29-NOV-2002 | 02-08-507P | 06
08 | CO | ARAPAHOE COUNTY | 08005C0480J | 12-SEP-2002 | 02-08-330P | 05
08 | CO | ARAPAHOE COUNTY | 08005C0480J | 05-AUG-2002 | 02-08-338A | 01
08 | CO | ARAPAHOE COUNTY | 08005C0485J | 09-OCT-2002 | 02-08-531A | 01
08 | CO | ARAPAHOE COUNTY | 08005C0230J | 19-DEC-2002 | 02-08-547A | 02
08 | CO | ARVADA, CITY OF | 0850720003B | 28-AUG-2002 | 02-08-409A | 02
08 | CO | AURORA, CITY OF | 0800020480E | 12-SEP-2002 | 02-08-330P | 05
08 | CO | BOULDER COUNTY | 08013C0269F | 19-JUL-2002 | 02-08-341A | 01
08 | CO | BOULDER COUNTY | 08013C0555G | 09-OCT-2002 | 02-08-527A | 02
08 | CO | BOULDER, CITY OF | 08013C0395F | 18-SEP-2002 | 02-08-348A | 02
08 | CO | BOULDER, CITY OF | 08013C0415F | 24-JUL-2002 | 02-08-412A | 02
08 | CO | BOULDER, CITY OF | 08013C0395F | 15-NOV-2002 | 02-08-532A | 17
08 | CO | BRIGHTON, CITY OF | 08001C0065G | 29-NOV-2002 | 02-08-507P | 06
08 | CO | CASTLE ROCK, TOWN OF | 0800500170C | 12-SEP-2002 | 02-08-310P | 06
08 | CO | CASTLE ROCK, TOWN OF | 0800500186C | 12-SEP-2002 | 02-08-310P | 06
08 | CO | CHAFFEE COUNTY | 0802690210B | 05-AUG-2002 | 02-08-420A | 02
08 | CO | CHERRY HILLS VILLAGE, CITY OF | 08005C0165J | 18-DEC-2002 | 03-08-0077A | 02
08 | CO | CLEAR CREEK COUNTY | 0800340075A | 10-JUL-2002 | 02-08-164A | 02
08 | CO | COLORADO SPRINGS, CITY OF | 08041C0761F | 06-AUG-2002 | 02-08-141P | 05
08 | CO | COLORADO SPRINGS, CITY OF | 08041C0753F | 21-AUG-2002 | 02-08-325P | 05
08 | CO | COLORADO SPRINGS, CITY OF | 08041C0736F | 24-JUL-2002 | 02-08-393A | 17
08 | CO | COLORADO SPRINGS, CITY OF | 08041C0507F | 04-SEP-2002 | 02-08-439A | 02
08 | CO | COLORADO SPRINGS, CITY OF | 08041C0514F | 12-NOV-2002 | 02-08-496A | 01
08 | CO | COLORADO SPRINGS, CITY OF | 08041C0726F | 15-OCT-2002 | 02-08-505A | 02
08 | CO | COLORADO SPRINGS, CITY OF | 08041C0514F | 12-NOV-2002 | 02-08-516A | 01
08 | CO | COLORADO SPRINGS, CITY OF | 08041C0743F | 18-OCT-2002 | 02-08-517A | 02
08 | CO | COLORADO SPRINGS, CITY OF | 08041C0742F | 12-NOV-2002 | 02-08-534A | 02
08 | CO | COLORADO SPRINGS, CITY OF | 08041C0753F | 02-DEC-2002 | 03-08-0002A | 02
08 | CO | COLORADO SPRINGS, CITY OF | 08041C0518F | 25-OCT-2002 | 03-08-0009A | 02
08 | CO | COLORADO SPRINGS, CITY OF | 08041C0743F | 12-NOV-2002 | 03-08-0042X | 02
08 | CO | COMMERCE CITY, CITY OF | 08001C0045G | 25-NOV-2002 | 02-08-424P | 06
08 | CO | DENVER, CITY AND COUNTY OF | 0800460015C | 23-OCT-2002 | 02-08-290A | 01
08 | CO | DENVER, CITY AND COUNTY OF | 0800460014C | 05-AUG-2002 | 02-08-366A | 02
08 | CO | DENVER, CITY AND COUNTY OF | 0800460010C | 17-JUL-2002 | 02-08-387A | 02
08 | CO | DURANGO, CITY OF | 0800990005E | 19-JUL-2002 | 02-08-380A | 02
08 | CO | EAGLE COUNTY | 0800510243C | 01-AUG-2002 | 02-08-374A | 02
08 | CO | EAGLE COUNTY | 0800510243C | 20-NOV-2002 | 02-08-415A | 02
08 | CO | EAGLE COUNTY | 0800510240C | 18-DEC-2002 | 02-08-493A | 02
08 | CO | EL PASO COUNTY | 08041C0575F | 05-AUG-2002 | 01-08-289P | 06
08 | CO | EL PASO COUNTY | 08041C0825F | 05-NOV-2002 | 02-08-402A | 02
08 | CO | FIRESTONE, TOWN OF | 0802410001B | 06-NOV-2002 | 01-08-384P | 05
08 | CO | FIRESTONE, TOWN OF | 0802410001B | 13-DEC-2002 | 03-08-0062A | 02
08 | CO | FLORENCE, CITY OF | 0800700361D | 03-SEP-2002 | 02-08-452A | 02
08 | CO | FLORENCE, CITY OF | 0800700342D | 26-DEC-2002 | 03-08-0003A | 02
08 | CO | FORT COLLINS, CITY OF | 0801020004C | 18-SEP-2002 | 02-08-485A | 02
08 | CO | GARFIELD COUNTY | 0802051465B | 24-JUL-2002 | 02-08-400A | 02
08 | CO | GOLDEN, CITY OF | 0800900003A | 14-NOV-2002 | 02-08-185P | 05
08 | CO | GUNNISON COUNTY | 0800780615B | 13-SEP-2002 | 02-08-473A | 02
08 | CO | GUNNISON COUNTY | 0800780775B | 16-OCT-2002 | 02-08-543A | 02
08 | CO | GUNNISON, CITY OF | 0800800002C | 10-JUL-2002 | 02-08-359A | 02
08 | CO | GYPSUM, TOWN OF | 0802950001C | 24-JUL-2002 | 02-08-061A | 02
08 | CO | HUERFANO COUNTY | 080206—35B | 02-OCT-2002 | 02-08-478A | 02
08 | CO | JEFFERSON COUNTY | 0800870165B | 23-JUL-2002 | 02-08-185P | 05
08 | CO | JEFFERSON COUNTY | 0800870270B | 10-JUL-2002 | 02-08-365A | 02
08 | CO | JEFFERSON COUNTY | 0800870270B | 25-DEC-2002 | 02-08-368P | 05
08 | CO | JEFFERSON COUNTY | 0800870290B | 25-DEC-2002 | 02-08-368P | 05
08 | CO | JEFFERSON COUNTY | 0800870380C | 07-AUG-2002 | 02-08-384A | 02
08 | CO | LA PLATA COUNTY | 0800970266B | 27-SEP-2002 | 02-08-016P | 06
08 | CO | LA PLATA COUNTY | 0800970267C | 27-SEP-2002 | 02-08-016P | 06
08 | CO | LA PLATA COUNTY | 0800970268B | 27-SEP-2002 | 02-08-016P | 06
08 | CO | LA PLATA COUNTY | 0800970269B | 27-SEP-2002 | 02-08-016P | 06
08 | CO | LAFAYETTE, CITY OF | 08013C0420F | 23-AUG-2002 | 02-08-331P | 05
08 | CO | LAFAYETTE, CITY OF | 08013C0440F | 23-AUG-2002 | 02-08-331P | 05
08 | CO | LAFAYETTE, CITY OF | 08013C0560F | 23-AUG-2002 | 02-08-331P | 05
08 | CO | LAFAYETTE, CITY OF | 08013C0420F | 27-AUG-2002 | 02-08-481P | 06
08 | CO | LAFAYETTE, CITY OF | 08013C0440F | 27-AUG-2002 | 02-08-481P | 06
08 | CO | LAFAYETTE, CITY OF | 08013C0560F | 27-AUG-2002 | 02-08-481P | 06
08 | CO | LAKEWOOD, CITY OF | 0850750010C | 01-NOV-2002 | 02-08-425P | 06
08 | CO | LAKEWOOD, CITY OF | 0850750005C | 02-OCT-2002 | 02-08-509A | 02
08 | CO | LAKEWOOD, CITY OF | 0850750005C | 02-DEC-2002 | 02-08-528A | 02
08 | CO | LARIMER COUNTY | 0801010179E | 27-SEP-2002 | 02-08-441A | 02
08 | CO | LARIMER COUNTY | 0801010231B | 12-NOV-2002 | 02-08-461A | 02
08 | CO | LARIMER COUNTY | 0801010162C | 27-DEC-2002 | 03-08-0103A | 02
08 | CO | LARIMER COUNTY | 0801010163D | 27-DEC-2002 | 03-08-0103A | 02
08 | CO | LONGMONT, CITY OF | 08013C0288F | 06-SEP-2002 | 02-08-375A | 01
08 | CO | LONGMONT, CITY OF | 08013C0288F | 17-JUL-2002 | 02-08-391A | 02
08 | CO | LONGMONT, CITY OF | 08013C0288F | 13-DEC-2002 | 02-08-510A | 02
08 | CO | LONGMONT, CITY OF | 08013C0288F | 13-NOV-2002 | 02-08-553A | 01
08 | CO | LONGMONT, CITY OF | 08013C0288F | 22-NOV-2002 | 03-08-0039A | 01
08 | CO | MORGAN COUNTY | 0801290175C | 04-OCT-2002 | 02-08-515A | 02
08 | CO | PAGOSA SPRINGS, TOWN OF | 0800190005C | 03-JUL-2002 | 02-08-295A | 02
08 | CO | PROWERS COUNTY | 0802720007A | 13-SEP-2002 | 02-08-207A | 02
08 | CO | RIFLE, CITY OF | 0850781352D | 04-DEC-2002 | 02-08-123P | 05
08 | CO | RIFLE, CITY OF | 0850781352D | 02-DEC-2002 | 03-08-0041A | 02
08 | CO | THORNTON, CITY OF | 08001C0039G | 04-NOV-2002 | 03-08-0010A | 02
08 | CO | WELD COUNTY | 0802660863C | 11-JUL-2002 | 01-08-384P | 05
08 | CO | WELD COUNTY | 0802660750C | 04-OCT-2002 | 02-08-262A | 02
08 | CO | WELD COUNTY | 0802660860C | 04-OCT-2002 | 02-08-262A | 02
08 | CO | WELD COUNTY | 0802660637C | 26-AUG-2002 | 02-08-312A | 01
08 | CO | WELD COUNTY | 0802660475D | 03-JUL-2002 | 02-08-318A | 02
08 | CO | WELD COUNTY | 0802660850C | 17-JUL-2002 | 02-08-319A | 02
08 | CO | WELD COUNTY | 0802660637C | 11-SEP-2002 | 02-08-334A | 01
08 | CO | WESTMINSTER, CITY OF | 0800080001B | 19-DEC-2002 | 02-08-013P | 05
08 | CO | WESTMINSTER, CITY OF | 0800080001B | 19-DEC-2002 | 02-08-013P | 05
08 | CO | WINDSOR, CITY OF | 0802660605D | 13-SEP-2002 | 02-08-404A | 01
08 | MT | BELT, TOWN OF | 3000090001C | 11-SEP-2002 | 02-08-468A | 02
08 | MT | BILLINGS, CITY OF | 3000850010D | 22-NOV-2002 | 03-08-0033A | 02
08 | MT | CASCADE COUNTY | 3000080205B | 11-DEC-2002 | 02-08-353A | 02
08 | MT | EAST HELENA, CITY OF | 3000390001B | 04-SEP-2002 | 02-08-460A | 02
08 | MT | FLATHEAD COUNTY | 3000231810D | 26-AUG-2002 | 02-08-248A | 01
08 | MT | GALLATIN COUNTY | 3000270315B | 19-JUL-2002 | 02-08-390A | 02
08 | MT | GALLATIN COUNTY | 3000270190B | 18-DEC-2002 | 03-08-0128X | 02
08 | MT | GRANITE COUNTY | 3001410400A | 17-JUL-2002 | 02-08-285A | 02
08 | MT | GREAT FALLS, CITY OF | 3000100005D | 13-SEP-2002 | 02-08-503A | 01
08 | MT | HARDIN, CITY OF | 3001430375B | 13-NOV-2002 | 02-08-511A | 02
08 | MT | JEFFERSON COUNTY | 3001540550B | 15-OCT-2002 | 02-08-533A | 02
08 | MT | KALISPELL, CITY OF | 3000250005C | 15-OCT-2002 | 02-08-386A | 01
08 | MT | LEWIS AND CLARK COUNTY | 3000381395C | 28-AUG-2002 | 02-08-450A | 02
08 | MT | LINCOLN COUNTY | 3001570475B | 02-DEC-2002 | 03-08-0034A | 02
08 | MT | LINCOLN COUNTY | 3001570580B | 02-DEC-2002 | 03-08-0034A | 02
08 | MT | MILES CITY, CITY OF | 3000140005C | 13-NOV-2002 | 02-08-392A | 02
08 | MT | MINERAL COUNTY | 3001590010B | 12-NOV-2002 | 02-08-487A | 02
08 | MT | PARK COUNTY | 3001600024B | 07-AUG-2002 | 02-08-382A | 02
08 | MT | PARK COUNTY | 3001600011B | 28-AUG-2002 | 02-08-445A | 02
08 | MT | PARK COUNTY | 3001600024B | 02-DEC-2002 | 02-08-501A | 02
08 | MT | PARK COUNTY | 3001600011B | 13-NOV-2002 | 03-08-0012A | 02
08 | MT | PARK COUNTY | 3001600017B | 11-DEC-2002 | 03-08-0072A | 02
08 | MT | RAVALLI COUNTY | 30081C0120C | 30-OCT-2002 | 02-08-443A | 17
08 | MT | RAVALLI COUNTY | 30081C0045C | 27-SEP-2002 | 02-08-504A | 02
08 | MT | ROUNDUP, CITY OF | 3000500001B | 03-JUL-2002 | 02-08-360A | 02
08 | MT | SHELBY, CITY OF | 300125—01A | 09-OCT-2002 | 02-08-377P | 06
08 | MT | STILLWATER COUNTY | 3000780492B | 12-NOV-2002 | 03-08-0016A | 02
08 | MT | SWEET GRASS COUNTY | 3001670625A | 24-JUL-2002 | 02-08-406A | 02
08 | MT | WHITEFISH, CITY OF | 3000231090C | 17-JUL-2002 | 02-08-388A | 02
08 | MT | WIBAUX, TOWN OF | 30109C0180D | 05-AUG-2002 | 02-08-401A | 02
08 | MT | YELLOWSTONE COUNTY | 3001420890A | 11-SEP-2002 | 02-08-413A | 02
08 | ND | BISMARCK, CITY OF | 3801490025A | 17-JUL-2002 | 02-08-128A | 01
08 | ND | BISMARCK, CITY OF | 3801490025A | 24-JUL-2002 | 02-08-199A | 01
08 | ND | BISMARCK, CITY OF | 3801490020B | 20-SEP-2002 | 02-08-311A | 01
08 | ND | BISMARCK, CITY OF | 3801490015A | 27-SEP-2002 | 02-08-322A | 01
08 | ND | BISMARCK, CITY OF | 3801490025A | 26-AUG-2002 | 02-08-363A | 01
08 | ND | BISMARCK, CITY OF | 3801490015A | 15-AUG-2002 | 02-08-437A | 02
08 | ND | BISMARCK, CITY OF | 3801490025A | 18-SEP-2002 | 02-08-442A | 01
08 | ND | BISMARCK, CITY OF | 3801490025A | 18-OCT-2002 | 02-08-520A | 01
08 | ND | BISMARCK, CITY OF | 3801490025A | 09-OCT-2002 | 02-08-522A | 01
08 | ND | DICKINSON, CITY OF | 3801170003D | 15-AUG-2002 | 02-08-057P | 05
08 | ND | DICKINSON, CITY OF | 3801170003D | 16-OCT-2002 | 02-08-454A | 02
08 | ND | FARGO, CITY OF | 3853640005E | 13-NOV-2002 | 03-08-0008A | 02
08 | ND | GRAFTON, CITY OF | 3801370003C | 13-SEP-2002 | 02-08-477A | 02
08 | ND | GRAFTON, CITY OF | 3801370003C | 09-DEC-2002 | 03-08-0087A | 01
08 | ND | GRAND FORKS COUNTY | 3800330012B | 20-SEP-2002 | 02-08-492A | 02
08 | ND | GRAND FORKS, CITY OF | 3853650015D | 07-AUG-2002 | 02-08-333A | 01
08 | ND | GRAND FORKS, CITY OF | 3853650010D | 11-DEC-2002 | 03-08-0086A | 01
08 | ND | HARWOOD, CITY OF | 3803380002C | 06-SEP-2002 | 02-08-457A | 02
08 | ND | HARWOOD, CITY OF | 3803380001C | 13-SEP-2002 | 02-08-480A | 01
08 | ND | HARWOOD, CITY OF | 3803380002C | 13-SEP-2002 | 02-08-480A | 01
08 | ND | HARWOOD, CITY OF | 3803380001C | 20-NOV-2002 | 03-08-0051A | 01
08 | ND | HARWOOD, CITY OF | 3803380002C | 20-NOV-2002 | 03-08-0051A | 01
08 | ND | MINOT, CITY OF | 38101C0787D | 15-OCT-2002 | 02-08-369A | 02
08 | ND | NORMANNA, TOWNSHIP OF | 3802640010B | 18-OCT-2002 | 02-08-506A | 02
08 | ND | PEMBINA COUNTY | 3800790050A | 26-AUG-2002 | 02-08-416A | 02
08 | ND | REED, TOWNSHIP OF | 3802570005D | 05-SEP-2002 | 97-08-343V | 19
08 | ND | REILES ACRES, CITY OF | 3803240001C | 18-SEP-2002 | 02-08-484A | 01
08 | ND | STANLEY, TOWNSHIP OF | 3802580005B | 12-NOV-2002 | 03-08-0019A | 01
08 | ND | VALLEY CITY, CITY OF | 3800020002E | 07-AUG-2002 | 02-08-371A | 17
08 | ND | WAHPETON,CITY OF | 3801000004C | 09-DEC-2002 | 03-08-0085A | 01
08 | ND | WEST FARGO, CITY OF | 3800240005F | 06-SEP-2002 | 02-08-488A | 02
08 | SD | ABERDEEN, CITY OF | 46013C0245C | 10-JUL-2002 | 02-08-362A | 02
08 | SD | ABERDEEN, CITY OF | 46013C0245C | 24-JUL-2002 | 02-08-395A | 02
08 | SD | ABERDEEN, CITY OF | 46013C0330C | 21-AUG-2002 | 02-08-417A | 02
08 | SD | ABERDEEN, CITY OF | 46013C0265C | 16-AUG-2002 | 02-08-426A | 02
08 | SD | ABERDEEN, CITY OF | 46013C0265C | 16-OCT-2002 | 02-08-456A | 02
08 | SD | ABERDEEN, CITY OF | 46013C0265C | 11-SEP-2002 | 02-08-467A | 02
08 | SD | ABERDEEN, CITY OF | 46013C0310C | 09-OCT-2002 | 02-08-483A | 02
08 | SD | ABERDEEN, CITY OF | 46013C0265C | 02-DEC-2002 | 03-08-0011A | 01
08 | SD | ABERDEEN, CITY OF | 46013C0245C | 13-DEC-2002 | 03-08-0058A | 02
08 | SD | ABERDEEN, CITY OF | 46013C0265C | 13-DEC-2002 | 03-08-0089A | 02
08 | SD | BELLE FOURCHE, CITY OF | 4600120001C | 04-OCT-2002 | 02-08-525A | 02
08 | SD | BROWN COUNTY | 46013C0265C | 05-NOV-2002 | 02-08-470A | 01
08 | SD | BROWN COUNTY | 46013C0025C | 25-SEP-2002 | 02-08-498A | 02
08 | SD | ELK POINT, CITY OF | 460242—28D | 13-AUG-2002 | 02-08-431A | 01
08 | SD | ELK POINT, CITY OF | 460242—31D | 13-AUG-2002 | 02-08-431A | 01
08 | SD | HILL CITY, CITY OF | 4601160001C | 27-DEC-2002 | 03-08-0040A | 02
08 | SD | LAKE COUNTY | 4602760150B | 11-DEC-2002 | 03-08-0094A | 02
08 | SD | MADISON, CITY OF | 4600440001B | 25-OCT-2002 | 02-08-465A | 01
08 | SD | MADISON, CITY OF | 4600440002B | 25-OCT-2002 | 02-08-465A | 01
08 | SD | MADISON, CITY OF | 4600440002B | 15-OCT-2002 | 02-08-538A | 02
08 | SD | MINNEHAHA COUNTY | 4600570110B | 13-AUG-2002 | 02-08-399A | 02
08 | SD | RAPID CITY, CITY OF | 4654200011F | 28-AUG-2002 | 02-08-418A | 17
08 | SD | RAPID CITY, CITY OF | 4654200001F | 23-OCT-2002 | 02-08-451A | 01
08 | SD | RAPID CITY, CITY OF | 4654200003F | 18-DEC-2002 | 03-08-0064A | 02
08 | SD | RAPID CITY, CITY OF | 4654200003F | 19-DEC-2002 | 03-08-0067A | 17
08 | SD | SIOUX FALLS, CITY OF | 4600570110B | 13-NOV-2002 | 02-08-367A | 01
08 | SD | SIOUX FALLS, CITY OF | 4602770001B | 19-DEC-2002 | 03-08-0080A | 01
08 | SD | WOONSOCKET, CITY OF | 4600750005B | 26-JUL-2002 | 02-08-397A | 02
08 | SD | YANKTON COUNTY | 4600880006C | 18-SEP-2002 | 02-08-489A | 02
08 | SD | YANKTON, CITY OF | 4600930001C | 17-JUL-2002 | 02-08-383A | 17
08 | SD | YANKTON, CITY OF | 4600930001C | 13-NOV-2002 | 03-08-0020A | 02
08 | UT | AMERICAN FORK, CITY OF | 4901520005B | 13-DEC-2002 | 03-08-0066A | 02
08 | UT | ANNABELLA, TOWN OF | 4901220001A | 18-OCT-2002 | 02-08-518P | 06
08 | UT | BOUNTIFUL, CITY OF | 4900390005C | 21-AUG-2002 | 02-08-381A | 02
08 | UT | DAVIS COUNTY | 4900380160B | 04-NOV-2002 | 03-08-0014A | 02
08 | UT | DRAPER, CITY OF | 49035C0444E | 02-OCT-2002 | 02-08-198P | 05
08 | UT | DRAPER, CITY OF | 49035C0463E | 02-OCT-2002 | 02-08-198P | 05
08 | UT | DRAPER, CITY OF | 49035C0444F | 22-NOV-2002 | 03-08-0047A | 02
08 | UT | FARMINGTON, CITY OF | 4900440003D | 18-OCT-2002 | 02-08-541A | 02
08 | UT | FRUIT HEIGHTS, CITY OF | 4900450001B | 16-AUG-2002 | 02-08-436A | 02
08 | UT | GARFIELD COUNTY | 4900650450B | 13-DEC-2002 | 03-08-0091A | 02
08 | UT | HARRISVILLE, CITY OF | 4902080001A | 09-OCT-2002 | 02-08-190P | 06
08 | UT | HOLDEN, TOWN OF | 490201—01B | 20-SEP-2002 | 02-08-486A | 02
08 | UT | LEHI, CITY OF | 4902090110C | 13-SEP-2002 | 02-08-204A | 02
08 | UT | OAKLEY, TOWN OF | 4901340550B | 03-JUL-2002 | 02-08-357A | 02
08 | UT | OAKLEY, TOWN OF | 4901380001B | 03-SEP-2002 | 02-08-455A | 02
08 | UT | OGDEN, CITY OF | 4901890002B | 09-OCT-2002 | 02-08-190P | 06
08 | UT | RICHFIELD, CITY OF | 4901210011B | 18-DEC-2002 | 03-08-0038A | 02
08 | UT | RIVER HEIGHTS, TOWN OF | 4900120009B | 26-JUL-2002 | 02-08-410A | 02
08 | UT | RIVERDALE, CITY OF | 4901900001D | 13-DEC-2002 | 02-08-466A | 02
08 | UT | SALT LAKE COUNTY | 49035C0303F | 18-SEP-2002 | 02-08-459A | 02
08 | UT | SALT LAKE COUNTY | 49035C0316E | 16-OCT-2002 | 02-08-519A | 02
08 | UT | SALT LAKE COUNTY | 49035C0452E | 04-OCT-2002 | 02-08-530A | 02
08 | UT | SALT LAKE COUNTY | 49035C0317E | 20-NOV-2002 | 03-08-0026A | 02
08 | UT | SANDY CITY, CITY OF | 49035C0462E | 28-AUG-2002 | 02-08-421A | 02
08 | UT | SANDY CITY, CITY OF | 49035C0462E | 02-OCT-2002 | 02-08-429A | 02
08 | UT | SANDY CITY, CITY OF | 49035C0462E | 12-NOV-2002 | 02-08-550A | 02
08 | UT | SARATOGA SPRINGS, CITY OF | 4902500120A | 18-JUL-2002 | 01-08-118V | 19
08 | UT | SUMMIT COUNTY | 4901340150B | 28-AUG-2002 | 02-08-346A | 02
08 | UT | SUMMIT COUNTY | 4901340150B | 27-SEP-2002 | 02-08-535X | 02
08 | UT | UTAH COUNTY | 4955170375A | 04-DEC-2002 | 01-08-306P | 05
08 | UT | WASHINGTON,CITY OF | 4901820015C | 23-OCT-2002 | 02-08-539A | 02
08 | UT | WILLARD,CITY OF | 490011—01B | 26-DEC-2002 | 02-08-428A | 02
08 | WY | CHEYENNE, CITY OF | 5600300005E | 24-JUL-2002 | 02-08-403A | 02
08 | WY | LARAMIE COUNTY | 5600290515E | 01-AUG-2002 | 02-08-370A | 02
08 | WY | SHERIDAN COUNTY | 5600470020C | 02-OCT-2002 | 02-08-355A | 02
08 | WY | TETON COUNTY | 56039C0800B | 08-JUL-2002 | 02-08-268P | 05
08 | WY | UINTA COUNTY | 5600530150B | 15-AUG-2002 | 02-08-435A | 02
09 | AZ | AVONDALE, CITY OF | 04013C2080H | 13-NOV-2002 | 03-09-0021A | 01
09 | AZ | AVONDALE, CITY OF | 04013C2090G | 13-NOV-2002 | 03-09-0021A | 01
09 | AZ | BUCKEYE, TOWN OF | 04013C1545G | 16-SEP-2002 | 02-09-386P | 06
09 | AZ | BUCKEYE, TOWN OF | 04013C1575E | 16-SEP-2002 | 02-09-386P | 06
09 | AZ | BUCKEYE, TOWN OF | 04013C2020G | 16-SEP-2002 | 02-09-386P | 06
09 | AZ | BUCKEYE, TOWN OF | 04013C2025G | 16-SEP-2002 | 02-09-386P | 06
09 | AZ | BUCKEYE, TOWN OF | 04013C2040F | 26-DEC-2002 | 03-09-0135A | 01
09 | AZ | CAREFREE, TOWN OF | 04013C0808H | 05-DEC-2002 | 01-09-1157P | 05
09 | AZ | CAREFREE, TOWN OF | 04013C0809H | 05-DEC-2002 | 01-09-1157P | 05
09 | AZ | CAREFREE, TOWN OF | 04013C0808H | 05-DEC-2002 | 02-09-1409X | 05
09 | AZ | CAREFREE, TOWN OF | 04013C0809H | 05-DEC-2002 | 02-09-1409X | 05
09 | AZ | CAVE CREEK, TOWN OF | 04013C0805G | 05-DEC-2002 | 01-09-1157P | 05
09 | AZ | CAVE CREEK, TOWN OF | 04013C0808H | 05-DEC-2002 | 01-09-1157P | 05
09 | AZ | CAVE CREEK, TOWN OF | 04013C0805G | 05-DEC-2002 | 02-09-1409X | 05
09 | AZ | CAVE CREEK, TOWN OF | 04013C0808H | 05-DEC-2002 | 02-09-1409X | 05
09 | AZ | CHANDLER, CITY OF | 04013C3030G | 30-OCT-2002 | 02-09-248P | 05
09 | AZ | CLARKDALE, TOWN OF | 04025C1781F | 04-DEC-2002 | 02-09-1437A | 02
09 | AZ | COCONINO COUNTY | 0400193566B | 25-SEP-2002 | 02-09-715P | 06
09 | AZ | COOLIDGE, CITY OF | 0400770725C | 03-JUL-2002 | 02-09-414A | 01
09 | AZ | EAGAR, TOWN OF | 0401030001C | 12-NOV-2002 | 02-09-1230A | 17
09 | AZ | EL MIRAGE, CITY OF | 04013C1605H | 28-AUG-2002 | 02-09-1049A | 01
09 | AZ | EL MIRAGE, CITY OF | 04013C1610H | 28-AUG-2002 | 02-09-1049A | 01
09 | AZ | EL MIRAGE, CITY OF | 04013C1605H | 21-AUG-2002 | 02-09-1199A | 01
09 | AZ | FLAGSTAFF, CITY OF | 0400200006C | 25-SEP-2002 | 02-09-715P | 06
09 | AZ | GILBERT, TOWN OF | 04013C2660F | 11-SEP-2002 | 02-09-1202A | 01
09 | AZ | GILBERT, TOWN OF | 04013C2660F | 04-OCT-2002 | 02-09-1399A | 01
09 | AZ | GILBERT, TOWN OF | 04013C2655F | 18-OCT-2002 | 02-09-1485A | 01
09 | AZ | GILBERT, TOWN OF | 04013C2190F | 03-JUL-2002 | 02-09-485A | 01
09 | AZ | GILBERT, TOWN OF | 04013C2670G | 20-NOV-2002 | 03-09-0011A | 01
09 | AZ | GILBERT, TOWN OF | 04013C2670G | 22-NOV-2002 | 03-09-0077A | 01
09 | AZ | GILBERT, TOWN OF | 04013C2670G | 20-NOV-2002 | 03-09-0082A | 01
09 | AZ | GILBERT, TOWN OF | 04013C2670G | 15-NOV-2002 | 03-09-0083A | 01
09 | AZ | GILBERT, TOWN OF | 04013C2670G | 20-NOV-2002 | 03-09-0084A | 01
09 | AZ | GILBERT, TOWN OF | 04013C2655F | 22-NOV-2002 | 03-09-0106A | 01
09 | AZ | GLENDALE, CITY OF | 04013C1640E | 09-OCT-2002 | 02-09-1123A | 01
09 | AZ | KEARNY, TOWN OF | 0400850001B | 11-SEP-2002 | 01-09-283P | 05
09 | AZ | LA PAZ COUNTY | 0401220018A | 25-SEP-2002 | 02-09-1385A | 02
09 | AZ | MARICOPA COUNTY | 04013C1285F | 21-AUG-2002 | 02-09-068P | 05
09 | AZ | MARICOPA COUNTY | 04013C0350F | 17-OCT-2002 | 02-09-1138P | 06
09 | AZ | MARICOPA COUNTY | 04013C0365F | 17-OCT-2002 | 02-09-1138P | 06
09 | AZ | MARICOPA COUNTY | 04013C0375F | 17-OCT-2002 | 02-09-1138P | 06
09 | AZ | MARICOPA COUNTY | 04013C0802G | 04-SEP-2002 | 02-09-1327A | 02
09 | AZ | MARICOPA COUNTY | 04013C0805G | 04-SEP-2002 | 02-09-1327A | 02
09 | AZ | MARICOPA COUNTY | 04013C1595G | 27-SEP-2002 | 02-09-1393A | 02
09 | AZ | MARICOPA COUNTY | 04013C0395G | 25-SEP-2002 | 02-09-1404A | 02
09 | AZ | MARICOPA COUNTY | 04013C2215G | 02-DEC-2002 | 02-09-1528A | 02
09 | AZ | MARICOPA COUNTY | 04013C1545G | 16-SEP-2002 | 02-09-386P | 06
09 | AZ | MARICOPA COUNTY | 04013C1575E | 16-SEP-2002 | 02-09-386P | 06
09 | AZ | MARICOPA COUNTY | 04013C2020G | 16-SEP-2002 | 02-09-386P | 06
09 | AZ | MARICOPA COUNTY | 04013C2025G | 16-SEP-2002 | 02-09-386P | 06
09 | AZ | MESA, CITY OF | 04013C2185F | 16-OCT-2002 | 02-09-1209A | 02
09 | AZ | MESA, CITY OF | 04013C2185F | 20-SEP-2002 | 02-09-1280A | 02
09 | AZ | MESA, CITY OF | 04013C2185F | 19-SEP-2002 | 02-09-260P | 05
09 | AZ | MESA, CITY OF | 04013C2195F | 19-SEP-2002 | 02-09-260P | 05
09 | AZ | MESA, CITY OF | 04013C2215G | 19-SEP-2002 | 02-09-260P | 05
09 | AZ | MESA, CITY OF | 04013C2195F | 10-JUL-2002 | 02-09-983A | 01
09 | AZ | PARADISE VALLEY, TOWN OF | 04013C1690F | 01-AUG-2002 | 02-09-1177A | 17
09 | AZ | PEORIA, CITY OF | 04013C0350F | 17-OCT-2002 | 02-09-1138P | 06
09 | AZ | PEORIA, CITY OF | 04013C0365F | 17-OCT-2002 | 02-09-1138P | 06
09 | AZ | PHOENIX, CITY OF | 04013C1655J | 03-JUL-2002 | 02-09-1042A | 02
09 | AZ | PHOENIX, CITY OF | 04013C1655J | 03-JUL-2002 | 02-09-1075A | 02
09 | AZ | PHOENIX, CITY OF | 04013C1655J | 19-JUL-2002 | 02-09-1120A | 02
09 | AZ | PHOENIX, CITY OF | 04013C1220H | 16-SEP-2002 | 02-09-1208P | 06
09 | AZ | PHOENIX, CITY OF | 04013C1220H | 27-NOV-2002 | 02-09-1253P | 05
09 | AZ | PHOENIX, CITY OF | 04013C2605E | 18-OCT-2002 | 02-09-1266A | 01
09 | AZ | PHOENIX, CITY OF | 04013C2145G | 18-SEP-2002 | 02-09-1351A | 01
09 | AZ | PHOENIX, CITY OF | 04013C2130F | 18-SEP-2002 | 02-09-1370A | 02
09 | AZ | PHOENIX, CITY OF | 04013C1655J | 30-OCT-2002 | 02-09-1444A | 02
09 | AZ | PHOENIX, CITY OF | 04013C1690F | 02-OCT-2002 | 02-09-1446A | 02
09 | AZ | PHOENIX, CITY OF | 04013C1690F | 23-OCT-2002 | 02-09-1523A | 02
09 | AZ | PHOENIX, CITY OF | 04013C2145G | 03-JUL-2002 | 02-09-819A | 01
09 | AZ | PHOENIX, CITY OF | 04013C2130F | 20-NOV-2002 | 03-09-0024A | 02
09 | AZ | PHOENIX, CITY OF | 04013C1660G | 11-DEC-2002 | 03-09-0122A | 02
09 | AZ | PIMA COUNTY | 04019C2225K | 09-SEP-2002 | 02-09-1007P | 05
09 | AZ | PIMA COUNTY | 04019C1025K | 01-AUG-2002 | 02-09-1061A | 02
09 | AZ | PIMA COUNTY | 04019C1645K | 19-JUL-2002 | 02-09-1100A | 02
09 | AZ | PIMA COUNTY | 04019C2245K | 15-OCT-2002 | 02-09-1113P | 06
09 | AZ | PIMA COUNTY | 04019C1020K | 07-NOV-2002 | 02-09-1197P | 06
09 | AZ | PIMA COUNTY | 04019C1025K | 07-NOV-2002 | 02-09-1197P | 06
09 | AZ | PIMA COUNTY | 04019C2810K | 15-AUG-2002 | 02-09-1229A | 02
09 | AZ | PIMA COUNTY | 04019C1645K | 18-SEP-2002 | 02-09-1372A | 02
09 | AZ | PIMA COUNTY | 04019C1617K | 25-JUL-2002 | 02-09-746X | 05
09 | AZ | PIMA COUNTY | 04019C1636K | 25-JUL-2002 | 02-09-746X | 05
09 | AZ | PIMA COUNTY | 04019C1025K | 26-DEC-2002 | 03-09-0213A | 02
09 | AZ | PINAL COUNTY | 0400770568C | 11-SEP-2002 | 01-09-283P | 05
09 | AZ | PINAL COUNTY | 0400771475C | 31-OCT-2002 | 02-09-1101P | 06
09 | AZ | PINAL COUNTY | 0400770125D | 11-SEP-2002 | 02-09-1334A | 02
09 | AZ | PINAL COUNTY | 0400770125D | 15-OCT-2002 | 02-09-1496A | 02
09 | AZ | PINAL COUNTY | 0400770925D | 20-SEP-2002 | 02-09-984A | 02
09 | AZ | PRESCOTT VALLEY, TOWN OF | 04025C2102F | 26-AUG-2002 | 02-09-1065A | 02
09 | AZ | SANTA CRUZ COUNTY | 0400900165A | 27-SEP-2002 | 02-09-1003A | 02
09 | AZ | SANTA CRUZ COUNTY | 0400900135A | 26-DEC-2002 | 02-09-1320A | 02
09 | AZ | SANTA CRUZ COUNTY | 0400900020B | 04-NOV-2002 | 02-09-1521A | 02
09 | AZ | SCOTTSDALE, CITY OF | 04013C0809H | 05-DEC-2002 | 01-09-1157P | 05
09 | AZ | SCOTTSDALE, CITY OF | 04013C1705F | 12-SEP-2002 | 01-09-987P | 05
09 | AZ | SCOTTSDALE, CITY OF | 04013C1710E | 12-SEP-2002 | 01-09-987P | 05
09 | AZ | SCOTTSDALE, CITY OF | 04013C1235F | 24-JUL-2002 | 02-09-1029A | 02
09 | AZ | SCOTTSDALE, CITY OF | 04013C1705F | 24-OCT-2002 | 02-09-1084X | 05
09 | AZ | SCOTTSDALE, CITY OF | 04013C1710E | 24-OCT-2002 | 02-09-1084X | 05
09 | AZ | SCOTTSDALE, CITY OF | 04013C2160E | 28-AUG-2002 | 02-09-1238A | 02
09 | AZ | SCOTTSDALE, CITY OF | 04013C2160E | 15-AUG-2002 | 02-09-1263A | 02
09 | AZ | SCOTTSDALE, CITY OF | 04013C1695G | 20-SEP-2002 | 02-09-1283A | 02
09 | AZ | SCOTTSDALE, CITY OF | 04013C1235F | 04-SEP-2002 | 02-09-1316A | 02
09 | AZ | SCOTTSDALE, CITY OF | 04013C0809H | 05-DEC-2002 | 02-09-1409X | 05
09 | AZ | SCOTTSDALE, CITY OF | 04013C2160E | 11-DEC-2002 | 02-09-1461A | 02
09 | AZ | SCOTTSDALE, CITY OF | 04013C2160E | 11-SEP-2002 | 02-09-786A | 02
09 | AZ | SCOTTSDALE, CITY OF | 04013C2160E | 24-JUL-2002 | 02-09-992A | 02
09 | AZ | SCOTTSDALE, CITY OF | 04013C1230G | 13-NOV-2002 | 03-09-0104A | 02
09 | AZ | SIERRA VISTA, CITY OF | 0400170015C | 01-AUG-2002 | 01-09-492P | 05
09 | AZ | SIERRA VISTA, CITY OF | 0400170015C | 30-OCT-2002 | 02-09-1099A | 01
09 | AZ | SIERRA VISTA, CITY OF | 0400170005C | 03-SEP-2002 | 02-09-894A | 02
09 | AZ | SNOWFLAKE, TOWN OF | 0400700018D | 16-OCT-2002 | 02-09-1502A | 02
09 | AZ | SURPRISE, TOWN OF | 04013C1135F | 26-AUG-2002 | 02-09-1062A | 02
09 | AZ | TEMPE, CITY OF | 04013C2165G | 06-AUG-2002 | 01-09-939P | 05
09 | AZ | TEMPE, CITY OF | 04013C2170F | 06-AUG-2002 | 01-09-939P | 05
09 | AZ | TEMPE, CITY OF | 04013C2165G | 03-SEP-2002 | 02-09-1287A | 02
09 | AZ | TUCSON, CITY OF | 04019C1639K | 12-JUL-2002 | 02-09-1046A | 02
09 | AZ | TUCSON, CITY OF | 04019C2220K | 11-SEP-2002 | 02-09-1050P | 05
09 | AZ | TUCSON, CITY OF | 04019C2232K | 13-AUG-2002 | 02-09-1206A | 02
09 | AZ | TUCSON, CITY OF | 04019C1644K | 28-AUG-2002 | 02-09-1272A | 02
09 | AZ | TUCSON, CITY OF | 04019C1643K | 15-NOV-2002 | 02-09-1410A | 02
09 | AZ | TUCSON, CITY OF | 04019C1663K | 13-NOV-2002 | 03-09-0030A | 02
09 | AZ | TUCSON, CITY OF | 04019C2251K | 13-NOV-2002 | 03-09-0030A | 02
09 | AZ | TUCSON, CITY OF | 04019C2251K | 18-DEC-2002 | 03-09-0128A | 02
09 | AZ | TUCSON, CITY OF | 04019C2253K | 18-DEC-2002 | 03-09-0166A | 02
09 | AZ | WICKENBURG, TOWN OF | 04013C0255G | 07-AUG-2002 | 02-09-1131A | 02
09 | AZ | YAVAPAI COUNTY | 04025C1784F | 18-SEP-2002 | 02-09-1108A | 02
09 | AZ | YAVAPAI COUNTY | 04025C1470F | 09-OCT-2002 | 02-09-1129A | 01
09 | AZ | YAVAPAI COUNTY | 04025C1470F | 12-NOV-2002 | 03-09-0050A | 02
09 | AZ | YAVAPAI COUNTY | 04025C1810F | 18-DEC-2002 | 03-09-0130A | 02
09 | AZ | YAVAPAI COUNTY | 04025C2060F | 02-DEC-2002 | 03-09-0147A | 02
09 | AZ | YAVAPAI COUNTY | 04025C1750F | 26-DEC-2002 | 03-09-0174A | 02
09 | CA | ANTIOCH, CITY OF | 0600260002D | 28-AUG-2002 | 02-09-1000A | 02
09 | CA | ANTIOCH, CITY OF | 0600250355C | 08-JUL-2002 | 02-09-1128P | 06
09 | CA | ANTIOCH, CITY OF | 0600260002D | 24-JUL-2002 | 02-09-1158A | 02
09 | CA | APPLE VALLEY, CITY OF | 06071C5840F | 09-OCT-2002 | 02-09-1052A | 01
09 | CA | APPLE VALLEY, CITY OF | 06071C5840F | 16-OCT-2002 | 02-09-1536A | 02
09 | CA | APPLE VALLEY, CITY OF | 06071C5840F | 15-NOV-2002 | 03-09-0001A | 02
09 | CA | APPLE VALLEY, CITY OF | 06071C5840F | 02-DEC-2002 | 03-09-0184A | 01
09 | CA | BARSTOW, CITY OF | 06071C4527F | 09-DEC-2002 | 02-09-1511A | 01
09 | CA | BELMONT, CITY OF | 0650160005B | 06-NOV-2002 | 02-09-1273P | 06
09 | CA | BRENTWOOD, CITY OF | 0600250355C | 02-JUL-2002 | 01-09-726P | 06
09 | CA | BUTTE COUNTY | 06007C0520C | 21-AUG-2002 | 02-09-1234A | 02
09 | CA | CARLSBAD, CITY OF | 06073C0764F | 25-OCT-2002 | 02-09-1460A | 02
09 | CA | CARLSBAD, CITY OF | 06073C0769F | 29-AUG-2002 | 02-09-594P | 05
09 | CA | CATHEDRAL CITY, CITY OF | 0607040005D | 19-JUL-2002 | 02-09-1132A | 02
09 | CA | CHICO, CITY OF | 06007C0505C | 11-SEP-2002 | 02-09-1301A | 02
09 | CA | CHULA VISTA, CITY OF | N/A | 17-DEC-2002 | 02-09-1364P | 06
09 | CA | CLAYTON, CITY OF | 0600270001C | 19-JUL-2002 | 02-09-1147A | 02
09 | CA | CLAYTON, CITY OF | 0600270001C | 18-SEP-2002 | 02-09-1217A | 01
09 | CA | CLOVIS, CITY OF | 06019C1590F | 18-SEP-2002 | 02-09-1376A | 02
09 | CA | CONCORD, CITY OF | 0600250095B | 01-AUG-2002 | 02-09-1186A | 01
09 | CA | CONCORD, CITY OF | 0650220007C | 21-AUG-2002 | 02-09-1256A | 02
09 | CA | CONCORD, CITY OF | 0650220007C | 18-SEP-2002 | 02-09-1366A | 02
09 | CA | CONCORD, CITY OF | 0650220006C | 03-JUL-2002 | 02-09-834A | 02
09 | CA | CONCORD, CITY OF | 0650220001B | 13-DEC-2002 | 03-09-0015A | 01
09 | CA | CONCORD, CITY OF | 0650220008B | 05-NOV-2002 | 03-09-0022A | 02
09 | CA | CONTRA COSTA COUNTY | 0600250500B | 24-JUL-2002 | 02-09-1159A | 02
09 | CA | CONTRA COSTA COUNTY | 0600250470C | 01-NOV-2002 | 02-09-1281X | 06
09 | CA | CONTRA COSTA COUNTY | 0600250435C | 03-SEP-2002 | 02-09-1292A | 02
09 | CA | CONTRA COSTA COUNTY | 0600250470C | 13-NOV-2002 | 02-09-1352A | 02
09 | CA | CONTRA COSTA COUNTY | 0600250500B | 23-OCT-2002 | 02-09-1408A | 02
09 | CA | CONTRA COSTA COUNTY | 0600250350B | 18-OCT-2002 | 02-09-1414A | 02
09 | CA | CONTRA COSTA COUNTY | 0600250400B | 02-DEC-2002 | 03-09-0023A | 01
09 | CA | CONTRA COSTA COUNTY | 0600250435C | 15-NOV-2002 | 03-09-0053A | 02
09 | CA | CONTRA COSTA COUNTY | 0600250175B | 02-DEC-2002 | 03-09-0118A | 02
09 | CA | CONTRA COSTA COUNTY | 0600250280C | 11-DEC-2002 | 03-09-0138A | 02
09 | CA | CONTRA COSTA COUNTY | 0600250280C | 13-NOV-2002 | 03-09-0143A | 02
09 | CA | CONTRA COSTA COUNTY | 0600250280C | 11-DEC-2002 | 03-09-0167A | 02
09 | CA | DAVIS, CITY OF | 0604240017C | 26-DEC-2002 | 02-09-1389A | 01
09 | CA | DAVIS, CITY OF | 0604240009C | 21-DEC-2002 | 99-09-1309V | 19
09 | CA | DAVIS, CITY OF | 0604240016C | 21-DEC-2002 | 99-09-1309V | 19
09 | CA | DAVIS, CITY OF | 0604240017C | 21-DEC-2002 | 99-09-1309V | 19
09 | CA | DAVIS, CITY OF | 0604240028C | 21-DEC-2002 | 99-09-1309V | 19
09 | CA | DAVIS, CITY OF | 0604240036C | 21-DEC-2002 | 99-09-1309V | 19
09 | CA | DEL MAR, CITY OF | 06073C1307F | 06-SEP-2002 | 02-09-1214A | 02
09 | CA | DEL NORTE COUNTY | 0650250100C | 13-SEP-2002 | 02-09-1322A | 02
09 | CA | DUBLIN, CITY OF | 0607050002B | 01-NOV-2002 | 00-09-931P | 05
09 | CA | EAST PALO ALTO, CITY OF | 0607080001B | 15-OCT-2002 | 02-09-1426P | 06
09 | CA | EL CERRITO, CITY OF | 0650270003B | 02-OCT-2002 | 02-09-1429A | 02
09 | CA | EL PASO DE ROBLES, CITY OF | 0603040236B | 18-DEC-2002 | 02-09-1470A | 02
09 | CA | ESCONDIDO, CITY OF | 06073C0818F | 25-SEP-2002 | 02-09-1402A | 01
09 | CA | ESCONDIDO, CITY OF | 06073C0818F | 11-DEC-2002 | 02-09-1492A | 02
09 | CA | ESCONDIDO, CITY OF | 06073C1083F | 02-DEC-2002 | 03-09-0081A | 01
09 | CA | ESCONDIDO, CITY OF | 06073C0814F | 13-DEC-2002 | 03-09-0115A | 02
09 | CA | FAIRFIELD, CITY OF | 0603700010C | 20-SEP-2002 | 02-09-1321A | 02
09 | CA | FAIRFIELD, CITY OF | 0603700010C | 27-SEP-2002 | 02-09-1418A | 01
09 | CA | FAIRFIELD, CITY OF | 0606310241B | 28-AUG-2002 | 02-09-755A | 01
09 | CA | FILLMORE, CITY OF | 0604150001D | 16-AUG-2002 | 02-09-635P | 06
09 | CA | FOLSOM, CITY OF | 0602630003B | 13-SEP-2002 | 02-09-1359A | 02
09 | CA | FREMONT,CITY OF | 0650280030C | 16-OCT-2002 | 02-09-1378A | 02
09 | CA | FREMONT,CITY OF | 0650280045D | 13-DEC-2002 | 03-09-0057A | 01
09 | CA | FRESNO COUNTY | 06019C1585F | 27-AUG-2002 | 02-09-801P | 06
09 | CA | FULLERTON, CITY OF | 06059C0006E | 20-SEP-2002 | 02-09-1116A | 02
09 | CA | GARDEN GROVE, CITY OF | 06059C0021F | 21-AUG-2002 | 02-09-880A | 02
09 | CA | HALF MOON BAY, CITY OF | 0603190005A | 25-SEP-2002 | 02-09-1406A | 02
09 | CA | HEMET, CITY OF | 0602530005D | 06-SEP-2002 | 02-09-1162A | 02
09 | CA | HEMET, CITY OF | 0602530005D | 26-AUG-2002 | 02-09-1257A | 01
09 | CA | HEMET, CITY OF | 0602530005D | 04-DEC-2002 | 03-09-0038A | 01
09 | CA | HESPERIA, CITY OF | 06071C6495G | 04-SEP-2002 | 02-09-1164A | 02
09 | CA | HUMBOLDT COUNTY | 0600601330B | 17-JUL-2002 | 02-09-1134A | 02
09 | CA | HUNTINGTON BEACH, CITY OF | 06059C0036F | 02-DEC-2002 | 03-09-0157A | 02
09 | CA | IRVINE, CITY OF | 06059C0040E | 16-DEC-2002 | 02-09-1375P | 06
09 | CA | IRVINE, CITY OF | 06059C0040E | 02-JUL-2002 | 02-09-217P | 06
09 | CA | IRVINE, CITY OF | 06059C0049G | 02-JUL-2002 | 02-09-217P | 06
09 | CA | KERN COUNTY | 0600750580D | 28-AUG-2002 | 01-09-764P | 05
09 | CA | KERN COUNTY | 0600750590C | 28-AUG-2002 | 01-09-764P | 05
09 | CA | KERN COUNTY | 0600752025D | 12-NOV-2002 | 02-09-1479A | 02
09 | CA | KERN COUNTY | 0600752025D | 18-SEP-2002 | 02-09-812P | 06
09 | CA | KERN COUNTY | 0600751315B | 12-JUL-2002 | 02-09-954A | 02
09 | CA | LAKE COUNTY | 0600900715C | 13-SEP-2002 | 02-09-1223A | 02
09 | CA | LAKE COUNTY | 0600900680B | 13-SEP-2002 | 02-09-1284A | 02
09 | CA | LAKE COUNTY | 0600900550A | 13-SEP-2002 | 02-09-1339A | 02
09 | CA | LAKE COUNTY | 0600900525B | 13-NOV-2002 | 03-09-0029A | 02
09 | CA | LEMOORE,CITY OF | 0600860050B | 28-AUG-2002 | 02-09-1244A | 01
09 | CA | LONG BEACH, CITY OF | 0601360025C | 13-DEC-2002 | 03-09-0201A | 02
09 | CA | LOOMIS, TOWN OF | 06061C0418F | 26-SEP-2002 | 02-09-862P | 05
09 | CA | LOS ALTOS, CITY OF | 0603410002B | 13-SEP-2002 | 02-09-1355A | 02
09 | CA | LOS ALTOS, CITY OF | 0603410001B | 15-OCT-2002 | 02-09-1506A | 02
09 | CA | LOS ANGELES COUNTY | 0650430340B | 24-OCT-2002 | 01-09-559P | 05
09 | CA | LOS ANGELES COUNTY | 0650430345B | 24-OCT-2002 | 01-09-559P | 05
09 | CA | LOS ANGELES COUNTY | 0650430475B | 24-OCT-2002 | 01-09-559P | 05
09 | CA | LOS ANGELES COUNTY | 0650430788C | 11-DEC-2002 | 02-09-1195A | 01
09 | CA | LOS ANGELES COUNTY | 0650430205B | 02-DEC-2002 | 03-09-0159A | 02
09 | CA | LOS ANGELES, CITY OF | 0601370071C | 26-JUL-2002 | 02-09-1174A | 02
09 | CA | LOS ANGELES, CITY OF | 0601370071C | 03-SEP-2002 | 02-09-1308A | 02
09 | CA | LOS ANGELES, CITY OF | 0601370089D | 06-SEP-2002 | 02-09-1333A | 01
09 | CA | LOS ANGELES, CITY OF | 0601370071C | 13-SEP-2002 | 02-09-1427A | 02
09 | CA | LOS ANGELES, CITY OF | 0601370071C | 27-DEC-2002 | 03-09-0191A | 02
09 | CA | MADERA COUNTY | 0601700450B | 18-DEC-2002 | 03-09-0101A | 02
09 | CA | MARIN COUNTY | 0601730216A | 13-SEP-2002 | 02-09-1421A | 17
09 | CA | MARIN COUNTY | 0601730216A | 10-JUL-2002 | 02-09-966A | 02
09 | CA | MENDOCINO COUNTY | 0601830784B | 18-SEP-2002 | 02-09-955A | 01
09 | CA | MENDOCINO COUNTY | 0601830801B | 18-SEP-2002 | 02-09-955A | 01
09 | CA | MENDOCINO COUNTY | 0601830803B | 18-SEP-2002 | 02-09-955A | 01
09 | CA | MENLO PARK, CITY OF | 0603210007D | 10-JUL-2002 | 02-09-1090A | 02
09 | CA | MENLO PARK, CITY OF | 0603210008D | 13-AUG-2002 | 02-09-1226A | 02
09 | CA | MENLO PARK, CITY OF | 0603210008D | 15-AUG-2002 | 02-09-1261A | 02
09 | CA | MENLO PARK, CITY OF | 0603210008D | 17-JUL-2002 | 02-09-244A | 01
09 | CA | MENLO PARK, CITY OF | 0603210008D | 05-NOV-2002 | 03-09-0037A | 02
09 | CA | MENLO PARK, CITY OF | 0603210008D | 11-DEC-2002 | 03-09-0137A | 02
09 | CA | MERCED COUNTY | 06047C0465E | 30-OCT-2002 | 02-09-899A | 01
09 | CA | MERCED, CITY OF | 06047C0440E | 07-AUG-2002 | 02-09-1073A | 01
09 | CA | MERCED, CITY OF | 06047C0440E | 28-AUG-2002 | 02-09-1276A | 01
09 | CA | MERCED, CITY OF | 06047C0440E | 13-DEC-2002 | 02-09-1299A | 01
09 | CA | MERCED, CITY OF | 06047C0440E | 18-DEC-2002 | 02-09-403A | 01
09 | CA | MERCED, CITY OF | 06047C0440E | 10-JUL-2002 | 02-09-609A | 01
09 | CA | MILL VALLEY, CITY OF | 0601770005B | 03-JUL-2002 | 02-09-1006A | 02
09 | CA | MILPITAS, CITY OF | 0603440001G | 03-JUL-2002 | 02-09-1034A | 02
09 | CA | MILPITAS, CITY OF | 0603440001G | 17-JUL-2002 | 02-09-1122A | 02
09 | CA | MILPITAS, CITY OF | 0603440001G | 17-JUL-2002 | 02-09-1141A | 02
09 | CA | MILPITAS, CITY OF | 0603440001G | 19-JUL-2002 | 02-09-1151A | 02
09 | CA | MILPITAS, CITY OF | 0603440001G | 24-JUL-2002 | 02-09-1166A | 02
09 | CA | MILPITAS, CITY OF | 0603440001G | 15-AUG-2002 | 02-09-1235A | 02
09 | CA | MILPITAS, CITY OF | 0603440003G | 26-AUG-2002 | 02-09-1262A | 02
09 | CA | MILPITAS, CITY OF | 0603440001G | 28-AUG-2002 | 02-09-1289A | 02
09 | CA | MILPITAS, CITY OF | 0603440003G | 28-AUG-2002 | 02-09-1291A | 02
09 | CA | MILPITAS, CITY OF | 0603440003G | 06-SEP-2002 | 02-09-1298A | 02
09 | CA | MILPITAS, CITY OF | 0603440001G | 04-SEP-2002 | 02-09-1307A | 02
09 | CA | MILPITAS, CITY OF | 0603440003G | 04-SEP-2002 | 02-09-1325A | 02
09 | CA | MILPITAS, CITY OF | 0603440001G | 11-SEP-2002 | 02-09-1342A | 02
09 | CA | MILPITAS, CITY OF | 0603440001G | 11-SEP-2002 | 02-09-1344A | 02
09 | CA | MILPITAS, CITY OF | 0603440001G | 13-SEP-2002 | 02-09-1384A | 02
09 | CA | MILPITAS, CITY OF | 0603440001G | 18-SEP-2002 | 02-09-1450A | 02
09 | CA | MILPITAS, CITY OF | 0603440001G | 09-OCT-2002 | 02-09-1493A | 02
09 | CA | MILPITAS, CITY OF | 0603440001G | 16-OCT-2002 | 02-09-1530A | 02
09 | CA | MILPITAS, CITY OF | 0603440001G | 12-NOV-2002 | 03-09-0027A | 02
09 | CA | MILPITAS, CITY OF | 0603440001G | 12-NOV-2002 | 03-09-0031A | 02
09 | CA | MILPITAS, CITY OF | 0603440003G | 05-NOV-2002 | 03-09-0067A | 02
09 | CA | MILPITAS, CITY OF | 0603440001G | 15-NOV-2002 | 03-09-0091A | 02
09 | CA | MILPITAS, CITY OF | 0603440001G | 02-DEC-2002 | 03-09-0129A | 02
09 | CA | MILPITAS, CITY OF | 0603440003G | 11-DEC-2002 | 03-09-0131A | 01
09 | CA | MILPITAS, CITY OF | 0603440003G | 04-DEC-2002 | 03-09-0158A | 02
09 | CA | MILPITAS, CITY OF | 0603440001G | 11-DEC-2002 | 03-09-0189A | 02
09 | CA | MILPITAS, CITY OF | 0603440003G | 26-DEC-2002 | 03-09-0196A | 02
09 | CA | MODOC COUNTY | 0601920800B | 04-DEC-2002 | 02-09-1142A | 02
09 | CA | MONTEREY COUNTY | 0601950185D | 19-JUL-2002 | 02-09-1078A | 02
09 | CA | MONTEREY COUNTY | 0601950205D | 16-OCT-2002 | 02-09-1369A | 02
09 | CA | MONTEREY COUNTY | 0601950185D | 25-SEP-2002 | 02-09-1411A | 02
09 | CA | MONTEREY COUNTY | 0601950185D | 15-OCT-2002 | 02-09-1537X | 02
09 | CA | MORENO VALLEY, CITY OF | 0650740020B | 23-OCT-2002 | 02-09-1144A | 02
09 | CA | MORRO BAY, CITY OF | 0603070005C | 13-DEC-2002 | 03-09-0185A | 02
09 | CA | NAPA COUNTY | 0602050430B | 06-SEP-2002 | 02-09-1095A | 02
09 | CA | NAPA, CITY OF | 0602070005D | 03-JUL-2002 | 02-09-1056A | 02
09 | CA | NAPA, CITY OF | 0602070005D | 26-JUL-2002 | 02-09-1179A | 02
09 | CA | NAPA, CITY OF | 0602070005D | 04-SEP-2002 | 02-09-1318A | 02
09 | CA | NAPA, CITY OF | 0602070005D | 23-OCT-2002 | 02-09-1508A | 02
09 | CA | NAPA, CITY OF | 0602070010C | 27-SEP-2002 | 02-09-1512A | 02
09 | CA | NAPA, CITY OF | 0602070005D | 03-JUL-2002 | 02-09-732A | 02
09 | CA | NAPA, CITY OF | 0602070005D | 04-NOV-2002 | 03-09-0055A | 02
09 | CA | NEWARK, CITY OF | 0600090005F | 28-AUG-2002 | 02-09-1242A | 02
09 | CA | NOVATO, CITY OF | 0601780002C | 13-NOV-2002 | 02-09-1388A | 02
09 | CA | OAKLAND, CITY OF | 0650480025B | 26-DEC-2002 | 03-09-0182A | 02
09 | CA | OAKLEY, CITY OF | 0607660360A | 10-JUL-2002 | 02-09-1119A | 01
09 | CA | OAKLEY, CITY OF | 0607660355A | 18-SEP-2002 | 02-09-1237A | 01
09 | CA | OAKLEY, CITY OF | 0607660355A | 09-OCT-2002 | 02-09-1328A | 01
09 | CA | OCEANSIDE, CITY OF | N/A | 17-DEC-2002 | 02-09-1364P | 06
09 | CA | ORANGE COUNTY | 06059C0040E | 16-DEC-2002 | 02-09-1375P | 06
09 | CA | ORANGE COUNTY | 06059C0040E | 02-JUL-2002 | 02-09-217P | 06
09 | CA | ORANGE COUNTY | 06059C0048F | 02-JUL-2002 | 02-09-217P | 06
09 | CA | ORANGE COUNTY | 06059C0049G | 02-JUL-2002 | 02-09-217P | 06
09 | CA | ORANGE COUNTY | 06059C0040E | 02-JUL-2002 | 02-09-838P | 06
09 | CA | ORANGE COUNTY | 06059C0048F | 02-JUL-2002 | 02-09-838P | 06
09 | CA | ORANGE COUNTY | 06059C0049G | 02-JUL-2002 | 02-09-838P | 06
09 | CA | ORANGE, CITY OF | 06059C0022F | 12-SEP-2002 | 01-09-975P | 05
09 | CA | ORANGE, CITY OF | 06059C0023E | 12-SEP-2002 | 01-09-975P | 05
09 | CA | PALM SPRINGS, CITY OF | 0602570008C | 17-JUL-2002 | 02-09-849A | 01
09 | CA | PALO ALTO, CITY OF | 0603480003E | 30-JUL-2002 | 02-09-1066P | 06
09 | CA | PALO ALTO, CITY OF | 0603480003E | 04-SEP-2002 | 02-09-1067A | 02
09 | CA | PALO ALTO, CITY OF | 0603480003E | 10-JUL-2002 | 02-09-1085A | 02
09 | CA | PALO ALTO, CITY OF | 0603480002E | 03-JUL-2002 | 02-09-1088A | 02
09 | CA | PALO ALTO, CITY OF | 0603480003E | 03-JUL-2002 | 02-09-1094A | 02
09 | CA | PALO ALTO, CITY OF | 0603480003E | 01-AUG-2002 | 02-09-1156A | 02
09 | CA | PALO ALTO, CITY OF | 0603480003E | 01-AUG-2002 | 02-09-1184A | 02
09 | CA | PALO ALTO, CITY OF | 0603480003E | 13-AUG-2002 | 02-09-1210A | 02
09 | CA | PALO ALTO, CITY OF | 0603480005E | 11-SEP-2002 | 02-09-1367A | 02
09 | CA | PALO ALTO, CITY OF | 0603480002E | 02-DEC-2002 | 02-09-1433A | 02
09 | CA | PALO ALTO, CITY OF | 0603480002E | 11-DEC-2002 | 03-09-0212A | 02
09 | CA | PALO ALTO, CITY OF | 0603480002E | 27-DEC-2002 | 03-09-0223A | 02
09 | CA | PALO ALTO, CITY OF | 0603480003E | 27-DEC-2002 | 03-09-0223A | 02
09 | CA | PALO ALTO, CITY OF | 0603480003E | 17-DEC-2002 | 03-09-0237V | 19
09 | CA | PALOS VERDES ESTATES, CITY OF | 0601450005B | 03-JUL-2002 | 02-09-1121A | 02
09 | CA | PATTERSON, CITY OF | 0603840685B | 27-AUG-2002 | 01-09-1115P | 06
09 | CA | PERRIS, CITY OF | 0602580010D | 19-JUL-2002 | 02-09-803A | 02
09 | CA | PLUMAS COUNTY | 060244—200C | 05-AUG-2002 | 02-09-1126A | 02
09 | CA | PLUMAS COUNTY | 060244—775C | 15-OCT-2002 | 02-09-1464A | 02
09 | CA | POWAY, CITY OF | 06073C1358F | 17-JUL-2002 | 02-09-1135A | 02
09 | CA | POWAY, CITY OF | N/A | 17-DEC-2002 | 02-09-1364P | 06
09 | CA | POWAY, CITY OF | 06073C1356F | 25-SEP-2002 | 02-09-1398A | 17
09 | CA | POWAY, CITY OF | 06073C1358F | 19-DEC-2002 | 02-09-187A | 01
09 | CA | POWAY, CITY OF | 06073C1358F | 18-DEC-2002 | 03-09-0224A | 02
09 | CA | RANCHO CUCAMONGA, CITY OF | 06071C7890F | 09-OCT-2002 | 02-09-1474A | 02
09 | CA | RANCHO CUCAMONGA, CITY OF | 06071C7895F | 22-AUG-2002 | 02-09-505P | 06
09 | CA | RANCHO CUCAMONGA, CITY OF | 06071C8635F | 22-AUG-2002 | 02-09-505P | 06
09 | CA | REDDING, CITY OF | 0603600025D | 04-SEP-2002 | 02-09-1317A | 02
09 | CA | REDDING, CITY OF | 0603600020D | 13-NOV-2002 | 03-09-0010A | 02
09 | CA | REDDING, CITY OF | 0603600015C | 15-NOV-2002 | 03-09-0103A | 02
09 | CA | RIVERSIDE COUNTY | 0602452710C | 24-JUL-2002 | 02-09-1055A | 02
09 | CA | RIVERSIDE COUNTY | 0602451495B | 02-OCT-2002 | 02-09-1269P | 06
09 | CA | RIVERSIDE COUNTY | 0602452095B | 24-OCT-2002 | 02-09-1390P | 06
09 | CA | RIVERSIDE COUNTY | 0602452095B | 15-NOV-2002 | 03-09-0066A | 02
09 | CA | RIVERSIDE, CITY OF | 0602600020B | 13-NOV-2002 | 03-09-0014A | 02
09 | CA | ROCKLIN, CITY OF | 06061C0414F | 02-OCT-2002 | 02-09-1462A | 02
09 | CA | SACRAMENTO COUNTY | 0602620375C | 03-JUL-2002 | 02-09-1080A | 02
09 | CA | SACRAMENTO COUNTY | 0602620055E | 03-JUL-2002 | 02-09-1081A | 02
09 | CA | SACRAMENTO COUNTY | 0602620065F | 26-JUL-2002 | 02-09-1168A | 17
09 | CA | SACRAMENTO COUNTY | 0602620095E | 28-AUG-2002 | 02-09-1277A | 02
09 | CA | SACRAMENTO COUNTY | 0602620065F | 06-SEP-2002 | 02-09-1319A | 02
09 | CA | SACRAMENTO COUNTY | 0602620070D | 18-SEP-2002 | 02-09-1368A | 02
09 | CA | SACRAMENTO COUNTY | 0602620070D | 20-SEP-2002 | 02-09-1373A | 01
09 | CA | SACRAMENTO COUNTY | 0602620185F | 07-AUG-2002 | 02-09-853A | 02
09 | CA | SACRAMENTO COUNTY | 0602620205E | 07-AUG-2002 | 02-09-853A | 02
09 | CA | SACRAMENTO COUNTY | 0602620330D | 11-DEC-2002 | 03-09-0173A | 02
09 | CA | SACRAMENTO COUNTY | 0602620340D | 11-DEC-2002 | 03-09-0173A | 02
09 | CA | SALINAS, CITY OF | 0602020002D | 20-SEP-2002 | 02-09-1332A | 01
09 | CA | SAN BERNARDINO COUNTY | 06071C8730F | 13-SEP-2002 | 02-09-1279A | 02
09 | CA | SAN BERNARDINO COUNTY | 06071C8634F | 25-OCT-2002 | 02-09-1454A | 01
09 | CA | SAN BERNARDINO COUNTY | 06071C8755F | 02-JUL-2002 | 02-09-197P | 06
09 | CA | SAN BERNARDINO COUNTY | 06071C8760F | 02-JUL-2002 | 02-09-197P | 06
09 | CA | SAN BERNARDINO COUNTY | 06071C7895F | 22-AUG-2002 | 02-09-505P | 06
09 | CA | SAN BERNARDINO COUNTY | 06071C4500F | 19-SEP-2002 | 02-09-555P | 06
09 | CA | SAN BERNARDINO COUNTY | 06071C5150F | 19-SEP-2002 | 02-09-555P | 06
09 | CA | SAN BERNARDINO, CITY OF | 06071C7930F | 04-NOV-2002 | 03-09-0060A | 02
09 | CA | SAN DIEGO COUNTY | 06073C1666F | 17-JUL-2002 | 02-09-1219X | 02
09 | CA | SAN DIEGO COUNTY | N/A | 17-DEC-2002 | 02-09-1364P | 06
09 | CA | SAN DIEGO COUNTY | 06073C0525F | 12-NOV-2002 | 02-09-1431A | 02
09 | CA | SAN DIEGO COUNTY | 06073C0536F | 02-DEC-2002 | 02-09-1522A | 02
09 | CA | SAN DIEGO COUNTY | 06073C1907F | 10-JUL-2002 | 02-09-781A | 01
09 | CA | SAN DIEGO COUNTY | 06073C1393F | 13-DEC-2002 | 03-09-0099A | 01
09 | CA | SAN DIEGO COUNTY | 06073C0487F | 02-DEC-2002 | 03-09-0145A | 02
09 | CA | SAN DIEGO COUNTY | 06073C0525F | 26-DEC-2002 | 03-09-0271A | 02
09 | CA | SAN DIEGO, CITY OF | 06073C1594F | 21-NOV-2002 | 00-09-717P | 05
09 | CA | SAN DIEGO, CITY OF | 06073C1613F | 21-NOV-2002 | 00-09-717P | 05
09 | CA | SAN DIEGO, CITY OF | 06073C1614F | 21-NOV-2002 | 00-09-717P | 05
09 | CA | SAN DIEGO, CITY OF | 06073C1618F | 21-NOV-2002 | 00-09-717P | 05
09 | CA | SAN DIEGO, CITY OF | 06073C1326F | 06-SEP-2002 | 02-09-1274A | 01
09 | CA | SAN DIEGO, CITY OF | N/A | 17-DEC-2002 | 02-09-1364P | 06
09 | CA | SAN DIEGO, CITY OF | 06073C1618F | 22-NOV-2002 | 02-09-1472X | 05
09 | CA | SAN DIEGO, CITY OF | 06073C1594F | 25-SEP-2002 | 02-09-1487A | 02
09 | CA | SAN DIEGO, CITY OF | 06073C1878F | 13-NOV-2002 | 03-09-0056A | 02
09 | CA | SAN DIEGO, CITY OF | 06073C1613F | 13-NOV-2002 | 03-09-0092A | 02
09 | CA | SAN DIEGO, CITY OF | 06073C1618F | 23-DEC-2002 | 03-09-0208X | 06
09 | CA | SAN JOAQUIN COUNTY | 0602990295C | 04-SEP-2002 | 02-09-1315A | 02
09 | CA | SAN JOAQUIN COUNTY | 0602990435C | 04-SEP-2002 | 02-09-1315A | 02
09 | CA | SAN JOAQUIN COUNTY | 0602990050A | 07-AUG-2002 | 02-09-883A | 02
09 | CA | SAN JOSE, CITY OF | 0603490031D | 03-JUL-2002 | 02-09-1048A | 01
09 | CA | SAN JOSE, CITY OF | 0603490020F | 03-JUL-2002 | 02-09-1083A | 02
09 | CA | SAN JOSE, CITY OF | 0603490020F | 03-JUL-2002 | 02-09-1089A | 02
09 | CA | SAN JOSE, CITY OF | 0603490020F | 12-JUL-2002 | 02-09-1091A | 02
09 | CA | SAN JOSE, CITY OF | 0603490025D | 17-JUL-2002 | 02-09-1097A | 01
09 | CA | SAN JOSE, CITY OF | 0603490026D | 17-JUL-2002 | 02-09-1110A | 02
09 | CA | SAN JOSE, CITY OF | 0603490026D | 24-JUL-2002 | 02-09-1160A | 02
09 | CA | SAN JOSE, CITY OF | 0603490009G | 01-AUG-2002 | 02-09-1187A | 02
09 | CA | SAN JOSE, CITY OF | 0603490009G | 15-AUG-2002 | 02-09-1231A | 02
09 | CA | SAN JOSE, CITY OF | 0603490020F | 16-AUG-2002 | 02-09-1243A | 02
09 | CA | SAN JOSE, CITY OF | 0603490047E | 21-OCT-2002 | 02-09-1264P | 05
09 | CA | SAN JOSE, CITY OF | 0603490048E | 21-OCT-2002 | 02-09-1264P | 05
09 | CA | SAN JOSE, CITY OF | 0603490053E | 21-OCT-2002 | 02-09-1264P | 05
09 | CA | SAN JOSE, CITY OF | 0603490009G | 13-SEP-2002 | 02-09-1288A | 02
09 | CA | SAN JOSE, CITY OF | 0603490026D | 04-SEP-2002 | 02-09-1310A | 02
09 | CA | SAN JOSE, CITY OF | 0603490020F | 15-OCT-2002 | 02-09-1329A | 02
09 | CA | SAN JOSE, CITY OF | 0603490037D | 11-SEP-2002 | 02-09-1346A | 02
09 | CA | SAN JOSE, CITY OF | 0603490020F | 11-SEP-2002 | 02-09-1348A | 02
09 | CA | SAN JOSE, CITY OF | 0603490020F | 11-SEP-2002 | 02-09-1363A | 02
09 | CA | SAN JOSE, CITY OF | 0603490048E | 11-SEP-2002 | 02-09-1403A | 02
09 | CA | SAN JOSE, CITY OF | 0603490027D | 11-SEP-2002 | 02-09-1419A | 02
09 | CA | SAN JOSE, CITY OF | 0603490053E | 13-SEP-2002 | 02-09-1435A | 02
09 | CA | SAN JOSE, CITY OF | 0603490020F | 02-OCT-2002 | 02-09-1466A | 02
09 | CA | SAN JOSE, CITY OF | 0603490048E | 25-SEP-2002 | 02-09-1480A | 02
09 | CA | SAN JOSE, CITY OF | 0603490037D | 09-OCT-2002 | 02-09-1494A | 02
09 | CA | SAN JOSE, CITY OF | 0603490014E | 16-OCT-2002 | 02-09-1503A | 02
09 | CA | SAN JOSE, CITY OF | 0603490014E | 16-OCT-2002 | 02-09-1509A | 02
09 | CA | SAN JOSE, CITY OF | 0603490047E | 27-SEP-2002 | 02-09-1513A | 02
09 | CA | SAN JOSE, CITY OF | 0603490009G | 16-OCT-2002 | 02-09-1525A | 02
09 | CA | SAN JOSE, CITY OF | 0603490047E | 01-AUG-2002 | 02-09-798X | 05
09 | CA | SAN JOSE, CITY OF | 0603490048E | 01-AUG-2002 | 02-09-798X | 05
09 | CA | SAN JOSE, CITY OF | 0603490053E | 01-AUG-2002 | 02-09-798X | 05
09 | CA | SAN JOSE, CITY OF | 0603490037D | 11-SEP-2002 | 02-09-972A | 02
09 | CA | SAN JOSE, CITY OF | 0603490018D | 10-JUL-2002 | 02-09-987A | 01
09 | CA | SAN JOSE, CITY OF | 0603490047E | 17-JUL-2002 | 02-09-991A | 02
09 | CA | SAN JOSE, CITY OF | 0603490026D | 04-NOV-2002 | 03-09-0003A | 02
09 | CA | SAN JOSE, CITY OF | 0603490014E | 15-NOV-2002 | 03-09-0013A | 02
09 | CA | SAN JOSE, CITY OF | 0603490020F | 12-NOV-2002 | 03-09-0020A | 02
09 | CA | SAN JOSE, CITY OF | 0603490014E | 05-NOV-2002 | 03-09-0032A | 02
09 | CA | SAN JOSE, CITY OF | 0603490009G | 13-NOV-2002 | 03-09-0046A | 02
09 | CA | SAN JOSE, CITY OF | 0603490026D | 15-NOV-2002 | 03-09-0052A | 02
09 | CA | SAN JOSE, CITY OF | 0603490048E | 11-DEC-2002 | 03-09-0062A | 02
09 | CA | SAN JOSE, CITY OF | 0603490053E | 11-DEC-2002 | 03-09-0062A | 02
09 | CA | SAN JOSE, CITY OF | 0603490020F | 27-DEC-2002 | 03-09-0064A | 02
09 | CA | SAN JOSE, CITY OF | 0603490047E | 20-NOV-2002 | 03-09-0068A | 02
09 | CA | SAN JOSE, CITY OF | 0603490009G | 22-NOV-2002 | 03-09-0114A | 02
09 | CA | SAN JOSE, CITY OF | 0603490053E | 02-DEC-2002 | 03-09-0133A | 02
09 | CA | SAN JOSE, CITY OF | 0603490026D | 13-DEC-2002 | 03-09-0193A | 02
09 | CA | SAN JOSE, CITY OF | 0603490009G | 27-DEC-2002 | 03-09-0197A | 02
09 | CA | SAN JOSE, CITY OF | 0603490047E | 18-DEC-2002 | 03-09-0214A | 02
09 | CA | SAN JOSE, CITY OF | 0603490020F | 26-DEC-2002 | 03-09-0239A | 02
09 | CA | SAN JUAN CAPISTRANO, CITY OF | 06059C0075F | 09-OCT-2002 | 02-09-1413A | 01
09 | CA | SAN LEANDRO, CITY OF | 0600130002C | 04-OCT-2002 | 02-09-1430A | 02
09 | CA | SAN LUIS OBISPO, CITY OF | 0603100005C | 30-OCT-2002 | 02-09-1347A | 02
09 | CA | SAN MARCOS, CITY OF | N/A | 17-DEC-2002 | 02-09-1364P | 06
09 | CA | SAN MATEO COUNTY | 0603110113B | 20-NOV-2002 | 03-09-0058A | 02
09 | CA | SANTA BARBARA COUNTY | 0603310730C | 03-SEP-2002 | 02-09-1285A | 02
09 | CA | SANTA BARBARA COUNTY | 0603310740D | 22-NOV-2002 | 03-09-0061A | 02
09 | CA | SANTA BARBARA, CITY OF | 0603350004D | 15-AUG-2002 | 02-09-1227A | 02
09 | CA | SANTA CLARA COUNTY | 0603370405E | 21-OCT-2002 | 02-09-1264P | 05
09 | CA | SANTA CLARA COUNTY | 0603370255E | 09-OCT-2002 | 02-09-1495A | 02
09 | CA | SANTA CLARA COUNTY | 0603370405E | 01-AUG-2002 | 02-09-798X | 05
09 | CA | SANTA CLARA COUNTY | 0603370205D | 13-NOV-2002 | 03-09-0002A | 02
09 | CA | SANTA CLARA, CITY OF | 0603500005D | 06-AUG-2002 | 02-09-1196A | 02
09 | CA | SANTA CLARA, CITY OF | 0603500003D | 05-AUG-2002 | 02-09-1204A | 02
09 | CA | SANTA CLARA, CITY OF | 0603500003D | 15-AUG-2002 | 02-09-1233A | 02
09 | CA | SANTA CLARA, CITY OF | 0603500005D | 25-SEP-2002 | 02-09-1428A | 02
09 | CA | SANTA CLARA, CITY OF | 0603500003D | 12-NOV-2002 | 03-09-0049A | 02
09 | CA | SANTA CLARITA, CITY OF | 0650430345B | 12-SEP-2002 | 02-09-1297P | 06
09 | CA | SANTA CRUZ COUNTY | 0603530205B | 09-OCT-2002 | 02-09-1440A | 02
09 | CA | SANTA CRUZ COUNTY | 0603530360B | 02-DEC-2002 | 03-09-0042A | 02
09 | CA | SANTA CRUZ COUNTY | 0603530095B | 15-NOV-2002 | 03-09-0070A | 02
09 | CA | SANTA CRUZ, CITY OF | 0603550004C | 13-DEC-2002 | 03-09-0126A | 02
09 | CA | SANTA PAULA, CITY OF | 0604200003D | 07-AUG-2002 | 02-09-840A | 02
09 | CA | SANTEE, CITY OF | 06073C1653F | 20-NOV-2002 | 03-09-0132A | 01
09 | CA | SEAL BEACH, CITY OF | 06059C0026E | 11-DEC-2002 | 03-09-0142A | 02
09 | CA | SHASTA COUNTY | 0603580680C | 28-AUG-2002 | 02-09-1183A | 02
09 | CA | SHASTA COUNTY | 0603580695D | 11-DEC-2002 | 03-09-0149A | 02
09 | CA | SHASTA COUNTY | 0603580405B | 04-DEC-2002 | 03-09-0155A | 02
09 | CA | SHASTA COUNTY | 0603580405B | 11-DEC-2002 | 03-09-0170A | 02
09 | CA | SIERRA COUNTY | 06091C0210B | 24-JUL-2002 | 02-09-904A | 02
09 | CA | SIMI VALLEY, CITY OF | 0604210008B | 24-JUL-2002 | 02-09-1044A | 02
09 | CA | SIMI VALLEY, CITY OF | 0604210004B | 03-JUL-2002 | 02-09-1053A | 02
09 | CA | SIMI VALLEY, CITY OF | 0604210009B | 05-NOV-2002 | 02-09-1063A | 02
09 | CA | SIMI VALLEY, CITY OF | 0604210006B | 03-JUL-2002 | 02-09-1093A | 02
09 | CA | SIMI VALLEY, CITY OF | 0604210002B | 24-JUL-2002 | 02-09-1157A | 02
09 | CA | SIMI VALLEY, CITY OF | 0604210002B | 01-AUG-2002 | 02-09-1182A | 02
09 | CA | SIMI VALLEY, CITY OF | 0604210006B | 07-AUG-2002 | 02-09-1205A | 02
09 | CA | SIMI VALLEY, CITY OF | 0604210009B | 13-AUG-2002 | 02-09-1221A | 02
09 | CA | SIMI VALLEY, CITY OF | 0604210008B | 13-AUG-2002 | 02-09-1222A | 02
09 | CA | SIMI VALLEY, CITY OF | 0604210004B | 28-AUG-2002 | 02-09-1225A | 02
09 | CA | SIMI VALLEY, CITY OF | 0604210007B | 28-AUG-2002 | 02-09-1278A | 02
09 | CA | SIMI VALLEY, CITY OF | 0604210006B | 16-OCT-2002 | 02-09-1286A | 02
09 | CA | SIMI VALLEY, CITY OF | 0604210008B | 23-OCT-2002 | 02-09-1349A | 02
09 | CA | SIMI VALLEY, CITY OF | 0604210002B | 11-SEP-2002 | 02-09-1405A | 02
09 | CA | SIMI VALLEY, CITY OF | 0604210006B | 09-OCT-2002 | 02-09-1481A | 02
09 | CA | SIMI VALLEY, CITY OF | 0604210004B | 09-OCT-2002 | 02-09-1482A | 02
09 | CA | SIMI VALLEY, CITY OF | 0604210002B | 15-OCT-2002 | 02-09-1483A | 02
09 | CA | SIMI VALLEY, CITY OF | 0604210007B | 19-DEC-2002 | 02-09-1500P | 05
09 | CA | SIMI VALLEY, CITY OF | 0604210009B | 19-DEC-2002 | 02-09-1500P | 05
09 | CA | SIMI VALLEY, CITY OF | 0604210008B | 04-NOV-2002 | 02-09-1534A | 01
09 | CA | SIMI VALLEY, CITY OF | 0604210007B | 06-NOV-2002 | 03-09-0051X | 05
09 | CA | SIMI VALLEY, CITY OF | 0604210009B | 06-NOV-2002 | 03-09-0051X | 05
09 | CA | SIMI VALLEY, CITY OF | 0604210002B | 13-NOV-2002 | 03-09-0069A | 02
09 | CA | SIMI VALLEY, CITY OF | 0604210006B | 22-NOV-2002 | 03-09-0094A | 02
09 | CA | SIMI VALLEY, CITY OF | 0604210002B | 22-NOV-2002 | 03-09-0096A | 02
09 | CA | SIMI VALLEY, CITY OF | 0604210009B | 11-DEC-2002 | 03-09-0154A | 02
09 | CA | SIMI VALLEY, CITY OF | 0604210006B | 27-DEC-2002 | 03-09-0205A | 02
09 | CA | SIMI VALLEY, CITY OF | 0604210009B | 26-DEC-2002 | 03-09-0207A | 02
09 | CA | SIMI VALLEY, CITY OF | 0604210006B | 26-DEC-2002 | 03-09-0209A | 02
09 | CA | SISKIYOU COUNTY | 0603620150B | 13-SEP-2002 | 02-09-769A | 02
09 | CA | SONOMA COUNTY | 0603750915C | 15-AUG-2002 | 02-09-1106A | 02
09 | CA | SONOMA COUNTY | 0603750745B | 25-SEP-2002 | 02-09-1188A | 02
09 | CA | SONOMA COUNTY | 0603750515B | 16-OCT-2002 | 02-09-1532A | 02
09 | CA | SONOMA COUNTY | 0603750110B | 17-JUL-2002 | 02-09-374A | 17
09 | CA | SONOMA COUNTY | 0603750690B | 22-NOV-2002 | 03-09-0074A | 01
09 | CA | SUNNYVALE, CITY OF | 0603520001D | 07-AUG-2002 | 02-09-1211A | 02
09 | CA | SUNNYVALE, CITY OF | 0603520001D | 05-NOV-2002 | 03-09-0044A | 02
09 | CA | SUNNYVALE, CITY OF | 0603520001D | 15-NOV-2002 | 03-09-0078A | 02
09 | CA | SUNNYVALE, CITY OF | 0603520001D | 11-DEC-2002 | 03-09-0190A | 02
09 | CA | SUNNYVALE, CITY OF | 0603520001D | 26-DEC-2002 | 03-09-0221A | 02
09 | CA | TEHAMA COUNTY | 0650640450B | 13-SEP-2002 | 02-09-1236A | 02
09 | CA | THOUSAND OAKS, CITY OF | 0604220015B | 18-SEP-2002 | 02-09-1259A | 02
09 | CA | THOUSAND OAKS, CITY OF | 0604220020A | 10-JUL-2002 | 02-09-598A | 02
09 | CA | TRINITY COUNTY | 06105C0505C | 09-OCT-2002 | 02-09-1036A | 02
09 | CA | TRINITY COUNTY | 06105C0595C | 12-NOV-2002 | 03-09-0127A | 02
09 | CA | TULARE COUNTY | 0650660845B | 04-DEC-2002 | 02-09-1311A | 02
09 | CA | TULARE COUNTY | 0650661035B | 21-AUG-2002 | 02-09-982A | 02
09 | CA | TUSTIN, CITY OF | 06059C0039E | 03-SEP-2002 | 02-09-1394A | 02
09 | CA | VACAVILLE, CITY OF | 0603730003D | 03-JUL-2002 | 02-09-1076A | 02
09 | CA | VALLEJO, CITY OF | 0603740005C | 03-SEP-2002 | 02-09-1072A | 01
09 | CA | VALLEJO, CITY OF | 0603740005C | 18-OCT-2002 | 02-09-1175A | 01
09 | CA | VENTURA COUNTY | 0604130540C | 17-JUL-2002 | 02-09-1103A | 02
09 | CA | VENTURA COUNTY | 0604130545C | 17-JUL-2002 | 02-09-1103A | 02
09 | CA | VENTURA COUNTY | 0604130920B | 18-OCT-2002 | 02-09-1337A | 01
09 | CA | VENTURA COUNTY | 0604130540C | 16-OCT-2002 | 02-09-1416A | 02
09 | CA | VENTURA COUNTY | 0604130545C | 16-OCT-2002 | 02-09-1416A | 02
09 | CA | VENTURA COUNTY | 0604130620B | 16-AUG-2002 | 02-09-635P | 06
09 | CA | VENTURA COUNTY | 0604130885B | 14-AUG-2002 | 02-09-839P | 06
09 | CA | VENTURA COUNTY | 0604130555B | 13-NOV-2002 | 03-09-0100A | 02
09 | CA | VISALIA, CITY OF | 0604090010C | 15-NOV-2002 | 02-09-1514A | 01
09 | CA | VISALIA, CITY OF | 0604090010C | 04-NOV-2002 | 02-09-1533A | 01
09 | CA | VISALIA, CITY OF | 0604090005D | 13-NOV-2002 | 03-09-0043A | 02
09 | CA | VISTA, CITY OF | N/A | 17-DEC-2002 | 02-09-1364P | 06
09 | CA | WALNUT CREEK, CITY OF | 0650700001D | 05-OCT-2002 | 00-09-914V | 19
09 | CA | WALNUT CREEK, CITY OF | 0650700001C | 03-JUL-2002 | 02-09-1041A | 02
09 | CA | WALNUT CREEK, CITY OF | 0650700001C | 05-AUG-2002 | 02-09-1181A | 02
09 | CA | WALNUT CREEK, CITY OF | 0650700001C | 28-AUG-2002 | 02-09-1190A | 02
09 | CA | WALNUT CREEK, CITY OF | 0650700001D | 09-OCT-2002 | 02-09-1524A | 02
09 | CA | WALNUT CREEK, CITY OF | 0650700001D | 09-OCT-2002 | 02-09-1526A | 02
09 | CA | WINTERS, CITY OF | 0604250001C | 11-JUL-2002 | 02-09-649P | 05
09 | CA | WOODLAND, CITY OF | 0604260420C | 05-AUG-2002 | 02-09-1079A | 02
09 | CA | WOODLAND, CITY OF | 0604260420C | 12-JUL-2002 | 02-09-1105X | 02
09 | CA | WOODLAND, CITY OF | 0604260420C | 18-SEP-2002 | 02-09-1207A | 02
09 | CA | WOODLAND, CITY OF | 0604260410C | 04-SEP-2002 | 02-09-1271A | 02
09 | CA | WOODLAND, CITY OF | 0604260420C | 13-SEP-2002 | 02-09-1304A | 02
09 | CA | WOODLAND, CITY OF | 0604260440C | 04-SEP-2002 | 02-09-1326A | 02
09 | CA | WOODLAND, CITY OF | 0604260440C | 20-SEP-2002 | 02-09-1358A | 01
09 | CA | WOODLAND, CITY OF | 0604260420C | 23-OCT-2002 | 03-09-0018X | 02
09 | CA | WOODLAND, CITY OF | 0604260420C | 20-NOV-2002 | 03-09-0090A | 02
09 | CA | YOLO COUNTY | 0604230559D | 21-DEC-2002 | 99-09-1308V | 19
09 | CA | YOLO COUNTY | 0604230600E | 21-DEC-2002 | 99-09-1308V | 19
09 | CA | YUCAIPA, CITY OF | 06071C8740F | 01-AUG-2002 | 02-09-1189A | 02
09 | HI | KAUAI COUNTY | 1500020335D | 21-OCT-2002 | 03-09-0017P | 06
09 | HI | MAUI COUNTY | 1500030265C | 02-DEC-2002 | 03-09-0097A | 02
09 | NV | BOULDER CITY, CITY OF | 32003C2640E | 02-OCT-2002 | 02-09-1449A | 02
09 | NV | CHURCHILL COUNTY | 3200300645E | 15-NOV-2002 | 03-09-0072A | 02
09 | NV | CLARK COUNTY | 32003C2178E | 28-SEP-2002 | 00-09-981V | 19
09 | NV | CLARK COUNTY | 32003C2180E | 28-SEP-2002 | 00-09-981V | 19
09 | NV | CLARK COUNTY | 32003C2190E | 28-SEP-2002 | 00-09-981V | 19
09 | NV | CLARK COUNTY | 32003C2195E | 28-SEP-2002 | 00-09-981V | 19
09 | NV | CLARK COUNTY | 32003C2200E | 28-SEP-2002 | 00-09-981V | 19
09 | NV | CLARK COUNTY | 32003C2525E | 28-SEP-2002 | 00-09-981V | 19
09 | NV | CLARK COUNTY | 32003C2535E | 28-SEP-2002 | 00-09-981V | 19
09 | NV | CLARK COUNTY | 32003C2550E | 28-SEP-2002 | 00-09-981V | 19
09 | NV | CLARK COUNTY | 32003C2551E | 28-SEP-2002 | 00-09-981V | 19
09 | NV | CLARK COUNTY | 32003C2552E | 28-SEP-2002 | 00-09-981V | 19
09 | NV | CLARK COUNTY | 32003C2553E | 28-SEP-2002 | 00-09-981V | 19
09 | NV | CLARK COUNTY | 32003C2554E | 28-SEP-2002 | 00-09-981V | 19
09 | NV | CLARK COUNTY | 32003C2566E | 28-SEP-2002 | 00-09-981V | 19
09 | NV | CLARK COUNTY | 32003C2567E | 28-SEP-2002 | 00-09-981V | 19
09 | NV | CLARK COUNTY | 32003C2569E | 28-SEP-2002 | 00-09-981V | 19
09 | NV | CLARK COUNTY | 32003C2580E | 28-SEP-2002 | 00-09-981V | 19
09 | NV | CLARK COUNTY | 32003C2585E | 28-SEP-2002 | 00-09-981V | 19
09 | NV | CLARK COUNTY | 32003C2590E | 28-SEP-2002 | 00-09-981V | 19
09 | NV | CLARK COUNTY | 32003C4015E | 28-SEP-2002 | 00-09-981V | 19
09 | NV | CLARK COUNTY | 32003C2535D | 26-AUG-2002 | 02-09-1023P | 06
09 | NV | CLARK COUNTY | 32003C2553D | 26-AUG-2002 | 02-09-1023P | 06
09 | NV | CLARK COUNTY | 32003C2567E | 15-OCT-2002 | 02-09-1148A | 02
09 | NV | CLARK COUNTY | 32003C2567E | 09-OCT-2002 | 02-09-1232A | 02
09 | NV | CLARK COUNTY | 32003C2585E | 17-DEC-2002 | 02-09-1335P | 06
09 | NV | CLARK COUNTY | 32003C2595E | 17-DEC-2002 | 02-09-1335P | 06
09 | NV | CLARK COUNTY | 32003C2535D | 02-DEC-2002 | 02-09-1387A | 02
09 | NV | CLARK COUNTY | 32003C2569D | 26-AUG-2002 | 02-09-727A | 02
09 | NV | CLARK COUNTY | 32003C2552D | 01-AUG-2002 | 02-09-896P | 06
09 | NV | HENDERSON, CITY OF | 32003C2580E | 28-SEP-2002 | 00-09-981V | 19
09 | NV | HENDERSON, CITY OF | 32003C2585E | 28-SEP-2002 | 00-09-981V | 19
09 | NV | HENDERSON, CITY OF | 32003C2590E | 28-SEP-2002 | 00-09-981V | 19
09 | NV | HENDERSON, CITY OF | 32003C2595E | 28-SEP-2002 | 00-09-981V | 19
09 | NV | HENDERSON, CITY OF | 32003C2615E | 28-SEP-2002 | 00-09-981V | 19
09 | NV | HENDERSON, CITY OF | 32003C2620E | 28-SEP-2002 | 00-09-981V | 19
09 | NV | HENDERSON, CITY OF | 32003C2930E | 28-SEP-2002 | 00-09-981V | 19
09 | NV | HENDERSON, CITY OF | 32003C2595D | 24-JUL-2002 | 02-09-1248A | 01
09 | NV | HENDERSON, CITY OF | 32003C2585D | 17-DEC-2002 | 02-09-1335P | 06
09 | NV | HENDERSON, CITY OF | 32003C2595D | 17-DEC-2002 | 02-09-1335P | 06
09 | NV | HENDERSON, CITY OF | 32003C2955E | 13-DEC-2002 | 02-09-1467A | 01
09 | NV | HENDERSON, CITY OF | 32003C2930D | 15-JUL-2002 | 02-09-296P | 06
09 | NV | HENDERSON, CITY OF | 32003C2595D | 18-JUL-2002 | 02-09-964P | 06
09 | NV | HENDERSON, CITY OF | 32003C2590E | 02-DEC-2002 | 03-09-0102A | 02
09 | NV | HENDERSON, CITY OF | 32003C2615E | 09-DEC-2002 | 03-09-0220A | 01
09 | NV | HENDERSON, CITY OF | 32003C2595E | 09-DEC-2002 | 03-09-0231A | 01
09 | NV | LAS VEGAS, CITY OF | 32003C1745E | 28-SEP-2002 | 00-09-981V | 19
09 | NV | LAS VEGAS, CITY OF | 32003C1765E | 28-SEP-2002 | 00-09-981V | 19
09 | NV | LAS VEGAS, CITY OF | 32003C2145E | 28-SEP-2002 | 00-09-981V | 19
09 | NV | LAS VEGAS, CITY OF | 32003C2155E | 28-SEP-2002 | 00-09-981V | 19
09 | NV | LAS VEGAS, CITY OF | 32003C2160E | 28-SEP-2002 | 00-09-981V | 19
09 | NV | LAS VEGAS, CITY OF | 32003C2180E | 28-SEP-2002 | 00-09-981V | 19
09 | NV | LAS VEGAS, CITY OF | 32003C2186E | 28-SEP-2002 | 00-09-981V | 19
09 | NV | LAS VEGAS, CITY OF | 32003C2187E | 28-SEP-2002 | 00-09-981V | 19
09 | NV | LAS VEGAS, CITY OF | 32003C2195E | 28-SEP-2002 | 00-09-981V | 19
09 | NV | LAS VEGAS, CITY OF | 32003C2155D | 26-AUG-2002 | 02-09-1070A | 01
09 | NV | LAS VEGAS, CITY OF | 32003C2155D | 09-JUL-2002 | 02-09-963P | 06
09 | NV | LYON COUNTY | 3200290135C | 01-JUL-2002 | 02-09-593P | 06
09 | NV | LYON COUNTY | 3200290141C | 01-JUL-2002 | 02-09-593P | 06
09 | NV | LYON COUNTY | 3200290142C | 01-JUL-2002 | 02-09-593P | 06
09 | NV | NORTH LAS VEGAS, CITY OF | 32003C1769E | 28-SEP-2002 | 00-09-981V | 19
09 | NV | NORTH LAS VEGAS, CITY OF | 32003C2160E | 28-SEP-2002 | 00-09-981V | 19
09 | NV | NORTH LAS VEGAS, CITY OF | 32003C2176E | 28-SEP-2002 | 00-09-981V | 19
09 | NV | NORTH LAS VEGAS, CITY OF | 32003C2180E | 28-SEP-2002 | 00-09-981V | 19
09 | NV | NORTH LAS VEGAS, CITY OF | 32003C2160D | 17-SEP-2002 | 02-09-1104P | 06
09 | NV | RENO, CITY OF | 32031C3176F | 03-JUL-2002 | 02-09-1069A | 01
09 | NV | RENO, CITY OF | 32031C3178E | 20-NOV-2002 | 03-09-0005A | 01
09 | NV | WASHOE COUNTY | 32031C3170E | 16-AUG-2002 | 01-09-588P | 06
09 | NV | WASHOE COUNTY | 32031C3186E | 16-AUG-2002 | 01-09-588P | 06
09 | NV | WASHOE COUNTY | 32031C3225E | 28-AUG-2002 | 02-09-876A | 02
09 | NV | WASHOE COUNTY | 32031C3300E | 28-AUG-2002 | 02-09-876A | 02
10 | AK | ANCHORAGE, MUNICIPALITY OF | 0200050243C | 16-AUG-2002 | 02-10-569A | 02
10 | AK | ANCHORAGE, MUNICIPALITY OF | 0200050240C | 13-DEC-2002 | 03-10-0030A | 02
10 | AK | ANCHORAGE, MUNICIPALITY OF | 0200050235C | 02-DEC-2002 | 03-10-0036A | 02
10 | AK | ANCHORAGE, MUNICIPALITY OF | 0200050505B | 13-NOV-2002 | 03-10-0038A | 02
10 | AK | ANCHORAGE, MUNICIPALITY OF | 0200050243C | 02-DEC-2002 | 03-10-0046A | 02
10 | AK | FAIRBANKS-NORTH STAR BOROUGH | 0250090204G | 06-SEP-2002 | 02-10-652A | 02
10 | AK | FAIRBANKS-NORTH STAR BOROUGH | 0250090183G | 26-DEC-2002 | 02-10-751A | 01
10 | AK | KENAI PENINSULA BOROUGH | 0200123255A | 27-SEP-2002 | 02-10-691A | 02
10 | AK | MATANUSKA-SUSITNA, BOROUGH OF | 0200219725D | 30-OCT-2002 | 02-10-241A | 02
10 | AK | MATANUSKA-SUSITNA, BOROUGH OF | 0200218890C | 18-DEC-2002 | 02-10-671A | 02
10 | ID | ADA COUNTY | 16001C0254G | 12-NOV-2002 | 02-10-547A | 01
10 | ID | ADA COUNTY | 16001C0254G | 27-SEP-2002 | 02-10-720A | 02
10 | ID | BELLEVUE, CITY OF | 1600210857D | 26-JUL-2002 | 02-10-410A | 01
10 | ID | BINGHAM COUNTY | 1600180425B | 26-DEC-2002 | 03-10-0093A | 02
10 | ID | BONNER COUNTY | 1602060430B | 05-SEP-2002 | 01-10-475P | 05
10 | ID | BONNER COUNTY | 1602060440B | 05-SEP-2002 | 01-10-475P | 05
10 | ID | BONNER COUNTY | 1602060445B | 05-SEP-2002 | 01-10-475P | 05
10 | ID | BONNER COUNTY | 1602060400C | 18-SEP-2002 | 02-10-521A | 02
10 | ID | BONNER COUNTY | 1602060300C | 15-AUG-2002 | 02-10-612A | 02
10 | ID | BONNER COUNTY | 1602060300C | 26-AUG-2002 | 02-10-618A | 02
10 | ID | BONNER COUNTY | 1602060210B | 18-SEP-2002 | 02-10-679A | 02
10 | ID | BONNER COUNTY | 1602060430B | 18-DEC-2002 | 02-10-714X | 05
10 | ID | BONNER COUNTY | 1602060440B | 18-DEC-2002 | 02-10-714X | 05
10 | ID | BONNER COUNTY | 1602060445B | 18-DEC-2002 | 02-10-714X | 05
10 | ID | BONNER COUNTY | 1602060300C | 26-DEC-2002 | 03-10-0081A | 02
10 | ID | BONNEVILLE COUNTY | 1600270235D | 06-SEP-2002 | 02-10-641A | 02
10 | ID | BONNEVILLE COUNTY | 1600270245C | 18-SEP-2002 | 02-10-676A | 02
10 | ID | BONNEVILLE COUNTY | 1600270235D | 13-SEP-2002 | 02-10-678A | 01
10 | ID | CANYON COUNTY | 1602080331C | 12-NOV-2002 | 02-10-746A | 02
10 | ID | CANYON COUNTY | 1602080217C | 18-DEC-2002 | 03-10-0102A | 02
10 | ID | CLARK FORK, CITY OF | 1601320001A | 05-SEP-2002 | 01-10-475P | 05
10 | ID | CLARK FORK, CITY OF | 1601320001A | 18-DEC-2002 | 02-10-714X | 05
10 | ID | EAGLE, CITY OF | 16001C0134G | 04-SEP-2002 | 02-10-583A | 02
10 | ID | EAGLE, CITY OF | 16001C0134G | 20-SEP-2002 | 02-10-718X | 02
10 | ID | ELMORE COUNTY | 1602120325B | 21-AUG-2002 | 02-10-610A | 02
10 | ID | GARDEN CITY, CITY OF | 16001C0166G | 25-SEP-2002 | 02-10-684A | 01
10 | ID | GARDEN CITY, CITY OF | 16001C0166G | 09-DEC-2002 | 02-10-723A | 01
10 | ID | GARDEN CITY, CITY OF | 16001C0169G | 11-DEC-2002 | 03-10-0131A | 01
10 | ID | KOOTENAI COUNTY | 1600760100D | 03-JUL-2002 | 02-10-524A | 02
10 | ID | KOOTENAI COUNTY | 1600760155C | 15-NOV-2002 | 03-10-0011A | 02
10 | ID | MERIDIAN, CITY OF | 16001C0251G | 11-SEP-2002 | 02-10-549A | 01
10 | ID | MERIDIAN, CITY OF | 16001C0143G | 09-OCT-2002 | 02-10-728A | 01
10 | ID | MERIDIAN, CITY OF | 16001C0251G | 27-SEP-2002 | 02-10-729X | 01
10 | ID | MOSCOW, CITY OF | 1600900002D | 11-SEP-2002 | 02-10-553A | 02
10 | ID | MOSCOW, CITY OF | 1600900002D | 11-SEP-2002 | 02-10-664A | 02
10 | ID | PAYETTE, CITY OF | 1601980129B | 18-SEP-2002 | 02-10-681A | 02
10 | ID | SANDPOINT,CITY OF | 1600250001C | 09-DEC-2002 | 03-10-0074A | 02
10 | ID | SPIRIT LAKE, CITY OF | 1600840001A | 22-NOV-2002 | 03-10-0007A | 02
10 | ID | VALLEY COUNTY | 1602200304A | 05-AUG-2002 | 01-10-581P | 06
10 | ID | VALLEY COUNTY | 1602200312A | 05-AUG-2002 | 01-10-581P | 06
10 | ID | VALLEY COUNTY | 1602200475A | 13-AUG-2002 | 02-10-599A | 02
10 | ID | VALLEY COUNTY | 1602200304A | 25-SEP-2002 | 02-10-733P | 06
10 | ID | VALLEY COUNTY | 1602200312A | 25-SEP-2002 | 02-10-733P | 06
10 | OR | ADAMS, CITY OF | 4102050001D | 26-DEC-2002 | 03-10-0143A | 02
10 | OR | ALBANY, CITY OF | 4101370005F | 15-NOV-2002 | 03-10-0013A | 02
10 | OR | ALBANY, CITY OF | 4101370002F | 13-NOV-2002 | 03-10-0034A | 02
10 | OR | ALBANY, CITY OF | 4101370003F | 13-DEC-2002 | 03-10-0037A | 01
10 | OR | BAKER COUNTY | 41001C0365C | 11-DEC-2002 | 03-10-0107A | 02
10 | OR | BEAVERTON,CITY OF | 4102400003C | 20-SEP-2002 | 02-10-682A | 02
10 | OR | BEAVERTON,CITY OF | 4102400003C | 25-OCT-2002 | 02-10-743A | 02
10 | OR | BEAVERTON,CITY OF | 4102400003C | 04-DEC-2002 | 03-10-0061A | 02
10 | OR | BEND, CITY OF | 41017C0215C | 06-SEP-2002 | 02-10-587A | 02
10 | OR | BEND, CITY OF | 41017C0215C | 15-NOV-2002 | 03-10-0009A | 02
10 | OR | BENTON COUNTY | 4100080150C | 04-NOV-2002 | 02-10-696A | 02
10 | OR | BENTON COUNTY | 4100080050C | 15-NOV-2002 | 03-10-0026A | 02
10 | OR | BENTON COUNTY | 4100080200C | 13-DEC-2002 | 03-10-0044A | 02
10 | OR | BENTON COUNTY | 4100080075C | 19-DEC-2002 | 03-10-0120A | 02
10 | OR | CLACKAMAS COUNTY | 4155880020A | 21-AUG-2002 | 02-10-570A | 02
10 | OR | CLACKAMAS COUNTY | 4155880145A | 04-SEP-2002 | 02-10-651A | 02
10 | OR | CLACKAMAS COUNTY | 4155880206A | 13-NOV-2002 | 02-10-745A | 02
10 | OR | CLACKAMAS COUNTY | 4155880020A | 04-DEC-2002 | 03-10-0073A | 02
10 | OR | CLACKAMAS COUNTY | 4155880020A | 18-DEC-2002 | 03-10-0096A | 02
10 | OR | COBURG, CITY OF | 41039C0643F | 26-AUG-2002 | 02-10-631A | 02
10 | OR | COBURG, CITY OF | 41039C0639F | 15-OCT-2002 | 02-10-717A | 02
10 | OR | COLUMBIA COUNTY | 41009C0195C | 28-AUG-2002 | 02-10-628A | 02
10 | OR | COLUMBIA COUNTY | 41009C0450C | 13-NOV-2002 | 03-10-0015A | 02
10 | OR | COOS COUNTY | 4100420220B | 07-AUG-2002 | 02-10-534A | 02
10 | OR | COOS COUNTY | 4100420250B | 18-SEP-2002 | 02-10-677A | 02
10 | OR | CORNELIUS, CITY OF | 4102610001A | 15-NOV-2002 | 03-10-0029A | 02
10 | OR | CORVALLIS, CITY OF | 4100090002E | 25-SEP-2002 | 02-10-578A | 02
10 | OR | CROOK COUNTY | 41013C0250B | 03-SEP-2002 | 02-10-632A | 02
10 | OR | CURRY COUNTY | 4100520540C | 25-SEP-2002 | 02-10-654A | 02
10 | OR | DALLAS, CITY OF | 41053C0107D | 11-SEP-2002 | 02-10-538A | 01
10 | OR | DEPOE BAY, CITY OF | 4102830001B | 27-DEC-2002 | 03-10-0137A | 02
10 | OR | DOUGLAS COUNTY | 4100590710A | 13-AUG-2002 | 02-10-572A | 02
10 | OR | DOUGLAS COUNTY | 4100590225B | 06-SEP-2002 | 02-10-648A | 02
10 | OR | DOUGLAS COUNTY | 4100590755A | 25-SEP-2002 | 02-10-698A | 02
10 | OR | DOUGLAS COUNTY | 4100590270A | 13-NOV-2002 | 02-10-757A | 02
10 | OR | DOUGLAS COUNTY | 4100591140B | 18-DEC-2002 | 03-10-0089A | 02
10 | OR | DOUGLAS COUNTY | 4100590760A | 18-DEC-2002 | 03-10-0100A | 02
10 | OR | DOUGLAS COUNTY | 4100590760A | 26-DEC-2002 | 03-10-0174A | 02
10 | OR | EUGENE, CITY OF | 41039C1126F | 02-OCT-2002 | 02-10-555A | 01
10 | OR | EUGENE, CITY OF | 41039C1127F | 24-JUL-2002 | 02-10-566A | 02
10 | OR | EUGENE, CITY OF | 41039C1129F | 01-AUG-2002 | 02-10-579A | 02
10 | OR | EUGENE, CITY OF | 41039C0619F | 02-OCT-2002 | 02-10-716A | 02
10 | OR | EUGENE, CITY OF | 41039C1136F | 02-DEC-2002 | 02-10-719A | 02
10 | OR | EUGENE, CITY OF | 41039C1104F | 16-OCT-2002 | 02-10-737A | 01
10 | OR | EUGENE, CITY OF | 41039C1129F | 12-NOV-2002 | 03-10-0021A | 02
10 | OR | EUGENE, CITY OF | 41039C1136F | 04-NOV-2002 | 03-10-0025A | 02
10 | OR | FLORENCE, CITY OF | 41039C1427F | 23-OCT-2002 | 02-10-622A | 02
10 | OR | GLADSTONE, CITY OF | 410017—01B | 01-AUG-2002 | 02-10-281A | 01
10 | OR | GRESHAM, CITY OF | 4101810005E | 27-SEP-2002 | 02-10-653A | 02
10 | OR | JACKSON COUNTY | 4155890291B | 07-AUG-2002 | 02-10-548A | 02
10 | OR | JACKSON COUNTY | 4155890318B | 25-SEP-2002 | 02-10-596A | 02
10 | OR | JACKSON COUNTY | 4155890477C | 11-SEP-2002 | 02-10-611A | 02
10 | OR | JACKSON COUNTY | 4155890291B | 18-SEP-2002 | 02-10-640A | 02
10 | OR | JEFFERSON COUNTY | 4101010100B | 03-JUL-2002 | 02-10-290A | 02
10 | OR | JOSEPHINE COUNTY | 4155900386B | 07-AUG-2002 | 02-10-576A | 02
10 | OR | JOSEPHINE COUNTY | 4155900237D | 04-OCT-2002 | 02-10-686A | 02
10 | OR | JUNCTION CITY, CITY OF | 41039C0604F | 04-OCT-2002 | 02-10-642A | 02
10 | OR | JUNCTION CITY, CITY OF | 41039C0604F | 06-SEP-2002 | 02-10-658A | 01
10 | OR | JUNCTION CITY, CITY OF | 41039C0604F | 18-DEC-2002 | 03-10-0147A | 01
10 | OR | KEIZER, CITY OF | 41047C0193G | 28-OCT-2002 | 02-10-026P | 06
10 | OR | KEIZER, CITY OF | 41047C0194G | 28-OCT-2002 | 02-10-026P | 06
10 | OR | KEIZER, CITY OF | 41047C0331G | 28-OCT-2002 | 02-10-026P | 06
10 | OR | KEIZER, CITY OF | 41047C0332G | 28-OCT-2002 | 02-10-026P | 06
10 | OR | KEIZER, CITY OF | 41047C0332G | 04-SEP-2002 | 02-10-659A | 02
10 | OR | KEIZER, CITY OF | 41047C0194G | 13-SEP-2002 | 02-10-672A | 02
10 | OR | KEIZER, CITY OF | 41047C0331G | 09-DEC-2002 | 03-10-0050A | 02
10 | OR | LA GRANDE, CITY OF | 4102600002D | 05-AUG-2002 | 02-10-504A | 02
10 | OR | LAKE OSWEGO, CITY OF | 4100180003C | 20-SEP-2002 | 02-10-680A | 02
10 | OR | LAKE OSWEGO, CITY OF | 4100180002C | 22-NOV-2002 | 03-10-0062A | 02
10 | OR | LANE COUNTY | 41039C1160F | 27-SEP-2002 | 02-10-169A | 02
10 | OR | LANE COUNTY | 41039C1075F | 03-JUL-2002 | 02-10-462A | 02
10 | OR | LANE COUNTY | 41039C1260F | 10-JUL-2002 | 02-10-467A | 02
10 | OR | LANE COUNTY | 41039C1635F | 12-JUL-2002 | 02-10-473A | 02
10 | OR | LANE COUNTY | 41039C1050F | 01-AUG-2002 | 02-10-476A | 02
10 | OR | LANE COUNTY | 41039C1025F | 18-OCT-2002 | 02-10-484A | 02
10 | OR | LANE COUNTY | 41039C0670F | 10-JUL-2002 | 02-10-512A | 02
10 | OR | LANE COUNTY | 41039C0690F | 10-JUL-2002 | 02-10-536A | 02
10 | OR | LANE COUNTY | 41039C0940F | 07-AUG-2002 | 02-10-540A | 02
10 | OR | LANE COUNTY | 41039C1690F | 03-SEP-2002 | 02-10-544A | 02
10 | OR | LANE COUNTY | 41039C1180F | 24-JUL-2002 | 02-10-551A | 02
10 | OR | LANE COUNTY | 41039C1645F | 03-SEP-2002 | 02-10-556A | 02
10 | OR | LANE COUNTY | 41039C1160F | 02-OCT-2002 | 02-10-575A | 02
10 | OR | LANE COUNTY | 41039C0790F | 05-AUG-2002 | 02-10-581A | 02
10 | OR | LANE COUNTY | 41039C1107F | 01-AUG-2002 | 02-10-585A | 02
10 | OR | LANE COUNTY | 41039C1180F | 21-AUG-2002 | 02-10-590A | 02
10 | OR | LANE COUNTY | 41039C0790F | 13-AUG-2002 | 02-10-593A | 02
10 | OR | LANE COUNTY | 41039C1126F | 28-AUG-2002 | 02-10-615A | 02
10 | OR | LANE COUNTY | 41039C0600F | 28-AUG-2002 | 02-10-629A | 02
10 | OR | LANE COUNTY | 41039C0690F | 28-AUG-2002 | 02-10-644A | 02
10 | OR | LANE COUNTY | 41039C1170F | 28-AUG-2002 | 02-10-646A | 02
10 | OR | LANE COUNTY | 41039C1100F | 09-OCT-2002 | 02-10-663A | 02
10 | OR | LANE COUNTY | 41039C1106F | 02-OCT-2002 | 02-10-685A | 02
10 | OR | LANE COUNTY | 41039C1660F | 20-SEP-2002 | 02-10-699A | 02
10 | OR | LANE COUNTY | 41039C1087F | 15-NOV-2002 | 02-10-702A | 02
10 | OR | LANE COUNTY | 41039C2092F | 16-OCT-2002 | 02-10-715A | 02
10 | OR | LANE COUNTY | 41039C1080F | 18-DEC-2002 | 02-10-721A | 02
10 | OR | LANE COUNTY | 41039C1050F | 27-SEP-2002 | 02-10-750A | 02
10 | OR | LANE COUNTY | 41039C2085F | 15-NOV-2002 | 03-10-0010A | 02
10 | OR | LANE COUNTY | 41039C1107F | 09-DEC-2002 | 03-10-0077A | 02
10 | OR | LANE COUNTY | 41039C1690F | 09-DEC-2002 | 03-10-0080A | 02
10 | OR | LANE COUNTY | 41039C1107F | 11-DEC-2002 | 03-10-0082A | 02
10 | OR | LANE COUNTY | 41039C1655F | 11-DEC-2002 | 03-10-0086A | 02
10 | OR | LANE COUNTY | 41039C0600F | 13-DEC-2002 | 03-10-0101A | 02
10 | OR | LANE COUNTY | 41039C0602F | 19-DEC-2002 | 03-10-0121A | 02
10 | OR | LINCOLN CITY, CITY OF | 4101300001C | 04-SEP-2002 | 02-10-562A | 02
10 | OR | LINCOLN CITY, CITY OF | 4101300001C | 02-DEC-2002 | 03-10-0064A | 02
10 | OR | LINCOLN COUNTY | 4101290025B | 13-DEC-2002 | 03-10-0063A | 02
10 | OR | LINCOLN COUNTY | 4101290075B | 13-DEC-2002 | 03-10-0097A | 02
10 | OR | LINN COUNTY | 4101360550B | 02-OCT-2002 | 02-10-532A | 02
10 | OR | LINN COUNTY | 4101360365B | 26-AUG-2002 | 02-10-616A | 02
10 | OR | LINN COUNTY | 4101360550B | 22-NOV-2002 | 03-10-0018A | 02
10 | OR | LINN COUNTY | 4101360215B | 20-NOV-2002 | 03-10-0040A | 02
10 | OR | MARION COUNTY | 41047C0331G | 28-OCT-2002 | 02-10-026P | 06
10 | OR | MARION COUNTY | 41047C0275G | 19-DEC-2002 | 03-10-0116A | 02
10 | OR | MEDFORD, CITY OF | 4100960003C | 02-OCT-2002 | 02-10-704A | 02
10 | OR | MT. VERNON, CITY OF | 4100800001A | 13-SEP-2002 | 02-10-603A | 02
10 | OR | MULTNOMAH COUNTY | 4101790215B | 18-OCT-2002 | 02-10-712A | 02
10 | OR | MULTNOMAH COUNTY | 4101790215B | 02-DEC-2002 | 02-10-755A | 02
10 | OR | POLK COUNTY | 41053C0225C | 03-JUL-2002 | 02-10-363A | 02
10 | OR | POLK COUNTY | 41053C0200C | 03-SEP-2002 | 02-10-601A | 02
10 | OR | POLK COUNTY | 41053C0200C | 25-SEP-2002 | 02-10-732A | 02
10 | OR | PORTLAND, CITY OF | 4101830051C | 26-AUG-2002 | 02-10-573A | 01
10 | OR | PORTLAND, CITY OF | 4101830020D | 05-AUG-2002 | 02-10-586A | 02
10 | OR | PORTLAND, CITY OF | 4101830048C | 18-SEP-2002 | 02-10-703A | 02
10 | OR | ROSEBURG, CITY OF | 4100670005E | 07-AUG-2002 | 02-10-592A | 02
10 | OR | ROSEBURG, CITY OF | 4100670005E | 20-SEP-2002 | 02-10-701A | 02
10 | OR | ROSEBURG, CITY OF | 4100670005E | 25-OCT-2002 | 02-10-707A | 02
10 | OR | ROSEBURG, CITY OF | 4100670005E | 09-OCT-2002 | 02-10-710A | 02
10 | OR | ROSEBURG, CITY OF | 4100670005E | 25-SEP-2002 | 02-10-727A | 02
10 | OR | ROSEBURG, CITY OF | 4100670005E | 13-NOV-2002 | 03-10-0032A | 02
10 | OR | ROSEBURG, CITY OF | 4100670005E | 20-NOV-2002 | 03-10-0049A | 02
10 | OR | ROSEBURG, CITY OF | 4100670005E | 13-DEC-2002 | 03-10-0103A | 02
10 | OR | SHERIDAN, CITY OF | 4102570002C | 04-SEP-2002 | 02-10-595A | 02
10 | OR | SHERIDAN, CITY OF | 4102570002C | 13-DEC-2002 | 03-10-0059A | 02
10 | OR | SPRINGFIELD, CITY OF | 41039C1167F | 04-SEP-2002 | 02-10-669A | 02
10 | OR | SPRINGFIELD, CITY OF | 41039C1167F | 16-OCT-2002 | 03-10-0012A | 02
10 | OR | TILLAMOOK COUNTY | 4101960160C | 21-AUG-2002 | 00-10-525V | 19
10 | OR | TILLAMOOK COUNTY | 4101960170C | 21-AUG-2002 | 00-10-525V | 19
10 | OR | TILLAMOOK COUNTY | 4101960155B | 20-SEP-2002 | 02-10-625A | 02
10 | OR | TUALATIN, CITY OF | 4102770001D | 20-SEP-2002 | 02-10-479A | 01
10 | OR | TUALATIN, CITY OF | 4102770002D | 15-NOV-2002 | 03-10-0039A | 02
10 | OR | TURNER, CITY OF | 41047C0677G | 16-OCT-2002 | 02-10-730A | 01
10 | OR | UMATILLA COUNTY | 4102040365B | 18-DEC-2002 | 02-10-623A | 01
10 | OR | WALLOWA COUNTY | 41063C0500B | 02-OCT-2002 | 02-10-546A | 02
10 | OR | WASHINGTON COUNTY | 4102380368B | 07-AUG-2002 | 02-10-591A | 02
10 | OR | WASHINGTON COUNTY | 4102380362B | 13-NOV-2002 | 02-10-617A | 01
10 | OR | WASHINGTON COUNTY | 4102380362B | 11-SEP-2002 | 02-10-626A | 02
10 | OR | WASHINGTON COUNTY | 4102380362B | 11-SEP-2002 | 02-10-670A | 02
10 | OR | WASHINGTON COUNTY | 4102380362B | 09-DEC-2002 | 02-10-674A | 01
10 | OR | WASHINGTON COUNTY | 4102380507B | 16-OCT-2002 | 02-10-739A | 02
10 | OR | WHEELER COUNTY | 4102450050B | 28-AUG-2002 | 02-10-460A | 02
10 | OR | YACHATS, CITY OF | 4101350001A | 12-NOV-2002 | 02-10-754A | 02
10 | OR | YAMHILL COUNTY | 4102490300C | 24-JUL-2002 | 02-10-560A | 02
10 | OR | YAMHILL COUNTY | 4102490300C | 30-OCT-2002 | 02-10-690A | 02
10 | OR | YAMHILL COUNTY | 4102490130C | 16-OCT-2002 | 02-10-731A | 02
10 | WA | ABERDEEN, CITY OF | 5300580002B | 12-NOV-2002 | 02-10-692A | 02
10 | WA | BAINBRIDGE ISLAND, CITY OF | 5300920310B | 19-DEC-2002 | 03-10-0123A | 02
10 | WA | BATTLE GROUND, CITY OF | 5300250001B | 26-DEC-2002 | 02-10-655A | 02
10 | WA | BATTLE GROUND, CITY OF | 5300250001B | 26-DEC-2002 | 03-10-0130A | 02
10 | WA | BELLEVUE, CITY OF | 53033C0656F | 04-DEC-2002 | 03-10-0069A | 02
10 | WA | BELLINGHAM, CITY OF | 5301990005B | 28-OCT-2002 | 02-10-466P | 06
10 | WA | BURLINGTON, CITY OF | 5301510250C | 13-NOV-2002 | 02-10-387A | 01
10 | WA | BURLINGTON, CITY OF | 5301510250C | 19-JUL-2002 | 02-10-542A | 02
10 | WA | CENTRALIA, CITY OF | 5301030002B | 28-AUG-2002 | 02-10-558A | 02
10 | WA | CENTRALIA, CITY OF | 5301030001B | 21-AUG-2002 | 02-10-609A | 02
10 | WA | CHELAN COUNTY | 5300150775B | 25-SEP-2002 | 02-10-606A | 02
10 | WA | CLALLAM COUNTY | 5300210505D | 24-JUL-2002 | 02-10-564A | 17
10 | WA | CLALLAM COUNTY | 5300210545D | 18-DEC-2002 | 03-10-0085A | 02
10 | WA | CLARK COUNTY | 5300240037C | 10-JUL-2002 | 02-10-533A | 02
10 | WA | ELLENSBURG, CITY OF | 5302340001C | 18-DEC-2002 | 03-10-0076A | 01
10 | WA | EPHRATA, CITY OF | 5300510001B | 15-OCT-2002 | 02-10-713A | 02
10 | WA | FERNDALE, TOWN OF | 530198—33B | 23-OCT-2002 | 02-10-557A | 02
10 | WA | GRAYS HARBOR COUNTY | 5300570375B | 11-SEP-2002 | 02-10-645A | 02
10 | WA | GRAYS HARBOR COUNTY | 5300570205B | 25-SEP-2002 | 02-10-722X | 02
10 | WA | GRAYS HARBOR COUNTY | 5300570215B | 25-SEP-2002 | 02-10-722X | 02
10 | WA | ISLAND COUNTY | 53029C0445D | 03-SEP-2002 | 02-10-637A | 02
10 | WA | KENT, CITY OF | 53033C0969F | 01-AUG-2002 | 02-10-362A | 01
10 | WA | KENT, CITY OF | 53033C0986F | 15-AUG-2002 | 02-10-455A | 01
10 | WA | KENT, CITY OF | 53033C0988F | 20-NOV-2002 | 03-10-0028A | 01
10 | WA | KING COUNTY | 53033C0213G | 17-JUL-2002 | 02-10-411A | 17
10 | WA | KING COUNTY | 53033C1280F | 19-DEC-2002 | 02-10-488A | 02
10 | WA | KING COUNTY | 53033C0377F | 21-AUG-2002 | 02-10-523A | 02
10 | WA | KING COUNTY | 53033C0983F | 10-JUL-2002 | 02-10-531A | 17
10 | WA | KING COUNTY | 53033C1057H | 12-JUL-2002 | 02-10-541A | 02
10 | WA | KING COUNTY | 53033C1280F | 17-JUL-2002 | 02-10-550A | 02
10 | WA | KING COUNTY | 53033C0925F | 26-AUG-2002 | 02-10-602A | 02
10 | WA | KING COUNTY | 53033C0379G | 26-AUG-2002 | 02-10-620A | 02
10 | WA | KING COUNTY | 53033C0680F | 27-SEP-2002 | 02-10-624A | 02
10 | WA | KING COUNTY | 53033C1020F | 25-OCT-2002 | 02-10-657A | 02
10 | WA | KING COUNTY | 53033C0950F | 27-SEP-2002 | 02-10-709A | 02
10 | WA | KING COUNTY | 53033C0419G | 20-SEP-2002 | 02-10-738A | 01
10 | WA | KING COUNTY | 53033C1020F | 15-NOV-2002 | 03-10-0023A | 02
10 | WA | KING COUNTY | 53033C1020F | 04-DEC-2002 | 03-10-0060A | 17
10 | WA | KING COUNTY | 53033C1079H | 18-DEC-2002 | 03-10-0072A | 02
10 | WA | KITSAP COUNTY | 5300920205B | 03-JUL-2002 | 02-10-399A | 02
10 | WA | KITSAP COUNTY | 5300920205B | 03-JUL-2002 | 02-10-471A | 02
10 | WA | KITSAP COUNTY | 5300920280B | 24-JUL-2002 | 02-10-568A | 02
10 | WA | KITSAP COUNTY | 5300920390B | 15-OCT-2002 | 02-10-735A | 02
10 | WA | KITSAP COUNTY | 5300920280B | 20-NOV-2002 | 03-10-0041A | 02
10 | WA | KITTITAS COUNTY | 5300950409B | 07-AUG-2002 | 02-10-493A | 02
10 | WA | KITTITAS COUNTY | 5300950409B | 10-JUL-2002 | 02-10-530A | 02
10 | WA | KITTITAS COUNTY | 5300950227B | 16-OCT-2002 | 02-10-649A | 02
10 | WA | KITTITAS COUNTY | 5300950125B | 11-DEC-2002 | 03-10-0083A | 02
10 | WA | KITTITAS COUNTY | 5300950439B | 26-DEC-2002 | 03-10-0119A | 02
10 | WA | LEWIS COUNTY | 5301020240B | 15-AUG-2002 | 02-10-193A | 02
10 | WA | LEWIS COUNTY | 5301020043B | 27-SEP-2002 | 02-10-635A | 01
10 | WA | MASON COUNTY | 5301150200C | 17-JUL-2002 | 02-10-498A | 02
10 | WA | MASON COUNTY | 5301150275C | 12-NOV-2002 | 03-10-0003A | 02
10 | WA | MASON COUNTY | 5301150200C | 15-NOV-2002 | 03-10-0024A | 02
10 | WA | MOUNT VERNON, CITY OF | 5301580001B | 07-AUG-2002 | 02-10-443A | 01
10 | WA | OKANOGAN COUNTY | 5301170550B | 05-NOV-2002 | 03-10-0002A | 02
10 | WA | PEND OREILLE COUNTY | 53051C0850C | 10-JUL-2002 | 02-10-526A | 02
10 | WA | PIERCE COUNTY | 5301380575C | 03-SEP-2002 | 02-10-604A | 02
10 | WA | PIERCE COUNTY | 5301380150C | 20-SEP-2002 | 02-10-673A | 02
10 | WA | RAYMOND, CITY OF | 5301290005B | 18-SEP-2002 | 02-10-675A | 01
10 | WA | SKAGIT COUNTY | 5301510280C | 11-SEP-2002 | 02-10-518A | 02
10 | WA | SKAGIT COUNTY | 5301510255D | 16-AUG-2002 | 02-10-577A | 02
10 | WA | SKAGIT COUNTY | 5301510225C | 07-AUG-2002 | 02-10-597A | 02
10 | WA | SKAGIT COUNTY | 5301510275C | 27-SEP-2002 | 02-10-600A | 02
10 | WA | SKAGIT COUNTY | 5301510275C | 11-SEP-2002 | 02-10-605A | 02
10 | WA | SKAGIT COUNTY | 5301510065C | 25-SEP-2002 | 02-10-643A | 02
10 | WA | SKAGIT COUNTY | 5301510225C | 15-OCT-2002 | 02-10-687A | 02
10 | WA | SKAGIT COUNTY | 5301510250C | 11-SEP-2002 | 02-10-711A | 02
10 | WA | SKAGIT COUNTY | 5301510250C | 15-NOV-2002 | 03-10-0055A | 02
10 | WA | SKAGIT COUNTY | 5301510225C | 02-DEC-2002 | 03-10-0079A | 02
10 | WA | SKAGIT COUNTY | 5301510250C | 18-DEC-2002 | 03-10-0117A | 02
10 | WA | SKYKOMISH, TOWN OF | 53033C0528G | 20-SEP-2002 | 02-10-561A | 02
10 | WA | SNOHOMISH COUNTY | 53061C1114E | 20-SEP-2002 | 02-10-490A | 02
10 | WA | SNOHOMISH COUNTY | 53061C1310E | 28-AUG-2002 | 02-10-528A | 02
10 | WA | SNOHOMISH COUNTY | 53061C0739E | 13-NOV-2002 | 02-10-554A | 02
10 | WA | SNOHOMISH COUNTY | 53061C1055E | 24-JUL-2002 | 02-10-559A | 02
10 | WA | SNOHOMISH COUNTY | 53061C1055E | 15-OCT-2002 | 02-10-650A | 02
10 | WA | SNOHOMISH COUNTY | 53061C0755E | 04-DEC-2002 | 03-10-0014A | 17
10 | WA | SNOHOMISH COUNTY | 53061C1055E | 22-NOV-2002 | 03-10-0065A | 02
10 | WA | SNOHOMISH COUNTY | 53061C1035E | 18-DEC-2002 | 03-10-0090A | 02
10 | WA | SNOHOMISH COUNTY | 53061C1310E | 26-DEC-2002 | 03-10-0124A | 02
10 | WA | SPOKANE COUNTY | 5301740025B | 03-SEP-2002 | 02-10-539A | 02
10 | WA | SPOKANE COUNTY | 5301740195B | 02-OCT-2002 | 02-10-552A | 02
10 | WA | SPOKANE COUNTY | 5301740294C | 01-AUG-2002 | 02-10-582A | 02
10 | WA | SPOKANE COUNTY | 5301740300C | 03-SEP-2002 | 02-10-634A | 02
10 | WA | SUMNER,CITY OF | 5301470005D | 26-AUG-2002 | 02-10-200A | 01
10 | WA | THURSTON COUNTY | 5301880191C | 24-JUL-2002 | 02-10-565A | 02
10 | WA | THURSTON COUNTY | 5301880440C | 06-SEP-2002 | 02-10-594A | 02
10 | WA | THURSTON COUNTY | 5301880350C | 06-SEP-2002 | 02-10-621A | 02
10 | WA | WESTPORT, CITY OF | 5300670005C | 16-OCT-2002 | 02-10-752A | 02
10 | WA | WHATCOM COUNTY | 530198—60B | 04-SEP-2002 | 02-10-638A | 02
10 | WA | WHATCOM COUNTY | 530198—66B | 16-OCT-2002 | 02-10-740A | 02
10 | WA | WHITMAN COUNTY | 5302050680B | 05-AUG-2002 | 02-10-371A | 02
10 | WA | WOODINVILLE, CITY OF | 53033C0360G | 13-AUG-2002 | 02-10-588A | 01
10 | WA | YAKIMA COUNTY | 5302171055C | 11-DEC-2002 | 03-10-0020A | 02

Region | State | Community | Panel | Panel date
01 | MA | MALDEN, CITY OF | 2502020001C | 20-AUG-2002
01 | MA | MALDEN, CITY OF | 2502020002C | 20-AUG-2002
01 | MA | MALDEN, CITY OF | 2502020003C | 20-AUG-2002
01 | MA | MALDEN, CITY OF | 2502020004C | 20-AUG-2002
01 | MA | MALDEN, CITY OF | 2502020005C | 20-AUG-2002
01 | MA | MALDEN, CITY OF | 2502020006C | 20-AUG-2002
01 | MA | MALDEN, CITY OF | 250202IND0 | 20-AUG-2002
01 | MA | REVERE, CITY OF | 2502880001C | 20-AUG-2002
01 | MA | REVERE, CITY OF | 2502880002C | 20-AUG-2002
01 | MA | REVERE, CITY OF | 2502880003C | 20-AUG-2002
01 | MA | REVERE, CITY OF | 2502880004C | 20-AUG-2002
01 | MA | REVERE, CITY OF | 2502880005C | 20-AUG-2002
01 | MA | REVERE, CITY OF | 2502880006C | 20-AUG-2002
01 | MA | REVERE, CITY OF | 2502880007C | 20-AUG-2002
01 | MA | REVERE, CITY OF | 2502880008C | 20-AUG-2002
01 | MA | REVERE, CITY OF | 250288IND0 | 20-AUG-2002
01 | ME | EDGECOMB, TOWN OF | 230217 C | 01-OCT-2002
01 | ME | EDGECOMB, TOWN OF | 2302179999C | 01-OCT-2002
01 | ME | FAYETTE, TOWN OF | 230237 A | 01-OCT-2002
01 | ME | FAYETTE, TOWN OF | 2302379999A | 01-OCT-2002
01 | ME | LEBANON, TOWN OF | 2301930001A | 03-JUL-2002
01 | ME | LEBANON, TOWN OF | 2301930002A | 03-JUL-2002
01 | ME | LEBANON, TOWN OF | 2301930004A | 03-JUL-2002
01 | ME | LEBANON, TOWN OF | 2301930010A | 03-JUL-2002
01 | ME | LEBANON, TOWN OF | 2301930011A | 03-JUL-2002
01 | ME | LEBANON, TOWN OF | 2301930012A | 03-JUL-2002
01 | ME | LEBANON, TOWN OF | 2301930013A | 03-JUL-2002
01 | ME | LEBANON, TOWN OF | 2301930020A | 03-JUL-2002
01 | ME | LEBANON, TOWN OF | 2301930030A | 03-JUL-2002
01 | ME | LEBANON, TOWN OF | 2301930040A | 03-JUL-2002
01 | ME | LEBANON, TOWN OF | 2301930051A | 03-JUL-2002
01 | ME | LEBANON, TOWN OF | 2301930052A | 03-JUL-2002
01 | ME | LEBANON, TOWN OF | 2301930054A | 03-JUL-2002
01 | ME | LEBANON, TOWN OF | 2301930058A | 03-JUL-2002
01 | ME | LEBANON, TOWN OF | 2301930060A | 03-JUL-2002
01 | ME | LEBANON, TOWN OF | 230193IND0 | 03-JUL-2002
01 | ME | ORRINGTON, TOWN OF | 2301800014A | 17-JUL-2002
01 | ME | ORRINGTON, TOWN OF | 2301800018A | 17-JUL-2002
01 | ME | ORRINGTON, TOWN OF | 2301800019A | 17-JUL-2002
01 | ME | ORRINGTON, TOWN OF | 2301800027A | 17-JUL-2002
01 | ME | ORRINGTON, TOWN OF | 2301800029A | 17-JUL-2002
01 | ME | ORRINGTON, TOWN OF | 2301800032A | 17-JUL-2002
01 | ME | ORRINGTON, TOWN OF | 2301800035A | 17-JUL-2002
01 | ME | ORRINGTON, TOWN OF | 2301800037A | 17-JUL-2002
01 | ME | ORRINGTON, TOWN OF | 2301800045A | 17-JUL-2002
01 | ME | ORRINGTON, TOWN OF | 2301800055A | 17-JUL-2002
01 | ME | ORRINGTON, TOWN OF | 2301800065A | 17-JUL-2002
01 | ME | ORRINGTON, TOWN OF | 230180IND0 | 17-JUL-2002
01 | NH | NASHUA, CITY OF | 3300970019C | 03-JUL-2002
01 | NH | NASHUA, CITY OF | 3300970020C | 03-JUL-2002
01 | NH | NASHUA, CITY OF | 3300970038C | 03-JUL-2002
01 | NH | NASHUA, CITY OF | 3300970039C | 03-JUL-2002
01 | NH | NASHUA, CITY OF | 3300970040C | 03-JUL-2002
01 | NH | NASHUA, CITY OF | 3300970056C | 03-JUL-2002
01 | NH | NASHUA, CITY OF | 3300970057C | 03-JUL-2002
01 | NH | NASHUA, CITY OF | 3300970058C | 03-JUL-2002
01 | NH | NASHUA, CITY OF | 3300970059C | 03-JUL-2002
01 | NH | NASHUA, CITY OF | 3300970075C | 03-JUL-2002
01 | NH | NASHUA, CITY OF | 3300970080C | 03-JUL-2002
01 | NH | NASHUA, CITY OF | 330097IND0 | 03-JUL-2002
01 | VT | HARDWICK, TOWN | 5000270005D | 17-JUL-2002
01 | VT | HARDWICK, TOWN | 5000270009D | 17-JUL-2002
01 | VT | HARDWICK, TOWN | 5000270010D | 17-JUL-2002
01 | VT | HARDWICK, TOWN | 5000270011D | 17-JUL-2002
01 | VT | HARDWICK, TOWN | 5000270012D | 17-JUL-2002
01 | VT | HARDWICK, TOWN | 5000270014D | 17-JUL-2002
01 | VT | HARDWICK, TOWN | 5000270016D | 17-JUL-2002
01 | VT | HARDWICK, TOWN | 5000270017D | 17-JUL-2002
01 | VT | HARDWICK, TOWN | 5000270018D | 17-JUL-2002
01 | VT | HARDWICK, TOWN | 5000270021D | 17-JUL-2002
01 | VT | HARDWICK, TOWN | 500027IND0 | 17-JUL-2002
02 | NJ | DEAL, BOROUGH OF | 3402920001C | 06-AUG-2002
02 | NJ | FLORHAM PARK, BOROUGH OF | 3403420017E | 20-DEC-2002
02 | NJ | FLORHAM PARK, BOROUGH OF | 3403420019E | 20-DEC-2002
02 | NJ | FLORHAM PARK, BOROUGH OF | 3403420020E | 20-DEC-2002
02 | NJ | FLORHAM PARK, BOROUGH OF | 3403420036E | 20-DEC-2002
02 | NJ | FLORHAM PARK, BOROUGH OF | 3403420038E | 20-DEC-2002
02 | NJ | FLORHAM PARK, BOROUGH OF | 340342IND0A | 20-DEC-2002
02 | NJ | RAHWAY, CITY OF | 3453140002C | 20-DEC-2002
02 | NJ | WATCHUNG, BOROUGH OF | 3404470001C | 20-AUG-2002
02 | NJ | WATCHUNG, BOROUGH OF | 3404470002C | 20-AUG-2002
02 | NJ | WATCHUNG, BOROUGH OF | 3404470003C | 20-AUG-2002
02 | NJ | WATCHUNG, BOROUGH OF | 340447IND0 | 20-AUG-2002
02 | NY | ANGOLA, VILLAGE OF | 3609820002C | 06-AUG-2002
02 | NY | CORNING, CITY OF | 3607720001E | 27-SEP-2002
02 | NY | CORNING, TOWN OF | 3607730015D | 27-SEP-2002
02 | NY | CORNING, TOWN OF | 360773IND0A | 27-SEP-2002
02 | NY | EAST AURORA, VILLAGE OF | 3653350002C | 06-AUG-2002
02 | NY | EAST AURORA, VILLAGE OF | 3653350003C | 06-AUG-2002
02 | NY | EAST AURORA, VILLAGE OF | 365335IND0 | 06-AUG-2002
02 | NY | HAMILTON, TOWN OF | 360401 B | 27-SEP-2002
02 | NY | HAMILTON, TOWN OF | 3604010003C | 27-SEP-2002
02 | NY | HAMILTON, TOWN OF | 3604010005C | 27-SEP-2002
02 | NY | HAMILTON, TOWN OF | 3604010007C | 27-SEP-2002
02 | NY | HAMILTON, TOWN OF | 3604010009C | 27-SEP-2002
02 | NY | HAMILTON, TOWN OF | 360401IND0 | 27-SEP-2002
02 | NY | HAMILTON, VILLAGE OF | 3604020001C | 27-SEP-2002
02 | NY | HAMILTON, VILLAGE OF | 3604020002C | 27-SEP-2002
02 | NY | HAMILTON, VILLAGE OF | 360402IND0A | 27-SEP-2002
02 | NY | LISLE, TOWN OF | 3600490040C | 20-AUG-2002
02 | NY | LISLE, TOWN OF | 3600490042C | 20-AUG-2002
02 | NY | LISLE, TOWN OF | 3600490044C | 20-AUG-2002
02 | NY | LISLE, TOWN OF | 3600490045C | 20-AUG-2002
02 | NY | LISLE, TOWN OF | 3600490063C | 20-AUG-2002
02 | NY | LISLE, TOWN OF | 3600490077C | 20-AUG-2002
02 | NY | LISLE, TOWN OF | 3600490080C | 20-AUG-2002
02 | NY | LISLE, TOWN OF | 3600490081C | 20-AUG-2002
02 | NY | LISLE, TOWN OF | 3600490082C | 20-AUG-2002
02 | NY | LISLE, TOWN OF | 3600490085C | 20-AUG-2002
02 | NY | LISLE, TOWN OF | 3600490090C | 20-AUG-2002
02 | NY | LISLE, TOWN OF | 3600490095C | 20-AUG-2002
02 | NY | LISLE, TOWN OF | 3600490101C | 20-AUG-2002
02 | NY | LISLE, TOWN OF | 3600490103C | 20-AUG-2002
02 | NY | LISLE, TOWN OF | 360049IND0 | 20-AUG-2002
02 | NY | LOCKPORT, TOWN OF | 3610130001D | 04-OCT-2002
02 | NY | LOCKPORT, TOWN OF | 3610130002D | 04-OCT-2002
02 | NY | LOCKPORT, TOWN OF | 3610130003D | 04-OCT-2002
02 | NY | LOCKPORT, TOWN OF | 3610130004D | 04-OCT-2002
02 | NY | LOCKPORT, TOWN OF | 3610130006D | 04-OCT-2002
02 | NY | LOCKPORT, TOWN OF | 3610130008D | 04-OCT-2002
02 | NY | LOCKPORT, TOWN OF | 3610130012D | 04-OCT-2002
02 | NY | LOCKPORT, TOWN OF | 3610130018D | 04-OCT-2002
02 | NY | LOCKPORT, TOWN OF | 3610130021D | 04-OCT-2002
02 | NY | LOCKPORT, TOWN OF | 3610130022D | 04-OCT-2002
02 | NY | LOCKPORT, TOWN OF | 3610130023D | 04-OCT-2002
02 | NY | LOCKPORT, TOWN OF | 3610130024D | 04-OCT-2002
02 | NY | LOCKPORT, TOWN OF | 361013IND0A | 04-OCT-2002
02 | NY | TUSTEN, TOWN OF | 3608310003D | 20-AUG-2002
02 | NY | TUSTEN, TOWN OF | 3608310004D | 20-AUG-2002
02 | NY | TUSTEN, TOWN OF | 3608310010D | 20-AUG-2002
02 | NY | TUSTEN, TOWN OF | 3608310012D | 20-AUG-2002
02 | NY | TUSTEN, TOWN OF | 3608310016D | 20-AUG-2002
02 | NY | TUSTEN, TOWN OF | 3608310017D | 20-AUG-2002
02 | NY | TUSTEN, TOWN OF | 3608310018D | 20-AUG-2002
02 | NY | TUSTEN, TOWN OF | 3608310019D | 20-AUG-2002
02 | NY | TUSTEN, TOWN OF | 3608310025D | 20-AUG-2002
02 | NY | TUSTEN, TOWN OF | 3608310030D | 20-AUG-2002
02 | NY | TUSTEN, TOWN OF | 3608310032D | 20-AUG-2002
02 | NY | TUSTEN, TOWN OF | 3608310034D | 20-AUG-2002
02 | NY | TUSTEN, TOWN OF | 3608310038D | 20-AUG-2002
02 | NY | TUSTEN, TOWN OF | 3608310040D | 20-AUG-2002
02 | NY | TUSTEN, TOWN OF | 3608310045D | 20-AUG-2002
02 | NY | TUSTEN, TOWN OF | 360831IND0 | 20-AUG-2002
03 | PA | BULLSKIN, TOWNSHIP OF | 4216220003B | 06-DEC-2002
03 | PA | BULLSKIN, TOWNSHIP OF | 4216220007B | 06-DEC-2002
03 | PA | BULLSKIN, TOWNSHIP OF | 4216220016B | 06-DEC-2002
03 | PA | BULLSKIN, TOWNSHIP OF | 421622IND0A | 06-DEC-2002
03 | PA | EVERSON, BOROUGH OF | 4204620001D | 06-DEC-2002
03 | PA | HEMPFIELD, TOWNSHIP OF | 42129C0645E* | 06-DEC-2002
03 | PA | HEMPFIELD, TOWNSHIP OF | 42129CIND0A | 06-DEC-2002
03 | PA | MT. PLEASANT, BOROUGH OF | 42129C0645E | 06-DEC-2002
03 | PA | MT. PLEASANT, BOROUGH OF | 42129CIND0A | 06-DEC-2002
03 | PA | MT. PLEASANT, TOWNSHIP OF | 42129C0645E | 06-DEC-2002
03 | PA | MT. PLEASANT, TOWNSHIP OF | 42129C0665E | 06-DEC-2002
03 | PA | MT. PLEASANT, TOWNSHIP OF | 42129C0668E | 06-DEC-2002
03 | PA | MT. PLEASANT, TOWNSHIP OF | 42129C0785E | 06-DEC-2002
03 | PA | MT. PLEASANT, TOWNSHIP OF | 42129CIND0A | 06-DEC-2002
03 | PA | UPPER TYRONE, TOWNSHIP OF | 4204670005C | 06-DEC-2002
03 | PA | UPPER TYRONE, TOWNSHIP OF | 4204670010C | 06-DEC-2002
03 | PA | UPPER TYRONE, TOWNSHIP OF | 420467IND0A | 06-DEC-2002
03 | PA | WESTMORELAND COUNTY* | 42129C0645E | 06-DEC-2002
03 | PA | WESTMORELAND COUNTY* | 42129C0665E | 06-DEC-2002
03 | PA | WESTMORELAND COUNTY* | 42129C0668E | 06-DEC-2002
03 | PA | WESTMORELAND COUNTY* | 42129C0780E | 06-DEC-2002
03 | PA | WESTMORELAND COUNTY* | 42129C0785E | 06-DEC-2002
03 | PA | WESTMORELAND COUNTY* | 42129CIND0A | 06-DEC-2002
03 | VA | BOYKINS, TOWN OF | 51175C0355C | 04-SEP-2002
03 | VA | BOYKINS, TOWN OF | 51175CIND0 | 04-SEP-2002
03 | VA | BRANCHVILLE, TOWN OF | 51175C0335C | 04-SEP-2002
03 | VA | BRANCHVILLE, TOWN OF | 51175C0355C | 04-SEP-2002
03 | VA | BRANCHVILLE, TOWN OF | 51175CIND0 | 04-SEP-2002
03 | VA | COURTLAND, TOWN OF | 51175C0280C | 04-SEP-2002
03 | VA | COURTLAND, TOWN OF | 51175C0285C | 04-SEP-2002
03 | VA | COURTLAND, TOWN OF | 51175CIND0 | 04-SEP-2002
03 | VA | FRANKLIN, CITY OF | 5100600002D | 04-SEP-2002
03 | VA | FRANKLIN, CITY OF | 5100600004D | 04-SEP-2002
03 | VA | FRANKLIN, CITY OF | 510060IND0 | 04-SEP-2002
03 | VA | GROTTOES, TOWN OF | 5101380001C | 20-DEC-2002
03 | VA | ISLE OF WIGHT COUNTY * | 51093C0020D | 04-SEP-2002
03 | VA | ISLE OF WIGHT COUNTY * | 51093C0050D | 04-SEP-2002
03 | VA | ISLE OF WIGHT COUNTY * | 51093C0055D | 04-SEP-2002
03 | VA | ISLE OF WIGHT COUNTY * | 51093C0060D | 04-SEP-2002
03 | VA | ISLE OF WIGHT COUNTY * | 51093C0065D | 04-SEP-2002
03 | VA | ISLE OF WIGHT COUNTY * | 51093C0070D | 04-SEP-2002
03 | VA | ISLE OF WIGHT COUNTY * | 51093C0090D | 04-SEP-2002
03 | VA | ISLE OF WIGHT COUNTY * | 51093C0095D | 04-SEP-2002
03 | VA | ISLE OF WIGHT COUNTY * | 51093C0115D | 04-SEP-2002
03 | VA | ISLE OF WIGHT COUNTY * | 51093C0120D | 04-SEP-2002
03 | VA | ISLE OF WIGHT COUNTY * | 51093C0125D | 04-SEP-2002
03 | VA | ISLE OF WIGHT COUNTY * | 51093C0135D | 04-SEP-2002
03 | VA | ISLE OF WIGHT COUNTY * | 51093C0150D | 04-SEP-2002
03 | VA | ISLE OF WIGHT COUNTY * | 51093C0155D | 04-SEP-2002
03 | VA | ISLE OF WIGHT COUNTY * | 51093C0160D | 04-SEP-2002
03 | VA | ISLE OF WIGHT COUNTY * | 51093C0165D | 04-SEP-2002
03 | VA | ISLE OF WIGHT COUNTY * | 51093C0170D | 04-SEP-2002
03 | VA | ISLE OF WIGHT COUNTY * | 51093C0180D | 04-SEP-2002
03 | VA | ISLE OF WIGHT COUNTY * | 51093C0190D | 04-SEP-2002
03 | VA | ISLE OF WIGHT COUNTY * | 51093C0220D | 04-SEP-2002
03 | VA | ISLE OF WIGHT COUNTY * | 51093C0230D | 04-SEP-2002
03 | VA | ISLE OF WIGHT COUNTY * | 51093C0240D | 04-SEP-2002
03 | VA | ISLE OF WIGHT COUNTY * | 51093C0250D | 04-SEP-2002
03 | VA | ISLE OF WIGHT COUNTY * | 51093C0255D | 04-SEP-2002
03 | VA | ISLE OF WIGHT COUNTY * | 51093C0265D | 04-SEP-2002
03 | VA | ISLE OF WIGHT COUNTY * | 51093C0275D | 04-SEP-2002
03 | VA | ISLE OF WIGHT COUNTY * | 51093C0300D | 04-SEP-2002
03 | VA | ISLE OF WIGHT COUNTY * | 51093C0310D | 04-SEP-2002
03 | VA | ISLE OF WIGHT COUNTY * | 51093C0320D | 04-SEP-2002
03 | VA | ISLE OF WIGHT COUNTY * | 51093C0350D | 04-SEP-2002
03 | VA | ISLE OF WIGHT COUNTY * | 51093CIND0 | 04-SEP-2002
03 | VA | NEWSOMS, TOWN OF | 51175C0270C | 04-SEP-2002
03 | VA | NEWSOMS, TOWN OF | 51175C0300C | 04-SEP-2002
03 | VA | NEWSOMS, TOWN OF | 51175C0360C | 04-SEP-2002
03 | VA | NEWSOMS, TOWN OF | 51175C0380C | 04-SEP-2002
03 | VA | NEWSOMS, TOWN OF | 51175CIND0 | 04-SEP-2002
03 | VA | SMITHFIELD, TOWN OF | 51093C0090D | 04-SEP-2002
03 | VA | SMITHFIELD, TOWN OF | 51093C0135D | 04-SEP-2002
03 | VA | SMITHFIELD, TOWN OF | 51093C0155D | 04-SEP-2002
03 | VA | SMITHFIELD, TOWN OF | 51093CIND0 | 04-SEP-2002
03 | VA | SOUTHAMPTON COUNTY * | 51175C0050C | 04-SEP-2002
03 | VA | SOUTHAMPTON COUNTY * | 51175C0055C | 04-SEP-2002
03 | VA | SOUTHAMPTON COUNTY * | 51175C0065C | 04-SEP-2002
03 | VA | SOUTHAMPTON COUNTY * | 51175C0100C | 04-SEP-2002
03 | VA | SOUTHAMPTON COUNTY * | 51175C0125C | 04-SEP-2002
03 | VA | SOUTHAMPTON COUNTY * | 51175C0150C | 04-SEP-2002
03 | VA | SOUTHAMPTON COUNTY * | 51175C0155C | 04-SEP-2002
03 | VA | SOUTHAMPTON COUNTY * | 51175C0160C | 04-SEP-2002
03 | VA | SOUTHAMPTON COUNTY * | 51175C0170C | 04-SEP-2002
03 | VA | SOUTHAMPTON COUNTY * | 51175C0180C | 04-SEP-2002
03 | VA | SOUTHAMPTON COUNTY * | 51175C0190C | 04-SEP-2002
03 | VA | SOUTHAMPTON COUNTY * | 51175C0225C | 04-SEP-2002
03 | VA | SOUTHAMPTON COUNTY * | 51175C0250C | 04-SEP-2002
03 | VA | SOUTHAMPTON COUNTY * | 51175C0255C | 04-SEP-2002
03 | VA | SOUTHAMPTON COUNTY * | 51175C0260C | 04-SEP-2002
03 | VA | SOUTHAMPTON COUNTY * | 51175C0265C | 04-SEP-2002
03 | VA | SOUTHAMPTON COUNTY * | 51175C0270C | 04-SEP-2002
03 | VA | SOUTHAMPTON COUNTY * | 51175C0280C | 04-SEP-2002
03 | VA | SOUTHAMPTON COUNTY * | 51175C0285C | 04-SEP-2002
03 | VA | SOUTHAMPTON COUNTY * | 51175C0300C | 04-SEP-2002
03 | VA | SOUTHAMPTON COUNTY * | 51175C0305C | 04-SEP-2002
03 | VA | SOUTHAMPTON COUNTY * | 51175C0310C | 04-SEP-2002
03 | VA | SOUTHAMPTON COUNTY * | 51175C0315C | 04-SEP-2002
03 | VA | SOUTHAMPTON COUNTY * | 51175C0320C | 04-SEP-2002
03 | VA | SOUTHAMPTON COUNTY * | 51175C0335C | 04-SEP-2002
03 | VA | SOUTHAMPTON COUNTY * | 51175C0350C | 04-SEP-2002
03 | VA | SOUTHAMPTON COUNTY * | 51175C0355C | 04-SEP-2002
03 | VA | SOUTHAMPTON COUNTY * | 51175C0360C | 04-SEP-2002
03 | VA | SOUTHAMPTON COUNTY * | 51175C0375C | 04-SEP-2002
03 | VA | SOUTHAMPTON COUNTY * | 51175C0380C | 04-SEP-2002
03 | VA | SOUTHAMPTON COUNTY * | 51175C0400C | 04-SEP-2002
03 | VA | SOUTHAMPTON COUNTY * | 51175C0405C | 04-SEP-2002
03 | VA | SOUTHAMPTON COUNTY * | 51175C0410C | 04-SEP-2002
03 | VA | SOUTHAMPTON COUNTY * | 51175C0415C | 04-SEP-2002
03 | VA | SOUTHAMPTON COUNTY * | 51175C0420C | 04-SEP-2002
03 | VA | SOUTHAMPTON COUNTY * | 51175CIND0 | 04-SEP-2002
03 | VA | SUFFOLK, CITY OF | 5101560031C | 04-SEP-2002
03 | VA | SUFFOLK, CITY OF | 5101560038C | 04-SEP-2002
03 | VA | SUFFOLK, CITY OF | 5101560045C | 04-SEP-2002
03 | VA | SUFFOLK, CITY OF | 510156IND0 | 04-SEP-2002
03 | VA | WINDSOR, TOWN OF | 51093C0250D | 04-SEP-2002
03 | VA | WINDSOR, TOWN OF | 51093C0255D | 04-SEP-2002
03 | VA | WINDSOR, TOWN OF | 51093C0265D | 04-SEP-2002
03 | VA | WINDSOR, TOWN OF | 51093CIND0 | 04-SEP-2002
03 | WV | BERKELEY COUNTY * | 5402820059C | 06-AUG-2002
03 | WV | BERKELEY COUNTY * | 5402820078D | 06-AUG-2002
03 | WV | BERKELEY COUNTY * | 540282IND0 | 06-AUG-2002
03 | WV | BUCKHANNON, CITY OF | 5401990001C | 20-DEC-2002
03 | WV | CAPON BRIDGE TOWN | 54027C0312C | 07-NOV-2002
03 | WV | CAPON BRIDGE TOWN | 54027C0316C | 07-NOV-2002
03 | WV | CAPON BRIDGE TOWN | 54027CIND0A | 07-NOV-2002
03 | WV | HAMPSHIRE COUNTY* | 54027C0019C | 07-NOV-2002
03 | WV | HAMPSHIRE COUNTY* | 54027C0020C | 07-NOV-2002
03 | WV | HAMPSHIRE COUNTY* | 54027C0036C | 07-NOV-2002
03 | WV | HAMPSHIRE COUNTY* | 54027C0037C | 07-NOV-2002
03 | WV | HAMPSHIRE COUNTY* | 54027C0038C | 07-NOV-2002
03 | WV | HAMPSHIRE COUNTY* | 54027C0039C | 07-NOV-2002
03 | WV | HAMPSHIRE COUNTY* | 54027C0045C | 07-NOV-2002
03 | WV | HAMPSHIRE COUNTY* | 54027C0065C | 07-NOV-2002
03 | WV | HAMPSHIRE COUNTY* | 54027C0092C | 07-NOV-2002
03 | WV | HAMPSHIRE COUNTY* | 54027C0094C | 07-NOV-2002
03 | WV | HAMPSHIRE COUNTY* | 54027C0105C | 07-NOV-2002
03 | WV | HAMPSHIRE COUNTY* | 54027C0106C | 07-NOV-2002
03 | WV | HAMPSHIRE COUNTY* | 54027C0107C | 07-NOV-2002
03 | WV | HAMPSHIRE COUNTY* | 54027C0108C | 07-NOV-2002
03 | WV | HAMPSHIRE COUNTY* | 54027C0109C | 07-NOV-2002
03 | WV | HAMPSHIRE COUNTY* | 54027C0111C | 07-NOV-2002
03 | WV | HAMPSHIRE COUNTY* | 54027C0112C | 07-NOV-2002
03 | WV | HAMPSHIRE COUNTY* | 54027C0113C | 07-NOV-2002
03 | WV | HAMPSHIRE COUNTY* | 54027C0114C | 07-NOV-2002
03 | WV | HAMPSHIRE COUNTY* | 54027C0116C | 07-NOV-2002
03 | WV | HAMPSHIRE COUNTY* | 54027C0117C | 07-NOV-2002
03 | WV | HAMPSHIRE COUNTY* | 54027C0120C | 07-NOV-2002
03 | WV | HAMPSHIRE COUNTY* | 54027C0126C | 07-NOV-2002
03 | WV | HAMPSHIRE COUNTY* | 54027C0127C | 07-NOV-2002
03 | WV | HAMPSHIRE COUNTY* | 54027C0130C | 07-NOV-2002
03 | WV | HAMPSHIRE COUNTY* | 54027C0135C | 07-NOV-2002
03 | WV | HAMPSHIRE COUNTY* | 54027C0140C | 07-NOV-2002
03 | WV | HAMPSHIRE COUNTY* | 54027C0145C | 07-NOV-2002
03 | WV | HAMPSHIRE COUNTY* | 54027C0155C | 07-NOV-2002
03 | WV | HAMPSHIRE COUNTY* | 54027C0160C | 07-NOV-2002
03 | WV | HAMPSHIRE COUNTY* | 54027C0165C | 07-NOV-2002
03 | WV | HAMPSHIRE COUNTY* | 54027C0170C | 07-NOV-2002
03 | WV | HAMPSHIRE COUNTY* | 54027C0190C | 07-NOV-2002
03 | WV | HAMPSHIRE COUNTY* | 54027C0215C | 07-NOV-2002
03 | WV | HAMPSHIRE COUNTY* | 54027C0220C | 07-NOV-2002
03 | WV | HAMPSHIRE COUNTY* | 54027C0230C | 07-NOV-2002
03 | WV | HAMPSHIRE COUNTY* | 54027C0231C | 07-NOV-2002
03 | WV | HAMPSHIRE COUNTY* | 54027C0232C | 07-NOV-2002
03 | WV | HAMPSHIRE COUNTY* | 54027C0233C | 07-NOV-2002
03 | WV | HAMPSHIRE COUNTY* | 54027C0234C | 07-NOV-2002
03 | WV | HAMPSHIRE COUNTY* | 54027C0240C | 07-NOV-2002
03 | WV | HAMPSHIRE COUNTY* | 54027C0245C | 07-NOV-2002
03 | WV | HAMPSHIRE COUNTY* | 54027C0251C | 07-NOV-2002
03 | WV | HAMPSHIRE COUNTY* | 54027C0252C | 07-NOV-2002
03 | WV | HAMPSHIRE COUNTY* | 54027C0253C | 07-NOV-2002
03 | WV | HAMPSHIRE COUNTY* | 54027C0254C | 07-NOV-2002
03 | WV | HAMPSHIRE COUNTY* | 54027C0258C | 07-NOV-2002
03 | WV | HAMPSHIRE COUNTY* | 54027C0259C | 07-NOV-2002
03 | WV | HAMPSHIRE COUNTY* | 54027C0260C | 07-NOV-2002
03 | WV | HAMPSHIRE COUNTY* | 54027C0262C | 07-NOV-2002
03 | WV | HAMPSHIRE COUNTY* | 54027C0265C | 07-NOV-2002
03 | WV | HAMPSHIRE COUNTY* | 54027C0266C | 07-NOV-2002
03 | WV | HAMPSHIRE COUNTY* | 54027C0270C | 07-NOV-2002
03 | WV | HAMPSHIRE COUNTY* | 54027C0280C | 07-NOV-2002
03 | WV | HAMPSHIRE COUNTY* | 54027C0283C | 07-NOV-2002
03 | WV | HAMPSHIRE COUNTY* | 54027C0285C | 07-NOV-2002
03 | WV | HAMPSHIRE COUNTY* | 54027C0289C | 07-NOV-2002
03 | WV | HAMPSHIRE COUNTY* | 54027C0290C | 07-NOV-2002
03 | WV | HAMPSHIRE COUNTY* | 54027C0291C | 07-NOV-2002
03 | WV | HAMPSHIRE COUNTY* | 54027C0293C | 07-NOV-2002
03 | WV | HAMPSHIRE COUNTY* | 54027C0295C | 07-NOV-2002
03 | WV | HAMPSHIRE COUNTY* | 54027C0305C | 07-NOV-2002
03 | WV | HAMPSHIRE COUNTY* | 54027C0308C | 07-NOV-2002
03 | WV | HAMPSHIRE COUNTY* | 54027C0309C | 07-NOV-2002
03 | WV | HAMPSHIRE COUNTY* | 54027C0310C | 07-NOV-2002
03 | WV | HAMPSHIRE COUNTY* | 54027C0312C | 07-NOV-2002
03 | WV | HAMPSHIRE COUNTY* | 54027C0314C | 07-NOV-2002
03 | WV | HAMPSHIRE COUNTY* | 54027C0315C | 07-NOV-2002
03 | WV | HAMPSHIRE COUNTY* | 54027C0316C | 07-NOV-2002
03 | WV | HAMPSHIRE COUNTY* | 54027C0317C | 07-NOV-2002
03 | WV | HAMPSHIRE COUNTY* | 54027C0330C | 07-NOV-2002
03 | WV | HAMPSHIRE COUNTY* | 54027C0355C | 07-NOV-2002
03 | WV | HAMPSHIRE COUNTY* | 54027C0360C | 07-NOV-2002
03 | WV | HAMPSHIRE COUNTY* | 54027C0380C | 07-NOV-2002
03 | WV | HAMPSHIRE COUNTY* | 54027C0385C | 07-NOV-2002
03 | WV | HAMPSHIRE COUNTY* | 54027C0395C | 07-NOV-2002
03 | WV | HAMPSHIRE COUNTY* | 54027C0405C | 07-NOV-2002
03 | WV | HAMPSHIRE COUNTY* | 54027C0410C | 07-NOV-2002
03 | WV | HAMPSHIRE COUNTY* | 54027C0415C | 07-NOV-2002
03 | WV | HAMPSHIRE COUNTY* | 54027C0420C | 07-NOV-2002
03 | WV | HAMPSHIRE COUNTY* | 54027C0427C | 07-NOV-2002
03 | WV | HAMPSHIRE COUNTY* | 54027C0430C | 07-NOV-2002
03 | WV | HAMPSHIRE COUNTY* | 54027C0431C | 07-NOV-2002
03 | WV | HAMPSHIRE COUNTY* | 54027C0435C | 07-NOV-2002
03 | WV | HAMPSHIRE COUNTY* | 54027C0440C | 07-NOV-2002
03 | WV | HAMPSHIRE COUNTY* | 54027C0445C | 07-NOV-2002
03 | WV | HAMPSHIRE COUNTY* | 54027C0455C | 07-NOV-2002
03 | WV | HAMPSHIRE COUNTY* | 54027C0460C | 07-NOV-2002
03 | WV | HAMPSHIRE COUNTY* | 54027C0465C | 07-NOV-2002
03 | WV | HAMPSHIRE COUNTY* | 54027C0470C | 07-NOV-2002
03 | WV | HAMPSHIRE COUNTY* | 54027C0510C | 07-NOV-2002
03 | WV | HAMPSHIRE COUNTY* | 54027CIND0A | 07-NOV-2002
03 | WV | ROMNEY, TOWN OF | 54027C0232C | 07-NOV-2002
03 | WV | ROMNEY, TOWN OF | 54027C0234C | 07-NOV-2002
03 | WV | ROMNEY, TOWN OF | 54027C0251C | 07-NOV-2002
03 | WV | ROMNEY, TOWN OF | 54027C0253C | 07-NOV-2002
03 | WV | ROMNEY, TOWN OF | 54027CIND0A | 07-NOV-2002
04 | AL | ASHFORD, TOWN OF | 01069C0235E | 21-NOV-2002
04 | AL | ASHFORD, TOWN OF | 01069C0245E | 21-NOV-2002
04 | AL | ASHFORD, TOWN OF | 01069C0275E | 21-NOV-2002
04 | AL | ASHFORD, TOWN OF | 01069CIND0A | 21-NOV-2002
04 | AL | AVON, TOWN OF | 01069C0235E | 21-NOV-2002
04 | AL | AVON, TOWN OF | 01069C0245E | 21-NOV-2002
04 | AL | AVON, TOWN OF | 01069CIND0A | 21-NOV-2002
04 | AL | COLUMBIA, TOWN OF | 01069C0125E | 21-NOV-2002
04 | AL | COLUMBIA, TOWN OF | 01069C0150E | 21-NOV-2002
04 | AL | COLUMBIA, TOWN OF | 01069CIND0A | 21-NOV-2002
04 | AL | COTTONWOOD, TOWN OF | 01069C0330E | 21-NOV-2002
04 | AL | COTTONWOOD, TOWN OF | 01069C0335E | 21-NOV-2002
04 | AL | COTTONWOOD, TOWN OF | 01069C0340E | 21-NOV-2002
04 | AL | COTTONWOOD, TOWN OF | 01069C0345E | 21-NOV-2002
04 | AL | COTTONWOOD, TOWN OF | 01069CIND0A | 21-NOV-2002
04 | AL | COWARTS, TOWN OF | 01069C0227E | 21-NOV-2002
04 | AL | COWARTS, TOWN OF | 01069C0229E | 21-NOV-2002
04 | AL | COWARTS, TOWN OF | 01069C0235E | 21-NOV-2002
04 | AL | COWARTS, TOWN OF | 01069C0237E | 21-NOV-2002
04 | AL | COWARTS, TOWN OF | 01069C0245E | 21-NOV-2002
04 | AL | COWARTS, TOWN OF | 01069CIND0A | 21-NOV-2002
04 | AL | DOTHAN, CITY OF | 01069C0044E | 21-NOV-2002
04 | AL | DOTHAN, CITY OF | 01069C0062E | 21-NOV-2002
04 | AL | DOTHAN, CITY OF | 01069C0063E | 21-NOV-2002
04 | AL | DOTHAN, CITY OF | 01069C0064E | 21-NOV-2002
04 | AL | DOTHAN, CITY OF | 01069C0067E | 21-NOV-2002
04 | AL | DOTHAN, CITY OF | 01069C0068E | 21-NOV-2002
04 | AL | DOTHAN, CITY OF | 01069C0069E | 21-NOV-2002
04 | AL | DOTHAN, CITY OF | 01069C0086E | 21-NOV-2002
04 | AL | DOTHAN, CITY OF | 01069C0088E | 21-NOV-2002
04 | AL | DOTHAN, CITY OF | 01069C0089E | 21-NOV-2002
04 | AL | DOTHAN, CITY OF | 01069C0182E | 21-NOV-2002
04 | AL | DOTHAN, CITY OF | 01069C0185E | 21-NOV-2002
04 | AL | DOTHAN, CITY OF | 01069C0201E | 21-NOV-2002
04 | AL | DOTHAN, CITY OF | 01069C0202E | 21-NOV-2002
04 | AL | DOTHAN, CITY OF | 01069C0203E | 21-NOV-2002
04 | AL | DOTHAN, CITY OF | 01069C0204E | 21-NOV-2002
04 | AL | DOTHAN, CITY OF | 01069C0206E | 21-NOV-2002
04 | AL | DOTHAN, CITY OF | 01069C0207E | 21-NOV-2002
04 | AL | DOTHAN, CITY OF | 01069C0208E | 21-NOV-2002
04 | AL | DOTHAN, CITY OF | 01069C0209E | 21-NOV-2002
04 | AL | DOTHAN, CITY OF | 01069C0212E | 21-NOV-2002
04 | AL | DOTHAN, CITY OF | 01069C0215E | 21-NOV-2002
04 | AL | DOTHAN, CITY OF | 01069C0216E | 21-NOV-2002
04 | AL | DOTHAN, CITY OF | 01069C0217E | 21-NOV-2002
04 | AL | DOTHAN, CITY OF | 01069C0220E | 21-NOV-2002
04 | AL | DOTHAN, CITY OF | 01069C0226E | 21-NOV-2002
04 | AL | DOTHAN, CITY OF | 01069C0227E | 21-NOV-2002
04 | AL | DOTHAN, CITY OF | 01069C0228E | 21-NOV-2002
04 | AL | DOTHAN, CITY OF | 01069C0229E | 21-NOV-2002
04 | AL | DOTHAN, CITY OF | 01069C0235E | 21-NOV-2002
04 | AL | DOTHAN, CITY OF | 01069C0236E | 21-NOV-2002
04 | AL | DOTHAN, CITY OF | 01069C0237E | 21-NOV-2002
04 | AL | DOTHAN, CITY OF | 01069C0240E | 21-NOV-2002
04 | AL | DOTHAN, CITY OF | 01069C0245E | 21-NOV-2002
04 | AL | DOTHAN, CITY OF | 01069CIND0A | 21-NOV-2002
04 | AL | ELMORE COUNTY* | 0104060095C | 06-AUG-2002
04 | AL | ELMORE COUNTY* | 0104060100C | 06-AUG-2002
04 | AL | ELMORE COUNTY* | 0104060125C | 06-AUG-2002
04 | AL | ELMORE COUNTY* | 0104060155C | 06-AUG-2002
04 | AL | ELMORE COUNTY* | 0104060157C | 06-AUG-2002
04 | AL | ELMORE COUNTY* | 0104060160C | 06-AUG-2002
04 | AL | ELMORE COUNTY* | 0104060165C | 06-AUG-2002
04 | AL | ELMORE COUNTY* | 0104060170C | 06-AUG-2002
04 | AL | ELMORE COUNTY* | 0104060176C | 06-AUG-2002
04 | AL | ELMORE COUNTY* | 0104060200C | 06-AUG-2002
04 | AL | ELMORE COUNTY* | 010406CIND0 | 06-AUG-2002
04 | AL | GORDON, TOWN OF | 01069C0300E | 21-NOV-2002
04 | AL | GORDON, TOWN OF | 01069CIND0A | 21-NOV-2002
04 | AL | HOUSTON COUNTY * | 01069C0020E | 21-NOV-2002
04 | AL | HOUSTON COUNTY * | 01069C0040E | 21-NOV-2002
04 | AL | HOUSTON COUNTY * | 01069C0044E | 21-NOV-2002
04 | AL | HOUSTON COUNTY * | 01069C0045E | 21-NOV-2002
04 | AL | HOUSTON COUNTY * | 01069C0062E | 21-NOV-2002
04 | AL | HOUSTON COUNTY * | 01069C0063E | 21-NOV-2002
04 | AL | HOUSTON COUNTY * | 01069C0064E | 21-NOV-2002
04 | AL | HOUSTON COUNTY * | 01069C0067E | 21-NOV-2002
04 | AL | HOUSTON COUNTY * | 01069C0068E | 21-NOV-2002
04 | AL | HOUSTON COUNTY * | 01069C0069E | 21-NOV-2002
04 | AL | HOUSTON COUNTY * | 01069C0086E | 21-NOV-2002
04 | AL | HOUSTON COUNTY * | 01069C0087E | 21-NOV-2002
04 | AL | HOUSTON COUNTY * | 01069C0088E | 21-NOV-2002
04 | AL | HOUSTON COUNTY * | 01069C0089E | 21-NOV-2002
04 | AL | HOUSTON COUNTY * | 01069C0095E | 21-NOV-2002
04 | AL | HOUSTON COUNTY * | 01069C0125E | 21-NOV-2002
04 | AL | HOUSTON COUNTY * | 01069C0150E | 21-NOV-2002
04 | AL | HOUSTON COUNTY * | 01069C0155E | 21-NOV-2002
04 | AL | HOUSTON COUNTY * | 01069C0160E | 21-NOV-2002
04 | AL | HOUSTON COUNTY * | 01069C0180E | 21-NOV-2002
04 | AL | HOUSTON COUNTY * | 01069C0182E | 21-NOV-2002
04 | AL | HOUSTON COUNTY * | 01069C0185E | 21-NOV-2002
04 | AL | HOUSTON COUNTY * | 01069C0201E | 21-NOV-2002
04 | AL | HOUSTON COUNTY * | 01069C0202E | 21-NOV-2002
04 | AL | HOUSTON COUNTY * | 01069C0203E | 21-NOV-2002
04 | AL | HOUSTON COUNTY * | 01069C0204E | 21-NOV-2002
04 | AL | HOUSTON COUNTY * | 01069C0206E | 21-NOV-2002
04 | AL | HOUSTON COUNTY * | 01069C0207E | 21-NOV-2002
04 | AL | HOUSTON COUNTY * | 01069C0208E | 21-NOV-2002
04 | AL | HOUSTON COUNTY * | 01069C0209E | 21-NOV-2002
04 | AL | HOUSTON COUNTY * | 01069C0211E | 21-NOV-2002
04 | AL | HOUSTON COUNTY * | 01069C0212E | 21-NOV-2002
04 | AL | HOUSTON COUNTY * | 01069C0215E | 21-NOV-2002
04 | AL | HOUSTON COUNTY * | 01069C0216E | 21-NOV-2002
04 | AL | HOUSTON COUNTY * | 01069C0217E | 21-NOV-2002
04 | AL | HOUSTON COUNTY * | 01069C0220E | 21-NOV-2002
04 | AL | HOUSTON COUNTY * | 01069C0226E | 21-NOV-2002
04 | AL | HOUSTON COUNTY * | 01069C0227E | 21-NOV-2002
04 | AL | HOUSTON COUNTY * | 01069C0228E | 21-NOV-2002
04 | AL | HOUSTON COUNTY * | 01069C0229E | 21-NOV-2002
04 | AL | HOUSTON COUNTY * | 01069C0235E | 21-NOV-2002
04 | AL | HOUSTON COUNTY * | 01069C0236E | 21-NOV-2002
04 | AL | HOUSTON COUNTY * | 01069C0237E | 21-NOV-2002
04 | AL | HOUSTON COUNTY * | 01069C0240E | 21-NOV-2002
04 | AL | HOUSTON COUNTY * | 01069C0245E | 21-NOV-2002
04 | AL | HOUSTON COUNTY * | 01069C0275E | 21-NOV-2002
04 | AL | HOUSTON COUNTY * | 01069C0300E | 21-NOV-2002
04 | AL | HOUSTON COUNTY * | 01069C0310E | 21-NOV-2002
04 | AL | HOUSTON COUNTY * | 01069C0325E | 21-NOV-2002
04 | AL | HOUSTON COUNTY * | 01069C0330E | 21-NOV-2002
04 | AL | HOUSTON COUNTY * | 01069C0335E | 21-NOV-2002
04 | AL | HOUSTON COUNTY * | 01069C0340E | 21-NOV-2002
04 | AL | HOUSTON COUNTY * | 01069C0345E | 21-NOV-2002
04 | AL | HOUSTON COUNTY * | 01069C0375E | 21-NOV-2002
04 | AL | HOUSTON COUNTY * | 01069C0400E | 21-NOV-2002
04 | AL | HOUSTON COUNTY * | 01069CIND0A | 21-NOV-2002
04 | AL | KINSEY, TOWN OF | 01069C0086E | 21-NOV-2002
04 | AL | KINSEY, TOWN OF | 01069C0087E | 21-NOV-2002
04 | AL | KINSEY, TOWN OF | 01069C0088E | 21-NOV-2002
04 | AL | KINSEY, TOWN OF | 01069C0089E | 21-NOV-2002
04 | AL | KINSEY, TOWN OF | 01069C0095E | 21-NOV-2002
04 | AL | KINSEY, TOWN OF | 01069CIND0A | 21-NOV-2002
04 | AL | MADRID, TOWN OF | 01069C0325E | 21-NOV-2002
04 | AL | MADRID, TOWN OF | 01069CIND0A | 21-NOV-2002
04 | AL | REHOBETH, TOWN OF | 01069C0215E | 21-NOV-2002
04 | AL | REHOBETH, TOWN OF | 01069C0216E | 21-NOV-2002
04 | AL | REHOBETH, TOWN OF | 01069C0220E | 21-NOV-2002
04 | AL | REHOBETH, TOWN OF | 01069C0310E | 21-NOV-2002
04 | AL | REHOBETH, TOWN OF | 01069C0325E | 21-NOV-2002
04 | AL | REHOBETH, TOWN OF | 01069CIND0A | 21-NOV-2002
04 | AL | TAYLOR, TOWN OF | 01069C0211E | 21-NOV-2002
04 | AL | TAYLOR, TOWN OF | 01069C0212E | 21-NOV-2002
04 | AL | TAYLOR, TOWN OF | 01069C0215E | 21-NOV-2002
04 | AL | TAYLOR, TOWN OF | 01069CIND0A | 21-NOV-2002
04 | FL | ASTATULA, TOWN OF | 12069C0460D | 03-JUL-2002
04 | FL | ASTATULA, TOWN OF | 12069C0480D | 03-JUL-2002
04 | FL | ASTATULA, TOWN OF | 12069CIND0 | 03-JUL-2002
04 | FL | ASTATULA, TOWN OF | 12069CIND1 | 03-JUL-2002
04 | FL | BAY COUNTY* | 12005C0010G | 18-SEP-2002
04 | FL | BAY COUNTY* | 12005C0012G | 18-SEP-2002
04 | FL | BAY COUNTY* | 12005C0013G | 18-SEP-2002
04 | FL | BAY COUNTY* | 12005C0014G | 18-SEP-2002
04 | FL | BAY COUNTY* | 12005C0016G | 18-SEP-2002
04 | FL | BAY COUNTY* | 12005C0017G | 18-SEP-2002
04 | FL | BAY COUNTY* | 12005C0018G | 18-SEP-2002
04 | FL | BAY COUNTY* | 12005C0019G | 18-SEP-2002
04 | FL | BAY COUNTY* | 12005C0050G | 18-SEP-2002
04 | FL | BAY COUNTY* | 12005C0075G | 18-SEP-2002
04 | FL | BAY COUNTY* | 12005C0100G | 18-SEP-2002
04 | FL | BAY COUNTY* | 12005C0125G | 18-SEP-2002
04 | FL | BAY COUNTY* | 12005C0131G | 18-SEP-2002
04 | FL | BAY COUNTY* | 12005C0132G | 18-SEP-2002
04 | FL | BAY COUNTY* | 12005C0135G | 18-SEP-2002
04 | FL | BAY COUNTY* | 12005C0139G | 18-SEP-2002
04 | FL | BAY COUNTY* | 12005C0145G | 18-SEP-2002
04 | FL | BAY COUNTY* | 12005C0150G | 18-SEP-2002
04 | FL | BAY COUNTY* | 12005C0163G | 18-SEP-2002
04 | FL | BAY COUNTY* | 12005C0164G | 18-SEP-2002
04 | FL | BAY COUNTY* | 12005C0165G | 18-SEP-2002
04 | FL | BAY COUNTY* | 12005C0175G | 18-SEP-2002
04 | FL | BAY COUNTY* | 12005C0180G | 18-SEP-2002
04 | FL | BAY COUNTY* | 12005C0185G | 18-SEP-2002
04 | FL | BAY COUNTY* | 12005C0190G | 18-SEP-2002
04 | FL | BAY COUNTY* | 12005C0195G | 18-SEP-2002
04 | FL | BAY COUNTY* | 12005C0205G | 18-SEP-2002
04 | FL | BAY COUNTY* | 12005C0210G | 18-SEP-2002
04 | FL | BAY COUNTY* | 12005C0215G | 18-SEP-2002
04 | FL | BAY COUNTY* | 12005C0218G | 18-SEP-2002
04 | FL | BAY COUNTY* | 12005C0219G | 18-SEP-2002
04 | FL | BAY COUNTY* | 12005C0220G | 18-SEP-2002
04 | FL | BAY COUNTY* | 12005C0230G | 18-SEP-2002
04 | FL | BAY COUNTY* | 12005C0233G | 18-SEP-2002
04 | FL | BAY COUNTY* | 12005C0234G | 18-SEP-2002
04 | FL | BAY COUNTY* | 12005C0235G | 18-SEP-2002
04 | FL | BAY COUNTY* | 12005C0240G | 18-SEP-2002
04 | FL | BAY COUNTY* | 12005C0241G | 18-SEP-2002
04 | FL | BAY COUNTY* | 12005C0242G | 18-SEP-2002
04 | FL | BAY COUNTY* | 12005C0243G | 18-SEP-2002
04 | FL | BAY COUNTY* | 12005C0244G | 18-SEP-2002
04 | FL | BAY COUNTY* | 12005C0252G | 18-SEP-2002
04 | FL | BAY COUNTY* | 12005C0255G | 18-SEP-2002
04 | FL | BAY COUNTY* | 12005C0256G | 18-SEP-2002
04 | FL | BAY COUNTY* | 12005C0260G | 18-SEP-2002
04 | FL | BAY COUNTY* | 12005C0261G | 18-SEP-2002
04 | FL | BAY COUNTY* | 12005C0275G | 18-SEP-2002
04 | FL | BAY COUNTY* | 12005C0277G | 18-SEP-2002
04 | FL | BAY COUNTY* | 12005C0281G | 18-SEP-2002
04 | FL | BAY COUNTY* | 12005C0282G | 18-SEP-2002
04 | FL | BAY COUNTY* | 12005C0284G | 18-SEP-2002
04 | FL | BAY COUNTY* | 12005C0303G | 18-SEP-2002
04 | FL | BAY COUNTY* | 12005C0304G | 18-SEP-2002
04 | FL | BAY COUNTY* | 12005C0305G | 18-SEP-2002
04 | FL | BAY COUNTY* | 12005C0310G | 18-SEP-2002
04 | FL | BAY COUNTY* | 12005C0312G | 18-SEP-2002
04 | FL | BAY COUNTY* | 12005C0316G | 18-SEP-2002
04 | FL | BAY COUNTY* | 12005C0317G | 18-SEP-2002
04 | FL | BAY COUNTY* | 12005C0319G | 18-SEP-2002
04 | FL | BAY COUNTY* | 12005C0328G | 18-SEP-2002
04 | FL | BAY COUNTY* | 12005C0329G | 18-SEP-2002
04 | FL | BAY COUNTY* | 12005C0330G | 18-SEP-2002
04 | FL | BAY COUNTY* | 12005C0331G | 18-SEP-2002
04 | FL | BAY COUNTY* | 12005C0332G | 18-SEP-2002
04 | FL | BAY COUNTY* | 12005C0335G | 18-SEP-2002
04 | FL | BAY COUNTY* | 12005C0336G | 18-SEP-2002
04 | FL | BAY COUNTY* | 12005C0337G | 18-SEP-2002
04 | FL | BAY COUNTY* | 12005C0338G | 18-SEP-2002
04 | FL | BAY COUNTY* | 12005C0339G | 18-SEP-2002
04 | FL | BAY COUNTY* | 12005C0341G | 18-SEP-2002
04 | FL | BAY COUNTY* | 12005C0342G | 18-SEP-2002
04 | FL | BAY COUNTY* | 12005C0343G | 18-SEP-2002
04 | FL | BAY COUNTY* | 12005C0344G | 18-SEP-2002
04 | FL | BAY COUNTY* | 12005C0351G | 18-SEP-2002
04 | FL | BAY COUNTY* | 12005C0352G | 18-SEP-2002
04 | FL | BAY COUNTY* | 12005C0353G | 18-SEP-2002
04 | FL | BAY COUNTY* | 12005C0354G | 18-SEP-2002
04 | FL | BAY COUNTY* | 12005C0356G | 18-SEP-2002
04 | FL | BAY COUNTY* | 12005C0357G | 18-SEP-2002
04 | FL | BAY COUNTY* | 12005C0358G | 18-SEP-2002
04 | FL | BAY COUNTY* | 12005C0359G | 18-SEP-2002
04 | FL | BAY COUNTY* | 12005C0361G | 18-SEP-2002
04 | FL | BAY COUNTY* | 12005C0362G | 18-SEP-2002
04 | FL | BAY COUNTY* | 12005C0363G | 18-SEP-2002
04 | FL | BAY COUNTY* | 12005C0364G | 18-SEP-2002
04 | FL | BAY COUNTY* | 12005C0366G | 18-SEP-2002
04 | FL | BAY COUNTY* | 12005C0368G | 18-SEP-2002
04 | FL | BAY COUNTY* | 12005C0370G | 18-SEP-2002
04 | FL | BAY COUNTY* | 12005C0390G | 18-SEP-2002
04 | FL | BAY COUNTY* | 12005C0400G | 18-SEP-2002
04 | FL | BAY COUNTY* | 12005C0401G | 18-SEP-2002
04 | FL | BAY COUNTY* | 12005C0402G | 18-SEP-2002
04 | FL | BAY COUNTY* | 12005C0404G | 18-SEP-2002
04 | FL | BAY COUNTY* | 12005C0406G | 18-SEP-2002
04 | FL | BAY COUNTY* | 12005C0407G | 18-SEP-2002
04 | FL | BAY COUNTY* | 12005C0408G | 18-SEP-2002
04 | FL | BAY COUNTY* | 12005C0409G | 18-SEP-2002
04 | FL | BAY COUNTY* | 12005C0426G | 18-SEP-2002
04 | FL | BAY COUNTY* | 12005C0427G | 18-SEP-2002
04 | FL | BAY COUNTY* | 12005C0428G | 18-SEP-2002
04 | FL | BAY COUNTY* | 12005C0429G | 18-SEP-2002
04 | FL | BAY COUNTY* | 12005C0431G | 18-SEP-2002
04 | FL | BAY COUNTY* | 12005C0432G | 18-SEP-2002
04 | FL | BAY COUNTY* | 12005C0433G | 18-SEP-2002
04 | FL | BAY COUNTY* | 12005C0434G | 18-SEP-2002
04 | FL | BAY COUNTY* | 12005C0436G | 18-SEP-2002
04 | FL | BAY COUNTY* | 12005C0437G | 18-SEP-2002
04 | FL | BAY COUNTY* | 12005C0439G | 18-SEP-2002
04 | FL | BAY COUNTY* | 12005C0441G | 18-SEP-2002
04 | FL | BAY COUNTY* | 12005C0442G | 18-SEP-2002
04 | FL | BAY COUNTY* | 12005C0443G | 18-SEP-2002
04 | FL | BAY COUNTY* | 12005C0444G | 18-SEP-2002
04 | FL | BAY COUNTY* | 12005C0451G | 18-SEP-2002
04 | FL | BAY COUNTY* | 12005C0452G | 18-SEP-2002
04 | FL | BAY COUNTY* | 12005C0453G | 18-SEP-2002
04 | FL | BAY COUNTY* | 12005C0454G | 18-SEP-2002
04 | FL | BAY COUNTY* | 12005C0460G | 18-SEP-2002
04 | FL | BAY COUNTY* | 12005C0461G | 18-SEP-2002
04 | FL | BAY COUNTY* | 12005C0462G | 18-SEP-2002
04 | FL | BAY COUNTY* | 12005C0463G | 18-SEP-2002
04 | FL | BAY COUNTY* | 12005C0464G | 18-SEP-2002
04 | FL | BAY COUNTY* | 12005C0466G | 18-SEP-2002
04 | FL | BAY COUNTY* | 12005C0467G | 18-SEP-2002
04 | FL | BAY COUNTY* | 12005C0468G | 18-SEP-2002
04 | FL | BAY COUNTY* | 12005C0469G | 18-SEP-2002
04 | FL | BAY COUNTY* | 12005C0481G | 18-SEP-2002
04 | FL | BAY COUNTY* | 12005C0482G | 18-SEP-2002
04 | FL | BAY COUNTY* | 12005C0484G | 18-SEP-2002
04 | FL | BAY COUNTY* | 12005C0501G | 18-SEP-2002
04 | FL | BAY COUNTY* | 12005C0502G | 18-SEP-2002
04 | FL | BAY COUNTY* | 12005C0503G | 18-SEP-2002
04 | FL | BAY COUNTY* | 12005C0504G | 18-SEP-2002
04 | FL | BAY COUNTY* | 12005C0508G | 18-SEP-2002
04 | FL | BAY COUNTY* | 12005C0509G | 18-SEP-2002
04 | FL | BAY COUNTY* | 12005C0510G | 18-SEP-2002
04 | FL | BAY COUNTY* | 12005C0517G | 18-SEP-2002
04 | FL | BAY COUNTY* | 12005CIND0A | 18-SEP-2002
04 | FL | CALLAWAY, CITY OF | 12005C0361G | 18-SEP-2002
04 | FL | CALLAWAY, CITY OF | 12005C0362G | 18-SEP-2002
04 | FL | CALLAWAY, CITY OF | 12005C0363G | 18-SEP-2002
04 | FL | CALLAWAY, CITY OF | 12005C0364G | 18-SEP-2002
04 | FL | CALLAWAY, CITY OF | 12005C0366G | 18-SEP-2002
04 | FL | CALLAWAY, CITY OF | 12005C0368G | 18-SEP-2002
04 | FL | CALLAWAY, CITY OF | 12005C0427G | 18-SEP-2002
04 | FL | CALLAWAY, CITY OF | 12005C0431G | 18-SEP-2002
04 | FL | CALLAWAY, CITY OF | 12005CIND0A | 18-SEP-2002
04 | FL | CEDAR GROVE, TOWN OF | 12005C0342G | 18-SEP-2002
04 | FL | CEDAR GROVE, TOWN OF | 12005C0361G | 18-SEP-2002
04 | FL | CEDAR GROVE, TOWN OF | 12005CIND0A | 18-SEP-2002
04 | FL | CENTURY, CITY OF | 12033CIND0 | 17-JUL-2002
04 | FL | CINCO BAYOU, TOWN OF | 12091C0461H | 06-DEC-2002
04 | FL | CINCO BAYOU, TOWN OF | 12091CIND0A | 06-DEC-2002
04 | FL | CLERMONT, CITY OF | 12069C0535D | 03-JUL-2002
04 | FL | CLERMONT, CITY OF | 12069C0545D | 03-JUL-2002
04 | FL | CLERMONT, CITY OF | 12069C0555D | 03-JUL-2002
04 | FL | CLERMONT, CITY OF | 12069C0565D | 03-JUL-2002
04 | FL | CLERMONT, CITY OF | 12069C0650D | 03-JUL-2002
04 | FL | CLERMONT, CITY OF | 12069CIND0 | 03-JUL-2002
04 | FL | CLERMONT, CITY OF | 12069CIND1 | 03-JUL-2002
04 | FL | CRESTVIEW, CITY OF | 12091C0165H | 06-DEC-2002
04 | FL | CRESTVIEW, CITY OF | 12091C0170H | 06-DEC-2002
04 | FL | CRESTVIEW, CITY OF | 12091C0255H | 06-DEC-2002
04 | FL | CRESTVIEW, CITY OF | 12091C0260H | 06-DEC-2002
04 | FL | CRESTVIEW, CITY OF | 12091CIND0A | 06-DEC-2002
04 | FL | DESTIN, CITY OF | 12091C0467H | 06-DEC-2002
04 | FL | DESTIN, CITY OF | 12091C0469H | 06-DEC-2002
04 | FL | DESTIN, CITY OF | 12091C0486H | 06-DEC-2002
04 | FL | DESTIN, CITY OF | 12091C0487H | 06-DEC-2002
04 | FL | DESTIN, CITY OF | 12091C0488H | 06-DEC-2002
04 | FL | DESTIN, CITY OF | 12091C0489H | 06-DEC-2002
04 | FL | DESTIN, CITY OF | 12091C0493H | 06-DEC-2002
04 | FL | DESTIN, CITY OF | 12091C0494H | 06-DEC-2002
04 | FL | DESTIN, CITY OF | 12091CIND0A | 06-DEC-2002
04 | FL | ESCAMBIA COUNTY* | 12033C0606G | 17-JUL-2002
04 | FL | ESCAMBIA COUNTY* | 12033CIND0 | 17-JUL-2002
04 | FL | EUSTIS, CITY OF | 12069C0215D | 03-JUL-2002
04 | FL | EUSTIS, CITY OF | 12069C0220D | 03-JUL-2002
04 | FL | EUSTIS, CITY OF | 12069C0355D | 03-JUL-2002
04 | FL | EUSTIS, CITY OF | 12069C0356D | 03-JUL-2002
04 | FL | EUSTIS, CITY OF | 12069C0357D | 03-JUL-2002
04 | FL | EUSTIS, CITY OF | 12069C0358D | 03-JUL-2002
04 | FL | EUSTIS, CITY OF | 12069C0359D | 03-JUL-2002
04 | FL | EUSTIS, CITY OF | 12069CIND0 | 03-JUL-2002
04 | FL | EUSTIS, CITY OF | 12069CIND1 | 03-JUL-2002
04 | FL | FORT WALTON BEACH, CITY OF | 12091C0435H | 06-DEC-2002
04 | FL | FORT WALTON BEACH, CITY OF | 12091C0441H | 06-DEC-2002
04 | FL | FORT WALTON BEACH, CITY OF | 12091C0442H | 06-DEC-2002
04 | FL | FORT WALTON BEACH, CITY OF | 12091C0444H | 06-DEC-2002
04 | FL | FORT WALTON BEACH, CITY OF | 12091C0453H | 06-DEC-2002
04 | FL | FORT WALTON BEACH, CITY OF | 12091C0455H | 06-DEC-2002
04 | FL | FORT WALTON BEACH, CITY OF | 12091C0461H | 06-DEC-2002
04 | FL | FORT WALTON BEACH, CITY OF | 12091C0462H | 06-DEC-2002
04 | FL | FORT WALTON BEACH, CITY OF | 12091C0463H | 06-DEC-2002
04 | FL | FORT WALTON BEACH, CITY OF | 12091C0464H | 06-DEC-2002
04 | FL | FORT WALTON BEACH, CITY OF | 12091CIND0A | 06-DEC-2002
04 | FL | FRUITLAND PARK, CITY OF | 12069C0170D | 03-JUL-2002
04 | FL | FRUITLAND PARK, CITY OF | 12069C0305D | 03-JUL-2002
04 | FL | FRUITLAND PARK, CITY OF | 12069C0306D | 03-JUL-2002
04 | FL | FRUITLAND PARK, CITY OF | 12069C0307D | 03-JUL-2002
04 | FL | FRUITLAND PARK, CITY OF | 12069C0308D | 03-JUL-2002
04 | FL | FRUITLAND PARK, CITY OF | 12069C0309D | 03-JUL-2002
04 | FL | FRUITLAND PARK, CITY OF | 12069CIND0 | 03-JUL-2002
04 | FL | FRUITLAND PARK, CITY OF | 12069CIND1 | 03-JUL-2002
04 | FL | GROVELAND, CITY OF | 12069C0510D | 03-JUL-2002
04 | FL | GROVELAND, CITY OF | 12069C0520D | 03-JUL-2002
04 | FL | GROVELAND, CITY OF | 12069C0530D | 03-JUL-2002
04 | FL | GROVELAND, CITY OF | 12069C0540D | 03-JUL-2002
04 | FL | GROVELAND, CITY OF | 12069CIND0 | 03-JUL-2002
04 | FL | GROVELAND, CITY OF | 12069CIND1 | 03-JUL-2002
04 | FL | GULF COUNTY * | 12045C0025E | 07-NOV-2002
04 | FL | GULF COUNTY * | 12045C0050E | 07-NOV-2002
04 | FL | GULF COUNTY * | 12045C0075E | 07-NOV-2002
04 | FL | GULF COUNTY * | 12045C0100E | 07-NOV-2002
04 | FL | GULF COUNTY * | 12045C0125E | 07-NOV-2002
04 | FL | GULF COUNTY * | 12045C0150E | 07-NOV-2002
04 | FL | GULF COUNTY * | 12045C0152E | 07-NOV-2002
04 | FL | GULF COUNTY * | 12045C0155E | 07-NOV-2002
04 | FL | GULF COUNTY * | 12045C0156E | 07-NOV-2002
04 | FL | GULF COUNTY * | 12045C0160E | 07-NOV-2002
04 | FL | GULF COUNTY * | 12045C0175E | 07-NOV-2002
04 | FL | GULF COUNTY * | 12045C0200E | 07-NOV-2002
04 | FL | GULF COUNTY * | 12045C0217E | 07-NOV-2002
04 | FL | GULF COUNTY * | 12045C0219E | 07-NOV-2002
04 | FL | GULF COUNTY * | 12045C0225E | 07-NOV-2002
04 | FL | GULF COUNTY * | 12045C0236E | 07-NOV-2002
04 | FL | GULF COUNTY * | 12045C0238E | 07-NOV-2002
04 | FL | GULF COUNTY * | 12045C0250E | 07-NOV-2002
04 | FL | GULF COUNTY * | 12045C0275E | 07-NOV-2002
04 | FL | GULF COUNTY * | 12045C0300E | 07-NOV-2002
04 | FL | GULF COUNTY * | 12045C0306E | 07-NOV-2002
04 | FL | GULF COUNTY * | 12045C0307E | 07-NOV-2002
04 | FL | GULF COUNTY * | 12045C0308E | 07-NOV-2002
04 | FL | GULF COUNTY * | 12045C0309E | 07-NOV-2002
04 | FL | GULF COUNTY * | 12045C0316E | 07-NOV-2002
04 | FL | GULF COUNTY * | 12045C0317E | 07-NOV-2002
04 | FL | GULF COUNTY * | 12045C0318E | 07-NOV-2002
04 | FL | GULF COUNTY * | 12045C0319E | 07-NOV-2002
04 | FL | GULF COUNTY * | 12045C0326E | 07-NOV-2002
04 | FL | GULF COUNTY * | 12045C0327E | 07-NOV-2002
04 | FL | GULF COUNTY * | 12045C0329E | 07-NOV-2002
04 | FL | GULF COUNTY * | 12045C0333E | 07-NOV-2002
04 | FL | GULF COUNTY * | 12045C0341E | 07-NOV-2002
04 | FL | GULF COUNTY * | 12045C0343E | 07-NOV-2002
04 | FL | GULF COUNTY * | 12045C0350E | 07-NOV-2002
04 | FL | GULF COUNTY * | 12045C0375E | 07-NOV-2002
04 | FL | GULF COUNTY * | 12045C0400E | 07-NOV-2002
04 | FL | GULF COUNTY * | 12045C0407E | 07-NOV-2002
04 | FL | GULF COUNTY * | 12045C0409E | 07-NOV-2002
04 | FL | GULF COUNTY * | 12045C0427E | 07-NOV-2002
04 | FL | GULF COUNTY * | 12045C0428E | 07-NOV-2002
04 | FL | GULF COUNTY * | 12045C0429E | 07-NOV-2002
04 | FL | GULF COUNTY * | 12045C0431E | 07-NOV-2002
04 | FL | GULF COUNTY * | 12045C0432E | 07-NOV-2002
04 | FL | GULF COUNTY * | 12045C0433E | 07-NOV-2002
04 | FL | GULF COUNTY * | 12045C0434E | 07-NOV-2002
04 | FL | GULF COUNTY * | 12045C0436E | 07-NOV-2002
04 | FL | GULF COUNTY * | 12045C0437E | 07-NOV-2002
04 | FL | GULF COUNTY * | 12045C0441E | 07-NOV-2002
04 | FL | GULF COUNTY * | 12045C0442E | 07-NOV-2002
04 | FL | GULF COUNTY * | 12045C0453E | 07-NOV-2002
04 | FL | GULF COUNTY * | 12045C0454E | 07-NOV-2002
04 | FL | GULF COUNTY * | 12045C0461E | 07-NOV-2002
04 | FL | GULF COUNTY * | 12045C0475E | 07-NOV-2002
04 | FL | GULF COUNTY * | 12045CIND0A | 07-NOV-2002
04 | FL | HOWEY IN THE HILLS, TOWN OF | 12069C0460D | 03-JUL-2002
04 | FL | HOWEY IN THE HILLS, TOWN OF | 12069CIND0 | 03-JUL-2002
04 | FL | HOWEY IN THE HILLS, TOWN OF | 12069CIND1 | 03-JUL-2002
04 | FL | JUPITER ISLAND, TOWN OF | 12085C0307F | 04-OCT-2002
04 | FL | JUPITER ISLAND, TOWN OF | 12085C0309F | 04-OCT-2002
04 | FL | JUPITER ISLAND, TOWN OF | 12085C0328F | 04-OCT-2002
04 | FL | JUPITER ISLAND, TOWN OF | 12085C0336F | 04-OCT-2002
04 | FL | JUPITER ISLAND, TOWN OF | 12085C0338F | 04-OCT-2002
04 | FL | JUPITER ISLAND, TOWN OF | 12085C0339F | 04-OCT-2002
04 | FL | JUPITER ISLAND, TOWN OF | 12085C0527F | 04-OCT-2002
04 | FL | JUPITER ISLAND, TOWN OF | 12085CIND0A | 04-OCT-2002
04 | FL | LADY LAKE, TOWN OF | 12069C0155D | 03-JUL-2002
04 | FL | LADY LAKE, TOWN OF | 12069C0160D | 03-JUL-2002
04 | FL | LADY LAKE, TOWN OF | 12069C0165D | 03-JUL-2002
04 | FL | LADY LAKE, TOWN OF | 12069C0170D | 03-JUL-2002
04 | FL | LADY LAKE, TOWN OF | 12069CIND0 | 03-JUL-2002
04 | FL | LADY LAKE, TOWN OF | 12069CIND1 | 03-JUL-2002
04 | FL | LAKE COUNTY * | 12069C0025D | 03-JUL-2002
04 | FL | LAKE COUNTY * | 12069C0050D | 03-JUL-2002
04 | FL | LAKE COUNTY * | 12069C0070D | 03-JUL-2002
04 | FL | LAKE COUNTY * | 12069C0075D | 03-JUL-2002
04 | FL | LAKE COUNTY * | 12069C0100D | 03-JUL-2002
04 | FL | LAKE COUNTY * | 12069C0125D | 03-JUL-2002
04 | FL | LAKE COUNTY * | 12069C0150D | 03-JUL-2002
04 | FL | LAKE COUNTY * | 12069C0155D | 03-JUL-2002
04 | FL | LAKE COUNTY * | 12069C0160D | 03-JUL-2002
04 | FL | LAKE COUNTY * | 12069C0165D | 03-JUL-2002
04 | FL | LAKE COUNTY * | 12069C0170D | 03-JUL-2002
04 | FL | LAKE COUNTY * | 12069C0180D | 03-JUL-2002
04 | FL | LAKE COUNTY * | 12069C0185D | 03-JUL-2002
04 | FL | LAKE COUNTY * | 12069C0190D | 03-JUL-2002
04 | FL | LAKE COUNTY * | 12069C0195D | 03-JUL-2002
04 | FL | LAKE COUNTY * | 12069C0205D | 03-JUL-2002
04 | FL | LAKE COUNTY * | 12069C0210D | 03-JUL-2002
04 | FL | LAKE COUNTY * | 12069C0215D | 03-JUL-2002
04 | FL | LAKE COUNTY * | 12069C0220D | 03-JUL-2002
04 | FL | LAKE COUNTY * | 12069C0230D | 03-JUL-2002
04 | FL | LAKE COUNTY * | 12069C0235D | 03-JUL-2002
04 | FL | LAKE COUNTY * | 12069C0240D | 03-JUL-2002
04 | FL | LAKE COUNTY * | 12069C0245D | 03-JUL-2002
04 | FL | LAKE COUNTY * | 12069C0255D | 03-JUL-2002
04 | FL | LAKE COUNTY * | 12069C0260D | 03-JUL-2002
04 | FL | LAKE COUNTY * | 12069C0265D | 03-JUL-2002
04 | FL | LAKE COUNTY * | 12069C0270D | 03-JUL-2002
04 | FL | LAKE COUNTY * | 12069C0300D | 03-JUL-2002
04 | FL | LAKE COUNTY * | 12069C0305D | 03-JUL-2002
04 | FL | LAKE COUNTY * | 12069C0306D | 03-JUL-2002
04 | FL | LAKE COUNTY * | 12069C0307D | 03-JUL-2002
04 | FL | LAKE COUNTY * | 12069C0308D | 03-JUL-2002
04 | FL | LAKE COUNTY * | 12069C0309D | 03-JUL-2002
04 | FL | LAKE COUNTY * | 12069C0312D | 03-JUL-2002
04 | FL | LAKE COUNTY * | 12069C0314D | 03-JUL-2002
04 | FL | LAKE COUNTY * | 12069C0316D | 03-JUL-2002
04 | FL | LAKE COUNTY * | 12069C0317D | 03-JUL-2002
04 | FL | LAKE COUNTY * | 12069C0320D | 03-JUL-2002
04 | FL | LAKE COUNTY * | 12069C0330D | 03-JUL-2002
04 | FL | LAKE COUNTY * | 12069C0331D | 03-JUL-2002
04 | FL | LAKE COUNTY * | 12069C0332D | 03-JUL-2002
04 | FL | LAKE COUNTY * | 12069C0333D | 03-JUL-2002
04 | FL | LAKE COUNTY * | 12069C0334D | 03-JUL-2002
04 | FL | LAKE COUNTY * | 12069C0340D | 03-JUL-2002
04 | FL | LAKE COUNTY * | 12069C0345D | 03-JUL-2002
04 | FL | LAKE COUNTY * | 12069C0355D | 03-JUL-2002
04 | FL | LAKE COUNTY * | 12069C0356D | 03-JUL-2002
04 | FL | LAKE COUNTY * | 12069C0357D | 03-JUL-2002
04 | FL | LAKE COUNTY * | 12069C0358D | 03-JUL-2002
04 | FL | LAKE COUNTY * | 12069C0359D | 03-JUL-2002
04 | FL | LAKE COUNTY * | 12069C0361D | 03-JUL-2002
04 | FL | LAKE COUNTY * | 12069C0362D | 03-JUL-2002
04 | FL | LAKE COUNTY * | 12069C0365D | 03-JUL-2002
04 | FL | LAKE COUNTY * | 12069C0366D | 03-JUL-2002
04 | FL | LAKE COUNTY * | 12069C0367D | 03-JUL-2002
04 | FL | LAKE COUNTY * | 12069C0370D | 03-JUL-2002
04 | FL | LAKE COUNTY * | 12069C0378D | 03-JUL-2002
04 | FL | LAKE COUNTY * | 12069C0380D | 03-JUL-2002
04 | FL | LAKE COUNTY * | 12069C0385D | 03-JUL-2002
04 | FL | LAKE COUNTY * | 12069C0390D | 03-JUL-2002
04 | FL | LAKE COUNTY * | 12069C0395D | 03-JUL-2002
04 | FL | LAKE COUNTY * | 12069C0425D | 03-JUL-2002
04 | FL | LAKE COUNTY * | 12069C0435D | 03-JUL-2002
04 | FL | LAKE COUNTY * | 12069C0445D | 03-JUL-2002
04 | FL | LAKE COUNTY * | 12069C0450D | 03-JUL-2002
04 | FL | LAKE COUNTY * | 12069C0455D | 03-JUL-2002
04 | FL | LAKE COUNTY * | 12069C0460D | 03-JUL-2002
04 | FL | LAKE COUNTY * | 12069C0461D | 03-JUL-2002
04 | FL | LAKE COUNTY * | 12069C0465D | 03-JUL-2002
04 | FL | LAKE COUNTY * | 12069C0470D | 03-JUL-2002
04 | FL | LAKE COUNTY * | 12069C0480D | 03-JUL-2002
04 | FL | LAKE COUNTY * | 12069C0500D | 03-JUL-2002
04 | FL | LAKE COUNTY * | 12069C0510D | 03-JUL-2002
04 | FL | LAKE COUNTY * | 12069C0520D | 03-JUL-2002
04 | FL | LAKE COUNTY * | 12069C0525D | 03-JUL-2002
04 | FL | LAKE COUNTY * | 12069C0530D | 03-JUL-2002
04 | FL | LAKE COUNTY * | 12069C0535D | 03-JUL-2002
04 | FL | LAKE COUNTY * | 12069C0540D | 03-JUL-2002
04 | FL | LAKE COUNTY * | 12069C0545D | 03-JUL-2002
04 | FL | LAKE COUNTY * | 12069C0555D | 03-JUL-2002
04 | FL | LAKE COUNTY * | 12069C0560D | 03-JUL-2002
04 | FL | LAKE COUNTY * | 12069C0565D | 03-JUL-2002
04 | FL | LAKE COUNTY * | 12069C0570D | 03-JUL-2002
04 | FL | LAKE COUNTY * | 12069C0600D | 03-JUL-2002
04 | FL | LAKE COUNTY * | 12069C0625D | 03-JUL-2002
04 | FL | LAKE COUNTY * | 12069C0650D | 03-JUL-2002
04 | FL | LAKE COUNTY * | 12069C0675D | 03-JUL-2002
04 | FL | LAKE COUNTY * | 12069C0700D | 03-JUL-2002
04 | FL | LAKE COUNTY * | 12069C0725D | 03-JUL-2002
04 | FL | LAKE COUNTY * | 12069CIND0 | 03-JUL-2002
04 | FL | LAKE COUNTY * | 12069CIND1 | 03-JUL-2002
04 | FL | LEESBURG, CITY OF | 12069C0307D | 03-JUL-2002
04 | FL | LEESBURG, CITY OF | 12069C0308D | 03-JUL-2002
04 | FL | LEESBURG, CITY OF | 12069C0309D | 03-JUL-2002
04 | FL | LEESBURG, CITY OF | 12069C0312D | 03-JUL-2002
04 | FL | LEESBURG, CITY OF | 12069C0314D | 03-JUL-2002
04 | FL | LEESBURG, CITY OF | 12069C0316D | 03-JUL-2002
04 | FL | LEESBURG, CITY OF | 12069C0317D | 03-JUL-2002
04 | FL | LEESBURG, CITY OF | 12069C0320D | 03-JUL-2002
04 | FL | LEESBURG, CITY OF | 12069C0330D | 03-JUL-2002
04 | FL | LEESBURG, CITY OF | 12069C0333D | 03-JUL-2002
04 | FL | LEESBURG, CITY OF | 12069C0340D | 03-JUL-2002
04 | FL | LEESBURG, CITY OF | 12069C0435D | 03-JUL-2002
04 | FL | LEESBURG, CITY OF | 12069C0450D | 03-JUL-2002
04 | FL | LEESBURG, CITY OF | 12069C0455D | 03-JUL-2002
04 | FL | LEESBURG, CITY OF | 12069CIND0 | 03-JUL-2002
04 | FL | LEESBURG, CITY OF | 12069CIND1 | 03-JUL-2002
04 | FL | LYNN HAVEN, CITY OF | 12005C0218G | 18-SEP-2002
04 | FL | LYNN HAVEN, CITY OF | 12005C0219G | 18-SEP-2002
04 | FL | LYNN HAVEN, CITY OF | 12005C0240G | 18-SEP-2002
04 | FL | LYNN HAVEN, CITY OF | 12005C0331G | 18-SEP-2002
04 | FL | LYNN HAVEN, CITY OF | 12005C0332G | 18-SEP-2002
04 | FL | LYNN HAVEN, CITY OF | 12005C0335G | 18-SEP-2002
04 | FL | LYNN HAVEN, CITY OF | 12005C0351G | 18-SEP-2002
04 | FL | LYNN HAVEN, CITY OF | 12005CIND0A | 18-SEP-2002
04 | FL | MARTIN COUNTY * | 12085C0020F | 04-OCT-2002
04 | FL | MARTIN COUNTY * | 12085C0038F | 04-OCT-2002
04 | FL | MARTIN COUNTY * | 12085C0039F | 04-OCT-2002
04 | FL | MARTIN COUNTY * | 12085C0125F | 04-OCT-2002
04 | FL | MARTIN COUNTY * | 12085C0130F | 04-OCT-2002
04 | FL | MARTIN COUNTY * | 12085C0131F | 04-OCT-2002
04 | FL | MARTIN COUNTY * | 12085C0132F | 04-OCT-2002
04 | FL | MARTIN COUNTY * | 12085C0133F | 04-OCT-2002
04 | FL | MARTIN COUNTY * | 12085C0134F | 04-OCT-2002
04 | FL | MARTIN COUNTY * | 12085C0140F | 04-OCT-2002
04 | FL | MARTIN COUNTY * | 12085C0142F | 04-OCT-2002
04 | FL | MARTIN COUNTY * | 12085C0145F | 04-OCT-2002
04 | FL | MARTIN COUNTY * | 12085C0151F | 04-OCT-2002
04 | FL | MARTIN COUNTY * | 12085C0152F | 04-OCT-2002
04 | FL | MARTIN COUNTY * | 12085C0153F | 04-OCT-2002
04 | FL | MARTIN COUNTY * | 12085C0154F | 04-OCT-2002
04 | FL | MARTIN COUNTY * | 12085C0156F | 04-OCT-2002
04 | FL | MARTIN COUNTY * | 12085C0158F | 04-OCT-2002
04 | FL | MARTIN COUNTY * | 12085C0161F | 04-OCT-2002
04 | FL | MARTIN COUNTY * | 12085C0162F | 04-OCT-2002
04 | FL | MARTIN COUNTY * | 12085C0163F | 04-OCT-2002
04 | FL | MARTIN COUNTY * | 12085C0164F | 04-OCT-2002
04 | FL | MARTIN COUNTY * | 12085C0166F | 04-OCT-2002
04 | FL | MARTIN COUNTY * | 12085C0167F | 04-OCT-2002
04 | FL | MARTIN COUNTY * | 12085C0168F | 04-OCT-2002
04 | FL | MARTIN COUNTY * | 12085C0169F | 04-OCT-2002
04 | FL | MARTIN COUNTY * | 12085C0210F | 04-OCT-2002
04 | FL | MARTIN COUNTY * | 12085C0220F | 04-OCT-2002
04 | FL | MARTIN COUNTY * | 12085C0240F | 04-OCT-2002
04 | FL | MARTIN COUNTY * | 12085C0250F | 04-OCT-2002
04 | FL | MARTIN COUNTY * | 12085C0275F | 04-OCT-2002
04 | FL | MARTIN COUNTY * | 12085C0281F | 04-OCT-2002
04 | FL | MARTIN COUNTY * | 12085C0282F | 04-OCT-2002
04 | FL | MARTIN COUNTY * | 12085C0283F | 04-OCT-2002
04 | FL | MARTIN COUNTY * | 12085C0284F | 04-OCT-2002
04 | FL | MARTIN COUNTY * | 12085C0301F | 04-OCT-2002
04 | FL | MARTIN COUNTY * | 12085C0303F | 04-OCT-2002
04 | FL | MARTIN COUNTY * | 12085C0307F | 04-OCT-2002
04 | FL | MARTIN COUNTY * | 12085C0309F | 04-OCT-2002
04 | FL | MARTIN COUNTY * | 12085C0310F | 04-OCT-2002
04 | FL | MARTIN COUNTY * | 12085C0317F | 04-OCT-2002
04 | FL | MARTIN COUNTY * | 12085C0320F | 04-OCT-2002
04 | FL | MARTIN COUNTY * | 12085C0328F | 04-OCT-2002
04 | FL | MARTIN COUNTY * | 12085C0336F | 04-OCT-2002
04 | FL | MARTIN COUNTY * | 12085C0338F | 04-OCT-2002
04 | FL | MARTIN COUNTY * | 12085C0339F | 04-OCT-2002
04 | FL | MARTIN COUNTY * | 12085C0430F | 04-OCT-2002
04 | FL | MARTIN COUNTY * | 12085C0510F | 04-OCT-2002
04 | FL | MARTIN COUNTY * | 12085C0526F | 04-OCT-2002
04 | FL | MARTIN COUNTY * | 12085C0527F | 04-OCT-2002
04 | FL | MARTIN COUNTY * | 12085CIND0A | 04-OCT-2002
04 | FL | MARY ESTHER, CITY OF | 12091C0441H | 06-DEC-2002
04 | FL | MARY ESTHER, CITY OF | 12091C0442H | 06-DEC-2002
04 | FL | MARY ESTHER, CITY OF | 12091C0444H | 06-DEC-2002
04 | FL | MARY ESTHER, CITY OF | 12091CIND0A | 06-DEC-2002
04 | FL | MASCOTTE, CITY OF | 12069C0510D | 03-JUL-2002
04 | FL | MASCOTTE, CITY OF | 12069C0520D | 03-JUL-2002
04 | FL | MASCOTTE, CITY OF | 12069C0530D | 03-JUL-2002
04 | FL | MASCOTTE, CITY OF | 12069CIND0 | 03-JUL-2002
04 | FL | MASCOTTE, CITY OF | 12069CIND1 | 03-JUL-2002
04 | FL | MEXICO BEACH, TOWN OF | 12005C0508G | 18-SEP-2002
04 | FL | MEXICO BEACH, TOWN OF | 12005C0509G | 18-SEP-2002
04 | FL | MEXICO BEACH, TOWN OF | 12005C0517G | 18-SEP-2002
04 | FL | MEXICO BEACH, TOWN OF | 12005CIND0A | 18-SEP-2002
04 | FL | MINNEOLA, CITY OF | 12069C0535D | 03-JUL-2002
04 | FL | MINNEOLA, CITY OF | 12069C0555D | 03-JUL-2002
04 | FL | MINNEOLA, CITY OF | 12069CIND0 | 03-JUL-2002
04 | FL | MINNEOLA, CITY OF | 12069CIND1 | 03-JUL-2002
04 | FL | MONTVERDE, TOWN OF | 12069C0555D | 03-JUL-2002
04 | FL | MONTVERDE, TOWN OF | 12069C0560D | 03-JUL-2002
04 | FL | MONTVERDE, TOWN OF | 12069CIND0 | 03-JUL-2002
04 | FL | MONTVERDE, TOWN OF | 12069CIND1 | 03-JUL-2002
04 | FL | MT. DORA, CITY OF | 12069C0355D | 03-JUL-2002
04 | FL | MT. DORA, CITY OF | 12069C0358D | 03-JUL-2002
04 | FL | MT. DORA, CITY OF | 12069C0359D | 03-JUL-2002
04 | FL | MT. DORA, CITY OF | 12069C0366D | 03-JUL-2002
04 | FL | MT. DORA, CITY OF | 12069C0367D | 03-JUL-2002
04 | FL | MT. DORA, CITY OF | 12069C0378D | 03-JUL-2002
04 | FL | MT. DORA, CITY OF | 12069C0390D | 03-JUL-2002
04 | FL | MT. DORA, CITY OF | 12069CIND0 | 03-JUL-2002
04 | FL | MT. DORA, CITY OF | 12069CIND1 | 03-JUL-2002
04 | FL | NICEVILLE, CITY OF | 12091C0370H | 06-DEC-2002
04 | FL | NICEVILLE, CITY OF | 12091C0388H | 06-DEC-2002
04 | FL | NICEVILLE, CITY OF | 12091C0389H | 06-DEC-2002
04 | FL | NICEVILLE, CITY OF | 12091C0390H | 06-DEC-2002
04 | FL | NICEVILLE, CITY OF | 12091C0400H | 06-DEC-2002
04 | FL | NICEVILLE, CITY OF | 12091C0476H | 06-DEC-2002
04 | FL | NICEVILLE, CITY OF | 12091C0477H | 06-DEC-2002
04 | FL | NICEVILLE, CITY OF | 12091CIND0A | 06-DEC-2002
04 | FL | OCEAN BREEZE PARK, TOWN OF | 12085C0151F | 04-OCT-2002
04 | FL | OCEAN BREEZE PARK, TOWN OF | 12085CIND0A | 04-OCT-2002
04 | FL | OKALOOSA COUNTY * | 12091C0025H | 06-DEC-2002
04 | FL | OKALOOSA COUNTY * | 12091C0050H | 06-DEC-2002
04 | FL | OKALOOSA COUNTY * | 12091C0075H | 06-DEC-2002
04 | FL | OKALOOSA COUNTY * | 12091C0100H | 06-DEC-2002
04 | FL | OKALOOSA COUNTY * | 12091C0125H | 06-DEC-2002
04 | FL | OKALOOSA COUNTY * | 12091C0145H | 06-DEC-2002
04 | FL | OKALOOSA COUNTY * | 12091C0150H | 06-DEC-2002
04 | FL | OKALOOSA COUNTY * | 12091C0155H | 06-DEC-2002
04 | FL | OKALOOSA COUNTY * | 12091C0160H | 06-DEC-2002
04 | FL | OKALOOSA COUNTY * | 12091C0165H | 06-DEC-2002
04 | FL | OKALOOSA COUNTY * | 12091C0170H | 06-DEC-2002
04 | FL | OKALOOSA COUNTY * | 12091C0200H | 06-DEC-2002
04 | FL | OKALOOSA COUNTY * | 12091C0225H | 06-DEC-2002
04 | FL | OKALOOSA COUNTY * | 12091C0235H | 06-DEC-2002
04 | FL | OKALOOSA COUNTY * | 12091C0250H | 06-DEC-2002
04 | FL | OKALOOSA COUNTY * | 12091C0255H | 06-DEC-2002
04 | FL | OKALOOSA COUNTY * | 12091C0260H | 06-DEC-2002
04 | FL | OKALOOSA COUNTY * | 12091C0275H | 06-DEC-2002
04 | FL | OKALOOSA COUNTY * | 12091C0300H | 06-DEC-2002
04 | FL | OKALOOSA COUNTY * | 12091C0325H | 06-DEC-2002
04 | FL | OKALOOSA COUNTY * | 12091C0350H | 06-DEC-2002
04 | FL | OKALOOSA COUNTY * | 12091C0365H | 06-DEC-2002
04 | FL | OKALOOSA COUNTY * | 12091C0370H | 06-DEC-2002
04 | FL | OKALOOSA COUNTY * | 12091C0375H | 06-DEC-2002
04 | FL | OKALOOSA COUNTY * | 12091C0388H | 06-DEC-2002
04 | FL | OKALOOSA COUNTY * | 12091C0389H | 06-DEC-2002
04 | FL | OKALOOSA COUNTY * | 12091C0390H | 06-DEC-2002
04 | FL | OKALOOSA COUNTY * | 12091C0400H | 06-DEC-2002
04 | FL | OKALOOSA COUNTY * | 12091C0410H | 06-DEC-2002
04 | FL | OKALOOSA COUNTY * | 12091C0416H | 06-DEC-2002
04 | FL | OKALOOSA COUNTY * | 12091C0417H | 06-DEC-2002
04 | FL | OKALOOSA COUNTY * | 12091C0418H | 06-DEC-2002
04 | FL | OKALOOSA COUNTY * | 12091C0419H | 06-DEC-2002
04 | FL | OKALOOSA COUNTY * | 12091C0430H | 06-DEC-2002
04 | FL | OKALOOSA COUNTY * | 12091C0435H | 06-DEC-2002
04 | FL | OKALOOSA COUNTY * | 12091C0436H | 06-DEC-2002
04 | FL | OKALOOSA COUNTY * | 12091C0437H | 06-DEC-2002
04 | FL | OKALOOSA COUNTY * | 12091C0438H | 06-DEC-2002
04 | FL | OKALOOSA COUNTY * | 12091C0439H | 06-DEC-2002
04 | FL | OKALOOSA COUNTY * | 12091C0441H | 06-DEC-2002
04 | FL | OKALOOSA COUNTY * | 12091C0442H | 06-DEC-2002
04 | FL | OKALOOSA COUNTY * | 12091C0443H | 06-DEC-2002
04 | FL | OKALOOSA COUNTY * | 12091C0444H | 06-DEC-2002
04 | FL | OKALOOSA COUNTY * | 12091C0453H | 06-DEC-2002
04 | FL | OKALOOSA COUNTY * | 12091C0454H | 06-DEC-2002
04 | FL | OKALOOSA COUNTY * | 12091C0455H | 06-DEC-2002
04 | FL | OKALOOSA COUNTY * | 12091C0457H | 06-DEC-2002
04 | FL | OKALOOSA COUNTY * | 12091C0458H | 06-DEC-2002
04 | FL | OKALOOSA COUNTY * | 12091C0459H | 06-DEC-2002
04 | FL | OKALOOSA COUNTY * | 12091C0461H | 06-DEC-2002
04 | FL | OKALOOSA COUNTY * | 12091C0462H | 06-DEC-2002
04 | FL | OKALOOSA COUNTY * | 12091C0463H | 06-DEC-2002
04 | FL | OKALOOSA COUNTY * | 12091C0464H | 06-DEC-2002
04 | FL | OKALOOSA COUNTY * | 12091C0466H | 06-DEC-2002
04 | FL | OKALOOSA COUNTY * | 12091C0467H | 06-DEC-2002
04 | FL | OKALOOSA COUNTY * | 12091C0468H | 06-DEC-2002
04 | FL | OKALOOSA COUNTY * | 12091C0469H | 06-DEC-2002
04 | FL | OKALOOSA COUNTY * | 12091C0476H | 06-DEC-2002
04 | FL | OKALOOSA COUNTY * | 12091C0477H | 06-DEC-2002
04 | FL | OKALOOSA COUNTY * | 12091C0478H | 06-DEC-2002
04 | FL | OKALOOSA COUNTY * | 12091C0481H | 06-DEC-2002
04 | FL | OKALOOSA COUNTY * | 12091C0483H | 06-DEC-2002
04 | FL | OKALOOSA COUNTY * | 12091C0484H | 06-DEC-2002
04 | FL | OKALOOSA COUNTY * | 12091C0486H | 06-DEC-2002
04 | FL | OKALOOSA COUNTY * | 12091C0487H | 06-DEC-2002
04 | FL | OKALOOSA COUNTY * | 12091C0488H | 06-DEC-2002
04 | FL | OKALOOSA COUNTY * | 12091C0489H | 06-DEC-2002
04 | FL | OKALOOSA COUNTY * | 12091C0491H | 06-DEC-2002
04 | FL | OKALOOSA COUNTY * | 12091C0493H | 06-DEC-2002
04 | FL | OKALOOSA COUNTY * | 12091C0494H | 06-DEC-2002
04 | FL | OKALOOSA COUNTY * | 12091CIND0A | 06-DEC-2002
04 | FL | PANAMA CITY BEACH, CITY OF | 12005C0281G | 18-SEP-2002
04 | FL | PANAMA CITY BEACH, CITY OF | 12005C0282G | 18-SEP-2002
04 | FL | PANAMA CITY BEACH, CITY OF | 12005C0284G | 18-SEP-2002
04 | FL | PANAMA CITY BEACH, CITY OF | 12005C0303G | 18-SEP-2002
04 | FL | PANAMA CITY BEACH, CITY OF | 12005C0304G | 18-SEP-2002
04 | FL | PANAMA CITY BEACH, CITY OF | 12005C0305G | 18-SEP-2002
04 | FL | PANAMA CITY BEACH, CITY OF | 12005C0312G | 18-SEP-2002
04 | FL | PANAMA CITY BEACH, CITY OF | 12005C0316G | 18-SEP-2002
04 | FL | PANAMA CITY BEACH, CITY OF | 12005CIND0A | 18-SEP-2002
04 | FL | PANAMA CITY, CITY OF | 12005C0328G | 18-SEP-2002
04 | FL | PANAMA CITY, CITY OF | 12005C0329G | 18-SEP-2002
04 | FL | PANAMA CITY, CITY OF | 12005C0330G | 18-SEP-2002
04 | FL | PANAMA CITY, CITY OF | 12005C0331G | 18-SEP-2002
04 | FL | PANAMA CITY, CITY OF | 12005C0335G | 18-SEP-2002
04 | FL | PANAMA CITY, CITY OF | 12005C0336G | 18-SEP-2002
04 | FL | PANAMA CITY, CITY OF | 12005C0337G | 18-SEP-2002
04 | FL | PANAMA CITY, CITY OF | 12005C0339G | 18-SEP-2002
04 | FL | PANAMA CITY, CITY OF | 12005C0341G | 18-SEP-2002
04 | FL | PANAMA CITY, CITY OF | 12005C0342G | 18-SEP-2002
04 | FL | PANAMA CITY, CITY OF | 12005C0343G | 18-SEP-2002
04 | FL | PANAMA CITY, CITY OF | 12005C0344G | 18-SEP-2002
04 | FL | PANAMA CITY, CITY OF | 12005C0361G | 18-SEP-2002
04 | FL | PANAMA CITY, CITY OF | 12005C0363G | 18-SEP-2002
04 | FL | PANAMA CITY, CITY OF | 12005CIND0A | 18-SEP-2002
04 | FL | PARKER, CITY OF | 12005C0363G | 18-SEP-2002
04 | FL | PARKER, CITY OF | 12005C0364G | 18-SEP-2002
04 | FL | PARKER, CITY OF | 12005C0426G | 18-SEP-2002
04 | FL | PARKER, CITY OF | 12005C0427G | 18-SEP-2002
04 | FL | PENSACOLA BEACH-SANTA ROSA ISLA | 12033CIND0 | 17-JUL-2002
04 | FL | PENSACOLA, CITY OF | 12033CIND0 | 17-JUL-2002
04 | FL | PORT ST. JOE, CITY OF | 12045C0329E | 07-NOV-2002
04 | FL | PORT ST. JOE, CITY OF | 12045C0333E | 07-NOV-2002
04 | FL | PORT ST. JOE, CITY OF | 12045C0341E | 07-NOV-2002
04 | FL | PORT ST. JOE, CITY OF | 12045C0343E | 07-NOV-2002
04 | FL | PORT ST. JOE, CITY OF | 12045C0350E | 07-NOV-2002
04 | FL | PORT ST. JOE, CITY OF | 12045CIND0A | 07-NOV-2002
04 | FL | SANTA ROSA COUNTY * | 1202740358E | 17-JUL-2002
04 | FL | SANTA ROSA COUNTY * | 1202740359E | 17-JUL-2002
04 | FL | SANTA ROSA COUNTY * | 1202740362D | 17-JUL-2002
04 | FL | SANTA ROSA COUNTY * | 1202740366D | 17-JUL-2002
04 | FL | SANTA ROSA COUNTY * | 1202740367D | 17-JUL-2002
04 | FL | SANTA ROSA COUNTY * | 120274IND0 | 17-JUL-2002
04 | FL | SEWALLS POINT, TOWN OF | 12085C0152F | 04-OCT-2002
04 | FL | SEWALLS POINT, TOWN OF | 12085C0153F | 04-OCT-2002
04 | FL | SEWALLS POINT, TOWN OF | 12085C0154F | 04-OCT-2002
04 | FL | SEWALLS POINT, TOWN OF | 12085C0158F | 04-OCT-2002
04 | FL | SEWALLS POINT, TOWN OF | 12085C0162F | 04-OCT-2002
04 | FL | SEWALLS POINT, TOWN OF | 12085C0166F | 04-OCT-2002
04 | FL | SEWALLS POINT, TOWN OF | 12085CIND0A | 04-OCT-2002
04 | FL | SHALIMAR, TOWN OF | 12091C0454H | 06-DEC-2002
04 | FL | SHALIMAR, TOWN OF | 12091C0462H | 06-DEC-2002
04 | FL | SHALIMAR, TOWN OF | 12091CIND0A | 06-DEC-2002
04 | FL | SPRINGFIELD, CITY OF | 12005C0353G | 18-SEP-2002
04 | FL | SPRINGFIELD, CITY OF | 12005C0361G | 18-SEP-2002
04 | FL | SPRINGFIELD, CITY OF | 12005C0362G | 18-SEP-2002
04 | FL | SPRINGFIELD, CITY OF | 12005C0363G | 18-SEP-2002
04 | FL | SPRINGFIELD, CITY OF | 12005CIND0A | 18-SEP-2002
04 | FL | STUART, CITY OF | 12085C0132F | 04-OCT-2002
04 | FL | STUART, CITY OF | 12085C0134F | 04-OCT-2002
04 | FL | STUART, CITY OF | 12085C0142F | 04-OCT-2002
04 | FL | STUART, CITY OF | 12085C0151F | 04-OCT-2002
04 | FL | STUART, CITY OF | 12085C0153F | 04-OCT-2002
04 | FL | STUART, CITY OF | 12085C0154F | 04-OCT-2002
04 | FL | STUART, CITY OF | 12085C0161F | 04-OCT-2002
04 | FL | STUART, CITY OF | 12085C0162F | 04-OCT-2002
04 | FL | STUART, CITY OF | 12085C0163F | 04-OCT-2002
04 | FL | STUART, CITY OF | 12085C0164F | 04-OCT-2002
04 | FL | STUART, CITY OF | 12085CIND0A | 04-OCT-2002
04 | FL | TAVARES, CITY OF | 12069C0334D | 03-JUL-2002
04 | FL | TAVARES, CITY OF | 12069C0345D | 03-JUL-2002
04 | FL | TAVARES, CITY OF | 12069C0355D | 03-JUL-2002
04 | FL | TAVARES, CITY OF | 12069C0361D | 03-JUL-2002
04 | FL | TAVARES, CITY OF | 12069C0362D | 03-JUL-2002
04 | FL | TAVARES, CITY OF | 12069C0365D | 03-JUL-2002
04 | FL | TAVARES, CITY OF | 12069C0460D | 03-JUL-2002
04 | FL | TAVARES, CITY OF | 12069CIND0 | 03-JUL-2002
04 | FL | TAVARES, CITY OF | 12069CIND1 | 03-JUL-2002
04 | FL | UMATILLA, CITY OF | 12069C0210D | 03-JUL-2002
04 | FL | UMATILLA, CITY OF | 12069C0220D | 03-JUL-2002
04 | FL | UMATILLA, CITY OF | 12069CIND0 | 03-JUL-2002
04 | FL | UMATILLA, CITY OF | 12069CIND1 | 03-JUL-2002
04 | FL | VALPARAISO, CITY OF | 12091C0370H | 06-DEC-2002
04 | FL | VALPARAISO, CITY OF | 12091C0388H | 06-DEC-2002
04 | FL | VALPARAISO, CITY OF | 12091C0457H | 06-DEC-2002
04 | FL | VALPARAISO, CITY OF | 12091C0476H | 06-DEC-2002
04 | FL | VALPARAISO, CITY OF | 12091CIND0A | 06-DEC-2002
04 | FL | WEWAHITCHKA, CITY OF | 12045C0075E | 07-NOV-2002
04 | FL | WEWAHITCHKA, CITY OF | 12045C0152E | 07-NOV-2002
04 | FL | WEWAHITCHKA, CITY OF | 12045C0155E | 07-NOV-2002
04 | FL | WEWAHITCHKA, CITY OF | 12045C0156E | 07-NOV-2002
04 | FL | WEWAHITCHKA, CITY OF | 12045C0160E | 07-NOV-2002
04 | FL | WEWAHITCHKA, CITY OF | 12045CIND0A | 07-NOV-2002
04 | GA | CLEVELAND, CITY OF | 13311C0182C | 18-OCT-2002
04 | GA | CLEVELAND, CITY OF | 13311C0184C | 18-OCT-2002
04 | GA | CLEVELAND, CITY OF | 13311C0203C | 18-OCT-2002
04 | GA | CLEVELAND, CITY OF | 13311C0205C | 18-OCT-2002
04 | GA | CLEVELAND, CITY OF | 13311CIND0A | 18-OCT-2002
04 | GA | HELEN, CITY OF | 13311C0103C | 18-OCT-2002
04 | GA | HELEN, CITY OF | 13311C0104C | 18-OCT-2002
04 | GA | HELEN, CITY OF | 13311C0125C | 18-OCT-2002
04 | GA | HELEN, CITY OF | 13311CIND0A | 18-OCT-2002
04 | GA | WHITE COUNTY* | 13311C0025C | 18-OCT-2002
04 | GA | WHITE COUNTY* | 13311C0050C | 18-OCT-2002
04 | GA | WHITE COUNTY* | 13311C0075C | 18-OCT-2002
04 | GA | WHITE COUNTY* | 13311C0100C | 18-OCT-2002
04 | GA | WHITE COUNTY* | 13311C0103C | 18-OCT-2002
04 | GA | WHITE COUNTY* | 13311C0104C | 18-OCT-2002
04 | GA | WHITE COUNTY* | 13311C0114C | 18-OCT-2002
04 | GA | WHITE COUNTY* | 13311C0118C | 18-OCT-2002
04 | GA | WHITE COUNTY* | 13311C0125C | 18-OCT-2002
04 | GA | WHITE COUNTY* | 13311C0150C | 18-OCT-2002
04 | GA | WHITE COUNTY* | 13311C0175C | 18-OCT-2002
04 | GA | WHITE COUNTY* | 13311C0182C | 18-OCT-2002
04 | GA | WHITE COUNTY* | 13311C0184C | 18-OCT-2002
04 | GA | WHITE COUNTY* | 13311C0200C | 18-OCT-2002
04 | GA | WHITE COUNTY* | 13311C0202C | 18-OCT-2002
04 | GA | WHITE COUNTY* | 13311C0203C | 18-OCT-2002
04 | GA | WHITE COUNTY* | 13311C0204C | 18-OCT-2002
04 | GA | WHITE COUNTY* | 13311C0206C | 18-OCT-2002
04 | GA | WHITE COUNTY* | 13311C0207C | 18-OCT-2002
04 | GA | WHITE COUNTY* | 13311C0208C | 18-OCT-2002
04 | GA | WHITE COUNTY* | 13311C0209C | 18-OCT-2002
04 | GA | WHITE COUNTY* | 13311C0212C | 18-OCT-2002
04 | GA | WHITE COUNTY* | 13311C0216C | 18-OCT-2002
04 | GA | WHITE COUNTY* | 13311C0217C | 18-OCT-2002
04 | GA | WHITE COUNTY* | 13311C0219C | 18-OCT-2002
04 | GA | WHITE COUNTY* | 13311C0225C | 18-OCT-2002
04 | GA | WHITE COUNTY* | 13311C0236C | 18-OCT-2002
04 | GA | WHITE COUNTY* | 13311CIND0A | 18-OCT-2002
04 | MS | GULFPORT, CITY OF | 2852530017D | 04-OCT-2002
04 | MS | GULFPORT, CITY OF | 2852530019D | 04-OCT-2002
04 | MS | GULFPORT, CITY OF | 2852530030D | 04-OCT-2002
04 | MS | GULFPORT, CITY OF | 2852530035D | 04-OCT-2002
04 | MS | GULFPORT, CITY OF | 2852530036D | 04-OCT-2002
04 | MS | GULFPORT, CITY OF | 2852530037D | 04-OCT-2002
04 | MS | GULFPORT, CITY OF | 2852530038D | 04-OCT-2002
04 | MS | GULFPORT, CITY OF | 2852530039D | 04-OCT-2002
04 | MS | GULFPORT, CITY OF | 2852530041D | 04-OCT-2002
04 | MS | GULFPORT, CITY OF | 2852530042D | 04-OCT-2002
04 | MS | GULFPORT, CITY OF | 2852530043D | 04-OCT-2002
04 | MS | GULFPORT, CITY OF | 2852530044D | 04-OCT-2002
04 | MS | GULFPORT, CITY OF | 2852530057D | 04-OCT-2002
04 | MS | GULFPORT, CITY OF | 2852530076D | 04-OCT-2002
04 | MS | GULFPORT, CITY OF | 2852530077D | 04-OCT-2002
04 | MS | GULFPORT, CITY OF | 285253IND0A | 04-OCT-2002
04 | MS | HARRISON COUNTY * | 2852550115F | 04-OCT-2002
04 | MS | HARRISON COUNTY * | 2852550120F | 04-OCT-2002
04 | MS | HARRISON COUNTY * | 2852550180F | 04-OCT-2002
04 | MS | HARRISON COUNTY * | 2852550185F | 04-OCT-2002
04 | MS | HARRISON COUNTY * | 2852550190F | 04-OCT-2002
04 | MS | HARRISON COUNTY * | 285255IND0A | 04-OCT-2002
04 | TN | CHATTANOOGA, CITY OF | 47065C0214F | 07-NOV-2002
04 | TN | CHATTANOOGA, CITY OF | 47065C0217F | 07-NOV-2002
04 | TN | CHATTANOOGA, CITY OF | 47065C0218F | 07-NOV-2002
04 | TN | CHATTANOOGA, CITY OF | 47065C0219F | 07-NOV-2002
04 | TN | CHATTANOOGA, CITY OF | 47065C0228F | 07-NOV-2002
04 | TN | CHATTANOOGA, CITY OF | 47065C0229F | 07-NOV-2002
04 | TN | CHATTANOOGA, CITY OF | 47065C0236F | 07-NOV-2002
04 | TN | CHATTANOOGA, CITY OF | 47065C0237F | 07-NOV-2002
04 | TN | CHATTANOOGA, CITY OF | 47065C0238F | 07-NOV-2002
04 | TN | CHATTANOOGA, CITY OF | 47065C0239F | 07-NOV-2002
04 | TN | CHATTANOOGA, CITY OF | 47065C0243F | 07-NOV-2002
04 | TN | CHATTANOOGA, CITY OF | 47065C0319F | 07-NOV-2002
04 | TN | CHATTANOOGA, CITY OF | 47065C0326F | 07-NOV-2002
04 | TN | CHATTANOOGA, CITY OF | 47065C0327F | 07-NOV-2002
04 | TN | CHATTANOOGA, CITY OF | 47065C0328F | 07-NOV-2002
04 | TN | CHATTANOOGA, CITY OF | 47065C0329F | 07-NOV-2002
04 | TN | CHATTANOOGA, CITY OF | 47065C0331F | 07-NOV-2002
04 | TN | CHATTANOOGA, CITY OF | 47065C0332F | 07-NOV-2002
04 | TN | CHATTANOOGA, CITY OF | 47065C0333F | 07-NOV-2002
04 | TN | CHATTANOOGA, CITY OF | 47065C0334F | 07-NOV-2002
04 | TN | CHATTANOOGA, CITY OF | 47065C0336F | 07-NOV-2002
04 | TN | CHATTANOOGA, CITY OF | 47065C0337F | 07-NOV-2002
04 | TN | CHATTANOOGA, CITY OF | 47065C0338F | 07-NOV-2002
04 | TN | CHATTANOOGA, CITY OF | 47065C0339F | 07-NOV-2002
04 | TN | CHATTANOOGA, CITY OF | 47065C0341F | 07-NOV-2002
04 | TN | CHATTANOOGA, CITY OF | 47065C0342F | 07-NOV-2002
04 | TN | CHATTANOOGA, CITY OF | 47065C0343F | 07-NOV-2002
04 | TN | CHATTANOOGA, CITY OF | 47065C0344F | 07-NOV-2002
04 | TN | CHATTANOOGA, CITY OF | 47065C0351F | 07-NOV-2002
04 | TN | CHATTANOOGA, CITY OF | 47065C0352F | 07-NOV-2002
04 | TN | CHATTANOOGA, CITY OF | 47065C0353F | 07-NOV-2002
04 | TN | CHATTANOOGA, CITY OF | 47065C0354F | 07-NOV-2002
04 | TN | CHATTANOOGA, CITY OF | 47065C0356F | 07-NOV-2002
04 | TN | CHATTANOOGA, CITY OF | 47065C0357F | 07-NOV-2002
04 | TN | CHATTANOOGA, CITY OF | 47065C0358F | 07-NOV-2002
04 | TN | CHATTANOOGA, CITY OF | 47065C0359F | 07-NOV-2002
04 | TN | CHATTANOOGA, CITY OF | 47065C0361F | 07-NOV-2002
04 | TN | CHATTANOOGA, CITY OF | 47065C0362F | 07-NOV-2002
04 | TN | CHATTANOOGA, CITY OF | 47065C0363F | 07-NOV-2002
04 | TN | CHATTANOOGA, CITY OF | 47065C0364F | 07-NOV-2002
04 | TN | CHATTANOOGA, CITY OF | 47065C0366F | 07-NOV-2002
04 | TN | CHATTANOOGA, CITY OF | 47065C0367F | 07-NOV-2002
04 | TN | CHATTANOOGA, CITY OF | 47065C0368F | 07-NOV-2002
04 | TN | CHATTANOOGA, CITY OF | 47065C0369F | 07-NOV-2002
04 | TN | CHATTANOOGA, CITY OF | 47065C0378F | 07-NOV-2002
04 | TN | CHATTANOOGA, CITY OF | 47065C0379F | 07-NOV-2002
04 | TN | CHATTANOOGA, CITY OF | 47065C0380F | 07-NOV-2002
04 | TN | CHATTANOOGA, CITY OF | 47065C0386F | 07-NOV-2002
04 | TN | CHATTANOOGA, CITY OF | 47065C0387F | 07-NOV-2002
04 | TN | CHATTANOOGA, CITY OF | 47065C0388F | 07-NOV-2002
04 | TN | CHATTANOOGA, CITY OF | 47065C0432F | 07-NOV-2002
04 | TN | CHATTANOOGA, CITY OF | 47065C0451F | 07-NOV-2002
04 | TN | CHATTANOOGA, CITY OF | 47065C0452F | 07-NOV-2002
04 | TN | CHATTANOOGA, CITY OF | 47065C0456F | 07-NOV-2002
04 | TN | CHATTANOOGA, CITY OF | 47065C0477F | 07-NOV-2002
04 | TN | CHATTANOOGA, CITY OF | 47065C0481F | 07-NOV-2002
04 | TN | CHATTANOOGA, CITY OF | 47065CIND0A | 07-NOV-2002
04 | TN | COLLEGEDALE, CITY OF | 47065C0379F | 07-NOV-2002
04 | TN | COLLEGEDALE, CITY OF | 47065C0383F | 07-NOV-2002
04 | TN | COLLEGEDALE, CITY OF | 47065C0384F | 07-NOV-2002
04 | TN | COLLEGEDALE, CITY OF | 47065C0387F | 07-NOV-2002
04 | TN | COLLEGEDALE, CITY OF | 47065C0389F | 07-NOV-2002
04 | TN | COLLEGEDALE, CITY OF | 47065C0391F | 07-NOV-2002
04 | TN | COLLEGEDALE, CITY OF | 47065C0392F | 07-NOV-2002
04 | TN | COLLEGEDALE, CITY OF | 47065C0393F | 07-NOV-2002
04 | TN | COLLEGEDALE, CITY OF | 47065C0394F | 07-NOV-2002
04 | TN | COLLEGEDALE, CITY OF | 47065CIND0A | 07-NOV-2002
04 | TN | EAST RIDGE, CITY OF | 47065C0344F | 07-NOV-2002
04 | TN | EAST RIDGE, CITY OF | 47065C0363F | 07-NOV-2002
04 | TN | EAST RIDGE, CITY OF | 47065C0364F | 07-NOV-2002
04 | TN | EAST RIDGE, CITY OF | 47065C0368F | 07-NOV-2002
04 | TN | EAST RIDGE, CITY OF | 47065C0476F | 07-NOV-2002
04 | TN | EAST RIDGE, CITY OF | 47065C0477F | 07-NOV-2002
04 | TN | EAST RIDGE, CITY OF | 47065C0481F | 07-NOV-2002
04 | TN | EAST RIDGE, CITY OF | 47065CIND0A | 07-NOV-2002
04 | TN | GALLATIN, CITY OF | 47165C0295D | 21-NOV-2002
04 | TN | GALLATIN, CITY OF | 47165C0312D | 21-NOV-2002
04 | TN | GALLATIN, CITY OF | 47165C0313D | 21-NOV-2002
04 | TN | GALLATIN, CITY OF | 47165C0314D | 21-NOV-2002
04 | TN | GALLATIN, CITY OF | 47165C0316D | 21-NOV-2002
04 | TN | GALLATIN, CITY OF | 47165C0317D | 21-NOV-2002
04 | TN | GALLATIN, CITY OF | 47165C0318D | 21-NOV-2002
04 | TN | GALLATIN, CITY OF | 47165C0319D | 21-NOV-2002
04 | TN | GALLATIN, CITY OF | 47165C0406D | 21-NOV-2002
04 | TN | GALLATIN, CITY OF | 47165C0407D | 21-NOV-2002
04 | TN | GALLATIN, CITY OF | 47165C0408D | 21-NOV-2002
04 | TN | GALLATIN, CITY OF | 47165C0409D | 21-NOV-2002
04 | TN | GALLATIN, CITY OF | 47165C0426D | 21-NOV-2002
04 | TN | GALLATIN, CITY OF | 47165C0427D | 21-NOV-2002
04 | TN | GALLATIN, CITY OF | 47165C0428D | 21-NOV-2002
04 | TN | GALLATIN, CITY OF | 47165C0429D | 21-NOV-2002
04 | TN | GALLATIN, CITY OF | 47165C0431D | 21-NOV-2002
04 | TN | GALLATIN, CITY OF | 47165C0432D | 21-NOV-2002
04 | TN | GALLATIN, CITY OF | 47165C0433D | 21-NOV-2002
04 | TN | GALLATIN, CITY OF | 47165C0434D | 21-NOV-2002
04 | TN | GALLATIN, CITY OF | 47165C0441D | 21-NOV-2002
04 | TN | GALLATIN, CITY OF | 47165C0442D | 21-NOV-2002
04 | TN | GALLATIN, CITY OF | 47165CIND0A | 21-NOV-2002
04 | TN | GOODLETTSVILLE, CITY OF | 47037C0126G | 21-NOV-2002
04 | TN | GOODLETTSVILLE, CITY OF | 47037C0128G | 21-NOV-2002
04 | TN | GOODLETTSVILLE, CITY OF | 47037C0129G | 21-NOV-2002
04 | TN | GOODLETTSVILLE, CITY OF | 47037C0133G | 21-NOV-2002
04 | TN | GOODLETTSVILLE, CITY OF | 47037CIND0A | 21-NOV-2002
04 | TN | GOODLETTSVILLE, CITY OF | 47165C0264D | 21-NOV-2002
04 | TN | GOODLETTSVILLE, CITY OF | 47165C0270D | 21-NOV-2002
04 | TN | GOODLETTSVILLE, CITY OF | 47165C0376D | 21-NOV-2002
04 | TN | GOODLETTSVILLE, CITY OF | 47165C0377D | 21-NOV-2002
04 | TN | GOODLETTSVILLE, CITY OF | 47165C0378D | 21-NOV-2002
04 | TN | GOODLETTSVILLE, CITY OF | 47165C0379D | 21-NOV-2002
04 | TN | GOODLETTSVILLE, CITY OF | 47165C0381D | 21-NOV-2002
04 | TN | GOODLETTSVILLE, CITY OF | 47165C0383D | 21-NOV-2002
04 | TN | GOODLETTSVILLE, CITY OF | 47165CIND0A | 21-NOV-2002
04 | TN | HAMILTON COUNTY * | 47065C0020F | 07-NOV-2002
04 | TN | HAMILTON COUNTY * | 47065C0040F | 07-NOV-2002
04 | TN | HAMILTON COUNTY * | 47065C0045F | 07-NOV-2002
04 | TN | HAMILTON COUNTY * | 47065C0107F | 07-NOV-2002
04 | TN | HAMILTON COUNTY * | 47065C0109F | 07-NOV-2002
04 | TN | HAMILTON COUNTY * | 47065C0118F | 07-NOV-2002
04 | TN | HAMILTON COUNTY * | 47065C0120F | 07-NOV-2002
04 | TN | HAMILTON COUNTY * | 47065C0130F | 07-NOV-2002
04 | TN | HAMILTON COUNTY * | 47065C0135F | 07-NOV-2002
04 | TN | HAMILTON COUNTY * | 47065C0140F | 07-NOV-2002
04 | TN | HAMILTON COUNTY * | 47065C0145F | 07-NOV-2002
04 | TN | HAMILTON COUNTY * | 47065C0209F | 07-NOV-2002
04 | TN | HAMILTON COUNTY * | 47065C0212F | 07-NOV-2002
04 | TN | HAMILTON COUNTY * | 47065C0213F | 07-NOV-2002
04 | TN | HAMILTON COUNTY * | 47065C0214F | 07-NOV-2002
04 | TN | HAMILTON COUNTY * | 47065C0217F | 07-NOV-2002
04 | TN | HAMILTON COUNTY * | 47065C0218F | 07-NOV-2002
04 | TN | HAMILTON COUNTY * | 47065C0219F | 07-NOV-2002
04 | TN | HAMILTON COUNTY * | 47065C0226F | 07-NOV-2002
04 | TN | HAMILTON COUNTY * | 47065C0227F | 07-NOV-2002
04 | TN | HAMILTON COUNTY * | 47065C0228F | 07-NOV-2002
04 | TN | HAMILTON COUNTY * | 47065C0229F | 07-NOV-2002
04 | TN | HAMILTON COUNTY * | 47065C0231F | 07-NOV-2002
04 | TN | HAMILTON COUNTY * | 47065C0235F | 07-NOV-2002
04 | TN | HAMILTON COUNTY * | 47065C0236F | 07-NOV-2002
04 | TN | HAMILTON COUNTY * | 47065C0237F | 07-NOV-2002
04 | TN | HAMILTON COUNTY * | 47065C0238F | 07-NOV-2002
04 | TN | HAMILTON COUNTY * | 47065C0239F | 07-NOV-2002
04 | TN | HAMILTON COUNTY * | 47065C0241F | 07-NOV-2002
04 | TN | HAMILTON COUNTY * | 47065C0243F | 07-NOV-2002
04 | TN | HAMILTON COUNTY * | 47065C0245F | 07-NOV-2002
04 | TN | HAMILTON COUNTY * | 47065C0255F | 07-NOV-2002
04 | TN | HAMILTON COUNTY * | 47065C0260F | 07-NOV-2002
04 | TN | HAMILTON COUNTY * | 47065C0264F | 07-NOV-2002
04 | TN | HAMILTON COUNTY * | 47065C0265F | 07-NOV-2002
04 | TN | HAMILTON COUNTY * | 47065C0268F | 07-NOV-2002
04 | TN | HAMILTON COUNTY * | 47065C0270F | 07-NOV-2002
04 | TN | HAMILTON COUNTY * | 47065C0310F | 07-NOV-2002
04 | TN | HAMILTON COUNTY * | 47065C0319F | 07-NOV-2002
04 | TN | HAMILTON COUNTY * | 47065C0326F | 07-NOV-2002
04 | TN | HAMILTON COUNTY * | 47065C0327F | 07-NOV-2002
04 | TN | HAMILTON COUNTY * | 47065C0328F | 07-NOV-2002
04 | TN | HAMILTON COUNTY * | 47065C0329F | 07-NOV-2002
04 | TN | HAMILTON COUNTY * | 47065C0331F | 07-NOV-2002
04 | TN | HAMILTON COUNTY * | 47065C0332F | 07-NOV-2002
04 | TN | HAMILTON COUNTY * | 47065C0333F | 07-NOV-2002
04 | TN | HAMILTON COUNTY * | 47065C0334F | 07-NOV-2002
04 | TN | HAMILTON COUNTY * | 47065C0336F | 07-NOV-2002
04 | TN | HAMILTON COUNTY * | 47065C0337F | 07-NOV-2002
04 | TN | HAMILTON COUNTY * | 47065C0338F | 07-NOV-2002
04 | TN | HAMILTON COUNTY * | 47065C0339F | 07-NOV-2002
04 | TN | HAMILTON COUNTY * | 47065C0341F | 07-NOV-2002
04 | TN | HAMILTON COUNTY * | 47065C0342F | 07-NOV-2002
04 | TN | HAMILTON COUNTY * | 47065C0343F | 07-NOV-2002
04 | TN | HAMILTON COUNTY * | 47065C0344F | 07-NOV-2002
04 | TN | HAMILTON COUNTY * | 47065C0351F | 07-NOV-2002
04 | TN | HAMILTON COUNTY * | 47065C0352F | 07-NOV-2002
04 | TN | HAMILTON COUNTY * | 47065C0353F | 07-NOV-2002
04 | TN | HAMILTON COUNTY * | 47065C0354F | 07-NOV-2002
04 | TN | HAMILTON COUNTY * | 47065C0356F | 07-NOV-2002
04 | TN | HAMILTON COUNTY * | 47065C0357F | 07-NOV-2002
04 | TN | HAMILTON COUNTY * | 47065C0358F | 07-NOV-2002
04 | TN | HAMILTON COUNTY * | 47065C0359F | 07-NOV-2002
04 | TN | HAMILTON COUNTY * | 47065C0361F | 07-NOV-2002
04 | TN | HAMILTON COUNTY * | 47065C0362F | 07-NOV-2002
04 | TN | HAMILTON COUNTY * | 47065C0363F | 07-NOV-2002
04 | TN | HAMILTON COUNTY * | 47065C0364F | 07-NOV-2002
04 | TN | HAMILTON COUNTY * | 47065C0366F | 07-NOV-2002
04 | TN | HAMILTON COUNTY * | 47065C0367F | 07-NOV-2002
04 | TN | HAMILTON COUNTY * | 47065C0368F | 07-NOV-2002
04 | TN | HAMILTON COUNTY * | 47065C0369F | 07-NOV-2002
04 | TN | HAMILTON COUNTY * | 47065C0378F | 07-NOV-2002
04 | TN | HAMILTON COUNTY * | 47065C0379F | 07-NOV-2002
04 | TN | HAMILTON COUNTY * | 47065C0380F | 07-NOV-2002
04 | TN | HAMILTON COUNTY * | 47065C0381F | 07-NOV-2002
04 | TN | HAMILTON COUNTY * | 47065C0383F | 07-NOV-2002
04 | TN | HAMILTON COUNTY * | 47065C0384F | 07-NOV-2002
04 | TN | HAMILTON COUNTY * | 47065C0386F | 07-NOV-2002
04 | TN | HAMILTON COUNTY * | 47065C0387F | 07-NOV-2002
04 | TN | HAMILTON COUNTY * | 47065C0388F | 07-NOV-2002
04 | TN | HAMILTON COUNTY * | 47065C0389F | 07-NOV-2002
04 | TN | HAMILTON COUNTY * | 47065C0391F | 07-NOV-2002
04 | TN | HAMILTON COUNTY * | 47065C0392F | 07-NOV-2002
04 | TN | HAMILTON COUNTY * | 47065C0393F | 07-NOV-2002
04 | TN | HAMILTON COUNTY * | 47065C0394F | 07-NOV-2002
04 | TN | HAMILTON COUNTY * | 47065C0432F | 07-NOV-2002
04 | TN | HAMILTON COUNTY * | 47065C0451F | 07-NOV-2002
04 | TN | HAMILTON COUNTY * | 47065C0452F | 07-NOV-2002
04 | TN | HAMILTON COUNTY * | 47065C0456F | 07-NOV-2002
04 | TN | HAMILTON COUNTY * | 47065C0476F | 07-NOV-2002
04 | TN | HAMILTON COUNTY * | 47065C0477F | 07-NOV-2002
04 | TN | HAMILTON COUNTY * | 47065C0481F | 07-NOV-2002
04 | TN | HAMILTON COUNTY * | 47065C0505F | 07-NOV-2002
04 | TN | HAMILTON COUNTY * | 47065C0510F | 07-NOV-2002
04 | TN | HAMILTON COUNTY * | 47065CIND0A | 07-NOV-2002
04 | TN | HANCOCK COUNTY | 470226 B & | 01-SEP-2002
04 | TN | HANCOCK COUNTY | 4702269999A | 01-SEP-2002
04 | TN | HENDERSONVILLE, CITY OF | 47165C0288D | 21-NOV-2002
04 | TN | HENDERSONVILLE, CITY OF | 47165C0290D | 21-NOV-2002
04 | TN | HENDERSONVILLE, CITY OF | 47165C0293D | 21-NOV-2002
04 | TN | HENDERSONVILLE, CITY OF | 47165C0381D | 21-NOV-2002
04 | TN | HENDERSONVILLE, CITY OF | 47165C0382D | 21-NOV-2002
04 | TN | HENDERSONVILLE, CITY OF | 47165C0383D | 21-NOV-2002
04 | TN | HENDERSONVILLE, CITY OF | 47165C0384D | 21-NOV-2002
04 | TN | HENDERSONVILLE, CITY OF | 47165C0391D | 21-NOV-2002
04 | TN | HENDERSONVILLE, CITY OF | 47165C0392D | 21-NOV-2002
04 | TN | HENDERSONVILLE, CITY OF | 47165C0394D | 21-NOV-2002
04 | TN | HENDERSONVILLE, CITY OF | 47165C0401D | 21-NOV-2002
04 | TN | HENDERSONVILLE, CITY OF | 47165C0402D | 21-NOV-2002
04 | TN | HENDERSONVILLE, CITY OF | 47165C0403D | 21-NOV-2002
04 | TN | HENDERSONVILLE, CITY OF | 47165C0404D | 21-NOV-2002
04 | TN | HENDERSONVILLE, CITY OF | 47165C0406D | 21-NOV-2002
04 | TN | HENDERSONVILLE, CITY OF | 47165C0407D | 21-NOV-2002
04 | TN | HENDERSONVILLE, CITY OF | 47165C0408D | 21-NOV-2002
04 | TN | HENDERSONVILLE, CITY OF | 47165C0411D | 21-NOV-2002
04 | TN | HENDERSONVILLE, CITY OF | 47165C0412D | 21-NOV-2002
04 | TN | HENDERSONVILLE, CITY OF | 47165C0413D | 21-NOV-2002
04 | TN | HENDERSONVILLE, CITY OF | 47165C0414D | 21-NOV-2002
04 | TN | HENDERSONVILLE, CITY OF | 47165C0416D | 21-NOV-2002
04 | TN | HENDERSONVILLE, CITY OF | 47165C0418D | 21-NOV-2002
04 | TN | HENDERSONVILLE, CITY OF | 47165C0476D | 21-NOV-2002
04 | TN | HENDERSONVILLE, CITY OF | 47165C0477D | 21-NOV-2002
04 | TN | HENDERSONVILLE, CITY OF | 47165CIND0A | 21-NOV-2002
04 | TN | LAKESITE, CITY OF | 47065C0235F | 07-NOV-2002
04 | TN | LAKESITE, CITY OF | 47065C0255F | 07-NOV-2002
04 | TN | LAKESITE, CITY OF | 47065CIND0A | 07-NOV-2002
04 | TN | LOOKOUT MOUNTAIN, TOWN OF | 47065C0338F | 07-NOV-2002
04 | TN | LOOKOUT MOUNTAIN, TOWN OF | 47065C0339F | 07-NOV-2002
04 | TN | LOOKOUT MOUNTAIN, TOWN OF | 47065C0451F | 07-NOV-2002
04 | TN | LOOKOUT MOUNTAIN, TOWN OF | 47065C0452F | 07-NOV-2002
04 | TN | LOOKOUT MOUNTAIN, TOWN OF | 47065CIND0A | 07-NOV-2002
04 | TN | MILLERSVILLE, CITY OF | 47165C0245D | 21-NOV-2002
04 | TN | MILLERSVILLE, CITY OF | 47165C0263D | 21-NOV-2002
04 | TN | MILLERSVILLE, CITY OF | 47165C0264D | 21-NOV-2002
04 | TN | MILLERSVILLE, CITY OF | 47165C0270D | 21-NOV-2002
04 | TN | MILLERSVILLE, CITY OF | 47165C0376D | 21-NOV-2002
04 | TN | MILLERSVILLE, CITY OF | 47165C0377D | 21-NOV-2002
04 | TN | MILLERSVILLE, CITY OF | 47165CIND0A | 21-NOV-2002
04 | TN | MURFREESBORO, CITY OF | 47149C0137F | 20-DEC-2002
04 | TN | MURFREESBORO, CITY OF | 47149C0139F | 20-DEC-2002
04 | TN | MURFREESBORO, CITY OF | 47149C0141G | 20-DEC-2002
04 | TN | MURFREESBORO, CITY OF | 47149C0143G | 20-DEC-2002
04 | TN | MURFREESBORO, CITY OF | 47149C0252F | 20-DEC-2002
04 | TN | MURFREESBORO, CITY OF | 47149C0257G | 20-DEC-2002
04 | TN | MURFREESBORO, CITY OF | 47149C0259G | 20-DEC-2002
04 | TN | MURFREESBORO, CITY OF | 47149C0260G | 20-DEC-2002
04 | TN | MURFREESBORO, CITY OF | 47149C0267F | 20-DEC-2002
04 | TN | MURFREESBORO, CITY OF | 47149C0270F | 20-DEC-2002
04 | TN | MURFREESBORO, CITY OF | 47149C0278F | 20-DEC-2002
04 | TN | MURFREESBORO, CITY OF | 47149C0286F | 20-DEC-2002
04 | TN | MURFREESBORO, CITY OF | 47149CIND0A | 20-DEC-2002
04 | TN | NASHVILLE & DAVIDSON COUNTY, CI | 47037C0063G | 21-NOV-2002
04 | TN | NASHVILLE & DAVIDSON COUNTY, CI | 47037C0126G | 21-NOV-2002
04 | TN | NASHVILLE & DAVIDSON COUNTY, CI | 47037C0128G | 21-NOV-2002
04 | TN | NASHVILLE & DAVIDSON COUNTY, CI | 47037C0129G | 21-NOV-2002
04 | TN | NASHVILLE & DAVIDSON COUNTY, CI | 47037C0133G | 21-NOV-2002
04 | TN | NASHVILLE & DAVIDSON COUNTY, CI | 47037C0141G | 21-NOV-2002
04 | TN | NASHVILLE & DAVIDSON COUNTY, CI | 47037CIND0 | 21-NOV-2002
04 | TN | PORTLAND, CITY OF | 47165C0025D | 21-NOV-2002
04 | TN | PORTLAND, CITY OF | 47165C0050D | 21-NOV-2002
04 | TN | PORTLAND, CITY OF | 47165C0127D | 21-NOV-2002
04 | TN | PORTLAND, CITY OF | 47165C0131D | 21-NOV-2002
04 | TN | PORTLAND, CITY OF | 47165C0132D | 21-NOV-2002
04 | TN | PORTLAND, CITY OF | 47165C0133D | 21-NOV-2002
04 | TN | PORTLAND, CITY OF | 47165C0134D | 21-NOV-2002
04 | TN | PORTLAND, CITY OF | 47165C0150D | 21-NOV-2002
04 | TN | PORTLAND, CITY OF | 47165C0175D | 21-NOV-2002
04 | TN | PORTLAND, CITY OF | 47165CIND0A | 21-NOV-2002
04 | TN | RED BANK, CITY OF | 47065C0218F | 07-NOV-2002
04 | TN | RED BANK, CITY OF | 47065C0219F | 07-NOV-2002
04 | TN | RED BANK, CITY OF | 47065C0327F | 07-NOV-2002
04 | TN | RED BANK, CITY OF | 47065C0329F | 07-NOV-2002
04 | TN | RED BANK, CITY OF | 47065C0331F | 07-NOV-2002
04 | TN | RED BANK, CITY OF | 47065C0332F | 07-NOV-2002
04 | TN | RED BANK, CITY OF | 47065C0333F | 07-NOV-2002
04 | TN | RED BANK, CITY OF | 47065CIND0A | 07-NOV-2002
04 | TN | RUTHERFORD COUNTY * | 47149C0130F | 20-DEC-2002
04 | TN | RUTHERFORD COUNTY * | 47149C0137F | 20-DEC-2002
04 | TN | RUTHERFORD COUNTY * | 47149C0139F | 20-DEC-2002
04 | TN | RUTHERFORD COUNTY * | 47149C0140F | 20-DEC-2002
04 | TN | RUTHERFORD COUNTY * | 47149C0141G | 20-DEC-2002
04 | TN | RUTHERFORD COUNTY * | 47149C0143G | 20-DEC-2002
04 | TN | RUTHERFORD COUNTY * | 47149C0252F | 20-DEC-2002
04 | TN | RUTHERFORD COUNTY * | 47149C0259G | 20-DEC-2002
04 | TN | RUTHERFORD COUNTY * | 47149C0260G | 20-DEC-2002
04 | TN | RUTHERFORD COUNTY * | 47149C0267F | 20-DEC-2002
04 | TN | RUTHERFORD COUNTY * | 47149C0270F | 20-DEC-2002
04 | TN | RUTHERFORD COUNTY * | 47149C0278F | 20-DEC-2002
04 | TN | RUTHERFORD COUNTY * | 47149C0286F | 20-DEC-2002
04 | TN | RUTHERFORD COUNTY * | 47149C0287F | 20-DEC-2002
04 | TN | RUTHERFORD COUNTY * | 47149C0289F | 20-DEC-2002
04 | TN | RUTHERFORD COUNTY * | 47149C0380F | 20-DEC-2002
04 | TN | RUTHERFORD COUNTY * | 47149C0385F | 20-DEC-2002
04 | TN | RUTHERFORD COUNTY * | 47149CIND0A | 20-DEC-2002
04 | TN | SIGNAL MOUNTAIN, TOWN OF | 47065C0212F | 07-NOV-2002
04 | TN | SIGNAL MOUNTAIN, TOWN OF | 47065C0213F | 07-NOV-2002
04 | TN | SIGNAL MOUNTAIN, TOWN OF | 47065C0214F | 07-NOV-2002
04 | TN | SIGNAL MOUNTAIN, TOWN OF | 47065C0326F | 07-NOV-2002
04 | TN | SIGNAL MOUNTAIN, TOWN OF | 47065C0327F | 07-NOV-2002
04 | TN | SIGNAL MOUNTAIN, TOWN OF | 47065CIND0A | 07-NOV-2002
04 | TN | SMYRNA, TOWN OF | 47149C0130F | 20-DEC-2002
04 | TN | SMYRNA, TOWN OF | 47149CIND0A | 20-DEC-2002
04 | TN | SODDY-DAISY, CITY OF | 47065C0109F | 07-NOV-2002
04 | TN | SODDY-DAISY, CITY OF | 47065C0118F | 07-NOV-2002
04 | TN | SODDY-DAISY, CITY OF | 47065C0120F | 07-NOV-2002
04 | TN | SODDY-DAISY, CITY OF | 47065C0140F | 07-NOV-2002
04 | TN | SODDY-DAISY, CITY OF | 47065C0209F | 07-NOV-2002
04 | TN | SODDY-DAISY, CITY OF | 47065C0217F | 07-NOV-2002
04 | TN | SODDY-DAISY, CITY OF | 47065C0226F | 07-NOV-2002
04 | TN | SODDY-DAISY, CITY OF | 47065C0227F | 07-NOV-2002
04 | TN | SODDY-DAISY, CITY OF | 47065C0228F | 07-NOV-2002
04 | TN | SODDY-DAISY, CITY OF | 47065C0229F | 07-NOV-2002
04 | TN | SODDY-DAISY, CITY OF | 47065C0231F | 07-NOV-2002
04 | TN | SODDY-DAISY, CITY OF | 47065C0235F | 07-NOV-2002
04 | TN | SODDY-DAISY, CITY OF | 47065C0236F | 07-NOV-2002
04 | TN | SODDY-DAISY, CITY OF | 47065CIND0A | 07-NOV-2002
04 | TN | SUMNER COUNTY* | 47165C0025D | 21-NOV-2002
04 | TN | SUMNER COUNTY* | 47165C0050D | 21-NOV-2002
04 | TN | SUMNER COUNTY* | 47165C0075D | 21-NOV-2002
04 | TN | SUMNER COUNTY* | 47165C0100D | 21-NOV-2002
04 | TN | SUMNER COUNTY* | 47165C0125D | 21-NOV-2002
04 | TN | SUMNER COUNTY* | 47165C0127D | 21-NOV-2002
04 | TN | SUMNER COUNTY* | 47165C0131D | 21-NOV-2002
04 | TN | SUMNER COUNTY* | 47165C0132D | 21-NOV-2002
04 | TN | SUMNER COUNTY* | 47165C0133D | 21-NOV-2002
04 | TN | SUMNER COUNTY* | 47165C0134D | 21-NOV-2002
04 | TN | SUMNER COUNTY* | 47165C0150D | 21-NOV-2002
04 | TN | SUMNER COUNTY* | 47165C0175D | 21-NOV-2002
04 | TN | SUMNER COUNTY* | 47165C0200D | 21-NOV-2002
04 | TN | SUMNER COUNTY* | 47165C0225D | 21-NOV-2002
04 | TN | SUMNER COUNTY* | 47165C0245D | 21-NOV-2002
04 | TN | SUMNER COUNTY* | 47165C0257D | 21-NOV-2002
04 | TN | SUMNER COUNTY* | 47165C0259D | 21-NOV-2002
04 | TN | SUMNER COUNTY* | 47165C0260D | 21-NOV-2002
04 | TN | SUMNER COUNTY* | 47165C0263D | 21-NOV-2002
04 | TN | SUMNER COUNTY* | 47165C0264D | 21-NOV-2002
04 | TN | SUMNER COUNTY* | 47165C0267D | 21-NOV-2002
04 | TN | SUMNER COUNTY* | 47165C0269D | 21-NOV-2002
04 | TN | SUMNER COUNTY* | 47165C0270D | 21-NOV-2002
04 | TN | SUMNER COUNTY* | 47165C0280D | 21-NOV-2002
04 | TN | SUMNER COUNTY* | 47165C0285D | 21-NOV-2002
04 | TN | SUMNER COUNTY* | 47165C0288D | 21-NOV-2002
04 | TN | SUMNER COUNTY* | 47165C0290D | 21-NOV-2002
04 | TN | SUMNER COUNTY* | 47165C0291D | 21-NOV-2002
04 | TN | SUMNER COUNTY* | 47165C0293D | 21-NOV-2002
04 | TN | SUMNER COUNTY* | 47165C0295D | 21-NOV-2002
04 | TN | SUMNER COUNTY* | 47165C0305D | 21-NOV-2002
04 | TN | SUMNER COUNTY* | 47165C0310D | 21-NOV-2002
04 | TN | SUMNER COUNTY* | 47165C0312D | 21-NOV-2002
04 | TN | SUMNER COUNTY* | 47165C0313D | 21-NOV-2002
04 | TN | SUMNER COUNTY* | 47165C0314D | 21-NOV-2002
04 | TN | SUMNER COUNTY* | 47165C0316D | 21-NOV-2002
04 | TN | SUMNER COUNTY* | 47165C0317D | 21-NOV-2002
04 | TN | SUMNER COUNTY* | 47165C0318D | 21-NOV-2002
04 | TN | SUMNER COUNTY* | 47165C0319D | 21-NOV-2002
04 | TN | SUMNER COUNTY* | 47165C0330D | 21-NOV-2002
04 | TN | SUMNER COUNTY* | 47165C0335D | 21-NOV-2002
04 | TN | SUMNER COUNTY* | 47165C0340D | 21-NOV-2002
04 | TN | SUMNER COUNTY* | 47165C0345D | 21-NOV-2002
04 | TN | SUMNER COUNTY* | 47165C0376D | 21-NOV-2002
04 | TN | SUMNER COUNTY* | 47165C0377D | 21-NOV-2002
04 | TN | SUMNER COUNTY* | 47165C0378D | 21-NOV-2002
04 | TN | SUMNER COUNTY* | 47165C0379D | 21-NOV-2002
04 | TN | SUMNER COUNTY* | 47165C0381D | 21-NOV-2002
04 | TN | SUMNER COUNTY* | 47165C0382D | 21-NOV-2002
04 | TN | SUMNER COUNTY* | 47165C0383D | 21-NOV-2002
04 | TN | SUMNER COUNTY* | 47165C0384D | 21-NOV-2002
04 | TN | SUMNER COUNTY* | 47165C0391D | 21-NOV-2002
04 | TN | SUMNER COUNTY* | 47165C0392D | 21-NOV-2002
04 | TN | SUMNER COUNTY* | 47165C0394D | 21-NOV-2002
04 | TN | SUMNER COUNTY* | 47165C0401D | 21-NOV-2002
04 | TN | SUMNER COUNTY* | 47165C0402D | 21-NOV-2002
04 | TN | SUMNER COUNTY* | 47165C0403D | 21-NOV-2002
04 | TN | SUMNER COUNTY* | 47165C0404D | 21-NOV-2002
04 | TN | SUMNER COUNTY* | 47165C0406D | 21-NOV-2002
04 | TN | SUMNER COUNTY* | 47165C0407D | 21-NOV-2002
04 | TN | SUMNER COUNTY* | 47165C0408D | 21-NOV-2002
04 | TN | SUMNER COUNTY* | 47165C0409D | 21-NOV-2002
04 | TN | SUMNER COUNTY* | 47165C0411D | 21-NOV-2002
04 | TN | SUMNER COUNTY* | 47165C0412D | 21-NOV-2002
04 | TN | SUMNER COUNTY* | 47165C0413D | 21-NOV-2002
04 | TN | SUMNER COUNTY* | 47165C0414D | 21-NOV-2002
04 | TN | SUMNER COUNTY* | 47165C0416D | 21-NOV-2002
04 | TN | SUMNER COUNTY* | 47165C0417D | 21-NOV-2002
04 | TN | SUMNER COUNTY* | 47165C0418D | 21-NOV-2002
04 | TN | SUMNER COUNTY* | 47165C0419D | 21-NOV-2002
04 | TN | SUMNER COUNTY* | 47165C0426D | 21-NOV-2002
04 | TN | SUMNER COUNTY* | 47165C0427D | 21-NOV-2002
04 | TN | SUMNER COUNTY* | 47165C0428D | 21-NOV-2002
04 | TN | SUMNER COUNTY* | 47165C0429D | 21-NOV-2002
04 | TN | SUMNER COUNTY* | 47165C0431D | 21-NOV-2002
04 | TN | SUMNER COUNTY* | 47165C0432D | 21-NOV-2002
04 | TN | SUMNER COUNTY* | 47165C0433D | 21-NOV-2002
04 | TN | SUMNER COUNTY* | 47165C0434D | 21-NOV-2002
04 | TN | SUMNER COUNTY* | 47165C0436D | 21-NOV-2002
04 | TN | SUMNER COUNTY* | 47165C0441D | 21-NOV-2002
04 | TN | SUMNER COUNTY* | 47165C0442D | 21-NOV-2002
04 | TN | SUMNER COUNTY* | 47165C0455D | 21-NOV-2002
04 | TN | SUMNER COUNTY* | 47165C0460D | 21-NOV-2002
04 | TN | SUMNER COUNTY* | 47165C0465D | 21-NOV-2002
04 | TN | SUMNER COUNTY* | 47165C0476D | 21-NOV-2002
04 | TN | SUMNER COUNTY* | 47165C0477D | 21-NOV-2002
04 | TN | SUMNER COUNTY* | 47165CIND0A | 21-NOV-2002
04 | TN | TUSCULUM, CITY OF | 470329 A | 01-NOV-2002
04 | TN | TUSCULUM, CITY OF | 4703299999A | 01-NOV-2002
04 | TN | WHITE HOUSE, CITY OF | 47165C0125D | 21-NOV-2002
04 | TN | WHITE HOUSE, CITY OF | 47165C0257D | 21-NOV-2002
04 | TN | WHITE HOUSE, CITY OF | 47165C0259D | 21-NOV-2002
04 | TN | WHITE HOUSE, CITY OF | 47165C0260D | 21-NOV-2002
04 | TN | WHITE HOUSE, CITY OF | 47165C0270D | 21-NOV-2002
04 | TN | WHITE HOUSE, CITY OF | 47165C0280D | 21-NOV-2002
04 | TN | WHITE HOUSE, CITY OF | 47165CIND0A | 21-NOV-2002
05 | IL | ALSIP, VILLAGE OF | 17031CIND1A** | 20-DEC-2002
05 | IL | ALSIP, VILLAGE OF | 17031CIND3A** | 20-DEC-2002
05 | IL | ANDALUSIA, VILLAGE OF | 17161C0280E | 18-OCT-2002
05 | IL | ANDALUSIA, VILLAGE OF | 17161C0290E | 18-OCT-2002
05 | IL | ANDALUSIA, VILLAGE OF | 17161CIND0A** | 18-OCT-2002
05 | IL | ARLINGTON HEIGHTS, VILLAGE OF | 17031CIND1A** | 20-DEC-2002
05 | IL | ARLINGTON HEIGHTS, VILLAGE OF | 17031CIND3A** | 20-DEC-2002
05 | IL | BARRINGTON, VILLAGE OF | 17031CIND1A** | 20-DEC-2002
05 | IL | BARRINGTON, VILLAGE OF | 17031CIND3A** | 20-DEC-2002
05 | IL | BATAVIA, CITY OF | 17089C0326F | 20-DEC-2002
05 | IL | BATAVIA, CITY OF | 17089C0327F | 20-DEC-2002
05 | IL | BATAVIA, CITY OF | 17089C0328F | 20-DEC-2002
05 | IL | BATAVIA, CITY OF | 17089C0329F | 20-DEC-2002
05 | IL | BATAVIA, CITY OF | 17089C0331F | 20-DEC-2002
05 | IL | BATAVIA, CITY OF | 17089C0332F | 20-DEC-2002
05 | IL | BATAVIA, CITY OF | 17089C0333F | 20-DEC-2002
05 | IL | BATAVIA, CITY OF | 17089C0334F | 20-DEC-2002
05 | IL | BATAVIA, CITY OF | 17089CIND0A** | 20-DEC-2002
05 | IL | BEDFORD PARK, VILLAGE OF | 17031CIND1A** | 20-DEC-2002
05 | IL | BEDFORD PARK, VILLAGE OF | 17031CIND3A** | 20-DEC-2002
05 | IL | BELLWOOD, VILLAGE OF | 17031CIND1A** | 20-DEC-2002
05 | IL | BELLWOOD, VILLAGE OF | 17031CIND3A** | 20-DEC-2002
05 | IL | BERKELEY, VILLAGE OF | 17031CIND1A** | 20-DEC-2002
05 | IL | BERWYN, VILLAGE OF | 17031CIND1A** | 20-DEC-2002
05 | IL | BIG ROCK, VILLAGE OF | 17031C0290F | 20-DEC-2002
05 | IL | BIG ROCK, VILLAGE OF | 17031C0295F | 20-DEC-2002
05 | IL | BIG ROCK, VILLAGE OF | 17031CIND0A** | 20-DEC-2002
05 | IL | BLUE ISLAND, CITY OF | 17031CIND1A** | 20-DEC-2002
05 | IL | BLUE ISLAND, CITY OF | 17031CIND3A** | 20-DEC-2002
05 | IL | BRIDGEVIEW, VILLAGE OF | 17031CIND1A** | 20-DEC-2002
05 | IL | BRIDGEVIEW, VILLAGE OF | 17031CIND3A** | 20-DEC-2002
05 | IL | BROADVIEW, VILLAGE OF | 17031CIND1A** | 20-DEC-2002
05 | IL | BROADVIEW, VILLAGE OF | 17031CIND3A** | 20-DEC-2002
05 | IL | BROOKFIELD, VILLAGE OF | 17031CIND1A** | 20-DEC-2002
05 | IL | BROOKFIELD, VILLAGE OF | 17031CIND3A** | 20-DEC-2002
05 | IL | BUFFALO GROVE, VILLAGE OF | 17031CIND1A** | 20-DEC-2002
05 | IL | BUFFALO GROVE, VILLAGE OF | 17031CIND3A** | 20-DEC-2002
05 | IL | BURBANK, CITY OF | 17031CIND1A** | 20-DEC-2002
05 | IL | BURBANK, CITY OF | 17031CIND3A** | 20-DEC-2002
05 | IL | BURNHAM, VILLAGE OF | 17031CIND1A** | 20-DEC-2002
05 | IL | BURNHAM, VILLAGE OF | 17031CIND3A** | 20-DEC-2002
05 | IL | BURR RIDGE, VILLAGE OF | 17031CIND1A** | 20-DEC-2002
05 | IL | BURR RIDGE, VILLAGE OF | 17031CIND3A** | 20-DEC-2002
05 | IL | CALUMET CITY, CITY OF | 17031CIND1A** | 20-DEC-2002
05 | IL | CALUMET CITY, CITY OF | 17031CIND3A** | 20-DEC-2002
05 | IL | CALUMET PARK, VILLAGE OF | 17031CIND1A** | 20-DEC-2002
05 | IL | CALUMET PARK, VILLAGE OF | 17031CIND3A** | 20-DEC-2002
05 | IL | CARBON CLIFF, VILLAGE OF | 17161C0145E | 18-OCT-2002
05 | IL | CARBON CLIFF, VILLAGE OF | 17161C0332E | 18-OCT-2002
05 | IL | CARBON CLIFF, VILLAGE OF | 17161C0335E | 18-OCT-2002
05 | IL | CARBON CLIFF, VILLAGE OF | 17161CIND0A** | 18-OCT-2002
05 | IL | CARPENTERSVILLE, VILLAGE OF | 17089C0065F | 20-DEC-2002
05 | IL | CARPENTERSVILLE, VILLAGE OF | 17089C0070F | 20-DEC-2002
05 | IL | CARPENTERSVILLE, VILLAGE OF | 17089C0090F | 20-DEC-2002
05 | IL | CARPENTERSVILLE, VILLAGE OF | 17089C0155F | 20-DEC-2002
05 | IL | CARPENTERSVILLE, VILLAGE OF | 17089C0156F | 20-DEC-2002
05 | IL | CARPENTERSVILLE, VILLAGE OF | 17089C0157F | 20-DEC-2002
05 | IL | CARPENTERSVILLE, VILLAGE OF | 17089C0180F | 20-DEC-2002
05 | IL | CARPENTERSVILLE, VILLAGE OF | 17089CIND0A** | 20-DEC-2002
05 | IL | CHICAGO HEIGHTS, CITY OF | 17031CIND1A** | 20-DEC-2002
05 | IL | CHICAGO HEIGHTS, CITY OF | 17031CIND3A** | 20-DEC-2002
05 | IL | CHICAGO RIDGE, VILLAGE OF | 17031CIND1A** | 20-DEC-2002
05 | IL | CHICAGO RIDGE, VILLAGE OF | 17031CIND3A** | 20-DEC-2002
05 | IL | CHICAGO, CITY OF | 17031CIND1A** | 20-DEC-2002
05 | IL | CHICAGO, CITY OF | 17031CIND3A** | 20-DEC-2002
05 | IL | CICERO, TOWN OF | 17031CIND1A** | 20-DEC-2002
05 | IL | CICERO, TOWN OF | 17031CIND3A** | 20-DEC-2002
05 | IL | COAL VALLEY, VILLAGE OF | 17161C0328E | 18-OCT-2002
05 | IL | COAL VALLEY, VILLAGE OF | 17161C0329E | 18-OCT-2002
05 | IL | COAL VALLEY, VILLAGE OF | 17161C0335E | 18-OCT-2002
05 | IL | COAL VALLEY, VILLAGE OF | 17161C0337E | 18-OCT-2002
05 | IL | COAL VALLEY, VILLAGE OF | 17161C0340E | 18-OCT-2002
05 | IL | COAL VALLEY, VILLAGE OF | 17161C0345E | 18-OCT-2002
05 | IL | COAL VALLEY, VILLAGE OF | 17161CIND0A** | 18-OCT-2002
05 | IL | COOK COUNTY * | 17031C0142G | 20-DEC-2002
05 | IL | COOK COUNTY * | 17031C0144G | 20-DEC-2002
05 | IL | COOK COUNTY * | 17031C0155G | 20-DEC-2002
05 | IL | COOK COUNTY * | 17031C0161G | 20-DEC-2002
05 | IL | COOK COUNTY * | 17031C0163G | 20-DEC-2002
05 | IL | COOK COUNTY * | 17031C0305G | 20-DEC-2002
05 | IL | COOK COUNTY * | 17031CIND1A** | 20-DEC-2002
05 | IL | COOK COUNTY * | 17031CIND3A** | 20-DEC-2002
05 | IL | CORDOVA, VILLAGE OF | 17161C0065E | 18-OCT-2002
05 | IL | CORDOVA, VILLAGE OF | 17161C0075E | 18-OCT-2002
05 | IL | CORDOVA, VILLAGE OF | 17161CIND0A** | 18-OCT-2002
05 | IL | COUNTRY CLUB HILLS, CITY OF | 17031CIND1A** | 20-DEC-2002
05 | IL | COUNTRY CLUB HILLS, CITY OF | 17031CIND3A** | 20-DEC-2002
05 | IL | COUNTRYSIDE, CITY OF | 17031CIND1A** | 20-DEC-2002
05 | IL | COUNTRYSIDE, CITY OF | 17031CIND3A** | 20-DEC-2002
05 | IL | CRESTWOOD, VILLAGE OF | 17031CIND1A** | 20-DEC-2002
05 | IL | CRESTWOOD, VILLAGE OF | 17031CIND3A** | 20-DEC-2002
05 | IL | DEERFIELD, VILLAGE OF | 17031CIND1A** | 20-DEC-2002
05 | IL | DEERFIELD, VILLAGE OF | 17031CIND3A** | 20-DEC-2002
05 | IL | DES PLAINES, CITY OF | 17031CIND1A** | 20-DEC-2002
05 | IL | DES PLAINES, CITY OF | 17031CIND3A** | 20-DEC-2002
05 | IL | DIXMOOR, VILLAGE OF | 17031CIND1A** | 20-DEC-2002
05 | IL | DIXMOOR, VILLAGE OF | 17031CIND3A** | 20-DEC-2002
05 | IL | DOLTON, VILLAGE OF | 17031CIND1A** | 20-DEC-2002
05 | IL | DOLTON, VILLAGE OF | 17031CIND3A** | 20-DEC-2002
05 | IL | EAST DUNDEE, VILLAGE OF | 17089C0156F | 20-DEC-2002
05 | IL | EAST DUNDEE, VILLAGE OF | 17089C0157F | 20-DEC-2002
05 | IL | EAST DUNDEE, VILLAGE OF | 17089C0159F | 20-DEC-2002
05 | IL | EAST DUNDEE, VILLAGE OF | 17089C0180F | 20-DEC-2002
05 | IL | EAST DUNDEE, VILLAGE OF | 17089CIND0A** | 20-DEC-2002
05 | IL | EAST HAZEL CREST, VILLAGE OF | 17031CIND1A** | 20-DEC-2002
05 | IL | EAST HAZEL CREST, VILLAGE OF | 17031CIND3A** | 20-DEC-2002
05 | IL | EAST MOLINE, CITY OF | 17161C0140E | 18-OCT-2002
05 | IL | EAST MOLINE, CITY OF | 17161C0145E | 18-OCT-2002
05 | IL | EAST MOLINE, CITY OF | 17161C0330E | 18-OCT-2002
05 | IL | EAST MOLINE, CITY OF | 17161C0335E | 18-OCT-2002
05 | IL | EAST MOLINE, CITY OF | 17161CIND0A** | 18-OCT-2002
05 | IL | ELBURN, VILLAGE OF | 17089C0237F | 20-DEC-2002
05 | IL | ELBURN, VILLAGE OF | 17089C0239F | 20-DEC-2002
05 | IL | ELBURN, VILLAGE OF | 17089C0250F | 20-DEC-2002
05 | IL | ELBURN, VILLAGE OF | 17089C0305F | 20-DEC-2002
05 | IL | ELBURN, VILLAGE OF | 17089CIND0A** | 20-DEC-2002
05 | IL | ELGIN, CITY OF | 17031C0142G | 20-DEC-2002
05 | IL | ELGIN, CITY OF | 17031C0144G | 20-DEC-2002
05 | IL | ELGIN, CITY OF | 17031C0155G | 20-DEC-2002
05 | IL | ELGIN, CITY OF | 17031C0161G | 20-DEC-2002
05 | IL | ELGIN, CITY OF | 17031C0163G | 20-DEC-2002
05 | IL | ELGIN, CITY OF | 17031C0305G | 20-DEC-2002
05 | IL | ELGIN, CITY OF | 17031CIND1A** | 20-DEC-2002
05 | IL | ELGIN, CITY OF | 17031CIND3A** | 20-DEC-2002
05 | IL | ELGIN, CITY OF | 17089C0153F | 20-DEC-2002
05 | IL | ELGIN, CITY OF | 17089C0155F | 20-DEC-2002
05 | IL | ELGIN, CITY OF | 17089C0158F | 20-DEC-2002
05 | IL | ELGIN, CITY OF | 17089C0159F | 20-DEC-2002
05 | IL | ELGIN, CITY OF | 17089C0161F | 20-DEC-2002
05 | IL | ELGIN, CITY OF | 17089C0162F | 20-DEC-2002
05 | IL | ELGIN, CITY OF | 17089C0163F | 20-DEC-2002
05 | IL | ELGIN, CITY OF | 17089C0164F | 20-DEC-2002
05 | IL | ELGIN, CITY OF | 17089C0166F | 20-DEC-2002
05 | IL | ELGIN, CITY OF | 17089C0167F | 20-DEC-2002
05 | IL | ELGIN, CITY OF | 17089C0168F | 20-DEC-2002
05 | IL | ELGIN, CITY OF | 17089C0169F | 20-DEC-2002
05 | IL | ELGIN, CITY OF | 17089C0252F | 20-DEC-2002
05 | IL | ELGIN, CITY OF | 17089CIND0A** | 20-DEC-2002
05 | IL | ELK GROVE VILLAGE, VILLAGE OF | 17031CIND1A** | 20-DEC-2002
05 | IL | ELK GROVE VILLAGE, VILLAGE OF | 17031CIND3A** | 20-DEC-2002
05 | IL | ELMWOOD PARK, VILLAGE OF | 17031CIND1A** | 20-DEC-2002
05 | IL | ELMWOOD PARK, VILLAGE OF | 17031CIND3A** | 20-DEC-2002
05 | IL | EVANSTON, CITY OF | 17031CIND1A** | 20-DEC-2002
05 | IL | EVANSTON, CITY OF | 17031CIND3A** | 20-DEC-2002
05 | IL | EVERGREEN PARK, VILLAGE OF | 17031CIND1A** | 20-DEC-2002
05 | IL | EVERGREEN PARK, VILLAGE OF | 17031CIND3A** | 20-DEC-2002
05 | IL | FLOSSMOOR, VILLAGE OF | 17031CIND1A** | 20-DEC-2002
05 | IL | FLOSSMOOR, VILLAGE OF | 17031CIND3A** | 20-DEC-2002
05 | IL | FORD HEIGHTS, VILLAGE OF | 17031CIND1A** | 20-DEC-2002
05 | IL | FORD HEIGHTS, VILLAGE OF | 17031CIND3A** | 20-DEC-2002
05 | IL | FOREST PARK, VILLAGE OF | 17031CIND1A** | 20-DEC-2002
05 | IL | FOREST PARK, VILLAGE OF | 17031CIND3A** | 20-DEC-2002
05 | IL | FOREST VIEW, VILLAGE OF | 17031CIND1A** | 20-DEC-2002
05 | IL | FOREST VIEW, VILLAGE OF | 17031CIND3A** | 20-DEC-2002
05 | IL | FRANKLIN PARK, VILLAGE OF | 17031CIND1A** | 20-DEC-2002
05 | IL | FRANKLIN PARK, VILLAGE OF | 17031CIND3A** | 20-DEC-2002
05 | IL | GENEVA, CITY OF | 17089C0263F | 20-DEC-2002
05 | IL | GENEVA, CITY OF | 17089C0264F | 20-DEC-2002
05 | IL | GENEVA, CITY OF | 17089C0268F | 20-DEC-2002
05 | IL | GENEVA, CITY OF | 17089C0326F | 20-DEC-2002
05 | IL | GENEVA, CITY OF | 17089C0327F | 20-DEC-2002
05 | IL | GENEVA, CITY OF | 17089C0331F | 20-DEC-2002
05 | IL | GENEVA, CITY OF | 17089C0332F | 20-DEC-2002
05 | IL | GENEVA, CITY OF | 17089CIND0A** | 20-DEC-2002
05 | IL | GILBERTS, VILLAGE OF | 17089C0045F | 20-DEC-2002
05 | IL | GILBERTS, VILLAGE OF | 17089C0065F | 20-DEC-2002
05 | IL | GILBERTS, VILLAGE OF | 17089C0135F | 20-DEC-2002
05 | IL | GILBERTS, VILLAGE OF | 17089C0153F | 20-DEC-2002
05 | IL | GILBERTS, VILLAGE OF | 17089C0155F | 20-DEC-2002
05 | IL | GILBERTS, VILLAGE OF | 17089CIND0A** | 20-DEC-2002
05 | IL | GLENCOE, VILLAGE OF | 17031CIND1A** | 20-DEC-2002
05 | IL | GLENCOE, VILLAGE OF | 17031CIND3A** | 20-DEC-2002
05 | IL | GLENVIEW, VILLAGE OF | 17031CIND1A** | 20-DEC-2002
05 | IL | GLENVIEW, VILLAGE OF | 17031CIND3A** | 20-DEC-2002
05 | IL | GLENWOOD, VILLAGE OF | 17031CIND1A** | 20-DEC-2002
05 | IL | GLENWOOD, VILLAGE OF | 17031CIND3A** | 20-DEC-2002
05 | IL | GOLF, VILLAGE OF | 17031CIND1A** | 20-DEC-2002
05 | IL | GOLF, VILLAGE OF | 17031CIND3A** | 20-DEC-2002
05 | IL | HAMPSHIRE, VILLAGE OF | 17089C0020F | 20-DEC-2002
05 | IL | HAMPSHIRE, VILLAGE OF | 17089C0040F | 20-DEC-2002
05 | IL | HAMPSHIRE, VILLAGE OF | 17089C0106F | 20-DEC-2002
05 | IL | HAMPSHIRE, VILLAGE OF | 17089C0107F | 20-DEC-2002
05 | IL | HAMPSHIRE, VILLAGE OF | 17089C0108F | 20-DEC-2002
05 | IL | HAMPSHIRE, VILLAGE OF | 17089C0109F | 20-DEC-2002
05 | IL | HAMPSHIRE, VILLAGE OF | 17089C0126F | 20-DEC-2002
05 | IL | HAMPSHIRE, VILLAGE OF | 17089C0130F | 20-DEC-2002
05 | IL | HAMPSHIRE, VILLAGE OF | 17089CIND0A** | 20-DEC-2002
05 | IL | HAMPTON, VILLAGE OF | 17161C0135E | 18-OCT-2002
05 | IL | HAMPTON, VILLAGE OF | 17161C0145E | 18-OCT-2002
05 | IL | HAMPTON, VILLAGE OF | 17161CIND0A** | 18-OCT-2002
05 | IL | HANOVER PARK, VILLAGE OF | 17031CIND1A** | 20-DEC-2002
05 | IL | HANOVER PARK, VILLAGE OF | 17031CIND3A** | 20-DEC-2002
05 | IL | HARVEY, CITY OF | 17031CIND1A** | 20-DEC-2002
05 | IL | HARVEY, CITY OF | 17031CIND3A** | 20-DEC-2002
05 | IL | HARWOOD HEIGHTS, VILLAGE OF | 17031CIND1A** | 20-DEC-2002
05 | IL | HARWOOD HEIGHTS, VILLAGE OF | 17031CIND3A** | 20-DEC-2002
05 | IL | HAZEL CREST, VILLAGE OF | 17031CIND1A** | 20-DEC-2002
05 | IL | HAZEL CREST, VILLAGE OF | 17031CIND3A** | 20-DEC-2002
05 | IL | HICKORY HILLS, CITY OF | 17031CIND1A** | 20-DEC-2002
05 | IL | HICKORY HILLS, CITY OF | 17031CIND3A** | 20-DEC-2002
05 | IL | HILLSDALE, VILLAGE OF | 17161C0185E | 18-OCT-2002
05 | IL | HILLSDALE, VILLAGE OF | 17161CIND0A** | 18-OCT-2002
05 | IL | HILLSIDE, VILLAGE OF | 17031CIND1A** | 20-DEC-2002
05 | IL | HILLSIDE, VILLAGE OF | 17031CIND3A** | 20-DEC-2002
05 | IL | HODGKINS, VILLAGE OF | 17031CIND1A** | 20-DEC-2002
05 | IL | HODGKINS, VILLAGE OF | 17031CIND3A** | 20-DEC-2002
05 | IL | HOFFMAN ESTATES, VILLAGE OF | 17031C0155G | 20-DEC-2002
05 | IL | HOFFMAN ESTATES, VILLAGE OF | 17031C0161G | 20-DEC-2002
05 | IL | HOFFMAN ESTATES, VILLAGE OF | 17031CIND1A** | 20-DEC-2002
05 | IL | HOFFMAN ESTATES, VILLAGE OF | 17031CIND3A** | 20-DEC-2002
05 | IL | HOFFMAN ESTATES, VILLAGE OF | 17089C0180F | 20-DEC-2002
05 | IL | HOFFMAN ESTATES, VILLAGE OF | 17089CIND0A** | 20-DEC-2002
05 | IL | HOMETOWN, CITY OF | 17031CIND1A** | 20-DEC-2002
05 | IL | HOMEWOOD, VILLAGE OF | 17031CIND1A** | 20-DEC-2002
05 | IL | HOMEWOOD, VILLAGE OF | 17031CIND3A** | 20-DEC-2002
05 | IL | INDIAN HEAD PARK, VILLAGE OF | 17031CIND1A** | 20-DEC-2002
05 | IL | INDIAN HEAD PARK, VILLAGE OF | 17031CIND3A** | 20-DEC-2002
05 | IL | INVERNESS, VILLAGE OF | 17031CIND1A** | 20-DEC-2002
05 | IL | INVERNESS, VILLAGE OF | 17031CIND3A** | 20-DEC-2002
05 | IL | JUSTICE, VILLAGE OF | 17031CIND1A** | 20-DEC-2002
05 | IL | JUSTICE, VILLAGE OF | 17031CIND3A** | 20-DEC-2002
05 | IL | KANE COUNTY * | 17089C0015F | 20-DEC-2002
05 | IL | KANE COUNTY * | 17089C0020F | 20-DEC-2002
05 | IL | KANE COUNTY * | 17089C0040F | 20-DEC-2002
05 | IL | KANE COUNTY * | 17089C0045F | 20-DEC-2002
05 | IL | KANE COUNTY * | 17089C0065F | 20-DEC-2002
05 | IL | KANE COUNTY * | 17089C0070F | 20-DEC-2002
05 | IL | KANE COUNTY * | 17089C0090F | 20-DEC-2002
05 | IL | KANE COUNTY * | 17089C0105F | 20-DEC-2002
05 | IL | KANE COUNTY * | 17089C0106F | 20-DEC-2002
05 | IL | KANE COUNTY * | 17089C0107F | 20-DEC-2002
05 | IL | KANE COUNTY * | 17089C0108F | 20-DEC-2002
05 | IL | KANE COUNTY * | 17089C0109F | 20-DEC-2002
05 | IL | KANE COUNTY * | 17089C0125F | 20-DEC-2002
05 | IL | KANE COUNTY * | 17089C0126F | 20-DEC-2002
05 | IL | KANE COUNTY * | 17089C0130F | 20-DEC-2002
05 | IL | KANE COUNTY * | 17089C0135F | 20-DEC-2002
05 | IL | KANE COUNTY * | 17089C0139F | 20-DEC-2002
05 | IL | KANE COUNTY * | 17089C0140F | 20-DEC-2002
05 | IL | KANE COUNTY * | 17089C0143F | 20-DEC-2002
05 | IL | KANE COUNTY * | 17089C0144F | 20-DEC-2002
05 | IL | KANE COUNTY * | 17089C0145F | 20-DEC-2002
05 | IL | KANE COUNTY * | 17089C0153F | 20-DEC-2002
05 | IL | KANE COUNTY * | 17089C0155F | 20-DEC-2002
05 | IL | KANE COUNTY * | 17089C0156F | 20-DEC-2002
05 | IL | KANE COUNTY * | 17089C0157F | 20-DEC-2002
05 | IL | KANE COUNTY * | 17089C0158F | 20-DEC-2002
05 | IL | KANE COUNTY * | 17089C0159F | 20-DEC-2002
05 | IL | KANE COUNTY * | 17089C0161F | 20-DEC-2002
05 | IL | KANE COUNTY * | 17089C0162F | 20-DEC-2002
05 | IL | KANE COUNTY * | 17089C0163F | 20-DEC-2002
05 | IL | KANE COUNTY * | 17089C0164F | 20-DEC-2002
05 | IL | KANE COUNTY * | 17089C0166F | 20-DEC-2002
05 | IL | KANE COUNTY * | 17089C0167F | 20-DEC-2002
05 | IL | KANE COUNTY * | 17089C0168F | 20-DEC-2002
05 | IL | KANE COUNTY * | 17089C0169F | 20-DEC-2002
05 | IL | KANE COUNTY * | 17089C0180F | 20-DEC-2002
05 | IL | KANE COUNTY * | 17089C0225F | 20-DEC-2002
05 | IL | KANE COUNTY * | 17089C0229F | 20-DEC-2002
05 | IL | KANE COUNTY * | 17089C0231F | 20-DEC-2002
05 | IL | KANE COUNTY * | 17089C0232F | 20-DEC-2002
05 | IL | KANE COUNTY * | 17089C0233F | 20-DEC-2002
05 | IL | KANE COUNTY * | 17089C0234F | 20-DEC-2002
05 | IL | KANE COUNTY * | 17089C0237F | 20-DEC-2002
05 | IL | KANE COUNTY * | 17089C0239F | 20-DEC-2002
05 | IL | KANE COUNTY * | 17089C0241F | 20-DEC-2002
05 | IL | KANE COUNTY * | 17089C0242F | 20-DEC-2002
05 | IL | KANE COUNTY * | 17089C0243F | 20-DEC-2002
05 | IL | KANE COUNTY * | 17089C0244F | 20-DEC-2002
05 | IL | KANE COUNTY * | 17089C0250F | 20-DEC-2002
05 | IL | KANE COUNTY * | 17089C0251F | 20-DEC-2002
05 | IL | KANE COUNTY * | 17089C0252F | 20-DEC-2002
05 | IL | KANE COUNTY * | 17089C0253F | 20-DEC-2002
05 | IL | KANE COUNTY * | 17089C0254F | 20-DEC-2002
05 | IL | KANE COUNTY * | 17089C0256F | 20-DEC-2002
05 | IL | KANE COUNTY * | 17089C0258F | 20-DEC-2002
05 | IL | KANE COUNTY * | 17089C0260F | 20-DEC-2002
05 | IL | KANE COUNTY * | 17089C0261F | 20-DEC-2002
05 | IL | KANE COUNTY * | 17089C0262F | 20-DEC-2002
05 | IL | KANE COUNTY * | 17089C0263F | 20-DEC-2002
05 | IL | KANE COUNTY * | 17089C0264F | 20-DEC-2002
05 | IL | KANE COUNTY * | 17089C0266F | 20-DEC-2002
05 | IL | KANE COUNTY * | 17089C0268F | 20-DEC-2002
05 | IL | KANE COUNTY * | 17089C0290F | 20-DEC-2002
05 | IL | KANE COUNTY * | 17089C0295F | 20-DEC-2002
05 | IL | KANE COUNTY * | 17089C0300F | 20-DEC-2002
05 | IL | KANE COUNTY * | 17089C0305F | 20-DEC-2002
05 | IL | KANE COUNTY * | 17089C0310F | 20-DEC-2002
05 | IL | KANE COUNTY * | 17089C0315F | 20-DEC-2002
05 | IL | KANE COUNTY * | 17089C0316F | 20-DEC-2002
05 | IL | KANE COUNTY * | 17089C0317F | 20-DEC-2002
05 | IL | KANE COUNTY * | 17089C0318F | 20-DEC-2002
05 | IL | KANE COUNTY * | 17089C0319F | 20-DEC-2002
05 | IL | KANE COUNTY * | 17089C0326F | 20-DEC-2002
05 | IL | KANE COUNTY * | 17089C0327F | 20-DEC-2002
05 | IL | KANE COUNTY * | 17089C0328F | 20-DEC-2002
05 | IL | KANE COUNTY * | 17089C0329F | 20-DEC-2002
05 | IL | KANE COUNTY * | 17089C0331F | 20-DEC-2002
05 | IL | KANE COUNTY * | 17089C0332F | 20-DEC-2002
05 | IL | KANE COUNTY * | 17089C0333F | 20-DEC-2002
05 | IL | KANE COUNTY * | 17089C0334F | 20-DEC-2002
05 | IL | KANE COUNTY * | 17089C0338F | 20-DEC-2002
05 | IL | KANE COUNTY * | 17089C0339F | 20-DEC-2002
05 | IL | KANE COUNTY * | 17089C0340F | 20-DEC-2002
05 | IL | KANE COUNTY * | 17089C0341F | 20-DEC-2002
05 | IL | KANE COUNTY * | 17089C0342F | 20-DEC-2002
05 | IL | KANE COUNTY * | 17089C0343F | 20-DEC-2002
05 | IL | KANE COUNTY * | 17089C0344F | 20-DEC-2002
05 | IL | KANE COUNTY * | 17089C0355F | 20-DEC-2002
05 | IL | KANE COUNTY * | 17089C0360F | 20-DEC-2002
05 | IL | KANE COUNTY * | 17089C0380F | 20-DEC-2002
05 | IL | KANE COUNTY * | 17089C0385F | 20-DEC-2002
05 | IL | KANE COUNTY * | 17089C0401F | 20-DEC-2002
05 | IL | KANE COUNTY * | 17089C0402F | 20-DEC-2002
05 | IL | KANE COUNTY * | 17089C0403F | 20-DEC-2002
05 | IL | KANE COUNTY * | 17089C0406F | 20-DEC-2002
05 | IL | KANE COUNTY * | 17089C0410F | 20-DEC-2002
05 | IL | KANE COUNTY * | 17089CIND0A** | 20-DEC-2002
05 | IL | KENILWORTH, VILLAGE OF | 17031CIND1A** | 20-DEC-2002
05 | IL | KENILWORTH, VILLAGE OF | 17031CIND3A** | 20-DEC-2002
05 | IL | LA GRANGE PARK, VILLAGE OF | 17031CIND1A** | 20-DEC-2002
05 | IL | LA GRANGE PARK, VILLAGE OF | 17031CIND3A** | 20-DEC-2002
05 | IL | LA GRANGE, VILLAGE OF | 17031CIND1A** | 20-DEC-2002
05 | IL | LA GRANGE, VILLAGE OF | 17031CIND3A** | 20-DEC-2002
05 | IL | LANSING, VILLAGE OF | 17031CIND1A** | 20-DEC-2002
05 | IL | LANSING, VILLAGE OF | 17031CIND3A** | 20-DEC-2002
05 | IL | LEMONT, VILLAGE OF | 17031CIND1A** | 20-DEC-2002
05 | IL | LEMONT, VILLAGE OF | 17031CIND3A** | 20-DEC-2002
05 | IL | LILY LAKE, VILLAGE OF | 17089C0229F | 20-DEC-2002
05 | IL | LILY LAKE, VILLAGE OF | 17089C0250F | 20-DEC-2002
05 | IL | LILY LAKE, VILLAGE OF | 17089CIND0A** | 20-DEC-2002
05 | IL | LINCOLNWOOD, VILLAGE OF | 17031CIND1A** | 20-DEC-2002
05 | IL | LINCOLNWOOD, VILLAGE OF | 17031CIND3A** | 20-DEC-2002
05 | IL | LYNWOOD, VILLAGE OF | 17031CIND1A** | 20-DEC-2002
05 | IL | LYNWOOD, VILLAGE OF | 17031CIND3A** | 20-DEC-2002
05 | IL | LYONS, VILLAGE OF | 17031CIND1A** | 20-DEC-2002
05 | IL | LYONS, VILLAGE OF | 17031CIND3A** | 20-DEC-2002
05 | IL | MAPLE PARK, VILLAGE OF | 17089C0225F | 20-DEC-2002
05 | IL | MAPLE PARK, VILLAGE OF | 17089CIND0A** | 20-DEC-2002
05 | IL | MARKHAM, CITY OF | 17031CIND1A** | 20-DEC-2002
05 | IL | MARKHAM, CITY OF | 17031CIND3A** | 20-DEC-2002
05 | IL | MATTESON, VILLAGE OF | 17031CIND1A** | 20-DEC-2002
05 | IL | MATTESON, VILLAGE OF | 17031CIND3A** | 20-DEC-2002
05 | IL | MAYWOOD, VILLAGE OF | 17031CIND1A** | 20-DEC-2002
05 | IL | MAYWOOD, VILLAGE OF | 17031CIND3A** | 20-DEC-2002
05 | IL | MCCOOK, VILLAGE OF | 17031CIND1A** | 20-DEC-2002
05 | IL | MCCOOK, VILLAGE OF | 17031CIND3A** | 20-DEC-2002
05 | IL | MELROSE PARK, VILLAGE OF | 17031CIND1A** | 20-DEC-2002
05 | IL | MELROSE PARK, VILLAGE OF | 17031CIND3A** | 20-DEC-2002
05 | IL | MERRIONETTE PARK, VILLAGE OF | 17031CIND1A** | 20-DEC-2002
05 | IL | MERRIONETTE PARK, VILLAGE OF | 17031CIND3A** | 20-DEC-2002
05 | IL | MIDLOTHIAN, VILLAGE OF | 17031CIND1A** | 20-DEC-2002
05 | IL | MIDLOTHIAN, VILLAGE OF | 17031CIND3A** | 20-DEC-2002
05 | IL | MILAN, VILLAGE OF | 17161C0304E | 18-OCT-2002
05 | IL | MILAN, VILLAGE OF | 17161C0305E | 18-OCT-2002
05 | IL | MILAN, VILLAGE OF | 17161C0308E | 18-OCT-2002
05 | IL | MILAN, VILLAGE OF | 17161C0310E | 18-OCT-2002
05 | IL | MILAN, VILLAGE OF | 17161C0315E | 18-OCT-2002
05 | IL | MILAN, VILLAGE OF | 17161C0320E | 18-OCT-2002
05 | IL | MILAN, VILLAGE OF | 17161CIND0A** | 18-OCT-2002
05 | IL | MOLINE, CITY OF | 17161C0120E | 18-OCT-2002
05 | IL | MOLINE, CITY OF | 17161C0140E | 18-OCT-2002
05 | IL | MOLINE, CITY OF | 17161C0308E | 18-OCT-2002
05 | IL | MOLINE, CITY OF | 17161C0310E | 18-OCT-2002
05 | IL | MOLINE, CITY OF | 17161C0328E | 18-OCT-2002
05 | IL | MOLINE, CITY OF | 17161C0329E | 18-OCT-2002
05 | IL | MOLINE, CITY OF | 17161C0330E | 18-OCT-2002
05 | IL | MOLINE, CITY OF | 17161C0335E | 18-OCT-2002
05 | IL | MOLINE, CITY OF | 17161CIND0A** | 18-OCT-2002
05 | IL | MONTGOMERY, VILLAGE OF | 17089C0385F | 20-DEC-2002
05 | IL | MONTGOMERY, VILLAGE OF | 17089C0401F | 20-DEC-2002
05 | IL | MONTGOMERY, VILLAGE OF | 17089C0402F | 20-DEC-2002
05 | IL | MONTGOMERY, VILLAGE OF | 17089C0403F | 20-DEC-2002
05 | IL | MONTGOMERY, VILLAGE OF | 17089C0406F | 20-DEC-2002
05 | IL | MONTGOMERY, VILLAGE OF | 17089C0410F | 20-DEC-2002
05 | IL | MONTGOMERY, VILLAGE OF | 17089CIND0A** | 20-DEC-2002
05 | IL | MORTON GROVE, VILLAGE OF | 17031CIND1A** | 20-DEC-2002
05 | IL | MORTON GROVE, VILLAGE OF | 17031CIND3A** | 20-DEC-2002
05 | IL | MOUNT PROSPECT, VILLAGE OF | 17031CIND1A** | 20-DEC-2002
05 | IL | MOUNT PROSPECT, VILLAGE OF | 17031CIND3A** | 20-DEC-2002
05 | IL | NILES, VILLAGE OF | 17031CIND1A** | 20-DEC-2002
05 | IL | NILES, VILLAGE OF | 17031CIND3A** | 20-DEC-2002
05 | IL | NORRIDGE, VILLAGE OF | 17031CIND1A** | 20-DEC-2002
05 | IL | NORRIDGE, VILLAGE OF | 17031CIND3A** | 20-DEC-2002
05 | IL | NORTH AURORA, VILLAGE OF | 17089C0317F | 20-DEC-2002
05 | IL | NORTH AURORA, VILLAGE OF | 17089C0328F | 20-DEC-2002
05 | IL | NORTH AURORA, VILLAGE OF | 17089C0329F | 20-DEC-2002
05 | IL | NORTH AURORA, VILLAGE OF | 17089C0333F | 20-DEC-2002
05 | IL | NORTH AURORA, VILLAGE OF | 17089C0340F | 20-DEC-2002
05 | IL | NORTH AURORA, VILLAGE OF | 17089C0341F | 20-DEC-2002
05 | IL | NORTH AURORA, VILLAGE OF | 17089CIND0A** | 20-DEC-2002
05 | IL | NORTH RIVERSIDE, VILLAGE OF | 17031CIND1A** | 20-DEC-2002
05 | IL | NORTH RIVERSIDE, VILLAGE OF | 17031CIND3A** | 20-DEC-2002
05 | IL | NORTHBROOK, VILLAGE OF | 17031CIND1A** | 20-DEC-2002
05 | IL | NORTHBROOK, VILLAGE OF | 17031CIND3A** | 20-DEC-2002
05 | IL | NORTHFIELD, VILLAGE OF | 17031CIND1A** | 20-DEC-2002
05 | IL | NORTHFIELD, VILLAGE OF | 17031CIND3A** | 20-DEC-2002
05 | IL | NORTHLAKE, CITY OF | 17031CIND1A** | 20-DEC-2002
05 | IL | NORTHLAKE, CITY OF | 17031CIND3A** | 20-DEC-2002
05 | IL | OAK FOREST, CITY OF | 17031CIND1A** | 20-DEC-2002
05 | IL | OAK FOREST, CITY OF | 17031CIND3A** | 20-DEC-2002
05 | IL | OAK LAWN, VILLAGE OF | 17031CIND1A** | 20-DEC-2002
05 | IL | OAK LAWN, VILLAGE OF | 17031CIND3A** | 20-DEC-2002
05 | IL | OAK PARK, VILLAGE OF | 17031CIND1A** | 20-DEC-2002
05 | IL | OAK PARK, VILLAGE OF | 17031CIND3A** | 20-DEC-2002
05 | IL | OLYMPIA FIELDS, VILLAGE OF | 17031CIND1A** | 20-DEC-2002
05 | IL | OLYMPIA FIELDS, VILLAGE OF | 17031CIND3A** | 20-DEC-2002
05 | IL | ORLAND HILLS, VILLAGE OF | 17031CIND1A** | 20-DEC-2002
05 | IL | ORLAND HILLS, VILLAGE OF | 17031CIND3A** | 20-DEC-2002
05 | IL | ORLAND PARK, VILLAGE OF | 17031CIND1A** | 20-DEC-2002
05 | IL | ORLAND PARK, VILLAGE OF | 17031CIND3A** | 20-DEC-2002
05 | IL | PALATINE, VILLAGE OF | 17031CIND1A** | 20-DEC-2002
05 | IL | PALATINE, VILLAGE OF | 17031CIND3A** | 20-DEC-2002
05 | IL | PALOS HEIGHTS, CITY OF | 17031CIND1A** | 20-DEC-2002
05 | IL | PALOS HEIGHTS, CITY OF | 17031CIND3A** | 20-DEC-2002
05 | IL | PALOS HILLS, CITY OF | 17031CIND1A** | 20-DEC-2002
05 | IL | PALOS HILLS, CITY OF | 17031CIND3A** | 20-DEC-2002
05 | IL | PALOS PARK, VILLAGE OF | 17031CIND1A** | 20-DEC-2002
05 | IL | PALOS PARK, VILLAGE OF | 17031CIND3A** | 20-DEC-2002
05 | IL | PARK FOREST, VILLAGE OF | 17031CIND1A** | 20-DEC-2002
05 | IL | PARK FOREST, VILLAGE OF | 17031CIND3A** | 20-DEC-2002
05 | IL | PARK RIDGE, CITY OF | 17031CIND1A** | 20-DEC-2002
05 | IL | PARK RIDGE, CITY OF | 17031CIND3A** | 20-DEC-2002
05 | IL | PHOENIX, VILLAGE OF | 17031CIND1A** | 20-DEC-2002
05 | IL | PHOENIX, VILLAGE OF | 17031CIND3A** | 20-DEC-2002
05 | IL | PINGREE GROVE, VILLAGE OF | 17089C0135F | 20-DEC-2002
05 | IL | PINGREE GROVE, VILLAGE OF | 17089C0145F | 20-DEC-2002
05 | IL | PINGREE GROVE, VILLAGE OF | 17089CIND0A** | 20-DEC-2002
05 | IL | PORT BYRON, VILLAGE OF | 17161C0065E | 18-OCT-2002
05 | IL | PORT BYRON, VILLAGE OF | 17161C0155E | 18-OCT-2002
05 | IL | PORT BYRON, VILLAGE OF | 17161CIND0A** | 18-OCT-2002
05 | IL | POSEN, VILLAGE OF | 17031CIND1A** | 20-DEC-2002
05 | IL | POSEN, VILLAGE OF | 17031CIND3A** | 20-DEC-2002
05 | IL | PROSPECT HEIGHTS, CITY OF | 17031CIND1A** | 20-DEC-2002
05 | IL | PROSPECT HEIGHTS, CITY OF | 17031CIND3A** | 20-DEC-2002
05 | IL | RAPIDS CITY, VILLAGE OF | 17161C0155E | 18-OCT-2002
05 | IL | RAPIDS CITY, VILLAGE OF | 17161CIND0A** | 18-OCT-2002
05 | IL | REYNOLDS, VILLAGE OF | 17161C0435E | 18-OCT-2002
05 | IL | REYNOLDS, VILLAGE OF | 17161CIND0A** | 18-OCT-2002
05 | IL | RICHTON PARK, VILLAGE OF | 17031CIND1A** | 20-DEC-2002
05 | IL | RICHTON PARK, VILLAGE OF | 17031CIND3A** | 20-DEC-2002
05 | IL | RIVER FOREST, CITY OF | 17031CIND1A** | 20-DEC-2002
05 | IL | RIVER FOREST, CITY OF | 17031CIND3A** | 20-DEC-2002
05 | IL | RIVER GROVE, VILLAGE OF | 17031CIND1A** | 20-DEC-2002
05 | IL | RIVER GROVE, VILLAGE OF | 17031CIND3A** | 20-DEC-2002
05 | IL | RIVERDALE, VILLAGE OF | 17031CIND1A** | 20-DEC-2002
05 | IL | RIVERDALE, VILLAGE OF | 17031CIND3A** | 20-DEC-2002
05 | IL | RIVERSIDE, VILLAGE OF | 17031CIND1A** | 20-DEC-2002
05 | IL | RIVERSIDE, VILLAGE OF | 17031CIND3A** | 20-DEC-2002
05 | IL | ROBBINS, VILLAGE OF | 17031CIND1A** | 20-DEC-2002
05 | IL | ROBBINS, VILLAGE OF | 17031CIND3A** | 20-DEC-2002
05 | IL | ROCK ISLAND COUNTY* | 17161C0025E | 18-OCT-2002
05 | IL | ROCK ISLAND COUNTY* | 17161C0050E | 18-OCT-2002
05 | IL | ROCK ISLAND COUNTY* | 17161C0055E | 18-OCT-2002
05 | IL | ROCK ISLAND COUNTY* | 17161C0065E | 18-OCT-2002
05 | IL | ROCK ISLAND COUNTY* | 17161C0075E | 18-OCT-2002
05 | IL | ROCK ISLAND COUNTY* | 17161C0100E | 18-OCT-2002
05 | IL | ROCK ISLAND COUNTY* | 17161C0115E | 18-OCT-2002
05 | IL | ROCK ISLAND COUNTY* | 17161C0120E | 18-OCT-2002
05 | IL | ROCK ISLAND COUNTY* | 17161C0135E | 18-OCT-2002
05 | IL | ROCK ISLAND COUNTY* | 17161C0140E | 18-OCT-2002
05 | IL | ROCK ISLAND COUNTY* | 17161C0145E | 18-OCT-2002
05 | IL | ROCK ISLAND COUNTY* | 17161C0155E | 18-OCT-2002
05 | IL | ROCK ISLAND COUNTY* | 17161C0175E | 18-OCT-2002
05 | IL | ROCK ISLAND COUNTY* | 17161C0185E | 18-OCT-2002
05 | IL | ROCK ISLAND COUNTY* | 17161C0200E | 18-OCT-2002
05 | IL | ROCK ISLAND COUNTY* | 17161C0225E | 18-OCT-2002
05 | IL | ROCK ISLAND COUNTY* | 17161C0250E | 18-OCT-2002
05 | IL | ROCK ISLAND COUNTY* | 17161C0275E | 18-OCT-2002
05 | IL | ROCK ISLAND COUNTY* | 17161C0280E | 18-OCT-2002
05 | IL | ROCK ISLAND COUNTY* | 17161C0285E | 18-OCT-2002
05 | IL | ROCK ISLAND COUNTY* | 17161C0290E | 18-OCT-2002
05 | IL | ROCK ISLAND COUNTY* | 17161C0295E | 18-OCT-2002
05 | IL | ROCK ISLAND COUNTY* | 17161C0304E | 18-OCT-2002
05 | IL | ROCK ISLAND COUNTY* | 17161C0305E | 18-OCT-2002
05 | IL | ROCK ISLAND COUNTY* | 17161C0308E | 18-OCT-2002
05 | IL | ROCK ISLAND COUNTY* | 17161C0310E | 18-OCT-2002
05 | IL | ROCK ISLAND COUNTY* | 17161C0315E | 18-OCT-2002
05 | IL | ROCK ISLAND COUNTY* | 17161C0320E | 18-OCT-2002
05 | IL | ROCK ISLAND COUNTY* | 17161C0328E | 18-OCT-2002
05 | IL | ROCK ISLAND COUNTY* | 17161C0329E | 18-OCT-2002
05 | IL | ROCK ISLAND COUNTY* | 17161C0330E | 18-OCT-2002
05 | IL | ROCK ISLAND COUNTY* | 17161C0332E | 18-OCT-2002
05 | IL | ROCK ISLAND COUNTY* | 17161C0335E | 18-OCT-2002
05 | IL | ROCK ISLAND COUNTY* | 17161C0337E | 18-OCT-2002
05 | IL | ROCK ISLAND COUNTY* | 17161C0340E | 18-OCT-2002
05 | IL | ROCK ISLAND COUNTY* | 17161C0375E | 18-OCT-2002
05 | IL | ROCK ISLAND COUNTY* | 17161C0400E | 18-OCT-2002
05 | IL | ROCK ISLAND COUNTY* | 17161C0425E | 18-OCT-2002
05 | IL | ROCK ISLAND COUNTY* | 17161C0435E | 18-OCT-2002
05 | IL | ROCK ISLAND COUNTY* | 17161C0450E | 18-OCT-2002
05 | IL | ROCK ISLAND COUNTY* | 17161C0475E | 18-OCT-2002
05 | IL | ROCK ISLAND COUNTY* | 17161CIND0A** | 18-OCT-2002
05 | IL | ROCK ISLAND, CITY OF | 17161C0115E | 18-OCT-2002
05 | IL | ROCK ISLAND, CITY OF | 17161C0120E | 18-OCT-2002
05 | IL | ROCK ISLAND, CITY OF | 17161C0285E | 18-OCT-2002
05 | IL | ROCK ISLAND, CITY OF | 17161C0295E | 18-OCT-2002
05 | IL | ROCK ISLAND, CITY OF | 17161C0304E | 18-OCT-2002
05 | IL | ROCK ISLAND, CITY OF | 17161C0305E | 18-OCT-2002
05 | IL | ROCK ISLAND, CITY OF | 17161C0308E | 18-OCT-2002
05 | IL | ROCK ISLAND, CITY OF | 17161C0310E | 18-OCT-2002
05 | IL | ROCK ISLAND, CITY OF | 17161C0315E | 18-OCT-2002
05 | IL | ROCK ISLAND, CITY OF | 17161CIND0A** | 18-OCT-2002
05 | IL | ROLLING MEADOWS, CITY OF | 17031CIND1A** | 20-DEC-2002
05 | IL | ROLLING MEADOWS, CITY OF | 17031CIND3A** | 20-DEC-2002
05 | IL | ROSEMONT, VILLAGE OF | 17031CIND1A** | 20-DEC-2002
05 | IL | ROSEMONT, VILLAGE OF | 17031CIND3A** | 20-DEC-2002
05 | IL | SAUK VILLAGE, VILLAGE OF | 17031CIND1A** | 20-DEC-2002
05 | IL | SAUK VILLAGE, VILLAGE OF | 17031CIND3A** | 20-DEC-2002
05 | IL | SCHAUMBURG, VILLAGE OF | 17031CIND1A** | 20-DEC-2002
05 | IL | SCHAUMBURG, VILLAGE OF | 17031CIND3A** | 20-DEC-2002
05 | IL | SCHILLER PARK, VILLAGE OF | 17031CIND1A** | 20-DEC-2002
05 | IL | SCHILLER PARK, VILLAGE OF | 17031CIND3A** | 20-DEC-2002
05 | IL | SILVIS, CITY OF | 17161C0145E | 18-OCT-2002
05 | IL | SILVIS, CITY OF | 17161C0332E | 18-OCT-2002
05 | IL | SILVIS, CITY OF | 17161C0335E | 18-OCT-2002
05 | IL | SILVIS, CITY OF | 17161CIND0A** | 18-OCT-2002
05 | IL | SKOKIE, VILLAGE OF | 17031CIND1A** | 20-DEC-2002
05 | IL | SKOKIE, VILLAGE OF | 17031CIND3A** | 20-DEC-2002
05 | IL | SLEEPY HOLLOW, VILLAGE OF | 17089C0155F | 20-DEC-2002
05 | IL | SLEEPY HOLLOW, VILLAGE OF | 17089C0156F | 20-DEC-2002
05 | IL | SLEEPY HOLLOW, VILLAGE OF | 17089C0158F | 20-DEC-2002
05 | IL | SLEEPY HOLLOW, VILLAGE OF | 17089CIND0A** | 20-DEC-2002
05 | IL | SOUTH BARRINGTON, VILLAGE OF | 17031C0155G | 20-DEC-2002
05 | IL | SOUTH BARRINGTON, VILLAGE OF | 17031CIND1A** | 20-DEC-2002
05 | IL | SOUTH BARRINGTON, VILLAGE OF | 17031CIND3A** | 20-DEC-2002
05 | IL | SOUTH CHICAGO HEIGHTS, VILLAGE OF | 17031CIND1A** | 20-DEC-2002
05 | IL | SOUTH CHICAGO HEIGHTS, VILLAGE OF | 17031CIND3A** | 20-DEC-2002
05 | IL | SOUTH ELGIN, VILLAGE OF | 17089C0164F | 20-DEC-2002
05 | IL | SOUTH ELGIN, VILLAGE OF | 17089C0168F | 20-DEC-2002
05 | IL | SOUTH ELGIN, VILLAGE OF | 17089C0169F | 20-DEC-2002
05 | IL | SOUTH ELGIN, VILLAGE OF | 17089C0251F | 20-DEC-2002
05 | IL | SOUTH ELGIN, VILLAGE OF | 17089C0252F | 20-DEC-2002
05 | IL | SOUTH ELGIN, VILLAGE OF | 17089C0256F | 20-DEC-2002
05 | IL | SOUTH ELGIN, VILLAGE OF | 17089CIND0A** | 20-DEC-2002
05 | IL | SOUTH HOLLAND, VILLAGE OF | 17031CIND1A** | 20-DEC-2002
05 | IL | SOUTH HOLLAND, VILLAGE OF | 17031CIND3A** | 20-DEC-2002
05 | IL | ST. CHARLES, CITY OF | 17089C0242F | 20-DEC-2002
05 | IL | ST. CHARLES, CITY OF | 17089C0244F | 20-DEC-2002
05 | IL | ST. CHARLES, CITY OF | 17089C0254F | 20-DEC-2002
05 | IL | ST. CHARLES, CITY OF | 17089C0258F | 20-DEC-2002
05 | IL | ST. CHARLES, CITY OF | 17089C0260F | 20-DEC-2002
05 | IL | ST. CHARLES, CITY OF | 17089C0261F | 20-DEC-2002
05 | IL | ST. CHARLES, CITY OF | 17089C0262F | 20-DEC-2002
05 | IL | ST. CHARLES, CITY OF | 17089C0263F | 20-DEC-2002
05 | IL | ST. CHARLES, CITY OF | 17089C0264F | 20-DEC-2002
05 | IL | ST. CHARLES, CITY OF | 17089C0266F | 20-DEC-2002
05 | IL | ST. CHARLES, CITY OF | 17089C0268F | 20-DEC-2002
05 | IL | ST. CHARLES, CITY OF | 17089CIND0A** | 20-DEC-2002
05 | IL | STEGER, VILLAGE OF | 17031CIND1A** | 20-DEC-2002
05 | IL | STEGER, VILLAGE OF | 17031CIND3A** | 20-DEC-2002
05 | IL | STICKNEY, VILLAGE OF | 17031CIND1A** | 20-DEC-2002
05 | IL | STICKNEY, VILLAGE OF | 17031CIND3A** | 20-DEC-2002
05 | IL | STONE PARK, VILLAGE OF | 17031CIND1A** | 20-DEC-2002
05 | IL | STONE PARK, VILLAGE OF | 17031CIND3A** | 20-DEC-2002
05 | IL | STREAMWOOD, VILLAGE OF | 17031CIND1A** | 20-DEC-2002
05 | IL | STREAMWOOD, VILLAGE OF | 17031CIND3A** | 20-DEC-2002
05 | IL | SUGAR GROVE, VILLAGE OF | 17089C0315F | 20-DEC-2002
05 | IL | SUGAR GROVE, VILLAGE OF | 17089C0316F | 20-DEC-2002
05 | IL | SUGAR GROVE, VILLAGE OF | 17089C0318F | 20-DEC-2002
05 | IL | SUGAR GROVE, VILLAGE OF | 17089C0319F | 20-DEC-2002
05 | IL | SUGAR GROVE, VILLAGE OF | 17089C0380F | 20-DEC-2002
05 | IL | SUGAR GROVE, VILLAGE OF | 17089C0385F | 20-DEC-2002
05 | IL | SUGAR GROVE, VILLAGE OF | 17089CIND0A** | 20-DEC-2002
05 | IL | SUMMIT, VILLAGE OF | 17031CIND1A** | 20-DEC-2002
05 | IL | SUMMIT, VILLAGE OF | 17031CIND3A** | 20-DEC-2002
05 | IL | THORNTON, VILLAGE OF | 17031CIND1A** | 20-DEC-2002
05 | IL | THORNTON, VILLAGE OF | 17031CIND3A** | 20-DEC-2002
05 | IL | TINLEY PARK, CITY OF | 17031CIND1A** | 20-DEC-2002
05 | IL | TINLEY PARK, CITY OF | 17031CIND3A** | 20-DEC-2002
05 | IL | UNIVERSITY PARK, VILLAGE OF | 17031CIND1A** | 20-DEC-2002
05 | IL | UNIVERSITY PARK, VILLAGE OF | 17031CIND3A** | 20-DEC-2002
05 | IL | VIRGIL, VILLAGE OF | 17089C0225F | 20-DEC-2002
05 | IL | VIRGIL, VILLAGE OF | 17089CIND0A** | 20-DEC-2002
05 | IL | WEST DUNDEE, VILLAGE OF | 17089C0155F | 20-DEC-2002
05 | IL | WEST DUNDEE, VILLAGE OF | 17089C0156F | 20-DEC-2002
05 | IL | WEST DUNDEE, VILLAGE OF | 17089C0157F | 20-DEC-2002
05 | IL | WEST DUNDEE, VILLAGE OF | 17089C0158F | 20-DEC-2002
05 | IL | WEST DUNDEE, VILLAGE OF | 17089C0159F | 20-DEC-2002
05 | IL | WEST DUNDEE, VILLAGE OF | 17089CIND0A** | 20-DEC-2002
05 | IL | WESTCHESTER, VILLAGE OF | 17031CIND1A** | 20-DEC-2002
05 | IL | WESTCHESTER, VILLAGE OF | 17031CIND3A** | 20-DEC-2002
05 | IL | WESTERN SPRINGS, VILLAGE OF | 17031CIND1A** | 20-DEC-2002
05 | IL | WESTERN SPRINGS, VILLAGE OF | 17031CIND3A** | 20-DEC-2002
05 | IL | WHEELING, VILLAGE OF | 17031CIND1A** | 20-DEC-2002
05 | IL | WHEELING, VILLAGE OF | 17031CIND3A** | 20-DEC-2002
05 | IL | WILLOW SPRINGS, VILLAGE OF | 17031CIND1A** | 20-DEC-2002
05 | IL | WILLOW SPRINGS, VILLAGE OF | 17031CIND3A** | 20-DEC-2002
05 | IL | WILMETTE, VILLAGE OF | 17031CIND1A** | 20-DEC-2002
05 | IL | WILMETTE, VILLAGE OF | 17031CIND3A** | 20-DEC-2002
05 | IL | WINNETKA, VILLAGE OF | 17031CIND1A** | 20-DEC-2002
05 | IL | WINNETKA, VILLAGE OF | 17031CIND3A** | 20-DEC-2002
05 | IL | WORTH, VILLAGE OF | 17031CIND1A** | 20-DEC-2002
05 | IL | WORTH, VILLAGE OF | 17031CIND3A** | 20-DEC-2002
05 | IN | HAMILTON, TOWN OF | 1802480001D | 06-DEC-2002
05 | IN | HAMILTON, TOWN OF | 1802480002D | 06-DEC-2002
05 | IN | HAMILTON, TOWN OF | 180248IND0A** | 06-DEC-2002
05 | MN | VADNAIS HEIGHTS, CITY OF | 2703850001C | 07-NOV-2002
05 | OH | MEIGS COUNTY * | 39105C0010C | 18-SEP-2002
05 | OH | MEIGS COUNTY * | 39105C0020C | 18-SEP-2002
05 | OH | MEIGS COUNTY * | 39105C0040C | 18-SEP-2002
05 | OH | MEIGS COUNTY * | 39105C0045C | 18-SEP-2002
05 | OH | MEIGS COUNTY * | 39105C0065C | 18-SEP-2002
05 | OH | MEIGS COUNTY * | 39105C0070C | 18-SEP-2002
05 | OH | MEIGS COUNTY * | 39105C0090C | 18-SEP-2002
05 | OH | MEIGS COUNTY * | 39105C0095C | 18-SEP-2002
05 | OH | MEIGS COUNTY * | 39105C0115C | 18-SEP-2002
05 | OH | MEIGS COUNTY * | 39105C0117C | 18-SEP-2002
05 | OH | MEIGS COUNTY * | 39105C0120C | 18-SEP-2002
05 | OH | MEIGS COUNTY * | 39105C0138C | 18-SEP-2002
05 | OH | MEIGS COUNTY * | 39105C0160C | 18-SEP-2002
05 | OH | MEIGS COUNTY * | 39105C0165C | 18-SEP-2002
05 | OH | MEIGS COUNTY * | 39105C0170C | 18-SEP-2002
05 | OH | MEIGS COUNTY * | 39105C0180C | 18-SEP-2002
05 | OH | MEIGS COUNTY * | 39105C0185C | 18-SEP-2002
05 | OH | MEIGS COUNTY * | 39105C0190C | 18-SEP-2002
05 | OH | MEIGS COUNTY * | 39105C0192C | 18-SEP-2002
05 | OH | MEIGS COUNTY * | 39105C0195C | 18-SEP-2002
05 | OH | MEIGS COUNTY * | 39105C0205C | 18-SEP-2002
05 | OH | MEIGS COUNTY * | 39105C0210C | 18-SEP-2002
05 | OH | MEIGS COUNTY * | 39105C0215C | 18-SEP-2002
05 | OH | MEIGS COUNTY * | 39105C0216C | 18-SEP-2002
05 | OH | MEIGS COUNTY * | 39105C0217C | 18-SEP-2002
05 | OH | MEIGS COUNTY * | 39105C0218C | 18-SEP-2002
05 | OH | MEIGS COUNTY * | 39105C0219C | 18-SEP-2002
05 | OH | MEIGS COUNTY * | 39105C0230C | 18-SEP-2002
05 | OH | MEIGS COUNTY * | 39105C0235C | 18-SEP-2002
05 | OH | MEIGS COUNTY * | 39105C0238C | 18-SEP-2002
05 | OH | MEIGS COUNTY * | 39105C0240C | 18-SEP-2002
05 | OH | MEIGS COUNTY * | 39105C0245C | 18-SEP-2002
05 | OH | MEIGS COUNTY * | 39105C0254C | 18-SEP-2002
05 | OH | MEIGS COUNTY * | 39105C0255C | 18-SEP-2002
05 | OH | MEIGS COUNTY * | 39105C0256C | 18-SEP-2002
05 | OH | MEIGS COUNTY * | 39105C0257C | 18-SEP-2002
05 | OH | MEIGS COUNTY * | 39105C0258C | 18-SEP-2002
05 | OH | MEIGS COUNTY * | 39105C0259C | 18-SEP-2002
05 | OH | MEIGS COUNTY * | 39105C0265C | 18-SEP-2002
05 | OH | MEIGS COUNTY * | 39105C0266C | 18-SEP-2002
05 | OH | MEIGS COUNTY * | 39105C0268C | 18-SEP-2002
05 | OH | MEIGS COUNTY * | 39105C0269C | 18-SEP-2002
05 | OH | MEIGS COUNTY * | 39105C0276C | 18-SEP-2002
05 | OH | MEIGS COUNTY * | 39105C0301C | 18-SEP-2002
05 | OH | MEIGS COUNTY * | 39105C0302C | 18-SEP-2002
05 | OH | MEIGS COUNTY * | 39105C0303C | 18-SEP-2002
05 | OH | MEIGS COUNTY * | 39105C0306C | 18-SEP-2002
05 | OH | MEIGS COUNTY * | 39105C0326C | 18-SEP-2002
05 | OH | MEIGS COUNTY * | 39105C0327C | 18-SEP-2002
05 | OH | MEIGS COUNTY * | 39105C0331C | 18-SEP-2002
05 | OH | MEIGS COUNTY * | 39105C0332C | 18-SEP-2002
05 | OH | MEIGS COUNTY * | 39105C0333C | 18-SEP-2002
05 | OH | MEIGS COUNTY * | 39105C0334C | 18-SEP-2002
05 | OH | MEIGS COUNTY * | 39105C0341C | 18-SEP-2002
05 | OH | MEIGS COUNTY * | 39105C0342C | 18-SEP-2002
05 | OH | MEIGS COUNTY * | 39105C0343C | 18-SEP-2002
05 | OH | MEIGS COUNTY * | 39105C0344C | 18-SEP-2002
05 | OH | MEIGS COUNTY * | 39105C0354C | 18-SEP-2002
05 | OH | MEIGS COUNTY * | 39105C0355C | 18-SEP-2002
05 | OH | MEIGS COUNTY * | 39105C0356C | 18-SEP-2002
05 | OH | MEIGS COUNTY * | 39105C0357C | 18-SEP-2002
05 | OH | MEIGS COUNTY * | 39105C0358C | 18-SEP-2002
05 | OH | MEIGS COUNTY * | 39105C0359C | 18-SEP-2002
05 | OH | MEIGS COUNTY * | 39105C0361C | 18-SEP-2002
05 | OH | MEIGS COUNTY * | 39105C0362C | 18-SEP-2002
05 | OH | MEIGS COUNTY * | 39105C0363C | 18-SEP-2002
05 | OH | MEIGS COUNTY * | 39105C0366C | 18-SEP-2002
05 | OH | MEIGS COUNTY * | 39105C0367C | 18-SEP-2002
05 | OH | MEIGS COUNTY * | 39105CIND0A** | 18-SEP-2002
05 | OH | MIDDLEPORT, VILLAGE OF | 39105C0215C | 18-SEP-2002
05 | OH | MIDDLEPORT, VILLAGE OF | 39105C0218C | 18-SEP-2002
05 | OH | MIDDLEPORT, VILLAGE OF | 39105C0302C | 18-SEP-2002
05 | OH | MIDDLEPORT, VILLAGE OF | 39105C0306C | 18-SEP-2002
05 | OH | MIDDLEPORT, VILLAGE OF | 39105CIND0A** | 18-SEP-2002
05 | OH | NEW BOSTON, VILLAGE OF | 39145C0268D | 04-SEP-2002
05 | OH | NEW BOSTON, VILLAGE OF | 39145C0402D | 04-SEP-2002
05 | OH | NEW BOSTON, VILLAGE OF | 39145C0406D | 04-SEP-2002
05 | OH | NEW BOSTON, VILLAGE OF | 39145CIND0 ** | 04-SEP-2002
05 | OH | NILES, CITY OF | 3905400005C | 21-NOV-2002
05 | OH | OTWAY, VILLAGE OF | 39145C0205D | 04-SEP-2002
05 | OH | OTWAY, VILLAGE OF | 39145C0210D | 04-SEP-2002
05 | OH | OTWAY, VILLAGE OF | 39145CIND0 ** | 04-SEP-2002
05 | OH | POMEROY, VILLAGE OF | 39105C0216C | 18-SEP-2002
05 | OH | POMEROY, VILLAGE OF | 39105C0217C | 18-SEP-2002
05 | OH | POMEROY, VILLAGE OF | 39105C0218C | 18-SEP-2002
05 | OH | POMEROY, VILLAGE OF | 39105C0219C | 18-SEP-2002
05 | OH | POMEROY, VILLAGE OF | 39105C0238C | 18-SEP-2002
05 | OH | POMEROY, VILLAGE OF | 39105C0240C | 18-SEP-2002
05 | OH | POMEROY, VILLAGE OF | 39105CIND0A** | 18-SEP-2002
05 | OH | PORTSMOUTH, CITY OF | 39145C0263D | 04-SEP-2002
05 | OH | PORTSMOUTH, CITY OF | 39145C0268D | 04-SEP-2002
05 | OH | PORTSMOUTH, CITY OF | 39145C0269D | 04-SEP-2002
05 | OH | PORTSMOUTH, CITY OF | 39145C0288D | 04-SEP-2002
05 | OH | PORTSMOUTH, CITY OF | 39145C0382D | 04-SEP-2002
05 | OH | PORTSMOUTH, CITY OF | 39145C0401D | 04-SEP-2002
05 | OH | PORTSMOUTH, CITY OF | 39145C0402D | 04-SEP-2002
05 | OH | PORTSMOUTH, CITY OF | 39145C0407D | 04-SEP-2002
05 | OH | PORTSMOUTH, CITY OF | 39145C0426D | 04-SEP-2002
05 | OH | PORTSMOUTH, CITY OF | 39145CIND0 ** | 04-SEP-2002
05 | OH | RACINE, VILLAGE OF | 39105C0331C | 18-SEP-2002
05 | OH | RACINE, VILLAGE OF | 39105C0333C | 18-SEP-2002
05 | OH | RACINE, VILLAGE OF | 39105C0334C | 18-SEP-2002
05 | OH | RACINE, VILLAGE OF | 39105CIND0A** | 18-SEP-2002
05 | OH | RARDEN, VILLAGE OF | 39145C0090D | 04-SEP-2002
05 | OH | RARDEN, VILLAGE OF | 39145CIND0 ** | 04-SEP-2002
05 | OH | RUTLAND, VILLAGE OF | 39105C0192C | 18-SEP-2002
05 | OH | RUTLAND, VILLAGE OF | 39105C0215C | 18-SEP-2002
05 | OH | RUTLAND, VILLAGE OF | 39105CIND0A** | 18-SEP-2002
05 | OH | SCIOTO COUNTY * | 39145C0060D | 04-SEP-2002
05 | OH | SCIOTO COUNTY * | 39145C0070D | 04-SEP-2002
05 | OH | SCIOTO COUNTY * | 39145C0080D | 04-SEP-2002
05 | OH | SCIOTO COUNTY * | 39145C0090D | 04-SEP-2002
05 | OH | SCIOTO COUNTY * | 39145C0110D | 04-SEP-2002
05 | OH | SCIOTO COUNTY * | 39145C0115D | 04-SEP-2002
05 | OH | SCIOTO COUNTY * | 39145C0120D | 04-SEP-2002
05 | OH | SCIOTO COUNTY * | 39145C0130D | 04-SEP-2002
05 | OH | SCIOTO COUNTY * | 39145C0135D | 04-SEP-2002
05 | OH | SCIOTO COUNTY * | 39145C0140D | 04-SEP-2002
05 | OH | SCIOTO COUNTY * | 39145C0145D | 04-SEP-2002
05 | OH | SCIOTO COUNTY * | 39145C0155D | 04-SEP-2002
05 | OH | SCIOTO COUNTY * | 39145C0160D | 04-SEP-2002
05 | OH | SCIOTO COUNTY * | 39145C0165D | 04-SEP-2002
05 | OH | SCIOTO COUNTY * | 39145C0170D | 04-SEP-2002
05 | OH | SCIOTO COUNTY * | 39145C0185D | 04-SEP-2002
05 | OH | SCIOTO COUNTY * | 39145C0205D | 04-SEP-2002
05 | OH | SCIOTO COUNTY * | 39145C0210D | 04-SEP-2002
05 | OH | SCIOTO COUNTY * | 39145C0215D | 04-SEP-2002
05 | OH | SCIOTO COUNTY * | 39145C0230D | 04-SEP-2002
05 | OH | SCIOTO COUNTY * | 39145C0235D | 04-SEP-2002
05 | OH | SCIOTO COUNTY * | 39145C0245D | 04-SEP-2002
05 | OH | SCIOTO COUNTY * | 39145C0255D | 04-SEP-2002
05 | OH | SCIOTO COUNTY * | 39145C0260D | 04-SEP-2002
05 | OH | SCIOTO COUNTY * | 39145C0263D | 04-SEP-2002
05 | OH | SCIOTO COUNTY * | 39145C0265D | 04-SEP-2002
05 | OH | SCIOTO COUNTY * | 39145C0268D | 04-SEP-2002
05 | OH | SCIOTO COUNTY * | 39145C0269D | 04-SEP-2002
05 | OH | SCIOTO COUNTY * | 39145C0280D | 04-SEP-2002
05 | OH | SCIOTO COUNTY * | 39145C0285D | 04-SEP-2002
05 | OH | SCIOTO COUNTY * | 39145C0288D | 04-SEP-2002
05 | OH | SCIOTO COUNTY * | 39145C0290D | 04-SEP-2002
05 | OH | SCIOTO COUNTY * | 39145C0295D | 04-SEP-2002
05 | OH | SCIOTO COUNTY * | 39145C0310D | 04-SEP-2002
05 | OH | SCIOTO COUNTY * | 39145C0315D | 04-SEP-2002
05 | OH | SCIOTO COUNTY * | 39145C0320D | 04-SEP-2002
05 | OH | SCIOTO COUNTY * | 39145C0344D | 04-SEP-2002
05 | OH | SCIOTO COUNTY * | 39145C0355D | 04-SEP-2002
05 | OH | SCIOTO COUNTY * | 39145C0360D | 04-SEP-2002
05 | OH | SCIOTO COUNTY * | 39145C0363D | 04-SEP-2002
05 | OH | SCIOTO COUNTY * | 39145C0364D | 04-SEP-2002
05 | OH | SCIOTO COUNTY * | 39145C0367D | 04-SEP-2002
05 | OH | SCIOTO COUNTY * | 39145C0368D | 04-SEP-2002
05 | OH | SCIOTO COUNTY * | 39145C0369D | 04-SEP-2002
05 | OH | SCIOTO COUNTY * | 39145C0378D | 04-SEP-2002
05 | OH | SCIOTO COUNTY * | 39145C0379D | 04-SEP-2002
05 | OH | SCIOTO COUNTY * | 39145C0381D | 04-SEP-2002
05 | OH | SCIOTO COUNTY * | 39145C0382D | 04-SEP-2002
05 | OH | SCIOTO COUNTY * | 39145C0383D | 04-SEP-2002
05 | OH | SCIOTO COUNTY * | 39145C0386D | 04-SEP-2002
05 | OH | SCIOTO COUNTY * | 39145C0387D | 04-SEP-2002
05 | OH | SCIOTO COUNTY * | 39145C0388D | 04-SEP-2002
05 | OH | SCIOTO COUNTY * | 39145C0401D | 04-SEP-2002
05 | OH | SCIOTO COUNTY * | 39145C0402D | 04-SEP-2002
05 | OH | SCIOTO COUNTY * | 39145C0406D | 04-SEP-2002
05 | OH | SCIOTO COUNTY * | 39145C0407D | 04-SEP-2002
05 | OH | SCIOTO COUNTY * | 39145C0426D | 04-SEP-2002
05 | OH | SCIOTO COUNTY * | 39145C0428D | 04-SEP-2002
05 | OH | SCIOTO COUNTY * | 39145C0430D | 04-SEP-2002
05 | OH | SCIOTO COUNTY * | 39145C0436D | 04-SEP-2002
05 | OH | SCIOTO COUNTY * | 39145C0437D | 04-SEP-2002
05 | OH | SCIOTO COUNTY * | 39145C0438D | 04-SEP-2002
05 | OH | SCIOTO COUNTY * | 39145C0439D | 04-SEP-2002
05 | OH | SCIOTO COUNTY * | 39145C0445D | 04-SEP-2002
05 | OH | SCIOTO COUNTY * | 39145C0455D | 04-SEP-2002
05 | OH | SCIOTO COUNTY * | 39145C0465D | 04-SEP-2002
05 | OH | SCIOTO COUNTY * | 39145C0482D | 04-SEP-2002
05 | OH | SCIOTO COUNTY * | 39145C0501D | 04-SEP-2002
05 | OH | SCIOTO COUNTY * | 39145C0502D | 04-SEP-2002
05 | OH | SCIOTO COUNTY * | 39145C0506D | 04-SEP-2002
05 | OH | SCIOTO COUNTY * | 39145C0507D | 04-SEP-2002
05 | OH | SCIOTO COUNTY * | 39145C0526D | 04-SEP-2002
05 | OH | SCIOTO COUNTY * | 39145C0527D | 04-SEP-2002
05 | OH | SCIOTO COUNTY * | 39145C0528D | 04-SEP-2002
05 | OH | SCIOTO COUNTY * | 39145C0529D | 04-SEP-2002
05 | OH | SCIOTO COUNTY * | 39145C0531D | 04-SEP-2002
05 | OH | SCIOTO COUNTY * | 39145C0533D | 04-SEP-2002
05 | OH | SCIOTO COUNTY * | 39145C0555D | 04-SEP-2002
05 | OH | SCIOTO COUNTY * | 39145CIND0 ** | 04-SEP-2002
05 | OH | SYRACUSE, VILLAGE OF | 39105C0238C | 18-SEP-2002
05 | OH | SYRACUSE, VILLAGE OF | 39105C0240C | 18-SEP-2002
05 | OH | SYRACUSE, VILLAGE OF | 39105C0326C | 18-SEP-2002
05 | OH | SYRACUSE, VILLAGE OF | 39105C0327C | 18-SEP-2002
05 | OH | SYRACUSE, VILLAGE OF | 39105CIND0A** | 18-SEP-2002
05 | WI | BAY CITY, VILLAGE OF | 5555430001B | 04-SEP-2002
05 | WI | CHIPPEWA FALLS, CITY OF | 5500440001B | 18-SEP-2002
05 | WI | CHIPPEWA FALLS, CITY OF | 5500440002C | 18-SEP-2002
05 | WI | CHIPPEWA FALLS, CITY OF | 5500440003C | 18-SEP-2002
05 | WI | CHIPPEWA FALLS, CITY OF | 5500440004C | 18-SEP-2002
05 | WI | CHIPPEWA FALLS, CITY OF | 5500440005C | 18-SEP-2002
05 | WI | CHIPPEWA FALLS, CITY OF | 5500440006C | 18-SEP-2002
05 | WI | CHIPPEWA FALLS, CITY OF | 5500440007C | 18-SEP-2002
05 | WI | CHIPPEWA FALLS, CITY OF | 5500440008C | 18-SEP-2002
05 | WI | CHIPPEWA FALLS, CITY OF | 5500440009C | 18-SEP-2002
05 | WI | CHIPPEWA FALLS, CITY OF | 550044IND0A** | 18-SEP-2002
05 | WI | RIVER FALLS, CITY OF | 5503300002D | 20-AUG-2002
05 | WI | RIVER FALLS, CITY OF | 5503300003D | 20-AUG-2002
05 | WI | RIVER FALLS, CITY OF | 5503300004D | 20-AUG-2002
05 | WI | RIVER FALLS, CITY OF | 5503300005D | 20-AUG-2002
05 | WI | RIVER FALLS, CITY OF | 550330IND0A** | 20-AUG-2002
05 | WI | SHEBOYGAN COUNTY * | 5504240035B | 21-NOV-2002
05 | WI | SHEBOYGAN COUNTY * | 5504240045C | 21-NOV-2002
05 | WI | SHEBOYGAN COUNTY * | 5504240085D | 21-NOV-2002
05 | WI | SHEBOYGAN COUNTY * | 5504240095B | 21-NOV-2002
05 | WI | SHEBOYGAN COUNTY * | 5504240135B | 21-NOV-2002
05 | WI | SHEBOYGAN COUNTY * | 5504240140B | 21-NOV-2002
05 | WI | SHEBOYGAN COUNTY * | 550424IND0A** | 21-NOV-2002
05 | WI | SHEBOYGAN, CITY OF | 5504300002E | 21-NOV-2002
05 | WI | SHEBOYGAN, CITY OF | 5504300004E | 21-NOV-2002
05 | WI | SHEBOYGAN, CITY OF | 5504300005E | 21-NOV-2002
05 | WI | SHEBOYGAN, CITY OF | 550430IND0A** | 21-NOV-2002
06 | NM | LOVINGTON, CITY OF | 3500310003C | 04-SEP-2002
06 | NM | LOVINGTON, CITY OF | 3500310011C | 04-SEP-2002
06 | NM | LOVINGTON, CITY OF | 3500310012C | 04-SEP-2002
06 | NM | LOVINGTON, CITY OF | 350031IND0 ** | 04-SEP-2002
06 | OK | ARCADIA, TOWN OF | 40109C0115G | 02-JUL-2002
06 | OK | ARCADIA, TOWN OF | 40109CIND0 ** | 02-JUL-2002
06 | OK | BECKHAM COUNTY * | 4004870025A | 17-JUL-2002
06 | OK | BECKHAM COUNTY * | 4004870050A | 17-JUL-2002
06 | OK | BECKHAM COUNTY * | 4004870100A | 17-JUL-2002
06 | OK | BECKHAM COUNTY * | 4004870125A | 17-JUL-2002
06 | OK | BECKHAM COUNTY * | 4004870150A | 17-JUL-2002
06 | OK | BECKHAM COUNTY * | 4004870175A | 17-JUL-2002
06 | OK | BECKHAM COUNTY * | 4004870200A | 17-JUL-2002
06 | OK | BECKHAM COUNTY * | 4004870250A | 17-JUL-2002
06 | OK | BECKHAM COUNTY * | 4004870275A | 17-JUL-2002
06 | OK | BECKHAM COUNTY * | 4004870300A | 17-JUL-2002
06 | OK | BECKHAM COUNTY * | 4004870325A | 17-JUL-2002
06 | OK | BECKHAM COUNTY * | 4004870350A | 17-JUL-2002
06 | OK | BECKHAM COUNTY * | 4004870375A | 17-JUL-2002
06 | OK | BECKHAM COUNTY * | 4004870400A | 17-JUL-2002
06 | OK | BECKHAM COUNTY * | 4004870425A | 17-JUL-2002
06 | OK | BECKHAM COUNTY * | 4004870450A | 17-JUL-2002
06 | OK | BECKHAM COUNTY * | 4004870475A | 17-JUL-2002
06 | OK | BECKHAM COUNTY * | 4004870500A | 17-JUL-2002
06 | OK | BECKHAM COUNTY * | 4004870525A | 17-JUL-2002
06 | OK | BECKHAM COUNTY * | 4004870550A | 17-JUL-2002
06 | OK | BECKHAM COUNTY * | 4004870575A | 17-JUL-2002
06 | OK | BECKHAM COUNTY * | 4004870600A | 17-JUL-2002
06 | OK | BECKHAM COUNTY * | 4004870625A | 17-JUL-2002
06 | OK | BECKHAM COUNTY * | 4004870650A | 17-JUL-2002
06 | OK | BECKHAM COUNTY * | 400487IND0 ** | 17-JUL-2002
06 | OK | BETHANY, CITY OF | 40109C0192G | 02-JUL-2002
06 | OK | BETHANY, CITY OF | 40109C0194G | 02-JUL-2002
06 | OK | BETHANY, CITY OF | 40109C0195G | 02-JUL-2002
06 | OK | BETHANY, CITY OF | 40109C0213G | 02-JUL-2002
06 | OK | BETHANY, CITY OF | 40109C0331G | 02-JUL-2002
06 | OK | BETHANY, CITY OF | 40109C0332G | 02-JUL-2002
06 | OK | BETHANY, CITY OF | 40109C0351G | 02-JUL-2002
06 | OK | BETHANY, CITY OF | 40109CIND0 ** | 02-JUL-2002
06 | OK | CALUMET, TOWN OF | 40017CIND0A** | 02-JUL-2002
06 | OK | CANADIAN COUNTY* | 40017C0319E | 02-JUL-2002
06 | OK | CANADIAN COUNTY* | 40017C0320E | 02-JUL-2002
06 | OK | CANADIAN COUNTY* | 40017C0338E | 02-JUL-2002
06 | OK | CANADIAN COUNTY* | 40017C0339E | 02-JUL-2002
06 | OK | CANADIAN COUNTY* | 40017C0340E | 02-JUL-2002
06 | OK | CANADIAN COUNTY* | 40017C0457E | 02-JUL-2002
06 | OK | CANADIAN COUNTY* | 40017C0476E | 02-JUL-2002
06 | OK | CANADIAN COUNTY* | 40017CIND0A** | 02-JUL-2002
06 | OK | CHOCTAW, CITY OF | 40109C0270G | 02-JUL-2002
06 | OK | CHOCTAW, CITY OF | 40109C0290G | 02-JUL-2002
06 | OK | CHOCTAW, CITY OF | 40109C0405G | 02-JUL-2002
06 | OK | CHOCTAW, CITY OF | 40109C0410G | 02-JUL-2002
06 | OK | CHOCTAW, CITY OF | 40109C0417G | 02-JUL-2002
06 | OK | CHOCTAW, CITY OF | 40109C0426G | 02-JUL-2002
06 | OK | CHOCTAW, CITY OF | 40109C0428G | 02-JUL-2002
06 | OK | CHOCTAW, CITY OF | 40109C0436G | 02-JUL-2002
06 | OK | CHOCTAW, CITY OF | 40109CIND0 ** | 02-JUL-2002
06 | OK | DEL CITY, CITY OF | 40109C0377G | 02-JUL-2002
06 | OK | DEL CITY, CITY OF | 40109C0379G | 02-JUL-2002
06 | OK | DEL CITY, CITY OF | 40109C0381G | 02-JUL-2002
06 | OK | DEL CITY, CITY OF | 40109C0383G | 02-JUL-2002
06 | OK | DEL CITY, CITY OF | 40109C0387G | 02-JUL-2002
06 | OK | DEL CITY, CITY OF | 40109C0391G | 02-JUL-2002
06 | OK | DEL CITY, CITY OF | 40109CIND0 ** | 02-JUL-2002
06 | OK | EDMOND, CITY OF | 40109C0060G | 02-JUL-2002
06 | OK | EDMOND, CITY OF | 40109C0066G | 02-JUL-2002
06 | OK | EDMOND, CITY OF | 40109C0067G | 02-JUL-2002
06 | OK | EDMOND, CITY OF | 40109C0069G | 02-JUL-2002
06 | OK | EDMOND, CITY OF | 40109C0080G | 02-JUL-2002
06 | OK | EDMOND, CITY OF | 40109C0085G | 02-JUL-2002
06 | OK | EDMOND, CITY OF | 40109C0089G | 02-JUL-2002
06 | OK | EDMOND, CITY OF | 40109C0090G | 02-JUL-2002
06 | OK | EDMOND, CITY OF | 40109C0095G | 02-JUL-2002
06 | OK | EDMOND, CITY OF | 40109C0105G | 02-JUL-2002
06 | OK | EDMOND, CITY OF | 40109C0110G | 02-JUL-2002
06 | OK | EDMOND, CITY OF | 40109C0115G | 02-JUL-2002
06 | OK | EDMOND, CITY OF | 40109C0116G | 02-JUL-2002
06 | OK | EDMOND, CITY OF | 40109C0117G | 02-JUL-2002
06 | OK | EDMOND, CITY OF | 40109C0118G | 02-JUL-2002
06 | OK | EDMOND, CITY OF | 40109C0119G | 02-JUL-2002
06 | OK | EDMOND, CITY OF | 40109C0207G | 02-JUL-2002
06 | OK | EDMOND, CITY OF | 40109C0226G | 02-JUL-2002
06 | OK | EDMOND, CITY OF | 40109C0227G | 02-JUL-2002
06 | OK | EDMOND, CITY OF | 40109C0231G | 02-JUL-2002
06 | OK | EDMOND, CITY OF | 40109C0232G | 02-JUL-2002
06 | OK | EDMOND, CITY OF | 40109C0255G | 02-JUL-2002
06 | OK | EDMOND, CITY OF | 40109CIND0 ** | 02-JUL-2002
06 | OK | EL RENO, CITY OF | 40017CIND0A** | 02-JUL-2002
06 | OK | FOREST PARK, CITY OF | 40109C0239G | 02-JUL-2002
06 | OK | FOREST PARK, CITY OF | 40109C0245G | 02-JUL-2002
06 | OK | FOREST PARK, CITY OF | 40109C0377G | 02-JUL-2002
06 | OK | FOREST PARK, CITY OF | 40109CIND0 ** | 02-JUL-2002
06 | OK | HARRAH, CITY OF | 40109C0290G | 02-JUL-2002
06 | OK | HARRAH, CITY OF | 40109C0426G | 02-JUL-2002
06 | OK | HARRAH, CITY OF | 40109C0427G | 02-JUL-2002
06 | OK | HARRAH, CITY OF | 40109C0428G | 02-JUL-2002
06 | OK | HARRAH, CITY OF | 40109C0429G | 02-JUL-2002
06 | OK | HARRAH, CITY OF | 40109C0431G | 02-JUL-2002
06 | OK | HARRAH, CITY OF | 40109C0433G | 02-JUL-2002
06 | OK | HARRAH, CITY OF | 40109C0435G | 02-JUL-2002
06 | OK | HARRAH, CITY OF | 40109C0441G | 02-JUL-2002
06 | OK | HARRAH, CITY OF | 40109CIND0 ** | 02-JUL-2002
06 | OK | JONES CITY, TOWN OF | 40109C0255G | 02-JUL-2002
06 | OK | JONES CITY, TOWN OF | 40109C0260G | 02-JUL-2002
06 | OK | JONES CITY, TOWN OF | 40109C0265G | 02-JUL-2002
06 | OK | JONES CITY, TOWN OF | 40109C0270G | 02-JUL-2002
06 | OK | JONES CITY, TOWN OF | 40109C0280G | 02-JUL-2002
06 | OK | JONES CITY, TOWN OF | 40109C0290G | 02-JUL-2002
06 | OK | JONES CITY, TOWN OF | 40109CIND0 ** | 02-JUL-2002
06 | OK | LAKE ALUMA, TOWN OF | 40109C0237G | 02-JUL-2002
06 | OK | LAKE ALUMA, TOWN OF | 40109C0239G | 02-JUL-2002
06 | OK | LAKE ALUMA, TOWN OF | 40109CIND0 ** | 02-JUL-2002
06 | OK | LUTHER, TOWN OF | 40109C0137G | 02-JUL-2002
06 | OK | LUTHER, TOWN OF | 40109C0139G | 02-JUL-2002
06 | OK | LUTHER, TOWN OF | 40109C0145G | 02-JUL-2002
06 | OK | LUTHER, TOWN OF | 40109C0280G | 02-JUL-2002
06 | OK | LUTHER, TOWN OF | 40109C0285G | 02-JUL-2002
06 | OK | LUTHER, TOWN OF | 40109CIND0 ** | 02-JUL-2002
06 | OK | MIDWEST CITY, CITY OF | 40109C0245G | 02-JUL-2002
06 | OK | MIDWEST CITY, CITY OF | 40109C0265G | 02-JUL-2002
06 | OK | MIDWEST CITY, CITY OF | 40109C0381G | 02-JUL-2002
06 | OK | MIDWEST CITY, CITY OF | 40109C0383G | 02-JUL-2002
06 | OK | MIDWEST CITY, CITY OF | 40109C0385G | 02-JUL-2002
06 | OK | MIDWEST CITY, CITY OF | 40109C0391G | 02-JUL-2002
06 | OK | MIDWEST CITY, CITY OF | 40109C0395G | 02-JUL-2002
06 | OK | MIDWEST CITY, CITY OF | 40109C0405G | 02-JUL-2002
06 | OK | MIDWEST CITY, CITY OF | 40109C0410G | 02-JUL-2002
06 | OK | MIDWEST CITY, CITY OF | 40109C0412G | 02-JUL-2002
06 | OK | MIDWEST CITY, CITY OF | 40109C0415G | 02-JUL-2002
06 | OK | MIDWEST CITY, CITY OF | 40109C0416G | 02-JUL-2002
06 | OK | MIDWEST CITY, CITY OF | 40109CIND0 ** | 02-JUL-2002
06 | OK | MUSTANG, CITY OF | 40017CIND0A** | 02-JUL-2002
06 | OK | NICHOLS HILLS, CITY OF | 40109C0216G | 02-JUL-2002
06 | OK | NICHOLS HILLS, CITY OF | 40109C0217G | 02-JUL-2002
06 | OK | NICHOLS HILLS, CITY OF | 40109CIND0 ** | 02-JUL-2002
06 | OK | NICOMA PARK, TOWN OF | 40109C0265G | 02-JUL-2002
06 | OK | NICOMA PARK, TOWN OF | 40109C0270G | 02-JUL-2002
06 | OK | NICOMA PARK, TOWN OF | 40109C0405G | 02-JUL-2002
06 | OK | NICOMA PARK, TOWN OF | 40109C0410G | 02-JUL-2002
06 | OK | NICOMA PARK, TOWN OF | 40109CIND0 ** | 02-JUL-2002
06 | OK | OKLAHOMA CITY, CITY OF | 40109C0018G | 02-JUL-2002
06 | OK | OKLAHOMA CITY, CITY OF | 40109C0019G | 02-JUL-2002
06 | OK | OKLAHOMA CITY, CITY OF | 40109C0035G | 02-JUL-2002
06 | OK | OKLAHOMA CITY, CITY OF | 40109C0038G | 02-JUL-2002
06 | OK | OKLAHOMA CITY, CITY OF | 40109C0039G | 02-JUL-2002
06 | OK | OKLAHOMA CITY, CITY OF | 40109C0043G | 02-JUL-2002
06 | OK | OKLAHOMA CITY, CITY OF | 40109C0044G | 02-JUL-2002
06 | OK | OKLAHOMA CITY, CITY OF | 40109C0045G | 02-JUL-2002
06 | OK | OKLAHOMA CITY, CITY OF | 40109C0055G | 02-JUL-2002
06 | OK | OKLAHOMA CITY, CITY OF | 40109C0060G | 02-JUL-2002
06 | OK | OKLAHOMA CITY, CITY OF | 40109C0061G | 02-JUL-2002
06 | OK | OKLAHOMA CITY, CITY OF | 40109C0062G | 02-JUL-2002
06 | OK | OKLAHOMA CITY, CITY OF | 40109C0063G | 02-JUL-2002
06 | OK | OKLAHOMA CITY, CITY OF | 40109C0064G | 02-JUL-2002
06 | OK | OKLAHOMA CITY, CITY OF | 40109C0066G | 02-JUL-2002
06 | OK | OKLAHOMA CITY, CITY OF | 40109C0067G | 02-JUL-2002
06 | OK | OKLAHOMA CITY, CITY OF | 40109C0068G | 02-JUL-2002
06 | OK | OKLAHOMA CITY, CITY OF | 40109C0069G | 02-JUL-2002
06 | OK | OKLAHOMA CITY, CITY OF | 40109C0080G | 02-JUL-2002
06 | OK | OKLAHOMA CITY, CITY OF | 40109C0085G | 02-JUL-2002
06 | OK | OKLAHOMA CITY, CITY OF | 40109C0089G | 02-JUL-2002
06 | OK | OKLAHOMA CITY, CITY OF | 40109C0090G | 02-JUL-2002
06 | OK | OKLAHOMA CITY, CITY OF | 40109C0095G | 02-JUL-2002
06 | OK | OKLAHOMA CITY, CITY OF | 40109C0105G | 02-JUL-2002
06 | OK | OKLAHOMA CITY, CITY OF | 40109C0110G | 02-JUL-2002
06 | OK | OKLAHOMA CITY, CITY OF | 40109C0115G | 02-JUL-2002
06 | OK | OKLAHOMA CITY, CITY OF | 40109C0116G | 02-JUL-2002
06 | OK | OKLAHOMA CITY, CITY OF | 40109C0117G | 02-JUL-2002
06 | OK | OKLAHOMA CITY, CITY OF | 40109C0118G | 02-JUL-2002
06 | OK | OKLAHOMA CITY, CITY OF | 40109C0119G | 02-JUL-2002
06 | OK | OKLAHOMA CITY, CITY OF | 40109C0130G | 02-JUL-2002
06 | OK | OKLAHOMA CITY, CITY OF | 40109C0135G | 02-JUL-2002
06 | OK | OKLAHOMA CITY, CITY OF | 40109C0136G | 02-JUL-2002
06 | OK | OKLAHOMA CITY, CITY OF | 40109C0137G | 02-JUL-2002
06 | OK | OKLAHOMA CITY, CITY OF | 40109C0138G | 02-JUL-2002
06 | OK | OKLAHOMA CITY, CITY OF | 40109C0139G | 02-JUL-2002
06 | OK | OKLAHOMA CITY, CITY OF | 40109C0145G | 02-JUL-2002
06 | OK | OKLAHOMA CITY, CITY OF | 40109C0156G | 02-JUL-2002
06 | OK | OKLAHOMA CITY, CITY OF | 40109C0157G | 02-JUL-2002
06 | OK | OKLAHOMA CITY, CITY OF | 40109C0170G | 02-JUL-2002
06 | OK | OKLAHOMA CITY, CITY OF | 40109C0176G | 02-JUL-2002
06 | OK | OKLAHOMA CITY, CITY OF | 40109C0177G | 02-JUL-2002
06 | OK | OKLAHOMA CITY, CITY OF | 40109C0178G | 02-JUL-2002
06 | OK | OKLAHOMA CITY, CITY OF | 40109C0179G | 02-JUL-2002
06 | OK | OKLAHOMA CITY, CITY OF | 40109C0181G | 02-JUL-2002
06 | OK | OKLAHOMA CITY, CITY OF | 40109C0182G | 02-JUL-2002
06 | OK | OKLAHOMA CITY, CITY OF | 40109C0183G | 02-JUL-2002
06 | OK | OKLAHOMA CITY, CITY OF | 40109C0184G | 02-JUL-2002
06 | OK | OKLAHOMA CITY, CITY OF | 40109C0190G | 02-JUL-2002
06 | OK | OKLAHOMA CITY, CITY OF | 40109C0192G | 02-JUL-2002
06 | OK | OKLAHOMA CITY, CITY OF | 40109C0194G | 02-JUL-2002
06 | OK | OKLAHOMA CITY, CITY OF | 40109C0195G | 02-JUL-2002
06 | OK | OKLAHOMA CITY, CITY OF | 40109C0201G | 02-JUL-2002
06 | OK | OKLAHOMA CITY, CITY OF | 40109C0202G | 02-JUL-2002
06 | OK | OKLAHOMA CITY, CITY OF | 40109C0203G | 02-JUL-2002
06 | OK | OKLAHOMA CITY, CITY OF | 40109C0204G | 02-JUL-2002
06 | OK | OKLAHOMA CITY, CITY OF | 40109C0206G | 02-JUL-2002
06 | OK | OKLAHOMA CITY, CITY OF | 40109C0207G | 02-JUL-2002
06 | OK | OKLAHOMA CITY, CITY OF | 40109C0208G | 02-JUL-2002
06 | OK | OKLAHOMA CITY, CITY OF | 40109C0209G | 02-JUL-2002
06 | OK | OKLAHOMA CITY, CITY OF | 40109C0211G | 02-JUL-2002
06 | OK | OKLAHOMA CITY, CITY OF | 40109C0212G | 02-JUL-2002
06 | OK | OKLAHOMA CITY, CITY OF | 40109C0213G | 02-JUL-2002
06 | OK | OKLAHOMA CITY, CITY OF | 40109C0214G | 02-JUL-2002
06 | OK | OKLAHOMA CITY, CITY OF | 40109C0216G | 02-JUL-2002
06 | OK | OKLAHOMA CITY, CITY OF | 40109C0217G | 02-JUL-2002
06 | OK | OKLAHOMA CITY, CITY OF | 40109C0218G | 02-JUL-2002
06 | OK | OKLAHOMA CITY, CITY OF | 40109C0219G | 02-JUL-2002
06 | OK | OKLAHOMA CITY, CITY OF | 40109C0226G | 02-JUL-2002
06 | OK | OKLAHOMA CITY, CITY OF | 40109C0227G | 02-JUL-2002
06 | OK | OKLAHOMA CITY, CITY OF | 40109C0228G | 02-JUL-2002
06 | OK | OKLAHOMA CITY, CITY OF | 40109C0229G | 02-JUL-2002
06 | OK | OKLAHOMA CITY, CITY OF | 40109C0231G | 02-JUL-2002
06 | OK | OKLAHOMA CITY, CITY OF | 40109C0232G | 02-JUL-2002
06 | OK | OKLAHOMA CITY, CITY OF | 40109C0233G | 02-JUL-2002
06 | OK | OKLAHOMA CITY, CITY OF | 40109C0234G | 02-JUL-2002
06 | OK | OKLAHOMA CITY, CITY OF | 40109C0236G | 02-JUL-2002
06 | OK | OKLAHOMA CITY, CITY OF | 40109C0237G | 02-JUL-2002
06 | OK | OKLAHOMA CITY, CITY OF | 40109C0238G | 02-JUL-2002
06 | OK | OKLAHOMA CITY, CITY OF | 40109C0239G | 02-JUL-2002
06 | OK | OKLAHOMA CITY, CITY OF | 40109C0245G | 02-JUL-2002
06 | OK | OKLAHOMA CITY, CITY OF | 40109C0255G | 02-JUL-2002
06 | OK | OKLAHOMA CITY, CITY OF | 40109C0260G | 02-JUL-2002
06 | OK | OKLAHOMA CITY, CITY OF | 40109C0265G | 02-JUL-2002
06 | OK | OKLAHOMA CITY, CITY OF | 40109C0270G | 02-JUL-2002
06 | OK | OKLAHOMA CITY, CITY OF | 40109C0276G | 02-JUL-2002
06 | OK | OKLAHOMA CITY, CITY OF | 40109C0280G | 02-JUL-2002
06 | OK | OKLAHOMA CITY, CITY OF | 40109C0285G | 02-JUL-2002
06 | OK | OKLAHOMA CITY, CITY OF | 40109C0290G | 02-JUL-2002
06 | OK | OKLAHOMA CITY, CITY OF | 40109C0295G | 02-JUL-2002
06 | OK | OKLAHOMA CITY, CITY OF | 40109C0302G | 02-JUL-2002
06 | OK | OKLAHOMA CITY, CITY OF | 40109C0304G | 02-JUL-2002
06 | OK | OKLAHOMA CITY, CITY OF | 40109C0306G | 02-JUL-2002
06 | OK | OKLAHOMA CITY, CITY OF | 40109C0307G | 02-JUL-2002
06 | OK | OKLAHOMA CITY, CITY OF | 40109C0308G | 02-JUL-2002
06 | OK | OKLAHOMA CITY, CITY OF | 40109C0309G | 02-JUL-2002
06 | OK | OKLAHOMA CITY, CITY OF | 40109C0312G | 02-JUL-2002
06 | OK | OKLAHOMA CITY, CITY OF | 40109C0315G | 02-JUL-2002
06 | OK | OKLAHOMA CITY, CITY OF | 40109C0316G | 02-JUL-2002
06 | OK | OKLAHOMA CITY, CITY OF | 40109C0317G | 02-JUL-2002
06 | OK | OKLAHOMA CITY, CITY OF | 40109C0320G | 02-JUL-2002
06 | OK | OKLAHOMA CITY, CITY OF | 40109C0326G | 02-JUL-2002
06 | OK | OKLAHOMA CITY, CITY OF | 40109C0327G | 02-JUL-2002
06 | OK | OKLAHOMA CITY, CITY OF | 40109C0328G | 02-JUL-2002
06 | OK | OKLAHOMA CITY, CITY OF | 40109C0329G | 02-JUL-2002
06 | OK | OKLAHOMA CITY, CITY OF | 40109C0331G | 02-JUL-2002
06 | OK | OKLAHOMA CITY, CITY OF | 40109C0332G | 02-JUL-2002
06 | OK | OKLAHOMA CITY, CITY OF | 40109C0333G | 02-JUL-2002
06 | OK | OKLAHOMA CITY, CITY OF | 40109C0334G | 02-JUL-2002
06 | OK | OKLAHOMA CITY, CITY OF | 40109C0336G | 02-JUL-2002
06 | OK | OKLAHOMA CITY, CITY OF | 40109C0337G | 02-JUL-2002
06 | OK | OKLAHOMA CITY, CITY OF | 40109C0338G | 02-JUL-2002
06 | OK | OKLAHOMA CITY, CITY OF | 40109C0339G | 02-JUL-2002
06 | OK | OKLAHOMA CITY, CITY OF | 40109C0341G | 02-JUL-2002
06 | OK | OKLAHOMA CITY, CITY OF | 40109C0342G | 02-JUL-2002
06 | OK | OKLAHOMA CITY, CITY OF | 40109C0343G | 02-JUL-2002
06 | OK | OKLAHOMA CITY, CITY OF | 40109C0344G | 02-JUL-2002
06 | OK | OKLAHOMA CITY, CITY OF | 40109C0351G | 02-JUL-2002
06 | OK | OKLAHOMA CITY, CITY OF | 40109C0352G | 02-JUL-2002
06 | OK | OKLAHOMA CITY, CITY OF | 40109C0353G | 02-JUL-2002
06 | OK | OKLAHOMA CITY, CITY OF | 40109C0354G | 02-JUL-2002
06 | OK | OKLAHOMA CITY, CITY OF | 40109C0358G | 02-JUL-2002
06 | OK | OKLAHOMA CITY, CITY OF | 40109C0359G | 02-JUL-2002
06 | OK | OKLAHOMA CITY, CITY OF | 40109C0360G | 02-JUL-2002
06 | OK | OKLAHOMA CITY, CITY OF | 40109C0361G | 02-JUL-2002
06 | OK | OKLAHOMA CITY, CITY OF | 40109C0362G | 02-JUL-2002
06 | OK | OKLAHOMA CITY, CITY OF | 40109C0363G | 02-JUL-2002
06 | OK | OKLAHOMA CITY, CITY OF | 40109C0364G | 02-JUL-2002
06 | OK | OKLAHOMA CITY, CITY OF | 40109C0366G | 02-JUL-2002
06 | OK | OKLAHOMA CITY, CITY OF | 40109C0367G | 02-JUL-2002
06 | OK | OKLAHOMA CITY, CITY OF | 40109C0368G | 02-JUL-2002
06 | OK | OKLAHOMA CITY, CITY OF | 40109C0369G | 02-JUL-2002
06 | OK | OKLAHOMA CITY, CITY OF | 40109C0376G | 02-JUL-2002
06 | OK | OKLAHOMA CITY, CITY OF | 40109C0377G | 02-JUL-2002
06 | OK | OKLAHOMA CITY, CITY OF | 40109C0378G | 02-JUL-2002
06 | OK | OKLAHOMA CITY, CITY OF | 40109C0379G | 02-JUL-2002
06 | OK | OKLAHOMA CITY, CITY OF | 40109C0381G | 02-JUL-2002
06 | OK | OKLAHOMA CITY, CITY OF | 40109C0383G | 02-JUL-2002
06 | OK | OKLAHOMA CITY, CITY OF | 40109C0385G | 02-JUL-2002
06 | OK | OKLAHOMA CITY, CITY OF | 40109C0386G | 02-JUL-2002
06 | OK | OKLAHOMA CITY, CITY OF | 40109C0387G | 02-JUL-2002
06 | OK | OKLAHOMA CITY, CITY OF | 40109C0388G | 02-JUL-2002
06 | OK | OKLAHOMA CITY, CITY OF | 40109C0389G | 02-JUL-2002
06 | OK | OKLAHOMA CITY, CITY OF | 40109C0391G | 02-JUL-2002
06 | OK | OKLAHOMA CITY, CITY OF | 40109C0393G | 02-JUL-2002
06 | OK | OKLAHOMA CITY, CITY OF | 40109C0395G | 02-JUL-2002
06 | OK | OKLAHOMA CITY, CITY OF | 40109C0405G | 02-JUL-2002
06 | OK | OKLAHOMA CITY, CITY OF | 40109C0410G | 02-JUL-2002
06 | OK | OKLAHOMA CITY, CITY OF | 40109C0412G | 02-JUL-2002
06 | OK | OKLAHOMA CITY, CITY OF | 40109C0414G | 02-JUL-2002
06 | OK | OKLAHOMA CITY, CITY OF | 40109C0415G | 02-JUL-2002
06 | OK | OKLAHOMA CITY, CITY OF | 40109C0416G | 02-JUL-2002
06 | OK | OKLAHOMA CITY, CITY OF | 40109C0417G | 02-JUL-2002
06 | OK | OKLAHOMA CITY, CITY OF | 40109C0418G | 02-JUL-2002
06 | OK | OKLAHOMA CITY, CITY OF | 40109C0419G | 02-JUL-2002
06 | OK | OKLAHOMA CITY, CITY OF | 40109C0426G | 02-JUL-2002
06 | OK | OKLAHOMA CITY, CITY OF | 40109C0427G | 02-JUL-2002
06 | OK | OKLAHOMA CITY, CITY OF | 40109C0428G | 02-JUL-2002
06 | OK | OKLAHOMA CITY, CITY OF | 40109C0429G | 02-JUL-2002
06 | OK | OKLAHOMA CITY, CITY OF | 40109C0431G | 02-JUL-2002
06 | OK | OKLAHOMA CITY, CITY OF | 40109C0433G | 02-JUL-2002
06 | OK | OKLAHOMA CITY, CITY OF | 40109C0435G | 02-JUL-2002
06 | OK | OKLAHOMA CITY, CITY OF | 40109C0436G | 02-JUL-2002
06 | OK | OKLAHOMA CITY, CITY OF | 40109C0437G | 02-JUL-2002
06 | OK | OKLAHOMA CITY, CITY OF | 40109C0440G | 02-JUL-2002
06 | OK | OKLAHOMA CITY, CITY OF | 40109C0441G | 02-JUL-2002
06 | OK | OKLAHOMA CITY, CITY OF | 40109C0445G | 02-JUL-2002
06 | OK | OKLAHOMA CITY, CITY OF | 40109C0455G | 02-JUL-2002
06 | OK | OKLAHOMA CITY, CITY OF | 40109C0460G | 02-JUL-2002
06 | OK | OKLAHOMA CITY, CITY OF | 40109C0480G | 02-JUL-2002
06 | OK | OKLAHOMA CITY, CITY OF | 40109C0481G | 02-JUL-2002
06 | OK | OKLAHOMA CITY, CITY OF | 40109C0482G | 02-JUL-2002
06 | OK | OKLAHOMA CITY, CITY OF | 40109C0483G | 02-JUL-2002
06 | OK | OKLAHOMA CITY, CITY OF | 40109C0484G | 02-JUL-2002
06 | OK | OKLAHOMA CITY, CITY OF | 40109C0495G | 02-JUL-2002
06 | OK | OKLAHOMA CITY, CITY OF | 40109C0501G | 02-JUL-2002
06 | OK | OKLAHOMA CITY, CITY OF | 40109C0502G | 02-JUL-2002
06 | OK | OKLAHOMA CITY, CITY OF | 40109C0503G | 02-JUL-2002
06 | OK | OKLAHOMA CITY, CITY OF | 40109C0504G | 02-JUL-2002
06 | OK | OKLAHOMA CITY, CITY OF | 40109C0506G | 02-JUL-2002
06 | OK | OKLAHOMA CITY, CITY OF | 40109C0507G | 02-JUL-2002
06 | OK | OKLAHOMA CITY, CITY OF | 40109C0508G | 02-JUL-2002
06 | OK | OKLAHOMA CITY, CITY OF | 40109C0509G | 02-JUL-2002
06 | OK | OKLAHOMA CITY, CITY OF | 40109C0515G | 02-JUL-2002
06 | OK | OKLAHOMA CITY, CITY OF | 40109C0516G | 02-JUL-2002
06 | OK | OKLAHOMA CITY, CITY OF | 40109C0535G | 02-JUL-2002
06 | OK | OKLAHOMA CITY, CITY OF | 40109C0555G | 02-JUL-2002
06 | OK | OKLAHOMA CITY, CITY OF | 40109C0556G | 02-JUL-2002
06 | OK | OKLAHOMA CITY, CITY OF | 40109C0557G | 02-JUL-2002
06 | OK | OKLAHOMA CITY, CITY OF | 40109C0558G | 02-JUL-2002
06 | OK | OKLAHOMA CITY, CITY OF | 40109C0559G | 02-JUL-2002
06 | OK | OKLAHOMA CITY, CITY OF | 40109C0565G | 02-JUL-2002
06 | OK | OKLAHOMA CITY, CITY OF | 40109C0576G | 02-JUL-2002
06 | OK | OKLAHOMA CITY, CITY OF | 40109C0578G | 02-JUL-2002
06 | OK | OKLAHOMA CITY, CITY OF | 40109C0580G | 02-JUL-2002
06 | OK | OKLAHOMA CITY, CITY OF | 40109C0585G | 02-JUL-2002
06 | OK | OKLAHOMA CITY, CITY OF | 40109C0590G | 02-JUL-2002
06 | OK | OKLAHOMA CITY, CITY OF | 40109C0595G | 02-JUL-2002
06 | OK | OKLAHOMA CITY, CITY OF | 40109CIND0 ** | 02-JUL-2002
06 | OK | OKLAHOMA COUNTY* | 40109C0018G | 02-JUL-2002
06 | OK | OKLAHOMA COUNTY* | 40109C0019G | 02-JUL-2002
06 | OK | OKLAHOMA COUNTY* | 40109C0035G | 02-JUL-2002
06 | OK | OKLAHOMA COUNTY* | 40109C0038G | 02-JUL-2002
06 | OK | OKLAHOMA COUNTY* | 40109C0039G | 02-JUL-2002
06 | OK | OKLAHOMA COUNTY* | 40109C0043G | 02-JUL-2002
06 | OK | OKLAHOMA COUNTY* | 40109C0044G | 02-JUL-2002
06 | OK | OKLAHOMA COUNTY* | 40109C0045G | 02-JUL-2002
06 | OK | OKLAHOMA COUNTY* | 40109C0055G | 02-JUL-2002
06 | OK | OKLAHOMA COUNTY* | 40109C0060G | 02-JUL-2002
06 | OK | OKLAHOMA COUNTY* | 40109C0061G | 02-JUL-2002
06 | OK | OKLAHOMA COUNTY* | 40109C0062G | 02-JUL-2002
06 | OK | OKLAHOMA COUNTY* | 40109C0063G | 02-JUL-2002
06 | OK | OKLAHOMA COUNTY* | 40109C0064G | 02-JUL-2002
06 | OK | OKLAHOMA COUNTY* | 40109C0066G | 02-JUL-2002
06 | OK | OKLAHOMA COUNTY* | 40109C0067G | 02-JUL-2002
06 | OK | OKLAHOMA COUNTY* | 40109C0068G | 02-JUL-2002
06 | OK | OKLAHOMA COUNTY* | 40109C0069G | 02-JUL-2002
06 | OK | OKLAHOMA COUNTY* | 40109C0080G | 02-JUL-2002
06 | OK | OKLAHOMA COUNTY* | 40109C0085G | 02-JUL-2002
06 | OK | OKLAHOMA COUNTY* | 40109C0089G | 02-JUL-2002
06 | OK | OKLAHOMA COUNTY* | 40109C0090G | 02-JUL-2002
06 | OK | OKLAHOMA COUNTY* | 40109C0095G | 02-JUL-2002
06 | OK | OKLAHOMA COUNTY* | 40109C0105G | 02-JUL-2002
06 | OK | OKLAHOMA COUNTY* | 40109C0110G | 02-JUL-2002
06 | OK | OKLAHOMA COUNTY* | 40109C0115G | 02-JUL-2002
06 | OK | OKLAHOMA COUNTY* | 40109C0116G | 02-JUL-2002
06 | OK | OKLAHOMA COUNTY* | 40109C0117G | 02-JUL-2002
06 | OK | OKLAHOMA COUNTY* | 40109C0118G | 02-JUL-2002
06 | OK | OKLAHOMA COUNTY* | 40109C0119G | 02-JUL-2002
06 | OK | OKLAHOMA COUNTY* | 40109C0130G | 02-JUL-2002
06 | OK | OKLAHOMA COUNTY* | 40109C0135G | 02-JUL-2002
06 | OK | OKLAHOMA COUNTY* | 40109C0136G | 02-JUL-2002
06 | OK | OKLAHOMA COUNTY* | 40109C0137G | 02-JUL-2002
06 | OK | OKLAHOMA COUNTY* | 40109C0138G | 02-JUL-2002
06 | OK | OKLAHOMA COUNTY* | 40109C0139G | 02-JUL-2002
06 | OK | OKLAHOMA COUNTY* | 40109C0145G | 02-JUL-2002
06 | OK | OKLAHOMA COUNTY* | 40109C0156G | 02-JUL-2002
06 | OK | OKLAHOMA COUNTY* | 40109C0157G | 02-JUL-2002
06 | OK | OKLAHOMA COUNTY* | 40109C0170G | 02-JUL-2002
06 | OK | OKLAHOMA COUNTY* | 40109C0176G | 02-JUL-2002
06 | OK | OKLAHOMA COUNTY* | 40109C0177G | 02-JUL-2002
06 | OK | OKLAHOMA COUNTY* | 40109C0178G | 02-JUL-2002
06 | OK | OKLAHOMA COUNTY* | 40109C0179G | 02-JUL-2002
06 | OK | OKLAHOMA COUNTY* | 40109C0181G | 02-JUL-2002
06 | OK | OKLAHOMA COUNTY* | 40109C0182G | 02-JUL-2002
06 | OK | OKLAHOMA COUNTY* | 40109C0183G | 02-JUL-2002
06 | OK | OKLAHOMA COUNTY* | 40109C0184G | 02-JUL-2002
06 | OK | OKLAHOMA COUNTY* | 40109C0190G | 02-JUL-2002
06 | OK | OKLAHOMA COUNTY* | 40109C0192G | 02-JUL-2002
06 | OK | OKLAHOMA COUNTY* | 40109C0194G | 02-JUL-2002
06 | OK | OKLAHOMA COUNTY* | 40109C0195G | 02-JUL-2002
06 | OK | OKLAHOMA COUNTY* | 40109C0201G | 02-JUL-2002
06 | OK | OKLAHOMA COUNTY* | 40109C0202G | 02-JUL-2002
06 | OK | OKLAHOMA COUNTY* | 40109C0203G | 02-JUL-2002
06 | OK | OKLAHOMA COUNTY* | 40109C0204G | 02-JUL-2002
06 | OK | OKLAHOMA COUNTY* | 40109C0206G | 02-JUL-2002
06 | OK | OKLAHOMA COUNTY* | 40109C0207G | 02-JUL-2002
06 | OK | OKLAHOMA COUNTY* | 40109C0208G | 02-JUL-2002
06 | OK | OKLAHOMA COUNTY* | 40109C0209G | 02-JUL-2002
06 | OK | OKLAHOMA COUNTY* | 40109C0211G | 02-JUL-2002
06 | OK | OKLAHOMA COUNTY* | 40109C0212G | 02-JUL-2002
06 | OK | OKLAHOMA COUNTY* | 40109C0213G | 02-JUL-2002
06 | OK | OKLAHOMA COUNTY* | 40109C0214G | 02-JUL-2002
06 | OK | OKLAHOMA COUNTY* | 40109C0216G | 02-JUL-2002
06 | OK | OKLAHOMA COUNTY* | 40109C0217G | 02-JUL-2002
06 | OK | OKLAHOMA COUNTY* | 40109C0218G | 02-JUL-2002
06 | OK | OKLAHOMA COUNTY* | 40109C0219G | 02-JUL-2002
06 | OK | OKLAHOMA COUNTY* | 40109C0226G | 02-JUL-2002
06 | OK | OKLAHOMA COUNTY* | 40109C0227G | 02-JUL-2002
06 | OK | OKLAHOMA COUNTY* | 40109C0228G | 02-JUL-2002
06 | OK | OKLAHOMA COUNTY* | 40109C0229G | 02-JUL-2002
06 | OK | OKLAHOMA COUNTY* | 40109C0231G | 02-JUL-2002
06 | OK | OKLAHOMA COUNTY* | 40109C0232G | 02-JUL-2002
06 | OK | OKLAHOMA COUNTY* | 40109C0233G | 02-JUL-2002
06 | OK | OKLAHOMA COUNTY* | 40109C0234G | 02-JUL-2002
06 | OK | OKLAHOMA COUNTY* | 40109C0236G | 02-JUL-2002
06 | OK | OKLAHOMA COUNTY* | 40109C0237G | 02-JUL-2002
06 | OK | OKLAHOMA COUNTY* | 40109C0238G | 02-JUL-2002
06 | OK | OKLAHOMA COUNTY* | 40109C0239G | 02-JUL-2002
06 | OK | OKLAHOMA COUNTY* | 40109C0245G | 02-JUL-2002
06 | OK | OKLAHOMA COUNTY* | 40109C0255G | 02-JUL-2002
06 | OK | OKLAHOMA COUNTY* | 40109C0260G | 02-JUL-2002
06 | OK | OKLAHOMA COUNTY* | 40109C0265G | 02-JUL-2002
06 | OK | OKLAHOMA COUNTY* | 40109C0270G | 02-JUL-2002
06 | OK | OKLAHOMA COUNTY* | 40109C0276G | 02-JUL-2002
06 | OK | OKLAHOMA COUNTY* | 40109C0280G | 02-JUL-2002
06 | OK | OKLAHOMA COUNTY* | 40109C0285G | 02-JUL-2002
06 | OK | OKLAHOMA COUNTY* | 40109C0290G | 02-JUL-2002
06 | OK | OKLAHOMA COUNTY* | 40109C0295G | 02-JUL-2002
06 | OK | OKLAHOMA COUNTY* | 40109C0302G | 02-JUL-2002
06 | OK | OKLAHOMA COUNTY* | 40109C0304G | 02-JUL-2002
06 | OK | OKLAHOMA COUNTY* | 40109C0306G | 02-JUL-2002
06 | OK | OKLAHOMA COUNTY* | 40109C0307G | 02-JUL-2002
06 | OK | OKLAHOMA COUNTY* | 40109C0308G | 02-JUL-2002
06 | OK | OKLAHOMA COUNTY* | 40109C0309G | 02-JUL-2002
06 | OK | OKLAHOMA COUNTY* | 40109C0312G | 02-JUL-2002
06 | OK | OKLAHOMA COUNTY* | 40109C0315G | 02-JUL-2002
06 | OK | OKLAHOMA COUNTY* | 40109C0316G | 02-JUL-2002
06 | OK | OKLAHOMA COUNTY* | 40109C0317G | 02-JUL-2002
06 | OK | OKLAHOMA COUNTY* | 40109C0320G | 02-JUL-2002
06 | OK | OKLAHOMA COUNTY* | 40109C0326G | 02-JUL-2002
06 | OK | OKLAHOMA COUNTY* | 40109C0327G | 02-JUL-2002
06 | OK | OKLAHOMA COUNTY* | 40109C0328G | 02-JUL-2002
06 | OK | OKLAHOMA COUNTY* | 40109C0329G | 02-JUL-2002
06 | OK | OKLAHOMA COUNTY* | 40109C0331G | 02-JUL-2002
06 | OK | OKLAHOMA COUNTY* | 40109C0332G | 02-JUL-2002
06 | OK | OKLAHOMA COUNTY* | 40109C0333G | 02-JUL-2002
06 | OK | OKLAHOMA COUNTY* | 40109C0334G | 02-JUL-2002
06 | OK | OKLAHOMA COUNTY* | 40109C0336G | 02-JUL-2002
06 | OK | OKLAHOMA COUNTY* | 40109C0337G | 02-JUL-2002
06 | OK | OKLAHOMA COUNTY* | 40109C0338G | 02-JUL-2002
06 | OK | OKLAHOMA COUNTY* | 40109C0339G | 02-JUL-2002
06 | OK | OKLAHOMA COUNTY* | 40109C0341G | 02-JUL-2002
06 | OK | OKLAHOMA COUNTY* | 40109C0342G | 02-JUL-2002
06 | OK | OKLAHOMA COUNTY* | 40109C0343G | 02-JUL-2002
06 | OK | OKLAHOMA COUNTY* | 40109C0344G | 02-JUL-2002
06 | OK | OKLAHOMA COUNTY* | 40109C0351G | 02-JUL-2002
06 | OK | OKLAHOMA COUNTY* | 40109C0352G | 02-JUL-2002
06 | OK | OKLAHOMA COUNTY* | 40109C0353G | 02-JUL-2002
06 | OK | OKLAHOMA COUNTY* | 40109C0354G | 02-JUL-2002
06 | OK | OKLAHOMA COUNTY* | 40109C0358G | 02-JUL-2002
06 | OK | OKLAHOMA COUNTY* | 40109C0359G | 02-JUL-2002
06 | OK | OKLAHOMA COUNTY* | 40109C0360G | 02-JUL-2002
06 | OK | OKLAHOMA COUNTY* | 40109C0361G | 02-JUL-2002
06 | OK | OKLAHOMA COUNTY* | 40109C0362G | 02-JUL-2002
06 | OK | OKLAHOMA COUNTY* | 40109C0363G | 02-JUL-2002
06 | OK | OKLAHOMA COUNTY* | 40109C0364G | 02-JUL-2002
06 | OK | OKLAHOMA COUNTY* | 40109C0366G | 02-JUL-2002
06 | OK | OKLAHOMA COUNTY* | 40109C0367G | 02-JUL-2002
06 | OK | OKLAHOMA COUNTY* | 40109C0368G | 02-JUL-2002
06 | OK | OKLAHOMA COUNTY* | 40109C0369G | 02-JUL-2002
06 | OK | OKLAHOMA COUNTY* | 40109C0376G | 02-JUL-2002
06 | OK | OKLAHOMA COUNTY* | 40109C0377G | 02-JUL-2002
06 | OK | OKLAHOMA COUNTY* | 40109C0378G | 02-JUL-2002
06 | OK | OKLAHOMA COUNTY* | 40109C0379G | 02-JUL-2002
06 | OK | OKLAHOMA COUNTY* | 40109C0381G | 02-JUL-2002
06 | OK | OKLAHOMA COUNTY* | 40109C0383G | 02-JUL-2002
06 | OK | OKLAHOMA COUNTY* | 40109C0385G | 02-JUL-2002
06 | OK | OKLAHOMA COUNTY* | 40109C0386G | 02-JUL-2002
06 | OK | OKLAHOMA COUNTY* | 40109C0387G | 02-JUL-2002
06 | OK | OKLAHOMA COUNTY* | 40109C0388G | 02-JUL-2002
06 | OK | OKLAHOMA COUNTY* | 40109C0389G | 02-JUL-2002
06 | OK | OKLAHOMA COUNTY* | 40109C0391G | 02-JUL-2002
06 | OK | OKLAHOMA COUNTY* | 40109C0393G | 02-JUL-2002
06 | OK | OKLAHOMA COUNTY* | 40109C0395G | 02-JUL-2002
06 | OK | OKLAHOMA COUNTY* | 40109C0405G | 02-JUL-2002
06 | OK | OKLAHOMA COUNTY* | 40109C0410G | 02-JUL-2002
06 | OK | OKLAHOMA COUNTY* | 40109C0412G | 02-JUL-2002
06 | OK | OKLAHOMA COUNTY* | 40109C0414G | 02-JUL-2002
06 | OK | OKLAHOMA COUNTY* | 40109C0415G | 02-JUL-2002
06 | OK | OKLAHOMA COUNTY* | 40109C0416G | 02-JUL-2002
06 | OK | OKLAHOMA COUNTY* | 40109C0417G | 02-JUL-2002
06 | OK | OKLAHOMA COUNTY* | 40109C0418G | 02-JUL-2002
06 | OK | OKLAHOMA COUNTY* | 40109C0419G | 02-JUL-2002
06 | OK | OKLAHOMA COUNTY* | 40109C0426G | 02-JUL-2002
06 | OK | OKLAHOMA COUNTY* | 40109C0427G | 02-JUL-2002
06 | OK | OKLAHOMA COUNTY* | 40109C0428G | 02-JUL-2002
06 | OK | OKLAHOMA COUNTY* | 40109C0429G | 02-JUL-2002
06 | OK | OKLAHOMA COUNTY* | 40109C0431G | 02-JUL-2002
06 | OK | OKLAHOMA COUNTY* | 40109C0433G | 02-JUL-2002
06 | OK | OKLAHOMA COUNTY* | 40109C0435G | 02-JUL-2002
06 | OK | OKLAHOMA COUNTY* | 40109C0436G | 02-JUL-2002
06 | OK | OKLAHOMA COUNTY* | 40109C0437G | 02-JUL-2002
06 | OK | OKLAHOMA COUNTY* | 40109C0440G | 02-JUL-2002
06 | OK | OKLAHOMA COUNTY* | 40109C0441G | 02-JUL-2002
06 | OK | OKLAHOMA COUNTY* | 40109C0445G | 02-JUL-2002
06 | OK | OKLAHOMA COUNTY* | 40109C0455G | 02-JUL-2002
06 | OK | OKLAHOMA COUNTY* | 40109C0460G | 02-JUL-2002
06 | OK | OKLAHOMA COUNTY* | 40109C0480G | 02-JUL-2002
06 | OK | OKLAHOMA COUNTY* | 40109C0481G | 02-JUL-2002
06 | OK | OKLAHOMA COUNTY* | 40109C0482G | 02-JUL-2002
06 | OK | OKLAHOMA COUNTY* | 40109C0483G | 02-JUL-2002
06 | OK | OKLAHOMA COUNTY* | 40109C0484G | 02-JUL-2002
06 | OK | OKLAHOMA COUNTY* | 40109C0495G | 02-JUL-2002
06 | OK | OKLAHOMA COUNTY* | 40109C0501G | 02-JUL-2002
06 | OK | OKLAHOMA COUNTY* | 40109C0502G | 02-JUL-2002
06 | OK | OKLAHOMA COUNTY* | 40109C0503G | 02-JUL-2002
06 | OK | OKLAHOMA COUNTY* | 40109C0504G | 02-JUL-2002
06 | OK | OKLAHOMA COUNTY* | 40109C0506G | 02-JUL-2002
06 | OK | OKLAHOMA COUNTY* | 40109C0507G | 02-JUL-2002
06 | OK | OKLAHOMA COUNTY* | 40109C0508G | 02-JUL-2002
06 | OK | OKLAHOMA COUNTY* | 40109C0509G | 02-JUL-2002
06 | OK | OKLAHOMA COUNTY* | 40109C0515G | 02-JUL-2002
06 | OK | OKLAHOMA COUNTY* | 40109C0516G | 02-JUL-2002
06 | OK | OKLAHOMA COUNTY* | 40109C0535G | 02-JUL-2002
06 | OK | OKLAHOMA COUNTY* | 40109C0555G | 02-JUL-2002
06 | OK | OKLAHOMA COUNTY* | 40109C0556G | 02-JUL-2002
06 | OK | OKLAHOMA COUNTY* | 40109C0557G | 02-JUL-2002
06 | OK | OKLAHOMA COUNTY* | 40109C0558G | 02-JUL-2002
06 | OK | OKLAHOMA COUNTY* | 40109C0559G | 02-JUL-2002
06 | OK | OKLAHOMA COUNTY* | 40109C0565G | 02-JUL-2002
06 | OK | OKLAHOMA COUNTY* | 40109C0576G | 02-JUL-2002
06 | OK | OKLAHOMA COUNTY* | 40109C0578G | 02-JUL-2002
06 | OK | OKLAHOMA COUNTY* | 40109C0580G | 02-JUL-2002
06 | OK | OKLAHOMA COUNTY* | 40109C0585G | 02-JUL-2002
06 | OK | OKLAHOMA COUNTY* | 40109C0590G | 02-JUL-2002
06 | OK | OKLAHOMA COUNTY* | 40109C0595G | 02-JUL-2002
06 | OK | OKLAHOMA COUNTY* | 40109CIND0 ** | 02-JUL-2002
06 | OK | PIEDMONT, CITY OF | 40017CIND0A** | 02-JUL-2002
06 | OK | SMITH VILLAGE, TOWN OF | 40109C0379G | 02-JUL-2002
06 | OK | SMITH VILLAGE, TOWN OF | 40109CIND0 ** | 02-JUL-2002
06 | OK | SPENCER, CITY OF | 40109C0245G | 02-JUL-2002
06 | OK | SPENCER, CITY OF | 40109C0265G | 02-JUL-2002
06 | OK | SPENCER, CITY OF | 40109C0385G | 02-JUL-2002
06 | OK | SPENCER, CITY OF | 40109C0405G | 02-JUL-2002
06 | OK | SPENCER, CITY OF | 40109CIND0 ** | 02-JUL-2002
06 | OK | THE VILLAGE, CITY OF | 40109C0204G | 02-JUL-2002
06 | OK | THE VILLAGE, CITY OF | 40109C0208G | 02-JUL-2002
06 | OK | THE VILLAGE, CITY OF | 40109C0212G | 02-JUL-2002
06 | OK | THE VILLAGE, CITY OF | 40109C0216G | 02-JUL-2002
06 | OK | THE VILLAGE, CITY OF | 40109CIND0 ** | 02-JUL-2002
06 | OK | UNION CITY, TOWN OF | 40017CIND0A** | 02-JUL-2002
06 | OK | VALLEY BROOK, TOWN OF | 40109C0388G | 02-JUL-2002
06 | OK | VALLEY BROOK, TOWN OF | 40109CIND0 ** | 02-JUL-2002
06 | OK | WARR ACRES, CITY OF | 40109C0192G | 02-JUL-2002
06 | OK | WARR ACRES, CITY OF | 40109C0194G | 02-JUL-2002
06 | OK | WARR ACRES, CITY OF | 40109C0211G | 02-JUL-2002
06 | OK | WARR ACRES, CITY OF | 40109C0213G | 02-JUL-2002
06 | OK | WARR ACRES, CITY OF | 40109CIND0 ** | 02-JUL-2002
06 | OK | WOODLAWN PARK, TOWN OF | 40109C0194G | 02-JUL-2002
06 | OK | WOODLAWN PARK, TOWN OF | 40109CIND0 ** | 02-JUL-2002
06 | OK | YUKON, CITY OF | 40017C0319E | 02-JUL-2002
06 | OK | YUKON, CITY OF | 40017C0320E | 02-JUL-2002
06 | OK | YUKON, CITY OF | 40017C0338E | 02-JUL-2002
06 | OK | YUKON, CITY OF | 40017C0339E | 02-JUL-2002
06 | OK | YUKON, CITY OF | 40017C0340E | 02-JUL-2002
06 | OK | YUKON, CITY OF | 40017C0457E | 02-JUL-2002
06 | OK | YUKON, CITY OF | 40017C0476E | 02-JUL-2002
06 | OK | YUKON, CITY OF | 40017CIND0A** | 02-JUL-2002
06 | TX | ABERNATHY, CITY OF | 48303C0075D | 18-SEP-2002
06 | TX | ABERNATHY, CITY OF | 48303CIND0 ** | 18-SEP-2002
06 | TX | ARGYLE, CITY OF | 48121CIND0A** | 06-DEC-2002
06 | TX | AUBREY, CITY OF | 48121CIND0A** | 06-DEC-2002
06 | TX | BARTONVILLE, TOWN OF | 48121CIND0A** | 06-DEC-2002
06 | TX | BAYOU VISTA, VILLAGE OF | 485470IND0A** | 06-DEC-2002
06 | TX | BEAUMONT, CITY OF | 4854570005D | 06-AUG-2002
06 | TX | BEAUMONT, CITY OF | 4854570010D | 06-AUG-2002
06 | TX | BEAUMONT, CITY OF | 4854570015C | 06-AUG-2002
06 | TX | BEAUMONT, CITY OF | 4854570020C | 06-AUG-2002
06 | TX | BEAUMONT, CITY OF | 4854570025D | 06-AUG-2002
06 | TX | BEAUMONT, CITY OF | 4854570030C | 06-AUG-2002
06 | TX | BEAUMONT, CITY OF | 4854570035C | 06-AUG-2002
06 | TX | BEAUMONT, CITY OF | 4854570040D | 06-AUG-2002
06 | TX | BEAUMONT, CITY OF | 4854570045C | 06-AUG-2002
06 | TX | BEAUMONT, CITY OF | 4854570050D | 06-AUG-2002
06 | TX | BEAUMONT, CITY OF | 4854570055D | 06-AUG-2002
06 | TX | BEAUMONT, CITY OF | 4854570060C | 06-AUG-2002
06 | TX | BEAUMONT, CITY OF | 4854570065D | 06-AUG-2002
06 | TX | BEAUMONT, CITY OF | 485457IND0A** | 06-AUG-2002
06 | TX | BUFFALO SPRINGS, VILLAGE OF | 48303C0336D | 18-SEP-2002
06 | TX | BUFFALO SPRINGS, VILLAGE OF | 48303C0337D | 18-SEP-2002
06 | TX | BUFFALO SPRINGS, VILLAGE OF | 48303C0338D | 18-SEP-2002
06 | TX | BUFFALO SPRINGS, VILLAGE OF | 48303C0339D | 18-SEP-2002
06 | TX | BUFFALO SPRINGS, VILLAGE OF | 48303C0341D | 18-SEP-2002
06 | TX | BUFFALO SPRINGS, VILLAGE OF | 48303CIND0 ** | 18-SEP-2002
06 | TX | COPPER CANYON, TOWN OF | 48121CIND0A** | 06-DEC-2002
06 | TX | CORINTH, TOWN OF | 48121C0393F | 06-DEC-2002
06 | TX | CORINTH, TOWN OF | 48121CIND0A** | 06-DEC-2002
06 | TX | CROSS ROADS, TOWN OF | 48121CIND0A** | 06-DEC-2002
06 | TX | CRYSTAL BEACH, TOWN OF | 485470IND0A** | 06-DEC-2002
06 | TX | DENTON COUNTY* | 48121C0393F | 06-DEC-2002
06 | TX | DENTON COUNTY* | 48121C0394F | 06-DEC-2002
06 | TX | DENTON COUNTY* | 48121CIND0A** | 06-DEC-2002
06 | TX | DENTON, CITY OF | 48121CIND0A** | 06-DEC-2002
06 | TX | DOUBLE OAK, TOWN OF | 48121CIND0A** | 06-DEC-2002
06 | TX | FLOWER MOUND, TOWN OF | 48121CIND0A** | 06-DEC-2002
06 | TX | GALVESTON COUNTY* | 4854700272D | 06-DEC-2002
06 | TX | GALVESTON COUNTY* | 4854700274E | 06-DEC-2002
06 | TX | GALVESTON COUNTY* | 4854700278D | 06-DEC-2002
06 | TX | GALVESTON COUNTY* | 485470IND0A** | 06-DEC-2002
06 | TX | GALVESTON, CITY OF | 4854690002E | 06-DEC-2002
06 | TX | GALVESTON, CITY OF | 4854690004E | 06-DEC-2002
06 | TX | GALVESTON, CITY OF | 4854690006E | 06-DEC-2002
06 | TX | GALVESTON, CITY OF | 4854690008E | 06-DEC-2002
06 | TX | GALVESTON, CITY OF | 4854690009F | 06-DEC-2002
06 | TX | GALVESTON, CITY OF | 4854690013E | 06-DEC-2002
06 | TX | GALVESTON, CITY OF | 4854690017E | 06-DEC-2002
06 | TX | GALVESTON, CITY OF | 4854690018E | 06-DEC-2002
06 | TX | GALVESTON, CITY OF | 4854690019E | 06-DEC-2002
06 | TX | GALVESTON, CITY OF | 4854690021E | 06-DEC-2002
06 | TX | GALVESTON, CITY OF | 4854690022E | 06-DEC-2002
06 | TX | GALVESTON, CITY OF | 4854690023E | 06-DEC-2002
06 | TX | GALVESTON, CITY OF | 4854690024E | 06-DEC-2002
06 | TX | GALVESTON, CITY OF | 4854690026E | 06-DEC-2002
06 | TX | GALVESTON, CITY OF | 4854690027E | 06-DEC-2002
06 | TX | GALVESTON, CITY OF | 4854690028E | 06-DEC-2002
06 | TX | GALVESTON, CITY OF | 4854690039F | 06-DEC-2002
06 | TX | GALVESTON, CITY OF | 4854690041F | 06-DEC-2002
06 | TX | GALVESTON, CITY OF | 4854690042E | 06-DEC-2002
06 | TX | GALVESTON, CITY OF | 4854690043F | 06-DEC-2002
06 | TX | GALVESTON, CITY OF | 4854690044E | 06-DEC-2002
06 | TX | GALVESTON, CITY OF | 4854690046E | 06-DEC-2002
06 | TX | GALVESTON, CITY OF | 4854690047E | 06-DEC-2002
06 | TX | GALVESTON, CITY OF | 4854690064E | 06-DEC-2002
06 | TX | GALVESTON, CITY OF | 4854690066E | 06-DEC-2002
06 | TX | GALVESTON, CITY OF | 4854690067E | 06-DEC-2002
06 | TX | GALVESTON, CITY OF | 4854690068E | 06-DEC-2002
06 | TX | GALVESTON, CITY OF | 4854690069E | 06-DEC-2002
06 | TX | GALVESTON, CITY OF | 4854690071F | 06-DEC-2002
06 | TX | GALVESTON, CITY OF | 4854690072F | 06-DEC-2002
06 | TX | GALVESTON, CITY OF | 4854690081E | 06-DEC-2002
06 | TX | GALVESTON, CITY OF | 4854690082E | 06-DEC-2002
06 | TX | GALVESTON, CITY OF | 4854690083E | 06-DEC-2002
06 | TX | GALVESTON, CITY OF | 485469IND0A** | 06-DEC-2002
06 | TX | HACKBERRY, TOWN OF | 48121CIND0A** | 06-DEC-2002
06 | TX | HEBRON, TOWN OF | 48121CIND0A** | 06-DEC-2002
06 | TX | HICKORY CREEK, TOWN OF | 48121C0393F | 06-DEC-2002
06 | TX | HICKORY CREEK, TOWN OF | 48121CIND0A** | 06-DEC-2002
06 | TX | HIGHLAND VILLAGE, VILLAGE OF | 48121CIND0A** | 06-DEC-2002
06 | TX | IDALOU, TOWN OF | 48303C0215D | 18-SEP-2002
06 | TX | IDALOU, TOWN OF | 48303C0220D | 18-SEP-2002
06 | TX | IDALOU, TOWN OF | 48303CIND0 ** | 18-SEP-2002
06 | TX | JAMAICA BEACH, VILLAGE OF | 4812710001D | 06-DEC-2002
06 | TX | JAMAICA BEACH, VILLAGE OF | 4812710002D | 06-DEC-2002
06 | TX | JAMAICA BEACH, VILLAGE OF | 481271IND0A** | 06-DEC-2002
06 | TX | JEFFERSON COUNTY * | 4803850020C | 06-AUG-2002
06 | TX | JEFFERSON COUNTY * | 4803850040D | 06-AUG-2002
06 | TX | JEFFERSON COUNTY * | 4803850110C | 06-AUG-2002
06 | TX | JEFFERSON COUNTY * | 4803850120C | 06-AUG-2002
06 | TX | JEFFERSON COUNTY * | 4803850125C | 06-AUG-2002
06 | TX | JEFFERSON COUNTY * | 4803850140D | 06-AUG-2002
06 | TX | JEFFERSON COUNTY * | 4803850145D | 06-AUG-2002
06 | TX | JEFFERSON COUNTY * | 4803850235C | 06-AUG-2002
06 | TX | JEFFERSON COUNTY * | 4803850240C | 06-AUG-2002
06 | TX | JEFFERSON COUNTY * | 4803850245C | 06-AUG-2002
06 | TX | JEFFERSON COUNTY * | 4803850250C | 06-AUG-2002
06 | TX | JEFFERSON COUNTY * | 4803850255C | 06-AUG-2002
06 | TX | JEFFERSON COUNTY * | 4803850260D | 06-AUG-2002
06 | TX | JEFFERSON COUNTY * | 4803850265C | 06-AUG-2002
06 | TX | JEFFERSON COUNTY * | 4803850270C | 06-AUG-2002
06 | TX | JEFFERSON COUNTY * | 4803850355C | 06-AUG-2002
06 | TX | JEFFERSON COUNTY * | 4803850360C | 06-AUG-2002
06 | TX | JEFFERSON COUNTY * | 4803850380C | 06-AUG-2002
06 | TX | JEFFERSON COUNTY * | 4803850385C | 06-AUG-2002
06 | TX | JEFFERSON COUNTY * | 480385IND0A** | 06-AUG-2002
06 | TX | JUSTIN, CITY OF | 48121CIND0A** | 06-DEC-2002
06 | TX | KRUGERVILLE, CITY OF | 48121CIND0A** | 06-DEC-2002
06 | TX | KRUM, CITY OF | 48121CIND0A** | 06-DEC-2002
06 | TX | LAKE DALLAS, CITY OF | 48121C0393F | 06-DEC-2002
06 | TX | LAKE DALLAS, CITY OF | 48121C0394F | 06-DEC-2002
06 | TX | LAKE DALLAS, CITY OF | 48121CIND0A** | 06-DEC-2002
06 | TX | LAKEWOOD, VILLAGE OF | 48121CIND0A** | 06-DEC-2002
06 | TX | LEONA, TOWN OF | 4809070011B | 20-DEC-2002
06 | TX | LEONA, TOWN OF | 4809070012B | 20-DEC-2002
06 | TX | LEONA, TOWN OF | 4809070013B | 20-DEC-2002
06 | TX | LEONA, TOWN OF | 4809070014B | 20-DEC-2002
06 | TX | LEONA, TOWN OF | 480907IND0A** | 20-DEC-2002
06 | TX | LEWISVILLE, CITY OF | 48121CIND0A** | 06-DEC-2002
06 | TX | LINCOLN PARK, TOWN OF | 48121CIND0A** | 06-DEC-2002
06 | TX | LITTLE ELM, TOWN OF | 48121CIND0A** | 06-DEC-2002
06 | TX | LUBBOCK COUNTY* | 48303C0025D | 18-SEP-2002
06 | TX | LUBBOCK COUNTY* | 48303C0050D | 18-SEP-2002
06 | TX | LUBBOCK COUNTY* | 48303C0075D | 18-SEP-2002
06 | TX | LUBBOCK COUNTY* | 48303C0100D | 18-SEP-2002
06 | TX | LUBBOCK COUNTY* | 48303C0125D | 18-SEP-2002
06 | TX | LUBBOCK COUNTY* | 48303C0150D | 18-SEP-2002
06 | TX | LUBBOCK COUNTY* | 48303C0170D | 18-SEP-2002
06 | TX | LUBBOCK COUNTY* | 48303C0175D | 18-SEP-2002
06 | TX | LUBBOCK COUNTY* | 48303C0180D | 18-SEP-2002
06 | TX | LUBBOCK COUNTY* | 48303C0185D | 18-SEP-2002
06 | TX | LUBBOCK COUNTY* | 48303C0190D | 18-SEP-2002
06 | TX | LUBBOCK COUNTY* | 48303C0195D | 18-SEP-2002
06 | TX | LUBBOCK COUNTY* | 48303C0215D | 18-SEP-2002
06 | TX | LUBBOCK COUNTY* | 48303C0220D | 18-SEP-2002
06 | TX | LUBBOCK COUNTY* | 48303C0225D | 18-SEP-2002
06 | TX | LUBBOCK COUNTY* | 48303C0250D | 18-SEP-2002
06 | TX | LUBBOCK COUNTY* | 48303C0275D | 18-SEP-2002
06 | TX | LUBBOCK COUNTY* | 48303C0280D | 18-SEP-2002
06 | TX | LUBBOCK COUNTY* | 48303C0285D | 18-SEP-2002
06 | TX | LUBBOCK COUNTY* | 48303C0290D | 18-SEP-2002
06 | TX | LUBBOCK COUNTY* | 48303C0295D | 18-SEP-2002
06 | TX | LUBBOCK COUNTY* | 48303C0305D | 18-SEP-2002
06 | TX | LUBBOCK COUNTY* | 48303C0310D | 18-SEP-2002
06 | TX | LUBBOCK COUNTY* | 48303C0315D | 18-SEP-2002
06 | TX | LUBBOCK COUNTY* | 48303C0320D | 18-SEP-2002
06 | TX | LUBBOCK COUNTY* | 48303C0336D | 18-SEP-2002
06 | TX | LUBBOCK COUNTY* | 48303C0337D | 18-SEP-2002
06 | TX | LUBBOCK COUNTY* | 48303C0338D | 18-SEP-2002
06 | TX | LUBBOCK COUNTY* | 48303C0339D | 18-SEP-2002
06 | TX | LUBBOCK COUNTY* | 48303C0341D | 18-SEP-2002
06 | TX | LUBBOCK COUNTY* | 48303C0343D | 18-SEP-2002
06 | TX | LUBBOCK COUNTY* | 48303C0345D | 18-SEP-2002
06 | TX | LUBBOCK COUNTY* | 48303C0350D | 18-SEP-2002
06 | TX | LUBBOCK COUNTY* | 48303C0375D | 18-SEP-2002
06 | TX | LUBBOCK COUNTY* | 48303C0400D | 18-SEP-2002
06 | TX | LUBBOCK COUNTY* | 48303C0405D | 18-SEP-2002
06 | TX | LUBBOCK COUNTY* | 48303C0410D | 18-SEP-2002
06 | TX | LUBBOCK COUNTY* | 48303C0425D | 18-SEP-2002
06 | TX | LUBBOCK COUNTY* | 48303C0430D | 18-SEP-2002
06 | TX | LUBBOCK COUNTY* | 48303C0450D | 18-SEP-2002
06 | TX | LUBBOCK COUNTY* | 48303C0460D | 18-SEP-2002
06 | TX | LUBBOCK COUNTY* | 48303C0470D | 18-SEP-2002
06 | TX | LUBBOCK COUNTY* | 48303C0475D | 18-SEP-2002
06 | TX | LUBBOCK COUNTY* | 48303C0480D | 18-SEP-2002
06 | TX | LUBBOCK COUNTY* | 48303C0490D | 18-SEP-2002
06 | TX | LUBBOCK COUNTY* | 48303C0500D | 18-SEP-2002
06 | TX | LUBBOCK COUNTY* | 48303CIND0 ** | 18-SEP-2002
06 | TX | LUBBOCK, CITY OF | 48303C0170D | 18-SEP-2002
06 | TX | LUBBOCK, CITY OF | 48303C0180D | 18-SEP-2002
06 | TX | LUBBOCK, CITY OF | 48303C0190D | 18-SEP-2002
06 | TX | LUBBOCK, CITY OF | 48303C0195D | 18-SEP-2002
06 | TX | LUBBOCK, CITY OF | 48303C0275D | 18-SEP-2002
06 | TX | LUBBOCK, CITY OF | 48303C0280D | 18-SEP-2002
06 | TX | LUBBOCK, CITY OF | 48303C0285D | 18-SEP-2002
06 | TX | LUBBOCK, CITY OF | 48303C0290D | 18-SEP-2002
06 | TX | LUBBOCK, CITY OF | 48303C0295D | 18-SEP-2002
06 | TX | LUBBOCK, CITY OF | 48303C0305D | 18-SEP-2002
06 | TX | LUBBOCK, CITY OF | 48303C0310D | 18-SEP-2002
06 | TX | LUBBOCK, CITY OF | 48303C0315D | 18-SEP-2002
06 | TX | LUBBOCK, CITY OF | 48303C0320D | 18-SEP-2002
06 | TX | LUBBOCK, CITY OF | 48303C0350D | 18-SEP-2002
06 | TX | LUBBOCK, CITY OF | 48303C0405D | 18-SEP-2002
06 | TX | LUBBOCK, CITY OF | 48303C0410D | 18-SEP-2002
06 | TX | LUBBOCK, CITY OF | 48303C0430D | 18-SEP-2002
06 | TX | LUBBOCK, CITY OF | 48303CIND0 ** | 18-SEP-2002
06 | TX | MARSHALL CREEK, TOWN OF | 48121CIND0A** | 06-DEC-2002
06 | TX | NEW DEAL, CITY OF | 48303C0075D | 18-SEP-2002
06 | TX | NEW DEAL, CITY OF | 48303C0180D | 18-SEP-2002
06 | TX | NEW DEAL, CITY OF | 48303CIND0 ** | 18-SEP-2002
06 | TX | NORTHLAKE, TOWN OF | 48121CIND0A** | 06-DEC-2002
06 | TX | OAK POINT, CITY OF | 48121CIND0A** | 06-DEC-2002
06 | TX | PILOT POINT, TOWN OF | 48121CIND0A** | 06-DEC-2002
06 | TX | PONDER, CITY OF | 48121CIND0A** | 06-DEC-2002
06 | TX | RANSOM CANYON, CITY OF | 48303C0337D | 18-SEP-2002
06 | TX | RANSOM CANYON, CITY OF | 48303C0339D | 18-SEP-2002
06 | TX | RANSOM CANYON, CITY OF | 48303C0341D | 18-SEP-2002
06 | TX | RANSOM CANYON, CITY OF | 48303C0343D | 18-SEP-2002
06 | TX | RANSOM CANYON, CITY OF | 48303CIND0 ** | 18-SEP-2002
06 | TX | ROANOKE, CITY OF | 48121CIND0A** | 06-DEC-2002
06 | TX | SANGER, CITY OF | 48121CIND0A** | 06-DEC-2002
06 | TX | SHADY SHORES, CITY OF | 48121C0393F | 06-DEC-2002
06 | TX | SHADY SHORES, CITY OF | 48121C0394F | 06-DEC-2002
06 | TX | SHADY SHORES, CITY OF | 48121CIND0A** | 06-DEC-2002
06 | TX | SHALLOWATER, CITY OF | 48303C0150D | 18-SEP-2002
06 | TX | SHALLOWATER, CITY OF | 48303C0175D | 18-SEP-2002
06 | TX | SHALLOWATER, CITY OF | 48303CIND0 ** | 18-SEP-2002
06 | TX | SLATON, CITY OF | 48303C0460D | 18-SEP-2002
06 | TX | SLATON, CITY OF | 48303C0470D | 18-SEP-2002
06 | TX | SLATON, CITY OF | 48303C0480D | 18-SEP-2002
06 | TX | SLATON, CITY OF | 48303C0490D | 18-SEP-2002
06 | TX | SLATON, CITY OF | 48303CIND0 ** | 18-SEP-2002
06 | TX | THE COLONY, CITY OF | 48121CIND0A** | 06-DEC-2002
06 | TX | TROPHY CLUB, TOWN OF | 48121CIND0A** | 06-DEC-2002
06 | TX | WESTLAKE, TOWN OF | 48121CIND0A** | 06-DEC-2002
06 | TX | WOLFFORTH, CITY OF | 48303C0275D | 18-SEP-2002
06 | TX | WOLFFORTH, CITY OF | 48303C0290D | 18-SEP-2002
06 | TX | WOLFFORTH, CITY OF | 48303C0400D | 18-SEP-2002
06 | TX | WOLFFORTH, CITY OF | 48303CIND0 ** | 18-SEP-2002
07 | IA | CORALVILLE, CITY OF | 19103C0060D | 20-AUG-2002
07 | IA | CORALVILLE, CITY OF | 19103C0070D | 20-AUG-2002
07 | IA | CORALVILLE, CITY OF | 19103C0080D | 20-AUG-2002
07 | IA | CORALVILLE, CITY OF | 19103C0090D | 20-AUG-2002
07 | IA | CORALVILLE, CITY OF | 19103CIND0 ** | 20-AUG-2002
07 | IA | HILLS, CITY OF | 19103C0130D | 20-AUG-2002
07 | IA | HILLS, CITY OF | 19103C0140D | 20-AUG-2002
07 | IA | HILLS, CITY OF | 19103CIND0 ** | 20-AUG-2002
07 | IA | IOWA CITY, CITY OF | 19103C0070D | 20-AUG-2002
07 | IA | IOWA CITY, CITY OF | 19103C0090D | 20-AUG-2002
07 | IA | IOWA CITY, CITY OF | 19103C0095D | 20-AUG-2002
07 | IA | IOWA CITY, CITY OF | 19103C0125D | 20-AUG-2002
07 | IA | IOWA CITY, CITY OF | 19103C0130D | 20-AUG-2002
07 | IA | IOWA CITY, CITY OF | 19103C0135D | 20-AUG-2002
07 | IA | IOWA CITY, CITY OF | 19103CIND0 ** | 20-AUG-2002
07 | IA | JOHNSON COUNTY* | 19103C0010D | 20-AUG-2002
07 | IA | JOHNSON COUNTY* | 19103C0016D | 20-AUG-2002
07 | IA | JOHNSON COUNTY* | 19103C0020D | 20-AUG-2002
07 | IA | JOHNSON COUNTY* | 19103C0025D | 20-AUG-2002
07 | IA | JOHNSON COUNTY* | 19103C0039D | 20-AUG-2002
07 | IA | JOHNSON COUNTY* | 19103C0040D | 20-AUG-2002
07 | IA | JOHNSON COUNTY* | 19103C0050D | 20-AUG-2002
07 | IA | JOHNSON COUNTY* | 19103C0053D | 20-AUG-2002
07 | IA | JOHNSON COUNTY* | 19103C0055D | 20-AUG-2002
07 | IA | JOHNSON COUNTY* | 19103C0060D | 20-AUG-2002
07 | IA | JOHNSON COUNTY* | 19103C0065D | 20-AUG-2002
07 | IA | JOHNSON COUNTY* | 19103C0066D | 20-AUG-2002
07 | IA | JOHNSON COUNTY* | 19103C0070D | 20-AUG-2002
07 | IA | JOHNSON COUNTY* | 19103C0080D | 20-AUG-2002
07 | IA | JOHNSON COUNTY* | 19103C0085D | 20-AUG-2002
07 | IA | JOHNSON COUNTY* | 19103C0090D | 20-AUG-2002
07 | IA | JOHNSON COUNTY* | 19103C0095D | 20-AUG-2002
07 | IA | JOHNSON COUNTY* | 19103C0125D | 20-AUG-2002
07 | IA | JOHNSON COUNTY* | 19103C0130D | 20-AUG-2002
07 | IA | JOHNSON COUNTY* | 19103C0135D | 20-AUG-2002
07 | IA | JOHNSON COUNTY* | 19103C0140D | 20-AUG-2002
07 | IA | JOHNSON COUNTY* | 19103C0150D | 20-AUG-2002
07 | IA | JOHNSON COUNTY* | 19103C0155D | 20-AUG-2002
07 | IA | JOHNSON COUNTY* | 19103C0165D | 20-AUG-2002
07 | IA | JOHNSON COUNTY* | 19103C0175D | 20-AUG-2002
07 | IA | JOHNSON COUNTY* | 19103CIND0 ** | 20-AUG-2002
07 | IA | LONE TREE, CITY OF | 19103C0175D | 20-AUG-2002
07 | IA | LONE TREE, CITY OF | 19103CIND0 ** | 20-AUG-2002
07 | IA | NORTH LIBERTY, CITY OF | 19103C0060D | 20-AUG-2002
07 | IA | NORTH LIBERTY, CITY OF | 19103C0080D | 20-AUG-2002
07 | IA | NORTH LIBERTY, CITY OF | 19103CIND0 ** | 20-AUG-2002
07 | IA | OXFORD, CITY OF | 19103C0053D | 20-AUG-2002
07 | IA | OXFORD, CITY OF | 19103CIND0 ** | 20-AUG-2002
07 | IA | SHUEYVILLE, CITY OF | 19103C0010D | 20-AUG-2002
07 | IA | SHUEYVILLE, CITY OF | 19103C0016D | 20-AUG-2002
07 | IA | SHUEYVILLE, CITY OF | 19103C0020D | 20-AUG-2002
07 | IA | SHUEYVILLE, CITY OF | 19103CIND0 ** | 20-AUG-2002
07 | IA | SOLON, CITY OF | 19103C0039D | 20-AUG-2002
07 | IA | SOLON, CITY OF | 19103C0040D | 20-AUG-2002
07 | IA | SOLON, CITY OF | 19103CIND0 ** | 20-AUG-2002
07 | IA | SWISHER, CITY OF | 19103C0010D | 20-AUG-2002
07 | IA | SWISHER, CITY OF | 19103C0016D | 20-AUG-2002
07 | IA | SWISHER, CITY OF | 19103CIND0 ** | 20-AUG-2002
07 | IA | TIFFIN, CITY OF | 19103C0060D | 20-AUG-2002
07 | IA | TIFFIN, CITY OF | 19103C0066D | 20-AUG-2002
07 | IA | TIFFIN, CITY OF | 19103C0070D | 20-AUG-2002
07 | IA | TIFFIN, CITY OF | 19103CIND0 ** | 20-AUG-2002
07 | KS | ANDOVER, CITY OF | 2003830165D | 18-SEP-2002
07 | KS | ANDOVER, CITY OF | 2003830230D | 18-SEP-2002
07 | KS | ANDOVER, CITY OF | 200383IND0 ** | 18-SEP-2002
07 | KS | WINFIELD, CITY OF | 2000710002C | 17-JUL-2002
07 | KS | WINFIELD, CITY OF | 2000710003C | 17-JUL-2002
07 | KS | WINFIELD, CITY OF | 2000710004C | 17-JUL-2002
07 | KS | WINFIELD, CITY OF | 2000710005C | 17-JUL-2002
07 | KS | WINFIELD, CITY OF | 2000710006C | 17-JUL-2002
07 | KS | WINFIELD, CITY OF | 2000710008C | 17-JUL-2002
07 | KS | WINFIELD, CITY OF | 200071IND0A** | 17-JUL-2002
07 | MO | ARCOLA, VILLAGE OF | 29057C0045B | 17-JUL-2002
07 | MO | ARCOLA, VILLAGE OF | 29057C0065B | 17-JUL-2002
07 | MO | ARCOLA, VILLAGE OF | 29057CIND0 ** | 17-JUL-2002
07 | MO | CEDAR COUNTY * | 29039C0020C | 17-JUL-2002
07 | MO | CEDAR COUNTY * | 29039C0025C | 17-JUL-2002
07 | MO | CEDAR COUNTY * | 29039C0050C | 17-JUL-2002
07 | MO | CEDAR COUNTY * | 29039C0075C | 17-JUL-2002
07 | MO | CEDAR COUNTY * | 29039C0085C | 17-JUL-2002
07 | MO | CEDAR COUNTY * | 29039C0100C | 17-JUL-2002
07 | MO | CEDAR COUNTY * | 29039C0105C | 17-JUL-2002
07 | MO | CEDAR COUNTY * | 29039C0125C | 17-JUL-2002
07 | MO | CEDAR COUNTY * | 29039C0150C | 17-JUL-2002
07 | MO | CEDAR COUNTY * | 29039C0175C | 17-JUL-2002
07 | MO | CEDAR COUNTY * | 29039C0195C | 17-JUL-2002
07 | MO | CEDAR COUNTY * | 29039C0200C | 17-JUL-2002
07 | MO | CEDAR COUNTY * | 29039C0225C | 17-JUL-2002
07 | MO | CEDAR COUNTY * | 29039C0235C | 17-JUL-2002
07 | MO | CEDAR COUNTY * | 29039C0245C | 17-JUL-2002
07 | MO | CEDAR COUNTY * | 29039C0250C | 17-JUL-2002
07 | MO | CEDAR COUNTY * | 29039C0275C | 17-JUL-2002
07 | MO | CEDAR COUNTY * | 29039C0300C | 17-JUL-2002
07 | MO | CEDAR COUNTY * | 29039C0310C | 17-JUL-2002
07 | MO | CEDAR COUNTY * | 29039C0325C | 17-JUL-2002
07 | MO | CEDAR COUNTY * | 29039C0350C | 17-JUL-2002
07 | MO | CEDAR COUNTY * | 29039C0360C | 17-JUL-2002
07 | MO | CEDAR COUNTY * | 29039C0375C | 17-JUL-2002
07 | MO | CEDAR COUNTY * | 29039C0400C | 17-JUL-2002
07 | MO | CEDAR COUNTY * | 29039C0425C | 17-JUL-2002
07 | MO | CEDAR COUNTY * | 29039CIND0A** | 17-JUL-2002
07 | MO | COBALT VILLAGE,VILLAGE OF | 29123C0170C | 06-DEC-2002
07 | MO | COBALT VILLAGE,VILLAGE OF | 29123CIND0A** | 06-DEC-2002
07 | MO | DADE COUNTY * | 29057C0010B | 17-JUL-2002
07 | MO | DADE COUNTY * | 29057C0015B | 17-JUL-2002
07 | MO | DADE COUNTY * | 29057C0020B | 17-JUL-2002
07 | MO | DADE COUNTY * | 29057C0030B | 17-JUL-2002
07 | MO | DADE COUNTY * | 29057C0035B | 17-JUL-2002
07 | MO | DADE COUNTY * | 29057C0040B | 17-JUL-2002
07 | MO | DADE COUNTY * | 29057C0045B | 17-JUL-2002
07 | MO | DADE COUNTY * | 29057C0055B | 17-JUL-2002
07 | MO | DADE COUNTY * | 29057C0060B | 17-JUL-2002
07 | MO | DADE COUNTY * | 29057C0065B | 17-JUL-2002
07 | MO | DADE COUNTY * | 29057C0070B | 17-JUL-2002
07 | MO | DADE COUNTY * | 29057C0080B | 17-JUL-2002
07 | MO | DADE COUNTY * | 29057C0085B | 17-JUL-2002
07 | MO | DADE COUNTY * | 29057C0090B | 17-JUL-2002
07 | MO | DADE COUNTY * | 29057C0095B | 17-JUL-2002
07 | MO | DADE COUNTY * | 29057C0105B | 17-JUL-2002
07 | MO | DADE COUNTY * | 29057C0110B | 17-JUL-2002
07 | MO | DADE COUNTY * | 29057C0115B | 17-JUL-2002
07 | MO | DADE COUNTY * | 29057C0120B | 17-JUL-2002
07 | MO | DADE COUNTY * | 29057C0130B | 17-JUL-2002
07 | MO | DADE COUNTY * | 29057C0135B | 17-JUL-2002
07 | MO | DADE COUNTY * | 29057C0140B | 17-JUL-2002
07 | MO | DADE COUNTY * | 29057C0145B | 17-JUL-2002
07 | MO | DADE COUNTY * | 29057C0155B | 17-JUL-2002
07 | MO | DADE COUNTY * | 29057C0160B | 17-JUL-2002
07 | MO | DADE COUNTY * | 29057C0165B | 17-JUL-2002
07 | MO | DADE COUNTY * | 29057C0170B | 17-JUL-2002
07 | MO | DADE COUNTY * | 29057C0180B | 17-JUL-2002
07 | MO | DADE COUNTY * | 29057C0185B | 17-JUL-2002
07 | MO | DADE COUNTY * | 29057C0190B | 17-JUL-2002
07 | MO | DADE COUNTY * | 29057C0195B | 17-JUL-2002
07 | MO | DADE COUNTY * | 29057C0205B | 17-JUL-2002
07 | MO | DADE COUNTY * | 29057C0210B | 17-JUL-2002
07 | MO | DADE COUNTY * | 29057C0220B | 17-JUL-2002
07 | MO | DADE COUNTY * | 29057C0230B | 17-JUL-2002
07 | MO | DADE COUNTY * | 29057C0235B | 17-JUL-2002
07 | MO | DADE COUNTY * | 29057C0240B | 17-JUL-2002
07 | MO | DADE COUNTY * | 29057C0245B | 17-JUL-2002
07 | MO | DADE COUNTY * | 29057C0255B | 17-JUL-2002
07 | MO | DADE COUNTY * | 29057C0260B | 17-JUL-2002
07 | MO | DADE COUNTY * | 29057C0265B | 17-JUL-2002
07 | MO | DADE COUNTY * | 29057C0270B | 17-JUL-2002
07 | MO | DADE COUNTY * | 29057C0280B | 17-JUL-2002
07 | MO | DADE COUNTY * | 29057C0285B | 17-JUL-2002
07 | MO | DADE COUNTY * | 29057C0290B | 17-JUL-2002
07 | MO | DADE COUNTY * | 29057C0295B | 17-JUL-2002
07 | MO | DADE COUNTY * | 29057CIND0 ** | 17-JUL-2002
07 | MO | DADEVILLE, VILLAGE OF | 29057C0185B | 17-JUL-2002
07 | MO | DADEVILLE, VILLAGE OF | 29057CIND0 ** | 17-JUL-2002
07 | MO | DE SOTO, CITY OF | 2952630001D | 06-AUG-2002
07 | MO | DE SOTO, CITY OF | 2952630002D | 06-AUG-2002
07 | MO | DE SOTO, CITY OF | 295263IND0A** | 06-AUG-2002
07 | MO | DIGGINS, VILLAGE OF | 29225C0275A | 17-JUL-2002
07 | MO | DIGGINS, VILLAGE OF | 29225CIND0A** | 17-JUL-2002
07 | MO | EL DORADO SPRINGS, CITY OF | 29039C0020C | 17-JUL-2002
07 | MO | EL DORADO SPRINGS, CITY OF | 29039C0085C | 17-JUL-2002
07 | MO | EL DORADO SPRINGS, CITY OF | 29039C0105C | 17-JUL-2002
07 | MO | EL DORADO SPRINGS, CITY OF | 29039CIND0A** | 17-JUL-2002
07 | MO | EVERTON, CITY OF | 29057C0280B | 17-JUL-2002
07 | MO | EVERTON, CITY OF | 29057CIND0 ** | 17-JUL-2002
07 | MO | FORDLAND, CITY OF | 29225C0250A | 17-JUL-2002
07 | MO | FORDLAND, CITY OF | 29225CIND0A** | 17-JUL-2002
07 | MO | FREDERICKTOWN, CITY OF | 29123C0155C | 06-DEC-2002
07 | MO | FREDERICKTOWN, CITY OF | 29123C0160C | 06-DEC-2002
07 | MO | FREDERICKTOWN, CITY OF | 29123C0165C | 06-DEC-2002
07 | MO | FREDERICKTOWN, CITY OF | 29123C0170C | 06-DEC-2002
07 | MO | FREDERICKTOWN, CITY OF | 29123CIND0A** | 06-DEC-2002
07 | MO | GARDEN CITY, CITY OF | 29039C0235C | 17-JUL-2002
07 | MO | GARDEN CITY, CITY OF | 29039C0245C | 17-JUL-2002
07 | MO | GARDEN CITY, CITY OF | 29039CIND0A** | 17-JUL-2002
07 | MO | GREENE COUNTY * | 2907820035C | 18-OCT-2002
07 | MO | GREENE COUNTY * | 2907820040C | 18-OCT-2002
07 | MO | GREENE COUNTY * | 2907820065C | 18-OCT-2002
07 | MO | GREENE COUNTY * | 2907820070C | 18-OCT-2002
07 | MO | GREENE COUNTY * | 2907820095D | 18-OCT-2002
07 | MO | GREENE COUNTY * | 2907820125C | 18-OCT-2002
07 | MO | GREENE COUNTY * | 2907820130C | 18-OCT-2002
07 | MO | GREENE COUNTY * | 290782IND0A** | 18-OCT-2002
07 | MO | GREENFIELD, CITY OF | 29057C0165B | 17-JUL-2002
07 | MO | GREENFIELD, CITY OF | 29057CIND0 ** | 17-JUL-2002
07 | MO | JEFFERSON COUNTY* | 2908080120D | 06-AUG-2002
07 | MO | JEFFERSON COUNTY* | 2908080140C | 06-AUG-2002
07 | MO | JEFFERSON COUNTY* | 290808IND0A** | 06-AUG-2002
07 | MO | JERICO SPRINGS, VILLAGE OF | 29039C0195C | 17-JUL-2002
07 | MO | JERICO SPRINGS, VILLAGE OF | 29039C0310C | 17-JUL-2002
07 | MO | JERICO SPRINGS, VILLAGE OF | 29039CIND0A** | 17-JUL-2002
07 | MO | JUNCTION CITY, VILLAGE OF | 29123C0160C | 06-DEC-2002
07 | MO | JUNCTION CITY, VILLAGE OF | 29123CIND0A** | 06-DEC-2002
07 | MO | LOCKWOOD, CITY OF | 29057C0140B | 17-JUL-2002
07 | MO | LOCKWOOD, CITY OF | 29057CIND0 ** | 17-JUL-2002
07 | MO | MADISON COUNTY * | 29123C0025C | 06-DEC-2002
07 | MO | MADISON COUNTY * | 29123C0050C | 06-DEC-2002
07 | MO | MADISON COUNTY * | 29123C0075C | 06-DEC-2002
07 | MO | MADISON COUNTY * | 29123C0100C | 06-DEC-2002
07 | MO | MADISON COUNTY * | 29123C0125C | 06-DEC-2002
07 | MO | MADISON COUNTY * | 29123C0150C | 06-DEC-2002
07 | MO | MADISON COUNTY * | 29123C0155C | 06-DEC-2002
07 | MO | MADISON COUNTY * | 29123C0160C | 06-DEC-2002
07 | MO | MADISON COUNTY * | 29123C0165C | 06-DEC-2002
07 | MO | MADISON COUNTY * | 29123C0170C | 06-DEC-2002
07 | MO | MADISON COUNTY * | 29123C0200C | 06-DEC-2002
07 | MO | MADISON COUNTY * | 29123C0225C | 06-DEC-2002
07 | MO | MADISON COUNTY * | 29123C0250C | 06-DEC-2002
07 | MO | MADISON COUNTY * | 29123C0275C | 06-DEC-2002
07 | MO | MADISON COUNTY * | 29123C0295C | 06-DEC-2002
07 | MO | MADISON COUNTY * | 29123C0300C | 06-DEC-2002
07 | MO | MADISON COUNTY * | 29123C0325C | 06-DEC-2002
07 | MO | MADISON COUNTY * | 29123C0350C | 06-DEC-2002
07 | MO | MADISON COUNTY * | 29123C0375C | 06-DEC-2002
07 | MO | MADISON COUNTY * | 29123C0400C | 06-DEC-2002
07 | MO | MADISON COUNTY * | 29123CIND0A** | 06-DEC-2002
07 | MO | MARQUAND, CITY OF | 29123C0295C | 06-DEC-2002
07 | MO | MARQUAND, CITY OF | 29123CIND0A** | 06-DEC-2002
07 | MO | MARSHFIELD, CITY OF | 29225C0135A | 17-JUL-2002
07 | MO | MARSHFIELD, CITY OF | 29225C0150A | 17-JUL-2002
07 | MO | MARSHFIELD, CITY OF | 29225CIND0A** | 17-JUL-2002
07 | MO | NIANGUA, CITY OF | 29225C0075A | 17-JUL-2002
07 | MO | NIANGUA, CITY OF | 29225CIND0A** | 17-JUL-2002
07 | MO | ROGERSVILLE, CITY OF | 29225C0225A | 17-JUL-2002
07 | MO | ROGERSVILLE, CITY OF | 29225C0325A | 17-JUL-2002
07 | MO | ROGERSVILLE, CITY OF | 29225CIND0A** | 17-JUL-2002
07 | MO | SEYMOUR, CITY OF | 29225C0270A | 17-JUL-2002
07 | MO | SEYMOUR, CITY OF | 29225CIND0A** | 17-JUL-2002
07 | MO | SOUTH GREENFIELD, VILLAGE OF | 29057C0165B | 17-JUL-2002
07 | MO | SOUTH GREENFIELD, VILLAGE OF | 29057C0255B | 17-JUL-2002
07 | MO | SOUTH GREENFIELD, VILLAGE OF | 29057CIND0 ** | 17-JUL-2002
07 | MO | STEELVILLE, CITY OF | 2901140001C | 06-DEC-2002
07 | MO | STEELVILLE, CITY OF | 2901140002C | 06-DEC-2002
07 | MO | STEELVILLE, CITY OF | 2901140003C | 06-DEC-2002
07 | MO | STEELVILLE, CITY OF | 290114IND0A** | 06-DEC-2002
07 | MO | STOCKTON, CITY OF | 29039C0235C | 17-JUL-2002
07 | MO | STOCKTON, CITY OF | 29039C0245C | 17-JUL-2002
07 | MO | STOCKTON, CITY OF | 29039CIND0A** | 17-JUL-2002
07 | MO | UMBER VIEW HEIGHTS, VILLAGE OF | 29039C0245C | 17-JUL-2002
07 | MO | UMBER VIEW HEIGHTS, VILLAGE OF | 29039C0360C | 17-JUL-2002
07 | MO | UMBER VIEW HEIGHTS, VILLAGE OF | 29039CIND0A** | 17-JUL-2002
07 | MO | WEBSTER COUNTY* | 29225C0025A | 17-JUL-2002
07 | MO | WEBSTER COUNTY* | 29225C0050A | 17-JUL-2002
07 | MO | WEBSTER COUNTY* | 29225C0075A | 17-JUL-2002
07 | MO | WEBSTER COUNTY* | 29225C0100A | 17-JUL-2002
07 | MO | WEBSTER COUNTY* | 29225C0125A | 17-JUL-2002
07 | MO | WEBSTER COUNTY* | 29225C0135A | 17-JUL-2002
07 | MO | WEBSTER COUNTY* | 29225C0150A | 17-JUL-2002
07 | MO | WEBSTER COUNTY* | 29225C0175A | 17-JUL-2002
07 | MO | WEBSTER COUNTY* | 29225C0200A | 17-JUL-2002
07 | MO | WEBSTER COUNTY* | 29225C0225A | 17-JUL-2002
07 | MO | WEBSTER COUNTY* | 29225C0250A | 17-JUL-2002
07 | MO | WEBSTER COUNTY* | 29225C0270A | 17-JUL-2002
07 | MO | WEBSTER COUNTY* | 29225C0275A | 17-JUL-2002
07 | MO | WEBSTER COUNTY* | 29225C0300A | 17-JUL-2002
07 | MO | WEBSTER COUNTY* | 29225C0325A | 17-JUL-2002
07 | MO | WEBSTER COUNTY* | 29225C0350A | 17-JUL-2002
07 | MO | WEBSTER COUNTY* | 29225C0375A | 17-JUL-2002
07 | MO | WEBSTER COUNTY* | 29225C0400A | 17-JUL-2002
07 | MO | WEBSTER COUNTY* | 29225CIND0A** | 17-JUL-2002
07 | NE | BENKELMAN, CITY OF | 31057C0470A | 04-OCT-2002
07 | NE | BENKELMAN, CITY OF | 31057CIND0A** | 04-OCT-2002
07 | NE | CLARKSON, CTIY OF | 31037C0025C | 06-AUG-2002
07 | NE | CLARKSON, CTIY OF | 31037CIND0 ** | 06-AUG-2002
07 | NE | COLFAX COUNTY* | 31037C0004C | 06-AUG-2002
07 | NE | COLFAX COUNTY* | 31037C0025C | 06-AUG-2002
07 | NE | COLFAX COUNTY* | 31037C0026C | 06-AUG-2002
07 | NE | COLFAX COUNTY* | 31037C0027C | 06-AUG-2002
07 | NE | COLFAX COUNTY* | 31037C0028C | 06-AUG-2002
07 | NE | COLFAX COUNTY* | 31037C0029C | 06-AUG-2002
07 | NE | COLFAX COUNTY* | 31037C0050C | 06-AUG-2002
07 | NE | COLFAX COUNTY* | 31037C0065C | 06-AUG-2002
07 | NE | COLFAX COUNTY* | 31037C0070C | 06-AUG-2002
07 | NE | COLFAX COUNTY* | 31037C0075C | 06-AUG-2002
07 | NE | COLFAX COUNTY* | 31037C0090C | 06-AUG-2002
07 | NE | COLFAX COUNTY* | 31037C0100C | 06-AUG-2002
07 | NE | COLFAX COUNTY* | 31037C0110C | 06-AUG-2002
07 | NE | COLFAX COUNTY* | 31037C0125C | 06-AUG-2002
07 | NE | COLFAX COUNTY* | 31037C0130C | 06-AUG-2002
07 | NE | COLFAX COUNTY* | 31037C0131C | 06-AUG-2002
07 | NE | COLFAX COUNTY* | 31037C0150C | 06-AUG-2002
07 | NE | COLFAX COUNTY* | 31037CIND0 ** | 06-AUG-2002
07 | NE | DUNDY COUNTY * | 31057C0125A | 04-OCT-2002
07 | NE | DUNDY COUNTY * | 31057C0150A | 04-OCT-2002
07 | NE | DUNDY COUNTY * | 31057C0175A | 04-OCT-2002
07 | NE | DUNDY COUNTY * | 31057C0225A | 04-OCT-2002
07 | NE | DUNDY COUNTY * | 31057C0250A | 04-OCT-2002
07 | NE | DUNDY COUNTY * | 31057C0300A | 04-OCT-2002
07 | NE | DUNDY COUNTY * | 31057C0325A | 04-OCT-2002
07 | NE | DUNDY COUNTY * | 31057C0350A | 04-OCT-2002
07 | NE | DUNDY COUNTY * | 31057C0375A | 04-OCT-2002
07 | NE | DUNDY COUNTY * | 31057C0390A | 04-OCT-2002
07 | NE | DUNDY COUNTY * | 31057C0395A | 04-OCT-2002
07 | NE | DUNDY COUNTY * | 31057C0400A | 04-OCT-2002
07 | NE | DUNDY COUNTY * | 31057C0425A | 04-OCT-2002
07 | NE | DUNDY COUNTY * | 31057C0450A | 04-OCT-2002
07 | NE | DUNDY COUNTY * | 31057C0470A | 04-OCT-2002
07 | NE | DUNDY COUNTY * | 31057C0475A | 04-OCT-2002
07 | NE | DUNDY COUNTY * | 31057C0485A | 04-OCT-2002
07 | NE | DUNDY COUNTY * | 31057C0500A | 04-OCT-2002
07 | NE | DUNDY COUNTY * | 31057C0525A | 04-OCT-2002
07 | NE | DUNDY COUNTY * | 31057CIND0A** | 04-OCT-2002
07 | NE | HAIGLER, VILLAGE OF | 31057C0390A | 04-OCT-2002
07 | NE | HAIGLER, VILLAGE OF | 31057C0395A | 04-OCT-2002
07 | NE | HAIGLER, VILLAGE OF | 31057CIND0A** | 04-OCT-2002
07 | NE | HOWELLS, VILLAGE OF | 31037C0026C | 06-AUG-2002
07 | NE | HOWELLS, VILLAGE OF | 31037C0027C | 06-AUG-2002
07 | NE | HOWELLS, VILLAGE OF | 31037C0028C | 06-AUG-2002
07 | NE | HOWELLS, VILLAGE OF | 31037C0029C | 06-AUG-2002
07 | NE | HOWELLS, VILLAGE OF | 31037CIND0 ** | 06-AUG-2002
07 | NE | LEIGH, VILLAGE OF | 31037C0004C | 06-AUG-2002
07 | NE | LEIGH, VILLAGE OF | 31037CIND0 ** | 06-AUG-2002
07 | NE | ROGERS, VILLAGE OF | 31037C0125C | 06-AUG-2002
07 | NE | SCHUYLER, CITY OF | 31037C0110C | 06-AUG-2002
07 | NE | SCHUYLER, CITY OF | 31037C0125C | 06-AUG-2002
07 | NE | SCHUYLER, CITY OF | 31037C0130C | 06-AUG-2002
07 | NE | SCHUYLER, CITY OF | 31037C0150C | 06-AUG-2002
07 | NE | SCHUYLER, CITY OF | 31037CIND0 ** | 06-AUG-2002
08 | CO | BOULDER COUNTY * | 08013C0419G | 04-OCT-2002
08 | CO | BOULDER COUNTY * | 08013C0420G | 04-OCT-2002
08 | CO | BOULDER COUNTY * | 08013C0430G | 04-OCT-2002
08 | CO | BOULDER COUNTY * | 08013C0436G | 04-OCT-2002
08 | CO | BOULDER COUNTY * | 08013C0437G | 04-OCT-2002
08 | CO | BOULDER COUNTY * | 08013C0438G | 04-OCT-2002
08 | CO | BOULDER COUNTY * | 08013C0439G | 04-OCT-2002
08 | CO | BOULDER COUNTY * | 08013C0554G | 04-OCT-2002
08 | CO | BOULDER COUNTY * | 08013C0555G** | 04-OCT-2002
08 | CO | BOULDER COUNTY * | 08013C0557G | 04-OCT-2002
08 | CO | BOULDER COUNTY * | 08013C0558G | 04-OCT-2002
08 | CO | BOULDER COUNTY * | 08013C0559G | 04-OCT-2002
08 | CO | BOULDER COUNTY * | 08013C0562G | 04-OCT-2002
08 | CO | BOULDER COUNTY * | 08013C0565G** | 04-OCT-2002
08 | CO | BOULDER COUNTY * | 08013C0566G | 04-OCT-2002
08 | CO | BOULDER COUNTY * | 08013C0567G | 04-OCT-2002
08 | CO | BOULDER COUNTY * | 08013C0576H | 04-OCT-2002
08 | CO | BOULDER COUNTY * | 08013C0577H | 04-OCT-2002
08 | CO | BOULDER COUNTY * | 08013CIND0A** | 04-OCT-2002
08 | CO | BOULDER, CITY OF | 08013C0555G** | 04-OCT-2002
08 | CO | BOULDER, CITY OF | 08013CIND0A** | 04-OCT-2002
08 | CO | LAFAYETTE, CITY OF | 08013C0419G | 04-OCT-2002
08 | CO | LAFAYETTE, CITY OF | 08013C0420G | 04-OCT-2002
08 | CO | LAFAYETTE, CITY OF | 08013C0436G | 04-OCT-2002
08 | CO | LAFAYETTE, CITY OF | 08013C0438G | 04-OCT-2002
08 | CO | LAFAYETTE, CITY OF | 08013C0439G | 04-OCT-2002
08 | CO | LAFAYETTE, CITY OF | 08013C0557G | 04-OCT-2002
08 | CO | LAFAYETTE, CITY OF | 08013C0576H | 04-OCT-2002
08 | CO | LAFAYETTE, CITY OF | 08013C0577H | 04-OCT-2002
08 | CO | LAFAYETTE, CITY OF | 08013CIND0A** | 04-OCT-2002
08 | CO | LONGMONT, CITY OF | 08013CIND0A** | 04-OCT-2002
08 | CO | LOUISVILLE, CITY OF | 08013C0557G | 04-OCT-2002
08 | CO | LOUISVILLE, CITY OF | 08013C0558G | 04-OCT-2002
08 | CO | LOUISVILLE, CITY OF | 08013C0559G | 04-OCT-2002
08 | CO | LOUISVILLE, CITY OF | 08013C0576H | 04-OCT-2002
08 | CO | LOUISVILLE, CITY OF | 08013CIND0A** | 04-OCT-2002
08 | CO | LYONS, TOWN OF | 08013CIND0A** | 04-OCT-2002
08 | CO | NEDERLAND, TOWN OF | 08013CIND0A** | 04-OCT-2002
08 | CO | SUPERIOR, TOWN OF | 08013C0558G | 04-OCT-2002
08 | CO | SUPERIOR, TOWN OF | 08013CIND0A** | 04-OCT-2002
08 | CO | WARD, TOWN OF | 08013CIND0A** | 04-OCT-2002
08 | ND | FARGO, CITY OF | 3853640005E | 04-SEP-2002
08 | ND | FARGO, CITY OF | 3853640015F | 04-SEP-2002
08 | ND | FARGO, CITY OF | 385364IND0A** | 04-SEP-2002
08 | ND | HARWOOD, CITY OF | 3803380001C | 04-SEP-2002
08 | ND | HARWOOD, CITY OF | 3803380002C | 04-SEP-2002
08 | ND | HARWOOD, CITY OF | 380338IND0 ** | 04-SEP-2002
08 | ND | REED, TOWNSHIP OF | 3802570005D | 04-SEP-2002
08 | ND | REED, TOWNSHIP OF | 3802570010D | 04-SEP-2002
08 | ND | REED, TOWNSHIP OF | 380257IND0A** | 04-SEP-2002
08 | ND | REILES ACRES, CITY OF | 3803240001C | 04-SEP-2002
08 | ND | WEST FARGO, CITY OF | 3800240005F | 04-SEP-2002
08 | ND | WEST FARGO, CITY OF | 380024IND0A** | 04-SEP-2002
08 | SD | HILL CITY, CITY OF | 4601160001C | 04-OCT-2002
08 | SD | NEW UNDERWOOD, CITY OF | 4600920001D | 18-OCT-2002
08 | UT | LEHI, CITY OF | 4902090105C | 17-JUL-2002
08 | UT | LEHI, CITY OF | 4902090110C** | 17-JUL-2002
08 | UT | LEHI, CITY OF | 4902090115C | 17-JUL-2002
08 | UT | LEHI, CITY OF | 4902090120C** | 17-JUL-2002
08 | UT | LEHI, CITY OF | 490209IND0A** | 17-JUL-2002
08 | UT | SARATOGA SPRINGS, CITY OF | 4902500115A | 17-JUL-2002
08 | UT | SARATOGA SPRINGS, CITY OF | 4902500120A** | 17-JUL-2002
08 | UT | SARATOGA SPRINGS, CITY OF | 4902500205A** | 17-JUL-2002
08 | UT | SARATOGA SPRINGS, CITY OF | 4902500210A** | 17-JUL-2002
08 | UT | SARATOGA SPRINGS, CITY OF | 490250IND0 ** | 17-JUL-2002
08 | UT | UTAH COUNTY * | 4955170105B | 17-JUL-2002
08 | UT | UTAH COUNTY * | 4955170110B** | 17-JUL-2002
08 | UT | UTAH COUNTY * | 4955170115B | 17-JUL-2002
08 | UT | UTAH COUNTY * | 4955170120B** | 17-JUL-2002
08 | UT | UTAH COUNTY * | 4955170205B** | 17-JUL-2002
08 | UT | UTAH COUNTY * | 4955170210B** | 17-JUL-2002
08 | UT | UTAH COUNTY * | 495517IND0A** | 17-JUL-2002
08 | WY | DUBOIS, TOWN OF | 5600183791D | 06-DEC-2002
08 | WY | DUBOIS, TOWN OF | 5600183792D | 06-DEC-2002
08 | WY | DUBOIS, TOWN OF | 5600183794D | 06-DEC-2002
08 | WY | DUBOIS, TOWN OF | 5600183813D | 06-DEC-2002
08 | WY | DUBOIS, TOWN OF | 560018IND0 ** | 06-DEC-2002
08 | WY | FREMONT COUNTY * | 5600803791B | 06-DEC-2002
08 | WY | FREMONT COUNTY * | 5600803792B | 06-DEC-2002
08 | WY | FREMONT COUNTY * | 5600803813B | 06-DEC-2002
08 | WY | FREMONT COUNTY * | 560080IND0A** | 06-DEC-2002
09 | CA | DAVIS, CITY OF | 0604240009C | 20-DEC-2002
09 | CA | DAVIS, CITY OF | 0604240016C | 20-DEC-2002
09 | CA | DAVIS, CITY OF | 0604240017C | 20-DEC-2002
09 | CA | DAVIS, CITY OF | 0604240028C | 20-DEC-2002
09 | CA | DAVIS, CITY OF | 0604240036C | 20-DEC-2002
09 | CA | DAVIS, CITY OF | 0604240037C | 20-DEC-2002
09 | CA | DAVIS, CITY OF | 060424IND0A** | 20-DEC-2002
09 | CA | DEL MAR, CITY OF | 06073CIND0A** | 02-JUL-2002
09 | CA | LA MESA, CITY OF | 06073C1643H | 02-JUL-2002
09 | CA | LA MESA, CITY OF | 06073C1644G | 02-JUL-2002
09 | CA | LA MESA, CITY OF | 06073CIND0A** | 02-JUL-2002
09 | CA | LAFAYETTE, CITY OF | 0650370002C | 20-DEC-2002
09 | CA | LAFAYETTE, CITY OF | 0650370005C | 20-DEC-2002
09 | CA | LAFAYETTE, CITY OF | 0650370006D | 20-DEC-2002
09 | CA | LAFAYETTE, CITY OF | 065037IND0A** | 20-DEC-2002
09 | CA | LEMON GROVE, CITY OF | 06073C1644G | 02-JUL-2002
09 | CA | LEMON GROVE, CITY OF | 06073CIND0A** | 02-JUL-2002
09 | CA | SAN DIEGO COUNTY * | 06073C1643H | 02-JUL-2002
09 | CA | SAN DIEGO COUNTY * | 06073C1644G | 02-JUL-2002
09 | CA | SAN DIEGO COUNTY * | 06073CIND0A** | 02-JUL-2002
09 | CA | SAN DIEGO, CITY OF | 06073C1643H | 02-JUL-2002
09 | CA | SAN DIEGO, CITY OF | 06073CIND0A** | 02-JUL-2002
09 | CA | WALNUT CREEK, CITY OF | 0650700001D | 04-OCT-2002
09 | CA | WALNUT CREEK, CITY OF | 065070IND0A** | 04-OCT-2002
09 | CA | YOLO COUNTY* | 0604230559D | 20-DEC-2002
09 | CA | YOLO COUNTY* | 0604230560D** | 20-DEC-2002
09 | CA | YOLO COUNTY* | 0604230578E | 20-DEC-2002
09 | CA | YOLO COUNTY* | 0604230600E** | 20-DEC-2002
09 | CA | YOLO COUNTY* | 060423IND0A** | 20-DEC-2002
09 | HI | KAUAI COUNTY* | 1500020030D | 18-OCT-2002
09 | HI | KAUAI COUNTY* | 1500020035D | 18-OCT-2002
09 | HI | KAUAI COUNTY* | 1500020045D | 18-OCT-2002
09 | HI | KAUAI COUNTY* | 1500020335D | 18-OCT-2002
09 | HI | KAUAI COUNTY* | 1500020355D | 18-OCT-2002
09 | HI | KAUAI COUNTY* | 150002IND0A** | 18-OCT-2002
09 | NV | BOULDER CITY, CITY OF | 32003C2620E | 27-SEP-2002
09 | NV | BOULDER CITY, CITY OF | 32003C2640E | 27-SEP-2002
09 | NV | BOULDER CITY, CITY OF | 32003C2650E | 27-SEP-2002
09 | NV | BOULDER CITY, CITY OF | 32003C2955E | 27-SEP-2002
09 | NV | BOULDER CITY, CITY OF | 32003C2975E | 27-SEP-2002
09 | NV | BOULDER CITY, CITY OF | 32003C2980E | 27-SEP-2002
09 | NV | BOULDER CITY, CITY OF | 32003C2990E | 27-SEP-2002
09 | NV | BOULDER CITY, CITY OF | 32003C2995E | 27-SEP-2002
09 | NV | BOULDER CITY, CITY OF | 32003C3175E | 27-SEP-2002
09 | NV | BOULDER CITY, CITY OF | 32003C3200E | 27-SEP-2002
09 | NV | BOULDER CITY, CITY OF | 32003C3225E | 27-SEP-2002
09 | NV | BOULDER CITY, CITY OF | 32003C3375E | 27-SEP-2002
09 | NV | BOULDER CITY, CITY OF | 32003C3400E | 27-SEP-2002
09 | NV | BOULDER CITY, CITY OF | 32003CIND0A** | 27-SEP-2002
09 | NV | CLARK COUNTY * | 32003C0225E | 27-SEP-2002
09 | NV | CLARK COUNTY * | 32003C0250E | 27-SEP-2002
09 | NV | CLARK COUNTY * | 32003C0275E | 27-SEP-2002
09 | NV | CLARK COUNTY * | 32003C0300E | 27-SEP-2002
09 | NV | CLARK COUNTY * | 32003C0325E | 27-SEP-2002
09 | NV | CLARK COUNTY * | 32003C0350E | 27-SEP-2002
09 | NV | CLARK COUNTY * | 32003C0367E | 27-SEP-2002
09 | NV | CLARK COUNTY * | 32003C0369E | 27-SEP-2002
09 | NV | CLARK COUNTY * | 32003C0370E | 27-SEP-2002
09 | NV | CLARK COUNTY * | 32003C0375E | 27-SEP-2002
09 | NV | CLARK COUNTY * | 32003C0378E | 27-SEP-2002
09 | NV | CLARK COUNTY * | 32003C0379E | 27-SEP-2002
09 | NV | CLARK COUNTY * | 32003C0386E | 27-SEP-2002
09 | NV | CLARK COUNTY * | 32003C0387E | 27-SEP-2002
09 | NV | CLARK COUNTY * | 32003C0390E | 27-SEP-2002
09 | NV | CLARK COUNTY * | 32003C0391E | 27-SEP-2002
09 | NV | CLARK COUNTY * | 32003C0625E | 27-SEP-2002
09 | NV | CLARK COUNTY * | 32003C0650E | 27-SEP-2002
09 | NV | CLARK COUNTY * | 32003C0655E | 27-SEP-2002
09 | NV | CLARK COUNTY * | 32003C0660E | 27-SEP-2002
09 | NV | CLARK COUNTY * | 32003C0665E | 27-SEP-2002
09 | NV | CLARK COUNTY * | 32003C0670E | 27-SEP-2002
09 | NV | CLARK COUNTY * | 32003C0680E | 27-SEP-2002
09 | NV | CLARK COUNTY * | 32003C0690E | 27-SEP-2002
09 | NV | CLARK COUNTY * | 32003C0695E | 27-SEP-2002
09 | NV | CLARK COUNTY * | 32003C0700E | 27-SEP-2002
09 | NV | CLARK COUNTY * | 32003C0750E | 27-SEP-2002
09 | NV | CLARK COUNTY * | 32003C0775E | 27-SEP-2002
09 | NV | CLARK COUNTY * | 32003C0825E | 27-SEP-2002
09 | NV | CLARK COUNTY * | 32003C0850E | 27-SEP-2002
09 | NV | CLARK COUNTY * | 32003C0875E | 27-SEP-2002
09 | NV | CLARK COUNTY * | 32003C0900E | 27-SEP-2002
09 | NV | CLARK COUNTY * | 32003C1025E | 27-SEP-2002
09 | NV | CLARK COUNTY * | 32003C1050E | 27-SEP-2002
09 | NV | CLARK COUNTY * | 32003C1075E | 27-SEP-2002
09 | NV | CLARK COUNTY * | 32003C1085E | 27-SEP-2002
09 | NV | CLARK COUNTY * | 32003C1105E | 27-SEP-2002
09 | NV | CLARK COUNTY * | 32003C1115E | 27-SEP-2002
09 | NV | CLARK COUNTY * | 32003C1120E | 27-SEP-2002
09 | NV | CLARK COUNTY * | 32003C1150E | 27-SEP-2002
09 | NV | CLARK COUNTY * | 32003C1175E | 27-SEP-2002
09 | NV | CLARK COUNTY * | 32003C1350E | 27-SEP-2002
09 | NV | CLARK COUNTY * | 32003C1425E | 27-SEP-2002
09 | NV | CLARK COUNTY * | 32003C1450E | 27-SEP-2002
09 | NV | CLARK COUNTY * | 32003C1475E | 27-SEP-2002
09 | NV | CLARK COUNTY * | 32003C1500E | 27-SEP-2002
09 | NV | CLARK COUNTY * | 32003C1525E | 27-SEP-2002
09 | NV | CLARK COUNTY * | 32003C1550E | 27-SEP-2002
09 | NV | CLARK COUNTY * | 32003C1575E | 27-SEP-2002
09 | NV | CLARK COUNTY * | 32003C1600E | 27-SEP-2002
09 | NV | CLARK COUNTY * | 32003C1725E | 27-SEP-2002
09 | NV | CLARK COUNTY * | 32003C1734E | 27-SEP-2002
09 | NV | CLARK COUNTY * | 32003C1735E | 27-SEP-2002
09 | NV | CLARK COUNTY * | 32003C1745E | 27-SEP-2002
09 | NV | CLARK COUNTY * | 32003C1750E | 27-SEP-2002
09 | NV | CLARK COUNTY * | 32003C1753E | 27-SEP-2002
09 | NV | CLARK COUNTY * | 32003C1754E | 27-SEP-2002
09 | NV | CLARK COUNTY * | 32003C1758E | 27-SEP-2002
09 | NV | CLARK COUNTY * | 32003C1765E | 27-SEP-2002
09 | NV | CLARK COUNTY * | 32003C1766E | 27-SEP-2002
09 | NV | CLARK COUNTY * | 32003C1767E | 27-SEP-2002
09 | NV | CLARK COUNTY * | 32003C1768E | 27-SEP-2002
09 | NV | CLARK COUNTY * | 32003C1769E | 27-SEP-2002
09 | NV | CLARK COUNTY * | 32003C1786E | 27-SEP-2002
09 | NV | CLARK COUNTY * | 32003C1788E | 27-SEP-2002
09 | NV | CLARK COUNTY * | 32003C1790E | 27-SEP-2002
09 | NV | CLARK COUNTY * | 32003C1825E | 27-SEP-2002
09 | NV | CLARK COUNTY * | 32003C1900E | 27-SEP-2002
09 | NV | CLARK COUNTY * | 32003C1925E | 27-SEP-2002
09 | NV | CLARK COUNTY * | 32003C1950E | 27-SEP-2002
09 | NV | CLARK COUNTY * | 32003C2000E | 27-SEP-2002
09 | NV | CLARK COUNTY * | 32003C2025E | 27-SEP-2002
09 | NV | CLARK COUNTY * | 32003C2050E | 27-SEP-2002
09 | NV | CLARK COUNTY * | 32003C2125E | 27-SEP-2002
09 | NV | CLARK COUNTY * | 32003C2135E | 27-SEP-2002
09 | NV | CLARK COUNTY * | 32003C2145E | 27-SEP-2002
09 | NV | CLARK COUNTY * | 32003C2150E | 27-SEP-2002
09 | NV | CLARK COUNTY * | 32003C2155E | 27-SEP-2002
09 | NV | CLARK COUNTY * | 32003C2160E | 27-SEP-2002
09 | NV | CLARK COUNTY * | 32003C2170E | 27-SEP-2002
09 | NV | CLARK COUNTY * | 32003C2176E | 27-SEP-2002
09 | NV | CLARK COUNTY * | 32003C2178E | 27-SEP-2002
09 | NV | CLARK COUNTY * | 32003C2179E | 27-SEP-2002
09 | NV | CLARK COUNTY * | 32003C2180E | 27-SEP-2002
09 | NV | CLARK COUNTY * | 32003C2186E | 27-SEP-2002
09 | NV | CLARK COUNTY * | 32003C2187E | 27-SEP-2002
09 | NV | CLARK COUNTY * | 32003C2190E | 27-SEP-2002
09 | NV | CLARK COUNTY * | 32003C2195E | 27-SEP-2002
09 | NV | CLARK COUNTY * | 32003C2200E | 27-SEP-2002
09 | NV | CLARK COUNTY * | 32003C2225E | 27-SEP-2002
09 | NV | CLARK COUNTY * | 32003C2250E | 27-SEP-2002
09 | NV | CLARK COUNTY * | 32003C2275E | 27-SEP-2002
09 | NV | CLARK COUNTY * | 32003C2300E | 27-SEP-2002
09 | NV | CLARK COUNTY * | 32003C2325E | 27-SEP-2002
09 | NV | CLARK COUNTY * | 32003C2350E | 27-SEP-2002
09 | NV | CLARK COUNTY * | 32003C2400E | 27-SEP-2002
09 | NV | CLARK COUNTY * | 32003C2425E | 27-SEP-2002
09 | NV | CLARK COUNTY * | 32003C2450E | 27-SEP-2002
09 | NV | CLARK COUNTY * | 32003C2475E | 27-SEP-2002
09 | NV | CLARK COUNTY * | 32003C2500E | 27-SEP-2002
09 | NV | CLARK COUNTY * | 32003C2525E | 27-SEP-2002
09 | NV | CLARK COUNTY * | 32003C2535E | 27-SEP-2002
09 | NV | CLARK COUNTY * | 32003C2545E | 27-SEP-2002
09 | NV | CLARK COUNTY * | 32003C2550E | 27-SEP-2002
09 | NV | CLARK COUNTY * | 32003C2551E | 27-SEP-2002
09 | NV | CLARK COUNTY * | 32003C2552E | 27-SEP-2002
09 | NV | CLARK COUNTY * | 32003C2553E | 27-SEP-2002
09 | NV | CLARK COUNTY * | 32003C2554E | 27-SEP-2002
09 | NV | CLARK COUNTY * | 32003C2556E | 27-SEP-2002
09 | NV | CLARK COUNTY * | 32003C2557E | 27-SEP-2002
09 | NV | CLARK COUNTY * | 32003C2560E | 27-SEP-2002
09 | NV | CLARK COUNTY * | 32003C2561E | 27-SEP-2002
09 | NV | CLARK COUNTY * | 32003C2562E | 27-SEP-2002
09 | NV | CLARK COUNTY * | 32003C2566E | 27-SEP-2002
09 | NV | CLARK COUNTY * | 32003C2567E | 27-SEP-2002
09 | NV | CLARK COUNTY * | 32003C2568E | 27-SEP-2002
09 | NV | CLARK COUNTY * | 32003C2569E | 27-SEP-2002
09 | NV | CLARK COUNTY * | 32003C2580E | 27-SEP-2002
09 | NV | CLARK COUNTY * | 32003C2583E | 27-SEP-2002
09 | NV | CLARK COUNTY * | 32003C2585E | 27-SEP-2002
09 | NV | CLARK COUNTY * | 32003C2590E | 27-SEP-2002
09 | NV | CLARK COUNTY * | 32003C2595E | 27-SEP-2002
09 | NV | CLARK COUNTY * | 32003C2605E | 27-SEP-2002
09 | NV | CLARK COUNTY * | 32003C2610E | 27-SEP-2002
09 | NV | CLARK COUNTY * | 32003C2615E | 27-SEP-2002
09 | NV | CLARK COUNTY * | 32003C2620E | 27-SEP-2002
09 | NV | CLARK COUNTY * | 32003C2640E | 27-SEP-2002
09 | NV | CLARK COUNTY * | 32003C2650E | 27-SEP-2002
09 | NV | CLARK COUNTY * | 32003C2675E | 27-SEP-2002
09 | NV | CLARK COUNTY * | 32003C2700E | 27-SEP-2002
09 | NV | CLARK COUNTY * | 32003C2725E | 27-SEP-2002
09 | NV | CLARK COUNTY * | 32003C2750E | 27-SEP-2002
09 | NV | CLARK COUNTY * | 32003C2800E | 27-SEP-2002
09 | NV | CLARK COUNTY * | 32003C2825E | 27-SEP-2002
09 | NV | CLARK COUNTY * | 32003C2850E | 27-SEP-2002
09 | NV | CLARK COUNTY * | 32003C2875E | 27-SEP-2002
09 | NV | CLARK COUNTY * | 32003C2910E | 27-SEP-2002
09 | NV | CLARK COUNTY * | 32003C2930E | 27-SEP-2002
09 | NV | CLARK COUNTY * | 32003C2955E | 27-SEP-2002
09 | NV | CLARK COUNTY * | 32003C2975E | 27-SEP-2002
09 | NV | CLARK COUNTY * | 32003C2980E | 27-SEP-2002
09 | NV | CLARK COUNTY * | 32003C2990E | 27-SEP-2002
09 | NV | CLARK COUNTY * | 32003C2995E | 27-SEP-2002
09 | NV | CLARK COUNTY * | 32003C3025E | 27-SEP-2002
09 | NV | CLARK COUNTY * | 32003C3050E | 27-SEP-2002
09 | NV | CLARK COUNTY * | 32003C3100E | 27-SEP-2002
09 | NV | CLARK COUNTY * | 32003C3125E | 27-SEP-2002
09 | NV | CLARK COUNTY * | 32003C3150E | 27-SEP-2002
09 | NV | CLARK COUNTY * | 32003C3175E | 27-SEP-2002
09 | NV | CLARK COUNTY * | 32003C3200E | 27-SEP-2002
09 | NV | CLARK COUNTY * | 32003C3225E | 27-SEP-2002
09 | NV | CLARK COUNTY * | 32003C3250E | 27-SEP-2002
09 | NV | CLARK COUNTY * | 32003C3300E | 27-SEP-2002
09 | NV | CLARK COUNTY * | 32003C3325E | 27-SEP-2002
09 | NV | CLARK COUNTY * | 32003C3375E | 27-SEP-2002
09 | NV | CLARK COUNTY * | 32003C3400E | 27-SEP-2002
09 | NV | CLARK COUNTY * | 32003C3450E | 27-SEP-2002
09 | NV | CLARK COUNTY * | 32003C3475E | 27-SEP-2002
09 | NV | CLARK COUNTY * | 32003C3500E | 27-SEP-2002
09 | NV | CLARK COUNTY * | 32003C3575E | 27-SEP-2002
09 | NV | CLARK COUNTY * | 32003C3625E | 27-SEP-2002
09 | NV | CLARK COUNTY * | 32003C3725E | 27-SEP-2002
09 | NV | CLARK COUNTY * | 32003C3750E | 27-SEP-2002
09 | NV | CLARK COUNTY * | 32003C3775E | 27-SEP-2002
09 | NV | CLARK COUNTY * | 32003C3850E | 27-SEP-2002
09 | NV | CLARK COUNTY * | 32003C3875E | 27-SEP-2002
09 | NV | CLARK COUNTY * | 32003C3900E | 27-SEP-2002
09 | NV | CLARK COUNTY * | 32003C3925E | 27-SEP-2002
09 | NV | CLARK COUNTY * | 32003C3950E | 27-SEP-2002
09 | NV | CLARK COUNTY * | 32003C3985E | 27-SEP-2002
09 | NV | CLARK COUNTY * | 32003C3995E | 27-SEP-2002
09 | NV | CLARK COUNTY * | 32003C4005E | 27-SEP-2002
09 | NV | CLARK COUNTY * | 32003C4015E | 27-SEP-2002
09 | NV | CLARK COUNTY * | 32003C4060E | 27-SEP-2002
09 | NV | CLARK COUNTY * | 32003C4070E | 27-SEP-2002
09 | NV | CLARK COUNTY * | 32003C4080E | 27-SEP-2002
09 | NV | CLARK COUNTY * | 32003C4090E | 27-SEP-2002
09 | NV | CLARK COUNTY * | 32003CIND0A** | 27-SEP-2002
09 | NV | HENDERSON, CITY OF | 32003C2225E | 27-SEP-2002
09 | NV | HENDERSON, CITY OF | 32003C2580E | 27-SEP-2002
09 | NV | HENDERSON, CITY OF | 32003C2583E | 27-SEP-2002
09 | NV | HENDERSON, CITY OF | 32003C2585E | 27-SEP-2002
09 | NV | HENDERSON, CITY OF | 32003C2590E | 27-SEP-2002
09 | NV | HENDERSON, CITY OF | 32003C2595E | 27-SEP-2002
09 | NV | HENDERSON, CITY OF | 32003C2605E | 27-SEP-2002
09 | NV | HENDERSON, CITY OF | 32003C2610E | 27-SEP-2002
09 | NV | HENDERSON, CITY OF | 32003C2615E | 27-SEP-2002
09 | NV | HENDERSON, CITY OF | 32003C2620E | 27-SEP-2002
09 | NV | HENDERSON, CITY OF | 32003C2910E | 27-SEP-2002
09 | NV | HENDERSON, CITY OF | 32003C2930E | 27-SEP-2002
09 | NV | HENDERSON, CITY OF | 32003C2955E | 27-SEP-2002
09 | NV | HENDERSON, CITY OF | 32003C2975E | 27-SEP-2002
09 | NV | HENDERSON, CITY OF | 32003CIND0A** | 27-SEP-2002
09 | NV | LAS VEGAS, CITY OF | 32003C1734E | 27-SEP-2002
09 | NV | LAS VEGAS, CITY OF | 32003C1735E | 27-SEP-2002
09 | NV | LAS VEGAS, CITY OF | 32003C1745E | 27-SEP-2002
09 | NV | LAS VEGAS, CITY OF | 32003C1750E | 27-SEP-2002
09 | NV | LAS VEGAS, CITY OF | 32003C1753E | 27-SEP-2002
09 | NV | LAS VEGAS, CITY OF | 32003C1754E | 27-SEP-2002
09 | NV | LAS VEGAS, CITY OF | 32003C1765E | 27-SEP-2002
09 | NV | LAS VEGAS, CITY OF | 32003C2125E | 27-SEP-2002
09 | NV | LAS VEGAS, CITY OF | 32003C2135E | 27-SEP-2002
09 | NV | LAS VEGAS, CITY OF | 32003C2145E | 27-SEP-2002
09 | NV | LAS VEGAS, CITY OF | 32003C2150E | 27-SEP-2002
09 | NV | LAS VEGAS, CITY OF | 32003C2155E | 27-SEP-2002
09 | NV | LAS VEGAS, CITY OF | 32003C2160E | 27-SEP-2002
09 | NV | LAS VEGAS, CITY OF | 32003C2170E | 27-SEP-2002
09 | NV | LAS VEGAS, CITY OF | 32003C2178E | 27-SEP-2002
09 | NV | LAS VEGAS, CITY OF | 32003C2179E | 27-SEP-2002
09 | NV | LAS VEGAS, CITY OF | 32003C2186E | 27-SEP-2002
09 | NV | LAS VEGAS, CITY OF | 32003C2187E | 27-SEP-2002
09 | NV | LAS VEGAS, CITY OF | 32003C2190E | 27-SEP-2002
09 | NV | LAS VEGAS, CITY OF | 32003C2195E | 27-SEP-2002
09 | NV | LAS VEGAS, CITY OF | 32003C2200E | 27-SEP-2002
09 | NV | LAS VEGAS, CITY OF | 32003CIND0A** | 27-SEP-2002
09 | NV | MESQUITE, CITY OF | 32003C0367E | 27-SEP-2002
09 | NV | MESQUITE, CITY OF | 32003C0369E | 27-SEP-2002
09 | NV | MESQUITE, CITY OF | 32003C0375E | 27-SEP-2002
09 | NV | MESQUITE, CITY OF | 32003C0378E | 27-SEP-2002
09 | NV | MESQUITE, CITY OF | 32003C0379E | 27-SEP-2002
09 | NV | MESQUITE, CITY OF | 32003C0386E | 27-SEP-2002
09 | NV | MESQUITE, CITY OF | 32003C0387E | 27-SEP-2002
09 | NV | MESQUITE, CITY OF | 32003C0391E | 27-SEP-2002
09 | NV | MESQUITE, CITY OF | 32003CIND0A** | 27-SEP-2002
09 | NV | NORTH LAS VEGAS, CITY OF | 32003C1754E | 27-SEP-2002
09 | NV | NORTH LAS VEGAS, CITY OF | 32003C1758E | 27-SEP-2002
09 | NV | NORTH LAS VEGAS, CITY OF | 32003C1765E | 27-SEP-2002
09 | NV | NORTH LAS VEGAS, CITY OF | 32003C1766E | 27-SEP-2002
09 | NV | NORTH LAS VEGAS, CITY OF | 32003C1767E | 27-SEP-2002
09 | NV | NORTH LAS VEGAS, CITY OF | 32003C1768E | 27-SEP-2002
09 | NV | NORTH LAS VEGAS, CITY OF | 32003C1769E | 27-SEP-2002
09 | NV | NORTH LAS VEGAS, CITY OF | 32003C1786E | 27-SEP-2002
09 | NV | NORTH LAS VEGAS, CITY OF | 32003C1788E | 27-SEP-2002
09 | NV | NORTH LAS VEGAS, CITY OF | 32003C1790E | 27-SEP-2002
09 | NV | NORTH LAS VEGAS, CITY OF | 32003C1825E | 27-SEP-2002
09 | NV | NORTH LAS VEGAS, CITY OF | 32003C2155E | 27-SEP-2002
09 | NV | NORTH LAS VEGAS, CITY OF | 32003C2160E | 27-SEP-2002
09 | NV | NORTH LAS VEGAS, CITY OF | 32003C2170E | 27-SEP-2002
09 | NV | NORTH LAS VEGAS, CITY OF | 32003C2176E | 27-SEP-2002
09 | NV | NORTH LAS VEGAS, CITY OF | 32003C2178E | 27-SEP-2002
09 | NV | NORTH LAS VEGAS, CITY OF | 32003C2180E | 27-SEP-2002
09 | NV | NORTH LAS VEGAS, CITY OF | 32003C2186E | 27-SEP-2002
09 | NV | NORTH LAS VEGAS, CITY OF | 32003CIND0A** | 27-SEP-2002
10 | AK | ANCHORAGE, MUNICIPALITY OF | 0200050510C | 02-JUL-2002
10 | AK | ANCHORAGE, MUNICIPALITY OF | 0200052203C | 02-JUL-2002
10 | AK | ANCHORAGE, MUNICIPALITY OF | 020005IND0A** | 02-JUL-2002
10 | OR | TILLAMOOK COUNTY * | 4101960160C | 20-AUG-2002
10 | OR | TILLAMOOK COUNTY * | 4101960170C | 20-AUG-2002
10 | OR | TILLAMOOK COUNTY * | 410196IND0A** | 20-AUG-2002
10 | OR | TILLAMOOK, CITY OF | 4102020001D | 20-AUG-2002
10 | WA | CHELAN COUNTY * | 5300150779B | 02-JUL-2002
10 | WA | CHELAN COUNTY * | 5300150787B | 02-JUL-2002
10 | WA | CHELAN COUNTY * | 5300150800B | 02-JUL-2002
10 | WA | CHELAN COUNTY * | 530015IND0A** | 02-JUL-2002
10 | WA | LEAVENWORTH, CITY OF | 5300190779C | 02-JUL-2002
10 | WA | LEAVENWORTH, CITY OF | 5300190787C | 02-JUL-2002
10 | WA | LEAVENWORTH, CITY OF | 530019IND0A** | 02-JUL-2002
10 | WA | SKOKOMISH INDIAN TRIBE | 5303260005A | 02-JUL-2002

[FR Doc. 03-11103 Filed 5-5-03; 8:45 am]

BILLING CODE 6718-04-P